DEPARTMENT OF HOMELAND SECURITY

Federal Emergency Management Agency

Compendium of Flood Map Changes

AGENCY: Federal Emergency Management Agency (FEMA), Emergency Preparedness and Response Directorate, Department of Homeland Security.

ACTION: Notice

SUMMARY: This notice provides listings of changes made to National Flood Insurance Program (NFIP) maps effective during the last 6 months of 2003.

DATES: The listings include changes to NFIP maps that became effective January 1, 2004, through June 30, 2004.

FOR FURTHER INFORMATION CONTACT: Doug Bellomo, P.E., Hazard Identification Section, FEMA, 500 C Street SW., Washington, DC 20472, (202) 646-2903

SUPPLEMENTARY INFORMATION: In accordance with Section 1360(i) of the National Flood Insurance Reform Act of 1994, this notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: September 14, 2004.
David I. Maurstad,
Acting Director, Mitigation Division, Emergency Preparedness and Response Directorate.

Two listings are provided below. The first listing includes all Letters of Map Change issued by FEMA from January 1 through June 30, 2004. The following types of letters are included in the listing:

Type | Description
01 | Letter of Map Revision Based on Fill
02 | Letter of Map Amendment
05 | Letter of Map Revision With Base Flood Elevation Changes
06 | Letter of Map Revision Without Base Flood Elevation Changes
08 | Denial
12 | Floodway Revision
17 | Letter of Map Revision-Inadvertent Inclusion in Floodway
18 | Letter of Map Revision-Inadvertent Inclusion in V Zone
19 | Letter of Map Change Revalidation

The second listing includes map panels that FEMA physically revised and republished from January 1 through June 30, 2004. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk (*) is shown to the right of each county name that appears in the ''Community'' column. This asterisk indicates the area covered is the unincorporated areas of that county.

Region | State | Community | Map panel | Determination date | Case No. | Type
01 | CT | BERLIN, TOWN OF | 0900220015D | 26-JAN-2004 | 04-01-0508A | 02
01 | CT | BERLIN, TOWN OF | 0900220010D | 26-FEB-2004 | 04-01-0338A | 02
01 | CT | BERLIN, TOWN OF | 0900220010D | 26-FEB-2004 | 04-01-0352A | 02
01 | CT | BETHEL, TOWN OF | 0900010010B | 12-APR-2004 | 04-01-1016A | 02
01 | CT | BRANFORD, TOWN OF | 0900730003D | 17-FEB-2004 | 04-01-0408A | 02
01 | CT | BRANFORD, TOWN OF | 0900730005C | 17-FEB-2004 | 04-01-0408A | 02
01 | CT | BRIDGEPORT, CITY OF | 0900020003C | 22-JAN-2004 | 04-01-0454A | 02
01 | CT | CANTON, TOWN OF | 0901350001C | 29-APR-2004 | 04-01-0694A | 02
01 | CT | CHESHIRE, TOWN OF | 0900740005E | 12-FEB-2004 | 04-01-0106A | 02
01 | CT | CHESHIRE, TOWN OF | 0900740017E | 15-MAR-2004 | 04-01-0792A | 02
01 | CT | CHESHIRE, TOWN OF | 0900740012E | 20-MAY-2004 | 04-01-1054A | 02
01 | CT | EAST HADDAM, TOWN OF | 0900630015B | 22-JAN-2004 | 04-01-0492A | 02
01 | CT | EAST HAMPTON, TOWN OF | 0900640005B | 09-FEB-2004 | 04-01-0354A | 02
01 | CT | EAST HAVEN, TOWN OF | 0900760010E | 08-MAR-2004 | 04-01-0732A | 02
01 | CT | EAST HAVEN, TOWN OF | 0900760009E | 15-MAR-2004 | 04-01-0846A | 02
01 | CT | EAST HAVEN, TOWN OF | 0900760009E | 27-MAY-2004 | 04-01-1204X | 02
01 | CT | EAST LYME, TOWN OF | 0901670001D | 15-MAR-2004 | 04-01-0432A | 02
01 | CT | EAST LYME, TOWN OF | 0900960012C | 05-APR-2004 | 04-01-0932A | 02
01 | CT | EAST LYME, TOWN OF | 0900960012C | 26-APR-2004 | 04-01-1022A | 02
01 | CT | EAST LYME, TOWN OF | 0900960007C | 21-JUN-2004 | 04-01-1152A | 02
01 | CT | ENFIELD, TOWN OF | 0900280008C | 15-JAN-2004 | 04-01-0384A | 02
01 | CT | FAIRFIELD, TOWN OF | 0900070005C | 05-FEB-2004 | 03-01-1410A | 02
01 | CT | FAIRFIELD, TOWN OF | 0900070009C | 18-MAR-2004 | 04-01-0872A | 02
01 | CT | FAIRFIELD, TOWN OF | 0900070005C | 05-APR-2004 | 04-01-0928A | 02
01 | CT | GLASTONBURY, TOWN OF | 0901240010B | 17-MAY-2004 | 04-01-1032A | 02
01 | CT | GREENWICH, TOWN OF | 0900080024C | 11-MAR-2004 | 04-01-0778A | 02
01 | CT | GREENWICH, TOWN OF | 0900080024C | 26-APR-2004 | 04-01-021P | 05
01 | CT | GRISWOLD, TOWN OF | 0901730016A | 15-JAN-2004 | 04-01-0430A | 02
01 | CT | GROTON LONG POINT ASSOCIATION | 0901670001D | 15-MAR-2004 | 04-01-0696A | 02
01 | CT | GUILFORD, TOWN OF | 0900770015B | 26-FEB-2004 | 04-01-0494A | 02
01 | CT | MADISON, TOWN OF | 0900790010C | 02-JAN-2004 | 04-01-0382A | 02
01 | CT | MADISON, TOWN OF | 0900790011C | 29-MAR-2004 | 04-01-0880A | 02
01 | CT | MANCHESTER, TOWN OF | 0900310004D | 02-JAN-2004 | 04-01-0434A | 02
01 | CT | MANCHESTER, TOWN OF | 0900310004D | 23-APR-2004 | 04-01-0824A | 17
01 | CT | MERIDEN, CITY OF | 0900810003C | 08-JAN-2004 | 03-01-2006A | 02
01 | CT | MIDDLEBURY, TOWN OF | 0900800005B | 26-FEB-2004 | 04-01-0570A | 02
01 | CT | NEW HAVEN, CITY OF | 0900840006C | 23-APR-2004 | 04-01-1004A | 02
01 | CT | NEWTOWN, TOWN OF | 0900110011C | 12-FEB-2004 | 04-01-0682A | 02
01 | CT | NEWTOWN, TOWN OF | 0900110019C | 01-MAR-2004 | 04-01-0452A | 02
01 | CT | NEWTOWN, TOWN OF | 0900110005B | 04-MAR-2004 | 04-01-0684A | 02
01 | CT | NEWTOWN, TOWN OF | 0900110010C | 26-APR-2004 | 04-01-0956A | 02
01 | CT | NORTH BRANFORD, TOWN OF | 0900850003B | 18-MAR-2004 | 04-01-0764A | 02
01 | CT | NORTH STONINGTON, TOWN OF | 0901010018B | 11-MAR-2004 | 04-01-0560A | 02
01 | CT | NORWALK, CITY OF | 0900120005C | 05-APR-2004 | 04-01-0874A | 02
01 | CT | NORWALK, CITY OF | 0900120010D | 27-MAY-2004 | 04-01-0704A | 02
01 | CT | NORWICH, CITY OF | 0901020010F | 16-JAN-2004 | 03-01-077P | 05
01 | CT | SOMERS, TOWN OF | 0901120007B | 27-MAY-2004 | 04-01-027P | 05
01 | CT | STONINGTON, TOWN OF | 0901060016F | 17-FEB-2004 | 04-01-0586A | 02
01 | CT | STONINGTON, TOWN OF | 0901060012D | 18-MAR-2004 | 04-01-0794A | 02
01 | CT | STONINGTON, TOWN OF | 0901060017F | 07-JUN-2004 | 04-01-1168A | 02
01 | CT | STRATFORD, TOWN OF | 0900160003D | 12-FEB-2004 | 04-01-0276A | 02
01 | CT | VERNON, TOWN OF | 0901310005C | 17-JUN-2004 | 04-01-1028A | 17
01 | CT | WASHINGTON, TOWN OF | 0900570005C | 13-MAY-2004 | 04-01-1026A | 02
01 | CT | WATERFORD, TOWN OF | 0901070005D | 26-JAN-2004 | 04-01-0456A | 02
01 | CT | WEST HAVEN, CITY OF | 0900920002C | 04-MAR-2004 | 04-01-0688A | 02
01 | CT | WEST HAVEN, CITY OF | 0900920004B | 15-APR-2004 | 04-01-1024A | 02
01 | CT | WESTBROOK,TOWN OF | 0900700005E | 07-JUN-2004 | 04-01-1154A | 02
01 | CT | WESTPORT, TOWN OF | 0900190003C | 08-APR-2004 | 04-01-0878A | 02
01 | CT | WETHERSFIELD, TOWN OF | 0900400001B | 01-MAR-2004 | 04-01-0568A | 02
01 | CT | WETHERSFIELD, TOWN OF | 0900400001B | 23-APR-2004 | 04-01-0930A | 02
01 | CT | WOODBURY, TOWN OF | 0901330001A | 03-JUN-2004 | 04-01-1142A | 02
01 | MA | AGAWAM, TOWN OF | 2501330002A | 29-APR-2004 | 04-01-0738A | 02
01 | MA | AMESBURY, TOWN OF | 2500750004C | 05-FEB-2004 | 04-01-0574A | 02
01 | MA | AMHERST, TOWN OF | 2501560010B | 23-APR-2004 | 04-01-0998A | 02
01 | MA | ANDOVER, TOWN OF | 2500760003B | 02-JAN-2004 | 04-01-0424A | 02
01 | MA | ANDOVER, TOWN OF | 2500760007B | 02-JAN-2004 | 04-01-0424A | 02
01 | MA | ANDOVER, TOWN OF | 2500760011B | 16-MAR-2004 | 04-01-007P | 05
01 | MA | ARLINGTON, TOWN OF | 2501770002B | 12-JAN-2004 | 04-01-0246A | 02
01 | MA | ATTLEBORO, CITY OF | 2500490010C | 11-MAR-2004 | 04-01-0770A | 02
01 | MA | ATTLEBORO, CITY OF | 2500490010C | 15-MAR-2004 | 04-01-0796A | 02
01 | MA | ATTLEBORO, CITY OF | 2500490010C | 10-JUN-2004 | 04-01-0894A | 02
01 | MA | AUBURN, TOWN OF | 2502920005C | 23-APR-2004 | 04-01-1058A | 02
01 | MA | BARNSTABLE, TOWN OF | 2500010006D | 08-APR-2004 | 04-01-0664A | 02
01 | MA | BILLERICA, TOWN OF | 2501830010C | 29-JAN-2004 | 04-01-0550A | 02
01 | MA | BOURNE, TOWN OF | 2552100011F | 01-MAR-2004 | 04-01-0562A | 02
01 | MA | BOURNE, TOWN OF | 2552100005E | 13-MAY-2004 | 04-01-0814A | 02
01 | MA | BOURNE, TOWN OF | 2552100005E | 10-JUN-2004 | 04-01-1290X | 02
01 | MA | BROCKTON, CITY OF | 2502610005C | 26-JAN-2004 | 04-01-0530A | 02
01 | MA | BROCKTON, CITY OF | 2502610005C | 25-MAR-2004 | 04-01-0670A | 02
01 | MA | CARLISLE, TOWN OF | 2501870003C | 01-APR-2004 | 04-01-0952A | 02
01 | MA | CARLISLE, TOWN OF | 2501870005C | 29-APR-2004 | 04-01-1100A | 02
01 | MA | CHATHAM, TOWN OF | 2500040006E | 19-JAN-2004 | 03-01-1980A | 02
01 | MA | CHELMSFORD, TOWN OF | 2501880002 | 17-JAN-2004 | 04-01-0604V | 19
01 | MA | CHELMSFORD, TOWN OF | 2501880005 | 17-JAN-2004 | 04-01-0604V | 19
01 | MA | CHELMSFORD, TOWN OF | 2501880008 | 17-JAN-2004 | 04-01-0604V | 19
01 | MA | CHELMSFORD, TOWN OF | 2501880009 | 17-JAN-2004 | 04-01-0604V | 19
01 | MA | CHELMSFORD, TOWN OF | 2501880010 | 17-JAN-2004 | 04-01-0604V | 19
01 | MA | CHELMSFORD, TOWN OF | 2501880006C | 11-MAR-2004 | 04-01-0876A | 02
01 | MA | CHELMSFORD, TOWN OF | 2501880006C | 15-MAR-2004 | 04-01-0834A | 02
01 | MA | CONCORD, TOWN OF | 2501890010B | 05-APR-2004 | 04-01-0954A | 02
01 | MA | DANVERS, TOWN OF | 2500790001B | 14-JUN-2004 | 04-01-1096A | 02
01 | MA | DARTMOUTH, TOWN OF | 2500510015B | 13-MAY-2004 | 04-01-1158A | 02
01 | MA | DRACUT, TOWN OF | 2501900003C | 08-JAN-2004 | 04-01-0364A | 02
01 | MA | DRACUT, TOWN OF | 2501900008C | 15-APR-2004 | 04-01-0836A | 02
01 | MA | DUXBURY, TOWN OF | 2502630011C | 11-MAR-2004 | 04-01-0668A | 02
01 | MA | EAST BRIDGEWATER, TOWN OF | 2502640010B | 15-MAR-2004 | 04-01-0648A | 01
01 | MA | EASTHAM, TOWN OF | 2500060002D | 23-FEB-2004 | 04-01-0526A | 02
01 | MA | FALMOUTH, TOWN OF | 2552110011F | 02-JAN-2004 | 04-01-0420A | 02
01 | MA | FALMOUTH, TOWN OF | 2552110007G | 16-APR-2004 | 04-01-003P | 05
01 | MA | FOXBOROUGH, TOWN OF | 2502390005B | 05-FEB-2004 | 04-01-0438A | 02
01 | MA | FRAMINGHAM, TOWN OF | 2501930006B | 02-JAN-2004 | 04-01-0412A | 02
01 | MA | GLOUCESTER, CITY OF | 2500820006E | 15-MAR-2004 | 04-01-0818A | 02
01 | MA | GRAFTON, TOWN OF | 2503060005D | 12-APR-2004 | 04-01-0902A | 02
01 | MA | HADLEY, TOWN OF | 2501630002B | 18-MAR-2004 | 04-01-0788A | 02
01 | MA | HINGHAM, TOWN OF | 2502680003B | 18-MAR-2004 | 04-01-0746A | 02
01 | MA | HOLBROOK, TOWN OF | 2552120001D | 02-JAN-2004 | 04-01-0376A | 02
01 | MA | HOLBROOK, TOWN OF | 2552120003D | 02-JAN-2004 | 04-01-0376A | 02
01 | MA | HOLBROOK, TOWN OF | 2552120004D | 19-FEB-2004 | 04-01-0540A | 02
01 | MA | HOLBROOK, TOWN OF | 2552120001D | 01-MAR-2004 | 04-01-0740A | 02
01 | MA | LAWRENCE, CITY OF | 2500870002B | 26-FEB-2004 | 04-01-0734A | 02
01 | MA | LEXINGTON, TOWN OF | 2501980005C | 15-JAN-2004 | 04-01-0380A | 02
01 | MA | MANSFIELD, TOWN OF | 250057_02A | 24-MAY-2004 | 04-01-1170A | 02
01 | MA | MARION, TOWN OF | 2552130004D | 22-MAR-2004 | 04-01-0012A | 02
01 | MA | MASHPEE, TOWN OF | 2500090008F | 11-MAR-2004 | 04-01-0766A | 02
01 | MA | METHUEN, CITY OF | 2500930005C | 08-MAR-2004 | 04-01-0532A | 02
01 | MA | METHUEN, CITY OF | 2500930010C | 06-MAY-2004 | 04-01-1082A | 02
01 | MA | METHUEN, CITY OF | 2500930010C | 10-MAY-2004 | 04-01-1080A | 02
01 | MA | MILFORD, TOWN OF | 2503170006B | 23-APR-2004 | 04-01-1062A | 02
01 | MA | MILFORD, TOWN OF | 2503170007B | 23-APR-2004 | 04-01-1062A | 02
01 | MA | MILLBURY, TOWN OF | 2503180004C | 12-JAN-2004 | 04-01-0422A | 02
01 | MA | MILLBURY, TOWN OF | 2503180006C | 25-MAR-2004 | 04-01-0892A | 02
01 | MA | MILLBURY, TOWN OF | 2503180004C | 26-APR-2004 | 04-01-1052A | 02
01 | MA | MILTON, TOWN OF | 2502450001B | 12-APR-2004 | 04-01-0906A | 02
01 | MA | MILTON, TOWN OF | 2502450001B | 29-APR-2004 | 04-01-0722A | 02
01 | MA | NEW BEDFORD, CITY OF | 2552160007B | 17-JUN-2004 | 04-01-1114A | 02
01 | MA | NEWBURY, TOWN OF | 2500960005C | 29-JAN-2004 | 04-01-0564A | 02
01 | MA | NEWBURY, TOWN OF | 2500960009C | 01-JUN-2004 | 04-01-0830A | 18
01 | MA | NEWBURYPORT, CITY OF | 2500970003C | 08-JAN-2004 | 04-01-0436A | 02
01 | MA | NORTH ANDOVER, TOWN OF | 2500980009C | 18-MAR-2004 | 04-01-0666A | 02
01 | MA | NORTH ANDOVER, TOWN OF | 2500980009C | 22-MAR-2004 | 04-01-0378A | 01
01 | MA | NORTH ANDOVER, TOWN OF | 2500980009C | 10-JUN-2004 | 04-01-0250A | 02
01 | MA | NORTH READING, TOWN OF | 2502090002B | 23-APR-2004 | 04-01-0924A | 01
01 | MA | NORTH READING, TOWN OF | 2502090003 | 17-JUN-2004 | 04-01-1306V | 19
01 | MA | NORTH READING, TOWN OF | 2502090006 | 17-JUN-2004 | 04-01-1306V | 19
01 | MA | NORTH READING, TOWN OF | 2502090007 | 17-JUN-2004 | 04-01-1306V | 19
01 | MA | NORTH READING, TOWN OF | 2502090009 | 17-JUN-2004 | 04-01-1306V | 19
01 | MA | NORTON, TOWN OF | 2500600006C | 15-MAR-2004 | 04-01-0748A | 02
01 | MA | ORLEANS, TOWN OF | 2500100003E | 08-APR-2004 | 04-01-0968A | 02
01 | MA | PEABODY, CITY OF | 2500990010B | 19-JAN-2004 | 04-01-0464A | 02
01 | MA | PEMBROKE, TOWN OF | 2502770010C | 05-FEB-2004 | 04-01-0548A | 02
01 | MA | PITTSFIELD, CITY OF | 2500370020C | 17-FEB-2004 | 04-01-0512A | 02
01 | MA | PITTSFIELD, CITY OF | 2500370020C | 15-MAR-2004 | 04-01-0768A | 02
01 | MA | PLYMOUTH, TOWN OF | 2502780012C | 25-MAR-2004 | 04-01-0164A | 02
01 | MA | QUINCY, CITY OF | 2552190008B | 12-FEB-2004 | 04-01-0618A | 02
01 | MA | QUINCY, CITY OF | 2552190012C | 04-MAR-2004 | 04-01-0630X | 02
01 | MA | QUINCY, CITY OF | 2552190008B | 08-APR-2004 | 04-01-0496A | 02
01 | MA | QUINCY, CITY OF | 2552190004C | 06-MAY-2004 | 04-01-1020A | 02
01 | MA | QUINCY, CITY OF | 2552190008B | 06-MAY-2004 | 04-01-0940A | 02
01 | MA | QUINCY, CITY OF | 2552190012C | 24-MAY-2004 | 04-01-1174A | 02
01 | MA | RANDOLPH, TOWN OF | 2502510004D | 05-FEB-2004 | 04-01-0026A | 02
01 | MA | REVERE, CITY OF | 2502880004C | 08-JAN-2004 | 04-01-0448A | 02
01 | MA | RUTLAND, TOWN OF | 2503310025B | 11-MAR-2004 | 04-01-0812A | 02
01 | MA | SALISBURY, TOWN OF | 2501030004C | 28-JUN-2004 | 04-01-1136A | 01
01 | MA | SCITUATE, TOWN OF | 2502820006E | 02-JAN-2004 | 03-01-2022A | 02
01 | MA | SCITUATE, TOWN OF | 2502820001E | 22-JAN-2004 | 04-01-0466A | 02
01 | MA | SCITUATE, TOWN OF | 2502820001E | 19-APR-2004 | 04-01-1042A | 02
01 | MA | SHREWSBURY, TOWN OF | 2503320003B | 15-MAR-2004 | 04-01-0832A | 02
01 | MA | SHREWSBURY, TOWN OF | 2503320001B | 01-APR-2004 | 04-01-0025A | 02
01 | MA | SHREWSBURY, TOWN OF | 2503320002B | 01-APR-2004 | 04-01-0025A | 02
01 | MA | SWANSEA, TOWN OF | 2552210007C | 18-MAR-2004 | 04-01-0828A | 02
01 | MA | TEMPLETON, TOWN OF | 2503390020B | 20-JAN-2004 | 04-01-0406A | 02
01 | MA | TYNGSBOROUGH, TOWN OF | 2502200004B | 29-JAN-2004 | 04-01-0552A | 02
01 | MA | UXBRIDGE, TOWN OF | 2503410005B | 24-JUN-2004 | 04-01-0984A | 01
01 | MA | WAREHAM, TOWN OF | 2552230007D | 07-JUN-2004 | 04-01-1134A | 01
01 | MA | WESTFIELD, CITY OF | 2501530020B | 15-MAR-2004 | 03-01-1760A | 02
01 | MA | WESTFIELD, CITY OF | 2501530020B | 29-MAR-2004 | 04-01-0948A | 02
01 | MA | WESTPORT, TOWN OF | 2552240010B | 18-MAR-2004 | 04-01-0808A | 02
01 | MA | WILMINGTON, TOWN OF | 2502270001D | 16-MAR-2004 | 04-01-009P | 05
01 | MA | WILMINGTON, TOWN OF | 2502270002C | 16-MAR-2004 | 04-01-009P | 05
01 | MA | WORCESTER, CITY OF | 2503490013B | 01-MAR-2004 | 04-01-0616A | 02
01 | MA | YARMOUTH, TOWN OF | 2500150006D | 25-MAR-2004 | 04-01-0868A | 02
01 | ME | ACTON, TOWN OF | 2301900001B | 05-APR-2004 | 04-01-0922A | 02
01 | ME | ALEXANDER, TOWN OF | 230303_12B | 05-APR-2004 | 04-01-0918A | 02
01 | ME | ARUNDEL, TOWN OF | 2301920010C | 13-MAY-2004 | 04-01-0978A | 02
01 | ME | AUGUSTA, CITY OF | 2300670008C | 23-FEB-2004 | 04-01-0660A | 02
01 | ME | BAR HARBOR, TOWN OF | 2300640015B | 02-FEB-2004 | 04-01-0502A | 02
01 | ME | BAR HARBOR, TOWN OF | 2300640005B | 01-MAR-2004 | 04-01-0288A | 02
01 | ME | BAR HARBOR, TOWN OF | 2300640015B | 28-JUN-2004 | 04-01-1116A | 18
01 | ME | BEALS, TOWN OF | 2301330002C | 26-FEB-2004 | 04-01-0538A | 02
01 | ME | BELGRADE, TOWN OF | 2302320005B | 04-MAR-2004 | 04-01-0726A | 02
01 | ME | BELGRADE, TOWN OF | 2302320005B | 04-MAR-2004 | 04-01-0728A | 02
01 | ME | BELGRADE, TOWN OF | 2302320010B | 24-JUN-2004 | 04-01-1226A | 02
01 | ME | BETHEL, TOWN OF | 2300880005C | 05-JAN-2004 | 04-01-0398A | 02
01 | ME | BIDDEFORD, CITY OF | 2301450006B | 12-APR-2004 | 04-01-0760A | 02
01 | ME | BLUE HILL, TOWN OF | 2302740025A | 29-JAN-2004 | 04-01-0228A | 02
01 | ME | BLUE HILL, TOWN OF | 2302740015A | 03-JUN-2004 | 04-01-1144A | 02
01 | ME | BLUE HILL, TOWN OF | 2302740020A | 28-JUN-2004 | 04-01-0962A | 18
01 | ME | BOOTHBAY HARBOR, TOWN OF | 2302130003B | 22-JAN-2004 | 04-01-0478A | 02
01 | ME | BOOTHBAY HARBOR, TOWN OF | 2302130003B | 09-FEB-2004 | 04-01-0076A | 18
01 | ME | BOOTHBAY HARBOR, TOWN OF | 2302130002B | 26-APR-2004 | 04-01-0854A | 02
01 | ME | BOOTHBAY, TOWN OF | 2302120011B | 24-JUN-2004 | 04-01-1086A | 18
01 | ME | BROOKS, TOWN OF | 230253_01A | 10-JUN-2004 | 04-01-1236A | 02
01 | ME | BROOKSVILLE, TOWN OF | 2302760015B | 23-FEB-2004 | 04-01-0524A | 02
01 | ME | BROOKSVILLE, TOWN OF | 2302760015B | 11-MAR-2004 | 04-01-0414A | 18
01 | ME | BROOKSVILLE, TOWN OF | 2302760015B | 14-JUN-2004 | 04-01-0964A | 02
01 | ME | BURNHAM, TOWN OF | 2301300010B | 07-JUN-2004 | 04-01-1192A | 02
01 | ME | BUXTON, TOWN OF | 2304560010B | 04-MAR-2004 | 04-01-0714A | 02
01 | ME | CARRABASSETT VALLEY, TOWN OF | 2300560015C | 08-JAN-2004 | 04-01-0372A | 02
01 | ME | CARRABASSETT VALLEY, TOWN OF | 2300560015C | 20-MAY-2004 | 04-01-0690A | 02
01 | ME | CASTINE, TOWN OF | 2302770010B | 05-APR-2004 | 04-01-0920A | 02
01 | ME | CHINA, TOWN OF | 2302350005B | 02-JAN-2004 | 04-01-0360A | 02
01 | ME | DEDHAM, TOWN OF | 230279_04A | 23-FEB-2004 | 04-01-0654A | 02
01 | ME | DURHAM, TOWN OF | 2300020005B | 17-FEB-2004 | 04-01-0458A | 02
01 | ME | EAST MACHIAS, TOWN OF | 230313_11A | 14-JUN-2004 | 04-01-0944A | 02
01 | ME | EAST MACHIAS, TOWN OF | 230313_12A | 14-JUN-2004 | 04-01-0944A | 02
01 | ME | ELIOT, TOWN OF | 2301490010B | 07-JUN-2004 | 04-01-1188A | 02
01 | ME | ELIOT, TOWN OF | 2301490010B | 24-JUN-2004 | 04-01-0980A | 01
01 | ME | ELLSWORTH, CITY OF | 2300660010B | 08-APR-2004 | 04-01-0800A | 02
01 | ME | ELLSWORTH, CITY OF | 2300660010B | 15-APR-2004 | 04-01-0088A | 02
01 | ME | ENFIELD, TOWN OF | 2303840010A | 08-MAR-2004 | 04-01-0756A | 02
01 | ME | ENFIELD, TOWN OF | 2303840005A | 05-APR-2004 | 04-01-0916A | 02
01 | ME | FRANKLIN, TOWN OF | 2302820015B | 26-FEB-2004 | 04-01-0662A | 02
01 | ME | FRIENDSHIP, TOWN OF | 2302250010A | 12-APR-2004 | 04-01-0282A | 18
01 | ME | GLENBURN, TOWN OF | 2301060005C | 06-MAY-2004 | 04-01-0942A | 01
01 | ME | GOULDSBORO, TOWN OF | 2302830005B | 19-FEB-2004 | 04-01-0590A | 02
01 | ME | GOULDSBORO, TOWN OF | 2302830010B | 26-FEB-2004 | 04-01-0592A | 02
01 | ME | GOULDSBORO, TOWN OF | 2302830010B | 26-FEB-2004 | 04-01-0656A | 02
01 | ME | GOULDSBORO, TOWN OF | 2302830010B | 28-JUN-2004 | 04-01-1088A | 18
01 | ME | GRAY, TOWN OF | 2300480015A | 11-MAR-2004 | 04-01-0822A | 02
01 | ME | GRAY, TOWN OF | 2300480010A | 12-APR-2004 | 04-01-0820A | 02
01 | ME | GRAY, TOWN OF | 2300480010A | 19-APR-2004 | 04-01-1046A | 02
01 | ME | HANCOCK, TOWN OF | 2302840015A | 08-JAN-2004 | 04-01-0286A | 02
01 | ME | HARMONY, TOWN OF | 230360_12B | 22-JAN-2004 | 04-01-0480A | 02
01 | ME | HARPSWELL, TOWN OF | 2301690009B | 02-JAN-2004 | 04-01-0326A | 02
01 | ME | HARPSWELL, TOWN OF | 2301690013C | 26-JAN-2004 | 04-01-0504A | 02
01 | ME | HARPSWELL, TOWN OF | 2301690014D | 01-MAR-2004 | 04-01-0638A | 02
01 | ME | HARPSWELL, TOWN OF | 2301690011B | 04-MAR-2004 | 04-01-0716A | 02
01 | ME | HARPSWELL, TOWN OF | 2301690011B | 08-MAR-2004 | 04-01-0658A | 18
01 | ME | HARPSWELL, TOWN OF | 2301690011B | 11-MAR-2004 | 04-01-0798A | 18
01 | ME | INDUSTRY, TOWN OF | 230348_04A | 01-MAR-2004 | 04-01-0546A | 02
01 | ME | ISLESBORO, TOWN OF | 2302560010C | 08-MAR-2004 | 04-01-0392A | 02
01 | ME | KITTERY, TOWN OF | 2301710002C | 01-APR-2004 | 04-01-0718A | 02
01 | ME | KITTERY, TOWN OF | 2301710005D | 23-APR-2004 | 04-01-0904A | 02
01 | ME | LEVANT, TOWN OF | 230912_10B | 27-MAY-2004 | 04-01-1118A | 02
01 | ME | LEWISTON, CITY OF | 2300040010B | 26-FEB-2004 | 04-01-0446A | 02
01 | ME | LIMINGTON, TOWN OF | 2301520015C | 12-FEB-2004 | 04-01-0588A | 02
01 | ME | LISBON, TOWN OF | 2300050015B | 17-FEB-2004 | 04-01-0628A | 02
01 | ME | LONG ISLAND, TOWN OF | 2300510004B | 18-MAR-2004 | 04-01-0776A | 02
01 | ME | MEXICO, TOWN OF | 2300950004B | 08-JAN-2004 | 04-01-0350A | 02
01 | ME | MOUNT DESERT, TOWN OF | 2302870015A | 24-JUN-2004 | 04-01-0946A | 02
01 | ME | NAPLES, TOWN OF | 2300500015B | 05-JAN-2004 | 04-01-0046A | 02
01 | ME | NAPLES, TOWN OF | 2300500016B | 12-APR-2004 | 04-01-0862A | 02
01 | ME | NAPLES, TOWN OF | 2300500015B | 15-APR-2004 | 04-01-0442A | 02
01 | ME | NAPLES, TOWN OF | 2300500016B | 23-APR-2004 | 04-01-1048A | 02
01 | ME | NEW PORTLAND, TOWN OF | 230365_04B | 23-APR-2004 | 04-01-0850A | 02
01 | ME | NEW VINEYARD, TOWN OF | 230351_02A | 25-MAR-2004 | 04-01-0774A | 02
01 | ME | NEWRY, TOWN OF | 2303370040B | 15-APR-2004 | 04-01-0598A | 02
01 | ME | NORWAY, TOWN OF | 2300960005B | 04-MAR-2004 | 04-01-0720A | 02
01 | ME | OAKFIELD, TOWN OF | 230028_02B | 17-MAY-2004 | 04-01-1162A | 02
01 | ME | ORLAND, TOWN OF | 230288_04A | 03-JUN-2004 | 04-01-0966A | 02
01 | ME | ORONO, TOWN OF | 2301130010B | 19-APR-2004 | 04-01-1040A | 02
01 | ME | ORRINGTON, TOWN OF | 2301800055A | 12-APR-2004 | 04-01-0990A | 02
01 | ME | ORRINGTON, TOWN OF | 2301800055A | 12-APR-2004 | 04-01-0992A | 02
01 | ME | ORRINGTON, TOWN OF | 2301800055A | 12-APR-2004 | 04-01-1008A | 02
01 | ME | ORRINGTON, TOWN OF | 2301800055A | 06-MAY-2004 | 04-01-0848A | 02
01 | ME | OWL'S HEAD, TOWN OF | 2300750005B | 08-APR-2004 | 04-01-0896A | 02
01 | ME | OXFORD, TOWN OF | 2308690006A | 29-APR-2004 | 04-01-1036A | 02
01 | ME | OXFORD, TOWN OF | 2308690006A | 29-APR-2004 | 04-01-1038A | 02
01 | ME | PENOBSCOT, TOWN OF | 2302900005A | 26-FEB-2004 | 04-01-0348A | 18
01 | ME | PENOBSCOT, TOWN OF | 2302900005A | 18-MAR-2004 | 04-01-0870A | 18
01 | ME | PENOBSCOT, TOWN OF | 2302900005A | 01-APR-2004 | 04-01-0986X | 02
01 | ME | PHIPPSBURG, TOWN OF | 2301200003C | 11-MAR-2004 | 04-01-0192A | 02
01 | ME | PHIPPSBURG, TOWN OF | 2301200012D | 15-APR-2004 | 04-01-0982A | 02
01 | ME | PHIPPSBURG, TOWN OF | 2301200003C | 17-MAY-2004 | 04-01-0996A | 02
01 | ME | PITTSFIELD, TOWN OF | 2301270005C | 19-JAN-2004 | 04-01-0210A | 02
01 | ME | POLAND, TOWN OF | 2300090016D | 23-APR-2004 | 04-01-1056A | 02
01 | ME | PORTAGE LAKE, TOWN OF | 230031_08A | 12-FEB-2004 | 04-01-0416A | 02
01 | ME | PORTLAND, CITY OF | 2300510007C | 04-MAR-2004 | 04-01-0712A | 02
01 | ME | PORTLAND, CITY OF | 2300510015B | 08-APR-2004 | 04-01-0912A | 18
01 | ME | RANGELEY, TOWN OF | 2303520005B | 22-JAN-2004 | 04-01-0476A | 02
01 | ME | RICHMOND, TOWN OF | 2301210010C | 29-MAR-2004 | 04-01-0908A | 02
01 | ME | ROME, TOWN OF | 2302460010B | 01-MAR-2004 | 04-01-0394A | 02
01 | ME | ROXBURY, TOWN OF | 230181_03A | 12-FEB-2004 | 04-01-0304A | 02
01 | ME | RUMFORD, TOWN OF | 2300990012B | 08-JAN-2004 | 04-01-0400A | 02
01 | ME | RUMFORD, TOWN OF | 2300990015B | 23-APR-2004 | 04-01-1050A | 02
01 | ME | SABATTUS, TOWN OF | 2300110005B | 08-MAR-2004 | 04-01-0730A | 02
01 | ME | SCARBOROUGH, TOWN OF | 2300520021D | 02-JAN-2004 | 04-01-0396A | 02
01 | ME | SCARBOROUGH, TOWN OF | 2300520021D | 20-JAN-2004 | 03-01-1970A | 02
01 | ME | SCARBOROUGH, TOWN OF | 2300520022D | 20-JAN-2004 | 03-01-1970A | 02
01 | ME | SCARBOROUGH, TOWN OF | 2300520021D | 07-JUN-2004 | 04-01-1182A | 02
01 | ME | SCARBOROUGH, TOWN OF | 2300520024E | 28-JUN-2004 | 04-01-031P | 05
01 | ME | SEDGWICK, TOWN OF | 2302910010B | 18-MAR-2004 | 04-01-0860A | 02
01 | ME | SORRENTO, TOWN OF | 230292_01A | 09-FEB-2004 | 04-01-0374A | 02
01 | ME | ST. AGATHA, TOWN OF | 230435_08B | 10-JUN-2004 | 04-01-1214A | 02
01 | ME | ST. ALBANS, TOWN OF | 230369_02A | 08-JAN-2004 | 04-01-0284A | 02
01 | ME | ST. ALBANS, TOWN OF | 230369_02A | 12-FEB-2004 | 04-01-0610A | 02
01 | ME | ST. ALBANS, TOWN OF | 230369_04A | 12-FEB-2004 | 04-01-0608A | 02
01 | ME | ST. ALBANS, TOWN OF | 230369_04A | 08-MAR-2004 | 04-01-0758A | 02
01 | ME | ST. ALBANS, TOWN OF | 230369_02A | 15-MAR-2004 | 04-01-0806A | 02
01 | ME | ST. GEORGE, TOWN OF | 2302290015C | 11-MAR-2004 | 04-01-0772A | 02
01 | ME | STEUBEN, TOWN OF | 230323_06A | 12-FEB-2004 | 04-01-0612A | 02
01 | ME | STONINGTON, TOWN OF | 2302940005C | 20-MAY-2004 | 04-01-1090A | 02
01 | ME | SURRY, TOWN OF | 2302960010B | 02-FEB-2004 | 04-01-0566A | 02
01 | ME | SWANVILLE, TOWN OF | 230267_06A | 29-JAN-2004 | 04-01-0334A | 02
01 | ME | THOMASTON, TOWN OF | 230079_05B | 08-JAN-2004 | 04-01-0444A | 02
01 | ME | TOPSHAM, TOWN OF | 2301220010B | 22-JAN-2004 | 04-01-0482A | 02
01 | ME | TREMONT, TOWN OF | 2302980010B | 08-JAN-2004 | 04-01-0294A | 02
01 | ME | TREMONT, TOWN OF | 2302980015B | 26-FEB-2004 | 04-01-0544A | 02
01 | ME | TRENTON, TOWN OF | 2302990010A | 12-FEB-2004 | 04-01-0642A | 02
01 | ME | TURNER, TOWN OF | 2300100030C | 02-JAN-2004 | 04-01-0346A | 02
01 | ME | TURNER, TOWN OF | 2300100007C | 22-JAN-2004 | 04-01-0486A | 02
01 | ME | TURNER, TOWN OF | 2300100060C | 17-FEB-2004 | 04-01-0440A | 02
01 | ME | TURNER, TOWN OF | 2300100019C | 08-APR-2004 | 04-01-0790A | 02
01 | ME | VASSALBORO, TOWN OF | 230248_01A | 26-FEB-2004 | 04-01-0674A | 02
01 | ME | WATERBORO, TOWN OF | 2301990004C | 12-JAN-2004 | 04-01-0404A | 02
01 | ME | WATERBORO, TOWN OF | 2301990009C | 12-FEB-2004 | 04-01-0580A | 02
01 | ME | WATERBORO, TOWN OF | 2301990009C | 08-MAR-2004 | 04-01-0754A | 02
01 | ME | WATERBORO, TOWN OF | 2301990007C | 05-APR-2004 | 04-01-0914A | 02
01 | ME | WATERBORO, TOWN OF | 2301990003C | 21-JUN-2004 | 04-01-1246A | 02
01 | ME | WELLS, TOWN OF | 2301580021D | 01-JUN-2004 | 04-01-1084A | 02
01 | ME | WELLS, TOWN OF | 2301580010D | 21-JUN-2004 | 04-01-0976A | 02
01 | ME | WINTER HARBOR, TOWN OF | 2303020005A | 09-FEB-2004 | 04-01-0636A | 02
01 | ME | WINTHROP, TOWN OF | 2300720005B | 19-JAN-2004 | 04-01-0460A | 02
01 | ME | WINTHROP, TOWN OF | 2300720005B | 22-JAN-2004 | 03-01-2048A | 02
01 | ME | WINTHROP, TOWN OF | 2300720005B | 12-FEB-2004 | 04-01-0646X | 02
01 | ME | YORK, TOWN OF | 2301590026D | 15-JAN-2004 | 04-01-0472A | 02
01 | ME | YORK, TOWN OF | 2501590028D | 22-MAR-2004 | 04-01-0418A | 02
01 | ME | YORK, TOWN OF | 2301590013D | 12-APR-2004 | 04-01-0884A | 02
01 | ME | YORK, TOWN OF | 2301590026D | 12-APR-2004 | 04-01-0884A | 02
01 | NH | BEDFORD, TOWN OF | 3300830010C | 19-JAN-2004 | 04-01-0470A | 02
01 | NH | BEDFORD, TOWN OF | 3300830005C | 18-MAR-2004 | 04-01-0702A | 02
01 | NH | CAMPTON, TOWN OF | 330048_12B | 27-MAY-2004 | 04-01-1172A | 02
01 | NH | CLAREMONT, CITY OF | 3301540004B | 15-JAN-2004 | 04-01-0302A | 02
01 | NH | CLAREMONT, CITY OF | 3301540004B | 17-FEB-2004 | 04-01-0300A | 02
01 | NH | CLARKSVILLE, TOWN OF | 330184_02A | 23-FEB-2004 | 04-01-0644A | 02
01 | NH | CONWAY, TOWN OF | 3300110040C | 02-FEB-2004 | 04-01-0262A | 02
01 | NH | CONWAY, TOWN OF | 3300110040C | 26-FEB-2004 | 04-01-0672A | 02
01 | NH | CONWAY, TOWN OF | 3300110025C | 29-APR-2004 | 04-01-1064A | 17
01 | NH | CONWAY, TOWN OF | 3300110035C | 29-APR-2004 | 04-01-0700A | 02
01 | NH | EFFINGHAM, TOWN OF | 330012_05A | 27-MAY-2004 | 04-01-1074A | 02
01 | NH | GOFFSTOWN, TOWN OF | 3300870005B | 04-MAR-2004 | 04-01-0724A | 02
01 | NH | HAMPSTEAD, TOWN OF | 3302110005A | 08-APR-2004 | 04-01-0934A | 02
01 | NH | JACKSON, TOWN OF | 3300140025B | 08-MAR-2004 | 04-01-0742A | 02
01 | NH | KEENE, CITY OF | 3300230008D | 29-JAN-2004 | 04-01-0556A | 02
01 | NH | LACONIA, CITY OF | 3300050005B | 27-MAY-2004 | 04-01-1132A | 02
01 | NH | MANCHESTER, CITY OF | 3301690010B | 29-JAN-2004 | 04-01-0490A | 17
01 | NH | MANCHESTER, CITY OF | 3301690010B | 08-MAR-2004 | 04-01-0626A | 02
01 | NH | NASHUA, CITY OF | 3300970075C | 04-MAR-2004 | 04-01-0600A | 02
01 | NH | NASHUA, CITY OF | 3300970075C | 18-MAR-2004 | 04-01-0866A | 02
01 | NH | NASHUA, CITY OF | 3300970075C | 23-APR-2004 | 04-01-1072A | 02
01 | NH | NEW DURHAM, TOWN OF | 3302270010B | 26-JAN-2004 | 04-01-0514A | 02
01 | NH | NEW DURHAM, TOWN OF | 3302270010B | 10-JUN-2004 | 04-01-1126A | 02
01 | NH | NEWINGTON, TOWN OF | 330229_03A | 08-APR-2004 | 04-01-0780A | 02
01 | NH | NOTTINGHAM, TOWN OF | 3301370010C | 27-MAY-2004 | 04-01-0958A | 02
01 | NH | OSSIPEE, TOWN OF | 3300160019C | 05-APR-2004 | 04-01-0926A | 02
01 | NH | PEMBROKE, TOWN OF | 3301190010A | 05-FEB-2004 | 04-01-0584A | 02
01 | NH | RAYMOND, TOWN OF | 3301400005D | 10-JUN-2004 | 04-01-1124A | 02
01 | NH | SALEM, TOWN OF | 3301420005C | 26-JAN-2004 | 04-01-0520A | 02
01 | NH | SALEM, TOWN OF | 3301420010C | 18-MAR-2004 | 04-01-0838A | 02
01 | NH | SANDOWN, TOWN OF | 330191_01A | 29-APR-2004 | 04-01-0970A | 02
01 | NH | TUFTONBORO, TOWN OF | 3302340015B | 15-MAR-2004 | 04-01-0744A | 02
01 | NH | WEARE, TOWN OF | 3302350010B | 15-JAN-2004 | 04-01-0426A | 02
01 | NH | WEARE, TOWN OF | 3302350005B | 29-JAN-2004 | 04-01-0488A | 02
01 | NH | WENTWORTH, TOWN OF | 3300780010B | 15-MAR-2004 | 04-01-0858A | 02
01 | NH | WINCHESTER, TOWN OF | 3300280020B | 02-JAN-2004 | 03-01-1998A | 02
01 | NH | WOODSTOCK, TOWN OF | 3300790020C | 23-FEB-2004 | 04-01-0510A | 02
01 | RI | COVENTRY, TOWN OF | 4400040007B | 05-FEB-2004 | 04-01-0576A | 02
01 | RI | CRANSTON, CITY OF | 4453960006B | 12-FEB-2004 | 04-01-0602A | 02
01 | RI | CRANSTON, CITY OF | 4453960009B | 17-FEB-2004 | 04-01-0620A | 02
01 | RI | EAST GREENWICH, TOWN OF | 4453970003B | 29-MAR-2004 | 04-01-0900A | 02
01 | RI | NORTH KINGSTOWN, TOWN OF | 4454040012B | 15-MAR-2004 | 04-01-0622A | 02
01 | RI | NORTH SMITHFIELD, TOWN OF | 4400210005C | 01-MAR-2004 | 04-01-0614A | 02
01 | RI | PORTSMOUTH, TOWN OF | 4454050004D | 12-APR-2004 | 04-01-1006A | 02
01 | RI | SMITHFIELD, TOWN OF | 4400250002B | 26-FEB-2004 | 04-01-0308A | 02
01 | RI | SOUTH KINGSTOWN, TOWN OF | 4454070033G | 24-JAN-2004 | 04-01-0536A | 02
01 | RI | TIVERTON, TOWN OF | 4400120009D | 24-JUN-2004 | 04-01-1098A | 18
01 | RI | WARWICK, CITY OF | 4454090005E | 08-MAR-2004 | 04-01-0750A | 02
01 | RI | WARWICK, CITY OF | 4454090006E | 18-MAR-2004 | 04-01-0752A | 02
01 | RI | WARWICK, CITY OF | 4454090006E | 22-MAR-2004 | 04-01-0676A | 02
01 | RI | WARWICK, CITY OF | 4454090003E | 19-APR-2004 | 04-01-0390A | 01
01 | VT | BARNET, TOWN OF | 5000240033C | 23-FEB-2004 | 04-01-0652A | 02
01 | VT | BENNINGTON, TOWN OF | 5000130005C | 11-FEB-2004 | 04-01-005P | 05
01 | VT | BENNINGTON, TOWN OF | 5000130020C | 11-FEB-2004 | 04-01-005P | 05
01 | VT | BRANDON, TOWN OF | 5000900015C | 08-APR-2004 | 04-01-0974A | 02
01 | VT | BRIGHTON, TOWN OF | 5002050005C | 11-MAR-2004 | 04-01-0762A | 02
01 | VT | COLCHESTER, TOWN OF | 5000330006B | 22-MAR-2004 | 04-01-0784A | 02
01 | VT | EAST MONTPELIER, TOWN OF | 5001110015B | 29-MAR-2004 | 04-01-0910A | 02
01 | VT | FAYSTON, TOWN OF | 5003260011A | 12-APR-2004 | 04-01-1014A | 02
01 | VT | GLOVER, TOWN OF | 5002510010B | 22-JAN-2004 | 04-01-0518A | 02
01 | VT | GLOVER, TOWN OF | 5002510020B | 11-MAR-2004 | 04-01-0782A | 02
01 | VT | HARTFORD, TOWN OF | 5001480009B | 22-JAN-2004 | 04-01-0498A | 02
01 | VT | MONTPELIER, CITY OF | 5055180002A | 04-MAR-2004 | 04-01-0708A | 02
01 | VT | MONTPELIER, CITY OF | 5055180002A | 15-MAR-2004 | 04-01-0826A | 02
01 | VT | MONTPELIER, CITY OF | 5055180002A | 12-APR-2004 | 04-01-1010A | 02
01 | VT | MORETOWN, TOWN OF | 5001160003B | 15-MAR-2004 | 04-01-0864A | 02
01 | VT | MORETOWN, TOWN OF | 5001160003B | 18-MAR-2004 | 04-01-0844A | 02
01 | VT | MORGAN, TOWN OF | 500255_02A | 02-JAN-2004 | 04-01-0410A | 02
01 | VT | RUTLAND, CITY OF | 5001010001C | 07-MAY-2004 | 04-01-003A | 02
01 | VT | RUTLAND, CITY OF | 5001010001C | 14-MAY-2004 | 04-01-004A | 02
01 | VT | SHEFFIELD, TOWN OF | 500194_03A | 26-JAN-2004 | 04-01-0534A | 02
01 | VT | SHEFFIELD, TOWN OF | 510194_03A | 30-APR-2004 | 04-01-005A | 02
01 | VT | ST. ALBANS, TOWN OF | 5002190005A | 30-APR-2004 | 04-01-001A | 02
01 | VT | STOWE, TOWN OF | 5000660020D | 12-FEB-2004 | 04-01-0606A | 01
01 | VT | STOWE, TOWN OF | 5000660020D | 09-JUN-2004 | 04-01-010A | 01
01 | VT | WHEELOCK, TOWN OF | 500204_02A | 02-JAN-2004 | 04-01-0388A | 02
01 | VT | WOLCOTT, TOWN OF | 5000680014C | 05-FEB-2004 | 04-01-0624A | 02
02 | NJ | ALLENDALE, BOROUGH OF | 34003C0069G | 18-MAR-2004 | 04-02-0704A | 02
02 | NJ | BARNEGAT, TOWNSHIP OF | 3403960021C | 25-MAR-2004 | 04-02-0674A | 02
02 | NJ | BEDMINISTER, TOWNSHIP OF | 3404270002B | 23-APR-2004 | 04-02-0214A | 02
02 | NJ | BERKELEY HEIGHTS, TOWNSHIP OF | 3404590003E | 08-JAN-2004 | 04-02-0314A | 02
02 | NJ | BERKELEY, TOWNSHIP OF | 3403690020E | 12-JAN-2004 | 04-02-0316A | 02
02 | NJ | BERKELEY, TOWNSHIP OF | 3403690020E | 18-MAR-2004 | 04-02-0656A | 02
02 | NJ | BERNARDS, TOWNSHIP OF | 3404280005B | 29-JAN-2004 | 03-02-1714A | 17
02 | NJ | BERNARDS, TOWNSHIP OF | 3404280005B | 19-MAR-2004 | 06-02-0688A | 02
02 | NJ | BLOOMFIELD, TOWN OF | 3401780001B | 22-JAN-2004 | 04-02-0024A | 02
02 | NJ | BOUND BROOK, BOROUGH OF | 3404300001C | 05-FEB-2004 | 04-02-0476A | 02
02 | NJ | BRICK, TOWNSHIP OF | 3452850007E | 02-JAN-2004 | 04-02-0252A | 02
02 | NJ | BRIDGEWATER, TOWNSHIP OF | 3404320006C | 13-MAY-2004 | 04-02-0418A | 02
02 | NJ | BURLINGTON, CITY OF | 3452870001D | 27-MAY-2004 | 04-02-0444A | 02
02 | NJ | BURLINGTON, TOWNSHIP OF | 3400900003B | 12-JAN-2004 | 04-02-0356A | 02
02 | NJ | CAPE MAY CITY, CITY OF | 3452880001E | 15-MAR-2004 | 04-02-0544A | 02
02 | NJ | CARNEYS POINT, TOWNSHIP OF | 3204240005B | 08-JAN-2004 | 04-02-0262A | 02
02 | NJ | CHERRY HILL, TOWNSHIP OF | 3401290005C | 05-FEB-2004 | 04-02-0338A | 02
02 | NJ | CINNAMINSON, TOWNSHIP OF | 3400920005B | 22-JAN-2004 | 03-02-1972A | 02
02 | NJ | CLEMENTON, BOROUGH OF | 340130_01B | 29-APR-2004 | 04-02-0652A | 02
02 | NJ | CLIFTON, CITY OF | 3403980005B | 11-MAR-2004 | 03-02-1288A | 02
02 | NJ | CLINTON, TOWNSHIP OF | 3405050015A | 29-APR-2004 | 04-02-0614A | 02
02 | NJ | DENVILLE, TOWNSHIP OF | 3453920005B | 12-APR-2004 | 04-02-0770A | 02
02 | NJ | DOVER, TOWNSHIP OF | 3452930010D | 08-MAR-2004 | 04-02-0618A | 02
02 | NJ | DOVER, TOWNSHIP OF | 3452930004D | 17-MAY-2004 | 04-02-0738A | 02
02 | NJ | DUMONT, BOROUGHS OF | 34003C0203F | 01-JUN-2004 | 04-02-0710A | 02
02 | NJ | EAST HANOVER, TOWNSHIP OF | 3403410005D | 03-MAY-2004 | 04-02-0606A | 02
02 | NJ | EAST WINDSOR, TOWNSHIP OF | 3402440003B | 01-APR-2004 | 04-02-0514A | 02
02 | NJ | EDGEWATER, BOROUGH OF | 34003C0286F | 15-MAR-2004 | 04-02-0646A | 01
02 | NJ | FAIRFIELD, TOWNSHIP OF | 3452950003C | 22-JAN-2004 | 04-02-0066A | 02
02 | NJ | FAIRFIELD, TOWNSHIP OF | 3452950002C | 17-FEB-2004 | 04-02-0100A | 02
02 | NJ | FAR HILLS, BOROUGH OF | 3404330001A | 18-MAR-2004 | 03-02-1856A | 02
02 | NJ | FLORHAM PARK, BOROUGH OF | 3403420019E | 05-FEB-2004 | 04-02-0310A | 02
02 | NJ | FRANKLIN LAKES, BOROUGH OF | 34003C0066F | 12-FEB-2004 | 04-02-0556A | 02
02 | NJ | GIBBSBORO, BOROUGH OF | 3405450001A | 04-MAR-2004 | 04-02-0416A | 02
02 | NJ | GREENBROOK, TOWNSHIP OF | 3404350003B | 15-APR-2004 | 04-02-0768A | 02
02 | NJ | HADDONFIELD, BOROUGH OF | 3405010001C | 12-FEB-2004 | 04-02-0414A | 02
02 | NJ | HAMILTON, TOWNSHIP OF | 340009_04A | 05-FEB-2004 | 04-02-0486A | 02
02 | NJ | HAMILTON, TOWNSHIP OF | 3402460015C | 17-FEB-2004 | 04-02-0558A | 02
02 | NJ | HAMILTON, TOWNSHIP OF | 340009_05A | 13-MAY-2004 | 04-02-0728A | 02
02 | NJ | HAMILTON, TOWNSHIP OF | 3402460015C | 17-MAY-2004 | 04-02-0874A | 02
02 | NJ | HAMILTON, TOWNSHIP OF | 340009_06A | 27-MAY-2004 | 04-02-0174A | 02
02 | NJ | HAZLET, TOWNSHIP OF | 3402980002B | 22-JAN-2004 | 04-02-0442A | 02
02 | NJ | HILLSBOROUGH, TOWNSHIP OF | 3404360015B | 17-JUN-2004 | 04-02-0714A | 02
02 | NJ | HO-HO-KUS, BOROUGH OF | 34003C0176F | 20-MAY-2004 | 04-02-0828A | 02
02 | NJ | HO-HO-KUS, BOROUGH OF | 34003C0176F | 14-JUN-2004 | 04-02-0926A | 02
02 | NJ | HOBOKEN, CITY OF | 3402220001B | 22-JAN-2004 | 04-02-0402A | 02
02 | NJ | HOBOKEN, CITY OF | 3402220001B | 17-FEB-2004 | 04-02-0166A | 02
02 | NJ | JACKSON, TOWNSHIP OF | 3403750030A | 05-FEB-2004 | 03-02-1974A | 02
02 | NJ | JERSEY CITY, CITY OF | 3402230003B | 27-MAY-2004 | 04-02-0918A | 02
02 | NJ | LEBANON, TOWNSHIP OF | 3405100020A | 17-FEB-2004 | 04-02-0554A | 02
02 | NJ | LINCOLN PARK, BOROUGH OF | 3453000001B | 17-MAY-2004 | 04-02-0638A | 02
02 | NJ | LINWOOD, CITY OF | 3400110001B | 28-JUN-2004 | 04-02-0642A | 02
02 | NJ | LIVINGSTON, TOWNSHIP OF | 3401850001E | 03-MAY-2004 | 04-02-0794A | 02
02 | NJ | LIVINGSTON, TOWNSHIP OF | 3401850001E | 24-MAY-2004 | 04-02-0956A | 02
02 | NJ | LONG HILL, TOWNSHIP OF | 3403560005B | 25-MAR-2004 | 04-02-0722A | 02
02 | NJ | LOWER, TOWNSHIP OF | 3401530007B | 27-MAY-2004 | 04-02-0922A | 02
02 | NJ | MAHWAH, TOWNSHIP OF | 34003C0059F | 28-JUN-2004 | 04-02-0966A | 02
02 | NJ | MANALAPAN, TOWNSHIP OF | 3403080001A | 08-JAN-2004 | 04-02-0306A | 02
02 | NJ | MANASQUAN, BOROUGH OF | 3453030001C | 02-JAN-2004 | 03-02-1984A | 02
02 | NJ | MANASQUAN, BOROUGH OF | 3453030001C | 17-FEB-2004 | 04-02-0446A | 02
02 | NJ | MANASQUAN, BOROUGH OF | 3453030001C | 18-MAR-2004 | 04-02-0608A | 02
02 | NJ | MEDFORD, TOWNSHIP OF | 3401040010B | 08-JAN-2004 | 04-02-0250A | 02
02 | NJ | MEDFORD, TOWNSHIP OF | 3401040010B | 17-JUN-2004 | 04-02-0910A | 02
02 | NJ | MEDFORD, TOWNSHIP OF | 3401040010B | 28-JUN-2004 | 04-02-0968A | 02
02 | NJ | MONROE, TOWNSHIP OF | 3402690003C | 15-MAR-2004 | 04-02-0630A | 02
02 | NJ | MONROE, TOWNSHIP OF | 3402080016B | 25-MAR-2004 | 04-02-0724A | 02
02 | NJ | MOONACHIE, BOROUGH OF | 34003C0258F | 04-MAR-2004 | 04-02-0372A | 02
02 | NJ | NEW MILFORD, BOROUGH OF | 34003C0192F | 11-MAR-2004 | 04-02-0574A | 02
02 | NJ | NORTH BERGEN, TOWNSHIP OF | 3402250003C | 23-MAR-2004 | 03-02-059P | 05
02 | NJ | NORTH BERGEN, TOWNSHIP OF | 3402250003C | 29-APR-2004 | 04-02-0796A | 02
02 | NJ | NORTH BERGEN, TOWNSHIP OF | 3402250003C | 29-APR-2004 | 04-02-0936A | 01
02 | NJ | OCEAN, TOWNSHIP OF | 3403190005E | 18-MAR-2004 | 04-02-0478A | 02
02 | NJ | OCEAN, TOWNSHIP OF | 3405180007A | 24-JUN-2004 | 04-02-0744A | 02
02 | NJ | OLD TAPPAN, BOROUGH OF | 34003C0113F | 24-JUN-2004 | 04-02-1040A | 02
02 | NJ | PALMYRA, BOROUGH OF | 3401100001C | 02-JAN-2004 | 04-02-0006A | 02
02 | NJ | PALMYRA, BOROUGH OF | 3401100001C | 18-MAR-2004 | 04-02-0600A | 02
02 | NJ | PALMYRA, BOROUGH OF | 3401100001C | 01-APR-2004 | 04-02-0602A | 02
02 | NJ | PALMYRA, BOROUGH OF | 3401100001C | 01-APR-2004 | 04-02-0734A | 02
02 | NJ | PALMYRA, BOROUGH OF | 3401100001C | 27-MAY-2004 | 04-02-0594A | 02
02 | NJ | PENNSVILLE, TOWNSHIP OF | 3405120008B | 12-FEB-2004 | 04-02-0290A | 02
02 | NJ | PEQUANNOCK, TOWNSHIP OF | 3453110003C | 08-JAN-2004 | 04-02-0108A | 02
02 | NJ | PEQUANNOCK, TOWNSHIP OF | 3453110001C | 18-MAR-2004 | 04-02-0612A | 01
02 | NJ | PILESGROVE, TOWNSHIP OF | 3404200001B | 26-FEB-2004 | 04-02-0120A | 02
02 | NJ | PLAINFIELD, CITY OF | 3453120001D | 22-JAN-2004 | 04-02-0318A | 02
02 | NJ | POINT PLEASANT BEACH, BOROUGH OF | 3403880001D | 28-JUN-2004 | 04-02-1052A | 02
02 | NJ | RAHWAY, CITY OF | 3453140002D | 22-JAN-2004 | 04-02-0464A | 02
02 | NJ | RAMSEY, BOROUGH OF | 34003C0059F | 12-JAN-2004 | 03-02-1944A | 02
02 | NJ | RAMSEY, BOROUGH OF | 34003C0067F | 12-JAN-2004 | 04-02-0248A | 01
02 | NJ | RIDGEWOOD, VILLAGE OF | 34003C0176F | 21-JUN-2004 | 04-02-0932A | 02
02 | NJ | RIVERSIDE, TOWNSHIP OF | 3401130001B | 27-MAY-2004 | 04-02-0906A | 02
02 | NJ | ROCKAWAY, BOROUGH OF | 3453150001B | 18-MAR-2004 | 04-02-0670A | 02
02 | NJ | RUMSON, BOROUGH OF | 3453160001D | 11-MAR-2004 | 04-02-0530A | 01
02 | NJ | SECAUCUS, TOWN OF | 34003C0266F | 22-JAN-2004 | 04-02-0400A | 02
02 | NJ | SPRING LAKE, BOROUGH OF | 3403290001D | 12-FEB-2004 | 04-02-0410A | 02
02 | NJ | STAFFORD, TOWNSHIP OF | 3403930009C | 08-JAN-2004 | 04-02-0258A | 02
02 | NJ | SUMMIT, CITY OF | 3404760001B | 02-JAN-2004 | 04-02-0218A | 02
02 | NJ | SUMMIT, CITY OF | 3404790002B | 12-FEB-2004 | 03-02-1678A | 02
02 | NJ | TEWKSBURY, TOWNSHIP OF | 3405160003B | 15-MAR-2004 | 04-02-0560A | 02
02 | NJ | TEWKSBURY, TOWNSHIP OF | 3405160003B | 24-JUN-2004 | 04-02-1054X | 02
02 | NJ | UNION BEACH, BOROUGH OF | 3403310001D | 05-JAN-2004 | 04-02-0188A | 02
02 | NJ | UPPER, TOWNSHIP OF | 3401590014C | 08-MAR-2004 | 04-02-0454A | 02
02 | NJ | VERNON, TOWNSHIP OF | 3405610035A | 12-FEB-2004 | 04-02-0060A | 02
02 | NJ | VOORHEES, TOWNSHIP OF | 3405380005A | 08-MAR-2004 | 03-02-1828A | 02
02 | NJ | WALL, TOWNSHIP OF | 340333_03A | 27-MAY-2004 | 04-02-0570A | 02
02 | NJ | WEST DEPTFORD, TOWNSHIP OF | 3402140003B | 05-FEB-2004 | 04-02-0204A | 02
02 | NJ | WEST MILFORD, TOWNSHIP OF | 3404110009B | 01-APR-2004 | 04-02-0494A | 02
02 | NJ | WEST MILFORD, TOWNSHIP OF | 3404110012B | 17-JUN-2004 | 04-02-0886A | 02
02 | NJ | WEST WINDSOR, TOWNSHIP OF | 3402560004C | 18-MAR-2004 | 04-02-0654A | 02
02 | NJ | WESTWOOD, BOROUGH OF | 34003C0182F | 15-JAN-2004 | 04-02-0308A | 02
02 | NJ | WEYMOUTH, TOWNSHIP OF | 3405360036C | 13-MAY-2004 | 04-02-0948A | 02
02 | NJ | WILDWOOD CREST, BOROUGH OF | 3453300001C | 03-FEB-2004 | 04-02-003P | 05
02 | NJ | WINSLOW, TOWNSHIP OF | 3401480026B | 22-JAN-2004 | 04-02-0234A | 02
02 | NJ | WINSLOW, TOWNSHIP OF | 3401480026B | 25-MAR-2004 | 04-02-0718A | 02
02 | NJ | WINSLOW, TOWNSHIP OF | 3401480026B | 14-JUN-2004 | 04-02-1014A | 02
02 | NY | ALBANY, CITY OF | 3600010007C | 12-APR-2004 | 04-02-0810A | 02
02 | NY | ALEXANDRIA, TOWN OF | 360326_01C | 17-FEB-2004 | 04-02-0512A | 02
02 | NY | ALEXANDRIA, TOWN OF | 360326_01C | 04-MAR-2004 | 04-02-0450A | 02
02 | NY | ALLEGANY, TOWN OF | 3600610010B | 01-APR-2004 | 04-02-0632A | 17
02 | NY | AMHERST, TOWN OF | 3602260006E | 02-JAN-2004 | 04-02-0366A | 02
02 | NY | AMHERST, TOWN OF | 3602260006E | 02-JAN-2004 | 04-02-0368A | 02
02 | NY | AMHERST, TOWN OF | 3602260007E | 12-JAN-2004 | 03-02-1998A | 02
02 | NY | AMHERST, TOWN OF | 3602260006E | 15-JAN-2004 | 04-02-0380A | 02
02 | NY | AMHERST, TOWN OF | 3602260007E | 22-JAN-2004 | 04-02-0256A | 02
02 | NY | AMHERST, TOWN OF | 3602260007E | 22-JAN-2004 | 04-02-0490A | 02
02 | NY | AMHERST, TOWN OF | 3602260006E | 29-JAN-2004 | 04-02-0520A | 02
02 | NY | AMHERST, TOWN OF | 3602260007E | 29-JAN-2004 | 04-02-0430A | 02
02 | NY | AMHERST, TOWN OF | 3602260007E | 02-FEB-2004 | 04-02-0502A | 02
02 | NY | AMHERST, TOWN OF | 3602260007E | 09-FEB-2004 | 04-02-0582A | 02
02 | NY | AMHERST, TOWN OF | 3602260003E | 01-MAR-2004 | 04-02-0666A | 02
02 | NY | AMHERST, TOWN OF | 3602260006E | 01-MAR-2004 | 04-02-0666A | 02
02 | NY | AMHERST, TOWN OF | 3602260006E | 08-MAR-2004 | 04-02-0690A | 02
02 | NY | AMHERST, TOWN OF | 3602260007E | 08-MAR-2004 | 04-02-0686A | 02
02 | NY | AMHERST, TOWN OF | 3602260007E | 18-MAR-2004 | 04-02-0746A | 02
02 | NY | AMHERST, TOWN OF | 3602260007E | 18-MAR-2004 | 04-02-0776A | 02
02 | NY | AMHERST, TOWN OF | 3602260003E | 25-MAR-2004 | 04-02-0788A | 02
02 | NY | AMHERST, TOWN OF | 3602260007E | 01-APR-2004 | 04-02-0800A | 02
02 | NY | AMHERST, TOWN OF | 3602260007E | 08-APR-2004 | 04-02-0816A | 02
02 | NY | AMHERST, TOWN OF | 3602260007E | 12-APR-2004 | 04-02-0750A | 02
02 | NY | AMHERST, TOWN OF | 3602260004D | 03-MAY-2004 | 04-02-0864A | 02
02 | NY | AMHERST, TOWN OF | 3602260002E | 27-MAY-2004 | 04-02-0888A | 02
02 | NY | BATAVIA, CITY OF | 3602790001B | 08-APR-2004 | 04-02-0590A | 02
02 | NY | BELLMONT, TOWN OF | 361392_13A | 27-MAY-2004 | 04-02-0872A | 01
02 | NY | BRANT, TOWN OF | 360229_01B | 29-APR-2004 | 04-02-0826A | 02
02 | NY | BRIGHTON, TOWN OF | 3604100010B | 15-JAN-2004 | 03-02-2004A | 02
02 | NY | BROOKHAVEN, TOWN OF | 36103C0737G | 22-JAN-2004 | 04-02-0240A | 02
02 | NY | BROWNVILLE, TOWN OF | 361063_09C | 25-MAR-2004 | 04-02-0754A | 02
02 | NY | BUFFALO, CITY OF | 3602300010C | 12-JAN-2004 | 03-02-1992A | 02
02 | NY | BUFFALO, CITY OF | 3602300010C | 01-APR-2004 | 04-02-0798A | 02
02 | NY | BUSTI, TOWN OF | 3611060004C | 29-JAN-2004 | 04-02-0500A | 02
02 | NY | CAPE VINCENT, TOWN OF | 361062_02C | 08-JAN-2004 | 03-02-1810A | 02
02 | NY | CAPE VINCENT, TOWN OF | 361062_03C | 22-MAR-2004 | 04-02-0774A | 02
02 | NY | CATON, TOWN OF | 3615390001B | 26-FEB-2004 | 04-02-0482A | 02
02 | NY | CATSKILL, TOWN OF | 3611160015A | 23-APR-2004 | 04-02-0542A | 17
02 | NY | CHEEKTOWAGA, TOWN OF | 3602310010F | 03-MAY-2004 | 04-02-0506A | 02
02 | NY | CHESTER, TOWN OF | 3608700005B | 29-JAN-2004 | 04-02-0516A | 02
02 | NY | CHILI, TOWN OF | 3604120025A | 19-APR-2004 | 04-02-0894A | 01
02 | NY | CLARENCE, TOWN OF | 3602320005C | 19-APR-2004 | 04-02-0778A | 02
02 | NY | CLARENCE, TOWN OF | 3602320005C | 26-APR-2004 | 04-02-0884A | 02
02 | NY | CLARKSON, TOWN OF | 3604130010B | 15-APR-2004 | 04-02-0856A | 02
02 | NY | CLARKSTOWN, TOWN OF | 3606790004F | 29-JAN-2004 | 04-02-0350A | 02
02 | NY | CLERMONT, TOWNSHIP OF | 3613150014B | 17-JUN-2004 | 04-02-0976A | 02
02 | NY | CORNING, TOWN OF | 3607730015D | 14-JUN-2004 | 04-02-0786A | 02
02 | NY | CORTLAND, CITY OF | 3601780001C | 12-JAN-2004 | 04-02-0378A | 02
02 | NY | CORTLAND, CITY OF | 3601780001C | 18-MAR-2004 | 04-02-0640A | 02
02 | NY | CORTLANDT, TOWN OF | 3609060005B | 22-JAN-2004 | 04-02-0470A | 02
02 | NY | CORTLANDVILLE, TOWN OF | 3601790015B | 17-FEB-2004 | 04-02-0212A | 01
02 | NY | CROGHAN, TOWN OF | 360362_12A | 08-JAN-2004 | 04-02-0114A | 02
02 | NY | DAVENPORT, TOWN OF | 3601920015C | 19-APR-2004 | 04-02-0790A | 02
02 | NY | DICKINSON, TOWN OF | 360044_01B | 23-FEB-2004 | 04-02-0044A | 02
02 | NY | DRYDEN, VILLAGE OF | 3608470001B | 12-APR-2004 | 04-02-0860A | 02
02 | NY | EAST FISHKILL, TOWN OF | 3613360013B | 08-JAN-2004 | 03-02-1608A | 02
02 | NY | EAST ROCKAWAY, VILLAGE OF | 36059C0218F | 29-MAR-2004 | 04-02-0766A | 02
02 | NY | ELLICOTT, TOWN OF | 3610730017A | 08-APR-2004 | 04-02-0398A | 02
02 | NY | ESOPUS, TOWN OF | 3608550011B | 08-APR-2004 | 04-02-0534A | 02
02 | NY | FARMERSVILLE, TOWN OF | 360071_04B | 19-FEB-2004 | 03-02-1988A | 02
02 | NY | FAYETTE, TOWN OF | 3607520025B | 12-JAN-2004 | 04-02-0352A | 02
02 | NY | FISHKILL, TOWN OF | 3613370003A | 18-MAR-2004 | 04-02-0736A | 02
02 | NY | FOWLER, TOWN OF | 3606980015B | 05-FEB-2004 | 04-02-0518A | 02
02 | NY | FRANKFORT, TOWN OF | 3603030010D | 11-MAR-2004 | 04-02-0302A | 02
02 | NY | GATES, TOWN OF | 3604160003B | 22-MAR-2004 | 04-02-0784A | 02
02 | NY | GENESEO, TOWN OF | 3603840040C | 06-MAY-2004 | 04-02-0904A | 02
02 | NY | GLENVILLE, TOWN OF | 3607380041B | 27-MAY-2004 | 04-02-0928A | 02
02 | NY | GOSHEN, VILLAGE OF | 3615710004B | 19-FEB-2004 | 04-02-0596A | 02
02 | NY | GOWANDA, VILLAGE OF | 360075_01A | 18-MAR-2004 | 04-02-0098A | 02
02 | NY | GRANBY, TOWN OF | 3606500010B | 06-MAY-2004 | 04-02-0616A | 02
02 | NY | GREECE, TOWN OF | 3604170003F | 02-JAN-2004 | 04-02-0388A | 02
02 | NY | GREECE, TOWN OF | 3604170002D | 12-JAN-2004 | 03-02-1960A | 02
02 | NY | GREECE, TOWN OF | 3604170002D | 17-FEB-2004 | 04-02-0536A | 02
02 | NY | GREECE, TOWN OF | 3604170006E | 01-MAR-2004 | 04-02-0658A | 02
02 | NY | GREECE, TOWN OF | 3604170002D | 11-MAR-2004 | 04-02-0702A | 02
02 | NY | GREECE, TOWN OF | 3604170003F | 17-JUN-2004 | 04-02-0970A | 02
02 | NY | GREENPORT, VILLAGE OF | 36103C0176G | 09-FEB-2004 | 04-02-0392A | 02
02 | NY | GREENWICH, TOWN OF | 3612330005C | 27-MAY-2004 | 04-02-0916A | 02
02 | NY | GREENWICH, TOWN OF | 3612330010C | 17-JUN-2004 | 04-02-0912A | 02
02 | NY | GUILFORD, TOWN OF | 361088_08A | 29-MAR-2004 | 04-02-0712A | 02
02 | NY | HALFMOON, TOWN OF | 36091C0681E | 22-MAR-2004 | 04-02-0730A | 02
02 | NY | HAMBURG, TOWN OF | 3602440004D | 02-JAN-2004 | 04-02-0348A | 02
02 | NY | HAMBURG, TOWN OF | 3602440006D | 06-MAY-2004 | 04-02-0664A | 01
02 | NY | HEMPSTEAD, TOWN OF | 36059C0244F | 02-JAN-2004 | 03-02-2008A | 02
02 | NY | HEMPSTEAD, TOWN OF | 36059C0238F | 12-JAN-2004 | 04-02-0326A | 02
02 | NY | HEMPSTEAD, TOWN OF | 36059C0219F | 09-FEB-2004 | 04-02-0432A | 02
02 | NY | HEMPSTEAD, TOWN OF | 36059C0301F | 09-FEB-2004 | 04-02-0456A | 02
02 | NY | HEMPSTEAD, TOWN OF | 36059C0306F | 01-MAR-2004 | 04-02-0436A | 02
02 | NY | HEMPSTEAD, TOWN OF | 36059C0219F | 15-MAR-2004 | 04-02-0706A | 02
02 | NY | HEMPSTEAD, TOWN OF | 36059C0242F | 17-MAY-2004 | 04-02-0780A | 02
02 | NY | HEMPSTEAD, TOWN OF | 36059C0213F | 20-MAY-2004 | 04-02-0834A | 02
02 | NY | HENRIETTA, TOWN OF | 3604190005E | 01-MAR-2004 | 04-02-0576A | 02
02 | NY | HOMER, TOWN OF | 3601810025B | 05-FEB-2004 | 04-02-0480A | 02
02 | NY | HOMER, TOWN OF | 3601810010B | 08-MAR-2004 | 04-02-0404A | 02
02 | NY | HORSEHEADS, TOWN OF | 3601530005C | 01-MAR-2004 | 04-02-0354A | 17
02 | NY | HUNTINGTON, TOWN OF | 36103C0337G | 08-JAN-2004 | 04-02-0282A | 02
02 | NY | HYDE PARK, TOWN OF | 3613380010B | 08-JAN-2004 | 04-02-0304A | 02
02 | NY | HYDE PARK, TOWN OF | 3613380007B | 19-FEB-2004 | 04-02-0564A | 02
02 | NY | INDIAN LAKE, TOWN OF | 361113_09B | 01-MAR-2004 | 04-02-0488A | 02
02 | NY | ISLIP, TOWNSHIP OF | 36103C0902G | 17-JUN-2004 | 04-02-1226A | 02
02 | NY | JERUSALEM, TOWN OF | 360959_16C | 04-MAR-2004 | 04-02-0452A | 02
02 | NY | JERUSALEM, TOWN OF | 360959_10C | 01-APR-2004 | 04-02-0762A | 02
02 | NY | JERUSALEM, TOWN OF | 360959_15C | 20-MAY-2004 | 04-02-0880A | 02
02 | NY | KENDALL, TOWN OF | 3606430005B | 06-MAY-2004 | 04-02-0408A | 02
02 | NY | LINDENHURST, VILLAGE OF | 36103C0853G | 17-JUN-2004 | 04-02-0942A | 02
02 | NY | LOCKPORT, TOWN OF | 3610130022D | 08-JAN-2004 | 04-02-0422X | 02
02 | NY | LOCKPORT, TOWN OF | 3610130024D | 08-JAN-2004 | 04-02-0422X | 02
02 | NY | LOCKPORT, TOWN OF | 3610130018D | 03-MAY-2004 | 04-02-0732A | 02
02 | NY | MANLIUS, TOWN OF | 3605840010D | 27-MAY-2004 | 04-02-0792A | 01
02 | NY | MARILLA, TOWN OF | 3602500005B | 08-MAR-2004 | 04-02-0678A | 02
02 | NY | MARYLAND, TOWN OF | 361272_11B | 23-FEB-2004 | 03-02-1950A | 02
02 | NY | MINA, TOWN OF | 3613710025B | 26-FEB-2004 | 04-02-0628A | 02
02 | NY | MINA, TOWN OF | 3613710025B | 05-APR-2004 | 04-02-0806A | 02
02 | NY | MONROE, VILLAGE OF | 3606220001B | 19-APR-2004 | 04-02-0522A | 02
02 | NY | NEW YORK, CITY OF | 3604970125E | 02-JAN-2004 | 04-02-0194A | 02
02 | NY | NEW YORK, CITY OF | 3604970139E | 15-JAN-2004 | 04-02-0412A | 02
02 | NY | NEW YORK, CITY OF | 3604970111C | 20-JAN-2004 | 04-02-0440A | 02
02 | NY | NEW YORK, CITY OF | 3604970137E | 20-JAN-2004 | 04-02-0182A | 02
02 | NY | NEW YORK, CITY OF | 3604970013B | 22-JAN-2004 | 04-02-0280A | 02
02 | NY | NEW YORK, CITY OF | 3604970139E | 09-FEB-2004 | 04-02-0572A | 02
02 | NY | NEW YORK, CITY OF | 3604970138A | 12-FEB-2004 | 04-02-0584A | 02
02 | NY | NEW YORK, CITY OF | 3604970110C | 17-FEB-2004 | 04-02-0210A | 02
02 | NY | NEW YORK, CITY OF | 3604970144E | 23-FEB-2004 | 04-02-0448A | 02
02 | NY | NEW YORK, CITY OF | 3604970138E | 11-MAR-2004 | 04-02-0192A | 02
02 | NY | NEW YORK, CITY OF | 3604970144E | 05-APR-2004 | 03-02-1672A | 02
02 | NY | NEW YORK, CITY OF | 3604970139E | 19-APR-2004 | 04-02-0854A | 02
02 | NY | NEW YORK, CITY OF | 3604970146E | 19-APR-2004 | 04-02-0358A | 02
02 | NY | NEW YORK, CITY OF | 3604970139E | 27-MAY-2004 | 04-02-0924A | 02
02 | NY | NIAGARA FALLS, CITY OF | 3605060003C | 09-FEB-2004 | 04-02-0526A | 02
02 | NY | NORTH CASTLE, TOWN OF | 3609230015C | 15-JAN-2004 | 04-02-0102A | 02
02 | NY | NORWICH, CITY OF | 3601610001B | 20-JAN-2004 | 04-02-0292A | 02
02 | NY | ORLEANS, TOWN OF | 3603450002B | 01-MAR-2004 | 04-02-0648A | 02
02 | NY | OTISCO, TOWN OF | 360589_12A | 23-APR-2004 | 04-02-0462A | 02
02 | NY | OVID, TOWN OF | 3607540010B | 15-JAN-2004 | 04-02-0056A | 02
02 | NY | OYSTER BAY, TOWN OF | 36059C0145F | 15-JAN-2004 | 04-02-0406A | 02
02 | NY | OYSTER BAY, TOWN OF | 36059C0264F | 29-JAN-2004 | 04-02-0458A | 02
02 | NY | OYSTER BAY, TOWN OF | 36059C0263F | 23-FEB-2004 | 04-02-0566A | 02
02 | NY | OYSTER BAY, TOWN OF | 36059C0264F | 15-MAR-2004 | 04-02-0726A | 02
02 | NY | OYSTER BAY, TOWN OF | 36059C0261F | 06-MAY-2004 | 04-02-0920A | 02
02 | NY | PARMA, TOWN OF | 3604250005D | 15-JAN-2004 | 04-02-0222A | 02
02 | NY | PARMA, TOWN OF | 3604250005D | 05-FEB-2004 | 04-02-0472A | 02
02 | NY | PARMA, TOWN OF | 3604250005D | 20-MAY-2004 | 04-02-0858A | 02
02 | NY | PENFIELD, TOWN OF | 3604260005B | 29-APR-2004 | 04-02-0896A | 02
02 | NY | PORT WASHINGTON NORTH, VILLAGE OF | 36059C0104F | 09-FEB-2004 | 03-02-1920A | 02
02 | NY | PORT WASHINGTON NORTH, VILLAGE OF | 36059C0104F | 17-FEB-2004 | 03-02-1812A | 02
02 | NY | PULTENEY, TOWN OF | 3607800002B | 08-APR-2004 | 04-02-0822A | 02
02 | NY | PUTNAM VALLEY, TOWN OF | 3610300017C | 12-FEB-2004 | 04-02-0384A | 02
02 | NY | QUEENSBURY, TOWN OF | 3608790020C | 12-FEB-2004 | 04-02-0466A | 02
02 | NY | RAMAPO, TOWN OF | 3653400025C | 17-FEB-2004 | 04-02-0586A | 02
02 | NY | RHINEBECK, TOWN OF | 3611440018B | 18-MAR-2004 | 04-02-0682A | 02
02 | NY | RICHFIELD, TOWN OF | 361279_07A | 01-APR-2004 | 04-02-0626A | 02
02 | NY | ROCHESTER, TOWN OF | 3608610019C | 24-JUN-2004 | 04-02-0030A | 02
02 | NY | ROTTERDAM, TOWN OF | 3607400009B | 29-MAR-2004 | 03-02-1884A | 02
02 | NY | ROTTERDAM, TOWN OF | 3607400010B | 29-MAR-2004 | 03-02-1884A | 02
02 | NY | ROTTERDAM, TOWN OF | 3607400012B | 13-MAY-2004 | 04-02-0752A | 02
02 | NY | ROTTERDAM, TOWN OF | 3607400012B | 03-JUN-2004 | 04-02-0890A | 02
02 | NY | SCHODACK, TOWN OF | 3611690009A | 29-APR-2004 | 04-02-0808A | 02
02 | NY | SCHROON, TOWN OF | 3611580039C | 08-APR-2004 | 04-02-0836A | 02
02 | NY | SCRIBA, TOWN OF | 3606630002D | 10-JUN-2004 | 04-02-0898A | 02
02 | NY | SHELBY, TOWN OF | 361258_7B | 17-FEB-2004 | 03-02-1952A | 02
02 | NY | SHERBURNE, TOWN OF | 361307_01B | 20-MAY-2004 | 04-02-0604A | 02
02 | NY | SLOATSBURG, VILLAGE OF | 3606900001C | 01-JUN-2004 | 04-02-0396A | 17
02 | NY | SOUTHAMPTON, TOWN OF | 36103C0494G | 15-JAN-2004 | 04-02-0322A | 02
02 | NY | SOUTHAMPTON, TOWN OF | 36103C0508G | 11-MAR-2004 | 04-02-0550A | 02
02 | NY | SOUTHOLD, TOWN OF | 36103C0166G | 08-APR-2004 | 04-02-0662A | 02
02 | NY | SPRING VALLEY, VILLAGE OF | 3653440002C | 28-JUN-2004 | 04-02-1056A | 02
02 | NY | SPRINGPORT, TOWN OF | 3601290001C | 26-APR-2004 | 04-02-0818A | 02
02 | NY | STANFORD, TOWN OF | 3611450005C | 17-MAY-2004 | 04-02-0842A | 02
02 | NY | STONY POINT, TOWN OF | 3606930011C | 29-APR-2004 | 04-02-0852A | 02
02 | NY | STONY POINT, TOWN OF | 3606930011C | 06-MAY-2004 | 04-02-0862A | 02
02 | NY | TAGHKANIC, TOWN OF | 361324_04B | 02-FEB-2004 | 04-02-0468A | 02
02 | NY | THERESA, TOWN OF | 360352_03A | 27-MAY-2004 | 04-02-0878A | 02
02 | NY | ULSTER, TOWN OF | 3608660007B | 26-APR-2004 | 04-02-0650A | 02
02 | NY | UNION, TOWN OF | 3600560025B | 01-JUN-2004 | 04-02-0660A | 02
02 | NY | VALLEY STREAM, VILLAGE OF | 36059C0212F | 01-APR-2004 | 04-02-0636A | 02
02 | NY | WALLKILL, TOWN OF | 3606340020B | 26-APR-2004 | 04-02-0624A | 02
02 | NY | WALLKILL, TOWN OF | 3606340020B | 17-JUN-2004 | 04-02-0782A | 02
02 | NY | WATERTOWN, CITY OF | 3603540001E | 29-JAN-2004 | 04-02-0492A | 02
02 | NY | WATSON, TOWN OF | 3603770030C | 22-JAN-2004 | 04-02-0510A | 02
02 | NY | WEBB, TOWN OF | 360321_22A | 20-JAN-2004 | 04-02-0394A | 02
02 | NY | WEBB, TOWN OF | 360321_22A | 02-FEB-2004 | 04-02-0118A | 02
02 | NY | WELLS, TOWN OF | 361112_04A | 19-FEB-2004 | 04-02-0334A | 02
02 | NY | WEST SENECA, TOWN OF | 3602620003B | 01-MAR-2004 | 04-02-0672A | 02
02 | NY | WHEATFIELD, TOWN OF | 3605130001B | 02-APR-2004 | 04-02-0758A | 02
02 | NY | WHEATFIELD, TOWN OF | 3605130004D | 28-JUN-2004 | 04-02-1060A | 02
02 | NY | YORKTOWN, TOWN OF | 3609370004C | 11-MAR-2004 | 04-02-0324A | 02
02 | PR | PUERTO RICO, COMMONWEALTH OF | 7200000193D | 12-JAN-2004 | 04-02-0336A | 01
02 | PR | PUERTO RICO, COMMONWEALTH OF | 7200000064G | 29-JAN-2004 | 04-02-0532A | 01
02 | PR | PUERTO RICO, COMMONWEALTH OF | 7200000051D | 05-FEB-2004 | 04-02-0266A | 01
02 | PR | PUERTO RICO, COMMONWEALTH OF | 7200000049C | 13-FEB-2004 | 03-02-069P | 05
02 | PR | PUERTO RICO, COMMONWEALTH OF | 7200000120B | 17-FEB-2004 | 04-02-0268A | 01
02 | PR | PUERTO RICO, COMMONWEALTH OF | 7200000177D | 01-MAR-2004 | 04-02-0362A | 01
02 | PR | PUERTO RICO, COMMONWEALTH OF | 7200000049C | 04-MAR-2004 | 04-02-0676A | 02
02 | PR | PUERTO RICO, COMMONWEALTH OF | 7200000047E | 08-MAR-2004 | 03-02-1562A | 02
02 | PR | PUERTO RICO, COMMONWEALTH OF | 7200000047E | 25-MAR-2004 | 04-02-0720A | 02
02 | PR | PUERTO RICO, COMMONWEALTH OF | 7200000049C | 05-MAY-2004 | 04-02-009P | 05
02 | PR | PUERTO RICO, COMMONWEALTH OF | 7200000223B | 17-MAY-2004 | 04-02-0850A | 02
02 | PR | PUERTO RICO, COMMONWEALTH OF | 7200000292D | 17-MAY-2004 | 04-02-0692A | 01
02 | PR | PUERTO RICO, COMMONWEALTH OF | 7200000047E | 20-MAY-2004 | 04-02-0900A | 02
02 | PR | PUERTO RICO, COMMONWEALTH OF | 7200000030D | 07-JUN-2004 | 04-02-0902A | 01
02 | PR | PUERTO RICO, COMMONWEALTH OF | 7200000049C | 11-JUN-2004 | 04-02-001P | 05
02 | PR | PUERTO RICO, COMMONWEALTH OF | 7200000059C | 17-JUN-2004 | 04-02-1008A | 01
02 | PR | PUERTO RICO, COMMONWEALTH OF | 7200000063G | 17-JUN-2004 | 04-02-1008A | 01
03 | DE | BETHEL, TOWN OF | 10005C0403F | 03-MAY-2004 | 04-03-1206A | 02
03 | DE | BOWERS, TOWN OF | 10001C0266H | 03-MAY-2004 | 04-03-0960A | 02
03 | DE | DOVER, CITY OF | 10001C0167H | 11-MAR-2004 | 04-03-0466A | 02
03 | DE | DOVER, CITY OF | 1000060005C | 06-MAY-2004 | 04-03-1160A | 02
03 | DE | ELSMERE, TOWN OF | 10003C0152G | 12-FEB-2004 | 04-03-0374A | 02
03 | DE | KENT COUNTY * | 10005C0425F | 29-JAN-2004 | 04-03-0312A | 02
03 | DE | KENT COUNTY * | 10001C0153H | 26-FEB-2004 | 04-03-0636A | 02
03 | DE | KENT COUNTY * | 10001C0230H | 05-APR-2004 | 03-03-2426A | 02
03 | DE | KENT COUNTY * | 10001C0151H | 08-APR-2004 | 04-03-0600A | 02
03 | DE | KENT COUNTY * | 10001C0233H | 12-APR-2004 | 04-03-0848A | 02
03 | DE | KENT COUNTY * | 10001C0245H | 12-APR-2004 | 04-03-0654A | 02
03 | DE | KENT COUNTY * | 10001C0245H | 13-MAY-2004 | 04-03-1032A | 02
03 | DE | KENT COUNTY * | 10001C0330H | 13-MAY-2004 | 04-03-1030A | 02
03 | DE | KENT COUNTY * | 10001C0240H | 20-MAY-2004 | 04-03-1280A | 02
03 | DE | MIDDLETOWN, TOWN OF | 10003C0305G | 29-APR-2004 | 04-03-0510A | 02
03 | DE | NEW CASTLE COUNTY * | 10003C0230G | 22-JAN-2004 | 04-03-0360A | 02
03 | DE | NEW CASTLE COUNTY * | 10003C0067H | 12-FEB-2004 | 04-03-0198A | 02
03 | DE | NEW CASTLE COUNTY * | 10003C0151G | 12-FEB-2004 | 04-03-0248A | 02
03 | DE | NEW CASTLE COUNTY * | 10003C0165G | 11-MAR-2004 | 04-03-0614A | 02
03 | DE | NEW CASTLE COUNTY * | 10003C0060G | 20-MAY-2004 | 04-03-1314A | 02
03 | DE | NEW CASTLE COUNTY * | 10003C0066H | 20-MAY-2004 | 04-03-1314A | 02
03 | DE | NEW CASTLE COUNTY * | 10003C0235G | 25-MAY-2004 | 04-03-013P | 05
03 | DE | NEW CASTLE COUNTY * | 10003C0040G | 01-JUN-2004 | 04-03-1372A | 02
03 | DE | NEW CASTLE COUNTY * | 10003C0230G | 03-JUN-2004 | 04-03-1384A | 02
03 | DE | NEW CASTLE COUNTY * | 10003C0330G | 14-JUN-2004 | 04-03-0292A | 02
03 | DE | NEW CASTLE COUNTY * | 10003C0160G | 17-JUN-2004 | 04-03-1278A | 02
03 | DE | SUSSEX COUNTY* | 10005C0505F | 08-JAN-2004 | 03-03-2706A | 02
03 | DE | SUSSEX COUNTY* | 10005C0510F | 12-FEB-2004 | 04-03-0352A | 02
03 | DE | SUSSEX COUNTY* | 10005C0065F | 17-FEB-2004 | 04-03-0354A | 02
03 | DE | SUSSEX COUNTY* | 10005C0425F | 11-MAR-2004 | 03-03-2652A | 02
03 | DE | SUSSEX COUNTY* | 10005C0275F | 08-APR-2004 | 04-03-0918A | 02
03 | DE | SUSSEX COUNTY* | 10005C0125F | 19-APR-2004 | 04-03-1052A | 02
03 | DE | SUSSEX COUNTY* | 10005C0180F | 19-APR-2004 | 04-03-0902A | 01
03 | DE | SUSSEX COUNTY* | 10005C0400F | 06-MAY-2004 | 04-03-1062A | 02
03 | DE | SUSSEX COUNTY* | 10005C0300F | 06-MAY-2004 | 04-03-0980A | 02
03 | DE | SUSSEX COUNTY* | 10005C0161F | 13-MAY-2004 | 04-03-1236A | 02
03 | DE | SUSSEX COUNTY* | 10005C0100F | 10-JUN-2004 | 04-03-1444A | 02
03 | DE | SUSSEX COUNTY* | 10005C0180F | 10-JUN-2004 | 04-03-1566A | 01
03 | MD | ANNE ARUNDEL COUNTY * | 2400080007C | 12-JAN-2004 | 04-03-0252A | 02
03 | MD | ANNE ARUNDEL COUNTY * | 2400080027C | 12-JAN-2004 | 04-03-0326A | 02
03 | MD | ANNE ARUNDEL COUNTY * | 2400080043C | 05-FEB-2004 | 04-03-0734A | 02
03 | MD | ANNE ARUNDEL COUNTY * | 2400080006C | 19-FEB-2004 | 04-03-0060A | 02
03 | MD | ANNE ARUNDEL COUNTY * | 2400080059C | 01-MAR-2004 | 04-03-0674A | 02
03 | MD | ANNE ARUNDEL COUNTY * | 2400080014C | 18-MAR-2004 | 04-03-0760A | 02
03 | MD | ANNE ARUNDEL COUNTY * | 2400080043C | 12-APR-2004 | 04-03-0782A | 02
03 | MD | ANNE ARUNDEL COUNTY * | 2400080048C | 10-JUN-2004 | 04-03-1186A | 02
03 | MD | ANNE ARUNDEL COUNTY * | 2400080051C | 17-JUN-2004 | 04-03-1424A | 02
03 | MD | ANNE ARUNDEL COUNTY * | 2400080014C | 21-JUN-2004 | 04-03-1130A | 02
03 | MD | BALTIMORE COUNTY* | 2400100455B | 08-JAN-2004 | 04-03-0190A | 02
03 | MD | BALTIMORE COUNTY* | 2400100245E | 15-JAN-2004 | 04-03-0088A | 02
03 | MD | BALTIMORE COUNTY* | 2400100410B | 15-JAN-2004 | 04-03-0072A | 02
03 | MD | BALTIMORE COUNTY* | 2400100390B | 05-FEB-2004 | 03-03-2208A | 02
03 | MD | BALTIMORE COUNTY* | 2400100555B | 05-FEB-2004 | 04-03-0592A | 02
03 | MD | BALTIMORE COUNTY* | 2400100420B | 04-MAR-2004 | 04-03-0386A | 02
03 | MD | BALTIMORE COUNTY* | 2400100360B | 15-MAR-2004 | 04-03-0456A | 02
03 | MD | BALTIMORE COUNTY* | 2400100410B | 23-APR-2004 | 04-03-0962A | 02
03 | MD | BALTIMORE COUNTY* | 2400100050B | 06-MAY-2004 | 04-03-0712A | 02
03 | MD | BALTIMORE COUNTY* | 2400100440C | 10-MAY-2004 | 04-03-0924A | 02
03 | MD | BALTIMORE COUNTY* | 2400100270B | 20-MAY-2004 | 04-03-1142A | 02
03 | MD | BALTIMORE COUNTY* | 2400100505B | 20-MAY-2004 | 04-03-1300A | 02
03 | MD | BALTIMORE COUNTY* | 2400100505B | 27-MAY-2004 | 04-03-1354A | 02
03 | MD | BALTIMORE COUNTY* | 2400100435B | 07-JUN-2004 | 04-03-1208A | 02
03 | MD | BALTIMORE COUNTY* | 2400100245E | 14-JUN-2004 | 04-03-0940A | 02
03 | MD | BALTIMORE COUNTY* | 2400100445C | 17-JUN-2004 | 04-03-1420A | 02
03 | MD | CALVERT COUNTY* | 2400110031B | 14-JUN-2004 | 04-03-1154A | 02
03 | MD | CAROLINE COUNTY * | 2401300165B | 25-MAR-2004 | 04-03-0942A | 02
03 | MD | CAROLINE COUNTY * | 2401300220B | 28-JUN-2004 | 04-03-1324A | 02
03 | MD | CECIL COUNTY* | 2400190031B | 26-FEB-2004 | 04-03-0176A | 02
03 | MD | CECIL COUNTY* | 2400190019B | 08-MAR-2004 | 04-03-0738A | 02
03 | MD | CECIL COUNTY* | 2400190042A | 08-MAR-2004 | 04-03-0740A | 02
03 | MD | CECIL COUNTY* | 2400190046A | 06-MAY-2004 | 04-03-0762A | 02
03 | MD | CECIL COUNTY* | 2400190031B | 20-MAY-2004 | 04-03-1036A | 02
03 | MD | CECIL COUNTY* | 2400190041A | 21-JUN-2004 | 04-03-1128A | 02
03 | MD | CECIL COUNTY* | 2400190054A | 21-JUN-2004 | 04-03-1080A | 02
03 | MD | CHARLES COUNTY * | 2400890035B | 29-JAN-2004 | 03-03-2684A | 02
03 | MD | CHARLES COUNTY * | 24008990035 | 20-MAY-2004 | 04-03-1276A | 02
03 | MD | DORCHESTER COUNTY * | 2400260200A | 08-JAN-2004 | 04-03-0264A | 02
03 | MD | FREDERICK COUNTY * | 2400270190A | 19-FEB-2004 | 03-03-2582A | 02
03 | MD | FREDERICK COUNTY * | 2400270175C | 24-MAY-2004 | 04-03-1338A | 02
03 | MD | FREDERICK, CITY OF | 2400270115B | 08-MAR-2004 | 04-03-0672A | 02
03 | MD | FREDERICK, CITY OF | 2400270115B | 13-MAY-2004 | 04-03-0904A | 02
03 | MD | HOWARD COUNTY* | 2400440023B | 15-JAN-2004 | 04-03-0384A | 02
03 | MD | HOWARD COUNTY* | 2400440039B | 29-JAN-2004 | 04-03-0528A | 02
03 | MD | HOWARD COUNTY* | 2400440034B | 05-FEB-2004 | 04-03-0346A | 02
03 | MD | HOWARD COUNTY* | 2400440040B | 22-APR-2004 | 03-03-241P | 05
03 | MD | MONTGOMERY COUNTY * | 2400490175C | 12-JAN-2004 | 03-03-2622A | 17
03 | MD | MONTGOMERY COUNTY * | 2400490175C | 02-FEB-2004 | 04-03-0426A | 17
03 | MD | MONTGOMERY COUNTY * | 2400490125C | 19-FEB-2004 | 04-03-0628A | 02
03 | MD | MONTGOMERY COUNTY * | 2400490175C | 26-MAR-2004 | 04-03-276P | 05
03 | MD | MONTGOMERY COUNTY * | 2400490200C | 01-APR-2004 | 04-03-0458A | 02
03 | MD | MONTGOMERY COUNTY * | 2400490175C | 17-JUN-2004 | 04-03-0808A | 02
03 | MD | PRINCE GEORGE'S COUNTY * | 2452080080D | 12-APR-2004 | 04-03-0884A | 02
03 | MD | QUEEN ANNES COUNTY* | 2400540039C | 02-JAN-2004 | 03-03-2058A | 02
03 | MD | QUEEN ANNES COUNTY* | 2400540048B | 15-JAN-2004 | 04-03-0464A | 02
03 | MD | QUEEN ANNES COUNTY* | 2400540054B | 29-APR-2004 | 04-03-1070A | 02
03 | MD | SALISBURY, CITY OF | 2400800002B | 22-JAN-2004 | 04-03-0552A | 02
03 | MD | ST. MARYS COUNTY* | 2400640052B | 20-MAY-2004 | 04-03-1240A | 02
03 | MD | TALBOT COUNTY * | 2400660035A | 12-FEB-2004 | 04-03-0282A | 02
03 | MD | TALBOT COUNTY * | 2400660023A | 24-JUN-2004 | 04-03-1508A | 02
03 | MD | WASHINGTON COUNTY * | 2400700095B | 15-JAN-2004 | 04-03-0086A | 02
03 | MD | WASHINGTON COUNTY * | 2400700210A | 08-MAR-2004 | 04-03-0842A | 02
03 | MD | WASHINGTON COUNTY * | 2400700220A | 18-MAR-2004 | 04-03-0826A | 02
03 | MD | WASHINGTON COUNTY * | 2400700085B | 24-JUN-2004 | 04-03-1418A | 02
03 | MD | WICOMICO COUNTY * | 2400780035C | 22-JAN-2004 | 04-03-0410A | 02
03 | MD | WORCESTER COUNTY * | 2400830150A | 19-FEB-2004 | 04-03-0526A | 02
03 | PA | ANNVILLE, TOWNSHIP OF | 420570_01B | 15-JAN-2004 | 04-03-0272A | 02
03 | PA | ARENDSTVILLE, BOROUGH OF | 422292_01A | 10-JUN-2004 | 04-03-1320A | 02
03 | PA | BEAR CREEK, TOWNSHIP OF | 4211360020B | 26-JAN-2004 | 04-03-0424A | 02
03 | PA | BENSALEM TOWNSHIP OF | 42017C0503F | 23-FEB-2004 | 04-03-0810A | 02
03 | PA | BETHLEHEM, CITY OF | 42095C0327D | 10-JUN-2004 | 04-03-0800A | 02
03 | PA | BETHLEHEM, TOWNSHIP OF | 42095C0262D | 12-JAN-2004 | 04-03-0342A | 02
03 | PA | BRISTOL, TOWNSHIP OF | 42017C0464F | 05-FEB-2004 | 04-03-0322A | 02
03 | PA | BRISTOL, TOWNSHIP OF | 42017C0464F | 05-FEB-2004 | 04-03-0382A | 02
03 | PA | BRISTOL, TOWNSHIP OF | 42017C0572F | 08-MAR-2004 | 04-03-0802A | 02
03 | PA | BRISTOL, TOWNSHIP OF | 42017C0527F | 29-APR-2004 | 04-03-1178A | 02
03 | PA | BUTLER CITY OF | 4202120001C | 03-MAY-2004 | 04-03-1194A | 02
03 | PA | CAMBRIDGE SPRINGS, BOROUGH OF | 4203460001B | 23-APR-2004 | 04-03-0920A | 02
03 | PA | CARLISLE, BOROUGH OF | 4253820004B | 22-JAN-2004 | 04-03-0476A | 02
03 | PA | CENTRE, TOWNSHIP OF | 42011C0332E | 19-APR-2004 | 04-03-0972A | 02
03 | PA | CERES, TOWNSHIP OF | 4218530010A | 11-MAR-2004 | 04-03-0766A | 02
03 | PA | CHESTNUTHILL, TOWNSHIP OF | 4218930010A | 25-MAR-2004 | 04-03-0702AD | 02
03 | PA | CHIPPEWA, TOWNSHIP OF | 4223110002A | 11-MAR-2004 | 04-03-0408A | 02
03 | PA | COLLEGE, TOWNSHIP OF | 4202590005C | 01-JUN-2004 | 04-03-1152A | 02
03 | PA | CONEWAGO, TOWNSHIP OF | 4209180010B | 14-JUN-2004 | 04-03-0118A | 02
03 | PA | CONEWANGO, TOWNSHIP OF | 4221170003B | 24-MAY-2004 | 04-03-0946A | 02
03 | PA | CONSHOHOCKEN, BOROUGH OF | 42091C0358E | 15-JAN-2004 | 03-03-2700A | 02
03 | PA | COOLBAUGH, TOWNSHIP OF | 4218860025A | 12-JAN-2004 | 04-03-0070A | 02
03 | PA | CRANBERRY, TOWNSHIP OF | 4212170010B | 08-MAR-2004 | 04-03-0344A | 02
03 | PA | DAMASCUS, TOWNSHIP OF | 4221630015A | 12-FEB-2004 | 04-03-0676A | 02
03 | PA | DANVILLE, BOROUGH OF | 4207140001B | 15-JAN-2004 | 04-03-0092A | 02
03 | PA | DARBY, TOWNSHIP OF | 42045C0048D | 10-JUN-2004 | 04-03-1550A | 02
03 | PA | DARBY, TOWNSHIP OF | 42045C0048D | 17-JUN-2004 | 04-03-1498A | 02
03 | PA | DOUGLASS, TOWNSHIP OF | 42091C0078E | 01-MAR-2004 | 04-03-0644A | 02
03 | PA | EAST BRADFORD TOWNSHIP OF | 42029C0331D | 21-JUN-2004 | 04-03-1322A | 02
03 | PA | EAST FALLOWFIELD, TOWNSHIP OF | 42029C0308E | 24-MAY-2004 | 04-03-1230A | 02
03 | PA | FERMANAGH, TOWNSHIP OF | 4205170003A | 12-FEB-2004 | 04-03-0378A | 02
03 | PA | FRANKLIN, TOWNSHIP OF | 42025C0279D | 20-JAN-2004 | 04-03-0270A | 02
03 | PA | GREENE, TOWNSHIP OF | 4215380003B | 06-MAY-2004 | 04-03-1064A | 02
03 | PA | GREENWOOD, TOWNSHIP OF | 422390_04A | 02-FEB-2004 | 04-03-0652A | 02
03 | PA | GREGG, TOWNSHIP OF | 4211940025B | 02-JAN-2004 | 04-03-0062A | 02
03 | PA | HAMILTON, TOWNSHIP OF | 4218880003B | 07-JUN-2004 | 04-03-1374A | 02
03 | PA | HAMILTON, TOWNSHIP OF | 4216510010B | 28-JUN-2004 | 04-03-1386A | 02
03 | PA | HAVERFORD, TOWNSHIP OF | 42045C0016D | 26-APR-2004 | 04-03-0958A | 02
03 | PA | HEPBURN, TOWNSHIP OF | 42081C0274E | 27-MAY-2004 | 04-03-1446A | 02
03 | PA | HORSHAM, TOWNSHIP OF | 42091C0279E | 22-JAN-2004 | 04-03-0320A | 02
03 | PA | HOUSTON, BOROUGH OF | 4225940001B | 01-APR-2004 | 04-03-0296A | 02
03 | PA | HUSTON, TOWNSHIP OF | 4223320006A | 10-MAY-2004 | 04-03-1116A | 02
03 | PA | JERSEY SHORE, BOROUGH OF | 42081C0414E | 10-JUN-2004 | 04-03-1562A | 02
03 | PA | KENNETT, TOWNSHIP OF | 42029C0483D | 12-JAN-2004 | 03-03-2672A | 02
03 | PA | LAMAR, TOWNSHIP OF | 4203270006C | 29-MAR-2004 | 04-03-0704A | 02
03 | PA | LEBANON, CITY OF | 4205730001B | 09-APR-2004 | 03-03-221P | 05
03 | PA | LIBERTY, TOWNSHIP OF | 4220870010A | 23-FEB-2004 | 04-03-0368A | 02
03 | PA | LIBERTY, TOWNSHIP OF | 4211960005B | 10-MAY-2004 | 04-03-0188A | 02
03 | PA | LIGONIER, BOROUGH OF | 42129C0701D | 24-MAY-2004 | 04-03-0518A | 17
03 | PA | LOWER ALSACE, TOWNSHIP OF | 42011C0526E | 01-JUN-2004 | 04-03-1450A | 02
03 | PA | LOWER GWYNEDD, TOWNSHIP OF | 42091C0279E | 02-JAN-2004 | 03-03-1690A | 01
03 | PA | LOWER MAKEFIELD, TOWNSHIP OF | 42017C0344F | 12-FEB-2004 | 04-03-0210A | 02
03 | PA | LOWER MAKEFIELD, TOWNSHIP OF | 42017C0363F | 26-FEB-2004 | 04-03-0716A | 02
03 | PA | LOWER MERION, TOWNSHIP OF | 42091C0369E | 08-MAR-2004 | 04-03-0298A | 02
03 | PA | LOWER MERION, TOWNSHIP OF | 42091C0432E | 08-MAR-2004 | 04-03-0298A | 02
03 | PA | LOWER MERION, TOWNSHIP OF | 42091C0432E | 19-APR-2004 | 04-03-0874A | 02
03 | PA | LOWER NAZERETH, TOWNSHIP OF | 42095C0255D | 25-MAR-2004 | 04-03-0586A | 02
03 | PA | LOWER SOUTHAMPTON, TOWNSHIP OF | 42017C0437F | 22-JAN-2004 | 04-03-0370A | 02
03 | PA | LOWER SOUTHAMPTON, TOWNSHIP OF | 42017C0438F | 24-MAY-2004 | 04-03-1472A | 02
03 | PA | LOWER TOWAMENSING, TOWNSHIP OF | 42025C0304D | 27-MAY-2004 | 04-03-0584A | 02
03 | PA | LOYALSOCK, TOWNSHIP OF | 4210400352E | 17-MAR-2004 | 04-03-1002V | 19
03 | PA | LOYALSOCK, TOWNSHIP OF | 4210400354E | 17-MAR-2004 | 04-03-1002V | 19
03 | PA | LYCOMING, TOWNSHIP OF | 42081C0273E | 24-JUN-2004 | 04-03-1644A | 02
03 | PA | MAIDENCREEK, TOWNSHIP OF | 42011C0378E | 20-MAY-2004 | 04-03-1448A | 02
03 | PA | MCNETT, TOWNSHIP OF | 42081C0072E | 21-MAY-2004 | 04-03-069P | 05
03 | PA | MCSHERRYSTOWN, BOROUGHS OF | 4212450001B | 29-APR-2004 | 04-03-0784A | 02
03 | PA | MEADVILLE, CITY OF | 420351_01B | 17-JUN-2004 | 04-03-1608A | 01
03 | PA | MIDDLETOWN, TOWNSHIP OF | 42017C0441G | 09-FEB-2004 | 04-03-0666A | 02
03 | PA | MIDDLETOWN, TOWNSHIP OF | 47017C0433F | 25-MAR-2004 | 04-03-0536A | 02
03 | PA | MIDDLETOWN, TOWNSHIP OF | 42017C0429F | 17-MAY-2004 | 04-03-1106A | 02
03 | PA | MILLCREEK, TOWNSHIP OF | 4204520010B | 09-FEB-2004 | 04-03-0602A | 02
03 | PA | MONROE, TOWNSHIP OF | 4210200015C | 01-JUN-2004 | 04-03-1330A | 02
03 | PA | MT. PLEASANT, TOWNSHIP OF | 4212580003A | 22-JAN-2004 | 04-03-0640A | 02
03 | PA | MT. PLEASANT, TOWNSHIP OF | 422169_11A | 10-JUN-2004 | 04-03-1332A | 02
03 | PA | MUHLENBERG, TOWNSHIP OF | 42011C0366F | 01-MAR-2004 | 04-03-0626A | 02
03 | PA | NEW BRITAIN, TOWNSHIP OF | 42017C0287F | 27-MAY-2004 | 04-03-1266A | 02
03 | PA | NEW BRITAIN, TOWNSHIP OF | 42017C0287F | 10-JUN-2004 | 04-03-1548A | 02
03 | PA | NEW HOPE, BOROUGH OF | 42017C0327F | 25-MAR-2004 | 03-03-1476A | 02
03 | PA | NEWBERRY, TOWNSHIP OF | 4222260005B | 07-JUN-2004 | 04-03-0566A | 02
03 | PA | NORTH COVENTRY, TOWNSHIP OF | 42029C0060D | 11-MAR-2004 | 04-03-0460A | 02
03 | PA | NORTH LONDONDERRY, TOWNSHIP OF | 4205770005B | 11-MAR-2004 | 04-03-0670A | 02
03 | PA | NORTHAMPTON, TOWNSHIP OF | 42017C0428F | 11-MAR-2004 | 04-03-0582A | 02
03 | PA | NORTHAMPTON, TOWNSHIP OF | 42017C0437F | 05-APR-2004 | 04-03-0822A | 02
03 | PA | NORTHAMPTON, TOWNSHIP OF | 42017C0427F | 29-APR-2004 | 04-03-1058A | 02
03 | PA | NORTHAMPTON, TOWNSHIP OF | 42017C0429F | 29-APR-2004 | 04-03-1058A | 02
03 | PA | NOYES, TOWNSHIP OF | 4203310020B | 05-FEB-2004 | 04-03-0624A | 02
03 | PA | PENN, TOWNSHIP OF | 42029C0445D | 24-MAY-2004 | 04-03-0094A | 02
03 | PA | PERKASIE, BOROUGH OF | 42017C0143G | 10-JUN-2004 | 04-03-1124A | 02
03 | PA | PERKASIE, BOROUGH OF | 42017C0143G | 10-JUN-2004 | 04-03-1274A | 02
03 | PA | PERRY, TOWNSHIP OF | 4217960002B | 12-JAN-2004 | 04-03-0250A | 02
03 | PA | PHILADELPHIA, CITY OF | 4207570183F | 29-APR-2004 | 04-03-1190A | 02
03 | PA | PHILADELPHIA, CITY OF | 4207570113F | 24-MAY-2004 | 04-03-1292A | 02
03 | PA | PHILIPSBURG, BOROUGH OF | 4202670001B | 03-MAY-2004 | 04-03-0604A | 02
03 | PA | PICTURE ROCKS, BOROUGH OF | 42081C0377E | 24-MAY-2004 | 04-03-0984A | 02
03 | PA | PINE GROVE, TOWNSHIP OF | 4207820005B | 12-FEB-2004 | 03-03-2512A | 02
03 | PA | PINE GROVE, TOWNSHIP OF | 4207820005B | 15-APR-2004 | 04-03-0872A | 02
03 | PA | PLUNKETTS CREEK, TOWNSHIP OF | 42081C0230E | 07-JUN-2004 | 04-03-1396A | 02
03 | PA | POCOPSON, TOWNSHIP OF | 42029C0342E | 29-APR-2004 | 04-03-0986A | 02
03 | PA | POLK, TOWNSHIP OF | 4218930010A | 25-MAR-2004 | 04-03-0702A | 02
03 | PA | RADNOR, TOWNSHIP OF | 42045C0002D | 19-APR-2004 | 04-03-0444A | 02
03 | PA | ROCHESTER, TOWNSHIP OF | 4213220002A | 26-FEB-2004 | 04-03-0008A | 02
03 | PA | ROCKLAND, TOWNSHIP OF | 42011C0384E | 05-FEB-2004 | 04-03-0392A | 02
03 | PA | ROSS, TOWNSHIP OF | 42003C0191E | 25-MAR-2004 | 03-03-2390A | 17
03 | PA | SANDY LAKE, BOROUGH OF | 4206770001B | 02-JAN-2004 | 04-03-0206A | 02
03 | PA | SANDY LAKE, BOROUGH OF | 4206770001B | 17-JUN-2004 | 04-03-1294A | 02
03 | PA | SCHUYLKILL HAVEN, BOROUGH OF | 4207870005D | 12-JAN-2004 | 04-03-0066A | 02
03 | PA | SCHUYLKILL, TOWNSHIP OF | 42029C0207D | 13-MAY-2004 | 04-03-1214A | 02
03 | PA | SHICKSHINNY, BOROUGH OF | 420626_01B | 01-MAR-2004 | 04-03-0732A | 02
03 | PA | SHIREMANSTOWN, BOROUGH OF | 420369_01A | 01-MAR-2004 | 04-03-0274A | 02
03 | PA | SILVER LAKE, TOWNSHIP OF | 4220910001A | 26-APR-2004 | 04-03-1108A | 02
03 | PA | SOUTH LEBANON, TOWNSHIP OF | 4205810008C | 09-APR-2004 | 03-03-221P | 05
03 | PA | SOUTH WHITEHALL, TOWNSHIP OF | 42077C0233D | 28-JAN-2004 | 03-03-237P | 05
03 | PA | SPRINGFIELD, TOWNSHIP OF | 42091C0377E | 20-MAY-2004 | 04-03-0998A | 02
03 | PA | STROUDSBURG, BOROUGH OF | 4206940001C | 15-MAR-2004 | 04-03-0380A | 17
03 | PA | THORNBURY, TOWNSHIP OF | 42029C0366D | 22-JAN-2004 | 04-03-0590A | 02
03 | PA | TINICUM, TOWNSHIP OF | 42017C0180G | 24-MAY-2004 | 04-03-0876A | 02
03 | PA | TITUSVILLE, CITY OF | 4203540001B | 12-JAN-2004 | 03-03-2478A | 02
03 | PA | TOWNVILLE, BOROUGH OF | 422401_01B | 20-JAN-2004 | 04-03-0564A | 02
03 | PA | UNITY, TOWNSHIP OF | 42129C0461D | 01-MAR-2004 | 04-03-0692A | 02
03 | PA | UPPER CHICHESTER, TOWNSHIP OF | 42045C0067E | 01-JUN-2004 | 04-03-1316A | 02
03 | PA | UPPER MACUNGIE, TOWNSHIP OF | 42077C0230D | 01-MAR-2004 | 04-03-0812A | 02
03 | PA | UPPER MACUNGIE, TOWNSHIP OF | 42077C0230D | 01-APR-2004 | 04-03-0500A | 02
03 | PA | UPPER MACUNGIE, TOWNSHIP OF | 42077C0230D | 17-MAY-2004 | 04-03-1198A | 02
03 | PA | UPPER MORELAND, TOWNSHIP OF | 42091C0312E | 29-MAR-2004 | 04-03-0606A | 02
03 | PA | UPPER SOUTHAMPTON, TOWNSHIP OF | 42017C0416F | 22-JAN-2004 | 04-03-0324A | 02
03 | PA | WARWICK, TOWNSHIP OF | 42029C0062D | 08-APR-2004 | 04-03-0798A | 02
03 | PA | WARWICK, TOWNSHIP OF | 42017C0313F | 26-APR-2004 | 04-03-0478A | 02
03 | PA | WEST BETHLEHEM, TOWNSHIP OF | 422156_06A | 17-JUN-2004 | 04-03-1220A | 02
03 | PA | WEST FAIRVIEW, BOROUGH OF | 420373_01B | 04-MAR-2004 | 04-03-0520A | 02
03 | PA | WEST HANOVER, TOWNSHIP OF | 4216000010A | 15-JAN-2004 | 04-03-0406A | 02
03 | PA | WEST TAYLOR, TOWNSHIP OF | 4214500002B | 17-JUN-2004 | 04-03-1302A | 02
03 | PA | WEST WHITELAND, TOWNSHIP OF | 42029C0213D | 29-JAN-2004 | 04-03-0496A | 02
03 | PA | WEST WHITELAND, TOWNSHIP OF | 42029C0192D | 12-APR-2004 | 04-03-0646A | 02
03 | PA | WHITE DEER, TOWNSHIP OF | 4210340025B | 15-JAN-2004 | 03-03-2698A | 02
03 | PA | WHITE DEER, TOWNSHIP OF | 4210340025B | 04-MAR-2004 | 04-03-0764A | 02
03 | PA | WHITE OAK, BOROUGH OF | 42003C0508E | 15-JAN-2004 | 04-03-0212A | 02
03 | PA | WHITE, TOWNSHIP OF | 4217250002A | 15-JAN-2004 | 04-03-0172A | 02
03 | PA | WILLIAMS, TOWNSHIP OF | 42095C0287D | 23-FEB-2004 | 03-03-2682A | 02
03 | PA | WINDSOR, BOROUGH OF | 4209420001B | 15-JAN-2004 | 04-03-0300A | 02
03 | VA | ALEXANDRIA, CITY OF | 5155190006D | 26-JAN-2004 | 04-03-0610A | 01
03 | VA | AMELIA COUNTY* | 5103140003A | 12-FEB-2004 | 04-03-0304A | 02
03 | VA | ARLINGTON COUNTY | 5155200022B | 02-JAN-2004 | 03-03-2434A | 02
03 | VA | ARLINGTON COUNTY | 5155200002B | 02-FEB-2004 | 04-03-0706A | 02
03 | VA | ARLINGTON COUNTY | 5155200022B | 19-FEB-2004 | 04-03-0656A | 02
03 | VA | AUGUSTA COUNTY * | 5100130030B | 15-APR-2004 | 04-03-0184A | 02
03 | VA | AUGUSTA COUNTY * | 5100130270B | 15-APR-2004 | 04-03-1046A | 02
03 | VA | AUGUSTA COUNTY * | 5100130265B | 27-MAY-2004 | 04-03-1466X | 02
03 | VA | BEDFORD COUNTY * | 5100160100A | 02-FEB-2004 | 04-03-0576A | 02
03 | VA | BEDFORD COUNTY * | 5100160100A | 12-FEB-2004 | 04-03-0572A | 02
03 | VA | BEDFORD COUNTY * | 5100160175A | 01-MAR-2004 | 04-03-0838A | 02
03 | VA | BEDFORD COUNTY * | 5100160175A | 25-MAR-2004 | 04-03-0870A | 02
03 | VA | BEDFORD COUNTY * | 5100160100A | 26-APR-2004 | 04-03-0896A | 02
03 | VA | BEDFORD COUNTY * | 5100160025A | 17-MAY-2004 | 04-03-1312A | 02
03 | VA | BEDFORD COUNTY * | 5100160175A | 04-JUN-2004 | 04-03-1034A | 02
03 | VA | BLAND COUNTY * | 5100170050B | 22-JAN-2004 | 04-03-0402A | 02
03 | VA | BRISTOL, CITY OF | 5100220004D | 05-FEB-2004 | 04-03-0698V | 19
03 | VA | BRISTOL, CITY OF | 5100220008D | 05-FEB-2004 | 04-03-0698V | 19
03 | VA | BRISTOL, CITY OF | 5100220009D | 05-FEB-2004 | 04-03-0698V | 19
03 | VA | CHESAPEAKE, CITY OF | 5100340049C | 13-MAY-2004 | 04-03-1192A | 02
03 | VA | CHESAPEAKE, CITY OF | 5100310048C | 01-JUN-2004 | 04-03-0728A | 02
03 | VA | CHESTERFIELD COUNTY * | 5100350049B | 02-JAN-2004 | 04-03-0332A | 02
03 | VA | CHESTERFIELD COUNTY * | 5100350057B | 01-MAR-2004 | 04-03-0612A | 02
03 | VA | CHESTERFIELD COUNTY * | 5100350049B | 12-APR-2004 | 04-03-0992A | 02
03 | VA | CHESTERFIELD COUNTY * | 5100350049B | 19-APR-2004 | 04-03-1098A | 02
03 | VA | CHESTERFIELD COUNTY * | 5100350052B | 17-MAY-2004 | 04-03-1248A | 02
03 | VA | CULPEPER COUNTY* | 5100410003A | 23-FEB-2004 | 04-03-0598A | 02
03 | VA | CULPEPER COUNTY* | 5100410002B | 05-MAR-2004 | 03-03-233P | 05
03 | VA | CULPEPER COUNTY* | 5100420001B | 05-MAR-2004 | 03-03-233P | 05
03 | VA | CULPEPER COUNTY* | 5100420002B | 05-MAR-2004 | 03-03-233P | 05
03 | VA | CULPEPER, TOWN OF | 5100410002B | 25-MAY-2004 | 03-03-233P | 05
03 | VA | CULPEPER, TOWN OF | 5100420001B | 25-MAY-2004 | 03-03-233P | 05
03 | VA | CULPEPER, TOWN OF | 5100420002B | 25-MAY-2004 | 03-03-233P | 05
03 | VA | DANVILLE, CITY OF | 5100440014C | 15-MAR-2004 | 03-03-2638A | 17
03 | VA | DICKENSON COUNTY * | 51051C0125C | 28-JAN-2004 | 03-03-104LP | 06
03 | VA | ELKTON, TOWN OF | 5101370001C | 11-MAR-2004 | 04-03-0660A | 02
03 | VA | ESSEX COUNTY * | 5100480015B | 05-JAN-2004 | 04-03-0430A | 02
03 | VA | ESSEX COUNTY * | 5100480020B | 19-FEB-2004 | 04-03-0746A | 02
03 | VA | FAIRFAX COUNTY * | 5155250050D | 08-JAN-2004 | 04-03-0340A | 02
03 | VA | FAIRFAX COUNTY * | 5155250075D | 26-JAN-2004 | 04-03-0578A | 02
03 | VA | FAIRFAX COUNTY * | 5155250083D | 05-FEB-2004 | 04-03-0686A | 02
03 | VA | FAIRFAX COUNTY * | 5155250100D | 05-FEB-2004 | 04-03-0688A | 02
03 | VA | FAIRFAX COUNTY * | 5155250136D | 13-FEB-2004 | 04-03-039P | 05
03 | VA | FAIRFAX COUNTY * | 5155250125D | 17-FEB-2004 | 04-03-0542A | 02
03 | VA | FAIRFAX COUNTY * | 5155250025D | 19-FEB-2004 | 04-03-0770A | 02
03 | VA | FAIRFAX COUNTY * | 5155250050D | 04-MAR-2004 | 04-03-0482A | 02
03 | VA | FAIRFAX COUNTY * | 5155250050D | 08-MAR-2004 | 04-03-0420A | 02
03 | VA | FAIRFAX COUNTY * | 5155250050D | 18-MAR-2004 | 04-03-0752A | 02
03 | VA | FAIRFAX COUNTY * | 5155250050D | 22-MAR-2004 | 04-03-0650A | 02
03 | VA | FAIRFAX COUNTY * | 5155250100D | 01-APR-2004 | 04-03-1060A | 02
03 | VA | FAIRFAX COUNTY * | 5155250025D | 29-APR-2004 | 04-03-0228A | 02
03 | VA | FAIRFAX COUNTY * | 5155250100D | 06-MAY-2004 | 04-03-0772A | 02
03 | VA | FAIRFAX COUNTY * | 5155250025D | 10-MAY-2004 | 04-03-1204A | 02
03 | VA | FAIRFAX COUNTY * | 5155250050D | 13-MAY-2004 | 04-03-1246A | 02
03 | VA | FAIRFAX COUNTY * | 5155250025D | 27-MAY-2004 | 04-03-1378A | 02
03 | VA | FAIRFAX COUNTY * | 5155250050D | 14-JUN-2004 | 04-03-1432A | 02
03 | VA | FAIRFAX COUNTY * | 5155250100D | 21-JUN-2004 | 04-03-1468A | 02
03 | VA | FAIRFAX, CITY OF | 5155240002C | 20-JAN-2004 | 04-03-0560A | 02
03 | VA | FAIRFAX, CITY OF | 5155240001C | 09-FEB-2004 | 04-03-0634A | 02
03 | VA | FAIRFAX, CITY OF | 5155240004C | 12-APR-2004 | 04-03-0540A | 01
03 | VA | FAIRFAX, CITY OF | 5155240002C | 06-MAY-2004 | 04-03-1166A | 02
03 | VA | FAUQUIER COUNTY * | 5100550310A | 01-MAR-2004 | 04-03-0556A | 02
03 | VA | FAUQUIER COUNTY * | 5100550280A | 19-MAR-2004 | 04-03-011P | 05
03 | VA | FAUQUIER COUNTY * | 5100550050A | 15-APR-2004 | 04-03-0916A | 02
03 | VA | FAUQUIER COUNTY * | 5100550425A | 17-JUN-2004 | 04-03-1224A | 02
03 | VA | FAUQUIER COUNTY * | 5100550425A | 24-JUN-2004 | 04-03-1648A | 02
03 | VA | FLUVANNA COUNTY * | 5100580050A | 02-JAN-2004 | 04-03-0244A | 02
03 | VA | FRANKLIN COUNTY * | 5100610095B | 12-JAN-2004 | 04-03-0516A | 02
03 | VA | FRANKLIN COUNTY * | 5100610210B | 05-FEB-2004 | 04-03-0286A | 02
03 | VA | FRANKLIN COUNTY * | 5100610220B | 05-FEB-2004 | 04-03-0286A | 02
03 | VA | FRANKLIN COUNTY * | 5100610090B | 09-FEB-2004 | 04-03-0262A | 02
03 | VA | FRANKLIN COUNTY * | 5100610220B | 09-FEB-2004 | 04-03-0632A | 02
03 | VA | FRANKLIN COUNTY * | 5100610220B | 23-FEB-2004 | 04-03-0828A | 02
03 | VA | FRANKLIN COUNTY * | 5100610220B | 04-MAR-2004 | 04-03-0744A | 02
03 | VA | FRANKLIN COUNTY * | 5100610210B | 08-MAR-2004 | 04-03-0596A | 02
03 | VA | FRANKLIN COUNTY * | 5100610215B | 11-MAR-2004 | 04-03-0994A | 02
03 | VA | FRANKLIN COUNTY * | 5100610240B | 12-APR-2004 | 04-03-1104A | 02
03 | VA | FRANKLIN COUNTY * | 5100610220B | 03-MAY-2004 | 04-03-1044A | 02
03 | VA | FRANKLIN COUNTY * | 5100610220B | 06-MAY-2004 | 04-03-1202A | 02
03 | VA | FRANKLIN COUNTY * | 5100610210B | 10-MAY-2004 | 04-03-1222A | 02
03 | VA | FRANKLIN COUNTY * | 5100610090B | 13-MAY-2004 | 04-03-1094A | 02
03 | VA | FRANKLIN COUNTY * | 5100610240B | 17-MAY-2004 | 04-03-1288A | 02
03 | VA | FRANKLIN COUNTY * | 5100610090B | 24-MAY-2004 | 04-03-1392A | 02
03 | VA | FRANKLIN COUNTY * | 5100612210B | 17-JUN-2004 | 04-03-1428A | 02
03 | VA | GLOUCESTER COUNTY* | 5100710030B | 24-MAY-2004 | 04-03-1306A | 02
03 | VA | HAMPTON, CITY OF | 5155270012D | 22-JAN-2004 | 04-03-0480A | 01
03 | VA | HANOVER COUNTY * | 5102370320A | 12-APR-2004 | 04-03-1074A | 02
03 | VA | HENRICO COUNTY * | 5100770025B | 20-JAN-2004 | 04-03-0574A | 02
03 | VA | HENRICO COUNTY * | 5100770025B | 12-APR-2004 | 04-03-037P | 05
03 | VA | HENRICO COUNTY * | 5100770025B | 29-APR-2004 | 04-03-1286X | 02
03 | VA | HENRICO COUNTY * | 5100770025B | 03-MAY-2004 | 04-03-1054A | 02
03 | VA | HENRICO COUNTY * | 5100770100B | 10-MAY-2004 | 04-03-0926A | 02
03 | VA | HENRICO COUNTY * | 5100770025B | 27-MAY-2004 | 04-03-1470A | 02
03 | VA | HENRICO COUNTY * | 5100770025B | 01-JUN-2004 | 04-03-1388A | 02
03 | VA | HENRICO COUNTY * | 5100770025B | 03-JUN-2004 | 04-03-0976A | 02
03 | VA | HOPEWELL, CITY OF | 5100800005B | 10-MAY-2004 | 04-03-0858A | 02
03 | VA | HOPEWELL, CITY OF | 5100800005B | 10-JUN-2004 | 04-03-1366A | 02
03 | VA | ISLE OF WIGHT COUNTY * | 51093C0155D | 15-APR-2004 | 04-03-0558A | 02
03 | VA | ISLE OF WIGHT COUNTY * | 51093C0160D | 15-APR-2004 | 04-03-0910A | 02
03 | VA | ISLE OF WIGHT COUNTY * | 51093C0155D | 19-APR-2004 | 04-03-1084A | 02
03 | VA | ISLE OF WIGHT COUNTY * | 51093C0070D | 17-MAY-2004 | 04-03-1250A | 02
03 | VA | JAMES CITY COUNTY * | 5102010030B | 07-JUN-2004 | 04-03-1412A | 01
03 | VA | KING GEORGE COUNTY * | 5103120015B | 08-MAR-2004 | 04-03-0774A | 02
03 | VA | LANCASTER COUNTY* | 5100840038A | 17-JUN-2004 | 04-03-1484A | 02
03 | VA | LEESBURG, TOWN OF | 515525C0227 | 02-JAN-2004 | 04-03-0362A | 02
03 | VA | LOUDOUN COUNTY * | 51107C0261D | 29-JAN-2004 | 03-03-2662A | 02
03 | VA | LOUDOUN COUNTY * | 51107C0380D | 17-FEB-2004 | 04-03-0780A | 02
03 | VA | LOUDOUN COUNTY * | 51107C0075D | 03-JUN-2004 | 04-03-0794A | 02
03 | VA | LOUDOUN COUNTY * | 51107C0355D | 16-JUN-2004 | 03-03-245P | 05
03 | VA | LOUISA COUNTY * | 51109C0175B | 17-FEB-2004 | 04-03-0428A | 02
03 | VA | LOUISA COUNTY * | 51109C0400B | 04-MAR-2004 | 04-03-0778A | 02
03 | VA | LOUISA COUNTY * | 51109C0175B | 12-APR-2004 | 04-03-1096A | 02
03 | VA | MATHEWS COUNTY* | 5100960009B | 19-APR-2004 | 04-03-1082A | 02
03 | VA | MECKLENBURG COUNTY * | 5101890150A | 02-FEB-2004 | 04-03-0708A | 02
03 | VA | MECKLENBURG COUNTY * | 5101890150A | 02-FEB-2004 | 04-03-0710A | 02
03 | VA | MECKLENBURG COUNTY * | 5101890200A | 11-MAR-2004 | 04-03-0898A | 02
03 | VA | MECKLENBURG COUNTY * | 5101890200A | 20-MAY-2004 | 04-03-1310A | 02
03 | VA | MECKLENBURG COUNTY * | 5101890200A | 27-MAY-2004 | 04-03-1326A | 02
03 | VA | MIDDLESEX COUNTY * | 5100980036C | 02-JAN-2004 | 04-03-0484A | 02
03 | VA | NELSON COUNTY * | 5101010075A | 13-MAY-2004 | 04-03-0862A | 17
03 | VA | NEWPORT NEWS, CITY OF | 5101030010C | 26-JAN-2004 | 04-03-0618X | 02
03 | VA | NORFOLK, CITY OF | 5101040016D | 18-MAR-2004 | 04-03-0790A | 02
03 | VA | NORTHUMBERLAND COUNTY * | 5101070011C | 18-MAR-2004 | 04-03-0978A | 02
03 | VA | NORTHUMBERLAND COUNTY * | 5101070013B | 06-MAY-2004 | 04-03-0730A | 02
03 | VA | PITTSYLVANIA COUNTY * | 5101160020B | 20-JAN-2004 | 04-03-0136A | 02
03 | VA | PORTSMOUTH, CITY OF | 5155290025B | 18-MAR-2004 | 04-03-1048A | 02
03 | VA | PORTSMOUTH, CITY OF | 5155290025B | 25-MAR-2004 | 04-03-0868A | 02
03 | VA | PORTSMOUTH, CITY OF | 5155290035B | 06-MAY-2004 | 04-03-1200A | 02
03 | VA | PORTSMOUTH, CITY OF | 5155290010B | 17-MAY-2004 | 04-03-0866A | 02
03 | VA | PRINCE WILLIAM COUNTY * | 51553C0204D | 22-MAR-2004 | 04-03-1000A | 02
03 | VA | PRINCE WILLIAM COUNTY * | 51153C0219D | 23-JUN-2004 | 03-03-185P | 05
03 | VA | RICHLANDS, TOWN OF | 5101630001A | 01-MAR-2004 | 04-03-0854A | 02
03 | VA | ROANOKE COUNTY * | 51161C0017D | 11-MAR-2004 | 04-03-0952A | 02
03 | VA | ROANOKE, CITY OF | 51161C0044D | 19-APR-2004 | 04-03-0544A | 17
03 | VA | ROCKINGHAM COUNTY* | 5101330073B | 26-FEB-2004 | 04-03-0832A | 02
03 | VA | ROCKINGHAM COUNTY* | 5101330035B | 10-JUN-2004 | 04-03-0722A | 02
03 | VA | RUSSELL COUNTY* | 5103170066B | 07-JAN-2004 | 03-03-129LP | 06
03 | VA | RUSSELL COUNTY* | 5103170075B | 07-JAN-2004 | 03-03-129LP | 06
03 | VA | SHENANDOAH COUNTY * | 51171C0255C | 17-FEB-2004 | 04-03-0546A | 02
03 | VA | SHENANDOAH COUNTY * | 51171C0365C | 23-FEB-2004 | 04-03-0788A | 02
03 | VA | SHENANDOAH COUNTY * | 51171C0225C | 24-MAY-2004 | 04-03-0954A | 02
03 | VA | SHENANDOAH COUNTY * | 51171C0225C | 24-MAY-2004 | 04-03-1342A | 02
03 | VA | SHENANDOAH COUNTY * | 51171C0300C | 21-JUN-2004 | 04-03-1146A | 02
03 | VA | SOUTHAMPTON COUNTY * | 51175C0250C | 08-MAR-2004 | 04-03-0684A | 02
03 | VA | SPOTSYLVANIA COUNTY* | 5103080275C | 22-JAN-2004 | 04-03-0568A | 02
03 | VA | SPOTSYLVANIA COUNTY* | 5103080300C | 29-JAN-2004 | 04-03-0630A | 02
03 | VA | SPOTSYLVANIA COUNTY* | 5103080275C | 19-FEB-2004 | 04-03-0720A | 02
03 | VA | SPOTSYLVANIA COUNTY* | 5103080200C | 26-APR-2004 | 04-03-0318A | 02
03 | VA | SPOTSYLVANIA COUNTY* | 5103080075C | 28-MAY-2004 | 04-03-0696A | 01
03 | VA | SPOTSYLVANIA COUNTY* | 5103080200C | 28-MAY-2004 | 04-03-0696A | 01
03 | VA | STAFFORD COUNTY * | 5101540155B | 12-FEB-2004 | 04-03-0238A | 02
03 | VA | STAFFORD COUNTY * | 5101540210B | 15-MAR-2004 | 04-03-0348A | 02
03 | VA | STAFFORD COUNTY * | 5101540250B | 18-MAR-2004 | 04-03-0814A | 02
03 | VA | STAFFORD COUNTY * | 5101540130B | 08-APR-2004 | 04-03-0792A | 02
03 | VA | STAFFORD COUNTY * | 5101540205B | 15-APR-2004 | 04-03-0906A | 02
03 | VA | VIENNA, TOWN OF | 5155250100D | 05-FEB-2004 | 04-03-0724A | 02
03 | VA | VIRGINIA BEACH, CITY OF | 5155310016E | 02-JAN-2004 | 04-03-0124A | 02
03 | VA | VIRGINIA BEACH, CITY OF | 5155310049E | 02-JAN-2004 | 04-03-0530A | 02
03 | VA | VIRGINIA BEACH, CITY OF | 5155310003E | 22-MAR-2004 | 04-03-0580A | 02
03 | VA | VIRGINIA BEACH, CITY OF | 5155310039E | 23-APR-2004 | 04-03-0974A | 01
03 | VA | VIRGINIA BEACH, CITY OF | 5155310048E | 10-MAY-2004 | 04-03-1226A | 02
03 | VA | VIRGINIA BEACH, CITY OF | 5155310022E | 27-MAY-2004 | 04-03-1296A | 02
03 | VA | VIRGINIA BEACH, CITY OF | 5155310051E | 10-JUN-2004 | 04-03-1414A | 02
03 | VA | WASHINGTON COUNTY* | 5101680150B | 04-FEB-2004 | 03-03-217P | 05
03 | VA | WESTMORELAND COUNTY* | 5102500010B | 23-FEB-2004 | 04-03-0690A | 02
03 | VA | WESTMORELAND COUNTY* | 5102500020C | 04-MAR-2004 | 04-03-0864A | 02
03 | VA | WESTMORELAND COUNTY* | 5102500010B | 29-APR-2004 | 04-03-1170A | 02
03 | VA | WINCHESTER, CITY OF | 5101730005B | 04-MAR-2004 | 03-03-199P | 05
03 | VA | WINCHESTER, CITY OF | 5101730005B | 29-MAR-2004 | 04-03-0948A | 02
03 | VA | WOODSTOCK, TOWN OF | 51171C0260C | 18-MAR-2004 | 04-03-0816A | 02
03 | VA | WOODSTOCK, TOWN OF | 51171C0260C | 18-MAR-2004 | 04-03-0956A | 02
03 | VA | WOODSTOCK, TOWN OF | 51171C0260C | 19-APR-2004 | 04-03-0836A | 02
03 | VA | WOODSTOCK, TOWN OF | 51171C0260C | 14-JUN-2004 | 04-03-1436A | 02
03 | VA | YORK COUNTY * | 5101820037B | 29-APR-2004 | 04-03-1086A | 02
03 | WV | BARBOURSVILLE, VILLAGE OF | 5400160048A | 04-MAR-2004 | 04-03-0208A | 02
03 | WV | BERKELEY COUNTY * | 5402820077C | 20-MAY-2004 | 04-03-0328A | 02
03 | WV | BOONE COUNTY * | 54005C0040B | 12-FEB-2004 | 04-03-0082A | 02
03 | WV | BOONE COUNTY * | 54005C0070C | 29-APR-2004 | 04-03-0990A | 02
03 | WV | BOONE COUNTY * | 54005C0090C | 29-APR-2004 | 04-03-0892A | 02
03 | WV | BOONE COUNTY * | 54005C0165B | 27-MAY-2004 | 04-03-1308A | 02
03 | WV | BUCKHANNON, CITY OF | 5401990001C | 03-JUN-2004 | 04-03-0620A | 02
03 | WV | BUCKHANNON, CITY OF | 5401990001C | 10-JUN-2004 | 04-03-0932A | 02
03 | WV | BUFFALO, TOWN OF | 5401660001B | 26-FEB-2004 | 04-03-0416A | 02
03 | WV | CABELL COUNTY * | 5400160031A | 11-MAR-2004 | 04-03-0638A | 02
03 | WV | CABELL COUNTY * | 5400160054A | 13-MAY-2004 | 04-03-1232A | 02
03 | WV | CALHOUN COUNTY * | 54013C0035B | 29-JAN-2004 | 04-03-0314A | 02
03 | WV | CHARLESTON, CITY OF | 5400730003C | 08-APR-2004 | 04-03-0988A | 02
03 | WV | DODDRIDGE COUNTY * | 54017C0090B | 17-JUN-2004 | 04-03-1076A | 02
03 | WV | DUNBAR, CITY OF | 5400760001C | 09-FEB-2004 | 04-03-0236A | 02
03 | WV | DUNBAR, CITY OF | 5400760001C | 01-APR-2004 | 04-03-0170A | 02
03 | WV | DUNBAR, CITY OF | 5400760001C | 27-MAY-2004 | 04-03-0886A | 02
03 | WV | FAYETTE COUNTY* | 5400260025B | 15-MAR-2004 | 04-03-0472A | 02
03 | WV | GRAFTON, CITY OF | 5401900001B | 11-MAR-2004 | 04-03-0266A | 02
03 | WV | GRAFTON, CITY OF | 5401900001C | 22-MAR-2004 | 04-03-0268A | 02
03 | WV | GRAFTON, CITY OF | 5401900001B | 29-MAR-2004 | 04-03-0890A | 02
03 | WV | GREENBRIER COUNTY* | 5400400345C | 01-MAR-2004 | 03-03-2668A | 02
03 | WV | HAMPSHIRE COUNTY* | 54027C0305C | 08-MAR-2004 | 03-03-2648A | 02
03 | WV | HUNTINGTON, CITY OF | 5400180004C | 04-MAR-2004 | 04-03-0452A | 02
03 | WV | HUNTINGTON, CITY OF | 5400180007C | 10-MAY-2004 | 04-03-0850A | 02
03 | WV | JACKSON COUNTY * | 54035C0020F | 19-FEB-2004 | 04-03-0878V | 19
03 | WV | JACKSON COUNTY * | 54035C0110F | 19-FEB-2004 | 04-03-0878V | 19
03 | WV | JACKSON COUNTY * | 54035C0143F | 19-FEB-2004 | 04-03-0878V | 19
03 | WV | JACKSON COUNTY * | 54035C0208F | 19-FEB-2004 | 04-03-0878V | 19
03 | WV | JACKSON COUNTY * | 54035C0220F | 19-FEB-2004 | 04-03-0878V | 19
03 | WV | JACKSON COUNTY * | 54035C0260F | 19-FEB-2004 | 04-03-0878V | 19
03 | WV | JEFFERSON COUNTY * | 5400650029B | 25-MAR-2004 | 04-03-0616A | 02
03 | WV | JEFFERSON COUNTY * | 5400650050C | 17-JUN-2004 | 04-03-1282A | 02
03 | WV | KANAWHA COUNTY * | 5400700079C | 02-FEB-2004 | 04-03-0336A | 02
03 | WV | KANAWHA COUNTY * | 5400700113C | 26-FEB-2004 | 04-03-0414A | 02
03 | WV | KANAWHA COUNTY * | 5400700266C | 04-MAR-2004 | 03-03-2328A | 02
03 | WV | KANAWHA COUNTY * | 5400700082C | 27-MAY-2004 | 04-03-1258A | 02
03 | WV | KANAWHA COUNTY * | 5400700084C | 27-MAY-2004 | 04-03-1258A | 02
03 | WV | MONROE COUNTY * | 54063C0170C | 11-MAR-2004 | 04-03-0570A | 02
03 | WV | MONTROSE, TOWN OF | 540265_01A | 04-MAR-2004 | 04-03-0358A | 02
03 | WV | MONTROSE, TOWN OF | 540265_01A | 18-MAR-2004 | 04-03-0356A | 02
03 | WV | MORGANTOWN, CITY OF | 5401410001D | 11-MAR-2004 | 04-03-0534A | 02
03 | WV | NEW MARTINSVILLE, CITY OF | 5402080002B | 11-MAR-2004 | 04-03-0334A | 02
03 | WV | NITRO, CITY OF | 5400810003B | 08-JAN-2004 | 03-03-2628A | 02
03 | WV | PETERSTOWN, TOWN OF | 54063C0293C | 20-JAN-2004 | 03-03-2350A | 02
03 | WV | PUTNAM COUNTY* | 5401640110C | 08-MAR-2004 | 03-03-2620A | 02
03 | WV | PUTNAM COUNTY* | 5401640095B | 11-MAR-2004 | 04-03-0470A | 02
03 | WV | PUTNAM COUNTY* | 5401640090B | 29-APR-2004 | 04-03-0900A | 02
03 | WV | PUTNAM COUNTY* | 5401640070A | 10-JUN-2004 | 04-03-0622A | 02
03 | WV | RALEIGH COUNTY * | 5401690035B | 11-MAR-2004 | 04-03-0454A | 02
03 | WV | RANDOLPH COUNTY * | 5401750185A | 11-MAR-2004 | 03-03-2516A | 02
03 | WV | RANDOLPH COUNTY * | 5401750150A | 17-JUN-2004 | 04-03-0806A | 02
03 | WV | RITCHIE COUNTY * | 5402240003B | 27-MAY-2004 | 04-03-1122A | 02
03 | WV | TAYLOR COUNTY* | 5401880003B | 17-JUN-2004 | 04-03-1072A | 02
03 | WV | VIENNA, CITY OF | 5402150002B | 25-MAR-2004 | 04-03-0474A | 02
03 | WV | VIENNA, CITY OF | 5402150002B | 01-JUN-2004 | 04-03-0450A | 02
03 | WV | WAYNE COUNTY* | 5402000025B | 19-JAN-2004 | 03-03-2678A | 02
03 | WV | WAYNE COUNTY* | 5402000150B | 20-JAN-2004 | 03-03-2422A | 02
03 | WV | WAYNE COUNTY* | 5402000082B | 12-FEB-2004 | 04-03-0418A | 02
03 | WV | WAYNE COUNTY* | 5402000101B | 11-MAR-2004 | 04-03-0432A | 02
03 | WV | WAYNE COUNTY* | 5402000025B | 08-APR-2004 | 04-03-0758A | 02
03 | WV | WAYNE COUNTY* | 5402000102B | 06-MAY-2004 | 04-03-0934A | 02
03 | WV | WAYNE COUNTY* | 5402000101B | 17-JUN-2004 | 04-03-1336A | 02
03 | WV | WAYNE, TOWN OF | 5402310001A | 19-APR-2004 | 04-03-1042A | 02
03 | WV | WETZEL COUNTY * | 5402070006A | 27-MAY-2004 | 04-03-1180A | 02
03 | WV | WHEELING, CITY OF | 5401520015D | 15-JAN-2004 | 04-03-0128A | 02
03 | WV | WHITE SULPHUR SPRINGS, CITY OF | 5400450016D | 29-APR-2004 | 04-03-0834A | 02
03 | WV | WHITE SULPHUR SPRINGS, CITY OF | 5400450016D | 28-JUN-2004 | 04-03-1404A | 02
03 | WV | WINFIELD, TOWN OF | 5402710001B | 22-MAR-2004 | 04-03-0468A | 02
03 | WV | WOOD COUNTY * | 5402130106A | 08-APR-2004 | 04-03-0804A | 02
03 | WV | WYOMING COUNTY * | 5402170025B | 25-MAR-2004 | 04-03-0588A | 01
04 | AL | ANNISTON, CITY OF | 0100200001C | 26-APR-2004 | 04-04-3528A | 02
04 | AL | ASHFORD, TOWN OF | 01069C0275E | 21-JUN-2004 | 04-04-5984A | 02
04 | AL | AUTAUGA COUNTY * | 0103140115B | 02-JAN-2004 | 04-04-1638A | 02
04 | AL | BALDWIN COUNTY* | 01003C0740K | 02-FEB-2004 | 04-04-1642A | 02
04 | AL | BALDWIN COUNTY* | 01003C0350K | 08-APR-2004 | 04-04-4486A | 02
04 | AL | BESSEMER, CITY OF | 01073C0608E | 17-MAY-2004 | 04-04-4100A | 01
04 | AL | BIRMINGHAM, CITY OF | 01073C0313E | 12-JAN-2004 | 04-04-1726A | 02
04 | AL | BIRMINGHAM, CITY OF | 01073C0334E | 24-JUN-2004 | 04-04-027P | 05
04 | AL | CALHOUN COUNTY * | 0100130150B | 24-JUN-2004 | 04-04-5666A | 02
04 | AL | CHEROKEE COUNTY* | 0102340100B | 22-JAN-2004 | 04-04-2352A | 02
04 | AL | CHEROKEE COUNTY* | 0102340100B | 12-APR-2004 | 04-04-2280A | 02
04 | AL | CHEROKEE COUNTY* | 0102340100B | 10-JUN-2004 | 04-04-5880A | 02
04 | AL | CHEROKEE COUNTY* | 0102340100B | 17-JUN-2004 | 04-04-5930A | 02
04 | AL | CHEROKEE COUNTY* | 0102340100B | 21-JUN-2004 | 04-04-6424A | 02
04 | AL | CHICKASAW, CITY OF | 01097C0439J | 23-FEB-2004 | 04-04-1636A | 02
04 | AL | CHICKASAW, CITY OF | 01097C0438J | 10-JUN-2004 | 04-04-5672A | 02
04 | AL | COLBERT COUNTY | 0103180125B | 02-JAN-2004 | 04-04-1316A | 02
04 | AL | COLBERT COUNTY | 0103180125B | 09-FEB-2004 | 04-04-2528A | 02
04 | AL | COLBERT COUNTY | 0103180125B | 09-FEB-2004 | 04-04-2684A | 02
04 | AL | COLBERT COUNTY | 0103180300B | 29-MAR-2004 | 04-04-3464A | 02
04 | AL | COLBERT COUNTY | 0103180125B | 23-APR-2004 | 04-04-3994A | 02
04 | AL | COLBERT COUNTY | 0103180225B | 27-MAY-2004 | 04-04-5668A | 02
04 | AL | COLBERT COUNTY | 0103180150B | 28-JUN-2004 | 04-04-6252A | 02
04 | AL | CREOLA, TOWN OF | 01097C0318J | 15-JAN-2004 | 04-04-2012A | 02
04 | AL | CULLMAN COUNTY * | 0102470175B | 26-JAN-2004 | 04-04-1100A | 02
04 | AL | DALLAS COUNTY* | 0100630015B | 29-JAN-2004 | 04-04-2354A | 02
04 | AL | DALLAS COUNTY* | 0100630040B | 07-JUN-2004 | 04-04-4864A | 02
04 | AL | DAPHNE, CITY OF | 01003C0393K | 23-APR-2004 | 04-04-4102A | 02
04 | AL | DE KALB COUNTY * | 0103200007A | 13-MAY-2004 | 04-04-3214A | 02
04 | AL | DECATUR, CITY OF | 01103C0060D | 22-JAN-2004 | 04-04-2282A | 02
04 | AL | DECATUR, CITY OF | 01103C0070D | 01-APR-2004 | 04-04-3698A | 02
04 | AL | DOTHAN, CITY OF | 01069C0228E | 02-JAN-2004 | 04-04-1078A | 02
04 | AL | DOTHAN, CITY OF | 01069C0208E | 08-JAN-2004 | 04-04-0860A | 02
04 | AL | DOTHAN, CITY OF | 01069C0216E | 29-JAN-2004 | 04-04-2394A | 02
04 | AL | DOTHAN, CITY OF | 01069C0064E | 09-FEB-2004 | 04-04-3086A | 02
04 | AL | DOTHAN, CITY OF | 01069C0068E | 12-FEB-2004 | 03-04-11100A | 17
04 | AL | DOTHAN, CITY OF | 01069C0068E | 12-FEB-2004 | 04-04-3084A | 01
04 | AL | DOTHAN, CITY OF | 01069C0228E | 23-FEB-2004 | 04-04-2068A | 02
04 | AL | DOTHAN, CITY OF | 01069C0236E | 23-APR-2004 | 04-04-4484A | 02
04 | AL | DOTHAN, CITY OF | 01069C0068E | 05-MAY-2004 | 03-04-351P | 05
04 | AL | DOTHAN, CITY OF | 01069C0068E | 05-MAY-2004 | 04-04-137P | 05
04 | AL | DOTHAN, CITY OF | 01069C0206E | 05-MAY-2004 | 03-04-351P | 05
04 | AL | DOTHAN, CITY OF | 01069C0228E | 06-MAY-2004 | 04-04-4482A | 02
04 | AL | DOTHAN, CITY OF | 01069C0204E | 20-MAY-2004 | 04-04-4776A | 02
04 | AL | DOTHAN, CITY OF | 01069C0201E | 10-JUN-2004 | 03-04-389P | 05
04 | AL | DOTHAN, CITY OF | 01069C0202E | 10-JUN-2004 | 03-04-389P | 05
04 | AL | DOTHAN, CITY OF | 01069C0228E | 10-JUN-2004 | 04-04-5670A | 02
04 | AL | ELMORE COUNTY* | 0104060100C | 08-JAN-2004 | 04-04-1738A | 02
04 | AL | ELMORE COUNTY* | 0104060100C | 15-JAN-2004 | 04-04-2066A | 02
04 | AL | ELMORE COUNTY* | 0104060095C | 12-FEB-2004 | 04-04-2832A | 02
04 | AL | ELMORE COUNTY* | 0104060025B | 26-FEB-2004 | 04-04-2834A | 02
04 | AL | ELMORE COUNTY* | 0104060100C | 26-FEB-2004 | 04-04-2238A | 02
04 | AL | ELMORE COUNTY* | 0104060155C | 26-FEB-2004 | 04-04-1032A | 02
04 | AL | ELMORE COUNTY* | 0104060200C | 26-FEB-2004 | 04-04-2666A | 02
04 | AL | ELMORE COUNTY* | 0104060025B | 08-MAR-2004 | 04-04-2116A | 02
04 | AL | ELMORE COUNTY* | 0104060095C | 22-MAR-2004 | 04-04-3028A | 02
04 | AL | ELMORE COUNTY* | 0104060200C | 05-APR-2004 | 04-04-2212A | 02
04 | AL | ELMORE COUNTY* | 0104060200C | 26-APR-2004 | 04-04-3172A | 02
04 | AL | ELMORE COUNTY* | 0104060100C | 07-JUN-2004 | 04-04-5798A | 02
04 | AL | ELMORE COUNTY* | 0104060100C | 10-JUN-2004 | 04-04-5204A | 02
04 | AL | ELMORE COUNTY* | 0104060100C | 21-JUN-2004 | 04-04-6028A | 02
04 | AL | ETOWAH COUNTY * | 0100770150C | 22-MAR-2004 | 04-04-2586A | 02
04 | AL | FORT PAYNE, CITY OF | 0103200006A | 22-MAR-2004 | 04-04-2434A | 01
04 | AL | FORT PAYNE, CITY OF | 0100670004A | 23-APR-2004 | 04-04-4064A | 02
04 | AL | FORT PAYNE, CITY OF | 0100670004A | 21-JUN-2004 | 04-04-6408A | 02
04 | AL | GADSDEN, CITY OF | 0100800015C | 02-FEB-2004 | 04-04-2588A | 02
04 | AL | GREENE COUNTY * | 0100910250B | 12-JAN-2004 | 04-04-1648A | 01
04 | AL | HALE COUNTY* | 0100940075B | 02-JAN-2004 | 04-04-1360A | 02
04 | AL | HALE COUNTY* | 0100940075B | 08-MAR-2004 | 04-04-1870A | 02
04 | AL | HALE COUNTY* | 0100940075B | 10-MAY-2004 | 04-04-1312A | 02
04 | AL | HARTSELLE, CITY OF | 01103C0216D | 17-JUN-2004 | 04-04-5918A | 02
04 | AL | HELENA, TOWN OF | 0102940003B | 18-MAR-2004 | 04-04-2122A | 01
04 | AL | HOKES BLUFF, TOWN OF | 0102540002A | 18-MAR-2004 | 04-04-3468A | 02
04 | AL | HOOVER, CITY OF | 01073C0626E | 26-APR-2004 | 04-04-3490A | 01
04 | AL | HUEYTOWN, CITY OF | 01073C0461E | 08-MAR-2004 | 04-04-1220A | 02
04 | AL | HUNTSVILLE, CITY OF | 01089C0343D | 18-MAR-2004 | 04-04-3466A | 02
04 | AL | HUNTSVILLE, CITY OF | 01089C0343D | 13-MAY-2004 | 04-04-5396A | 02
04 | AL | HUNTSVILLE, CITY OF | 01089C0456D | 13-MAY-2004 | 04-04-5398A | 02
04 | AL | HUNTSVILLE, CITY OF | 01089C0365D | 24-MAY-2004 | 04-04-4846A | 01
04 | AL | HUNTSVILLE, CITY OF | 01089C0340D | 17-JUN-2004 | 04-04-5266A | 02
04 | AL | IRONDALE, CITY OF | 01073C0337E | 03-JUN-2004 | 04-04-3992A | 02
04 | AL | JACKSON COUNTY * | 0101100300B | 26-APR-2004 | 04-04-4304A | 02
04 | AL | JACKSONVILLE, CITY OF | 0100220001B | 23-APR-2004 | 04-04-3990A | 02
04 | AL | JEFFERSON COUNTY * | 01073C0331E | 26-APR-2004 | 04-04-4352A | 02
04 | AL | JEFFERSON COUNTY * | 01073C0582E | 10-JUN-2004 | 04-04-3532A | 02
04 | AL | JEFFERSON COUNTY * | 01073C0334E | 24-JUN-2004 | 04-04-027P | 05
04 | AL | LANETT, CITY OF | 0100290010B | 25-MAR-2004 | 04-04-2670A | 02
04 | AL | LANETT, CITY OF | 0100290010B | 07-JUN-2004 | 04-04-4266A | 02
04 | AL | LAUDERDALE COUNTY * | 0103230180C | 22-JAN-2004 | 04-04-2174A | 02
04 | AL | LAUDERDALE COUNTY * | 0103230180C | 08-MAR-2004 | 04-04-1872A | 02
04 | AL | LEE COUNTY * | 0102500130C | 29-JAN-2004 | 04-04-1714A | 02
04 | AL | LEE COUNTY * | 0102500130C | 18-MAR-2004 | 04-04-3462A | 02
04 | AL | LEE COUNTY * | 0102500140C | 21-JUN-2004 | 04-04-6342A | 02
04 | AL | LIMESTONE COUNTY * | 0103070075B | 05-FEB-2004 | 04-04-2686A | 02
04 | AL | LIMESTONE COUNTY * | 0103070150B | 22-MAR-2004 | 04-04-3354A | 02
04 | AL | MADISON COUNTY * | 01089C0211D | 10-MAY-2004 | 04-04-4906A | 02
04 | AL | MADISON, CITY OF | 01089C0285D | 03-JUN-2004 | 04-04-1878A | 02
04 | AL | MARENGO COUNTY * | 0101560150B | 25-JUN-2004 | 04-04-3986A | 02
04 | AL | MARSHALL COUNTY * | 0102750175B | 06-MAY-2004 | 04-04-4540A | 02
04 | AL | MOBILE COUNTY* | 01097C0788J | 27-FEB-2004 | 03-04-467P | 05
04 | AL | MOBILE COUNTY* | 01097C0507J | 13-MAY-2004 | 04-04-5268A | 02
04 | AL | MOBILE COUNTY* | 01097C0536J | 17-MAY-2004 | 04-04-3224A | 02
04 | AL | MOBILE, CITY OF | 01097C0677J | 29-JAN-2004 | 04-04-1566A | 02
04 | AL | MONTGOMERY COUNTY * | 01101C0375G | 23-APR-2004 | 04-04-3896A | 02
04 | AL | MONTGOMERY COUNTY * | 01101C0090G | 06-MAY-2004 | 04-04-4412A | 01
04 | AL | MONTGOMERY, CITY OF | 01101C0064G | 02-JAN-2004 | 04-04-1640A | 02
04 | AL | MONTGOMERY, CITY OF | 01101C0068G | 02-JAN-2004 | 04-04-1650A | 02
04 | AL | MONTGOMERY, CITY OF | 01101C0068G | 15-JAN-2004 | 04-04-1138A | 02
04 | AL | MONTGOMERY, CITY OF | 01101C0068G | 22-JAN-2004 | 04-04-2236A | 02
04 | AL | MONTGOMERY, CITY OF | 01101C0044G | 29-JAN-2004 | 04-04-2356A | 02
04 | AL | MONTGOMERY, CITY OF | 01101C0166G | 29-JAN-2004 | 04-04-1954A | 02
04 | AL | MONTGOMERY, CITY OF | 01101C0064G | 05-FEB-2004 | 04-04-2678A | 02
04 | AL | MONTGOMERY, CITY OF | 01101C0064G | 26-FEB-2004 | 04-04-2680A | 02
04 | AL | MONTGOMERY, CITY OF | 01101C0070G | 26-FEB-2004 | 04-04-2980A | 02
04 | AL | MONTGOMERY, CITY OF | 01101C0064G | 11-MAR-2004 | 04-04-3148A | 02
04 | AL | MONTGOMERY, CITY OF | 01101C0068G | 18-MAR-2004 | 04-04-3654A | 02
04 | AL | MONTGOMERY, CITY OF | 01101C0068G | 18-MAR-2004 | 04-04-3604A | 02
04 | AL | MONTGOMERY, CITY OF | 01101C0068G | 25-MAR-2004 | 04-04-3894A | 01
04 | AL | MONTGOMERY, CITY OF | 01101C0159G | 08-APR-2004 | 04-04-3754A | 01
04 | AL | MONTGOMERY, CITY OF | 01101C0063G | 16-APR-2004 | 04-04-3758A | 02
04 | AL | MONTGOMERY, CITY OF | 01101C0068G | 23-APR-2004 | 04-04-4066A | 02
04 | AL | MONTGOMERY, CITY OF | 01101C0151G | 23-APR-2004 | 04-04-3988A | 02
04 | AL | MONTGOMERY, CITY OF | 01101C0063G | 06-MAY-2004 | 04-04-3356A | 02
04 | AL | MONTGOMERY, CITY OF | 01101C0044G | 10-MAY-2004 | 04-04-4742A | 02
04 | AL | MONTGOMERY, CITY OF | 01101C0063G | 10-MAY-2004 | 04-04-4778A | 02
04 | AL | MONTGOMERY, CITY OF | 01101C0068G | 10-MAY-2004 | 04-04-3460A | 02
04 | AL | MONTGOMERY, CITY OF | 01101C0068G | 10-MAY-2004 | 04-04-4772A | 02
04 | AL | MONTGOMERY, CITY OF | 01101C0132G | 10-MAY-2004 | 04-04-4742A | 02
04 | AL | MONTGOMERY, CITY OF | 01101C0068G | 20-MAY-2004 | 04-04-5308A | 02
04 | AL | MONTGOMERY, CITY OF | 01101C0068G | 21-JUN-2004 | 04-04-6308A | 17
04 | AL | MORGAN COUNTY * | 01103C0150D | 24-JUN-2004 | 04-04-5866A | 02
04 | AL | MUSCLE SHOALS, CITY OF | 0100470005C | 02-JAN-2004 | 04-04-1644A | 01
04 | AL | MUSCLE SHOALS, CITY OF | 0100470005C | 17-APR-2004 | 04-04-173P | 05
04 | AL | MUSCLE SHOALS, CITY OF | 0100470005C | 24-MAY-2004 | 04-04-6560A | 02
04 | AL | MUSCLE SHOALS, CITY OF | 0100470005C | 21-JUN-2004 | 04-04-6250A | 01
04 | AL | NORTHPORT, CITY OF | 01125C0336E | 08-APR-2004 | 04-04-1782A | 01
04 | AL | NORTHPORT, CITY OF | 01125C0501E | 03-MAY-2004 | 04-04-5180A | 02
04 | AL | NORTHPORT, CITY OF | 01125C0339E | 10-MAY-2004 | 04-04-4954A | 02
04 | AL | ORANGE BEACH, CITY OF | 01003C0842K | 18-MAR-2004 | 04-04-3760A | 02
04 | AL | OXFORD, CITY OF | 0100230004C | 08-MAR-2004 | 04-04-2190A | 01
04 | AL | OXFORD, CITY OF | 0100230004C | 22-MAR-2004 | 04-04-3216A | 01
04 | AL | PELL CITY, CITY OF | 0101890010B | 13-MAY-2004 | 04-04-5330A | 02
04 | AL | PIKE COUNTY* | 010286_22A | 26-FEB-2004 | 03-04-9944A | 02
04 | AL | PIKE COUNTY* | 010286_22A | 28-JUN-2004 | 04-04-6638A | 02
04 | AL | PIKE ROAD, TOWN OF | 01101C0170G | 23-APR-2004 | 04-04-3996A | 02
04 | AL | SARALAND, CITY OF | 01097C0428J | 22-JAN-2004 | 04-04-2284A | 02
04 | AL | SATSUMA, CITY OF | 01097C0432J | 10-JUN-2004 | 04-04-4202A | 02
04 | AL | SHELBY COUNTY* | 0101910045B | 05-FEB-2004 | 04-04-3026A | 02
04 | AL | SHELBY COUNTY* | 0101910195B | 26-FEB-2004 | 04-04-2836A | 02
04 | AL | SHELBY COUNTY* | 0101910195B | 08-APR-2004 | 04-04-4668A | 02
04 | AL | SHELBY COUNTY* | 0101910090B | 29-APR-2004 | 04-04-4710A | 02
04 | AL | SHELBY COUNTY* | 0101910175B | 06-MAY-2004 | 04-04-3560A | 02
04 | AL | SHELBY COUNTY* | 0101910195B | 06-MAY-2004 | 04-04-3560A | 02
04 | AL | SHELBY COUNTY* | 0101910175B | 10-JUN-2004 | 04-04-5876A | 02
04 | AL | SHELBY COUNTY* | 0101910195B | 10-JUN-2004 | 04-04-4302A | 02
04 | AL | SHELBY COUNTY* | 0101910150B | 21-JUN-2004 | 04-04-6158A | 02
04 | AL | TALLADEGA COUNTY * | 0102970050B | 08-MAR-2004 | 04-04-2982A | 02
04 | AL | TALLADEGA COUNTY * | 0102970200B | 08-MAR-2004 | 04-04-2682A | 02
04 | AL | TALLADEGA COUNTY * | 0102970125B | 13-MAY-2004 | 04-04-4770A | 02
04 | AL | TALLADEGA COUNTY * | 0102970200B | 25-JUN-2004 | 04-04-3458A | 02
04 | AL | TUSCALOOSA COUNTY * | 01125C0675E | 28-JUN-2004 | 04-04-6246A | 02
04 | AL | TUSCALOOSA, CITY OF | 01125C0515E | 05-FEB-2004 | 04-04-1874A | 02
04 | AL | TUSCALOOSA, CITY OF | 01125C0700E | 09-FEB-2004 | 04-04-3150A | 02
04 | AL | TUSCALOOSA, CITY OF | 01125C0508E | 05-APR-2004 | 04-04-3756A | 02
04 | AL | TUSCALOOSA, CITY OF | 01125C0518E | 30-JUN-2004 | 03-04-601P | 05
04 | AL | TUSCALOOSA, CITY OF | 01125C0519E | 30-JUN-2004 | 03-04-601P | 05
04 | AL | VESTAVIA HILLS, CITY OF | 01073C0491E | 26-FEB-2004 | 04-04-2120A | 02
04 | AL | VINCENT, TOWN OF | 0102920003A | 23-APR-2004 | 04-04-4198A | 02
04 | AL | WALKER COUNTY * | 0103010055B | 29-JAN-2004 | 04-04-2064A | 02
04 | AL | WALKER COUNTY * | 0103010055B | 05-FEB-2004 | 04-04-2436A | 02
04 | AL | WALKER COUNTY * | 0103010145B | 05-APR-2004 | 04-04-3348A | 02
04 | AL | WALKER COUNTY * | 0103010055B | 14-APR-2004 | 04-04-3870A | 02
04 | AL | WALKER COUNTY * | 0103010035B | 07-JUN-2004 | 04-04-4774A | 02
04 | AL | WILSONVILLE, TOWN OF | 0104040001B | 10-JUN-2004 | 04-04-4952A | 02
04 | AL | WINSTON COUNTY * | 0103070009B | 02-JAN-2004 | 04-04-0356A | 02
04 | AL | WINSTON COUNTY * | 0103040005B | 08-JAN-2004 | 04-04-1780A | 02
04 | AL | WINSTON COUNTY * | 0103040009B | 12-JAN-2004 | 04-04-1646A | 02
04 | AL | WINSTON COUNTY * | 0103040005B | 06-MAY-2004 | 04-04-4408A | 02
04 | FL | ALACHUA COUNTY* | 1200010275A | 06-MAY-2004 | 04-04-4518A | 02
04 | FL | ALACHUA COUNTY* | 1200010259A | 24-JUN-2004 | 04-04-6086A | 02
04 | FL | ALACHUA COUNTY* | 1200010275A | 24-JUN-2004 | 04-04-6086A | 02
04 | FL | ALTAMONTE SPRINGS, CITY OF | 12117C0140E | 02-JAN-2004 | 04-04-1502A | 02
04 | FL | ALTAMONTE SPRINGS, CITY OF | 12117C0120E | 22-JAN-2004 | 04-04-2074A | 02
04 | FL | ALTAMONTE SPRINGS, CITY OF | 12117C0140E | 18-MAR-2004 | 04-04-3512A | 02
04 | FL | ALTAMONTE SPRINGS, CITY OF | 12117C0120E | 06-MAY-2004 | 04-04-4282A | 02
04 | FL | ALTAMONTE SPRINGS, CITY OF | 12117C0120E | 10-JUN-2004 | 04-04-4508A | 02
04 | FL | ALTAMONTE SPRINGS, CITY OF | 12117C0120E | 24-JUN-2004 | 04-04-2860A | 02
04 | FL | APOPKA, CITY OF | 12095C0110E | 02-JAN-2004 | 04-04-1552A | 02
04 | FL | APOPKA, CITY OF | 12095C0110E | 06-MAY-2004 | 04-04-4424A | 02
04 | FL | APOPKA, CITY OF | 12095C0140E | 03-JUN-2004 | 04-04-2710A | 02
04 | FL | AUBURNDALE, CITY OF | 12105C0355F | 27-MAY-2004 | 04-04-4866A | 02
04 | FL | BAKER COUNTY * | 1204190095B | 29-MAR-2004 | 04-04-1532A | 02
04 | FL | BARTOW, CITY OF | 12105C0515F | 21-JUN-2004 | 04-04-5404A | 02
04 | FL | BAY COUNTY* | 12005C0240G | 05-FEB-2004 | 04-04-2716A | 02
04 | FL | BAY COUNTY* | 12005C0316G | 12-FEB-2004 | 04-04-2072A | 02
04 | FL | BAY COUNTY* | 12005C0338G | 12-FEB-2004 | 04-04-3030A | 02
04 | FL | BAY COUNTY* | 12005C0241G | 19-FEB-2004 | 03-04-10740A | 02
04 | FL | BAY COUNTY* | 12005C0240G | 18-MAR-2004 | 03-04-10734A | 02
04 | FL | BAY COUNTY* | 12005C0241G | 23-APR-2004 | 04-04-1504A | 02
04 | FL | BAY COUNTY* | 12005C0317G | 17-MAY-2004 | 04-04-5702A | 02
04 | FL | BAY COUNTY* | 12005C0240G | 20-MAY-2004 | 04-04-2766A | 02
04 | FL | BAY COUNTY* | 12005C0338G | 03-JUN-2004 | 04-04-5774A | 02
04 | FL | BAY COUNTY* | 12005C0338G | 10-JUN-2004 | 04-04-3778A | 01
04 | FL | BOCA RATON, CITY OF | 1201950007C | 08-JAN-2004 | 04-04-1674A | 02
04 | FL | BOCA RATON, CITY OF | 1201950002C | 20-MAY-2004 | 04-04-4956A | 02
04 | FL | BOYNTON BEACH, CITY OF | 1201960003C | 15-JAN-2004 | 03-04-10952A | 02
04 | FL | BOYNTON BEACH, CITY OF | 1201960004C | 23-APR-2004 | 04-04-3398A | 02
04 | FL | BOYNTON BEACH, CITY OF | 1201960005C | 07-JUN-2004 | 04-04-5612A | 02
04 | FL | BRADENTON, CITY OF | 1201550009C | 03-MAY-2004 | 04-04-5232A | 02
04 | FL | BRADFORD COUNTY * | 12007C0075D | 12-FEB-2004 | 04-04-2948A | 02
04 | FL | BREVARD COUNTY * | 12009C0270E | 02-JAN-2004 | 04-04-1494A | 02
04 | FL | BREVARD COUNTY * | 12009C0365E | 12-JAN-2004 | 04-04-1802A | 02
04 | FL | BREVARD COUNTY * | 12009C0430E | 12-JAN-2004 | 04-04-1800A | 02
04 | FL | BREVARD COUNTY * | 12009C0435E | 12-JAN-2004 | 04-04-1896A | 02
04 | FL | BREVARD COUNTY * | 12009C0710E | 15-JAN-2004 | 04-04-2288A | 01
04 | FL | BREVARD COUNTY * | 12009C0435E | 22-JAN-2004 | 04-04-2364A | 02
04 | FL | BREVARD COUNTY * | 12009C0435E | 22-JAN-2004 | 04-04-2382A | 02
04 | FL | BREVARD COUNTY * | 12009C0100E | 05-FEB-2004 | 04-04-2452A | 02
04 | FL | BREVARD COUNTY * | 12009C0180E | 05-FEB-2004 | 04-04-1920A | 02
04 | FL | BREVARD COUNTY * | 12009C0430E | 09-FEB-2004 | 04-04-2992A | 02
04 | FL | BREVARD COUNTY * | 12009C0360E | 11-MAR-2004 | 04-04-3178A | 02
04 | FL | BREVARD COUNTY * | 12009C0619E | 18-MAR-2004 | 04-04-3704A | 02
04 | FL | BREVARD COUNTY * | 12009C0350E | 08-APR-2004 | 04-04-3098A | 02
04 | FL | BREVARD COUNTY * | 12009C0370E | 08-APR-2004 | 04-04-3904A | 02
04 | FL | BREVARD COUNTY * | 12009C0430E | 15-APR-2004 | 04-04-4368A | 01
04 | FL | BREVARD COUNTY * | 12009C0365E | 29-APR-2004 | 04-04-4122A | 02
04 | FL | BREVARD COUNTY * | 12009C0435E | 29-APR-2004 | 04-04-4114A | 02
04 | FL | BREVARD COUNTY * | 12009C0260E | 06-MAY-2004 | 04-04-3502A | 02
04 | FL | BREVARD COUNTY * | 12009C0430E | 10-MAY-2004 | 04-04-4226A | 01
04 | FL | BREVARD COUNTY * | 12009C0386E | 20-MAY-2004 | 04-04-4872A | 02
04 | FL | BREVARD COUNTY * | 12009C0430E | 20-MAY-2004 | 04-04-4794A | 02
04 | FL | BREVARD COUNTY * | 12009C0430E | 20-MAY-2004 | 04-04-4802A | 02
04 | FL | BREVARD COUNTY * | 12009C0435E | 24-MAY-2004 | 04-04-4874A | 01
04 | FL | BREVARD COUNTY * | 12009C0430E | 27-MAY-2004 | 04-04-5400A | 01
04 | FL | BREVARD COUNTY * | 12009C0435E | 27-MAY-2004 | 04-04-4032A | 01
04 | FL | BREVARD COUNTY * | 12009C0441F | 27-MAY-2004 | 04-04-5166A | 01
04 | FL | BREVARD COUNTY * | 12009C0541F | 27-MAY-2004 | 04-04-5084A | 02
04 | FL | BREVARD COUNTY * | 12009C0190F | 03-JUN-2004 | 04-04-5462A | 01
04 | FL | BREVARD COUNTY * | 12009C0270E | 07-JUN-2004 | 04-04-6128A | 02
04 | FL | BREVARD COUNTY * | 12009C0105E | 10-JUN-2004 | 04-04-5214A | 02
04 | FL | BREVARD COUNTY * | 12009C0115E | 10-JUN-2004 | 04-04-5214A | 02
04 | FL | BREVARD COUNTY * | 12009C0365E | 10-JUN-2004 | 04-04-6884A | 02
04 | FL | BREVARD COUNTY * | 12009C0435E | 10-JUN-2004 | 04-04-5850A | 02
04 | FL | BREVARD COUNTY * | 12009C0435E | 14-JUN-2004 | 04-04-6126A | 02
04 | FL | BREVARD COUNTY * | 12009C0461E | 14-JUN-2004 | 04-04-5948A | 02
04 | FL | BREVARD COUNTY * | 12009C0190F | 17-JUN-2004 | 04-04-5950A | 02
04 | FL | BREVARD COUNTY * | 12009C0270E | 21-JUN-2004 | 04-04-6034A | 01
04 | FL | BREVARD COUNTY * | 12009C0439E | 24-JUN-2004 | 04-04-6172A | 01
04 | FL | BREVARD COUNTY * | 12009C0615E | 24-JUN-2004 | 04-04-6270A | 01
04 | FL | BREVARD COUNTY * | 12009C0441F | 28-JUN-2004 | 04-04-6382A | 01
04 | FL | BROWARD COUNTY* | 12011C0280F | 22-JAN-2004 | 04-04-1882A | 02
04 | FL | BROWARD COUNTY* | 12011C0285F | 15-MAR-2004 | 04-04-3226A | 02
04 | FL | BROWARD COUNTY* | 12011C0195F | 18-MAR-2004 | 04-04-3318A | 02
04 | FL | BROWARD COUNTY* | 12011C0285F | 29-MAR-2004 | 04-04-4562A | 02
04 | FL | BROWARD COUNTY* | 12011C0305F | 08-APR-2004 | 04-04-4644A | 02
04 | FL | BROWARD COUNTY* | 12011C0190F | 09-APR-2004 | 04-04-3668A | 02
04 | FL | BROWARD COUNTY* | 12011C0280F | 16-APR-2004 | 04-04-4024A | 02
04 | FL | BROWARD COUNTY* | 12011C0285F | 23-APR-2004 | 04-04-4076A | 02
04 | FL | BROWARD COUNTY* | 12011C0285F | 23-APR-2004 | 04-04-4078A | 02
04 | FL | BROWARD COUNTY* | 12011C0120F | 26-APR-2004 | 04-04-4310A | 02
04 | FL | BROWARD COUNTY* | 12011C0195F | 26-APR-2004 | 04-04-4354A | 02
04 | FL | BROWARD COUNTY* | 12011C0206F | 06-MAY-2004 | 04-04-4552A | 02
04 | FL | BROWARD COUNTY* | 12011C0212F | 06-MAY-2004 | 04-04-4724A | 02
04 | FL | BROWARD COUNTY* | 12011C0285F | 06-MAY-2004 | 04-04-4550A | 02
04 | FL | BROWARD COUNTY* | 12011C0195F | 10-JUN-2004 | 04-04-3670A | 02
04 | FL | BROWARD COUNTY* | 12011C0285F | 10-JUN-2004 | 04-04-5682A | 02
04 | FL | BROWARD COUNTY* | 12011C0280F | 14-JUN-2004 | 04-04-4982A | 02
04 | FL | BROWARD COUNTY* | 12011C0190F | 17-JUN-2004 | 04-04-5842A | 02
04 | FL | BROWARD COUNTY* | 12011C0285F | 17-JUN-2004 | 04-04-6120A | 02
04 | FL | BROWARD COUNTY* | 12011C0190F | 24-JUN-2004 | 04-04-6166A | 02
04 | FL | BROWARD COUNTY* | 12011C0120F | 25-JUN-2004 | 04-04-6280A | 02
04 | FL | BROWARD COUNTY* | 12011C0285F | 25-JUN-2004 | 04-04-6284A | 02
04 | FL | CALLAHAN, TOWN OF | 1201700325C | 20-MAY-2004 | 04-04-4232A | 01
04 | FL | CALLAHAN, TOWN OF | 1201710001B | 20-MAY-2004 | 04-04-4232A | 01
04 | FL | CAPE CORAL, CITY OF | 1250950020C | 02-JAN-2004 | 04-04-1036A | 01
04 | FL | CAPE CORAL, CITY OF | 1250950020C | 02-JAN-2004 | 04-04-1088A | 01
04 | FL | CAPE CORAL, CITY OF | 1250950020C | 02-JAN-2004 | 04-04-1230A | 01
04 | FL | CAPE CORAL, CITY OF | 1250950030C | 02-JAN-2004 | 04-04-1088A | 01
04 | FL | CAPE CORAL, CITY OF | 1250950020C | 08-JAN-2004 | 04-04-1394A | 01
04 | FL | CAPE CORAL, CITY OF | 1250950030C | 26-JAN-2004 | 04-04-1492A | 01
04 | FL | CAPE CORAL, CITY OF | 1250950030C | 26-JAN-2004 | 04-04-1692A | 01
04 | FL | CAPE CORAL, CITY OF | 1250950035C | 26-JAN-2004 | 04-04-1692A | 01
04 | FL | CAPE CORAL, CITY OF | 1250950020C | 29-JAN-2004 | 04-04-2246A | 01
04 | FL | CAPE CORAL, CITY OF | 1250950005C | 02-FEB-2004 | 04-04-2310A | 01
04 | FL | CAPE CORAL, CITY OF | 1250950030C | 02-FEB-2004 | 04-04-2216A | 01
04 | FL | CAPE CORAL, CITY OF | 1250950040C | 02-FEB-2004 | 04-04-2216A | 01
04 | FL | CAPE CORAL, CITY OF | 1250950030C | 05-FEB-2004 | 04-04-2218A | 01
04 | FL | CAPE CORAL, CITY OF | 1250950030C | 19-FEB-2004 | 04-04-2540A | 01
04 | FL | CAPE CORAL, CITY OF | 1250950020C | 26-FEB-2004 | 04-04-2764A | 01
04 | FL | CAPE CORAL, CITY OF | 1250950020C | 26-FEB-2004 | 04-04-2876A | 01
04 | FL | CAPE CORAL, CITY OF | 1250950020C | 04-MAR-2004 | 04-04-2878A | 01
04 | FL | CAPE CORAL, CITY OF | 1250950020C | 11-MAR-2004 | 04-04-3478A | 01
04 | FL | CAPE CORAL, CITY OF | 1250950030C | 11-MAR-2004 | 04-04-3478A | 01
04 | FL | CAPE CORAL, CITY OF | 1250950030C | 11-MAR-2004 | 04-04-3552A | 01
04 | FL | CAPE CORAL, CITY OF | 1250950035C | 11-MAR-2004 | 04-04-3552A | 01
04 | FL | CAPE CORAL, CITY OF | 1250950030C | 01-APR-2004 | 04-04-4230A | 01
04 | FL | CAPE CORAL, CITY OF | 1250950020C | 14-APR-2004 | 04-04-3724A | 01
04 | FL | CAPE CORAL, CITY OF | 1250950020C | 14-APR-2004 | 04-04-3910A | 01
04 | FL | CAPE CORAL, CITY OF | 1250950030C | 14-APR-2004 | 04-04-3910A | 01
04 | FL | CAPE CORAL, CITY OF | 1250950040C | 14-APR-2004 | 04-04-3910A | 01
04 | FL | CAPE CORAL, CITY OF | 1250950045C | 14-APR-2004 | 04-04-3910A | 01
04 | FL | CAPE CORAL, CITY OF | 1250950020C | 26-APR-2004 | 04-04-4414A | 01
04 | FL | CAPE CORAL, CITY OF | 1250950020C | 06-MAY-2004 | 04-04-4740A | 01
04 | FL | CAPE CORAL, CITY OF | 1250950020C | 06-MAY-2004 | 04-04-4808A | 01
04 | FL | CAPE CORAL, CITY OF | 1250950030C | 06-MAY-2004 | 04-04-4740A | 01
04 | FL | CAPE CORAL, CITY OF | 1250950020C | 10-MAY-2004 | 04-04-4318A | 01
04 | FL | CAPE CORAL, CITY OF | 1250950020C | 10-MAY-2004 | 04-04-4998A | 01
04 | FL | CAPE CORAL, CITY OF | 1250950020C | 10-MAY-2004 | 04-04-5254A | 01
04 | FL | CAPE CORAL, CITY OF | 1250950020C | 13-MAY-2004 | 04-04-4650A | 01
04 | FL | CAPE CORAL, CITY OF | 1250950030C | 13-MAY-2004 | 04-04-2494A | 01
04 | FL | CAPE CORAL, CITY OF | 1250950030C | 13-MAY-2004 | 04-04-4650A | 01
04 | FL | CAPE CORAL, CITY OF | 1250950005C | 20-MAY-2004 | 04-04-4996A | 01
04 | FL | CAPE CORAL, CITY OF | 1250950020C | 20-MAY-2004 | 04-04-4996A | 01
04 | FL | CAPE CORAL, CITY OF | 1250950020C | 03-JUN-2004 | 04-04-5544A | 01
04 | FL | CAPE CORAL, CITY OF | 1250950005C | 07-JUN-2004 | 04-04-5642A | 01
04 | FL | CAPE CORAL, CITY OF | 1250950045C | 07-JUN-2004 | 04-04-5640A | 01
04 | FL | CAPE CORAL, CITY OF | 1250950020C | 10-JUN-2004 | 04-04-5704A | 01
04 | FL | CAPE CORAL, CITY OF | 1250950035C | 10-JUN-2004 | 04-04-5704A | 01
04 | FL | CAPE CORAL, CITY OF | 1250950020C | 21-JUN-2004 | 04-04-5914A | 01
04 | FL | CAPE CORAL, CITY OF | 1250950020C | 24-JUN-2004 | 04-04-6098A | 01
04 | FL | CAPE CORAL, CITY OF | 1250950020C | 24-JUN-2004 | 04-04-6292A | 01
04 | FL | CAPE CORAL, CITY OF | 1250950030C | 24-JUN-2004 | 04-04-6098A | 01
04 | FL | CAPE CORAL, CITY OF | 1250950020C | 25-JUN-2004 | 04-04-6378A | 01
04 | FL | CASSELBERRY, CITY OF | 12117C0140E | 29-JAN-2004 | 04-04-2490A | 02
04 | FL | CASSELBERRY, CITY OF | 12117C0140E | 29-JAN-2004 | 04-04-2604A | 02
04 | FL | CASSELBERRY, CITY OF | 12117C0145E | 04-MAR-2004 | 04-04-3248A | 02
04 | FL | CASSELBERRY, CITY OF | 12117C0210E | 17-JUN-2004 | 04-04-3718A | 02
04 | FL | CHARLOTTE COUNTY * | 12015C0070F | 08-JAN-2004 | 04-04-1732A | 02
04 | FL | CHARLOTTE COUNTY * | 12015C0040F | 20-JAN-2004 | 04-04-1804A | 02
04 | FL | CHARLOTTE COUNTY * | 12015C0040F | 20-JAN-2004 | 04-04-1918A | 02
04 | FL | CHARLOTTE COUNTY * | 12015C0070F | 22-JAN-2004 | 04-04-1662A | 02
04 | FL | CHARLOTTE COUNTY * | 12105C0194F | 05-FEB-2004 | 04-04-2754A | 02
04 | FL | CHARLOTTE COUNTY * | 12015C0063F | 12-FEB-2004 | 04-04-2950A | 02
04 | FL | CHARLOTTE COUNTY * | 12105C0064F | 08-MAR-2004 | 04-04-2616A | 02
04 | FL | CHARLOTTE COUNTY * | 12015C0070F | 11-MAR-2004 | 04-04-3544A | 02
04 | FL | CHARLOTTE COUNTY * | 12015C0253F | 30-MAR-2004 | 03-04-527P | 05
04 | FL | CHARLOTTE COUNTY * | 12015C0206F | 20-MAY-2004 | 04-04-4018A | 02
04 | FL | CITRUS COUNTY * | 1200630300B | 02-JAN-2004 | 04-04-1372A | 02
04 | FL | CITRUS COUNTY * | 1200630260B | 26-FEB-2004 | 04-04-1664A | 02
04 | FL | CITRUS COUNTY * | 1200630175B | 28-JUN-2004 | 04-04-5420A | 02
04 | FL | CLAY COUNTY * | 1200640350D | 22-JAN-2004 | 04-04-2300A | 02
04 | FL | CLAY COUNTY * | 1200640070D | 29-JAN-2004 | 04-04-2544A | 02
04 | FL | CLAY COUNTY * | 1200640155D | 29-JAN-2004 | 04-04-2632A | 02
04 | FL | CLAY COUNTY * | 1200640155D | 26-FEB-2004 | 04-04-2370A | 01
04 | FL | CLAY COUNTY * | 1200640155D | 01-MAR-2004 | 04-04-1524A | 01
04 | FL | CLAY COUNTY * | 1200640325D | 04-MAR-2004 | 04-04-1514A | 02
04 | FL | CLAY COUNTY * | 1200640065D | 15-MAR-2004 | 04-04-2610A | 02
04 | FL | CLAY COUNTY * | 1200640065D | 18-MAR-2004 | 04-04-3666A | 01
04 | FL | CLAY COUNTY * | 1200640065D | 01-APR-2004 | 04-04-0552A | 01
04 | FL | CLAY COUNTY * | 1200640045D | 23-APR-2004 | 04-04-2720A | 01
04 | FL | CLAY COUNTY * | 1200640065D | 23-APR-2004 | 04-04-2720A | 01
04 | FL | CLAY COUNTY * | 1200640135D | 17-MAY-2004 | 04-04-3796A | 01
04 | FL | CLAY COUNTY * | 1200640145D | 24-MAY-2004 | 04-04-5102A | 01
04 | FL | CLAY COUNTY * | 1200640135D | 17-JUN-2004 | 04-04-6652A | 02
04 | FL | CLAY COUNTY * | 1200640155D | 24-JUN-2004 | 04-04-0226A | 01
04 | FL | CLEARWATER, CITY OF | 12103C0106G | 26-FEB-2004 | 04-04-2292A | 02
04 | FL | CLEARWATER, CITY OF | 12103C0106G | 15-MAR-2004 | 04-04-3864A | 02
04 | FL | CLEARWATER, CITY OF | 12103C0126G | 08-APR-2004 | 04-04-3546A | 02
04 | FL | CLEARWATER, CITY OF | 12103C0104G | 15-APR-2004 | 04-04-4576X | 02
04 | FL | CLEARWATER, CITY OF | 12103C0107G | 20-MAY-2004 | 04-04-3770A | 02
04 | FL | CLERMONT, CITY OF | 12069C0545D | 15-JAN-2004 | 04-04-1794A | 02
04 | FL | CLERMONT, CITY OF | 12069C0565D | 13-MAY-2004 | 04-04-4278A | 02
04 | FL | COCONUT CREEK, CITY OF | 12011C0115F | 08-JAN-2004 | 04-04-1892A | 02
04 | FL | COCONUT CREEK, CITY OF | 12011C0115F | 22-JAN-2004 | 04-04-1678A | 02
04 | FL | COCONUT CREEK, CITY OF | 12011C0115F | 26-FEB-2004 | 04-04-3564A | 02
04 | FL | COCONUT CREEK, CITY OF | 12011C0115F | 07-JUN-2004 | 04-04-5608A | 02
04 | FL | COCONUT CREEK, CITY OF | 12011C0115F | 17-JUN-2004 | 04-04-5940A | 02
04 | FL | COCONUT CREEK, CITY OF | 12011C0115F | 17-JUN-2004 | 04-04-5942A | 02
04 | FL | COLLIER COUNTY * | 1200670620D | 29-JAN-2004 | 04-04-2626A | 01
04 | FL | COLLIER COUNTY * | 1200670605E | 17-FEB-2004 | 04-04-0936A | 01
04 | FL | COOPER CITY, CITY OF | 12011C0305F | 29-JAN-2004 | 04-04-2126A | 02
04 | FL | COOPER CITY, CITY OF | 12011C0285F | 03-MAY-2004 | 04-04-4418A | 02
04 | FL | COOPER CITY, CITY OF | 12011C0285F | 17-JUN-2004 | 04-04-5908A | 02
04 | FL | CORAL SPRINGS, CITY OF | 12011C0095F | 22-JAN-2004 | 04-04-1668A | 02
04 | FL | CORAL SPRINGS, CITY OF | 12011C0085F | 29-JAN-2004 | 04-04-1784A | 02
04 | FL | CORAL SPRINGS, CITY OF | 12011C0115F | 29-JAN-2004 | 04-04-0316A | 02
04 | FL | CORAL SPRINGS, CITY OF | 12011C0115F | 29-JAN-2004 | 04-04-1886A | 02
04 | FL | CORAL SPRINGS, CITY OF | 12011C0115F | 02-FEB-2004 | 04-04-2130A | 02
04 | FL | CORAL SPRINGS, CITY OF | 12011C0095F | 05-FEB-2004 | 04-04-2132A | 02
04 | FL | CORAL SPRINGS, CITY OF | 12011C0095F | 05-FEB-2004 | 04-04-2438A | 02
04 | FL | CORAL SPRINGS, CITY OF | 12011C0095F | 12-FEB-2004 | 04-04-2378A | 02
04 | FL | CORAL SPRINGS, CITY OF | 12011C0115F | 12-FEB-2004 | 03-04-10852A | 02
04 | FL | CORAL SPRINGS, CITY OF | 12011C0095F | 17-FEB-2004 | 04-04-2442A | 02
04 | FL | CORAL SPRINGS, CITY OF | 12011C0115F | 19-FEB-2004 | 04-04-2600A | 02
04 | FL | CORAL SPRINGS, CITY OF | 12011C0115F | 19-FEB-2004 | 04-04-2760A | 02
04 | FL | CORAL SPRINGS, CITY OF | 12011C0115F | 26-FEB-2004 | 04-04-0640A | 02
04 | FL | CORAL SPRINGS, CITY OF | 12011C0115F | 26-FEB-2004 | 04-04-0974A | 02
04 | FL | CORAL SPRINGS, CITY OF | 12011C0095F | 11-MAR-2004 | 04-04-3228A | 02
04 | FL | CORAL SPRINGS, CITY OF | 12011C0095F | 11-MAR-2004 | 04-04-3312A | 02
04 | FL | CORAL SPRINGS, CITY OF | 12011C0085F | 15-MAR-2004 | 04-04-3146A | 02
04 | FL | CORAL SPRINGS, CITY OF | 12011C0095F | 09-APR-2004 | 04-04-3534A | 02
04 | FL | CORAL SPRINGS, CITY OF | 12011C0095F | 06-MAY-2004 | 04-04-4722A | 02
04 | FL | CORAL SPRINGS, CITY OF | 12011C0115F | 20-MAY-2004 | 04-04-5064A | 02
04 | FL | CORAL SPRINGS, CITY OF | 12011C0115F | 20-MAY-2004 | 04-04-5148A | 02
04 | FL | CORAL SPRINGS, CITY OF | 12011C0115F | 01-JUN-2004 | 04-04-4726A | 02
04 | FL | CORAL SPRINGS, CITY OF | 12011C0115F | 01-JUN-2004 | 04-04-5312A | 02
04 | FL | CORAL SPRINGS, CITY OF | 12011C0115F | 01-JUN-2004 | 04-04-5326A | 02
04 | FL | CORAL SPRINGS, CITY OF | 12011C0095F | 17-JUN-2004 | 04-04-5812A | 02
04 | FL | CORAL SPRINGS, CITY OF | 12011C0095F | 17-JUN-2004 | 04-04-6068A | 02
04 | FL | CORAL SPRINGS, CITY OF | 12011C0115F | 24-JUN-2004 | 04-04-6210A | 02
04 | FL | CORAL SPRINGS, CITY OF | 12011C0115F | 24-JUN-2004 | 04-04-6212A | 02
04 | FL | CORAL SPRINGS, CITY OF | 12011C0085F | 25-JUN-2004 | 04-04-6290A | 02
04 | FL | CORAL SPRINGS, CITY OF | 12011C0115F | 25-JUN-2004 | 04-04-6352A | 02
04 | FL | DANIA BEACH, CITY OF | 12011C0308F | 13-MAY-2004 | 04-04-4356A | 02
04 | FL | DAVIE, CITY OF | 12011C0302F | 08-JAN-2004 | 04-04-0812A | 02
04 | FL | DAVIE, CITY OF | 12011C0304F | 22-JAN-2004 | 04-04-1880A | 02
04 | FL | DAVIE, CITY OF | 12011C0302F | 19-FEB-2004 | 04-04-2534A | 02
04 | FL | DAVIE, CITY OF | 12011C0302F | 25-MAR-2004 | 04-04-3256A | 02
04 | FL | DAVIE, CITY OF | 12011C0305F | 29-MAR-2004 | 04-04-4210A | 02
04 | FL | DAVIE, CITY OF | 12011C0304F | 05-APR-2004 | 04-04-4416A | 02
04 | FL | DAVIE, CITY OF | 12011C0195F | 16-APR-2004 | 04-04-3898A | 02
04 | FL | DAVIE, CITY OF | 12011C0285F | 23-APR-2004 | 04-04-4074A | 02
04 | FL | DAVIE, CITY OF | 12011C0302F | 23-APR-2004 | 04-04-4646A | 02
04 | FL | DAVIE, CITY OF | 12011C0304F | 23-APR-2004 | 04-04-4646A | 02
04 | FL | DAVIE, CITY OF | 12011C0285F | 26-APR-2004 | 04-04-4308A | 02
04 | FL | DAVIE, CITY OF | 12011C0285F | 29-APR-2004 | 04-04-4560A | 02
04 | FL | DAVIE, CITY OF | 12011C0195F | 01-JUN-2004 | 04-04-5310A | 02
04 | FL | DAVIE, CITY OF | 12011C0215F | 17-JUN-2004 | 04-04-5638A | 02
04 | FL | DAVIE, CITY OF | 12011C0302F | 17-JUN-2004 | 04-04-5638A | 02
04 | FL | DAVIE, CITY OF | 12011C0215F | 25-JUN-2004 | 04-04-6354A | 02
04 | FL | DAVIE, CITY OF | 12011C0285F | 25-JUN-2004 | 04-04-6402A | 02
04 | FL | DEBARY, CITY OF | 12127C0620G | 24-JUN-2004 | 04-04-6496A | 02
04 | FL | DEERFIELD BEACH, CITY OF | 12011C0108F | 02-JAN-2004 | 04-04-1186A | 02
04 | FL | DEERFIELD BEACH, CITY OF | 12011C0120F | 02-JAN-2004 | 04-04-1226A | 02
04 | FL | DEERFIELD BEACH, CITY OF | 12011C0108F | 29-JAN-2004 | 04-04-1930A | 02
04 | FL | DEERFIELD BEACH, CITY OF | 12011C0108F | 02-FEB-2004 | 04-04-2188A | 02
04 | FL | DEERFIELD BEACH, CITY OF | 12011C0120F | 04-MAR-2004 | 04-04-2868A | 02
04 | FL | DEERFIELD BEACH, CITY OF | 12011C0120F | 16-APR-2004 | 04-04-4026A | 02
04 | FL | DEERFIELD BEACH, CITY OF | 12011C0108F | 23-APR-2004 | 04-04-3788A | 02
04 | FL | DEERFIELD BEACH, CITY OF | 12011C0109G | 06-MAY-2004 | 04-04-4558A | 02
04 | FL | DEERFIELD BEACH, CITY OF | 12011C0108F | 20-MAY-2004 | 04-04-5088A | 02
04 | FL | DEERFIELD BEACH, CITY OF | 12011C0120F | 07-JUN-2004 | 04-04-5536A | 02
04 | FL | DELRAY BEACH, CITY OF | 1251020006D | 04-MAR-2004 | 04-04-2714A | 02
04 | FL | DELRAY BEACH, CITY OF | 1251020002D | 10-MAY-2004 | 04-04-4208A | 02
04 | FL | DELRAY BEACH, CITY OF | 1251020005D | 13-MAY-2004 | 03-04-11106A | 02
04 | FL | DELRAY BEACH, CITY OF | 1251020001D | 27-MAY-2004 | 04-04-5318A | 02
04 | FL | DELRAY BEACH, CITY OF | 1251020005D | 07-JUN-2004 | 04-04-5614A | 02
04 | FL | DELRAY BEACH, CITY OF | 1251020001D | 14-JUN-2004 | 04-04-5416A | 02
04 | FL | DELRAY BEACH, CITY OF | 1251020001D | 17-JUN-2004 | 04-04-5316A | 02
04 | FL | DELRAY BEACH, CITY OF | 1251020001D | 21-JUN-2004 | 04-04-6044A | 02
04 | FL | DELRAY BEACH, CITY OF | 1251020001D | 21-JUN-2004 | 04-04-6094A | 02
04 | FL | DELRAY BEACH, CITY OF | 1251020001D | 24-JUN-2004 | 04-04-6122A | 02
04 | FL | DELRAY BEACH, CITY OF | 1251020001D | 24-JUN-2004 | 04-04-6124A | 02
04 | FL | DELRAY BEACH, CITY OF | 1251020001D | 24-JUN-2004 | 04-04-6170A | 02
04 | FL | DELRAY BEACH, CITY OF | 1251020001D | 25-JUN-2004 | 04-04-6392A | 02
04 | FL | DELTONA, CITY OF | 12127C0650G | 14-APR-2004 | 04-04-2702A | 02
04 | FL | DESTIN, CITY OF | 12091C0469H | 24-JUN-2004 | 04-04-6316A | 02
04 | FL | DIXIE COUNTY * | 1203360285B | 15-JAN-2004 | 04-04-1082A | 02
04 | FL | DUNEDIN, CITY OF | 12103C0067G | 22-JAN-2004 | 04-04-1978A | 02
04 | FL | DUNEDIN, CITY OF | 12103C0069G | 22-JAN-2004 | 04-04-2186A | 02
04 | FL | DUNEDIN, CITY OF | 12103C0068G | 26-FEB-2004 | 04-04-2240A | 02
04 | FL | DUNEDIN, CITY OF | 12103C0068G | 05-APR-2004 | 04-04-3536A | 02
04 | FL | DUNEDIN, CITY OF | 12103C0067G | 08-APR-2004 | 04-04-3242A | 02
04 | FL | DUNEDIN, CITY OF | 12103C0069G | 10-MAY-2004 | 04-04-2296A | 01
04 | FL | DUNEDIN, CITY OF | 12103C0069G | 27-MAY-2004 | 04-04-4640A | 02
04 | FL | DUNEDIN, CITY OF | 12103C0069G | 27-MAY-2004 | 04-04-5348A | 02
04 | FL | DUNEDIN, CITY OF | 12103C0069G | 03-JUN-2004 | 04-04-5576A | 02
04 | FL | DUNEDIN, CITY OF | 12103C0106G | 17-JUN-2004 | 04-04-5938A | 02
04 | FL | ESCAMBIA COUNTY* | 12033C0368F | 02-JAN-2004 | 04-04-1366A | 02
04 | FL | ESCAMBIA COUNTY* | 12033C0370F | 09-FEB-2004 | 04-04-0040A | 02
04 | FL | ESCAMBIA COUNTY* | 12033C0368F | 13-MAY-2004 | 04-04-4322A | 02
04 | FL | EUSTIS, CITY OF | 12069C0220D | 04-MAR-2004 | 04-04-3182A | 02
04 | FL | FORT LAUDERDALE, CITY OF | 12011C0217F | 02-JAN-2004 | 04-04-0992A | 02
04 | FL | FORT LAUDERDALE, CITY OF | 12011C0218F | 23-APR-2004 | 04-04-4978A | 02
04 | FL | FORT LAUDERDALE, CITY OF | 12011C0209F | 06-MAY-2004 | 04-04-4980A | 02
04 | FL | FRANKLIN COUNTY * | 12037C0290E | 08-APR-2004 | 04-04-4832A | 02
04 | FL | GAINESVILLE, CITY OF | 1251070004B | 02-JAN-2004 | 04-04-1374A | 01
04 | FL | GAINESVILLE, CITY OF | 1200010259A | 03-MAY-2004 | 04-04-5414A | 02
04 | FL | GAINESVILLE, CITY OF | 1251070005C | 06-MAY-2004 | 04-04-4516A | 02
04 | FL | GAINESVILLE, CITY OF | 1251070004B | 20-MAY-2004 | 04-04-3234A | 02
04 | FL | GAINESVILLE, CITY OF | 1251070012B | 14-JUN-2004 | 04-04-2712A | 02
04 | FL | GAINESVILLE, CITY OF | 1200010275A | 21-JUN-2004 | 04-04-6136A | 02
04 | FL | GAINESVILLE, CITY OF | 1200010275A | 28-JUN-2004 | 04-04-6272A | 02
04 | FL | GAINESVILLE, CITY OF | 1200010275A | 28-JUN-2004 | 04-04-6312A | 02
04 | FL | GLADES COUNTY * | 1200950050B | 20-MAY-2004 | 04-04-5818A | 02
04 | FL | GROVELAND, CITY OF | 12069C0530D | 15-JAN-2004 | 04-04-1914A | 02
04 | FL | GROVELAND, CITY OF | 12069C0540D | 15-JAN-2004 | 04-04-1912A | 02
04 | FL | GULF COUNTY * | 12045C0407E | 15-MAR-2004 | 04-04-2996A | 01
04 | FL | GULF COUNTY * | 12045C0407E | 13-MAY-2004 | 04-04-3710A | 02
04 | FL | GULF COUNTY * | 12045C0407E | 17-MAY-2004 | 04-04-2894A | 02
04 | FL | GULF COUNTY * | 12045C0409E | 27-MAY-2004 | 04-04-5282A | 02
04 | FL | GULF COUNTY * | 12045C0407E | 10-JUN-2004 | 04-04-4582A | 02
04 | FL | GULF COUNTY * | 12045C0437E | 10-JUN-2004 | 04-04-5724A | 02
04 | FL | GULF COUNTY * | 12045C0407E | 24-JUN-2004 | 04-04-5470A | 02
04 | FL | HERNANDO COUNTY * | 1201100175B | 08-JAN-2004 | 04-04-0294A | 01
04 | FL | HERNANDO COUNTY * | 1201100325B | 08-JAN-2004 | 04-04-0294A | 01
04 | FL | HERNANDO COUNTY * | 1201100150B | 05-FEB-2004 | 04-04-1080A | 02
04 | FL | HERNANDO COUNTY * | 1201100180B | 12-FEB-2004 | 04-04-3238A | 02
04 | FL | HERNANDO COUNTY * | 1201100280B | 17-FEB-2004 | 04-04-2388A | 02
04 | FL | HERNANDO COUNTY * | 1201100300B | 17-FEB-2004 | 04-04-2388A | 02
04 | FL | HERNANDO COUNTY * | 1201100375B | 05-APR-2004 | 04-04-5478A | 02
04 | FL | HIGHLANDS COUNTY * | 1201110075B | 03-JUN-2004 | 04-04-5154A | 02
04 | FL | HILLSBOROUGH COUNTY* | 1201120167C | 22-JAN-2004 | 04-04-1952A | 01
04 | FL | HILLSBOROUGH COUNTY* | 1201120169C | 22-JAN-2004 | 04-04-1952A | 01
04 | FL | HILLSBOROUGH COUNTY* | 1201120205D | 22-JAN-2004 | 04-04-2460A | 01
04 | FL | HILLSBOROUGH COUNTY* | 1201120160C | 05-FEB-2004 | 04-04-2502A | 01
04 | FL | HILLSBOROUGH COUNTY* | 1201120180F | 05-FEB-2004 | 04-04-2502A | 01
04 | FL | HILLSBOROUGH COUNTY* | 1201120210E | 05-FEB-2004 | 04-04-3000A | 01
04 | FL | HILLSBOROUGH COUNTY* | 1201120065D | 26-FEB-2004 | 04-04-3114A | 01
04 | FL | HILLSBOROUGH COUNTY* | 1201120520C | 22-MAR-2004 | 04-04-3628A | 02
04 | FL | HILLSBOROUGH COUNTY* | 1201120180F | 25-MAR-2004 | 04-04-2504A | 01
04 | FL | HILLSBOROUGH COUNTY* | 1201120484C | 05-APR-2004 | 03-04-335P | 05
04 | FL | HILLSBOROUGH COUNTY* | 1201120491C | 05-APR-2004 | 03-04-335P | 05
04 | FL | HILLSBOROUGH COUNTY* | 1201120492C | 05-APR-2004 | 03-04-335P | 05
04 | FL | HILLSBOROUGH COUNTY* | 1201120192D | 08-APR-2004 | 04-04-4364A | 02
04 | FL | HILLSBOROUGH COUNTY* | 1201120331C | 15-APR-2004 | 04-04-4010A | 02
04 | FL | HILLSBOROUGH COUNTY* | 1201120065D | 23-APR-2004 | 04-04-4600A | 02
04 | FL | HILLSBOROUGH COUNTY* | 1201120204D | 29-APR-2004 | 04-04-4428A | 02
04 | FL | HILLSBOROUGH COUNTY* | 1201120065D | 17-MAY-2004 | 04-04-5160A | 01
04 | FL | HILLSBOROUGH COUNTY* | 1201120260C | 17-MAY-2004 | 04-04-4224A | 02
04 | FL | HILLSBOROUGH COUNTY* | 1201120520C | 17-MAY-2004 | 04-04-1694A | 01
04 | FL | HILLSBOROUGH COUNTY* | 1201120070E | 20-MAY-2004 | 04-04-3566A | 02
04 | FL | HILLSBOROUGH COUNTY* | 1201120386E | 20-MAY-2004 | 04-04-4120A | 01
04 | FL | HILLSBOROUGH COUNTY* | 1201120180F | 03-JUN-2004 | 04-04-5480A | 01
04 | FL | HILLSBOROUGH COUNTY* | 1201120502B | 03-JUN-2004 | 04-04-4792A | 02
04 | FL | HILLSBOROUGH COUNTY* | 1201120045D | 07-JUN-2004 | 04-04-5618A | 02
04 | FL | HILLSBOROUGH COUNTY* | 1201120205D | 10-JUN-2004 | 04-04-5694A | 02
04 | FL | HILLSBOROUGH COUNTY* | 1201120385E | 10-JUN-2004 | 04-04-5760A | 01
04 | FL | HILLSBOROUGH COUNTY* | 1201120450B | 10-JUN-2004 | 04-04-4974A | 02
04 | FL | HILLSBOROUGH COUNTY* | 1201120510C | 14-JUN-2004 | 04-04-3486A | 02
04 | FL | HILLSBOROUGH COUNTY* | 1201120185F | 17-JUN-2004 | 04-04-5782A | 01
04 | FL | HILLSBOROUGH COUNTY* | 1201120065D | 21-JUN-2004 | 04-04-6074A | 01
04 | FL | HOLLYWOOD, CITY OF | 12011C0309F | 29-JAN-2004 | 04-04-0390A | 02
04 | FL | HOLLYWOOD, CITY OF | 12011C0308F | 26-FEB-2004 | 04-04-0938A | 02
04 | FL | HOLLYWOOD, CITY OF | 12011C0304F | 08-MAR-2004 | 04-04-3874A | 02
04 | FL | HOLLYWOOD, CITY OF | 12011C0309F | 25-MAR-2004 | 04-04-2456A | 02
04 | FL | HOLLYWOOD, CITY OF | 12011C0304F | 24-JUN-2004 | 04-04-6206A | 02
04 | FL | HOLLYWOOD, CITY OF | 12011C0312F | 25-JUN-2004 | 04-04-6286A | 02
04 | FL | HOLLYWOOD, CITY OF | 12011C0312F | 25-JUN-2004 | 04-04-6400A | 02
04 | FL | HOMESTEAD, CITY OF | 12025C0365J | 26-JAN-2004 | 04-04-1990A | 01
04 | FL | HOMESTEAD, CITY OF | 12025C0365J | 19-FEB-2004 | 04-04-3116A | 01
04 | FL | HOMESTEAD, CITY OF | 12025C0365J | 11-MAR-2004 | 04-04-3118A | 01
04 | FL | HOMESTEAD, CITY OF | 12025C0365J | 15-MAR-2004 | 04-04-3260A | 01
04 | FL | HOMESTEAD, CITY OF | 12025C0365J | 16-APR-2004 | 04-04-2468A | 01
04 | FL | HOMESTEAD, CITY OF | 12025C0365J | 03-MAY-2004 | 04-04-3730A | 01
04 | FL | HOMESTEAD, CITY OF | 12025C0365J | 03-MAY-2004 | 04-04-3732A | 01
04 | FL | HOMESTEAD, CITY OF | 12025C0365J | 20-MAY-2004 | 04-04-5036A | 01
04 | FL | HOMESTEAD, CITY OF | 12025C0365J | 27-MAY-2004 | 04-04-5034A | 01
04 | FL | HOMESTEAD, CITY OF | 12025C0365J | 01-JUN-2004 | 04-04-5352A | 01
04 | FL | HOMESTEAD, CITY OF | 12025C0365J | 07-JUN-2004 | 04-04-5626A | 01
04 | FL | HOMESTEAD, CITY OF | 12025C0365J | 10-JUN-2004 | 04-04-5780A | 01
04 | FL | HOMESTEAD, CITY OF | 12025C0365J | 24-JUN-2004 | 04-04-5864A | 01
04 | FL | HOMESTEAD, CITY OF | 12025C0365J | 24-JUN-2004 | 04-04-6150A | 01
04 | FL | HOMESTEAD, CITY OF | 12025C0455J | 24-JUN-2004 | 04-04-5864A | 01
04 | FL | HOMESTEAD, CITY OF | 12025C0365J | 25-JUN-2004 | 04-04-6322A | 01
04 | FL | JACKSONVILLE, CITY OF | 1200770218E | 02-JAN-2004 | 04-04-1364A | 02
04 | FL | JACKSONVILLE, CITY OF | 1200770065E | 04-MAR-2004 | 04-04-0288A | 02
04 | FL | JACKSONVILLE, CITY OF | 1200770131E | 18-MAR-2004 | 04-04-3140A | 01
04 | FL | JACKSONVILLE, CITY OF | 1200770217E | 14-APR-2004 | 04-04-2384A | 02
04 | FL | JACKSONVILLE, CITY OF | 1200770209E | 13-MAY-2004 | 04-04-4502A | 02
04 | FL | JACKSONVILLE, CITY OF | 1200770163E | 17-MAY-2004 | 04-04-4784A | 02
04 | FL | JACKSONVILLE, CITY OF | 1200770164E | 17-MAY-2004 | 04-04-4784A | 02
04 | FL | JACKSONVILLE, CITY OF | 1200770150E | 27-MAY-2004 | 04-04-5488A | 02
04 | FL | JACKSONVILLE, CITY OF | 1200770239E | 27-MAY-2004 | 04-04-4964A | 02
04 | FL | JACKSONVILLE, CITY OF | 1200770157E | 03-JUN-2004 | 03-04-9724A | 17
04 | FL | JACKSONVILLE, CITY OF | 1200770141E | 07-JUN-2004 | 04-04-5152A | 02
04 | FL | JACKSONVILLE, CITY OF | 1200770061E | 14-JUN-2004 | 04-04-1160A | 01
04 | FL | JACKSONVILLE, CITY OF | 1200770065E | 14-JUN-2004 | 04-04-1160A | 01
04 | FL | JUPITER, TOWN OF | 1201920108B | 18-MAR-2004 | 04-04-2492A | 01
04 | FL | JUPITER, TOWN OF | 1201190002D | 28-JUN-2004 | 04-04-6372A | 02
04 | FL | KEY BISCAYNE, VILLAGE OF | 12025C0281J | 12-FEB-2004 | 04-04-2906X | 02
04 | FL | KISSIMMEE, CITY OF | 12097C0067F | 02-FEB-2004 | 04-04-1890A | 02
04 | FL | KISSIMMEE, CITY OF | 12097C0067F | 12-FEB-2004 | 04-04-2866A | 02
04 | FL | KISSIMMEE, CITY OF | 12097C0060F | 26-FEB-2004 | 04-04-1342A | 02
04 | FL | KISSIMMEE, CITY OF | 12097C0065F | 15-APR-2004 | 04-04-2638A | 01
04 | FL | KISSIMMEE, CITY OF | 12097C0090F | 13-MAY-2004 | 04-04-3408A | 01
04 | FL | LADY LAKE, TOWN OF | 12069C0155D | 14-APR-2004 | 04-04-3772A | 02
04 | FL | LAKE COUNTY * | 12069C0334D | 02-JAN-2004 | 04-04-1410A | 02
04 | FL | LAKE COUNTY * | 12069C0455D | 02-JAN-2004 | 04-04-1454A | 02
04 | FL | LAKE COUNTY * | 12069C0470D | 02-JAN-2004 | 04-04-1248A | 02
04 | FL | LAKE COUNTY * | 12069C0220D | 08-JAN-2004 | 04-04-1672A | 02
04 | FL | LAKE COUNTY * | 12069C0725D | 08-JAN-2004 | 04-04-1260A | 01
04 | FL | LAKE COUNTY * | 12069C0545D | 15-JAN-2004 | 04-04-1910A | 02
04 | FL | LAKE COUNTY * | 12069C0435D | 29-JAN-2004 | 04-04-2618A | 02
04 | FL | LAKE COUNTY * | 12069C0455D | 29-JAN-2004 | 04-04-0550A | 01
04 | FL | LAKE COUNTY * | 12069C0480D | 05-FEB-2004 | 04-04-2718A | 02
04 | FL | LAKE COUNTY * | 12069C0435D | 09-FEB-2004 | 04-04-2850A | 02
04 | FL | LAKE COUNTY * | 12069C0155D | 12-FEB-2004 | 04-04-3034A | 02
04 | FL | LAKE COUNTY * | 12069C0358D | 11-MAR-2004 | 04-04-3296A | 02
04 | FL | LAKE COUNTY * | 12069C0570D | 11-MAR-2004 | 04-04-3374A | 02
04 | FL | LAKE COUNTY * | 12069C0366D | 18-MAR-2004 | 04-04-3606A | 02
04 | FL | LAKE COUNTY * | 12069C0455D | 18-MAR-2004 | 04-04-2890A | 02
04 | FL | LAKE COUNTY * | 12069C0334D | 22-MAR-2004 | 04-04-1500A | 02
04 | FL | LAKE COUNTY * | 12069C0545D | 08-APR-2004 | 04-04-2634A | 02
04 | FL | LAKE COUNTY * | 12069C0480D | 14-APR-2004 | 04-04-3900A | 02
04 | FL | LAKE COUNTY * | 12069C0235D | 13-MAY-2004 | 04-04-3088A | 02
04 | FL | LAKE COUNTY * | 12069C0195D | 20-MAY-2004 | 04-04-4790A | 02
04 | FL | LAKE COUNTY * | 12069C0366D | 20-MAY-2004 | 04-04-3906A | 02
04 | FL | LAKE COUNTY * | 12069C0305D | 27-MAY-2004 | 04-04-5066A | 01
04 | FL | LAKE COUNTY * | 12069C0308D | 27-MAY-2004 | 04-04-5066A | 01
04 | FL | LAKE COUNTY * | 12069C0345D | 01-JUN-2004 | 04-04-4676A | 02
04 | FL | LAKE COUNTY * | 12069C0365D | 01-JUN-2004 | 04-04-4022A | 02
04 | FL | LAKE COUNTY * | 12069C0445D | 03-JUN-2004 | 04-04-4430A | 02
04 | FL | LAKE COUNTY * | 12069C0470D | 10-JUN-2004 | 04-04-4028A | 02
04 | FL | LAKE COUNTY * | 12069C0625D | 10-JUN-2004 | 04-04-5582A | 02
04 | FL | LAKE COUNTY * | 12069C0331D | 14-JUN-2004 | 04-04-4136A | 02
04 | FL | LAKE COUNTY * | 12069C0435D | 21-JUN-2004 | 04-04-5688A | 02
04 | FL | LAKE COUNTY * | 12069C0331D | 24-JUN-2004 | 04-04-6106A | 02
04 | FL | LAKE COUNTY * | 12069C0332D | 24-JUN-2004 | 04-04-5968A | 02
04 | FL | LAKE COUNTY * | 12069C0333D | 24-JUN-2004 | 04-04-5902A | 02
04 | FL | LAKE MARY, CITY OF | 12117C0040E | 15-JAN-2004 | 04-04-1736A | 02
04 | FL | LAKELAND, CITY OF | 12105C0293F | 05-FEB-2004 | 04-04-1908A | 01
04 | FL | LAKELAND, CITY OF | 12105C0304F | 20-MAY-2004 | 04-04-4826A | 02
04 | FL | LARGO, CITY OF | 12103C0114G | 15-JAN-2004 | 04-04-1968A | 02
04 | FL | LARGO, CITY OF | 12103C0116G | 20-JAN-2004 | 04-04-1730A | 02
04 | FL | LARGO, CITY OF | 12103C0117G | 22-JAN-2004 | 03-04-10996A | 01
04 | FL | LARGO, CITY OF | 12103C0119G | 22-JAN-2004 | 03-04-10996A | 01
04 | FL | LARGO, CITY OF | 12103C0117G | 10-JUN-2004 | 04-04-2548A | 02
04 | FL | LAUDERDALE BY THE SEA, CITY OF | 12011C0209F | 26-FEB-2004 | 04-04-0524A | 02
04 | FL | LAUDERDALE LAKES, CITY OF | 12011C0212F | 08-JAN-2004 | 04-04-1390A | 02
04 | FL | LAUDERDALE LAKES, CITY OF | 12011C0212F | 29-JAN-2004 | 04-04-2124A | 02
04 | FL | LAUDERDALE LAKES, CITY OF | 12011C0212F | 11-MAR-2004 | 04-04-3376A | 02
04 | FL | LAUDERHILL, CITY OF | 12011C0204F | 19-FEB-2004 | 04-04-2538A | 02
04 | FL | LAUDERHILL, CITY OF | 12011C0212F | 01-APR-2004 | 04-04-3782A | 02
04 | FL | LEE COUNTY* | 1251240250B | 22-JAN-2004 | 04-04-1452A | 02
04 | FL | LEE COUNTY* | 1251240510D | 22-MAR-2004 | 04-04-2862A | 01
04 | FL | LEE COUNTY* | 1251240075D | 01-APR-2004 | 04-04-4228A | 01
04 | FL | LEE COUNTY* | 1251240325C | 06-MAY-2004 | 04-04-4806A | 01
04 | FL | LEE COUNTY* | 1251240510D | 03-JUN-2004 | 04-04-2654A | 01
04 | FL | LEON COUNTY * | 12073C0095D | 03-JUN-2004 | 04-04-4788A | 02
04 | FL | LEON COUNTY * | 12073C0250D | 14-JUN-2004 | 04-04-4284A | 02
04 | FL | LEON COUNTY * | 12073C0350D | 25-JUN-2004 | 04-04-2448A | 02
04 | FL | MANATEE COUNTY * | 1201530194C | 02-JAN-2004 | 04-04-1274A | 02
04 | FL | MANATEE COUNTY * | 1201530184C | 08-JAN-2004 | 04-04-0272A | 01
04 | FL | MANATEE COUNTY * | 1201530353C | 13-MAY-2004 | 04-04-3612A | 01
04 | FL | MANATEE COUNTY * | 1201530329C | 24-JUN-2004 | 04-04-6004A | 02
04 | FL | MANATEE COUNTY * | 1201530365C | 30-JUN-2004 | 04-04-7198A | 01
04 | FL | MARGATE, CITY OF | 12011C0115F | 02-JAN-2004 | 04-04-1154A | 02
04 | FL | MARGATE, CITY OF | 12011C0115F | 11-MAR-2004 | 04-04-2844A | 02
04 | FL | MARGATE, CITY OF | 12011C0115F | 24-JUN-2004 | 04-04-6204A | 02
04 | FL | MARGATE, CITY OF | 12011C0115F | 25-JUN-2004 | 04-04-6358A | 02
04 | FL | MARGATE, CITY OF | 12011C0115F | 25-JUN-2004 | 04-04-6360A | 02
04 | FL | MARION COUNTY * | 1201600700B | 11-MAR-2004 | 04-04-2698A | 02
04 | FL | MARION COUNTY * | 1201600650B | 05-APR-2004 | 04-04-3836A | 01
04 | FL | MARION COUNTY * | 1201600300B | 14-APR-2004 | 04-04-3860A | 02
04 | FL | MARION COUNTY * | 1201600715B | 14-JUN-2004 | 04-04-5474A | 02
04 | FL | MARION COUNTY * | 1201600300B | 25-JUN-2004 | 04-04-4910A | 02
04 | FL | MARTIN COUNTY * | 12085C0145F | 08-JAN-2004 | 04-04-1412A | 02
04 | FL | MARTIN COUNTY * | 12085C0132F | 20-JAN-2004 | 04-04-0422A | 02
04 | FL | MARTIN COUNTY * | 1201610164C | 05-FEB-2004 | 04-04-1704A | 02
04 | FL | MARTIN COUNTY * | 12085C0151F | 12-APR-2004 | 04-04-3550A | 02
04 | FL | MARTIN COUNTY * | 12085C0310F | 10-MAY-2004 | 04-04-4276A | 02
04 | FL | MARTIN COUNTY * | 12085C0310E | 24-MAY-2004 | 04-04-4718A | 02
04 | FL | MARTIN COUNTY * | 12085C0134F | 01-JUN-2004 | 04-04-1512A | 01
04 | FL | MELBOURNE, CITY OF | 12009C0442F | 06-MAY-2004 | 04-04-4436A | 01
04 | FL | MEXICO BEACH, CITY OF | 12005C0509G | 20-MAY-2004 | 04-04-3662A | 02
04 | FL | MIAMI DADE COUNTY* | 12025C0255J | 15-JAN-2004 | 04-04-1752A | 02
04 | FL | MIAMI DADE COUNTY* | 12025C0180J | 20-JAN-2004 | 04-04-2244A | 02
04 | FL | MIAMI DADE COUNTY* | 12025C0260J | 05-FEB-2004 | 04-04-2846A | 02
04 | FL | MIAMI DADE COUNTY* | 12025C0082J | 19-FEB-2004 | 04-04-3136A | 02
04 | FL | MIAMI DADE COUNTY* | 12025C0267J | 19-FEB-2004 | 04-04-3134A | 02
04 | FL | MIAMI DADE COUNTY* | 12025C0165J | 15-MAR-2004 | 04-04-3498A | 02
04 | FL | MIAMI DADE COUNTY* | 12025C0260J | 05-APR-2004 | 04-04-3484A | 02
04 | FL | MIAMI DADE COUNTY* | 12025C0083J | 14-APR-2004 | 04-04-3856A | 02
04 | FL | MIAMI DADE COUNTY* | 12025C0265J | 14-APR-2004 | 04-04-3838A | 01
04 | FL | MIAMI DADE COUNTY* | 12025C0091J | 15-APR-2004 | 04-04-4070A | 02
04 | FL | MIAMI DADE COUNTY* | 12025C0266J | 15-APR-2004 | 04-04-2954A | 02
04 | FL | MIAMI DADE COUNTY* | 12025C0090J | 29-APR-2004 | 04-04-3372A | 02
04 | FL | MIAMI DADE COUNTY* | 12025C0276J | 29-APR-2004 | 04-04-4006A | 02
04 | FL | MIAMI DADE COUNTY* | 12025C0357J | 27-MAY-2004 | 04-04-4966A | 02
04 | FL | MIAMI DADE COUNTY* | 12025C0358K | 27-MAY-2004 | 04-04-5314A | 02
04 | FL | MIAMI DADE COUNTY* | 12025C0080J | 07-JUN-2004 | 04-04-5606A | 02
04 | FL | MIAMI DADE COUNTY* | 12025C0170J | 07-JUN-2004 | 04-04-5464A | 01
04 | FL | MIAMI DADE COUNTY* | 12025C0358K | 14-JUN-2004 | 04-04-6572A | 02
04 | FL | MIAMI DADE COUNTY* | 12025C0260J | 24-JUN-2004 | 04-04-5972A | 02
04 | FL | MIAMI SPRINGS, CITY OF | 12025C0160J | 26-JAN-2004 | 04-04-2070A | 02
04 | FL | MIAMI, CITY OF | 12025C0191J | 27-FEB-2004 | 04-04-081P | 05
04 | FL | MIRAMAR, CITY OF | 12011C0315F | 29-JAN-2004 | 04-04-2148A | 01
04 | FL | MIRAMAR, CITY OF | 12011C0315F | 05-FEB-2004 | 04-04-2986A | 02
04 | FL | MIRAMAR, CITY OF | 12011C0290F | 26-FEB-2004 | 04-04-3488X | 01
04 | FL | MIRAMAR, CITY OF | 12011C0295F | 26-FEB-2004 | 04-04-3488X | 01
04 | FL | MIRAMAR, CITY OF | 12011C0312F | 26-FEB-2004 | 04-04-3620A | 02
04 | FL | MIRAMAR, CITY OF | 12011C0295F | 03-MAY-2004 | 04-04-4306A | 02
04 | FL | MIRAMAR, CITY OF | 12011C0315F | 06-MAY-2004 | 04-04-3872A | 02
04 | FL | MIRAMAR, CITY OF | 12011C0315F | 01-JUN-2004 | 04-04-5218A | 02
04 | FL | MIRAMAR, CITY OF | 12011C0290F | 17-JUN-2004 | 04-04-5906A | 01
04 | FL | MIRAMAR, CITY OF | 12011C0295F | 17-JUN-2004 | 04-04-5906A | 01
04 | FL | MONROE COUNTY* | 12087C0994H | 02-JAN-2004 | 04-04-1536A | 02
04 | FL | MONROE COUNTY* | 12087C1004G | 06-MAY-2004 | 04-04-4218A | 02
04 | FL | MONROE COUNTY* | 12087C0843G | 07-JUN-2004 | 04-04-5622A | 02
04 | FL | MT. DORA, CITY OF | 12069C0359D | 11-MAR-2004 | 04-04-3380A | 01
04 | FL | MT. DORA, CITY OF | 12069C0359D | 24-JUN-2004 | 04-04-5862A | 01
04 | FL | NASSAU COUNTY* | 1201700475C | 12-JAN-2004 | 04-04-1004A | 01
04 | FL | NASSAU COUNTY* | 1201700325C | 20-MAY-2004 | 04-04-4232AD | 01
04 | FL | NASSAU COUNTY* | 1201710001B | 20-MAY-2004 | 04-04-4232AD | 01
04 | FL | NASSAU COUNTY* | 1201700325C | 21-JUN-2004 | 04-04-6996A | 02
04 | FL | NEW PORT RICHEY, CITY OF | 1202320003D | 07-JUN-2004 | 04-04-5538A | 02
04 | FL | NORTH PALM BEACH, VILLAGE OF | 1201920127B | 01-MAR-2004 | 04-04-2440A | 02
04 | FL | NORTH PALM BEACH, VILLAGE OF | 1202170001D | 01-MAR-2004 | 04-04-2440A | 02
04 | FL | NORTH PORT, CITY OF | 1202790005B | 30-JUN-2004 | 04-04-7276A | 02
04 | FL | OAKLAND PARK, CITY OF | 12011C0208F | 29-JAN-2004 | 04-04-2080A | 02
04 | FL | OAKLAND PARK, CITY OF | 12011C0209F | 29-JAN-2004 | 04-04-2080A | 02
04 | FL | OAKLAND PARK, CITY OF | 12011C0208F | 26-APR-2004 | 04-04-4566A | 02
04 | FL | OAKLAND PARK, CITY OF | 12011C0204F | 03-JUN-2004 | 04-04-5146A | 02
04 | FL | OAKLAND PARK, CITY OF | 12011C0208F | 03-JUN-2004 | 04-04-5146A | 02
04 | FL | OKALOOSA COUNTY * | 12091C0494H | 15-JAN-2004 | 04-04-1916A | 02
04 | FL | OKALOOSA COUNTY * | 12091C0390H | 05-FEB-2004 | 04-04-1926A | 02
04 | FL | OKALOOSA COUNTY * | 12091C0493H | 12-FEB-2004 | 04-04-2994A | 02
04 | FL | OKALOOSA COUNTY * | 12091C0494H | 12-FEB-2004 | 04-04-2880A | 02
04 | FL | OKALOOSA COUNTY * | 12091C0494H | 12-FEB-2004 | 04-04-3092A | 02
04 | FL | OKALOOSA COUNTY * | 12091C0493H | 04-MAR-2004 | 04-04-3184A | 02
04 | FL | OKALOOSA COUNTY * | 12091C0493H | 04-MAR-2004 | 04-04-3258A | 01
04 | FL | OKALOOSA COUNTY * | 12091C0493H | 01-APR-2004 | 04-04-3708A | 02
04 | FL | OKALOOSA COUNTY * | 12091C0489H | 29-APR-2004 | 04-04-4116A | 01
04 | FL | OKALOOSA COUNTY * | 12091C0494H | 29-APR-2004 | 04-04-4222A | 02
04 | FL | OKALOOSA COUNTY * | 12091C0255H | 13-MAY-2004 | 04-04-4638A | 02
04 | FL | OKALOOSA COUNTY * | 12091C0493H | 17-MAY-2004 | 04-04-4968A | 02
04 | FL | OKALOOSA COUNTY * | 12091C0494H | 27-MAY-2004 | 04-04-5532A | 02
04 | FL | OKALOOSA COUNTY * | 12091C0489H | 24-JUN-2004 | 04-04-5346A | 02
04 | FL | OKALOOSA COUNTY * | 12091C0493H | 25-JUN-2004 | 04-04-6384A | 02
04 | FL | OKALOOSA COUNTY * | 12091C0494H | 25-JUN-2004 | 04-04-6388A | 02
04 | FL | OKEECHOBEE COUNTY * | 1201770220B | 17-MAY-2004 | 04-04-4598A | 02
04 | FL | OLDSMAR, CITY OF | 12103C0091G | 15-MAR-2004 | 04-04-4316A | 01
04 | FL | OLDSMAR, CITY OF | 12103C0087G | 20-MAY-2004 | 04-04-4366A | 02
04 | FL | OLDSMAR, CITY OF | 12103C0087G | 24-JUN-2004 | 04-04-6262A | 01
04 | FL | ORANGE COUNTY * | 12095C0405E | 02-JAN-2004 | 04-04-0216A | 01
04 | FL | ORANGE COUNTY * | 12095C0140E | 12-JAN-2004 | 04-04-1922A | 02
04 | FL | ORANGE COUNTY * | 12095C0295E | 12-JAN-2004 | 04-04-0064A | 01
04 | FL | ORANGE COUNTY * | 12095C0295E | 14-JAN-2004 | 04-04-0062A | 01
04 | FL | ORANGE COUNTY * | 12095C0475E | 14-JAN-2004 | 04-04-0062A | 01
04 | FL | ORANGE COUNTY * | 12095C0220E | 15-JAN-2004 | 04-04-2214A | 01
04 | FL | ORANGE COUNTY * | 12095C0260E | 15-JAN-2004 | 04-04-2134A | 02
04 | FL | ORANGE COUNTY * | 12095C0280E | 15-JAN-2004 | 04-04-2082A | 02
04 | FL | ORANGE COUNTY * | 12095C0295E | 15-JAN-2004 | 04-04-2136A | 02
04 | FL | ORANGE COUNTY * | 12095C0455E | 15-JAN-2004 | 03-04-6832A | 01
04 | FL | ORANGE COUNTY * | 12095C0585E | 15-JAN-2004 | 04-04-2020A | 01
04 | FL | ORANGE COUNTY * | 12095C0405E | 20-JAN-2004 | 04-04-2084A | 01
04 | FL | ORANGE COUNTY * | 12095C0220E | 22-JAN-2004 | 04-04-0884A | 02
04 | FL | ORANGE COUNTY * | 12095C0260E | 22-JAN-2004 | 04-04-2192A | 02
04 | FL | ORANGE COUNTY * | 12095C0290E | 22-JAN-2004 | 04-04-2374A | 02
04 | FL | ORANGE COUNTY * | 12095C0295E | 29-JAN-2004 | 04-04-2230A | 01
04 | FL | ORANGE COUNTY * | 12095C0295E | 05-FEB-2004 | 04-04-2854A | 02
04 | FL | ORANGE COUNTY * | 12095C0270E | 12-FEB-2004 | 04-04-2602A | 02
04 | FL | ORANGE COUNTY * | 12095C0380E | 12-FEB-2004 | 04-04-2464A | 01
04 | FL | ORANGE COUNTY * | 12095C0260E | 11-MAR-2004 | 04-04-3250A | 02
04 | FL | ORANGE COUNTY * | 12095C0260E | 11-MAR-2004 | 04-04-3392A | 02
04 | FL | ORANGE COUNTY * | 12095C0220E | 18-MAR-2004 | 04-04-3538A | 02
04 | FL | ORANGE COUNTY * | 12095C0380E | 25-MAR-2004 | 04-04-3726A | 01
04 | FL | ORANGE COUNTY * | 12095C0380E | 25-MAR-2004 | 04-04-3728A | 01
04 | FL | ORANGE COUNTY * | 12095C0240E | 08-APR-2004 | 04-04-3822A | 02
04 | FL | ORANGE COUNTY * | 12095C0260E | 08-APR-2004 | 04-04-3834A | 02
04 | FL | ORANGE COUNTY * | 12095C0405E | 08-APR-2004 | 04-04-3832A | 02
04 | FL | ORANGE COUNTY * | 12095C0405E | 15-APR-2004 | 04-04-4314A | 02
04 | FL | ORANGE COUNTY * | 12095C0465E | 15-APR-2004 | 04-04-4052A | 01
04 | FL | ORANGE COUNTY * | 12095C0380E | 29-APR-2004 | 04-04-3998A | 02
04 | FL | ORANGE COUNTY * | 12095C0415E | 05-MAY-2004 | 04-04-011P | 05
04 | FL | ORANGE COUNTY * | 12095C0420E | 05-MAY-2004 | 04-04-011P | 05
04 | FL | ORANGE COUNTY * | 12095C0580E | 05-MAY-2004 | 04-04-011P | 05
04 | FL | ORANGE COUNTY * | 12095C0585E | 05-MAY-2004 | 04-04-011P | 05
04 | FL | ORANGE COUNTY * | 12095C0410E | 06-MAY-2004 | 04-04-4426A | 02
04 | FL | ORANGE COUNTY * | 12095C0280E | 13-MAY-2004 | 04-04-4672A | 02
04 | FL | ORANGE COUNTY * | 12095C0285E | 13-MAY-2004 | 04-04-4836A | 01
04 | FL | ORANGE COUNTY * | 12095C0295E | 20-MAY-2004 | 04-04-4730A | 01
04 | FL | ORANGE COUNTY * | 12095C0410E | 20-MAY-2004 | 04-04-4922A | 02
04 | FL | ORANGE COUNTY * | 12095C0420E | 20-MAY-2004 | 04-04-4828A | 02
04 | FL | ORANGE COUNTY * | 12095C0435E | 20-MAY-2004 | 04-04-4048A | 02
04 | FL | ORANGE COUNTY * | 12095C0295E | 27-MAY-2004 | 04-04-5158A | 01
04 | FL | ORANGE COUNTY * | 12095C0380E | 27-MAY-2004 | 04-04-3908A | 01
04 | FL | ORANGE COUNTY * | 12095C0410E | 27-MAY-2004 | 04-04-5090A | 02
04 | FL | ORANGE COUNTY * | 12095C0415E | 27-MAY-2004 | 04-04-5164A | 02
04 | FL | ORANGE COUNTY * | 12095C0415E | 01-JUN-2004 | 04-04-5460A | 02
04 | FL | ORANGE COUNTY * | 12095C0305E | 03-JUN-2004 | 04-04-4800A | 01
04 | FL | ORANGE COUNTY * | 12095C0315E | 03-JUN-2004 | 04-04-4800A | 01
04 | FL | ORANGE COUNTY * | 12095C0230E | 07-JUN-2004 | 04-04-5238A | 02
04 | FL | ORANGE COUNTY * | 12095C0285E | 07-JUN-2004 | 04-04-5284A | 01
04 | FL | ORANGE COUNTY * | 12095C0465E | 07-JUN-2004 | 04-04-5584A | 02
04 | FL | ORANGE COUNTY * | 12095C0465E | 10-JUN-2004 | 04-04-4986A | 01
04 | FL | ORANGE COUNTY * | 12095C0295E | 17-JUN-2004 | 04-04-5898A | 01
04 | FL | ORANGE COUNTY * | 12095C0465E | 17-JUN-2004 | 04-04-5822A | 01
04 | FL | ORANGE COUNTY * | 12095C0395E | 21-JUN-2004 | 04-04-6500A | 02
04 | FL | ORANGE COUNTY * | 12095C0415E | 21-JUN-2004 | 04-04-6500A | 02
04 | FL | ORANGE COUNTY * | 12095C0240E | 28-JUN-2004 | 04-04-4128A | 02
04 | FL | ORANGE COUNTY * | 12095C0260E | 28-JUN-2004 | 04-04-6364A | 01
04 | FL | ORANGE COUNTY * | 12095C0295E | 28-JUN-2004 | 04-04-5322A | 01
04 | FL | ORANGE COUNTY * | 12095C0295E | 28-JUN-2004 | 04-04-6552A | 02
04 | FL | ORLANDO, CITY OF | 12095C0240E | 29-JAN-2004 | 04-04-2392A | 01
04 | FL | ORLANDO, CITY OF | 12095C0265E | 09-FEB-2004 | 04-04-3058A | 01
04 | FL | ORLANDO, CITY OF | 12095C0245E | 15-APR-2004 | 04-04-2380A | 02
04 | FL | ORLANDO, CITY OF | 12095C0435E | 26-APR-2004 | 04-04-5896A | 01
04 | FL | ORLANDO, CITY OF | 12095C0455E | 26-APR-2004 | 04-04-5896A | 01
04 | FL | ORLANDO, CITY OF | 12095C0240E | 06-MAY-2004 | 04-04-4274A | 02
04 | FL | ORLANDO, CITY OF | 12095C0405E | 10-MAY-2004 | 04-04-1676A | 17
04 | FL | ORLANDO, CITY OF | 12095C0410E | 10-MAY-2004 | 04-04-1676A | 17
04 | FL | ORLANDO, CITY OF | 12095C0435E | 13-MAY-2004 | 04-04-4380A | 01
04 | FL | ORLANDO, CITY OF | 12095C0465E | 24-MAY-2004 | 04-04-3678A | 01
04 | FL | ORLANDO, CITY OF | 12095C0435E | 27-MAY-2004 | 04-04-3298A | 01
04 | FL | ORLANDO, CITY OF | 12095C0435E | 27-MAY-2004 | 04-04-6130A | 01
04 | FL | ORLANDO, CITY OF | 12095C0455E | 27-MAY-2004 | 04-04-6130A | 01
04 | FL | ORMOND BEACH, CITY OF | 12127C0212H | 02-JAN-2004 | 04-04-1404A | 02
04 | FL | ORMOND BEACH, CITY OF | 12127C0212H | 05-FEB-2004 | 04-04-1204A | 01
04 | FL | OSCEOLA COUNTY * | 12097C0230F | 02-JAN-2004 | 03-04-10376A | 01
04 | FL | OSCEOLA COUNTY * | 12097C0090F | 26-JAN-2004 | 04-04-2286A | 01
04 | FL | OSCEOLA COUNTY * | 12097C0230F | 04-MAR-2004 | 04-04-1582A | 01
04 | FL | OSCEOLA COUNTY * | 12097C0080F | 01-APR-2004 | 04-04-3474A | 02
04 | FL | OSCEOLA COUNTY * | 12097C0115F | 14-APR-2004 | 04-04-3784A | 02
04 | FL | OSCEOLA COUNTY * | 12097C0040F | 07-MAY-2004 | 04-04-4432A | 02
04 | FL | OSCEOLA COUNTY * | 12097C0030F | 13-MAY-2004 | 04-04-4320A | 01
04 | FL | OSCEOLA COUNTY * | 12097C0035F | 13-MAY-2004 | 04-04-3246A | 02
04 | FL | OSCEOLA COUNTY * | 12097C0225F | 13-MAY-2004 | 04-04-4686A | 02
04 | FL | OSCEOLA COUNTY * | 12097C0240F | 13-MAY-2004 | 04-04-4684A | 02
04 | FL | OSCEOLA COUNTY * | 12097C0257F | 01-JUN-2004 | 04-04-4372A | 01
04 | FL | OSCEOLA COUNTY * | 12097C0080E | 03-JUN-2004 | 04-04-5332A | 02
04 | FL | OSCEOLA COUNTY * | 12097C0080F | 10-JUN-2004 | 04-04-5554A | 02
04 | FL | OSCEOLA COUNTY * | 12097C0045E | 24-JUN-2004 | 04-04-2758A | 01
04 | FL | OSCEOLA COUNTY * | 12097C0065F | 24-JUN-2004 | 04-04-2910A | 01
04 | FL | PALM BAY, CITY OF | 12009C0585E | 02-JAN-2004 | 04-04-1522A | 01
04 | FL | PALM BAY, CITY OF | 12009C0585E | 18-MAR-2004 | 04-04-3362A | 02
04 | FL | PALM BAY, CITY OF | 12009C0585E | 18-MAR-2004 | 04-04-3610A | 01
04 | FL | PALM BAY, CITY OF | 12009C0585E | 01-JUN-2004 | 04-04-3036A | 02
04 | FL | PALM BEACH COUNTY * | 1201920200A | 08-JAN-2004 | 04-04-1388A | 02
04 | FL | PALM BEACH COUNTY * | 1201920190B | 22-JAN-2004 | 04-04-1788A | 02
04 | FL | PALM BEACH COUNTY * | 1201920240B | 29-JAN-2004 | 03-04-10350A | 01
04 | FL | PALM BEACH COUNTY * | 1201920200A | 08-MAR-2004 | 04-04-2762A | 02
04 | FL | PALM BEACH COUNTY * | 1201920175B | 18-MAR-2004 | 04-04-2842A | 02
04 | FL | PALM BEACH COUNTY * | 1201920190B | 18-MAR-2004 | 04-04-2840A | 02
04 | FL | PALM BEACH COUNTY * | 1201920200A | 01-APR-2004 | 04-04-2614A | 02
04 | FL | PALM BEACH COUNTY * | 1201920205B | 01-APR-2004 | 04-04-3510A | 02
04 | FL | PALM BEACH COUNTY * | 1201920200A | 14-APR-2004 | 04-04-3854A | 02
04 | FL | PALM BEACH COUNTY * | 1201920200A | 29-APR-2004 | 04-04-3494A | 02
04 | FL | PALM BEACH COUNTY * | 1201920200A | 20-MAY-2004 | 04-04-5062A | 02
04 | FL | PALM BEACH COUNTY * | 1201920205B | 20-MAY-2004 | 04-04-4782A | 02
04 | FL | PALM BEACH COUNTY * | 1201920205B | 20-MAY-2004 | 04-04-5150A | 02
04 | FL | PALM BEACH COUNTY * | 1201920200A | 27-MAY-2004 | 04-04-4876A | 02
04 | FL | PALM BEACH COUNTY * | 1201920200A | 03-JUN-2004 | 04-04-5636A | 02
04 | FL | PALM BEACH COUNTY * | 1201920200A | 03-JUN-2004 | 04-04-6294A | 02
04 | FL | PALM BEACH COUNTY * | 1201920205B | 03-JUN-2004 | 04-04-5888A | 02
04 | FL | PALM BEACH COUNTY * | 1201920205B | 03-JUN-2004 | 04-04-5846A | 02
04 | FL | PALM BEACH COUNTY * | 1201920205B | 03-JUN-2004 | 04-04-5848A | 02
04 | FL | PALM BEACH COUNTY * | 1201920200A | 17-JUN-2004 | 04-04-5886A | 02
04 | FL | PALM BEACH COUNTY * | 1201920205B | 25-JUN-2004 | 04-04-6258A | 02
04 | FL | PALM BEACH COUNTY * | 1201920200A | 28-JUN-2004 | 04-04-5524A | 02
04 | FL | PALM BEACH GARDENS, CITY OF | 1201920125B | 29-APR-2004 | 04-04-2298A | 01
04 | FL | PALM BEACH GARDENS, CITY OF | 1201920125B | 27-MAY-2004 | 04-04-4728A | 01
04 | FL | PANAMA CITY, CITY OF | 12005C0341G | 05-APR-2004 | 04-04-3062A | 02
04 | FL | PANAMA CITY, CITY OF | 12005C0331G | 14-APR-2004 | 04-04-3766A | 02
04 | FL | PANAMA CITY, CITY OF | 12005C0337G | 29-APR-2004 | 04-04-3038A | 02
04 | FL | PANAMA CITY, CITY OF | 12005C0335G | 20-MAY-2004 | 04-04-3316A | 02
04 | FL | PARKER, CITY OF | 12005C0363G | 17-FEB-2004 | 03-04-9816A | 02
04 | FL | PARKLAND, CITY OF | 12011C0085F | 01-MAR-2004 | 04-04-079P | 05
04 | FL | PARKLAND, CITY OF | 12011C0085F | 01-APR-2004 | 04-04-4212A | 02
04 | FL | PARKLAND, CITY OF | 12011C0105F | 24-JUN-2004 | 04-04-6208A | 02
04 | FL | PASCO COUNTY * | 1202300450E | 02-JAN-2004 | 04-04-1696X | 01
04 | FL | PASCO COUNTY * | 1202300460D | 02-JAN-2004 | 03-04-9870A | 02
04 | FL | PASCO COUNTY * | 1202300425E | 08-JAN-2004 | 03-04-10946A | 02
04 | FL | PASCO COUNTY * | 1202300354D | 15-JAN-2004 | 04-04-1700A | 02
04 | FL | PASCO COUNTY * | 1202300360D | 15-JAN-2004 | 04-04-1508A | 02
04 | FL | PASCO COUNTY * | 1202300425E | 20-JAN-2004 | 04-04-0656A | 01
04 | FL | PASCO COUNTY * | 1202300360D | 12-FEB-2004 | 04-04-2008A | 02
04 | FL | PASCO COUNTY * | 1202300354D | 19-FEB-2004 | 04-04-2010A | 02
04 | FL | PASCO COUNTY * | 1202300360D | 19-FEB-2004 | 04-04-2010A | 02
04 | FL | PASCO COUNTY * | 1202300430E | 20-FEB-2004 | 04-04-2466A | 01
04 | FL | PASCO COUNTY * | 1202300335C | 01-MAR-2004 | 04-04-2498A | 01
04 | FL | PASCO COUNTY * | 1202300400D | 01-MAR-2004 | 04-04-0426A | 01
04 | FL | PASCO COUNTY * | 1202300430E | 04-MAR-2004 | 04-04-1996A | 01
04 | FL | PASCO COUNTY * | 1202300430E | 04-MAR-2004 | 04-04-1998A | 01
04 | FL | PASCO COUNTY * | 1202300450E | 04-MAR-2004 | 04-04-1996A | 01
04 | FL | PASCO COUNTY * | 1202300195D | 08-MAR-2004 | 04-04-2700A | 02
04 | FL | PASCO COUNTY * | 1202300354D | 08-MAR-2004 | 04-04-2470A | 02
04 | FL | PASCO COUNTY * | 1202300195D | 15-MAR-2004 | 04-04-1670A | 02
04 | FL | PASCO COUNTY * | 1202300410E | 15-MAR-2004 | 04-04-3722A | 01
04 | FL | PASCO COUNTY * | 1202300189C | 25-MAR-2004 | 04-04-3090A | 02
04 | FL | PASCO COUNTY * | 1202300205D | 29-MAR-2004 | 04-04-2500A | 01
04 | FL | PASCO COUNTY * | 1202300225D | 29-MAR-2004 | 04-04-2500A | 01
04 | FL | PASCO COUNTY * | 1202300354D | 29-MAR-2004 | 04-04-3506A | 02
04 | FL | PASCO COUNTY * | 1202300410E | 29-MAR-2004 | 04-04-3366A | 01
04 | FL | PASCO COUNTY * | 1202300180C | 01-APR-2004 | 04-04-3504A | 02
04 | FL | PASCO COUNTY * | 1202300360D | 01-APR-2004 | 03-04-10490A | 01
04 | FL | PASCO COUNTY * | 1202300195D | 05-APR-2004 | 04-04-4002A | 01
04 | FL | PASCO COUNTY * | 1202300215D | 05-APR-2004 | 04-04-4002A | 01
04 | FL | PASCO COUNTY * | 1202300360D | 05-APR-2004 | 04-04-3102A | 02
04 | FL | PASCO COUNTY * | 1202300400D | 05-APR-2004 | 04-04-3614A | 02
04 | FL | PASCO COUNTY * | 1202300352C | 08-APR-2004 | 04-04-3106A | 02
04 | FL | PASCO COUNTY * | 1202300353C | 08-APR-2004 | 04-04-3108A | 02
04 | FL | PASCO COUNTY * | 1202300360D | 08-APR-2004 | 04-04-3104A | 02
04 | FL | PASCO COUNTY * | 1202300195D | 14-APR-2004 | 04-04-3702A | 02
04 | FL | PASCO COUNTY * | 1202300195D | 15-APR-2004 | 04-04-2006A | 02
04 | FL | PASCO COUNTY * | 1202300425E | 19-APR-2004 | 04-04-1894A | 02
04 | FL | PASCO COUNTY * | 1202300360D | 03-MAY-2004 | 04-04-4716A | 02
04 | FL | PASCO COUNTY * | 1202300410E | 03-MAY-2004 | 04-04-6100A | 02
04 | FL | PASCO COUNTY * | 1202300250E | 06-MAY-2004 | 04-04-5910A | 01
04 | FL | PASCO COUNTY * | 1202300360D | 10-MAY-2004 | 04-04-4500A | 02
04 | FL | PASCO COUNTY * | 1202300360D | 13-MAY-2004 | 04-04-4712A | 02
04 | FL | PASCO COUNTY * | 1202300360D | 13-MAY-2004 | 04-04-5058A | 02
04 | FL | PASCO COUNTY * | 1202300360D | 13-MAY-2004 | 04-04-5772A | 02
04 | FL | PASCO COUNTY * | 1202300370D | 13-MAY-2004 | 04-04-2624A | 02
04 | FL | PASCO COUNTY * | 1202300195D | 17-MAY-2004 | 04-04-4714A | 02
04 | FL | PASCO COUNTY * | 1202300425E | 17-MAY-2004 | 04-04-3394A | 01
04 | FL | PASCO COUNTY * | 1202300425E | 17-MAY-2004 | 04-04-4920A | 01
04 | FL | PASCO COUNTY * | 1202300430E | 17-MAY-2004 | 04-04-4992A | 01
04 | FL | PASCO COUNTY * | 1202300189C | 20-MAY-2004 | 04-04-4918A | 02
04 | FL | PASCO COUNTY * | 1202300400D | 20-MAY-2004 | 04-04-4496A | 01
04 | FL | PASCO COUNTY * | 1202300354D | 24-MAY-2004 | 04-04-4498A | 02
04 | FL | PASCO COUNTY * | 1202300370D | 24-MAY-2004 | 04-04-5060A | 02
04 | FL | PASCO COUNTY * | 1202300050C | 27-MAY-2004 | 04-04-6174A | 02
04 | FL | PASCO COUNTY * | 1202300425E | 27-MAY-2004 | 04-04-4130A | 01
04 | FL | PASCO COUNTY * | 1202300225D | 03-JUN-2004 | 04-04-5482A | 01
04 | FL | PASCO COUNTY * | 1202300354D | 03-JUN-2004 | 04-04-5770A | 02
04 | FL | PASCO COUNTY * | 1202300425E | 03-JUN-2004 | 04-04-5468A | 01
04 | FL | PASCO COUNTY * | 1202300354D | 03-JUN-2004 | 04-04-5768A | 02
04 | FL | PASCO COUNTY * | 1202300354D | 07-JUN-2004 | 04-04-5522A | 02
04 | FL | PASCO COUNTY * | 1202300360D | 07-JUN-2004 | 04-04-5522A | 02
04 | FL | PASCO COUNTY * | 1202300400D | 07-JUN-2004 | 04-04-5530A | 01
04 | FL | PASCO COUNTY * | 1202300362D | 10-JUN-2004 | 04-04-5778A | 02
04 | FL | PASCO COUNTY * | 1202300354D | 21-JUN-2004 | 04-04-6880A | 02
04 | FL | PASCO COUNTY * | 1202300425E | 24-JUN-2004 | 04-04-6222A | 02
04 | FL | PASCO COUNTY * | 1202300360D | 25-JUN-2004 | 04-04-6042A | 02
04 | FL | PEMBROKE PINES, CITY OF | 12011C0315F | 22-JAN-2004 | 04-04-1884A | 02
04 | FL | PEMBROKE PINES, CITY OF | 12011C0295F | 04-MAR-2004 | 04-04-2988A | 02
04 | FL | PEMBROKE PINES, CITY OF | 12011C0295F | 25-MAR-2004 | 04-04-3508A | 02
04 | FL | PEMBROKE PINES, CITY OF | 12011C0290F | 05-APR-2004 | 04-04-2612A | 02
04 | FL | PEMBROKE PINES, CITY OF | 12011C0315F | 13-MAY-2004 | 04-04-4642A | 02
04 | FL | PEMBROKE PINES, CITY OF | 12011C0295F | 03-JUN-2004 | 04-04-5526A | 02
04 | FL | PEMBROKE PINES, CITY OF | 12011C0290F | 07-JUN-2004 | 04-04-5540A | 02
04 | FL | PEMBROKE PINES, CITY OF | 12011C0315F | 17-JUN-2004 | 04-04-6070A | 02
04 | FL | PEMBROKE PINES, CITY OF | 12011C0295F | 24-JUN-2004 | 04-04-6168A | 02
04 | FL | PEMBROKE PINES, CITY OF | 12011C0315F | 28-JUN-2004 | 04-04-6458A | 02
04 | FL | PINELLAS COUNTY * | 12103C0059G | 08-JAN-2004 | 04-04-1362A | 02
04 | FL | PINELLAS COUNTY * | 12103C0077G | 08-JAN-2004 | 04-04-1090A | 02
04 | FL | PINELLAS COUNTY * | 12103C0087G | 08-JAN-2004 | 04-04-0928A | 01
04 | FL | PINELLAS COUNTY * | 12103C0114G | 08-JAN-2004 | 04-04-1386A | 02
04 | FL | PINELLAS COUNTY * | 12103C0079G | 12-JAN-2004 | 04-04-1554A | 01
04 | FL | PINELLAS COUNTY * | 12103C0057G | 22-JAN-2004 | 04-04-1450A | 02
04 | FL | PINELLAS COUNTY * | 12103C0077G | 26-JAN-2004 | 04-04-1520A | 01
04 | FL | PINELLAS COUNTY * | 12103C0179G | 19-FEB-2004 | 04-04-1796A | 02
04 | FL | PINELLAS COUNTY * | 12103C0208G | 19-FEB-2004 | 04-04-3176A | 02
04 | FL | PINELLAS COUNTY * | 12103C0069G | 26-FEB-2004 | 04-04-2474A | 02
04 | FL | PINELLAS COUNTY * | 12103C0069G | 04-MAR-2004 | 04-04-2606A | 02
04 | FL | PINELLAS COUNTY * | 12103C0119G | 08-MAR-2004 | 04-04-1656A | 02
04 | FL | PINELLAS COUNTY * | 12103C0114G | 11-MAR-2004 | 04-04-2690A | 02
04 | FL | PINELLAS COUNTY * | 12103C0176G | 11-MAR-2004 | 04-04-4034A | 02
04 | FL | PINELLAS COUNTY * | 12103C0043G | 15-MAR-2004 | 04-04-2290A | 01
04 | FL | PINELLAS COUNTY * | 12103C0039G | 18-MAR-2004 | 04-04-2772A | 01
04 | FL | PINELLAS COUNTY * | 12103C0017G | 29-MAR-2004 | 04-04-3358A | 02
04 | FL | PINELLAS COUNTY * | 12103C0117G | 29-MAR-2004 | 04-04-2076A | 02
04 | FL | PINELLAS COUNTY * | 12103C0208G | 29-MAR-2004 | 04-04-3360A | 02
04 | FL | PINELLAS COUNTY * | 12103C0069G | 08-APR-2004 | 04-04-2368A | 02
04 | FL | PINELLAS COUNTY * | 12103C0119G | 09-APR-2004 | 04-04-3664A | 02
04 | FL | PINELLAS COUNTY * | 12103C0112G | 14-APR-2004 | 04-04-2874A | 02
04 | FL | PINELLAS COUNTY * | 12103C0114G | 14-APR-2004 | 04-04-2874A | 02
04 | FL | PINELLAS COUNTY * | 12103C0114G | 14-APR-2004 | 04-04-3824A | 02
04 | FL | PINELLAS COUNTY * | 12103C0067G | 15-APR-2004 | 04-04-5230A | 02
04 | FL | PINELLAS COUNTY * | 12103C0077G | 29-APR-2004 | 04-04-3542A | 01
04 | FL | PINELLAS COUNTY * | 12103C0043G | 10-MAY-2004 | 04-04-3608A | 02
04 | FL | PINELLAS COUNTY * | 12103C0079G | 10-MAY-2004 | 04-04-2990A | 02
04 | FL | PINELLAS COUNTY * | 12103C0119G | 17-MAY-2004 | 04-04-4916A | 02
04 | FL | PINELLAS COUNTY * | 12103C0076G | 27-MAY-2004 | 04-04-5476A | 02
04 | FL | PINELLAS COUNTY * | 12103C0077G | 27-MAY-2004 | 04-04-5098A | 01
04 | FL | PINELLAS COUNTY * | 12103C0179G | 27-MAY-2004 | 04-04-5096A | 02
04 | FL | PINELLAS COUNTY * | 12103C0076G | 01-JUN-2004 | 04-04-4914A | 02
04 | FL | PINELLAS COUNTY * | 12103C0114G | 03-JUN-2004 | 04-04-5560A | 02
04 | FL | PINELLAS COUNTY * | 12103C0076G | 07-JUN-2004 | 04-04-6000A | 02
04 | FL | PINELLAS COUNTY * | 12103C0182G | 17-JUN-2004 | 04-04-5406A | 02
04 | FL | PINELLAS COUNTY * | 12103C0079G | 24-JUN-2004 | 04-04-5996A | 02
04 | FL | PINELLAS COUNTY * | 12103C0039G | 28-JUN-2004 | 04-04-5756A | 01
04 | FL | PINELLAS PARK, CITY OF | 12103C0206G | 04-MAR-2004 | 04-04-2706A | 02
04 | FL | PINELLAS PARK, CITY OF | 12103C0202G | 08-APR-2004 | 04-04-3230A | 02
04 | FL | PINELLAS PARK, CITY OF | 12103C0204G | 15-APR-2004 | 04-04-4822A | 02
04 | FL | PINELLAS PARK, CITY OF | 12103C0204G | 10-JUN-2004 | 04-04-5686A | 02
04 | FL | PLANTATION, CITY OF | 12011C0214F | 02-JAN-2004 | 04-04-0984A | 02
04 | FL | PLANTATION, CITY OF | 12011C0215F | 02-JAN-2004 | 04-04-0982A | 02
04 | FL | PLANTATION, CITY OF | 12011C0215F | 29-JAN-2004 | 04-04-2128A | 02
04 | FL | PLANTATION, CITY OF | 1200540195F | 19-FEB-2004 | 04-04-2532A | 02
04 | FL | PLANTATION, CITY OF | 12011C0215F | 19-FEB-2004 | 04-04-2358A | 02
04 | FL | PLANTATION, CITY OF | 12011C0215F | 26-FEB-2004 | 04-04-2848A | 02
04 | FL | PLANTATION, CITY OF | 12011C0215F | 01-APR-2004 | 04-04-3828A | 02
04 | FL | PLANTATION, CITY OF | 12011C0195F | 23-APR-2004 | 04-04-4272A | 02
04 | FL | PLANTATION, CITY OF | 12011C0215F | 26-APR-2004 | 04-04-4564A | 02
04 | FL | PLANTATION, CITY OF | 12011C0215F | 06-MAY-2004 | 04-04-4602A | 02
04 | FL | PLANTATION, CITY OF | 12011C0215F | 06-MAY-2004 | 04-04-4780A | 02
04 | FL | PLANTATION, CITY OF | 12011C0215F | 13-MAY-2004 | 04-04-5410A | 02
04 | FL | PLANTATION, CITY OF | 12011C0214F | 20-MAY-2004 | 04-04-4514A | 02
04 | FL | PLANTATION, CITY OF | 12011C0215F | 20-MAY-2004 | 04-04-4512A | 02
04 | FL | PLANTATION, CITY OF | 12011C0215F | 10-JUN-2004 | 04-04-5680A | 02
04 | FL | PLANTATION, CITY OF | 12011C0195F | 17-JUN-2004 | 04-04-5890A | 02
04 | FL | PLANTATION, CITY OF | 12011C0212F | 24-JUN-2004 | 04-04-6164A | 02
04 | FL | PLANTATION, CITY OF | 12011C0215F | 24-JUN-2004 | 04-04-6162A | 02
04 | FL | PLANTATION, CITY OF | 12011C0214F | 25-JUN-2004 | 04-04-6394A | 02
04 | FL | PLANTATION, CITY OF | 12011C0215F | 25-JUN-2004 | 04-04-6396A | 02
04 | FL | POLK COUNTY* | 12105C0425F | 02-JAN-2004 | 04-04-1258A | 02
04 | FL | POLK COUNTY* | 12105C0570F | 02-JAN-2004 | 04-04-0630A | 02
04 | FL | POLK COUNTY* | 12105C0310F | 08-JAN-2004 | 04-04-0664A | 02
04 | FL | POLK COUNTY* | 12105C0425F | 08-JAN-2004 | 03-04-9806A | 02
04 | FL | POLK COUNTY* | 12105C0480F | 08-JAN-2004 | 04-04-0634A | 02
04 | FL | POLK COUNTY* | 12105C0460F | 12-JAN-2004 | 04-04-1812A | 02
04 | FL | POLK COUNTY* | 12105C0480F | 12-JAN-2004 | 04-04-0800A | 01
04 | FL | POLK COUNTY* | 12105C0480F | 12-JAN-2004 | 04-04-1516A | 02
04 | FL | POLK COUNTY* | 12105C0470F | 15-JAN-2004 | 04-04-0934A | 02
04 | FL | POLK COUNTY* | 12105C0145F | 22-JAN-2004 | 04-04-1810A | 02
04 | FL | POLK COUNTY* | 12105C0480F | 22-JAN-2004 | 04-04-1888A | 02
04 | FL | POLK COUNTY* | 12105C0190F | 29-JAN-2004 | 04-04-2652A | 02
04 | FL | POLK COUNTY* | 12105C0291F | 29-JAN-2004 | 04-04-2622A | 02
04 | FL | POLK COUNTY* | 12105C0755F | 09-FEB-2004 | 04-04-1530A | 02
04 | FL | POLK COUNTY* | 12105C0760F | 12-FEB-2004 | 04-04-2870A | 02
04 | FL | POLK COUNTY* | 12105C0284F | 17-FEB-2004 | 04-04-2450A | 02
04 | FL | POLK COUNTY* | 12105C0310F | 04-MAR-2004 | 03-04-10884A | 01
04 | FL | POLK COUNTY* | 12105C0330F | 04-MAR-2004 | 04-04-3244A | 02
04 | FL | POLK COUNTY* | 12105C0510F | 04-MAR-2004 | 04-04-3180A | 02
04 | FL | POLK COUNTY* | 12105C0163F | 11-MAR-2004 | 04-04-0470A | 02
04 | FL | POLK COUNTY* | 12105C0480F | 15-MAR-2004 | 04-04-3396A | 02
04 | FL | POLK COUNTY* | 12105C0369F | 25-MAR-2004 | 04-04-3370A | 02
04 | FL | POLK COUNTY* | 12105C0510F | 30-MAR-2004 | 04-04-109P | 05
04 | FL | POLK COUNTY* | 12105C0175F | 01-APR-2004 | 04-04-4014A | 02
04 | FL | POLK COUNTY* | 12105C0490F | 08-APR-2004 | 04-04-3368A | 02
04 | FL | POLK COUNTY* | 12105C0291F | 29-APR-2004 | 04-04-4214A | 02
04 | FL | POLK COUNTY* | 12105C0385F | 13-MAY-2004 | 04-04-4680A | 02
04 | FL | POLK COUNTY* | 12105C0425F | 13-MAY-2004 | 04-04-4234A | 01
04 | FL | POLK COUNTY* | 12105C0425F | 13-MAY-2004 | 04-04-4596A | 02
04 | FL | POLK COUNTY* | 12105C0425F | 13-MAY-2004 | 04-04-4682A | 02
04 | FL | POLK COUNTY* | 12105C0535F | 13-MAY-2004 | 04-04-4636A | 02
04 | FL | POLK COUNTY* | 12105C0510F | 17-MAY-2004 | 04-04-3540A | 02
04 | FL | POLK COUNTY* | 12105C0485F | 26-MAY-2004 | 04-04-221P | 05
04 | FL | POLK COUNTY* | 12105C0175F | 27-MAY-2004 | 04-04-4220A | 02
04 | FL | POLK COUNTY* | 12105C0345F | 27-MAY-2004 | 04-04-4972A | 02
04 | FL | POLK COUNTY* | 12105C0535G | 27-MAY-2004 | 04-04-5418A | 02
04 | FL | POLK COUNTY* | 12105C0975F | 27-MAY-2004 | 04-04-4970A | 02
04 | FL | POLK COUNTY* | 12105C0100F | 07-JUN-2004 | 04-04-217P | 05
04 | FL | POLK COUNTY* | 12105C0320F | 10-JUN-2004 | 04-04-4510A | 02
04 | FL | POLK COUNTY* | 12105C0460F | 10-JUN-2004 | 04-04-5750A | 02
04 | FL | POLK COUNTY* | 12105C0480F | 10-JUN-2004 | 04-04-5762A | 02
04 | FL | POLK COUNTY* | 12105C0302F | 14-JUN-2004 | 04-04-5916A | 02
04 | FL | POLK COUNTY* | 12105C0275F | 17-JUN-2004 | 04-04-5860A | 02
04 | FL | POLK COUNTY* | 12105C0275F | 24-JUN-2004 | 04-04-5904A | 01
04 | FL | POLK COUNTY* | 12105C0425F | 24-JUN-2004 | 04-04-5904A | 01
04 | FL | POLK COUNTY* | 12105C0480F | 24-JUN-2004 | 04-04-5696A | 02
04 | FL | POLK COUNTY* | 12105C0480F | 24-JUN-2004 | 04-04-5758A | 02
04 | FL | POLK COUNTY* | 12105C0480F | 24-JUN-2004 | 04-04-6092A | 02
04 | FL | POLK COUNTY* | 12105C0540F | 24-JUN-2004 | 04-04-6032A | 02
04 | FL | POLK COUNTY* | 12105C0755F | 24-JUN-2004 | 04-04-6320A | 02
04 | FL | POLK COUNTY* | 12105C0125F | 25-JUN-2004 | 04-04-3570A | 01
04 | FL | POLK COUNTY* | 12105C0250F | 25-JUN-2004 | 04-04-3570A | 01
04 | FL | PONCE INLET, TOWN OF | 12127C0527G | 01-MAR-2004 | 04-04-1734A | 02
04 | FL | PORT ORANGE, CITY OF | 12127C0528G | 22-JAN-2004 | 04-04-2488A | 02
04 | FL | PORT ORANGE, CITY OF | 12127C0368G | 17-MAY-2004 | 04-04-4804A | 01
04 | FL | PORT ORANGE, CITY OF | 12127C0525G | 03-JUN-2004 | 04-04-4994A | 01
04 | FL | PORT ORANGE, CITY OF | 12127C0508G | 07-JUN-2004 | 04-04-5274A | 01
04 | FL | PORT ORANGE, CITY OF | 12127C0516G | 07-JUN-2004 | 04-04-5274A | 01
04 | FL | PORT ORANGE, CITY OF | 12127C0525G | 07-JUN-2004 | 04-04-5274A | 01
04 | FL | PORT ORANGE, CITY OF | 12127C0526G | 10-JUN-2004 | 04-04-5292A | 02
04 | FL | PORT ORANGE, CITY OF | 12127C0508G | 25-JUN-2004 | 04-04-6152A | 01
04 | FL | PUTNAM COUNTY * | 1202720310B | 29-JAN-2004 | 04-04-2016A | 02
04 | FL | PUTNAM COUNTY * | 1202720175B | 18-MAR-2004 | 04-04-2184A | 02
04 | FL | PUTNAM COUNTY * | 1202720320B | 29-APR-2004 | 04-04-4004A | 02
04 | FL | PUTNAM COUNTY * | 1202720330B | 20-MAY-2004 | 04-04-5402A | 02
04 | FL | SANFORD, CITY OF | 12117C0045E | 26-JAN-2004 | 04-04-2362A | 17
04 | FL | SANTA ROSA COUNTY * | 1202740360D | 22-JAN-2004 | 04-04-1534A | 02
04 | FL | SARASOTA COUNTY * | 1251440039D | 02-JAN-2004 | 04-04-1560A | 02
04 | FL | SARASOTA COUNTY * | 1251440039D | 02-JAN-2004 | 04-04-1562A | 02
04 | FL | SARASOTA COUNTY * | 1251440342E | 12-FEB-2004 | 04-04-1932A | 02
04 | FL | SARASOTA COUNTY * | 1251440344E | 12-FEB-2004 | 04-04-1932A | 02
04 | FL | SARASOTA COUNTY * | 1251440162E | 08-APR-2004 | 04-04-5278A | 02
04 | FL | SARASOTA COUNTY * | 1251440341E | 08-APR-2004 | 04-04-2704A | 01
04 | FL | SARASOTA COUNTY * | 1251440151D | 20-MAY-2004 | 04-04-4838A | 02
04 | FL | SARASOTA COUNTY * | 1251440075D | 27-MAY-2004 | 04-04-1084A | 02
04 | FL | SARASOTA, CITY OF | 1251500010B | 18-MAR-2004 | 04-04-4506A | 02
04 | FL | SARASOTA, CITY OF | 1251500009B | 24-JUN-2004 | 04-04-194P | 06
04 | FL | SEBASTIAN, CITY OF | 12061C0078E | 14-APR-2004 | 04-04-2140A | 01
04 | FL | SEMINOLE COUNTY* | 12117C0030E | 08-JAN-2004 | 04-04-1074A | 02
04 | FL | SEMINOLE COUNTY* | 12117C0130E | 26-JAN-2004 | 04-04-2004A | 02
04 | FL | SEMINOLE COUNTY* | 12117C0145E | 04-MAR-2004 | 04-04-3240A | 02
04 | FL | SEMINOLE COUNTY* | 12117C0140E | 01-APR-2004 | 04-04-3706A | 02
04 | FL | SEMINOLE COUNTY* | 12117C0145E | 14-APR-2004 | 04-04-3786A | 02
04 | FL | SEMINOLE COUNTY* | 12117C0160E | 15-APR-2004 | 04-04-4134A | 02
04 | FL | SEMINOLE COUNTY* | 12117C0145E | 29-APR-2004 | 04-04-4038A | 02
04 | FL | SEMINOLE COUNTY* | 12117C0145E | 20-MAY-2004 | 04-04-4030X | 01
04 | FL | SEMINOLE COUNTY* | 12117C0160E | 20-MAY-2004 | 04-04-3032A | 02
04 | FL | SEMINOLE COUNTY* | 12117C0040E | 27-MAY-2004 | 04-04-5242A | 02
04 | FL | SEMINOLE COUNTY* | 12117C0140E | 27-MAY-2004 | 04-04-4280A | 02
04 | FL | SEMINOLE COUNTY* | 12117C0145E | 03-JUN-2004 | 04-04-3768A | 01
04 | FL | SEMINOLE COUNTY* | 12117C0110E | 14-JUN-2004 | 04-04-6568A | 02
04 | FL | SEMINOLE COUNTY* | 12117C0145E | 14-JUN-2004 | 04-04-5552A | 01
04 | FL | SEMINOLE COUNTY* | 12117C0145E | 25-JUN-2004 | 04-04-3052A | 02
04 | FL | SHALIMAR, TOWN OF | 12091C0454H | 24-JUN-2004 | 04-04-5946A | 02
04 | FL | SOUTH MIAMI, CITY OF | 12025C0276J | 25-JUN-2004 | 04-04-5994A | 02
04 | FL | ST. CLOUD, CITY OF | 12097C0260F | 26-APR-2004 | 04-04-4056A | 01
04 | FL | ST. CLOUD, CITY OF | 12097C0260F | 07-JUN-2004 | 04-04-5528A | 01
04 | FL | ST. JOHNS COUNTY * | 12109C0259G | 08-JAN-2004 | 04-04-0658A | 01
04 | FL | ST. JOHNS COUNTY * | 12109C0267G | 08-JAN-2004 | 04-04-0816A | 01
04 | FL | ST. JOHNS COUNTY * | 12109C0276G | 08-JAN-2004 | 04-04-0666A | 01
04 | FL | ST. JOHNS COUNTY * | 12109C0276G | 08-JAN-2004 | 04-04-0818A | 01
04 | FL | ST. JOHNS COUNTY * | 12109C0195G | 20-JAN-2004 | 04-04-1580A | 01
04 | FL | ST. JOHNS COUNTY * | 12109C0391G | 04-MAR-2004 | 04-04-1660A | 02
04 | FL | ST. JOHNS COUNTY * | 12109C0134G | 08-MAR-2004 | 04-04-2546A | 02
04 | FL | ST. JOHNS COUNTY * | 12109C0311G | 08-MAR-2004 | 04-04-1928A | 02
04 | FL | ST. JOHNS COUNTY * | 12109C0300G | 18-MAR-2004 | 04-04-3830A | 02
04 | FL | ST. JOHNS COUNTY * | 12109C0180G | 25-MAR-2004 | 04-04-2194A | 01
04 | FL | ST. JOHNS COUNTY * | 12109C0391G | 25-MAR-2004 | 04-04-3112A | 02
04 | FL | ST. JOHNS COUNTY * | 12109C0381G | 29-MAR-2004 | 04-04-3378A | 02
04 | FL | ST. JOHNS COUNTY * | 12109C0082G | 05-APR-2004 | 04-04-2864A | 02
04 | FL | ST. JOHNS COUNTY * | 12109C0383G | 15-APR-2004 | 04-04-4008A | 02
04 | FL | ST. JOHNS COUNTY * | 12109C0132G | 06-MAY-2004 | 04-04-4376A | 02
04 | FL | ST. JOHNS COUNTY * | 12109C0152G | 06-MAY-2004 | 04-04-4126A | 02
04 | FL | ST. JOHNS COUNTY * | 12109C0170G | 06-MAY-2004 | 04-04-1816A | 01
04 | FL | ST. JOHNS COUNTY * | 12109C0190G | 06-MAY-2004 | 04-04-1816A | 01
04 | FL | ST. JOHNS COUNTY * | 12109C0159G | 10-MAY-2004 | 04-04-3572A | 01
04 | FL | ST. JOHNS COUNTY * | 12109C0170G | 10-MAY-2004 | 04-04-3572A | 01
04 | FL | ST. JOHNS COUNTY * | 12109C0082G | 13-MAY-2004 | 04-04-2934A | 02
04 | FL | ST. JOHNS COUNTY * | 12109C0152G | 13-MAY-2004 | 04-04-4494A | 02
04 | FL | ST. JOHNS COUNTY * | 12109C0311G | 20-MAY-2004 | 04-04-5168A | 02
04 | FL | ST. JOHNS COUNTY * | 12109C0132G | 24-MAY-2004 | 04-04-5280A | 02
04 | FL | ST. JOHNS COUNTY * | 12109C0170G | 27-MAY-2004 | 04-04-5174A | 02
04 | FL | ST. JOHNS COUNTY * | 12109C0195G | 27-MAY-2004 | 04-04-5466A | 01
04 | FL | ST. JOHNS COUNTY * | 12109C0350E | 27-MAY-2004 | 04-04-2458A | 02
04 | FL | ST. JOHNS COUNTY * | 12109C0170G | 01-JUN-2004 | 04-04-5320A | 01
04 | FL | ST. JOHNS COUNTY * | 12109C0170G | 03-JUN-2004 | 04-04-1548A | 01
04 | FL | ST. JOHNS COUNTY * | 12109C0163G | 10-JUN-2004 | 04-04-5458A | 02
04 | FL | ST. JOHNS COUNTY * | 12109C0170G | 10-JUN-2004 | 04-04-5240A | 02
04 | FL | ST. JOHNS COUNTY * | 12109C0195G | 10-JUN-2004 | 04-04-5170A | 01
04 | FL | ST. JOHNS COUNTY * | 12109C0301G | 10-JUN-2004 | 04-04-2852A | 02
04 | FL | ST. JOHNS COUNTY * | 12109C0292G | 14-JUN-2004 | 04-04-5108A | 02
04 | FL | ST. JOHNS COUNTY * | 12109C0170G | 24-JUN-2004 | 04-04-5172A | 01
04 | FL | ST. JOHNS COUNTY * | 12109C0195G | 24-JUN-2004 | 04-04-5814A | 02
04 | FL | ST. JOHNS COUNTY * | 12109C0170G | 25-JUN-2004 | 04-04-6276A | 01
04 | FL | ST. JOHNS COUNTY * | 12109C0350G | 25-JUN-2004 | 04-04-6412A | 02
04 | FL | ST. JOHNS COUNTY * | 12109C0501G | 25-JUN-2004 | 04-04-4796A | 02
04 | FL | ST. JOHNS COUNTY * | 12109C0276G | 28-JUN-2004 | 04-04-6346A | 02
04 | FL | ST. LUCIE COUNTY * | 12111C0186F | 19-FEB-2004 | 04-04-2390A | 01
04 | FL | ST. LUCIE COUNTY * | 12111C0188F | 19-FEB-2004 | 04-04-2390A | 01
04 | FL | ST. PETERSBURG, CITY OF | 12103C0209G | 15-JAN-2004 | 04-04-1328A | 02
04 | FL | ST. PETERSBURG, CITY OF | 12103C0192G | 12-FEB-2004 | 04-04-2182A | 02
04 | FL | ST. PETERSBURG, CITY OF | 12103C0211G | 26-FEB-2004 | 04-04-1406A | 02
04 | FL | ST. PETERSBURG, CITY OF | 12103C0207G | 04-MAR-2004 | 04-04-2360A | 02
04 | FL | ST. PETERSBURG, CITY OF | 12103C0211G | 04-MAR-2004 | 04-04-2142A | 02
04 | FL | ST. PETERSBURG, CITY OF | 12103C0212G | 25-MAR-2004 | 04-04-3096A | 02
04 | FL | ST. PETERSBURG, CITY OF | 12103C0211G | 08-APR-2004 | 04-04-2694A | 02
04 | FL | ST. PETERSBURG, CITY OF | 12103C0282G | 08-APR-2004 | 04-04-3174A | 02
04 | FL | ST. PETERSBURG, CITY OF | 12103C0211G | 10-MAY-2004 | 04-04-4572A | 02
04 | FL | ST. PETERSBURG, CITY OF | 12103C0212G | 24-MAY-2004 | 04-04-4868A | 02
04 | FL | ST. PETERSBURG, CITY OF | 12103C0212G | 10-JUN-2004 | 04-04-5674A | 02
04 | FL | ST. PETERSBURG, CITY OF | 12103C0192G | 28-JUN-2004 | 04-04-5534A | 02
04 | FL | SUMTER COUNTY * | 1202960125B | 15-JAN-2004 | 04-04-1924A | 02
04 | FL | SUMTER COUNTY * | 1202960075B | 19-FEB-2004 | 03-04-10202A | 01
04 | FL | SUMTER COUNTY * | 1202960075B | 19-FEB-2004 | 04-04-1348A | 01
04 | FL | SUMTER COUNTY * | 1202960100B | 26-FEB-2004 | 04-04-1550A | 02
04 | FL | SUMTER COUNTY * | 1202960200B | 01-APR-2004 | 04-04-4422A | 02
04 | FL | SUMTER COUNTY * | 1202960075B | 06-MAY-2004 | 04-04-2896A | 02
04 | FL | SUMTER COUNTY * | 1202960075B | 17-MAY-2004 | 04-04-1938A | 02
04 | FL | SUMTER COUNTY * | 1202960075B | 24-MAY-2004 | 04-04-5734A | 02
04 | FL | SUMTER COUNTY * | 1202960075B | 24-MAY-2004 | 04-04-5736A | 02
04 | FL | SUMTER COUNTY * | 1202960075B | 24-MAY-2004 | 04-04-5740A | 01
04 | FL | SUMTER COUNTY * | 1202960075B | 24-MAY-2004 | 04-04-5764A | 01
04 | FL | SUMTER COUNTY * | 1202960075B | 24-MAY-2004 | 04-04-5800A | 02
04 | FL | SUMTER COUNTY * | 1202960075B | 27-MAY-2004 | 04-04-4988A | 01
04 | FL | SUMTER COUNTY * | 1202960075B | 27-MAY-2004 | 04-04-5558A | 02
04 | FL | SUMTER COUNTY * | 1202960075B | 27-MAY-2004 | 04-04-5732A | 02
04 | FL | SUMTER COUNTY * | 1202960075B | 27-MAY-2004 | 04-04-5828A | 02
04 | FL | SUMTER COUNTY * | 1202960075B | 07-JUN-2004 | 04-04-5100A | 01
04 | FL | SUMTER COUNTY * | 1202960075B | 07-JUN-2004 | 04-04-5730A | 02
04 | FL | SUMTER COUNTY * | 1202960075B | 07-JUN-2004 | 04-04-5738A | 02
04 | FL | SUMTER COUNTY * | 1202960075B | 07-JUN-2004 | 04-04-5808A | 02
04 | FL | SUMTER COUNTY * | 1202960075B | 07-JUN-2004 | 04-04-5810A | 02
04 | FL | SUMTER COUNTY * | 1202960200B | 10-JUN-2004 | 04-04-3548A | 02
04 | FL | SUNRISE, CITY OF | 12011C0195F | 02-JAN-2004 | 04-04-0986A | 02
04 | FL | SUNRISE, CITY OF | 12011C0205F | 02-JAN-2004 | 04-04-0988A | 02
04 | FL | SUNRISE, CITY OF | 12011C0195F | 29-JAN-2004 | 04-04-1786A | 02
04 | FL | SUNRISE, CITY OF | 12011C0205F | 19-FEB-2004 | 04-04-2536A | 02
04 | FL | SUNRISE, CITY OF | 12011C0195F | 31-MAR-2004 | 04-04-4568A | 02
04 | FL | SUNRISE, CITY OF | 12011C0205F | 21-JUN-2004 | 04-04-5970A | 02
04 | FL | SUNRISE, CITY OF | 12011C0215F | 25-JUN-2004 | 04-04-6362A | 02
04 | FL | TALLAHASSEE, CITY OF | 12073C0283D | 08-JAN-2004 | 03-04-7046A | 02
04 | FL | TALLAHASSEE, CITY OF | 12073C0315D | 12-FEB-2004 | 04-04-1510A | 01
04 | FL | TAMARAC, CITY OF | 12011C0185F | 02-JAN-2004 | 04-04-1038A | 01
04 | FL | TAMARAC, CITY OF | 12011C0205F | 08-JAN-2004 | 04-04-1346A | 02
04 | FL | TAMARAC, CITY OF | 12011C0205F | 20-JAN-2004 | 04-04-2512A | 01
04 | FL | TAMARAC, CITY OF | 12011C0205F | 29-JAN-2004 | 04-04-1680A | 02
04 | FL | TAMARAC, CITY OF | 12011C0205F | 12-APR-2004 | 04-04-4556A | 02
04 | FL | TAMARAC, CITY OF | 12011C0205F | 06-MAY-2004 | 04-04-4554A | 02
04 | FL | TAMARAC, CITY OF | 12011C0185F | 03-JUN-2004 | 04-04-5542A | 01
04 | FL | TAMARAC, CITY OF | 12011C0204F | 10-JUN-2004 | 04-04-5678A | 02
04 | FL | TAMARAC, CITY OF | 12011C0205F | 10-JUN-2004 | 04-04-5776A | 02
04 | FL | TAMARAC, CITY OF | 12011C0204F | 17-JUN-2004 | 04-04-5884A | 02
04 | FL | TAMARAC, CITY OF | 12011C0204F | 17-JUN-2004 | 04-04-5892A | 02
04 | FL | TAMARAC, CITY OF | 12011C0205F | 17-JUN-2004 | 04-04-5882A | 02
04 | FL | TAMARAC, CITY OF | 12011C0205F | 25-JUN-2004 | 04-04-6282A | 02
04 | FL | TAMARAC, CITY OF | 12011C0205F | 25-JUN-2004 | 04-04-6288A | 02
04 | FL | TAMARAC, CITY OF | 12011C0205F | 25-JUN-2004 | 04-04-6398A | 02
04 | FL | TAMPA, CITY OF | 1201120095C | 25-MAR-2004 | 04-04-2304A | 01
04 | FL | TAMPA, CITY OF | 1201120210E | 21-JUN-2004 | 04-04-6046A | 01
04 | FL | TARPON SPRINGS, CITY OF | 12103C0036G | 02-JAN-2004 | 04-04-0896A | 01
04 | FL | TARPON SPRINGS, CITY OF | 12103C0038G | 08-JAN-2004 | 04-04-1790A | 02
04 | FL | TARPON SPRINGS, CITY OF | 12103C0019G | 05-FEB-2004 | 04-04-1754A | 01
04 | FL | TARPON SPRINGS, CITY OF | 12103C0016G | 06-MAY-2004 | 04-04-3390A | 02
04 | FL | TARPON SPRINGS, CITY OF | 12103C0019G | 13-MAY-2004 | 04-04-2266A | 02
04 | FL | TARPON SPRINGS, CITY OF | 12103C0019G | 20-MAY-2004 | 04-04-4960A | 02
04 | FL | TARPON SPRINGS, CITY OF | 12103C0038G | 14-JUN-2004 | 04-04-5700A | 02
04 | FL | TARPON SPRINGS, CITY OF | 12103C0019G | 21-JUN-2004 | 04-04-6146A | 02
04 | FL | TAVARES, CITY OF | 12069C0345D | 13-MAY-2004 | 04-04-4580A | 02
04 | FL | TAVARES, CITY OF | 12069C0361D | 20-MAY-2004 | 04-04-4786A | 02
04 | FL | TAVARES, CITY OF | 12069C0345D | 10-JUN-2004 | 04-04-5684A | 02
04 | FL | TEMPLE TERRACE, CITY OF | 1201150005E | 10-MAY-2004 | 04-04-4206A | 02
04 | FL | TITUSVILLE, CITY OF | 12009C0185F | 25-MAR-2004 | 04-04-3056A | 02
04 | FL | VALPARAISO, CITY OF | 12091C0370H | 17-MAY-2004 | 04-04-4824A | 02
04 | FL | VOLUSIA COUNTY* | 12127C0508G | 22-JAN-2004 | 04-04-2446A | 02
04 | FL | VOLUSIA COUNTY* | 12127C0389G | 01-MAR-2004 | 04-04-1574A | 02
04 | FL | VOLUSIA COUNTY* | 12127C0700G | 18-MAR-2004 | 03-04-10690A | 02
04 | FL | VOLUSIA COUNTY* | 12127C0350G | 09-APR-2004 | 04-04-0662A | 02
04 | FL | VOLUSIA COUNTY* | 12127C0200H | 10-MAY-2004 | 04-04-1162A | 01
04 | FL | VOLUSIA COUNTY* | 12127C0211H | 17-MAY-2004 | 04-04-4798A | 02
04 | FL | VOLUSIA COUNTY* | 12127C0213H | 07-JUN-2004 | 04-04-5234A | 01
04 | FL | WALTON COUNTY * | 12131C0543F | 08-MAR-2004 | 04-04-1666A | 02
04 | FL | WALTON COUNTY * | 12131C0544F | 08-MAR-2004 | 04-04-1666A | 02
04 | FL | WALTON COUNTY * | 12131C0701F | 11-MAR-2004 | 04-04-3364A | 02
04 | FL | WALTON COUNTY * | 12131C0702F | 08-APR-2004 | 03-04-493P | 05
04 | FL | WALTON COUNTY * | 12131C0543F | 15-APR-2004 | 04-04-4370A | 02
04 | FL | WALTON COUNTY * | 12131C0175F | 23-APR-2004 | 04-04-2856A | 02
04 | FL | WALTON COUNTY * | 12131C0543F | 20-MAY-2004 | 04-04-5028A | 02
04 | FL | WALTON COUNTY * | 12131C0519F | 21-JUN-2004 | 04-04-6138A | 02
04 | FL | WASHINGTON COUNTY * | 12133C0200C | 03-JUN-2004 | 04-04-5816A | 02
04 | FL | WELLINGTON, VILLAGE OF | 1201920100B | 02-APR-2004 | 03-04-0014A | 01
04 | FL | WEST MELBOURNE, CITY OF | 12009C0504E | 04-MAR-2004 | 04-04-1682A | 01
04 | FL | WEST PALM BEACH, CITY OF | 1202290020B | 15-JAN-2004 | 04-04-1496A | 02
04 | FL | WEST PALM BEACH, CITY OF | 1202290015B | 11-MAR-2004 | 04-04-2838A | 02
04 | FL | WEST PALM BEACH, CITY OF | 1201920150A | 08-APR-2004 | 04-04-3480A | 01
04 | FL | WEST PALM BEACH, CITY OF | 1202290015B | 03-JUN-2004 | 04-04-5574A | 02
04 | FL | WINTER HAVEN, CITY OF | 12105C0535F | 02-JAN-2004 | 04-04-0832A | 02
04 | FL | WINTER HAVEN, CITY OF | 12105C0345F | 12-FEB-2004 | 04-04-2858A | 02
04 | FL | WINTER HAVEN, CITY OF | 12105C0358F | 27-MAY-2004 | 04-04-3862A | 02
04 | FL | WINTER SPRINGS, CITY OF | 12117C0155E | 15-JAN-2004 | 04-04-1578A | 01
04 | FL | WINTER SPRINGS, CITY OF | 12117C0165E | 22-JAN-2004 | 04-04-2454A | 02
04 | FL | WINTER SPRINGS, CITY OF | 12117C0145E | 09-FEB-2004 | 04-04-3054A | 02
04 | GA | ADEL, CITY OF | 13075C0095B | 26-FEB-2004 | 04-04-2060A | 02
04 | GA | ALPHARETTA, CITY OF | 13121C0059E | 05-FEB-2004 | 04-04-2172A | 02
04 | GA | ATHENS-CLARKE COUNTY | 1300400010C | 01-MAR-2004 | 04-04-3206A | 02
04 | GA | ATHENS-CLARKE COUNTY | 1300400023C | 27-MAY-2004 | 04-04-4256A | 02
04 | GA | ATLANTA, CITY OF | 13121C0261F | 26-JAN-2004 | 04-04-1544A | 02
04 | GA | ATLANTA, CITY OF | 13121C0242E | 09-FEB-2004 | 04-04-2708A | 02
04 | GA | ATLANTA, CITY OF | 13121C0233E | 04-MAR-2004 | 04-04-3522A | 02
04 | GA | ATLANTA, CITY OF | 13121C0233E | 18-MAR-2004 | 04-04-3644A | 02
04 | GA | ATLANTA, CITY OF | 13121C0233E | 23-APR-2004 | 04-04-4704A | 02
04 | GA | ATLANTA, CITY OF | 13121C0233E | 01-JUN-2004 | 04-04-6024A | 02
04 | GA | BALDWIN COUNTY* | 1300050075B | 22-JAN-2004 | 04-04-2336A | 02
04 | GA | BALDWIN COUNTY* | 1300050075B | 10-MAY-2004 | 04-04-4708A | 02
04 | GA | BARROW COUNTY* | 1304970050A | 15-JAN-2004 | 04-04-2096A | 02
04 | GA | BARROW COUNTY* | 1304970050A | 18-MAR-2004 | 04-04-1478A | 02
04 | GA | BARROW COUNTY* | 1304970075A | 25-MAR-2004 | 04-04-2966A | 02
04 | GA | BARROW COUNTY* | 1304970050A | 15-APR-2004 | 04-04-5784X | 02
04 | GA | BARROW COUNTY* | 1304970050A | 27-MAY-2004 | 04-04-2056A | 02
04 | GA | BARTOW COUNTY * | 13015C0079F | 15-JAN-2004 | 03-04-10320A | 01
04 | GA | BARTOW COUNTY * | 13015C0078F | 16-FEB-2004 | 04-04-1622A | 02
04 | GA | BARTOW COUNTY * | 13015C0079F | 15-MAR-2004 | 04-04-3452A | 02
04 | GA | BARTOW COUNTY * | 13015C0070F | 08-APR-2004 | 04-04-4524A | 02
04 | GA | BARTOW COUNTY * | 13015C0110F | 29-APR-2004 | 04-04-4438A | 02
04 | GA | BARTOW COUNTY * | 13015C0095F | 03-MAY-2004 | 04-04-4262A | 02
04 | GA | BIBB COUNTY* | 1300110041E | 05-APR-2004 | 03-04-395P | 05
04 | GA | BRYAN COUNTY * | 1300160305A | 02-JAN-2004 | 04-04-0344A | 02
04 | GA | BRYAN COUNTY * | 1300160125A | 08-JAN-2004 | 04-04-0950A | 02
04 | GA | CARROLLTON, CITY OF | 1302080001B | 03-MAY-2004 | 04-04-4608A | 02
04 | GA | CATOOSA COUNTY* | 1300280025D | 04-FEB-2004 | 03-04-433P | 05
04 | GA | CATOOSA COUNTY* | 1300280025D | 04-FEB-2004 | 03-04-433P | 05
04 | GA | CATOOSA COUNTY* | 1300280025D | 10-MAY-2004 | 04-04-3598A | 02
04 | GA | CATOOSA COUNTY* | 1300280025D | 27-MAY-2004 | 04-04-3596A | 01
04 | GA | CATOOSA COUNTY* | 1300280075C | 01-JUN-2004 | 04-04-5510A | 02
04 | GA | CHATHAM COUNTY* | 1300300075C | 23-FEB-2004 | 04-04-1864A | 02
04 | GA | CHATHAM COUNTY* | 1300300080C | 11-MAR-2004 | 04-04-3402A | 01
04 | GA | CHATHAM COUNTY* | 1300300075C | 18-MAR-2004 | 04-04-1966A | 02
04 | GA | CHATHAM COUNTY* | 1300300025C | 29-MAR-2004 | 04-04-3600A | 02
04 | GA | CHATHAM COUNTY* | 1300300025C | 08-APR-2004 | 04-04-4058A | 02
04 | GA | CHATHAM COUNTY* | 1300300025C | 28-JUN-2004 | 04-04-4060A | 02
04 | GA | CHEROKEE COUNTY* | 13057C0175B | 14-JUN-2004 | 04-04-4858A | 02
04 | GA | CLAYTON COUNTY* | 1300410065B | 05-FEB-2004 | 04-04-2776A | 01
04 | GA | CLAYTON COUNTY* | 1300410065B | 16-FEB-2004 | 04-04-0282A | 02
04 | GA | CLAYTON COUNTY* | 1300410060C | 26-FEB-2004 | 04-04-0770A | 02
04 | GA | CLAYTON COUNTY* | 1300410065B | 08-APR-2004 | 04-04-4054A | 02
04 | GA | CLAYTON COUNTY* | 1300410060C | 20-MAY-2004 | 04-04-6056A | 02
04 | GA | COBB COUNTY* | 13067C0085F | 02-JAN-2004 | 04-04-0408A | 02
04 | GA | COBB COUNTY* | 13067C0035F | 05-JAN-2004 | 04-04-0608A | 02
04 | GA | COBB COUNTY* | 13067C0045F | 05-JAN-2004 | 04-04-1180A | 02
04 | GA | COBB COUNTY* | 13067C0040F | 08-JAN-2004 | 03-04-11086A | 02
04 | GA | COBB COUNTY* | 13067C0050F | 08-JAN-2004 | 04-04-1626A | 02
04 | GA | COBB COUNTY* | 13067C0035F | 12-JAN-2004 | 04-04-1018A | 01
04 | GA | COBB COUNTY* | 13067C0035F | 02-FEB-2004 | 04-04-2228A | 02
04 | GA | COBB COUNTY* | 13067C0035F | 05-FEB-2004 | 04-04-1358A | 02
04 | GA | COBB COUNTY* | 13067C0015F | 09-FEB-2004 | 04-04-0492A | 02
04 | GA | COBB COUNTY* | 13067C0075F | 09-FEB-2004 | 04-04-2736A | 02
04 | GA | COBB COUNTY* | 13067C0025F | 16-FEB-2004 | 04-04-2920A | 02
04 | GA | COBB COUNTY* | 13067C0055F | 17-FEB-2004 | 04-04-1472A | 02
04 | GA | COBB COUNTY* | 13067C0075F | 19-FEB-2004 | 03-04-9266A | 02
04 | GA | COBB COUNTY* | 13067C0035F | 23-FEB-2004 | 04-04-2418A | 01
04 | GA | COBB COUNTY* | 13067C0035F | 23-FEB-2004 | 04-04-2520A | 02
04 | GA | COBB COUNTY* | 13067C0025F | 01-MAR-2004 | 04-04-3690A | 02
04 | GA | COBB COUNTY* | 13067C0035F | 01-MAR-2004 | 04-04-2478A | 02
04 | GA | COBB COUNTY* | 13067C0010F | 08-MAR-2004 | 04-04-2480A | 02
04 | GA | COBB COUNTY* | 13067C0005F | 11-MAR-2004 | 04-04-2970A | 02
04 | GA | COBB COUNTY* | 13067C0035F | 18-MAR-2004 | 04-04-4522A | 02
04 | GA | COBB COUNTY* | 13067C0025F | 22-MAR-2004 | 04-04-1962A | 02
04 | GA | COBB COUNTY* | 13067C0025F | 01-APR-2004 | 04-04-2942A | 02
04 | GA | COBB COUNTY* | 13067C0055F | 05-APR-2004 | 04-04-4904A | 02
04 | GA | COBB COUNTY* | 13067C0010F | 08-APR-2004 | 04-04-4258A | 02
04 | GA | COBB COUNTY* | 13067C0010F | 08-APR-2004 | 04-04-4654A | 02
04 | GA | COBB COUNTY* | 13067C0015F | 08-APR-2004 | 04-04-4184A | 02
04 | GA | COBB COUNTY* | 13067C0040F | 08-APR-2004 | 04-04-3204A | 02
04 | GA | COBB COUNTY* | 13067C0040F | 08-APR-2004 | 04-04-3338A | 02
04 | GA | COBB COUNTY* | 13067C0090F | 08-APR-2004 | 04-04-4444A | 02
04 | GA | COBB COUNTY* | 13067C0070F | 12-APR-2004 | 04-04-4606A | 02
04 | GA | COBB COUNTY* | 13067C0035F | 15-APR-2004 | 04-04-1860A | 02
04 | GA | COBB COUNTY* | 13067C0070F | 15-APR-2004 | 04-04-4382A | 02
04 | GA | COBB COUNTY* | 13067C0090F | 15-APR-2004 | 04-04-4520A | 02
04 | GA | COBB COUNTY* | 13067C0035F | 23-APR-2004 | 04-04-3686A | 02
04 | GA | COBB COUNTY* | 13067C0090F | 23-APR-2004 | 04-04-3972A | 02
04 | GA | COBB COUNTY* | 13067C0025F | 26-APR-2004 | 03-04-9938A | 02
04 | GA | COBB COUNTY* | 13067C0025F | 26-APR-2004 | 04-04-4950A | 02
04 | GA | COBB COUNTY* | 13067C0035F | 26-APR-2004 | 04-04-4860A | 02
04 | GA | COBB COUNTY* | 13067C0035F | 26-APR-2004 | 04-04-5514A | 02
04 | GA | COBB COUNTY* | 13067C0035F | 29-APR-2004 | 04-04-5144A | 02
04 | GA | COBB COUNTY* | 13067C0015F | 03-MAY-2004 | 04-04-2802A | 02
04 | GA | COBB COUNTY* | 13067C0035F | 03-MAY-2004 | 04-04-3960A | 02
04 | GA | COBB COUNTY* | 13067C0040F | 06-MAY-2004 | 04-04-2780A | 02
04 | GA | COBB COUNTY* | 13067C0010F | 13-MAY-2004 | 04-04-3132A | 02
04 | GA | COBB COUNTY* | 13067C0005F | 27-MAY-2004 | 04-04-3602A | 02
04 | GA | COBB COUNTY* | 13067C0035F | 27-MAY-2004 | 04-04-6064A | 02
04 | GA | COBB COUNTY* | 13067C0070F | 27-MAY-2004 | 04-04-6234A | 02
04 | GA | COBB COUNTY* | 13067C0075F | 27-MAY-2004 | 04-04-6062A | 02
04 | GA | COBB COUNTY* | 13067C0035F | 01-JUN-2004 | 04-04-6240A | 02
04 | GA | COBB COUNTY* | 13067C0050F | 10-JUN-2004 | 04-04-3208A | 02
04 | GA | COBB COUNTY* | 13067C0035F | 14-JUN-2004 | 04-04-5980A | 02
04 | GA | COBB COUNTY* | 13067C0035F | 24-JUN-2004 | 04-04-7092A | 02
04 | GA | COBB COUNTY* | 13067C0060F | 24-JUN-2004 | 04-04-5870A | 02
04 | GA | COBB COUNTY* | 13067C0030F | 25-JUN-2004 | 04-04-6338A | 02
04 | GA | COBB COUNTY* | 13067C0070F | 25-JUN-2004 | 04-04-6190A | 02
04 | GA | COBB COUNTY* | 13067C0055F | 28-JUN-2004 | 04-04-7124A | 02
04 | GA | COLUMBIA COUNTY* | 1300590095B | 04-MAR-2004 | 04-04-1438A | 02
04 | GA | COLUMBIA COUNTY* | 1300590090B | 03-MAY-2004 | 04-04-4448A | 02
04 | GA | COLUMBUS, CITY OF | 1351580050D | 02-FEB-2004 | 04-04-2984A | 01
04 | GA | COLUMBUS, CITY OF | 1351580045D | 10-MAY-2004 | 04-04-5004A | 02
04 | GA | COOK COUNTY* | 13075C0100B | 16-FEB-2004 | 04-04-2582A | 02
04 | GA | COWETA COUNTY * | 1302980125A | 02-FEB-2004 | 04-04-0348A | 02
04 | GA | COWETA COUNTY * | 1302980140B | 27-MAY-2004 | 04-04-3386A | 02
04 | GA | COWETA COUNTY * | 1302980130A | 14-JUN-2004 | 04-04-6972A | 02
04 | GA | DADE COUNTY * | 13083C0007C | 26-JAN-2004 | 04-04-2166A | 02
04 | GA | DADE COUNTY * | 13083C0007C | 15-APR-2004 | 04-04-1620A | 02
04 | GA | DALTON, CITY OF | 1301940010C | 09-FEB-2004 | 04-04-1724A | 01
04 | GA | DE KALB COUNTY * | 13089C0010H | 26-FEB-2004 | 04-04-1026A | 02
04 | GA | DE KALB COUNTY * | 13089C0087H | 04-MAR-2004 | 04-04-2580A | 02
04 | GA | DE KALB COUNTY * | 13089C0154H | 11-MAR-2004 | 04-04-3884A | 02
04 | GA | DE KALB COUNTY * | 13089C0076H | 18-MAR-2004 | 04-04-1178A | 02
04 | GA | DE KALB COUNTY * | 13089C0176H | 01-APR-2004 | 04-04-3744A | 02
04 | GA | DE KALB COUNTY * | 13089C0059H | 26-APR-2004 | 04-04-4948A | 02
04 | GA | DE KALB COUNTY * | 13089C0151H | 26-APR-2004 | 04-04-3440A | 02
04 | GA | DE KALB COUNTY * | 13089C0079H | 29-APR-2004 | 04-04-4526A | 02
04 | GA | DE KALB COUNTY * | 13089C0188H | 03-MAY-2004 | 04-04-3078A | 02
04 | GA | DE KALB COUNTY * | 13089C0153H | 06-MAY-2004 | 04-04-5142A | 17
04 | GA | DE KALB COUNTY * | 13089C0066H | 24-MAY-2004 | 04-04-5140A | 02
04 | GA | DE KALB COUNTY * | 13089C0133H | 27-MAY-2004 | 04-04-2576A | 02
04 | GA | DE KALB COUNTY * | 13089C0076H | 01-JUN-2004 | 04-04-6238A | 02
04 | GA | DE KALB COUNTY * | 13089C0010H | 07-JUN-2004 | 04-04-6066A | 02
04 | GA | DE KALB COUNTY * | 13089C0010H | 14-JUN-2004 | 04-04-4182A | 02
04 | GA | DE KALB COUNTY * | 13089C0142H | 14-JUN-2004 | 04-04-6060A | 02
04 | GA | DOUGLAS COUNTY * | 1303060060A | 14-JUN-2004 | 04-04-5924A | 02
04 | GA | DOUGLAS COUNTY * | 1303060015A | 21-JUN-2004 | 04-04-2914A | 02
04 | GA | DULUTH, CITY OF | 1300980001C | 15-JAN-2004 | 04-04-1862A | 02
04 | GA | DULUTH, CITY OF | 1300980002C | 20-MAY-2004 | 04-04-2416A | 02
04 | GA | EAST POINT, CITY OF | 13121C0361E | 26-APR-2004 | 04-04-5056A | 02
04 | GA | FANNIN COUNTY* | 13111C0067D | 08-JAN-2004 | 04-04-1988A | 02
04 | GA | FANNIN COUNTY* | 13111C0035D | 16-FEB-2004 | 04-04-2738A | 02
04 | GA | FANNIN COUNTY* | 13111C0067D | 08-APR-2004 | 04-04-3876A | 02
04 | GA | FANNIN COUNTY* | 13111C0035D | 03-MAY-2004 | 04-04-4446A | 02
04 | GA | FANNIN COUNTY* | 13111C0050D | 03-MAY-2004 | 04-04-5020A | 02
04 | GA | FANNIN COUNTY* | 13111C0185D | 24-JUN-2004 | 04-04-5018A | 02
04 | GA | FAYETTE COUNTY * | 13113C0125D | 11-MAR-2004 | 04-04-2170A | 02
04 | GA | FAYETTE COUNTY * | 13113C0085D | 25-MAR-2004 | 04-04-3444A | 02
04 | GA | FAYETTE COUNTY * | 13113C0080D | 23-APR-2004 | 04-04-5016A | 02
04 | GA | FLOYD COUNTY* | 13115C0185D | 12-FEB-2004 | 04-04-1546A | 02
04 | GA | FLOYD COUNTY* | 13115C0185D | 18-MAR-2004 | 04-04-1628A | 02
04 | GA | FLOYD COUNTY* | 13115C0285D | 29-MAR-2004 | 04-04-4902A | 02
04 | GA | FLOYD COUNTY* | 13115C0185D | 29-APR-2004 | 04-04-4720A | 02
04 | GA | FLOYD COUNTY* | 13115C0185D | 21-JUN-2004 | 04-04-3746A | 01
04 | GA | FORSYTH COUNTY * | 13117C0125C | 08-JAN-2004 | 04-04-1690A | 02
04 | GA | FORSYTH COUNTY * | 13117C0085C | 02-FEB-2004 | 04-04-0978A | 02
04 | GA | FORSYTH COUNTY * | 13117C0160C | 04-FEB-2004 | 03-04-373P | 05
04 | GA | FORSYTH COUNTY * | 13117C0180C | 04-FEB-2004 | 03-04-373P | 05
04 | GA | FORSYTH COUNTY * | 13117C0075C | 15-APR-2004 | 04-04-3048A | 02
04 | GA | FORSYTH COUNTY * | 13117C0125C | 15-APR-2004 | 04-04-4340A | 02
04 | GA | FORSYTH COUNTY * | 13117C0125C | 14-JUN-2004 | 04-04-5654A | 02
04 | GA | FORT OGLETHORPE, CITY OF | 1302480001B | 04-FEB-2004 | 03-04-433P | 05
04 | GA | FORT OGLETHORPE, CITY OF | 1302480001B | 04-FEB-2004 | 03-04-433P | 05
04 | GA | FULTON COUNTY * | 13121C0152E | 05-FEB-2004 | 04-04-2168A | 02
04 | GA | FULTON COUNTY * | 13121C0160E | 01-APR-2004 | 04-04-3448A | 02
04 | GA | FULTON COUNTY * | 13121C0080E | 15-APR-2004 | 04-04-4344A | 02
04 | GA | FULTON COUNTY * | 13121C0160E | 15-APR-2004 | 04-04-2734A | 02
04 | GA | FULTON COUNTY * | 13121C0087E | 26-APR-2004 | 04-04-5074A | 02
04 | GA | FULTON COUNTY * | 13121C0115E | 01-JUN-2004 | 04-04-3384A | 02
04 | GA | GORDON COUNTY* | 1300940039B | 07-JUN-2004 | 04-04-4652A | 02
04 | GA | GWINNETT COUNTY * | 1303220305C | 27-JAN-2004 | 03-04-193P | 06
04 | GA | GWINNETT COUNTY * | 1303220280C | 02-FEB-2004 | 03-04-10932A | 02
04 | GA | GWINNETT COUNTY * | 1303220160E | 12-FEB-2004 | 04-04-1108A | 02
04 | GA | GWINNETT COUNTY * | 1303220190C | 17-FEB-2004 | 04-04-0858A | 17
04 | GA | GWINNETT COUNTY * | 1303220185C | 23-FEB-2004 | 04-04-3020A | 02
04 | GA | GWINNETT COUNTY * | 1303220280C | 26-FEB-2004 | 04-04-3692A | 02
04 | GA | GWINNETT COUNTY * | 1303220160E | 01-MAR-2004 | 03-04-10252A | 02
04 | GA | GWINNETT COUNTY * | 1303220180C | 01-MAR-2004 | 04-04-1764A | 02
04 | GA | GWINNETT COUNTY * | 1303220180C | 01-MAR-2004 | 04-04-3696A | 02
04 | GA | GWINNETT COUNTY * | 1303220305C | 01-MAR-2004 | 04-04-3406A | 02
04 | GA | GWINNETT COUNTY * | 1303220305C | 11-MAR-2004 | 04-04-1022A | 02
04 | GA | GWINNETT COUNTY * | 1303220125C | 15-MAR-2004 | 04-04-3966A | 02
04 | GA | GWINNETT COUNTY * | 1303220085C | 01-APR-2004 | 04-04-1776A | 02
04 | GA | GWINNETT COUNTY * | 1303220220C | 26-APR-2004 | 04-04-5342A | 02
04 | GA | GWINNETT COUNTY * | 1303220070C | 03-MAY-2004 | 04-04-4082A | 02
04 | GA | GWINNETT COUNTY * | 1303220205C | 10-MAY-2004 | 04-04-2968A | 02
04 | GA | GWINNETT COUNTY * | 1303220095C | 27-MAY-2004 | 04-04-2518A | 02
04 | GA | GWINNETT COUNTY * | 1303220170C | 27-MAY-2004 | 04-04-6022A | 02
04 | GA | GWINNETT COUNTY * | 1303220085C | 01-JUN-2004 | 04-04-5826A | 02
04 | GA | GWINNETT COUNTY * | 1303220185C | 14-JUN-2004 | 04-04-5388A | 02
04 | GA | GWINNETT COUNTY * | 1303220295B | 14-JUN-2004 | 04-04-6244A | 02
04 | GA | GWINNETT COUNTY * | 1303220160E | 21-JUN-2004 | 04-04-6336A | 02
04 | GA | GWINNETT COUNTY * | 1303220125C | 24-JUN-2004 | 04-04-4348A | 02
04 | GA | GWINNETT COUNTY * | 1303220185C | 24-JUN-2004 | 04-04-6758A | 02
04 | GA | GWINNETT COUNTY * | 1303220085C | 28-JUN-2004 | 04-04-6966A | 02
04 | GA | HALL COUNTY * | 13139C0025E | 16-FEB-2004 | 04-04-2396A | 02
04 | GA | HALL COUNTY * | 13139C0183E | 03-JUN-2004 | 04-04-6236A | 02
04 | GA | HARRIS COUNTY* | 1303380150A | 29-APR-2004 | 04-04-3694A | 02
04 | GA | HARRIS COUNTY* | 1303380225A | 29-APR-2004 | 04-04-4610A | 02
04 | GA | HARRIS COUNTY* | 1303380250A | 25-MAY-2004 | 03-04-541P | 05
04 | GA | HENRY COUNTY * | 1304680125B | 22-JAN-2004 | 04-04-1710A | 02
04 | GA | HENRY COUNTY * | 1304680065B | 02-FEB-2004 | 04-04-1856A | 02
04 | GA | HENRY COUNTY * | 1304680125B | 01-MAR-2004 | 04-04-1044A | 02
04 | GA | HENRY COUNTY * | 1304680150B | 05-APR-2004 | 04-04-3050A | 02
04 | GA | HENRY COUNTY * | 1304680150B | 08-APR-2004 | 04-04-1384A | 02
04 | GA | HIAWASSEE, CITY OF | 13281C0035C | 14-JUN-2004 | 04-04-4442A | 02
04 | GA | HOUSTON COUNTY * | 1302470080B | 13-MAY-2004 | 04-04-4450A | 02
04 | GA | JACKSON COUNTY | 1303450070A | 01-APR-2004 | 03-04-491P | 05
04 | GA | JACKSON COUNTY | 1303450175A | 01-APR-2004 | 03-04-491P | 05
04 | GA | JACKSON COUNTY | 1303450200A | 01-APR-2004 | 03-04-491P | 05
04 | GA | JACKSON COUNTY | 1303450070A | 26-MAY-2004 | 04-04-269P | 05
04 | GA | KENNESAW, CITY OF | 13067C0030F | 01-JUN-2004 | 04-04-6018A | 02
04 | GA | LOWNDES COUNTY * | 1304690085C | 29-MAR-2004 | 04-04-2486A | 02
04 | GA | LUMPKIN COUNTY | 1303540225A | 05-FEB-2004 | 04-04-2338A | 02
04 | GA | LUMPKIN COUNTY | 1303540225A | 03-MAY-2004 | 04-04-4176A | 02
04 | GA | MACON, CITY OF | 1300110025D | 27-MAY-2004 | 04-04-3648A | 02
04 | GA | MACON, CITY OF | 1300110030D | 10-JUN-2004 | 04-04-6510A | 02
04 | GA | MARIETTA, CITY OF | 13067C0035F | 15-JAN-2004 | 04-04-0488A | 02
04 | GA | MARIETTA, CITY OF | 13067C0050F | 15-JAN-2004 | 03-04-10916A | 02
04 | GA | MARIETTA, CITY OF | 13067C0050F | 26-JAN-2004 | 04-04-0846A | 02
04 | GA | MARIETTA, CITY OF | 13067C0055F | 27-MAY-2004 | 04-04-5928A | 02
04 | GA | MARIETTA, CITY OF | 13067C0050F | 21-JUN-2004 | 04-04-6590A | 02
04 | GA | MCINTOSH COUNTY * | 1301300045A | 27-MAY-2004 | 04-04-6116A | 02
04 | GA | MERIWETHER COUNTY* | 1304730150C | 02-FEB-2004 | 04-04-1712A | 02
04 | GA | MORGAN COUNTY* | 13211C0020A | 02-JAN-2004 | 04-04-1956A | 02
04 | GA | MORGAN COUNTY* | 13211C0230A | 15-JAN-2004 | 04-04-1964A | 02
04 | GA | MORGAN COUNTY* | 13211C0200A | 23-FEB-2004 | 04-04-2340A | 02
04 | GA | MORGAN COUNTY* | 13211C0020A | 01-MAR-2004 | 04-04-2810A | 02
04 | GA | MORGANTON, CITY OF | 13111C0185D | 24-JUN-2004 | 04-04-7178A | 02
04 | GA | PAULDING COUNTY * | 13223C0161B | 15-MAR-2004 | 04-04-1744A | 02
04 | GA | PAULDING COUNTY * | 13223C0253B | 15-APR-2004 | 04-04-4080A | 02
04 | GA | PEACHTREE CITY, CITY OF | 13113C0090D | 07-JUN-2004 | 04-04-6058A | 02
04 | GA | PIERCE COUNTY * | 13229C0210C | 24-MAY-2004 | 04-04-4342A | 02
04 | GA | POWDER SPRINGS, CITY OF | 13067C0065F | 04-MAR-2004 | 03-04-9374A | 02
04 | GA | POWDER SPRINGS, CITY OF | 13067C0065F | 01-APR-2004 | 04-04-3454A | 02
04 | GA | RABUN COUNTY * | 1301560020B | 23-FEB-2004 | 04-04-2744A | 02
04 | GA | RICHMOND COUNTY* | 1301580070E | 08-APR-2004 | 04-04-4944A | 02
04 | GA | RICHMOND COUNTY* | 1301580060E | 03-MAY-2004 | 04-04-4190A | 02
04 | GA | RICHMOND HILL, CITY OF | 1300180002B | 27-MAY-2004 | 04-04-6118A | 02
04 | GA | RIVERDALE, CITY OF | 1300410035C | 24-MAY-2004 | 04-04-2226A | 02
04 | GA | ROME, CITY OF | 13115C0195D | 09-FEB-2004 | 04-04-0486A | 01
04 | GA | ROSWELL, CITY OF | 13121C0066E | 29-MAR-2004 | 04-04-1298A | 02
04 | GA | ROSWELL, CITY OF | 13121C0061E | 29-APR-2004 | 04-04-3340A | 02
04 | GA | ROSWELL, CITY OF | 13121C0132E | 06-MAY-2004 | 04-04-1474A | 02
04 | GA | ROSWELL, CITY OF | 13121C0061E | 20-MAY-2004 | 04-04-5840A | 02
04 | GA | ROSWELL, CITY OF | 13121C0063E | 01-JUN-2004 | 04-04-5340A | 02
04 | GA | SAVANNAH, CITY OF | 1351630035C | 30-MAR-2004 | 03-04-587P | 05
04 | GA | SAVANNAH, CITY OF | 1351630035C | 03-JUN-2004 | 04-04-205P | 05
04 | GA | SAVANNAH, CITY OF | 1351630035C | 17-JUN-2004 | 04-04-6530A | 02
04 | GA | SMYRNA, CITY OF | 13067C0075F | 24-MAY-2004 | 04-04-5512A | 02
04 | GA | SNELLVILLE, CITY OF | 1303220285C | 29-JAN-2004 | 04-04-1568A | 01
04 | GA | SNELLVILLE, CITY OF | 1301020002A | 18-MAR-2004 | 04-04-4434A | 01
04 | GA | SNELLVILLE, CITY OF | 1303220285C | 18-MAR-2004 | 04-04-4434A | 01
04 | GA | SNELLVILLE, CITY OF | 1301020002A | 05-APR-2004 | 04-04-4840X | 01
04 | GA | SNELLVILLE, CITY OF | 1303220285C | 05-APR-2004 | 04-04-4840X | 01
04 | GA | SPALDING COUNTY * | 1303880050B | 27-MAY-2004 | 04-04-5838A | 02
04 | GA | SPALDING COUNTY * | 1303880045B | 10-JUN-2004 | 04-04-2648A | 01
04 | GA | SUWANEE, CITY OF | 1303280002A | 18-MAR-2004 | 04-04-1120A | 02
04 | GA | SUWANEE, CITY OF | 1303280002A | 27-MAY-2004 | 04-04-3962A | 02
04 | GA | TOWNS COUNTY* | 13281C0055C | 23-FEB-2004 | 04-04-3456A | 02
04 | GA | TOWNS COUNTY* | 13281C0055C | 13-MAY-2004 | 04-04-5262A | 02
04 | GA | TROUP COUNTY * | 1304050200A | 18-MAR-2004 | 04-04-2672A | 02
04 | GA | UNION COUNTY* | 1302540025C | 24-MAY-2004 | 04-04-4584A | 02
04 | GA | VILLA RICA, CITY OF | 130289_1A | 29-MAR-2004 | 04-04-4818A | 02
04 | GA | WALTON COUNTY * | 13297C0040B | 02-FEB-2004 | 04-04-1124A | 02
04 | GA | WALTON COUNTY * | 13297C0105B | 02-FEB-2004 | 04-04-1768A | 02
04 | GA | WALTON COUNTY * | 13297C0060B | 16-FEB-2004 | 04-04-1042A | 02
04 | GA | WALTON COUNTY * | 13297C0040B | 10-MAR-2004 | 04-04-0718A | 02
04 | GA | WATKINSVILLE, CITY OF | 130369 02 | 20-MAY-2004 | 03-04-271P | 05
04 | GA | WHITE COUNTY* | 13311C0200C | 15-APR-2004 | 04-04-4180A | 02
04 | GA | WHITE COUNTY* | 13311C0125C | 03-MAY-2004 | 04-04-2254A | 02
04 | GA | WHITFIELD COUNTY* | 1301930025C | 11-MAR-2004 | 04-04-0350A | 02
04 | GA | WHITFIELD COUNTY* | 1301930120C | 22-MAR-2004 | 04-04-2740A | 02
04 | GA | WHITFIELD COUNTY* | 1301930120C | 29-APR-2004 | 04-04-5652A | 02
04 | KY | ANDERSON COUNTY* | 2100020125B | 23-FEB-2004 | 04-04-2154A | 02
04 | KY | ANDERSON COUNTY* | 2100020050B | 11-MAR-2004 | 04-04-2570A | 02
04 | KY | BENTON, CITY OF | 210163_06B | 03-MAY-2004 | 04-04-0142A | 02
04 | KY | BENTON, CITY OF | 2102520075B | 03-MAY-2004 | 04-04-0142A | 02
04 | KY | BOWLING GREEN, CITY OF | 21227C0092D | 08-APR-2004 | 04-04-4296A | 02
04 | KY | BOWLING GREEN, CITY OF | 21227C0115D | 28-JUN-2004 | 04-04-091P | 05
04 | KY | BRECKINRIDGE COUNTY* | 2100260010B | 09-FEB-2004 | 03-04-10896A | 02
04 | KY | BULLITT COUNTY* | 210273_12B | 12-FEB-2004 | 04-04-0454A | 02
04 | KY | BULLITT COUNTY* | 210273_21B | 02-APR-2004 | 04-04-0206A | 02
04 | KY | BULLITT COUNTY* | 210273_12B | 15-APR-2004 | 04-04-4590A | 02
04 | KY | BULLITT COUNTY* | 210273_17B | 23-APR-2004 | 04-04-2732A | 02
04 | KY | CARROLL COUNTY* | 210045_04B | 03-MAY-2004 | 04-04-4692A | 02
04 | KY | CLAY COUNTY | 2100570005B | 25-JUN-2004 | 04-04-3946A | 02
04 | KY | COVINGTON, CITY OF | 2101290005D | 22-JAN-2004 | 04-04-2090A | 02
04 | KY | DAVIESS COUNTY * | 21059C0280C | 26-JAN-2004 | 04-04-1616A | 01
04 | KY | DAVIESS COUNTY * | 21059C0255C | 23-FEB-2004 | 04-04-1846A | 01
04 | KY | DAVIESS COUNTY * | 21059C0085C | 08-MAR-2004 | 04-04-3074A | 02
04 | KY | DAVIESS COUNTY * | 21059C0260C | 17-MAY-2004 | 04-04-5012A | 01
04 | KY | DAVIESS COUNTY * | 21059C0280C | 24-MAY-2004 | 04-04-5572A | 01
04 | KY | GALLATIN COUNTY* | 2102810020A | 22-JAN-2004 | 04-04-2092A | 02
04 | KY | GALLATIN COUNTY* | 2102810020A | 11-MAR-2004 | 04-04-2790A | 02
04 | KY | GRAYSON, CITY OF | 2100510001C | 17-FEB-2004 | 04-04-3162A | 02
04 | KY | GREENUP COUNTY* | 2102840020B | 01-MAR-2004 | 04-04-1106A | 02
04 | KY | GREENUP COUNTY* | 2102840020B | 22-MAR-2004 | 04-04-1904A | 02
04 | KY | JEFFERSON COUNTY* | 21111C0160D | 08-JAN-2004 | 04-04-1354A | 01
04 | KY | JEFFERSON COUNTY* | 21111C0170D | 08-JAN-2004 | 04-04-1272A | 01
04 | KY | JEFFERSON COUNTY* | 21111C0080D | 15-JAN-2004 | 04-04-1842A | 02
04 | KY | JEFFERSON COUNTY* | 21111C0170D | 15-JAN-2004 | 04-04-1838A | 02
04 | KY | JEFFERSON COUNTY* | 21111C0170D | 15-JAN-2004 | 04-04-1844A | 02
04 | KY | JEFFERSON COUNTY* | 21111C0085D | 20-JAN-2004 | 04-04-2050A | 02
04 | KY | JEFFERSON COUNTY* | 21111C0115D | 29-JAN-2004 | 03-04-10192A | 01
04 | KY | JEFFERSON COUNTY* | 21111C0135D | 05-FEB-2004 | 04-04-2330A | 02
04 | KY | JEFFERSON COUNTY* | 21111C0160D | 05-FEB-2004 | 04-04-2270A | 02
04 | KY | JEFFERSON COUNTY* | 21111C0255D | 09-FEB-2004 | 04-04-1618A | 01
04 | KY | JEFFERSON COUNTY* | 21111C0285D | 12-FEB-2004 | 04-04-2406A | 02
04 | KY | JEFFERSON COUNTY* | 21111C0020D | 19-FEB-2004 | 04-04-3164A | 02
04 | KY | JEFFERSON COUNTY* | 21111C0160D | 23-FEB-2004 | 04-04-1840A | 02
04 | KY | JEFFERSON COUNTY* | 21111C0170D | 23-FEB-2004 | 04-04-1050A | 02
04 | KY | JEFFERSON COUNTY* | 21111C0190D | 23-FEB-2004 | 04-04-1114A | 02
04 | KY | JEFFERSON COUNTY* | 21111C0170D | 08-MAR-2004 | 04-04-4106A | 02
04 | KY | JEFFERSON COUNTY* | 21111C0170D | 11-MAR-2004 | 04-04-1296A | 02
04 | KY | JEFFERSON COUNTY* | 21111C0235D | 15-MAR-2004 | 04-04-2792A | 01
04 | KY | JEFFERSON COUNTY* | 21111C0105D | 29-MAR-2004 | 04-04-2936A | 02
04 | KY | JEFFERSON COUNTY* | 21111C0170D | 03-MAY-2004 | 04-04-4760A | 02
04 | KY | JEFFERSON COUNTY* | 21111C0170D | 03-MAY-2004 | 04-04-4862A | 02
04 | KY | JEFFERSON COUNTY* | 21111C0255D | 03-MAY-2004 | 04-04-4330A | 02
04 | KY | JEFFERSON COUNTY* | 21111C0080D | 06-MAY-2004 | 04-04-5500A | 02
04 | KY | JEFFERSON COUNTY* | 21111C0170D | 21-JUN-2004 | 04-04-6406A | 02
04 | KY | JEFFERSON COUNTY* | 21111C0255D | 21-JUN-2004 | 04-04-6798A | 02
04 | KY | JEFFERSON COUNTY* | 21111C0085D | 24-JUN-2004 | 04-04-5952A | 02
04 | KY | JEFFERSON COUNTY* | 21111C0090D | 24-JUN-2004 | 04-04-5874A | 01
04 | KY | JEFFERSON COUNTY* | 21111C0020D | 25-JUN-2004 | 04-04-6368A | 02
04 | KY | JEFFERSONTOWN, CITY OF | 21111C0095D | 15-APR-2004 | 04-04-4664A | 02
04 | KY | JEFFERSONTOWN, CITY OF | 21111C0095D | 06-MAY-2004 | 04-04-4624A | 02
04 | KY | JOHNSON COUNTY* | 2103390058B | 17-FEB-2004 | 04-04-3158A | 02
04 | KY | JOHNSON COUNTY* | 2103390078B | 29-MAR-2004 | 04-04-3046A | 02
04 | KY | KENTON COUNTY * | 2101280046B | 25-MAR-2004 | 04-04-2566A | 02
04 | KY | LAWRENCE COUNTY* | 2102580025A | 05-APR-2004 | 04-04-1614A | 02
04 | KY | LAWRENCEBURG, CITY OF | 210003_01B | 25-MAR-2004 | 04-04-0144A | 02
04 | KY | LEXINGTON-FAYETTE URBAN COUNTY GOVERNM | 2100670080C | 08-JAN-2004 | 04-04-1116A | 02
04 | KY | LEXINGTON-FAYETTE URBAN COUNTY GOVERNM | 2100670090C | 12-JAN-2004 | 04-04-1294A | 02
04 | KY | LEXINGTON-FAYETTE URBAN COUNTY GOVERNM | 2100670090C | 12-JAN-2004 | 04-04-1760A | 02
04 | KY | LEXINGTON-FAYETTE URBAN COUNTY GOVERNM | 2100670020C | 16-JAN-2004 | 03-04-577P | 05
04 | KY | LEXINGTON-FAYETTE URBAN COUNTY GOVERNM | 2100670090C | 02-FEB-2004 | 04-04-0224A | 17
04 | KY | LEXINGTON-FAYETTE URBAN COUNTY GOVERNM | 2100670070C | 17-FEB-2004 | 03-04-10796A | 02
04 | KY | LEXINGTON-FAYETTE URBAN COUNTY GOVERNM | 2100670090C | 17-FEB-2004 | 04-04-3160A | 02
04 | KY | LEXINGTON-FAYETTE URBAN COUNTY GOVERNM | 2100670090C | 01-MAR-2004 | 04-04-2408A | 02
04 | KY | LEXINGTON-FAYETTE URBAN COUNTY GOVERNM | 2100670060C | 18-MAR-2004 | 04-04-3072A | 02
04 | KY | LEXINGTON-FAYETTE URBAN COUNTY GOVERNM | 2100670080C | 01-APR-2004 | 04-04-3638A | 02
04 | KY | LEXINGTON-FAYETTE URBAN COUNTY GOVERNM | 2100670060C | 08-APR-2004 | 04-04-3520A | 02
04 | KY | LEXINGTON-FAYETTE URBAN COUNTY GOVERNM | 2100670070C | 08-APR-2004 | 04-04-0822A | 02
04 | KY | LEXINGTON-FAYETTE URBAN COUNTY GOVERNM | 2100670070C | 08-APR-2004 | 04-04-1848A | 02
04 | KY | LEXINGTON-FAYETTE URBAN COUNTY GOVERNM | 2100670070C | 03-MAY-2004 | 04-04-4940A | 02
04 | KY | LOUISVILLE, CITY OF | 21111C0070D | 11-MAR-2004 | 04-04-3262A | 02
04 | KY | LOUISVILLE, CITY OF | 21111C0160D | 01-APR-2004 | 04-04-4400A | 02
04 | KY | LOUISVILLE, CITY OF | 21111C0165D | 26-APR-2004 | 04-04-3518A | 02
04 | KY | LUDLOW, CITY OF | 2102660001B | 15-MAR-2004 | 04-04-2268A | 02
04 | KY | MARSHALL COUNTY * | 2102520050B | 22-MAR-2004 | 04-04-2332A | 02
04 | KY | MARTIN COUNTY* | 2101660074C | 11-MAR-2004 | 04-04-2644A | 02
04 | KY | MARTIN COUNTY* | 2101660024C | 27-MAY-2004 | 04-04-5260A | 02
04 | KY | MASON COUNTY * | 210259_04B | 29-MAR-2004 | 04-04-2958A | 02
04 | KY | MASON COUNTY * | 210259_17B | 01-APR-2004 | 04-04-1974A | 02
04 | KY | MAYSVILLE, CITY OF | 2101680001B | 24-JUN-2004 | 04-04-6536A | 02
04 | KY | MIDDLESBORO, CITY OF | 2151900005B | 25-MAR-2004 | 04-04-3426A | 01
04 | KY | MURRAY, CITY OF | 2103130004A | 01-MAR-2004 | 04-04-2334A | 02
04 | KY | OWENSBORO, CITY OF | 21059C0260C | 26-JAN-2004 | 04-04-1610A | 02
04 | KY | OWENSBORO, CITY OF | 21059C0120C | 02-FEB-2004 | 04-04-2222A | 02
04 | KY | OWENSBORO, CITY OF | 21059C0260C | 02-FEB-2004 | 04-04-1722A | 02
04 | KY | OWENSBORO, CITY OF | 21059C0260C | 02-FEB-2004 | 04-04-1958A | 02
04 | KY | OWENSBORO, CITY OF | 21059C0280C | 09-FEB-2004 | 03-04-10712A | 01
04 | KY | OWENSBORO, CITY OF | 21059C0280C | 15-MAR-2004 | 04-04-2568A | 02
04 | KY | OWENSBORO, CITY OF | 21059C0260C | 22-MAR-2004 | 04-04-3588A | 02
04 | KY | OWENSBORO, CITY OF | 21059C0260C | 08-APR-2004 | 04-04-3944A | 02
04 | KY | OWENSBORO, CITY OF | 21059C0260C | 03-MAY-2004 | 04-04-4762A | 02
04 | KY | OWENSBORO, CITY OF | 21059C0260C | 06-MAY-2004 | 04-04-5434A | 02
04 | KY | OWENSBORO, CITY OF | 21059C0260C | 06-MAY-2004 | 04-04-5630A | 02
04 | KY | OWENSBORO, CITY OF | 21059C0280C | 06-MAY-2004 | 04-04-5438A | 02
04 | KY | PIKE COUNTY* | 21195C0070F | 11-MAR-2004 | 04-04-1798A | 01
04 | KY | SHEPHERDSVILLE, CITY OF | 2100280005D | 29-MAR-2004 | 04-04-3590A | 02
04 | KY | SHEPHERDSVILLE, CITY OF | 2100280005D | 26-APR-2004 | 04-04-0514A | 02
04 | KY | SHEPHERDSVILLE, CITY OF | 210273_12B | 03-JUN-2004 | 04-04-5432A | 01
04 | KY | SOUTHGATE, CITY OF | 210276_01 | 21-JUN-2004 | 04-04-5744A | 02
04 | KY | TAYLOR COUNTY * | 2102120100B | 27-MAY-2004 | 04-04-5712A | 01
04 | KY | TRIGG COUNTY * | 2103150007B | 17-FEB-2004 | 04-04-2274A | 02
04 | KY | TRIGG COUNTY * | 2103150007B | 22-MAR-2004 | 04-04-2272A | 02
04 | KY | TRIGG COUNTY * | 2103150004B | 27-MAY-2004 | 04-04-4478A | 02
04 | KY | TRIMBLE COUNTY* | 210300_05B | 15-APR-2004 | 04-04-5302A | 02
04 | KY | WARREN COUNTY * | 21227C0160D | 08-MAR-2004 | 04-04-1056A | 01
04 | KY | WARREN COUNTY * | 21227C0115D | 19-APR-2004 | 04-04-1762A | 02
04 | KY | WARREN COUNTY * | 21227C0115D | 28-JUN-2004 | 04-04-091P | 05
04 | KY | WHITLEY COUNTY* | 21235C0090C | 14-JUN-2004 | 04-04-5216A | 02
04 | KY | WORTHINGTON, CITY OF | 2100920001B | 02-JAN-2004 | 03-04-10708A | 02
04 | KY | WORTHINGTON, CITY OF | 2100920001B | 22-MAR-2004 | 04-04-3812A | 02
04 | KY | WORTHINGTON, CITY OF | 2100920001B | 06-MAY-2004 | 04-04-5196A | 02
04 | MS | BOLIVAR COUNTY * | 2800110375B | 08-JAN-2004 | 04-04-1324A | 02
04 | MS | BRANDON, CITY OF | 28121C0211E | 25-MAR-2004 | 03-04-10728A | 17
04 | MS | BRANDON, CITY OF | 28121C0192E | 13-MAY-2004 | 04-04-3978A | 02
04 | MS | BRANDON, CITY OF | 28121C0192E | 01-JUN-2004 | 04-04-5748A | 02
04 | MS | CLINTON, CITY OF | 2800700125D | 26-FEB-2004 | 04-04-2816A | 02
04 | MS | CLINTON, CITY OF | 2800700125D | 11-MAR-2004 | 04-04-3310A | 01
04 | MS | CLINTON, CITY OF | 2800710001C | 09-APR-2004 | 04-04-1746A | 01
04 | MS | COAHOMA COUNTY * | 2800380250C | 23-APR-2004 | 04-04-4098A | 02
04 | MS | COLUMBUS, CITY OF | 28087C0065J | 20-JAN-2004 | 04-04-1868A | 01
04 | MS | DE SOTO COUNTY * | 28033C0030E | 29-APR-2004 | 04-04-2496A | 02
04 | MS | DE SOTO COUNTY * | 28033C0095D | 10-JUN-2004 | 04-04-3346A | 02
04 | MS | DE SOTO COUNTY * | 28033C0120D | 10-JUN-2004 | 03-04-10940A | 01
04 | MS | FLOWOOD, CITY OF | 28121C0183E | 13-MAY-2004 | 04-04-5264A | 02
04 | MS | GEORGE COUNTY * | 2802230100B | 25-JUN-2004 | 04-04-5586A | 02
04 | MS | GREENWOOD, CITY OF | 2801020005C | 28-MAY-2004 | 04-04-5202A | 02
04 | MS | GRENADA, CITY OF | 2800610005B | 13-MAY-2004 | 04-04-5394A | 02
04 | MS | HATTIESBURG, CITY OF | 28035C0080C | 26-APR-2004 | 04-04-4300A | 01
04 | MS | HERNANDO, CITY OF | 28033C0115D | 17-JUN-2004 | 04-04-2746A | 01
04 | MS | HINDS COUNTY* | 2800700250D | 10-MAY-2004 | 04-04-4908A | 01
04 | MS | HORN LAKE, CITY OF | 28033C0040E | 10-MAY-2004 | 04-04-2594A | 01
04 | MS | HORN LAKE, CITY OF | 28033C0040E | 28-JUN-2004 | 04-04-6256A | 01
04 | MS | ITAWAMBA COUNTY * | 2802900075B | 22-MAR-2004 | 04-04-2596A | 02
04 | MS | JACKSON COUNTY* | 2852560140D | 01-JUN-2004 | 04-04-5660A | 02
04 | MS | JACKSON, CITY OF | 28089C0315D | 13-JAN-2004 | 03-04-323P | 05
04 | MS | JONES COUNTY * | 2802220200B | 25-MAR-2004 | 04-04-1866A | 02
04 | MS | LAFAYETTE COUNTY * | 2800930100B | 05-FEB-2004 | 04-04-1980A | 01
04 | MS | LAUREL, CITY OF | 2800920003D | 19-APR-2004 | 04-04-2234A | 17
04 | MS | LOWNDES COUNTY * | 28087C0055J | 17-FEB-2004 | 04-04-3210A | 02
04 | MS | LOWNDES COUNTY * | 28087C0110J | 13-MAY-2004 | 04-04-5076A | 02
04 | MS | MADISON COUNTY * | 28089C0315D | 13-JAN-2004 | 03-04-323P | 05
04 | MS | MADISON COUNTY * | 28089C0320D | 13-JAN-2004 | 03-04-323P | 05
04 | MS | MADISON, CITY OF | 28089C0310D | 09-FEB-2004 | 04-04-2674A | 02
04 | MS | MADISON, CITY OF | 28089C0310D | 22-MAR-2004 | 04-04-3388A | 02
04 | MS | MARSHALL COUNTY* | 2802740025B | 15-JAN-2004 | 04-04-1322A | 02
04 | MS | MERIDIAN, CITY OF | 28075C0084D | 20-JAN-2004 | 04-04-2062A | 01
04 | MS | MERIDIAN, CITY OF | 28075C0103E | 19-FEB-2004 | 04-04-1778A | 02
04 | MS | MONROE COUNTY* | 28095C0160D | 19-FEB-2004 | 03-04-10678A | 02
04 | MS | NEWTON COUNTY * | 2802310125B | 29-APR-2004 | 04-04-1632A | 02
04 | MS | OCEAN SPRINGS, CITY OF | 2852590007E | 02-JAN-2004 | 04-04-1060X | 02
04 | MS | OKTIBBEHA COUNTY * | 2802770200B | 11-MAR-2004 | 04-04-3308A | 02
04 | MS | OLIVE BRANCH,CITY OF | 28033C0055E | 22-MAR-2004 | 04-04-3562A | 01
04 | MS | OLIVE BRANCH,CITY OF | 28033C0045F | 23-APR-2004 | 04-04-2888A | 01
04 | MS | OLIVE BRANCH,CITY OF | 28033C0055E | 23-APR-2004 | 04-04-3976A | 02
04 | MS | PEARL RIVER COUNTY * | 28109C0235D | 25-MAR-2004 | 03-04-8306A | 01
04 | MS | PEARL RIVER VALLEY WATER SUPPLY DISTRI | 2803380070B | 20-JAN-2004 | 04-04-1218A | 02
04 | MS | PEARL RIVER VALLEY WATER SUPPLY DISTRI | 2803380070B | 11-MAR-2004 | 04-04-3344A | 02
04 | MS | PEARL RIVER VALLEY WATER SUPPLY DISTRI | 2803380055B | 28-JUN-2004 | 04-04-5932A | 02
04 | MS | PEARL, CITY OF | 28121C0169E | 08-MAR-2004 | 04-04-2812A | 02
04 | MS | PLANTERSVILLE, VILLAGE OF | 28081C0233D | 26-FEB-2004 | 04-04-2978A | 02
04 | MS | RANKIN COUNTY * | 28121C0315E | 18-MAR-2004 | 04-04-3750A | 02
04 | MS | RANKIN COUNTY * | 28121C0090E | 22-MAR-2004 | 04-04-3752A | 01
04 | MS | RANKIN COUNTY * | 28121C0090E | 31-MAR-2004 | 04-04-093P | 05
04 | MS | RANKIN COUNTY * | 28121C0177E | 03-JUN-2004 | 04-04-5566A | 01
04 | MS | RICHLAND, CITY OF | 28121C0306E | 13-MAY-2004 | 04-04-4192A | 01
04 | MS | RIDGELAND, CITY OF | 28089C0320D | 02-JAN-2004 | 04-04-1486A | 01
04 | MS | RIDGELAND, CITY OF | 28089C0315D | 13-JAN-2004 | 03-04-323P | 05
04 | MS | RIDGELAND, CITY OF | 28089C0320D | 13-JAN-2004 | 03-04-323P | 05
04 | MS | SALTILLO, TOWN OF | 28081C0155D | 26-FEB-2004 | 04-04-2814A | 02
04 | MS | SALTILLO, TOWN OF | 28081C0155D | 22-MAR-2004 | 04-04-3890A | 02
04 | MS | SALTILLO, TOWN OF | 28081C0155D | 10-MAY-2004 | 04-04-3980A | 02
04 | MS | SALTILLO, TOWN OF | 28081C0095D | 14-JUN-2004 | 04-04-5454A | 02
04 | MS | SOUTHAVEN, CITY OF | 28033C0035F | 08-APR-2004 | 03-04-561P | 05
04 | MS | TISHOMINGO COUNTY | 2802830025B | 11-MAR-2004 | 04-04-1216A | 02
04 | MS | TUPELO, CITY OF | 28081C0163D | 13-MAY-2004 | 04-04-3984A | 02
04 | MS | TUPELO, CITY OF | 28081C0163D | 27-MAY-2004 | 04-04-5988A | 02
04 | MS | TUPELO, CITY OF | 28081C0163D | 21-JUN-2004 | 04-04-6410A | 02
04 | MS | TUPELO, CITY OF | 28081C0163D | 28-JUN-2004 | 04-04-6680A | 02
04 | MS | VICKSBURG, CITY OF | 2801980125C | 07-JUN-2004 | 04-04-5518A | 01
04 | MS | VICKSBURG, CITY OF | 2801980200B | 10-JUN-2004 | 04-04-3700A | 02
04 | MS | WARREN COUNTY* | 2801980150B | 24-MAY-2004 | 04-04-2946A | 02
04 | MS | YALOBUSHA COUNTY* | 2802390175A | 04-MAR-2004 | 04-04-2114A | 02
04 | MS | YALOBUSHA COUNTY* | 2802390100A | 16-APR-2004 | 04-04-2430A | 02
04 | NC | ALAMANCE COUNTY* | 37001C0038E | 01-JUN-2004 | 04-04-4810A | 02
04 | NC | ALAMANCE COUNTY* | 37001C0038E | 09-JUN-2004 | 04-04-098A | 02
04 | NC | ALLEGHANY COUNTY | 3700040001A | 08-JAN-2004 | 04-04-1164A | 02
04 | NC | ALLEGHANY COUNTY | 3700040002A | 15-MAR-2004 | 04-04-3004A | 02
04 | NC | ALLEGHANY COUNTY * | 3700040001B | 21-MAY-2004 | 04-04-032A | 02
04 | NC | ANSON COUNTY * | 3702840150B | 09-FEB-2004 | 04-04-1112A | 02
04 | NC | ANSON COUNTY * | 3702840150B | 04-MAR-2004 | 04-04-2098A | 02
04 | NC | ASHEBORO, CITY OF | 3701960002B | 04-JUN-2004 | 04-04-070A | 02
04 | NC | ATLANTIC BEACH, TOWN OF | 3720638500J | 15-APR-2004 | 04-04-3924A | 02
04 | NC | BEAUFORT COUNTY* | 3720564600K | 03-JAN-2004 | 04-04-2028V | 19
04 | NC | BEAUFORT COUNTY* | 3720566700K | 03-JAN-2004 | 04-04-2028V | 19
04 | NC | BEAUFORT COUNTY* | 3720567400J | 03-JAN-2004 | 04-04-2028V | 19
04 | NC | BEAUFORT COUNTY* | 3720568400J | 03-JAN-2004 | 04-04-2028V | 19
04 | NC | BEAUFORT COUNTY* | 3720569400J | 03-JAN-2004 | 04-04-2028V | 19
04 | NC | BEAUFORT COUNTY* | 3720656600J | 03-JAN-2004 | 04-04-2028V | 19
04 | NC | BEAUFORT COUNTY* | 3720660400J | 03-JAN-2004 | 04-04-2028V | 19
04 | NC | BEAUFORT COUNTY* | 3720665400J | 03-JAN-2004 | 04-04-2028V | 19
04 | NC | BEAUFORT COUNTY* | 3720666000J | 03-JAN-2004 | 04-04-2028V | 19
04 | NC | BEAUFORT COUNTY* | 3720666400J | 03-JAN-2004 | 04-04-2028V | 19
04 | NC | BEAUFORT COUNTY* | 3720668400J | 03-JAN-2004 | 04-04-2028V | 19
04 | NC | BEAUFORT COUNTY* | 3720760000J | 03-JAN-2004 | 04-04-2028V | 19
04 | NC | BEAUFORT COUNTY* | 3720666000J | 15-JAN-2004 | 04-04-0902A | 02
04 | NC | BEAUFORT COUNTY* | 3720666200J | 15-JAN-2004 | 04-04-0902A | 02
04 | NC | BEAUFORT COUNTY* | 3720568200J | 08-MAR-2004 | 04-04-3332A | 02
04 | NC | BEAUFORT COUNTY* | 3720568200J | 01-APR-2004 | 04-04-1588A | 02
04 | NC | BEAUFORT COUNTY* | 3720660400J | 10-MAY-2004 | 04-04-5256A | 02
04 | NC | BEAUFORT COUNTY* | 3720760000J | 10-JUN-2004 | 04-04-4088A | 02
04 | NC | BELMONT, CITY OF | 37071C0306E | 27-MAY-2004 | 04-04-4926A | 02
04 | NC | BLADEN COUNTY * | 3702930006B | 29-MAR-2004 | 04-04-2044A | 02
04 | NC | BLADEN COUNTY * | 3702930005B | 15-APR-2004 | 04-04-0956A | 02
04 | NC | BRIDGETON, TOWN OF | 3704360001B | 12-APR-2004 | 04-04-4288A | 02
04 | NC | BRUNSWICK COUNTY* | 3702950360E | 12-FEB-2004 | 04-04-2276A | 02
04 | NC | BRUNSWICK COUNTY* | 3702950360E | 18-MAR-2004 | 04-04-2640A | 02
04 | NC | BRUNSWICK COUNTY* | 3702950360E | 15-APR-2004 | 04-04-4148A | 02
04 | NC | BRUNSWICK COUNTY* | 3702950360E | 23-APR-2004 | 04-04-4042A | 02
04 | NC | BRUNSWICK COUNTY* | 3702950360E | 23-APR-2004 | 04-04-004A | 02
04 | NC | BRUNSWICK COUNTY* | 3702950360E | 06-MAY-2004 | 04-04-4454A | 01
04 | NC | BRUNSWICK COUNTY* | 3702950380E | 07-JUN-2004 | 04-04-2926A | 02
04 | NC | BURGAW, TOWN OF | 3704830001A | 18-MAR-2004 | 04-04-3632A | 02
04 | NC | BURKE COUNTY * | 3700340275D | 08-MAR-2004 | 04-04-2410A | 02
04 | NC | BURKE COUNTY * | 3700340200C | 08-APR-2004 | 04-04-3186A | 02
04 | NC | BURLINGTON, CITY OF | 37001C0106E | 08-APR-2004 | 04-04-2324A | 02
04 | NC | BURLINGTON, CITY OF | 37001C0107E | 08-APR-2004 | 04-04-2324A | 02
04 | NC | CABARRUS COUNTY * | 37025C0010D | 10-JUN-2004 | 04-04-2316A | 02
04 | NC | CALDWELL COUNTY * | 37027C0050D | 20-JAN-2004 | 04-04-1898A | 02
04 | NC | CALDWELL COUNTY * | 37027C0050D | 08-APR-2004 | 04-04-3916A | 02
04 | NC | CALDWELL COUNTY * | 37027C0050D | 08-APR-2004 | 04-04-4146A | 02
04 | NC | CALDWELL COUNTY * | 37027C0050D | 29-APR-2004 | 04-04-5184A | 02
04 | NC | CALDWELL COUNTY * | 37027C0050D | 17-MAY-2004 | 04-04-4696A | 02
04 | NC | CALDWELL COUNTY * | 37027C0025D | 27-MAY-2004 | 04-04-4292A | 02
04 | NC | CALDWELL COUNTY * | 37027C0050D | 14-JUN-2004 | 04-04-045A | 02
04 | NC | CARTERET COUNTY * | 3720730700J | 01-APR-2004 | 04-04-4388A | 02
04 | NC | CARTERET COUNTY * | 3720633400J | 16-APR-2004 | 04-NC-1590A | 02
04 | NC | CARTERET COUNTY * | 3720537400J | 18-JUN-2004 | 04-04-053A | 02
04 | NC | CARY, TOWN OF | 37183C0504E | 20-JAN-2004 | 04-04-0868A | 02
04 | NC | CARY, TOWN OF | 37183C0482F | 10-JUN-2004 | 04-04-4880A | 02
04 | NC | CATAWBA COUNTY * | 3700500350C | 08-JAN-2004 | 04-04-1720A | 02
04 | NC | CATAWBA COUNTY * | 3700500200C | 12-JAN-2004 | 04-04-1598A | 02
04 | NC | CATAWBA COUNTY * | 3700500200C | 12-JAN-2004 | 04-04-1828A | 02
04 | NC | CATAWBA COUNTY * | 3700500325B | 15-JAN-2004 | 04-04-2110A | 02
04 | NC | CATAWBA COUNTY * | 3700500350C | 20-JAN-2004 | 04-04-0960A | 02
04 | NC | CATAWBA COUNTY * | 3700500200C | 22-JAN-2004 | 04-04-2248A | 02
04 | NC | CATAWBA COUNTY * | 3700500350C | 29-JAN-2004 | 04-04-2312A | 02
04 | NC | CATAWBA COUNTY * | 3700500350C | 29-JAN-2004 | 04-04-2314A | 02
04 | NC | CATAWBA COUNTY * | 3700500350C | 09-FEB-2004 | 04-04-1456A | 02
04 | NC | CATAWBA COUNTY * | 3700500350C | 23-FEB-2004 | 04-04-3152A | 02
04 | NC | CATAWBA COUNTY * | 3700500350C | 23-FEB-2004 | 04-04-3328A | 02
04 | NC | CATAWBA COUNTY * | 3700500200C | 01-MAR-2004 | 04-04-2556A | 02
04 | NC | CATAWBA COUNTY * | 3700500200C | 01-MAR-2004 | 04-04-2558A | 02
04 | NC | CATAWBA COUNTY * | 3700500200C | 01-APR-2004 | 04-04-3326A | 02
04 | NC | CATAWBA COUNTY * | 3700500350C | 08-APR-2004 | 04-04-4458A | 02
04 | NC | CATAWBA COUNTY * | 3700500325B | 23-APR-2004 | 04-04-4150A | 02
04 | NC | CATAWBA COUNTY * | 3700500325B | 29-APR-2004 | 04-04-4658A | 02
04 | NC | CATAWBA COUNTY * | 3700500350C | 03-MAY-2004 | 04-04-4290A | 02
04 | NC | CATAWBA COUNTY * | 3700500200C | 07-MAY-2004 | 04-04-042A | 02
04 | NC | CATAWBA COUNTY * | 3700500350C | 17-MAY-2004 | 04-04-4886A | 02
04 | NC | CATAWBA COUNTY * | 3700500350C | 17-MAY-2004 | 04-04-5380A | 02
04 | NC | CATAWBA COUNTY * | 3700500325B | 19-MAY-2004 | 04-04-005A | 02
04 | NC | CATAWBA COUNTY * | 3700500350C | 21-MAY-2004 | 04-04-055A | 02
04 | NC | CATAWBA COUNTY * | 3700500350B | 26-MAY-2004 | 04-04-057A | 02
04 | NC | CATAWBA COUNTY * | 3700500350C | 04-JUN-2004 | 04-04-074A | 02
04 | NC | CATAWBA COUNTY * | 3700500325B | 09-JUN-2004 | 04-04-056A | 02
04 | NC | CATAWBA COUNTY * | 3700500325B | 09-JUN-2004 | 04-04-059A | 02
04 | NC | CATAWBA COUNTY * | 3700500325B | 09-JUN-2004 | 04-04-073A | 02
04 | NC | CATAWBA COUNTY * | 3700500200C | 09-JUN-2004 | 04-04-081A | 02
04 | NC | CHARLOTTE, CITY OF | 37119C0147E | 05-FEB-2004 | 04-04-2830V | 19
04 | NC | CHARLOTTE, CITY OF | 37119C0166E | 05-FEB-2004 | 04-04-2830V | 19
04 | NC | CHARLOTTE, CITY OF | 37119C0187E | 05-FEB-2004 | 04-04-2830V | 19
04 | NC | CHARLOTTE, CITY OF | 37119C0207E | 05-FEB-2004 | 04-04-2830V | 19
04 | NC | CHARLOTTE, CITY OF | 37119C0208E | 05-FEB-2004 | 04-04-2830V | 19
04 | NC | CHARLOTTE, CITY OF | 37119C0210E | 05-FEB-2004 | 04-04-2830V | 19
04 | NC | CHARLOTTE, CITY OF | 37119C0223E | 05-FEB-2004 | 04-04-2830V | 19
04 | NC | CHARLOTTE, CITY OF | 37119C0226E | 05-FEB-2004 | 04-04-2830V | 19
04 | NC | CHARLOTTE, CITY OF | 37119C0227E | 05-FEB-2004 | 04-04-2830V | 19
04 | NC | CHARLOTTE, CITY OF | 37119C0228E | 05-FEB-2004 | 04-04-2830V | 19
04 | NC | CHARLOTTE, CITY OF | 37119C0229E | 05-FEB-2004 | 04-04-2830V | 19
04 | NC | CHARLOTTE, CITY OF | 37119C0247E | 05-FEB-2004 | 04-04-2830V | 19
04 | NC | CHARLOTTE, CITY OF | 37119C0248E | 05-FEB-2004 | 04-04-2830V | 19
04 | NC | CHARLOTTE, CITY OF | 37119C0266E | 05-FEB-2004 | 04-04-2830V | 19
04 | NC | CHARLOTTE, CITY OF | 37119C0267E | 05-FEB-2004 | 04-04-2830V | 19
04 | NC | CHARLOTTE, CITY OF | 37119C0247E | 19-FEB-2004 | 04-04-1420A | 02
04 | NC | CHARLOTTE, CITY OF | 37119C0267E | 11-MAR-2004 | 04-04-3044A | 02
04 | NC | CHARLOTTE, CITY OF | 37119C0268E | 11-MAR-2004 | 04-04-2722A | 02
04 | NC | CHARLOTTE, CITY OF | 37119C0248E | 03-MAY-2004 | 04-04-4386A | 02
04 | NC | CHARLOTTE, CITY OF | 37119C0187E | 27-MAY-2004 | 04-04-3496A | 02
04 | NC | CHARLOTTE, CITY OF | 37119C0208E | 04-JUN-2004 | 04-04-060A | 02
04 | NC | CHARLOTTE, CITY OF | 37119C0226E | 10-JUN-2004 | 04-04-5562A | 01
04 | NC | CHARLOTTE, CITY OF | 37119C0247E | 25-JUN-2004 | 04-04-087A | 02
04 | NC | CHIMNEY ROCK, VILLAGE OF | 3702170004B | 24-JUN-2004 | 04-04-5570A | 01
04 | NC | CHOWAN COUNTY * | 3703010055B | 18-MAR-2004 | 04-04-3738A | 02
04 | NC | CHOWAN COUNTY * | 3703010055B | 01-JUN-2004 | 04-04-5288X | 02
04 | NC | COLUMBUS COUNTY * | 3703050200B | 05-JAN-2004 | 04-04-1040A | 02
04 | NC | CONCORD, CITY OF | 37025C0080D | 22-JAN-2004 | 03-04-9418A | 02
04 | NC | CORNELIUS, CITY OF | 37119C0025E | 21-MAY-2004 | 04-04-043A | 02
04 | NC | CORNELIUS, TOWN OF | 3704980005A | 12-JAN-2004 | 04-04-1824A | 02
04 | NC | CORNELIUS, TOWN OF | 37119C0005E | 05-FEB-2004 | 04-04-2824V | 19
04 | NC | CORNELIUS, TOWN OF | 37119C0006E | 05-FEB-2004 | 04-04-2824V | 19
04 | NC | CORNELIUS, TOWN OF | 37119C0024E | 05-FEB-2004 | 04-04-2824V | 19
04 | NC | CORNELIUS, TOWN OF | 37119C0025E | 05-FEB-2004 | 04-04-2824V | 19
04 | NC | CORNELIUS, TOWN OF | 37119C0026E | 05-FEB-2004 | 04-04-2824V | 19
04 | NC | CORNELIUS, TOWN OF | 37119C0044E | 05-FEB-2004 | 04-04-2824V | 19
04 | NC | CORNELIUS, TOWN OF | 37119C0045E | 05-FEB-2004 | 04-04-2824V | 19
04 | NC | CORNELIUS, TOWN OF | 37119C0045E | 18-MAR-2004 | 04-04-2882A | 02
04 | NC | CORNELIUS, TOWN OF | 37119C0045E | 18-MAR-2004 | 04-04-3674A | 02
04 | NC | CORNELIUS, TOWN OF | 37119C0025E | 01-APR-2004 | 04-04-2326A | 02
04 | NC | CORNELIUS, TOWN OF | 37119C0046E | 08-APR-2004 | 04-04-3776A | 02
04 | NC | CORNELIUS, TOWN OF | 37119C0025E | 29-APR-2004 | 04-04-5296A | 02
04 | NC | CORNELIUS, TOWN OF | 37119C0045E | 29-APR-2004 | 04-04-4240A | 02
04 | NC | CORNELIUS, TOWN OF | 37119C0025E | 17-MAY-2004 | 04-04-4694A | 02
04 | NC | CRAVEN COUNTY * | 3700720420B | 06-MAY-2004 | 04-04-028A | 02
04 | NC | CRAVEN COUNTY* | 3700720420B | 08-APR-2004 | 04-04-2150A | 02
04 | NC | CRAVEN COUNTY* | 3700720385B | 23-APR-2004 | 04-04-3422A | 02
04 | NC | CUMBERLAND COUNTY * | 3700760155B | 29-APR-2004 | 04-04-4538A | 02
04 | NC | CURRITUCK COUNTY * | 3700780203D | 20-JAN-2004 | 04-04-2002A | 02
04 | NC | CURRITUCK COUNTY * | 3700780203D | 12-FEB-2004 | 04-04-1652A | 02
04 | NC | CURRITUCK COUNTY * | 3700780160C | 19-FEB-2004 | 04-04-1234A | 02
04 | NC | CURRITUCK COUNTY * | 3700780201D | 24-MAY-2004 | 04-04-3918A | 02
04 | NC | DARE COUNTY* | 3753480113D | 19-FEB-2004 | 04-NC-2018A | 02
04 | NC | DARE COUNTY* | 3753480860E | 26-FEB-2004 | 04-04-3774A | 01
04 | NC | DARE COUNTY* | 3753480855E | 26-MAR-2004 | 04-04-4842A | 01
04 | NC | DAVIDSON COUNTY * | 37057C0325D | 08-JAN-2004 | 04-04-1756A | 02
04 | NC | DAVIDSON COUNTY * | 37057C0325D | 15-JAN-2004 | 04-04-1416A | 02
04 | NC | DAVIDSON COUNTY * | 37057C0325D | 23-FEB-2004 | 04-04-2036A | 02
04 | NC | DAVIDSON COUNTY * | 37057C0325D | 01-APR-2004 | 04-04-1460A | 02
04 | NC | DAVIDSON COUNTY * | 37057C0325D | 01-APR-2004 | 04-04-3126A | 02
04 | NC | DAVIDSON COUNTY * | 37057C0325D | 19-APR-2004 | 04-04-3804A | 02
04 | NC | DAVIDSON COUNTY * | 37057C0325D | 19-APR-2004 | 04-04-4588A | 02
04 | NC | DAVIDSON COUNTY * | 37057C0400D | 23-APR-2004 | 04-04-4326A | 02
04 | NC | DAVIDSON COUNTY * | 37057C0325D | 29-APR-2004 | 04-04-5182A | 02
04 | NC | DAVIDSON COUNTY * | 37057C0400D | 29-APR-2004 | 04-04-5116A | 02
04 | NC | DAVIDSON COUNTY * | 37057C0325D | 03-MAY-2004 | 04-04-4464A | 02
04 | NC | DAVIDSON COUNTY * | 37057C0375D | 17-MAY-2004 | 04-04-4748A | 02
04 | NC | DAVIDSON COUNTY * | 37057C0400D | 17-MAY-2004 | 04-04-4856A | 02
04 | NC | DAVIDSON, TOWN OF | 37119C0006E | 05-FEB-2004 | 04-04-2826V | 19
04 | NC | DAVIDSON, TOWN OF | 37119C0027E | 05-FEB-2004 | 04-04-2826V | 19
04 | NC | DAVIE COUNTY * | 3703080045C | 17-FEB-2004 | 04-04-2554A | 02
04 | NC | DURHAM COUNTY * | 37063C0015G | 01-MAR-2004 | 04-04-3002A | 02
04 | NC | DURHAM COUNTY * | 37063C0187G | 16-APR-2004 | 04-04-2662A | 01
04 | NC | DURHAM COUNTY * | 37063C0093G | 21-MAY-2004 | 04-04-025P | 05
04 | NC | DURHAM, CITY OF | 37063C0167G | 20-JAN-2004 | 04-04-1750A | 01
04 | NC | DURHAM, CITY OF | 37063C0167G | 23-JAN-2004 | 03-04-453P | 05
04 | NC | DURHAM, CITY OF | 37063C0066G | 27-JAN-2004 | 03-04-429P | 05
04 | NC | DURHAM, CITY OF | 37063C0068G | 27-JAN-2004 | 03-04-429P | 05
04 | NC | DURHAM, CITY OF | 37063C0177G | 05-FEB-2004 | 03-04-10694A | 01
04 | NC | DURHAM, CITY OF | 37063C0167G | 15-APR-2004 | 04-04-4656A | 02
04 | NC | DURHAM, CITY OF | 37063C0158H | 20-MAY-2004 | 04-04-4888A | 02
04 | NC | EMERALD ISLE, TOWN OF | 3720539400J | 15-APR-2004 | 04-04-3926A | 02
04 | NC | EMERALD ISLE, TOWN OF | 3720630400J | 15-APR-2004 | 04-04-3912A | 02
04 | NC | EMERALD ISLE, TOWN OF | 3720630400J | 23-APR-2004 | 04-04-006A | 02
04 | NC | EMERALD ISLE, TOWN OF | 3720631400J | 27-MAY-2004 | 04-04-2784A | 02
04 | NC | FARMVILLE, TOWN OF | 3720462700J | 03-JAN-2004 | 04-04-2030V | 19
04 | NC | FAYETTEVILLE, CITY OF | 3700770011C | 29-APR-2004 | 04-04-4238A | 02
04 | NC | FLETCHER, TOWN OF | 3701250020B | 27-MAY-2004 | 04-04-5094X | 02
04 | NC | FLETCHER, TOWN OF | 3701250020B | 07-JUN-2004 | 04-04-5494A | 01
04 | NC | FORSYTH COUNTY * | 37067C0120H | 01-APR-2004 | 03-04-10764A | 02
04 | NC | FORSYTH COUNTY * | 37067C0178H | 08-APR-2004 | 04-04-3802A | 01
04 | NC | FRANKLIN COUNTY* | 3720184800J | 17-JAN-2004 | 04-04-2508V | 19
04 | NC | FRANKLIN COUNTY* | 3720188200J | 17-JAN-2004 | 04-04-2508V | 19
04 | NC | FRANKLIN COUNTY* | 3720271700J | 17-JAN-2004 | 04-04-2508V | 19
04 | NC | FRANKLIN COUNTY* | 3720281600J | 17-JAN-2004 | 04-04-2508V | 19
04 | NC | FRANKLIN COUNTY* | 3720283100J | 17-JAN-2004 | 04-04-2508V | 19
04 | NC | FRANKLIN COUNTY* | 3720284600J | 17-JAN-2004 | 04-04-2508V | 19
04 | NC | FRANKLINVILLE, TOWN OF | 370197_B | 16-APR-2004 | 04-04-1902A | 02
04 | NC | GARNER, TOWN OF | 37183C0541E | 02-FEB-2004 | 04-04-2204A | 02
04 | NC | GARNER, TOWN OF | 37183C0541E | 28-APR-2004 | 04-04-020A | 02
04 | NC | GASTON COUNTY * | 37071C0303E | 15-APR-2004 | 04-04-3930X | 02
04 | NC | GASTON COUNTY * | 37071C0315E | 15-APR-2004 | 04-04-3928X | 02
04 | NC | GASTON COUNTY * | 37071C0309E | 19-APR-2004 | 04-04-3878A | 02
04 | NC | GASTON COUNTY * | 37071C0219E | 14-JUN-2004 | 04-04-024A | 02
04 | NC | GASTONIA, CITY OF | 37071C0303E | 04-MAR-2004 | 04-04-2552A | 02
04 | NC | GOLDSBORO, CITY OF | 3702550010C | 30-APR-2004 | 04-04-023A | 02
04 | NC | GREENSBORO, CITY OF | 3753510019D | 24-MAR-2004 | 04-04-063P | 02
04 | NC | GREENVILLE, CITY OF | 3720467700J | 03-JAN-2004 | 04-04-2032V | 19
04 | NC | GREENVILLE, CITY OF | 3720467900J | 03-JAN-2004 | 04-04-2032V | 19
04 | NC | GREENVILLE, CITY OF | 3720468700J | 03-JAN-2004 | 04-04-2032V | 19
04 | NC | GREENVILLE, CITY OF | 3720469700J | 03-JAN-2004 | 04-04-2032V | 19
04 | NC | GREENVILLE, CITY OF | 3720469600J | 29-APR-2004 | 04-04-3626A | 01
04 | NC | GREENVILLE, CITY OF | 3720468500J | 06-MAY-2004 | 04-04-5112A | 02
04 | NC | GREENVILLE, CITY OF | 3720468800J | 06-MAY-2004 | 04-04-4324A | 01
04 | NC | GREENVILLE, CITY OF | 3720467700J | 24-JUN-2004 | 04-04-5294A | 02
04 | NC | GUILFORD COUNTY * | 3701110205B | 03-MAY-2004 | 04-04-4462A | 02
04 | NC | HALIFAX COUNTY * | 3703270005B | 05-JAN-2004 | 04-04-1594A | 02
04 | NC | HALIFAX COUNTY * | 3703270005B | 15-JAN-2004 | 04-04-2040A | 02
04 | NC | HALIFAX COUNTY * | 3703270005B | 01-MAR-2004 | 04-04-3122A | 02
04 | NC | HALIFAX COUNTY * | 3703270010B | 11-MAR-2004 | 04-04-3514A | 02
04 | NC | HALIFAX COUNTY * | 3703270005B | 17-MAY-2004 | 04-04-3932A | 02
04 | NC | HARNETT COUNTY * | 37085C0105D | 07-MAY-2004 | 04-04-3736A | 01
04 | NC | HAYWOOD COUNTY* | 3701200180C | 09-FEB-2004 | 04-04-0136A | 17
04 | NC | HAYWOOD COUNTY* | 3701200190B | 15-APR-2004 | 04-04-4468A | 02
04 | NC | HENDERSON COUNTY * | 3701250020B | 12-FEB-2004 | 04-04-1718A | 02
04 | NC | HENDERSONVILLE, CITY OF | 3701280004B | 11-MAR-2004 | 04-NC-3144A | 01
04 | NC | HICKORY, CITY OF | 3700540005B | 25-MAR-2004 | 04-04-2014A | 02
04 | NC | HIGH POINT, CITY OF | 3701130007C | 22-JAN-2004 | 04-04-0962A | 02
04 | NC | HIGH POINT, CITY OF | 3701130004C | 20-MAY-2004 | 04-04-3844A | 01
04 | NC | HIGH POINT, CITY OF | 3701130006C | 27-MAY-2004 | 04-04-5068A | 02
04 | NC | HUNTERSVILLE, TOWN OF | 37119C0046E | 05-FEB-2004 | 04-04-2828V | 19
04 | NC | HUNTERSVILLE, TOWN OF | 37119C0065E | 05-FEB-2004 | 04-04-2828V | 19
04 | NC | HUNTERSVILLE, TOWN OF | 37119C0066E | 24-JUN-2004 | 04-04-1686A | 01
04 | NC | IREDELL COUNTY * | 3703130200C | 29-APR-2004 | 04-04-5110A | 02
04 | NC | JACKSON COUNTY * | 3702820100C | 15-JAN-2004 | 04-04-0474A | 02
04 | NC | JACKSONVILLE, CITY OF | 3701780004B | 15-APR-2004 | 04-04-3734A | 02
04 | NC | JACKSONVILLE, CITY OF | 3701780009B | 19-APR-2004 | 04-04-4534A | 02
04 | NC | JACKSONVILLE, CITY OF | 3701780009B | 19-APR-2004 | 04-04-4536A | 02
04 | NC | JOHNSTON COUNTY * | 37101C0105D | 11-MAR-2004 | 04-04-2100A | 02
04 | NC | LEE COUNTY * | 37105C0060B | 23-APR-2004 | 04-04-1418A | 02
04 | NC | LELAND, TOWN OF | 3702950130C | 16-APR-2004 | 04-04-3012A | 01
04 | NC | LENOIR, CITY OF | 37027C0076D | 03-MAY-2004 | 04-04-2628A | 01
04 | NC | LEXINGTON, CITY OF | 37057C0184D | 09-FEB-2004 | 04-04-2412A | 02
04 | NC | LEXINGTON, CITY OF | 37057C0184D | 15-MAR-2004 | 04-04-2200A | 02
04 | NC | LEXINGTON, CITY OF | 37057C0184D | 10-JUN-2004 | 04-04-3418A | 02
04 | NC | LINCOLN COUNTY * | 3701460075C | 30-JAN-2004 | 04-04-2550A | 02
04 | NC | LINCOLN COUNTY * | 3701460150C | 29-MAR-2004 | 04-04-3330A | 02
04 | NC | LONG BEACH, TOWN OF | 3753540004E | 08-APR-2004 | 04-04-4456A | 02
04 | NC | LONG BEACH, TOWN OF | 3753540003D | 21-JUN-2004 | 04-04-5426A | 02
04 | NC | MADISON COUNTY * | 3701520150B | 19-FEB-2004 | 03-04-10902A | 02
04 | NC | MADISON COUNTY * | 3701520114B | 29-MAR-2004 | 04-04-0958A | 02
04 | NC | MECKLENBURG COUNTY * | 37119C0005E | 05-FEB-2004 | 04-04-2818V | 19
04 | NC | MECKLENBURG COUNTY * | 37119C0025E | 05-FEB-2004 | 04-04-2818V | 19
04 | NC | MECKLENBURG COUNTY * | 37119C0026E | 05-FEB-2004 | 04-04-2818V | 19
04 | NC | MECKLENBURG COUNTY * | 37119C0028E | 05-FEB-2004 | 04-04-2818V | 19
04 | NC | MECKLENBURG COUNTY * | 37119C0044E | 05-FEB-2004 | 04-04-2818V | 19
04 | NC | MECKLENBURG COUNTY * | 37119C0045E | 05-FEB-2004 | 04-04-2818V | 19
04 | NC | MECKLENBURG COUNTY * | 37119C0046E | 05-FEB-2004 | 04-04-2818V | 19
04 | NC | MECKLENBURG COUNTY * | 37119C0065E | 05-FEB-2004 | 04-04-2818V | 19
04 | NC | MECKLENBURG COUNTY * | 37119C0066E | 05-FEB-2004 | 04-04-2818V | 19
04 | NC | MECKLENBURG COUNTY * | 37119C0084E | 05-FEB-2004 | 04-04-2818V | 19
04 | NC | MECKLENBURG COUNTY * | 37119C0105E | 05-FEB-2004 | 04-04-2818V | 19
04 | NC | MECKLENBURG COUNTY * | 37119C0106E | 05-FEB-2004 | 04-04-2818V | 19
04 | NC | MECKLENBURG COUNTY * | 37119C0108E | 05-FEB-2004 | 04-04-2818V | 19
04 | NC | MECKLENBURG COUNTY * | 37119C0109E | 05-FEB-2004 | 04-04-2818V | 19
04 | NC | MECKLENBURG COUNTY * | 37119C0124E | 05-FEB-2004 | 04-04-2818V | 19
04 | NC | MECKLENBURG COUNTY * | 37119C0171E | 05-FEB-2004 | 04-04-2818V | 19
04 | NC | MECKLENBURG COUNTY * | 37119C0203E | 05-FEB-2004 | 04-04-2818V | 19
04 | NC | MECKLENBURG COUNTY * | 37119C0211E | 05-FEB-2004 | 04-04-2818V | 19
04 | NC | MECKLENBURG COUNTY * | 37119C0223E | 05-FEB-2004 | 04-04-2818V | 19
04 | NC | MECKLENBURG COUNTY * | 37119C0224E | 05-FEB-2004 | 04-04-2818V | 19
04 | NC | MECKLENBURG COUNTY * | 37119C0225E | 05-FEB-2004 | 04-04-2818V | 19
04 | NC | MECKLENBURG COUNTY * | 37119C0231E | 05-FEB-2004 | 04-04-2818V | 19
04 | NC | MECKLENBURG COUNTY * | 37119C0242E | 05-FEB-2004 | 04-04-2818V | 19
04 | NC | MECKLENBURG COUNTY * | 37119C0244E | 05-FEB-2004 | 04-04-2818V | 19
04 | NC | MECKLENBURG COUNTY * | 37119C0247E | 05-FEB-2004 | 04-04-2818V | 19
04 | NC | MECKLENBURG COUNTY * | 37119C0248E | 05-FEB-2004 | 04-04-2818V | 19
04 | NC | MECKLENBURG COUNTY * | 37119C0261E | 05-FEB-2004 | 04-04-2818V | 19
04 | NC | MECKLENBURG COUNTY * | 37119C0263E | 05-FEB-2004 | 04-04-2818V | 19
04 | NC | MECKLENBURG COUNTY * | 37119C0266E | 05-FEB-2004 | 04-04-2818V | 19
04 | NC | MECKLENBURG COUNTY * | 37119C0267E | 05-FEB-2004 | 04-04-2818V | 19
04 | NC | MECKLENBURG COUNTY * | 37119C0268E | 05-FEB-2004 | 04-04-2818V | 19
04 | NC | MECKLENBURG COUNTY * | 37119C0281E | 05-FEB-2004 | 04-04-2818V | 19
04 | NC | MECKLENBURG COUNTY * | 37119C0285E | 05-FEB-2004 | 04-04-2818V | 19
04 | NC | MECKLENBURG COUNTY * | 37119C0287E | 05-FEB-2004 | 04-04-2818V | 19
04 | NC | MECKLENBURG COUNTY * | 37119C0289E | 05-FEB-2004 | 04-04-2818V | 19
04 | NC | MECKLENBURG COUNTY * | 37119C0308E | 05-FEB-2004 | 04-04-2818V | 19
04 | NC | MECKLENBURG COUNTY * | 37119C0243E | 12-FEB-2004 | 04-04-1822A | 02
04 | NC | MECKLENBURG COUNTY * | 37119C0109E | 16-APR-2004 | 04-04-3190A | 02
04 | NC | MECKLENBURG COUNTY * | 37119C0265E | 06-MAY-2004 | 04-04-2932A | 01
04 | NC | MECKLENBURG COUNTY * | 37119C0243E | 24-MAY-2004 | 04-04-2900A | 01
04 | NC | MECKLENBURG COUNTY * | 37119C0248F | 24-JUN-2004 | 04-04-4744A | 02
04 | NC | MINT HILL, TOWN OF | 37119C0231E | 05-FEB-2004 | 04-04-2820V | 19
04 | NC | MINT HILL, TOWN OF | 37119C0211E | 10-JUN-2004 | 04-04-2658A | 17
04 | NC | MITCHELL COUNTY * | 37121C0050C | 04-MAR-2004 | 03-04-6440A | 02
04 | NC | MONTGOMERY COUNTY * | 3703360025B | 06-MAY-2004 | 04-04-025A | 02
04 | NC | MONTGOMERY COUNTY * | 3703360025B | 06-MAY-2004 | 04-04-030A | 02
04 | NC | MONTGOMERY COUNTY * | 3703360065B | 12-MAY-2004 | 04-04-044A | 02
04 | NC | MONTGOMERY COUNTY * | 3703360025B | 23-JUN-2004 | 04-04-187A | 02
04 | NC | MONTGOMERY COUNTY* | 3703360025B | 12-JAN-2004 | 04-04-1830A | 02
04 | NC | MONTGOMERY COUNTY* | 3703360025B | 20-JAN-2004 | 04-04-2038A | 02
04 | NC | MONTGOMERY COUNTY* | 3703360025B | 02-FEB-2004 | 04-04-2152A | 02
04 | NC | MONTGOMERY COUNTY* | 3703360025B | 02-FEB-2004 | 04-04-2484A | 02
04 | NC | MONTGOMERY COUNTY* | 3703360025B | 19-FEB-2004 | 04-04-2724A | 02
04 | NC | MONTGOMERY COUNTY* | 3703360025B | 19-FEB-2004 | 04-04-2726A | 02
04 | NC | MONTGOMERY COUNTY* | 3703360025B | 11-MAR-2004 | 04-04-3672A | 02
04 | NC | MONTGOMERY COUNTY* | 3703360025B | 01-APR-2004 | 04-04-4142A | 02
04 | NC | MONTGOMERY COUNTY* | 3703360025B | 01-APR-2004 | 04-04-4144A | 02
04 | NC | MONTGOMERY COUNTY* | 3703360025B | 23-APR-2004 | 04-04-4390A | 02
04 | NC | MONTGOMERY COUNTY* | 3703360025B | 23-APR-2004 | 04-04-4392A | 02
04 | NC | MONTGOMERY COUNTY* | 3703360025B | 23-APR-2004 | 04-04-4394A | 02
04 | NC | MONTGOMERY COUNTY* | 3703360065B | 29-APR-2004 | 04-04-4616A | 02
04 | NC | MONTGOMERY COUNTY* | 3703360025B | 17-MAY-2004 | 04-04-4852A | 02
04 | NC | MONTGOMERY COUNTY* | 3703360025B | 17-MAY-2004 | 04-04-4854A | 02
04 | NC | MONTGOMERY COUNTY* | 3703360025B | 20-MAY-2004 | 04-04-3334A | 02
04 | NC | MONTGOMERY COUNTY* | 3703360025B | 20-MAY-2004 | 04-04-4928A | 02
04 | NC | MONTGOMERY COUNTY* | 3703360025B | 27-MAY-2004 | 04-04-5498A | 02
04 | NC | MOREHEAD CITY, TOWN OF | 3720638600J | 12-APR-2004 | 04-04-4294A | 02
04 | NC | MOUNT HOLLY, CITY OF | 37071C0217E | 18-MAR-2004 | 04-04-2956A | 02
04 | NC | MOUNT HOLLY, CITY OF | 37071C0219E | 17-MAY-2004 | 04-04-4850A | 02
04 | NC | MOUNT HOLLY, CITY OF | 37071C0217E | 03-JUN-2004 | 04-04-5564A | 02
04 | NC | NEW BERN, CITY OF | 3700720320B | 23-APR-2004 | 04-04-3842A | 02
04 | NC | NEW HANOVER COUNTY* | 3701680035D | 22-JAN-2004 | 04-04-1584A | 02
04 | NC | NEW HANOVER COUNTY* | 3701680045E | 12-FEB-2004 | 04-04-1602A | 02
04 | NC | NEW HANOVER COUNTY* | 3701680040D | 22-MAR-2004 | 04-04-2042A | 01
04 | NC | NEW HANOVER COUNTY* | 3701680105D | 25-MAR-2004 | 04-04-1706A | 02
04 | NC | NEW HANOVER COUNTY* | 3701680085E | 15-APR-2004 | 04-04-4396A | 02
04 | NC | NEW HANOVER COUNTY* | 3701680040D | 23-APR-2004 | 04-04-4236A | 02
04 | NC | NEW HANOVER COUNTY* | 3701680045E | 23-APR-2004 | 04-04-2924A | 02
04 | NC | NEW HANOVER COUNTY* | 3701680105D | 23-APR-2004 | 04-04-4152A | 01
04 | NC | NEW HANOVER COUNTY* | 3701680045E | 03-MAY-2004 | 04-04-4090A | 02
04 | NC | NEW HANOVER COUNTY* | 3701680105D | 12-MAY-2004 | 04-04-040A | 01
04 | NC | NEW HANOVER COUNTY* | 3701680082E | 09-JUN-2004 | 04-04-066A | 01
04 | NC | NEW HANOVER COUNTY* | 3701680105D | 09-JUN-2004 | 04-04-148A | 02
04 | NC | NEW HANOVER COUNTY* | 3701680045E | 10-JUN-2004 | 04-04-2786A | 02
04 | NC | NORTHAMPTON COUNTY * | 3701730005C | 06-MAY-2004 | 04-04-036A | 02
04 | NC | NORTHAMPTON COUNTY * | 3701730005C | 26-MAY-2004 | 04-04-046A | 02
04 | NC | OAK ISLAND, TOWN OF | 3700300002D | 17-JUN-2004 | 04-04-109A | 02
04 | NC | OAK ISLAND, TOWN OF | 3753540003D | 17-JUN-2004 | 04-04-138A | 02
04 | NC | ONSLOW COUNTY* | 3703400160C | 03-MAY-2004 | 04-04-3294A | 02
04 | NC | ONSLOW COUNTY* | 3703400315C | 06-MAY-2004 | 04-04-008A | 02
04 | NC | ONSLOW COUNTY* | 3703400360C | 26-MAY-2004 | 04-04-047A | 02
04 | NC | ONSLOW COUNTY* | 3703400180C | 09-JUN-2004 | 04-04-096A | 02
04 | NC | ONSLOW COUNTY* | 3703400180C | 17-JUN-2004 | 04-04-071A | 02
04 | NC | ORANGE COUNTY * | 3703420160B | 04-MAY-2004 | 03-04-533P | 05
04 | NC | PENDER COUNTY* | 3703440527C | 11-MAR-2004 | 04-04-3064A | 02
04 | NC | PENDER COUNTY* | 3703440532B | 29-MAR-2004 | 04-04-2516A | 02
04 | NC | PENDER COUNTY* | 3703440393B | 08-APR-2004 | 04-04-002A | 01
04 | NC | PENDER COUNTY* | 3703440425B | 09-APR-2004 | 04-04-3124A | 02
04 | NC | PENDER COUNTY* | 3703440393B | 23-APR-2004 | 04-04-4154A | 02
04 | NC | PENDER COUNTY* | 3703440411B | 27-MAY-2004 | 04-04-4930A | 02
04 | NC | PERQUIMANS COUNTY* | 3703150105B | 06-MAY-2004 | 04-04-4586A | 02
04 | NC | PERSON COUNTY* | 37145C0050B | 03-MAY-2004 | 04-04-3404A | 02
04 | NC | PINEVILLE, TOWN OF | 37119C0265C | 05-FEB-2004 | 04-04-2822V | 19
04 | NC | PINEVILLE, TOWN OF | 37119C0265E | 05-FEB-2004 | 04-04-2822V | 19
04 | NC | PITT COUNTY * | 3720464400J | 03-JAN-2004 | 04-04-2034V | 19
04 | NC | PITT COUNTY * | 3720464600J | 03-JAN-2004 | 04-04-2034V | 19
04 | NC | PITT COUNTY * | 3720466500J | 03-JAN-2004 | 04-04-2034V | 19
04 | NC | PITT COUNTY * | 3720466800J | 03-JAN-2004 | 04-04-2034V | 19
04 | NC | PITT COUNTY * | 3720467500J | 03-JAN-2004 | 04-04-2034V | 19
04 | NC | PITT COUNTY * | 3720468100J | 03-JAN-2004 | 04-04-2034V | 19
04 | NC | PITT COUNTY * | 3720468400J | 03-JAN-2004 | 04-04-2034V | 19
04 | NC | PITT COUNTY * | 3720469100J | 03-JAN-2004 | 04-04-2034V | 19
04 | NC | PITT COUNTY * | 3720469600J | 03-JAN-2004 | 04-04-2034V | 19
04 | NC | PITT COUNTY * | 3720475400J | 03-JAN-2004 | 04-04-2034V | 19
04 | NC | PITT COUNTY * | 3720560000J | 03-JAN-2004 | 04-04-2034V | 19
04 | NC | PITT COUNTY * | 3720560300J | 03-JAN-2004 | 04-04-2034V | 19
04 | NC | PITT COUNTY * | 3720560800J | 03-JAN-2004 | 04-04-2034V | 19
04 | NC | PITT COUNTY * | 3720561700J | 03-JAN-2004 | 04-04-2034V | 19
04 | NC | PITT COUNTY * | 3720562800J | 03-JAN-2004 | 04-04-2034V | 19
04 | NC | PITT COUNTY * | 3720563700J | 03-JAN-2004 | 04-04-2034V | 19
04 | NC | PITT COUNTY * | 3720570000J | 03-JAN-2004 | 04-04-2034V | 19
04 | NC | PITT COUNTY * | 3720468300J | 12-APR-2004 | 04-04-2322A | 02
04 | NC | RALEIGH, CITY OF | 37183C0342E | 29-MAR-2004 | 04-04-3154A | 02
04 | NC | RALEIGH, CITY OF | 37183C0170E | 23-APR-2004 | 03-04-9840A | 01
04 | NC | RANDOLPH COUNTY * | 3701950450B | 08-APR-2004 | 04-04-2104A | 02
04 | NC | RANDOLPH COUNTY * | 3701950325B | 23-APR-2004 | 04-04-4532A | 02
04 | NC | ROCKINGHAM COUNTY* | 3703500050B | 27-FEB-2004 | 04-NC-4096A | 02
04 | NC | ROCKY MOUNT, CITY OF | 3700920004C | 05-FEB-2004 | 04-04-0478A | 02
04 | NC | ROWAN COUNTY * | 3703510150B | 26-FEB-2004 | 04-04-2108A | 02
04 | NC | SALISBURY, CITY OF | 3702150005B | 01-JUN-2004 | 04-04-2930A | 02
04 | NC | SANFORD, CITY OF | 37105C0060B | 29-APR-2004 | 04-04-1826A | 02
04 | NC | SOUTHERN SHORES, TOWN OF | 3704300002C | 29-MAR-2004 | 04-04-3188A | 02
04 | NC | STANLY COUNTY * | 37167C0075D | 22-JAN-2004 | 04-04-2202A | 02
04 | NC | STANLY COUNTY * | 37167C0175D | 20-MAY-2004 | 04-04-5188A | 02
04 | NC | STOKES COUNTY * | 3703620100B | 12-APR-2004 | 04-04-4460A | 02
04 | NC | TRANSYLVANIA COUNTY * | 37175C0285C | 19-APR-2004 | 04-04-2506A | 02
04 | NC | TYRRELL COUNTY * | 3720872800J | 17-JAN-2004 | 04-04-2026V | 19
04 | NC | TYRRELL COUNTY * | 3720872800J | 20-MAY-2004 | 04-04-4884A | 02
04 | NC | UNION COUNTY * | 37179C0070C | 06-MAY-2004 | 04-04-4328A | 02
04 | NC | UNION COUNTY * | 37179C0080C | 17-MAY-2004 | 04-04-2112A | 02
04 | NC | UNION COUNTY * | 37179C0060C | 28-JUN-2004 | 04-04-4242A | 01
04 | NC | WAKE COUNTY * | 37183C0035E | 18-MAY-2004 | 03-04-531P | 05
04 | NC | WAKE COUNTY * | 37183C0055E | 18-MAY-2004 | 03-04-531P | 05
04 | NC | WAKE COUNTY * | 37183C0730E | 03-JUN-2004 | 04-04-5428A | 02
04 | NC | WARREN COUNTY * | 3703960002C | 23-APR-2004 | 04-04-009A | 02
04 | NC | WARREN COUNTY * | 3703960002C | 23-APR-2004 | 04-04-013A | 02
04 | NC | WARREN COUNTY * | 3703960002C | 23-APR-2004 | 04-04-016A | 02
04 | NC | WARREN COUNTY * | 3703960002C | 23-APR-2004 | 04-04-027A | 02
04 | NC | WARREN COUNTY * | 3703960002C | 23-APR-2004 | 04-04-029A | 02
04 | NC | WARREN COUNTY * | 3703960002C | 23-APR-2004 | 04-04-033A | 02
04 | NC | WARREN COUNTY * | 3703960002C | 19-MAY-2004 | 04-04-054A | 02
04 | NC | WARREN COUNTY * | 3703960002C | 26-MAY-2004 | 04-04-069A | 02
04 | NC | WARREN COUNTY * | 3703960002C | 26-MAY-2004 | 04-04-076A | 02
04 | NC | WARREN COUNTY * | 3703960002C | 09-JUN-2004 | 04-04-086A | 02
04 | NC | WARREN COUNTY * | 3703960002C | 18-JUN-2004 | 04-04-084A | 02
04 | NC | WARREN COUNTY * | 3703960002C | 18-JUN-2004 | 04-04-091A | 02
04 | NC | WARREN COUNTY * | 3703960002C | 23-JUN-2004 | 04-04-139A | 02
04 | NC | WARREN COUNTY * | 3703960002C | 23-JUN-2004 | 04-04-192A | 02
04 | NC | WARREN COUNTY* | 3703960002C | 12-JAN-2004 | 04-04-1832A | 02
04 | NC | WARREN COUNTY* | 3703960002C | 15-JAN-2004 | 04-04-1972A | 02
04 | NC | WARREN COUNTY* | 3703960002C | 20-JAN-2004 | 04-04-0398A | 02
04 | NC | WARREN COUNTY* | 3703960002C | 20-JAN-2004 | 04-04-2046A | 02
04 | NC | WARREN COUNTY* | 3703960002C | 20-JAN-2004 | 04-04-2106A | 02
04 | NC | WARREN COUNTY* | 3703960002C | 17-FEB-2004 | 04-04-1280A | 02
04 | NC | WARREN COUNTY* | 3703960002C | 19-FEB-2004 | 04-04-2782A | 02
04 | NC | WARREN COUNTY* | 3703960002C | 19-FEB-2004 | 04-04-2928A | 02
04 | NC | WARREN COUNTY* | 3703960002C | 01-MAR-2004 | 04-04-2660A | 02
04 | NC | WARREN COUNTY* | 3703960002C | 01-MAR-2004 | 04-04-3412A | 02
04 | NC | WARREN COUNTY* | 3703960002C | 04-MAR-2004 | 04-04-3042A | 02
04 | NC | WARREN COUNTY* | 3703960002C | 01-APR-2004 | 04-04-2220A | 02
04 | NC | WARREN COUNTY* | 3703960002C | 15-APR-2004 | 04-04-3410A | 02
04 | NC | WARREN COUNTY* | 3703960002C | 15-APR-2004 | 04-04-4612A | 02
04 | NC | WARREN COUNTY* | 3703960002C | 23-APR-2004 | 04-04-4530A | 02
04 | NC | WARREN COUNTY* | 3703960002C | 29-APR-2004 | 04-04-4086A | 02
04 | NC | WARREN COUNTY* | 3703960002C | 29-APR-2004 | 04-04-5378A | 02
04 | NC | WARREN COUNTY* | 3703960002C | 03-MAY-2004 | 04-04-4528A | 02
04 | NC | WARREN COUNTY* | 3703960002C | 03-MAY-2004 | 04-04-5114A | 02
04 | NC | WARREN COUNTY* | 3703960002C | 06-MAY-2004 | 04-04-4398A | 02
04 | NC | WARREN COUNTY* | 3703960002C | 06-MAY-2004 | 04-04-4452A | 02
04 | NC | WARREN COUNTY* | 3703960002C | 13-MAY-2004 | 04-04-4882A | 02
04 | NC | WARREN COUNTY* | 3703960002C | 17-MAY-2004 | 04-04-4688A | 02
04 | NC | WARREN COUNTY* | 3703960002C | 27-MAY-2004 | 04-04-5038A | 02
04 | NC | WARREN COUNTY* | 3703960002C | 27-MAY-2004 | 04-04-5040A | 02
04 | NC | WARREN COUNTY* | 3703960002C | 03-JUN-2004 | 04-04-5556A | 02
04 | NC | WASHINGTON COUNTY* | 3702470070B | 27-MAY-2004 | 04-04-2318A | 02
04 | NC | WASHINGTON, CITY OF | 3720566600K | 03-JAN-2004 | 04-04-2510V | 19
04 | NC | WASHINGTON, CITY OF | 3720567600J | 03-JAN-2004 | 04-04-2510V | 19
04 | NC | WASHINGTON, CITY OF | 3720568500J | 03-JAN-2004 | 04-04-2510V | 19
04 | NC | WASHINGTON, CITY OF | 3720568600J | 03-JAN-2004 | 04-04-2510V | 19
04 | NC | WASHINGTON, CITY OF | 3720568600J | 04-MAR-2004 | 04-04-2560A | 02
04 | NC | WASHINGTON, CITY OF | 3720567600J | 12-APR-2004 | 04-04-4466A | 02
04 | NC | WILKESBORO, TOWN OF | 3702590005E | 12-APR-2004 | 04-04-2102A | 02
04 | NC | WILMINGTON, CITY OF | 3701710010B | 14-APR-2004 | 04-NC-5422A | 01
04 | NC | WILMINGTON, CITY OF | 3701710010B | 21-MAY-2004 | 04-04-103A | 01
04 | NC | WINSTON-SALEM, CITY OF | 37067C0139H | 02-APR-2004 | 04-NC-4614A | 02
04 | NC | WOODFIN, TOWN OF | 37021C0302C | 27-MAY-2004 | 04-04-5006A | 02
04 | NC | YANCEY COUNTY * | 3702610060B | 01-APR-2004 | 04-04-3922A | 02
04 | SC | AIKEN COUNTY* | 4500020040B | 26-FEB-2004 | 04-04-1476A | 02
04 | SC | AIKEN COUNTY* | 4500020030B | 29-MAR-2004 | 04-04-3940A | 02
04 | SC | ANDERSON COUNTY * | 4500130210B | 07-JUN-2004 | 04-04-6904A | 02
04 | SC | BEAUFORT COUNTY* | 4500250050D | 01-MAR-2004 | 04-04-1630A | 01
04 | SC | BEAUFORT COUNTY* | 4500250065D | 08-APR-2004 | 04-04-4546A | 02
04 | SC | BEAUFORT COUNTY* | 4500250055D | 09-APR-2004 | 04-04-2156A | 02
04 | SC | BERKELEY COUNTY * | 45015C0590D | 23-FEB-2004 | 04-04-2328A | 02
04 | SC | BERKELEY COUNTY * | 45015C0590D | 01-MAR-2004 | 04-04-1606A | 02
04 | SC | BERKELEY COUNTY * | 45015C0585D | 04-MAR-2004 | 04-04-2258A | 02
04 | SC | BERKELEY COUNTY * | 45015C0590D | 18-MAR-2004 | 04-04-3434A | 02
04 | SC | BERKELEY COUNTY * | 45015C0415D | 25-MAR-2004 | 04-04-1834A | 02
04 | SC | BERKELEY COUNTY * | 45015C0370D | 19-APR-2004 | 04-04-4160A | 02
04 | SC | BERKELEY COUNTY * | 45015C0718D | 19-APR-2004 | 04-04-4542A | 02
04 | SC | BERKELEY COUNTY * | 45015C0240D | 06-MAY-2004 | 04-04-4108A | 02
04 | SC | BERKELEY COUNTY * | 45015C0590D | 06-MAY-2004 | 04-04-5052A | 02
04 | SC | BERKELEY COUNTY * | 45015C0560D | 13-MAY-2004 | 04-04-5506A | 02
04 | SC | BERKELEY COUNTY * | 45015C0590D | 13-MAY-2004 | 04-04-5596A | 02
04 | SC | BERKELEY COUNTY * | 45015C0590D | 20-MAY-2004 | 04-04-5922A | 02
04 | SC | BERKELEY COUNTY * | 45015C0590D | 20-MAY-2004 | 04-04-6578A | 02
04 | SC | BERKELEY COUNTY * | 45015C0590D | 07-JUN-2004 | 04-04-6580A | 02
04 | SC | BERKELEY COUNTY * | 45015C0718D | 07-JUN-2004 | 04-04-6232A | 02
04 | SC | BERKELEY COUNTY * | 45015C0590D | 10-JUN-2004 | 04-04-4626A | 02
04 | SC | CHARLESTON COUNTY* | 45541300364I | 27-MAY-2004 | 04-04-6196A | 02
04 | SC | CHARLESTON COUNTY* | 4554130390F | 01-JUN-2004 | 04-04-3936A | 02
04 | SC | CHARLESTON, CITY OF | 4554120020D | 18-MAR-2004 | 04-04-3428A | 02
04 | SC | CHARLESTON, CITY OF | 4554120023D | 22-MAR-2004 | 04-04-3808A | 02
04 | SC | CHARLESTON, CITY OF | 45015C0756D | 08-APR-2004 | 04-04-3676A | 02
04 | SC | CHARLESTON, CITY OF | 45015C0756D | 10-JUN-2004 | 04-04-5648A | 02
04 | SC | CHARLESTON, CITY OF | 4554120023D | 10-JUN-2004 | 04-04-6474A | 02
04 | SC | CHEROKEE COUNTY | 4500450075B | 17-FEB-2004 | 04-04-1426A | 02
04 | SC | CHESTER COUNTY * | 4500470150B | 29-JAN-2004 | 04-04-0854A | 02
04 | SC | DORCHESTER COUNTY * | 4500680245C | 12-FEB-2004 | 04-04-2562A | 02
04 | SC | FLORENCE COUNTY * | 4500760085B | 13-MAY-2004 | 04-04-5442A | 02
04 | SC | FLORENCE COUNTY * | 4500760125B | 03-JUN-2004 | 04-04-6404A | 02
04 | SC | GEORGETOWN COUNTY * | 4500850230D | 14-APR-2004 | 04-04-3516A | 02
04 | SC | GOOSE CREEK, CITY OF | 45015C590D | 18-MAR-2004 | 04-04-3008A | 02
04 | SC | GOOSE CREEK, CITY OF | 45015C0590D | 22-MAR-2004 | 04-04-3554A | 02
04 | SC | GOOSE CREEK, CITY OF | 45015C0590D | 25-MAR-2004 | 04-04-3806A | 02
04 | SC | GOOSE CREEK, CITY OF | 45015C0590D | 05-APR-2004 | 04-04-0588A | 17
04 | SC | GOOSE CREEK, CITY OF | 45015C0590D | 05-APR-2004 | 04-04-4754A | 02
04 | SC | GOOSE CREEK, CITY OF | 45015C0590D | 08-APR-2004 | 04-04-2788A | 02
04 | SC | GOOSE CREEK, CITY OF | 45015C0590D | 08-APR-2004 | 04-04-4164A | 02
04 | SC | GOOSE CREEK, CITY OF | 45015C0595D | 09-APR-2004 | 04-04-1982A | 02
04 | SC | GOOSE CREEK, CITY OF | 45015C0590D | 12-APR-2004 | 04-04-3288A | 02
04 | SC | GOOSE CREEK, CITY OF | 45015C0590D | 23-APR-2004 | 04-04-4756A | 02
04 | SC | GOOSE CREEK, CITY OF | 45015C0590D | 29-APR-2004 | 04-04-4628A | 02
04 | SC | GOOSE CREEK, CITY OF | 45015C0590D | 29-APR-2004 | 04-04-5382A | 02
04 | SC | GOOSE CREEK, CITY OF | 45015C0590D | 10-MAY-2004 | 04-04-5138A | 02
04 | SC | GOOSE CREEK, CITY OF | 45015C0590D | 24-MAY-2004 | 04-04-5136A | 02
04 | SC | GOOSE CREEK, CITY OF | 45015C0590D | 27-MAY-2004 | 04-04-5298A | 02
04 | SC | GOOSE CREEK, CITY OF | 45015C0680D | 27-MAY-2004 | 04-04-5384A | 02
04 | SC | GOOSE CREEK, CITY OF | 45015C0590D | 07-JUN-2004 | 04-04-4898A | 02
04 | SC | GOOSE CREEK, CITY OF | 45015C0590D | 07-JUN-2004 | 04-04-4900A | 02
04 | SC | GOOSE CREEK, CITY OF | 45015C0590D | 07-JUN-2004 | 04-04-6672A | 02
04 | SC | GOOSE CREEK, CITY OF | 45015C0590D | 10-JUN-2004 | 04-04-6476A | 02
04 | SC | GOOSE CREEK, CITY OF | 45015C0595D | 10-JUN-2004 | 04-04-6960A | 02
04 | SC | GOOSE CREEK, CITY OF | 45015C0590D | 24-JUN-2004 | 04-04-6154A | 02
04 | SC | GREENVILLE COUNTY * | 4500890210B | 22-JAN-2004 | 04-04-1466A | 01
04 | SC | GREENVILLE COUNTY * | 4500890275A | 23-FEB-2004 | 04-04-3382A | 02
04 | SC | GREENVILLE COUNTY * | 4500890215B | 15-MAR-2004 | 03-04-9566A | 02
04 | SC | GREENVILLE COUNTY * | 4500890145B | 22-MAR-2004 | 04-04-3558A | 01
04 | SC | GREENVILLE COUNTY * | 4500890185B | 29-APR-2004 | 04-04-4166A | 02
04 | SC | GREENVILLE COUNTY * | 4500890215B | 20-MAY-2004 | 04-04-4660A | 02
04 | SC | GREENVILLE COUNTY * | 4500890215B | 27-MAY-2004 | 04-04-5786A | 02
04 | SC | GREENWOOD COUNTY* | 4500940075B | 12-FEB-2004 | 04-04-2206A | 02
04 | SC | GREENWOOD COUNTY* | 4500940075B | 19-FEB-2004 | 04-04-2402A | 02
04 | SC | GREER, CITY OF | 4500890165B | 02-FEB-2004 | 04-04-0202A | 01
04 | SC | HANAHAN, CITY OF | 45015C0695D | 08-MAR-2004 | 04-04-3156A | 02
04 | SC | HANAHAN, CITY OF | 45015C0685D | 01-JUN-2004 | 04-04-5300A | 02
04 | SC | HANAHAN, CITY OF | 45015C0685D | 14-JUN-2004 | 04-04-5048A | 02
04 | SC | HANAHAN, CITY OF | 45015C0685D | 14-JUN-2004 | 04-04-5050A | 02
04 | SC | HORRY COUNTY * | 45051C0395J | 01-MAR-2004 | 04-04-2742A | 02
04 | SC | HORRY COUNTY * | 45051C0582H | 06-MAY-2004 | 04-04-4472A | 02
04 | SC | JASPER COUNTY* | 4501120200B | 27-MAY-2004 | 04-04-3040A | 02
04 | SC | JOHNSONVILLE, CITY OF | 450208 A | 13-MAY-2004 | 04-04-4848A | 02
04 | SC | KERSHAW COUNTY * | 45055C0140D | 04-MAR-2004 | 04-04-1464A | 02
04 | SC | KERSHAW COUNTY * | 45055C0394D | 19-APR-2004 | 04-04-3938A | 02
04 | SC | KERSHAW COUNTY * | 45055C0145D | 14-JUN-2004 | 04-04-5444A | 02
04 | SC | LANCASTER COUNTY * | 4501200150B | 22-JAN-2004 | 03-04-11112A | 02
04 | SC | LEXINGTON COUNTY * | 45063C0258G | 20-JAN-2004 | 04-04-1836A | 02
04 | SC | LEXINGTON COUNTY * | 45063C0142G | 02-FEB-2004 | 04-04-1608A | 02
04 | SC | LEXINGTON COUNTY * | 45063C0254G | 04-MAR-2004 | 04-04-1428A | 02
04 | SC | LEXINGTON COUNTY * | 45063C0163G | 15-APR-2004 | 03-04-515P | 05
04 | SC | LEXINGTON COUNTY * | 45063C0232G | 29-APR-2004 | 04-04-4246A | 02
04 | SC | LEXINGTON COUNTY * | 45063C0229G | 10-MAY-2004 | 04-04-5014A | 02
04 | SC | LEXINGTON COUNTY * | 45063C0137G | 07-JUN-2004 | 04-04-6624A | 02
04 | SC | LEXINGTON COUNTY * | 45063C0252G | 24-JUN-2004 | 04-04-7090A | 02
04 | SC | MEGGETT, TOWN OF | 4500400005C | 01-APR-2004 | 04-04-2730A | 02
04 | SC | MOUNT PLEASANT, TOWN OF | 4554130180F | 12-APR-2004 | 04-04-1430A | 02
04 | SC | MOUNT PLEASANT, TOWN OF | 4554170005E | 20-MAY-2004 | 04-04-6428A | 02
04 | SC | NEWBERRY COUNTY* | 4502240225B | 02-FEB-2004 | 04-04-2260A | 02
04 | SC | NEWBERRY COUNTY* | 4502240225B | 02-FEB-2004 | 04-04-2262A | 02
04 | SC | NEWBERRY COUNTY* | 4502240225B | 08-APR-2004 | 04-04-3846A | 02
04 | SC | NEWBERRY COUNTY* | 4502240225B | 19-APR-2004 | 04-04-4474A | 02
04 | SC | NEWBERRY COUNTY* | 4502240175B | 29-APR-2004 | 04-04-3636A | 02
04 | SC | NEWBERRY COUNTY* | 4502240225B | 29-APR-2004 | 04-04-3070A | 02
04 | SC | NEWBERRY COUNTY* | 4502240225B | 03-JUN-2004 | 04-04-6194A | 02
04 | SC | NEWBERRY COUNTY* | 4502240225B | 09-JUN-2004 | 04-04-6472A | 02
04 | SC | NORTH MYRTLE BEACH, TOWN OF | 45051C0583H | 11-MAR-2004 | 04-04-2088A | 02
04 | SC | ORANGEBURG COUNTY * | 4501600280B | 01-APR-2004 | 04-04-3680A | 02
04 | SC | ORANGEBURG COUNTY * | 4501600280B | 08-APR-2004 | 04-04-3264A | 02
04 | SC | ORANGEBURG COUNTY * | 4501600280B | 20-MAY-2004 | 04-04-5598A | 02
04 | SC | ORANGEBURG, CITY OF | 4501640001B | 19-APR-2004 | 04-04-3006A | 02
04 | SC | PICKENS COUNTY * | 4501660115B | 29-MAR-2004 | 04-04-4162A | 02
04 | SC | PICKENS COUNTY * | 4501660210B | 31-MAR-2004 | 04-04-3882A | 02
04 | SC | PICKENS COUNTY * | 4501660050B | 21-JUN-2004 | 04-04-4662A | 02
04 | SC | RICHLAND COUNTY* | 45079C0115G | 26-JAN-2004 | 04-04-1984A | 02
04 | SC | RICHLAND COUNTY* | 45079C0025H | 02-FEB-2004 | 04-04-1542A | 02
04 | SC | RICHLAND COUNTY* | 45079C0025H | 17-FEB-2004 | 04-04-1742A | 02
04 | SC | RICHLAND COUNTY* | 45079C0025H | 04-MAR-2004 | 04-04-2256A | 02
04 | SC | RICHLAND COUNTY* | 45079C0113G | 08-APR-2004 | 04-04-4158A | 02
04 | SC | RICHLAND COUNTY* | 45079C0185G | 08-APR-2004 | 04-04-4476A | 02
04 | SC | RICHLAND COUNTY* | 45079C0025H | 12-APR-2004 | 04-04-3286A | 02
04 | SC | RICHLAND COUNTY* | 45079C0025H | 29-APR-2004 | 04-04-4632A | 02
04 | SC | RICHLAND COUNTY* | 45079C0025H | 20-MAY-2004 | 04-04-6526A | 02
04 | SC | RICHLAND COUNTY* | 45079C0185G | 20-MAY-2004 | 04-04-6010A | 02
04 | SC | RICHLAND COUNTY* | 45079C0025H | 07-JUN-2004 | 04-04-6674A | 02
04 | SC | RICHLAND COUNTY* | 45079C0179G | 17-JUN-2004 | 04-04-6012A | 02
04 | SC | RICHLAND COUNTY* | 45079C0025H | 28-JUN-2004 | 04-04-7392A | 02
04 | SC | SALUDA COUNTY* | 4502300002B | 04-MAR-2004 | 04-04-2962A | 02
04 | SC | SALUDA COUNTY* | 4502300002A | 04-MAY-2004 | 04-04-4896A | 02
04 | SC | SALUDA COUNTY* | 4502300002A | 10-JUN-2004 | 04-04-6230A | 02
04 | SC | SPARTANBURG COUNTY * | 4501760075B | 13-MAY-2004 | 04-04-5446A | 02
04 | SC | SPARTANBURG COUNTY * | 4501760075B | 20-MAY-2004 | 04-04-5788A | 02
04 | SC | SPARTANBURG COUNTY * | 4501760075B | 03-JUN-2004 | 04-04-5790A | 02
04 | SC | SPARTANBURG COUNTY * | 4501760075B | 07-JUN-2004 | 04-04-6622A | 02
04 | SC | SUMTER COUNTY * | 4501820090C | 26-FEB-2004 | 04-04-2564A | 02
04 | SC | YORK COUNTY * | 4501930136D | 29-JAN-2004 | 04-04-1306A | 01
04 | SC | YORK COUNTY * | 4501930065C | 11-MAR-2004 | 04-04-3430A | 02
04 | SC | YORK COUNTY * | 4501930050B | 01-APR-2004 | 04-04-3942A | 02
04 | SC | YORK COUNTY * | 4501930050B | 29-APR-2004 | 04-04-4630A | 02
04 | TN | BARTLETT, CITY OF | 47157C0105E | 26-APR-2004 | 04-04-3076A | 02
04 | TN | BENTON COUNTY | 4702180025B | 25-JUN-2004 | 04-04-4336A | 02
04 | TN | BLEDSOE COUNTY | 4702190005A | 06-MAY-2004 | 04-04-4490A | 02
04 | TN | BLOUNT COUNTY * | 4703560100B | 18-MAR-2004 | 04-04-2798A | 02
04 | TN | BLOUNT COUNTY * | 4703560025B | 07-JUN-2004 | 04-04-5720A | 02
04 | TN | BRADLEY COUNTY * | 4703570080B | 27-MAY-2004 | 04-04-4594A | 02
04 | TN | BRENTWOOD, CITY OF | 47187C0090E | 08-APR-2004 | 04-04-2278A | 17
04 | TN | BRENTWOOD, CITY OF | 47187C0040E | 12-APR-2004 | 04-04-3816A | 02
04 | TN | BRENTWOOD, CITY OF | 47187C0035E | 29-APR-2004 | 04-04-4172A | 02
04 | TN | BRENTWOOD, CITY OF | 47187C0040E | 10-MAY-2004 | 04-04-4170A | 01
04 | TN | BRENTWOOD, CITY OF | 47187C0090E | 03-JUN-2004 | 04-04-2346A | 01
04 | TN | BRENTWOOD, CITY OF | 47187C0090E | 10-JUN-2004 | 04-04-5632A | 02
04 | TN | BRISTOL, CITY OF | 4701820003C | 05-FEB-2004 | 04-04-3142V | 19
04 | TN | BRISTOL, CITY OF | 4701820005C | 05-FEB-2004 | 04-04-3142V | 19
04 | TN | BRISTOL, CITY OF | 4701820005C | 13-MAY-2004 | 04-04-4138A | 02
04 | TN | BRISTOL, CITY OF | 4701820008C | 23-JUN-2004 | 04-04-160A | 02
04 | TN | CARTER COUNTY * | 47019C0060C | 17-JUN-2004 | 04-04-110A | 02
04 | TN | CHATTANOOGA, CITY OF | 47065C0366F | 05-FEB-2004 | 04-04-2052A | 01
04 | TN | CHATTANOOGA, CITY OF | 47065C0366F | 05-FEB-2004 | 04-04-2160A | 02
04 | TN | CHATTANOOGA, CITY OF | 47065C0366F | 15-MAR-2004 | 04-04-2208A | 01
04 | TN | CHATTANOOGA, CITY OF | 47065C0336F | 25-MAR-2004 | 04-04-4894A | 02
04 | TN | CHATTANOOGA, CITY OF | 47065C0239F | 26-APR-2004 | 04-04-5390A | 01
04 | TN | CHATTANOOGA, CITY OF | 47065C0361F | 20-MAY-2004 | 04-04-2794A | 02
04 | TN | CHEATHAM COUNTY * | 47021C0110C | 01-MAR-2004 | 04-04-1604A | 02
04 | TN | CHEATHAM COUNTY * | 47021C0210C | 01-JUN-2004 | 04-04-4492A | 02
04 | TN | CLAY COUNTY * | 4703820002A | 22-JAN-2004 | 04-04-1094A | 02
04 | TN | CLAY COUNTY * | 4703820002A | 05-APR-2004 | 04-04-3742A | 02
04 | TN | CLEVELAND, CITY OF | 4700150001D | 08-APR-2004 | 04-04-3436A | 02
04 | TN | CLEVELAND, CITY OF | 4703570080B | 08-APR-2004 | 04-04-3436A | 02
04 | TN | CLINTON, TOWN OF | 4700010002B | 15-APR-2004 | 04-04-2768A | 02
04 | TN | COLLIERVILLE, TOWN OF | 47157C0245E | 26-FEB-2004 | 04-04-2522A | 02
04 | TN | COLLIERVILLE, TOWN OF | 47157C0295E | 25-MAR-2004 | 04-04-2054A | 02
04 | TN | COLLIERVILLE, TOWN OF | 47157C0240E | 19-APR-2004 | 04-04-2976A | 01
04 | TN | COLLIERVILLE, TOWN OF | 47157C0240E | 10-JUN-2004 | 04-04-6304A | 01
04 | TN | COLLIERVILLE, TOWN OF | 47157C0245E | 23-JUN-2004 | 04-04-123A | 02
04 | TN | COLUMBIA, CITY OF | 4754230005D | 05-FEB-2004 | 04-04-0312A | 02
04 | TN | COLUMBIA, CITY OF | 4754230004D | 09-FEB-2004 | 03-04-11036A | 02
04 | TN | COLUMBIA, CITY OF | 4754230005D | 12-APR-2004 | 04-04-3956A | 02
04 | TN | COLUMBIA, CITY OF | 4754230002D | 27-MAY-2004 | 04-04-4892A | 02
04 | TN | COOKEVILLE, CITY OF | 4701500010C | 05-APR-2004 | 04-04-1994A | 02
04 | TN | COOKEVILLE, CITY OF | 4701500010C | 26-APR-2004 | 04-04-2590A | 02
04 | TN | COVINGTON, CITY OF | 47167C0065E | 29-MAR-2004 | 04-04-3762A | 02
04 | TN | DECATUR COUNTY* | 4700410004C | 12-FEB-2004 | 04-04-2210A | 02
04 | TN | DUNLAP, CITY OF | 4702700002B | 09-JUN-2004 | 04-04-088A | 02
04 | TN | DYERSBURG, CITY OF | 47045C0190D | 05-APR-2004 | 04-04-3438A | 02
04 | TN | DYERSBURG, CITY OF | 47045C0190D | 26-APR-2004 | 04-04-3170A | 02
04 | TN | EAST RIDGE, CITY OF | 47065C0477F | 22-JAN-2004 | 04-04-1852A | 02
04 | TN | EAST RIDGE, CITY OF | 1300280025D | 05-APR-2004 | 04-04-3166A | 02
04 | TN | EAST RIDGE, CITY OF | 47065C0477F | 05-APR-2004 | 04-04-3166A | 02
04 | TN | EAST RIDGE, CITY OF | 47065C0476F | 21-JUN-2004 | 04-04-6300A | 02
04 | TN | ERIN, CITY OF | 4702130001C | 01-JUN-2004 | 04-04-6186A | 02
04 | TN | ESTILL SPRINGS, TOWN OF | 470272_03B | 22-JAN-2004 | 04-04-0598A | 02
04 | TN | ESTILL SPRINGS, TOWN OF | 470272_03B | 10-JUN-2004 | 04-04-5978A | 02
04 | TN | FAYETTE COUNTY* | 4703520080B | 29-JAN-2004 | 03-04-9576A | 02
04 | TN | FAYETTE COUNTY* | 4703520090B | 03-MAY-2004 | 04-04-5634A | 02
04 | TN | FRANKLIN, CITY OF | 47187C0079E | 30-MAR-2004 | 03-04-529P | 05
04 | TN | GERMANTOWN, CITY OF | 47157C0235E | 04-MAR-2004 | 04-04-2514A | 01
04 | TN | GERMANTOWN, CITY OF | 47157C0235E | 29-MAR-2004 | 04-04-4112A | 02
04 | TN | GERMANTOWN, CITY OF | 47157C0235E | 08-APR-2004 | 04-04-2574A | 01
04 | TN | GERMANTOWN, CITY OF | 47157C0235E | 19-APR-2004 | 04-04-5106A | 01
04 | TN | GERMANTOWN, CITY OF | 47157C0235E | 06-MAY-2004 | 04-04-2770A | 01
04 | TN | GERMANTOWN, CITY OF | 47157C0235E | 17-MAY-2004 | 04-04-4402A | 01
04 | TN | GERMANTOWN, CITY OF | 47157C0235E | 24-JUN-2004 | 04-04-5502A | 02
04 | TN | GOODLETTSVILLE, CITY OF | 47165C0383D | 05-FEB-2004 | 04-04-2158A | 02
04 | TN | HAMILTON COUNTY * | 47065C0140F | 12-APR-2004 | 04-04-5198A | 02
04 | TN | HAMILTON COUNTY * | 47065C0228F | 10-JUN-2004 | 04-04-5974A | 02
04 | TN | HARDEMAN COUNTY * | 4703600150B | 29-MAR-2004 | 04-04-3850A | 02
04 | TN | JASPER, TOWN OF | 475429_04B | 25-MAR-2004 | 04-04-2348A | 02
04 | TN | JOHNSON CITY, CITY OF | 47179C0037C | 02-FEB-2004 | 04-04-2162A | 02
04 | TN | KNOX COUNTY * | 4754330080B | 22-JAN-2004 | 04-04-1758A | 02
04 | TN | KNOX COUNTY * | 4754330175B | 26-APR-2004 | 04-04-3306A | 02
04 | TN | KNOX COUNTY * | 4754330120B | 06-MAY-2004 | 04-04-3848A | 02
04 | TN | KNOX COUNTY * | 4754330120B | 20-MAY-2004 | 04-04-3526A | 02
04 | TN | KNOX COUNTY * | 4754330045B | 24-MAY-2004 | 04-04-5958A | 02
04 | TN | KNOX COUNTY * | 4754330075B | 01-JUN-2004 | 04-04-2974A | 02
04 | TN | LAKESIDE, CITY OF | 47065C0235F | 13-MAY-2004 | 04-04-5954A | 02
04 | TN | MACON COUNTY * | 4703710025B | 08-APR-2004 | 04-04-1128A | 02
04 | TN | MARION COUNTY * | 4701140175B | 25-MAR-2004 | 04-04-4834A | 02
04 | TN | MARION COUNTY * | 4701140100B | 15-APR-2004 | 04-04-5600A | 02
04 | TN | MARSHALL COUNTY* | 47117C0100C | 01-APR-2004 | 04-04-3128A | 02
04 | TN | MARYVILLE, CITY OF | 475439_05B | 21-JUN-2004 | 04-04-5126A | 02
04 | TN | MARYVILLE, CITY OF | 475439_08B | 21-JUN-2004 | 04-04-6050A | 02
04 | TN | MEMPHIS, CITY OF | 47157C0170E | 01-APR-2004 | 04-04-3682A | 01
04 | TN | MEMPHIS, CITY OF | 47157C0220E | 06-MAY-2004 | 04-04-2796A | 02
04 | TN | MEMPHIS, CITY OF | 47157C0230E | 17-MAY-2004 | 04-04-4934A | 02
04 | TN | MEMPHIS, CITY OF | 47157C0230E | 20-MAY-2004 | 04-04-5794A | 02
04 | TN | MEMPHIS, CITY OF | 47157C0230E | 01-JUN-2004 | 03-04-383P | 05
04 | TN | MEMPHIS, CITY OF | 47157C0145E | 24-JUN-2004 | 04-04-6226A | 02
04 | TN | MEMPHIS, CITY OF | 47157C0185E | 24-JUN-2004 | 04-04-6226A | 02
04 | TN | MEMPHIS, CITY OF | 47157C0235E | 24-JUN-2004 | 04-04-5644A | 01
04 | TN | MURFREESBORO, CITY OF | 47149C0139F | 18-MAR-2004 | 04-04-4110A | 01
04 | TN | MURFREESBORO, CITY OF | 47149C0140F | 18-MAR-2004 | 04-04-4110A | 01
04 | TN | MURFREESBORO, CITY OF | 47149C0259G | 18-MAR-2004 | 04-04-2940A | 02
04 | TN | MURFREESBORO, CITY OF | 47149C0260G | 01-APR-2004 | 04-04-1130A | 02
04 | TN | MURFREESBORO, CITY OF | 47149C0260G | 01-APR-2004 | 04-04-3014A | 02
04 | TN | MURFREESBORO, CITY OF | 47149C0260G | 08-APR-2004 | 04-04-5072A | 02
04 | TN | NASHVILLE & DAVIDSON COUNTY, CITY OF | 47037C0378F | 29-JAN-2004 | 04-04-0034A | 02
04 | TN | NASHVILLE & DAVIDSON COUNTY, CITY OF | 47037C0204F | 05-FEB-2004 | 04-04-0246A | 02
04 | TN | NASHVILLE & DAVIDSON COUNTY, CITY OF | 47037C0116F | 12-FEB-2004 | 04-04-2426A | 02
04 | TN | NASHVILLE & DAVIDSON COUNTY, CITY OF | 47037C0303F | 16-FEB-2004 | 03-04-503P | 05
04 | TN | NASHVILLE & DAVIDSON COUNTY, CITY OF | 47037C0309F | 04-MAR-2004 | 03-04-11034A | 02
04 | TN | NASHVILLE & DAVIDSON COUNTY, CITY OF | 47037C0231F | 08-MAR-2004 | 04-04-2572A | 02
04 | TN | NASHVILLE & DAVIDSON COUNTY, CITY OF | 47037C0331F | 18-MAR-2004 | 04-04-3594A | 02
04 | TN | NASHVILLE & DAVIDSON COUNTY, CITY OF | 47037C0214F | 08-APR-2004 | 04-04-5128A | 02
04 | TN | NASHVILLE & DAVIDSON COUNTY, CITY OF | 47037C0119F | 29-APR-2004 | 04-04-4168A | 02
04 | TN | NASHVILLE & DAVIDSON COUNTY, CITY OF | 47037C0254F | 06-MAY-2004 | 04-04-5504A | 02
04 | TN | NASHVILLE & DAVIDSON COUNTY, CITY OF | 47037C0326F | 13-MAY-2004 | 04-04-5792A | 02
04 | TN | NASHVILLE & DAVIDSON COUNTY, CITY OF | 47037C0378F | 13-MAY-2004 | 04-04-5304A | 02
04 | TN | NASHVILLE & DAVIDSON COUNTY, CITY OF | 47037C0114F | 27-MAY-2004 | 04-04-3592A | 02
04 | TN | NASHVILLE & DAVIDSON COUNTY, CITY OF | 47037C0368F | 27-MAY-2004 | 04-04-4890A | 01
04 | TN | NASHVILLE & DAVIDSON COUNTY, CITY OF | 47037C0143F | 09-JUN-2004 | 04-04-092A | 01
04 | TN | NASHVILLE & DAVIDSON COUNTY, CITY OF | 47037C0244F | 21-JUN-2004 | 04-04-6374A | 02
04 | TN | OAK RIDGE, CITY OF | 4754410010D | 25-MAR-2004 | 04-04-4932A | 02
04 | TN | OAK RIDGE, CITY OF | 4754410010D | 10-MAY-2004 | 04-04-3524A | 02
04 | TN | OLIVER SPRINGS, TOWN OF | 4700050001B | 13-MAY-2004 | 04-04-5604A | 02
04 | TN | RED BANK, CITY OF | 47065C0331F | 13-MAY-2004 | 04-04-5132A | 02
04 | TN | RIPLEY, TOWN OF | 4701000004C | 09-JUN-2004 | 04-04-097A | 01
04 | TN | RUTHERFORD COUNTY * | 47149C0040E | 02-JAN-2004 | 04-04-1286A | 02
04 | TN | RUTHERFORD COUNTY * | 47149C0245E | 08-MAR-2004 | 04-04-2664A | 02
04 | TN | RUTHERFORD COUNTY * | 47149C0135E | 18-MAR-2004 | 04-04-2668A | 02
04 | TN | RUTHERFORD COUNTY * | 47149C0130E | 29-MAR-2004 | 04-04-3684A | 02
04 | TN | RUTHERFORD COUNTY * | 47149C0116E | 01-APR-2004 | 04-04-3196A | 01
04 | TN | RUTHERFORD COUNTY * | 47149C0166E | 12-APR-2004 | 04-04-5306A | 02
04 | TN | RUTHERFORD COUNTY * | 47149C0251E | 10-MAY-2004 | 04-04-4250A | 01
04 | TN | RUTHERFORD COUNTY * | 47149C0114E | 17-JUN-2004 | 04-04-6008A | 01
04 | TN | SEVIER COUNTY* | 4702360025B | 29-APR-2004 | 04-04-3168A | 02
04 | TN | SEVIER COUNTY* | 4702360070B | 17-MAY-2004 | 04-04-3642A | 02
04 | TN | SEVIER COUNTY* | 4702360060B | 07-JUN-2004 | 04-04-4334A | 02
04 | TN | SHELBY COUNTY * | 47157C0155E | 12-APR-2004 | 04-04-2420A | 02
04 | TN | SHELBY COUNTY * | 47157C0230E | 15-APR-2004 | 04-04-3950A | 02
04 | TN | SHELBY COUNTY * | 47157C0240E | 06-MAY-2004 | 04-04-2972A | 02
04 | TN | SHELBY COUNTY * | 47157C0105E | 10-MAY-2004 | 04-04-4488A | 02
04 | TN | SHELBY COUNTY* | 47157C0150E | 17-JUN-2004 | 04-04-117A | 02
04 | TN | SHELBYVILLE, CITY OF | 4700080027C | 26-FEB-2004 | 04-04-2526A | 02
04 | TN | SHELBYVILLE, CITY OF | 4700080029C | 02-APR-2004 | 04-04-5008A | 02
04 | TN | SMYRNA, TOWN OF | 47149C0104E | 08-APR-2004 | 04-04-2524A | 02
04 | TN | SODDY-DAISY, CITY OF | 47065C0226F | 05-FEB-2004 | 04-04-1016A | 02
04 | TN | STEWART COUNTY * | 4701800003A | 12-FEB-2004 | 04-04-2344A | 02
04 | TN | SULLIVAN COUNTY * | 4701810030B | 20-MAY-2004 | 04-04-3954A | 02
04 | TN | SUMNER COUNTY* | 47165C0267D | 15-JAN-2004 | 03-04-9264A | 02
04 | TN | TULLAHOMA, CITY OF | 4700360002A | 15-APR-2004 | 04-04-3948A | 02
04 | TN | UNION CITY, CITY OF | 4701420010B | 12-APR-2004 | 04-04-5130A | 02
04 | TN | WASHINGTON COUNTY * | 47179C0030C | 23-APR-2004 | 04-04-2428A | 01
04 | TN | WILLIAMSON COUNTY * | 47187C0030E | 01-MAR-2004 | 04-04-1960A | 02
04 | TN | WILLIAMSON COUNTY * | 47187C0230E | 08-APR-2004 | 04-04-3640A | 02
04 | TN | WILLIAMSON COUNTY * | 47187C0195E | 27-MAY-2004 | 04-04-5134A | 02
04 | TN | WILLIAMSON COUNTY * | 47187C0257E | 10-JUN-2004 | 04-04-6324A | 02
05 | IL | ADDISON, VILLAGE OF | 1701980004C | 25-MAR-2004 | 04-05-2591A | 02
05 | IL | ADDISON, VILLAGE OF | 1701980004C | 29-MAR-2004 | 04-05-2593A | 02
05 | IL | ADDISON, VILLAGE OF | 1701980005C | 29-MAR-2004 | 04-05-2598A | 02
05 | IL | ADDISON, VILLAGE OF | 1701980004C | 24-MAY-2004 | 04-05-2599A | 02
05 | IL | ADDISON, VILLAGE OF | 1701980004C | 08-APR-2004 | 04-05-2600A | 02
05 | IL | ADDISON, VILLAGE OF | 1701980004C | 24-MAY-2004 | 04-05-2601A | 02
05 | IL | ADDISON, VILLAGE OF | 1701980004C | 24-MAY-2004 | 04-05-2602A | 02
05 | IL | ADDISON, VILLAGE OF | 1701980004C | 17-MAY-2004 | 04-05-3212A | 02
05 | IL | ADDISON, VILLAGE OF | 1701980004C | 17-MAY-2004 | 04-05-3214A | 02
05 | IL | ADDISON, VILLAGE OF | 1701980004C | 17-MAY-2004 | 04-05-3215A | 02
05 | IL | ADDISON, VILLAGE OF | 1701980005C | 14-JUN-2004 | 04-05-3233A | 01
05 | IL | ALEXANDER COUNTY | 1708110075B | 05-MAR-2004 | 04-05-1712A | 02
05 | IL | ALGONQUIN, VILLAGE OF | 1704740001B | 11-FEB-2004 | 04-05-1418A | 02
05 | IL | ALGONQUIN, VILLAGE OF | 1704740001B | 07-MAY-2004 | 04-05-2707A | 02
05 | IL | ALGONQUIN, VILLAGE OF | 1707320320C | 28-JUL-2004 | 04-05-3900A | 01
05 | IL | ALGONQUIN, VILLAGE OF | 1707320350E | 28-JUL-2004 | 04-05-3900A | 01
05 | IL | AMBOY, CITY OF | 17103C0115D | 02-JUN-2004 | 04-05-2829A | 02
05 | IL | ANTIOCH, VILLAGE OF | 17097C0026F | 25-FEB-2004 | 04-05-1445A | 02
05 | IL | ANTIOCH, VILLAGE OF | 17097C0026F | 04-FEB-2004 | 04-05-1555A | 02
05 | IL | ANTIOCH, VILLAGE OF | 17097C0026F | 03-MAR-2004 | 04-05-2241A | 02
05 | IL | ANTIOCH, VILLAGE OF | 17097C0028F | 19-MAR-2004 | 04-05-2528A | 02
05 | IL | ARLINGTON HEIGHTS, VILLAGE OF | 17031C0202F | 18-FEB-2004 | 04-05-2034A | 02
05 | IL | ARLINGTON HEIGHTS, VILLAGE OF | 17031C0202F | 24-MAR-2004 | 04-05-2115A | 02
05 | IL | AUBURN, CITY OF | 17167C0520E | 04-MAY-2004 | 04-05-1180V | 19
05 | IL | AUBURN, CITY OF | 17167C0550E | 04-MAY-2004 | 04-05-1180V | 19
05 | IL | AURORA, CITY OF | 1703200015D | 03-FEB-2004 | 03-05-3991P | 05
05 | IL | AURORA, CITY OF | 17089C0341F | 03-FEB-2004 | 03-05-3991P | 05
05 | IL | AURORA, CITY OF | 17089C0342F | 03-FEB-2004 | 03-05-3991P | 05
05 | IL | BATAVIA, CITY OF | 17089C0331F | 14-JAN-2004 | 03-05-3427A | 02
05 | IL | BEACH PARK, VILLAGE OF | 17097C0067G | 15-JUL-2004 | 03-05-4000P | 06
05 | IL | BEACH PARK, VILLAGE OF | 17097C0087G | 16-JUN-2004 | 04-05-3646A | 02
05 | IL | BELLEVILLE, CITY OF | 17163C0213D | 23-JAN-2004 | 04-05-1035A | 01
05 | IL | BELLEVILLE, CITY OF | 17163C0220D | 12-APR-2004 | 04-05-2333P | 05
05 | IL | BELLEVILLE, CITY OF | 17163C0213D | 30-JUN-2004 | 04-05-3767A | 02
05 | IL | BELVIDERE, CITY OF | 1700080003B | 07-MAY-2004 | 04-05-2370A | 01
05 | IL | BLOOMINGDALE, VILLAGE OF | 1702010002B | 26-FEB-2004 | 04-05-1877A | 02
05 | IL | BLOOMINGDALE, VILLAGE OF | 1702010002B | 06-MAY-2004 | 04-05-1883A | 02
05 | IL | BLOOMINGTON, CITY OF | 17113C0482D | 09-JAN-2004 | 04-05-1131A | 17
05 | IL | BLOOMINGTON, CITY OF | 17113C0482D | 05-MAR-2004 | 04-05-2149A | 02
05 | IL | BLOOMINGTON, CITY OF | 17113C0482D | 26-MAY-2004 | 04-05-3425A | 02
05 | IL | BOLINGBROOK, VILLAGE OF | 17197C0045F | 21-JAN-2004 | 03-05-5249A | 17
05 | IL | BOLINGBROOK, VILLAGE OF | 17197C0045F | 27-JUL-2004 | 03-05-5771P | 05
05 | IL | BOLINGBROOK, VILLAGE OF | 17197C0053E | 11-FEB-2004 | 04-05-1150A | 02
05 | IL | BOLINGBROOK, VILLAGE OF | 17197C0045F | 28-JAN-2004 | 04-05-1367A | 01
05 | IL | BOLINGBROOK, VILLAGE OF | 17197C0045F | 06-FEB-2004 | 04-05-1419A | 01
05 | IL | BOLINGBROOK, VILLAGE OF | 17197C0045F | 17-MAR-2004 | 04-05-1838A | 01
05 | IL | BOLINGBROOK, VILLAGE OF | 17197C0045F | 02-JUN-2004 | 04-05-2468A | 17
05 | IL | BOLINGBROOK, VILLAGE OF | 17197C0045F | 04-JUN-2004 | 04-05-2669A | 17
05 | IL | BRADLEY, VILLAGE OF | 1703380038C | 25-FEB-2004 | 04-05-1556A | 02
05 | IL | BRADLEY, VILLAGE OF | 1703380038C | 23-JUN-2004 | 04-05-3662A | 17
05 | IL | BRADLEY, VILLAGE OF | 1703380038C | 23-JUN-2004 | 04-05-3676A | 02
05 | IL | BREESE, CITY OF | 170046_01B | 20-MAY-2004 | 04-05-1885A | 02
05 | IL | BREESE, CITY OF | 17027C0160C | 03-JUN-2004 | 04-05-3205V | 19
05 | IL | BROOKFIELD, VILLAGE OF | 17031C0479F | 30-JUL-2004 | 04-05-3961A | 02
05 | IL | BUFFALO GROVE, VILLAGE OF | 17097C0266G | 30-JAN-2004 | 03-05-1462P | 06
05 | IL | BUFFALO GROVE, VILLAGE OF | 17097C0270G | 30-JAN-2004 | 03-05-1462P | 06
05 | IL | BUREAU COUNTY | 1707290125A | 16-JAN-2004 | 04-05-0025A | 02
05 | IL | BURR RIDGE, VILLAGE OF | 17031C0468F | 14-JUL-2004 | 03-05-1460P | 05
05 | IL | BURR RIDGE, VILLAGE OF | 17031C0469F | 14-JUL-2004 | 03-05-1460P | 05
05 | IL | BYRON, CITY OF | 1705250095A | 19-MAY-2004 | 04-05-3138A | 01
05 | IL | CAHOKIA, VILLAGE OF | 17163C0170D | 05-MAR-2004 | 04-05-1593A | 01
05 | IL | CARBON CLIFF, VILLAGE OF | 17161C0332E | 24-MAR-2004 | 04-05-2479A | 02
05 | IL | CARBONDALE, CITY OF | 1702980010B | 16-JAN-2004 | 04-05-1485A | 02
05 | IL | CARBONDALE, CITY OF | 1702980010B | 16-JUN-2004 | 04-05-3772A | 02
05 | IL | CARLYLE, CITY OF | 170044_14B | 02-FEB-2004 | 04-05-0474A | 02
05 | IL | CARLYLE, CITY OF | 1700470225 | 03-JUN-2004 | 04-05-3204V | 19
05 | IL | CARMI, CITY OF | 1706810005B | 05-MAR-2004 | 04-05-1985A | 02
05 | IL | CAROL STREAM, VILLAGE OF | 1702020005C | 23-FEB-2004 | 04-05-0465A | 02
05 | IL | CARTHAGE,CITY OF | 170269_01B | 13-FEB-2004 | 04-05-1822A | 02
05 | IL | CASEYVILLE, VILLAGE OF | 17163C0043D | 21-APR-2004 | 04-05-2849A | 02
05 | IL | CHAMPAIGN COUNTY | 1708940100C | 21-JAN-2004 | 04-05-1530A | 02
05 | IL | CHAMPAIGN COUNTY | 1708940100C | 27-FEB-2004 | 04-05-1534A | 01
05 | IL | CHAMPAIGN COUNTY | 1708940175B | 18-FEB-2004 | 04-05-1829A | 01
05 | IL | CHAMPAIGN COUNTY | 1708940250B | 02-JUL-2004 | 04-05-3706A | 02
05 | IL | CHAMPAIGN COUNTY | 1708940275B | 07-JUL-2004 | 04-05-3783A | 02
05 | IL | CHAMPAIGN, CITY OF | 1700260010B | 24-MAR-2004 | 04-05-2626A | 02
05 | IL | CHATHAM, VILLAGE OF | 17167C0404E | 04-MAY-2004 | 04-05-1175V | 19
05 | IL | CHATHAM, VILLAGE OF | 17167C0415E | 04-MAY-2004 | 04-05-1175V | 19
05 | IL | CHATHAM, VILLAGE OF | 17167C0420E | 04-MAY-2004 | 04-05-1175V | 19
05 | IL | CHICAGO, CITY OF | 17031C0655F | 28-APR-2004 | 04-05-1968A | 02
05 | IL | CHICAGO, CITY OF | 17031C0670F | 14-JUL-2004 | 04-05-2308A | 01
05 | IL | CHICAGO, CITY OF | 17031C0637F | 23-JUN-2004 | 04-05-2534A | 02
05 | IL | CHRISTIAN COUNTY | 1709260003A | 21-JAN-2004 | 04-05-1438A | 02
05 | IL | CLARENDON HILLS, VILLAGE OF | 1702030001B | 17-FEB-2004 | 04-05-0043A | 02
05 | IL | CLARENDON HILLS, VILLAGE OF | 1702030001B | 22-MAR-2004 | 04-05-1879X | 02
05 | IL | CLAY COUNTY | 1708980006A | 02-JUL-2004 | 04-05-3699A | 02
05 | IL | CLINTON COUNTY* | 170044_19B | 20-JAN-2004 | 04-05-1174A | 02
05 | IL | CLINTON COUNTY* | 170044_11B | 02-FEB-2004 | 04-05-1206A | 02
05 | IL | CLINTON COUNTY* | 170044_30B | 04-MAR-2004 | 04-05-1218A | 02
05 | IL | CLINTON COUNTY* | 170044_24B | 19-FEB-2004 | 04-05-1862A | 02
05 | IL | CLINTON COUNTY* | 170044_24B | 07-JUN-2004 | 04-05-2648A | 02
05 | IL | CLINTON COUNTY* | 17027C0020C | 03-JUN-2004 | 04-05-3203V | 19
05 | IL | CLINTON COUNTY* | 17027C0025C | 03-JUN-2004 | 04-05-3203V | 19
05 | IL | CLINTON COUNTY* | 17027C0050C | 03-JUN-2004 | 04-05-3203V | 19
05 | IL | CLINTON COUNTY* | 17027C0075C | 03-JUN-2004 | 04-05-3203V | 19
05 | IL | CLINTON COUNTY* | 17027C0125C | 03-JUN-2004 | 04-05-3203V | 19
05 | IL | CLINTON COUNTY* | 17027C0150C | 03-JUN-2004 | 04-05-3203V | 19
05 | IL | CLINTON COUNTY* | 17027C0160C | 03-JUN-2004 | 04-05-3203V | 19
05 | IL | CLINTON COUNTY* | 17027C0165C | 03-JUN-2004 | 04-05-3203V | 19
05 | IL | CLINTON COUNTY* | 17027C0170C | 03-JUN-2004 | 04-05-3203V | 19
05 | IL | CLINTON COUNTY* | 17027C0275C | 03-JUN-2004 | 04-05-3203V | 19
05 | IL | CLINTON COUNTY* | 17027C0300C | 03-JUN-2004 | 04-05-3203V | 19
05 | IL | COAL VALLEY, VILLAGE OF | 17161C0329E | 23-JAN-2004 | 04-05-1525A | 02
05 | IL | COLLINSVILLE, CITY OF | 1704390002B | 21-JUL-2004 | 04-05-3932A | 02
05 | IL | COLUMBIA, CITY OF | 1705100035D | 28-APR-2004 | 04-05-2506A | 17
05 | IL | COLUMBIA, CITY OF | 1705100055D | 28-APR-2004 | 04-05-2506A | 17
05 | IL | COOK COUNTY | 17031C0253F | 14-JAN-2004 | 04-05-0319A | 02
05 | IL | COOK COUNTY | 17031C0593F | 19-MAR-2004 | 04-05-0837A | 02
05 | IL | COOK COUNTY | 17031C0682F | 07-APR-2004 | 04-05-1574A | 02
05 | IL | COOK COUNTY | 17031C0169G | 14-MAY-2004 | 04-05-3095A | 02
05 | IL | COOK COUNTY | 17031C0613F | 07-JUL-2004 | 04-05-3573A | 02
05 | IL | COOK COUNTY | 17031C0209F | 16-JUL-2004 | 04-05-3910X | 02
05 | IL | CREST HILL, CITY OF | 17197C0153E | 18-MAR-2004 | 04-05-0753P | 06
05 | IL | CREST HILL, CITY OF | 17197C0155E | 18-MAR-2004 | 04-05-0753P | 06
05 | IL | CRESTWOOD, VILLAGE OF | 17031C0617F | 19-MAY-2004 | 04-05-3292A | 01
05 | IL | CRYSTAL LAKE, CITY OF | 1704760001C | 21-MAY-2004 | 03-05-4441A | 01
05 | IL | CRYSTAL LAKE, CITY OF | 1704760001C | 19-MAY-2004 | 04-05-1005A | 01
05 | IL | CRYSTAL LAKE, CITY OF | 1704760001C | 14-JUN-2004 | 04-05-3669A | 02
05 | IL | CRYSTAL LAKE, CITY OF | 1704760001C | 23-JUN-2004 | 04-05-3794A | 01
05 | IL | CRYSTAL LAKE, CITY OF | 1704760003C | 14-JUL-2004 | 04-05-3863A | 02
05 | IL | DARIEN, CITY OF | 1707500002A | 15-MAR-2004 | 04-05-0062A | 02
05 | IL | DARIEN, CITY OF | 1707500002A | 08-JAN-2004 | 04-05-0464A | 02
05 | IL | DARIEN, CITY OF | 1707500002A | 08-JAN-2004 | 04-05-0507A | 02
05 | IL | DARIEN, CITY OF | 1707500002A | 08-APR-2004 | 04-05-1224A | 17
05 | IL | DARIEN, CITY OF | 1707500002A | 17-FEB-2004 | 04-05-1856A | 02
05 | IL | DARIEN, CITY OF | 1707500002A | 17-JUN-2004 | 04-05-2667A | 02
05 | IL | DARIEN, CITY OF | 1707500002A | 24-MAY-2004 | 04-05-3217A | 02
05 | IL | DE KALB, CITY OF | 17037C0067D | 16-APR-2004 | 04-05-2203A | 02
05 | IL | DECATUR, CITY OF | 1704290005C | 23-JAN-2004 | 04-05-0336A | 17
05 | IL | DECATUR, CITY OF | 1704290005C | 25-FEB-2004 | 04-05-2040A | 02
05 | IL | DECATUR, CITY OF | 1704290015C | 16-JUN-2004 | 04-05-3497A | 02
05 | IL | DEERFIELD, VILLAGE OF | 17097C0289G | 05-APR-2004 | 04-05-0090P | 06
05 | IL | DEERFIELD, VILLAGE OF | 17097C0289G | 14-APR-2004 | 04-05-0626A | 02
05 | IL | DEERFIELD, VILLAGE OF | 17097C0286F | 16-APR-2004 | 04-05-2986A | 02
05 | IL | DES PLAINES, CITY OF | 17031C0219F | 28-JAN-2004 | 04-05-1612A | 02
05 | IL | DIXON, CITY OF | 17103C0018E | 30-JUN-2004 | 04-05-3733A | 02
05 | IL | DOLTON, VILLAGE OF | 17031C0752F | 28-JUL-2004 | 04-05-3857A | 02
05 | IL | DOWNERS GROVE, VILLAGE OF | 1702040006C | 29-JAN-2004 | 04-05-0482A | 02
05 | IL | DOWNS, VILLAGE OF | 17113C0550D | 18-FEB-2004 | 04-05-1291A | 02
05 | IL | DU PAGE COUNTY* | 1701970045B | 22-JAN-2004 | 03-05-4141A | 02
05 | IL | DU PAGE COUNTY* | 1701970025B | 19-FEB-2004 | 03-05-4656A | 02
05 | IL | DU PAGE COUNTY* | 1701970020B | 09-APR-2004 | 04-05-039P | 05
05 | IL | DU PAGE COUNTY* | 1701970055B | 08-JAN-2004 | 04-05-0472A | 02
05 | IL | DU PAGE COUNTY* | 1701970045B | 26-JAN-2004 | 04-05-0479A | 02
05 | IL | DU PAGE COUNTY* | 1701970060B | 08-JAN-2004 | 04-05-1186A | 02
05 | IL | DU PAGE COUNTY* | 1701970045B | 15-JAN-2004 | 04-05-1196A | 02
05 | IL | DU PAGE COUNTY* | 1701970045B | 20-JAN-2004 | 04-05-1201A | 02
05 | IL | DU PAGE COUNTY* | 1701970030D | 17-FEB-2004 | 04-05-1860A | 02
05 | IL | DU PAGE COUNTY* | 1701970030D | 23-FEB-2004 | 04-05-1866A | 02
05 | IL | DU PAGE COUNTY* | 1701970035B | 19-FEB-2004 | 04-05-1867A | 02
05 | IL | DU PAGE COUNTY* | 1701970060B | 03-MAY-2004 | 04-05-1890A | 02
05 | IL | DU PAGE COUNTY* | 1701970055B | 21-JUN-2004 | 04-05-3192A | 02
05 | IL | DU PAGE COUNTY* | 1701970030D | 21-JUN-2004 | 04-05-3196A | 02
05 | IL | DU PAGE COUNTY* | 1701970060B | 07-JUN-2004 | 04-05-3218A | 02
05 | IL | DU PAGE COUNTY* | 1701970045B | 01-JUN-2004 | 04-05-3223A | 02
05 | IL | EAST DUNDEE, VILLAGE OF | 17089C0157F | 09-APR-2004 | 04-05-1091A | 02
05 | IL | EAST DUNDEE, VILLAGE OF | 17089C0157F | 09-JAN-2004 | 04-05-1361X | 02
05 | IL | EFFINGHAM COUNTY | 1702270001A | 17-MAR-2004 | 04-05-2361A | 02
05 | IL | ELGIN, CITY OF | 17031C0162F | 30-JUN-2004 | 04-05-3421A | 02
05 | IL | ELK GROVE VILLAGE, VILLAGE OF | 17031C0214F | 14-JAN-2004 | 03-05-4471A | 17
05 | IL | ELMHURST, CITY OF | 1702050004C | 17-MAY-2004 | 04-05-3213A | 02
05 | IL | ERIE, VILLAGE OF | 1706890001D | 12-MAR-2004 | 04-05-2231A | 02
05 | IL | FLOSSMOOR, VILLAGE OF | 17031C0743F | 12-MAY-2004 | 04-05-3171A | 02
05 | IL | FLOSSMOOR, VILLAGE OF | 17031C0741F | 14-JUL-2004 | 04-05-3901A | 02
05 | IL | FOX LAKE, VILLAGE OF | 17097C0110H | 04-MAY-2004 | 03-05-3984P | 06
05 | IL | FOX LAKE, VILLAGE OF | 17097C0020F | 18-FEB-2004 | 04-05-1228A | 02
05 | IL | FOX LAKE, VILLAGE OF | 17097C0020F | 27-FEB-2004 | 04-05-1760A | 02
05 | IL | FOX LAKE, VILLAGE OF | 17097C0020F | 25-FEB-2004 | 04-05-2018A | 02
05 | IL | FOX LAKE, VILLAGE OF | 17097C0020F | 27-FEB-2004 | 04-05-2169A | 02
05 | IL | FOX LAKE, VILLAGE OF | 17097C0020F | 07-APR-2004 | 04-05-2584A | 02
05 | IL | FOX LAKE, VILLAGE OF | 17097C0020F | 05-MAY-2004 | 04-05-3268A | 02
05 | IL | FOX LAKE, VILLAGE OF | 17097C0020F | 21-JUL-2004 | 04-05-3685A | 02
05 | IL | FOX RIVER GROVE, VILLAGE OF | 1704770001B | 06-FEB-2004 | 04-05-1799A | 02
05 | IL | FOX RIVER GROVE, VILLAGE OF | 1704770001B | 24-MAR-2004 | 04-05-2551A | 02
05 | IL | FRANKFORT, VILLAGE OF | 17197C0331E | 12-FEB-2004 | 03-05-3386P | 06
05 | IL | FRANKFORT, VILLAGE OF | 17197C0327E | 04-MAY-2004 | 04-05-0084P | 05
05 | IL | FRANKFORT, VILLAGE OF | 17197C0331E | 04-MAY-2004 | 04-05-0084P | 05
05 | IL | FRANKFORT, VILLAGE OF | 17197C0310E | 29-JUN-2004 | 04-05-0768P | 05
05 | IL | FRANKLIN COUNTY | 1708990005B | 23-JUN-2004 | 04-05-3745A | 02
05 | IL | GENOA, CITY OF | 17037C0009D | 04-FEB-2004 | 04-05-0249A | 02
05 | IL | GERMANTOWN, VILLAGE OF | 17027C0160C | 17-MAY-2004 | 04-05-1173A | 02
05 | IL | GERMANTOWN, VILLAGE OF | 17027C0160C | 03-JUN-2004 | 04-05-3202V | 19
05 | IL | GLEN ELLYN, VILLAGE OF | 1702070005C | 15-APR-2004 | 04-05-1869A | 02
05 | IL | GLEN ELLYN, VILLAGE OF | 1702070005C | 23-JUL-2004 | 04-05-4163A | 02
05 | IL | GRANITE CITY, CITY OF | 1704360115B | 16-JUN-2004 | 04-05-3488A | 01
05 | IL | GRAYSLAKE, VILLAGE OF | 17097C0132G | 18-JUN-2004 | 04-05-3603A | 02
05 | IL | GRUNDY COUNTY | 1702560045C | 04-FEB-2004 | 04-05-0334A | 02
05 | IL | GRUNDY COUNTY | 1702560040C | 27-FEB-2004 | 04-05-0529A | 02
05 | IL | GRUNDY COUNTY | 1702560040C | 21-JAN-2004 | 04-05-0547A | 17
05 | IL | HAMPTON, VILLAGE OF | 17161C0135E | 23-JUN-2004 | 04-05-3670A | 02
05 | IL | HANOVER PARK, VILLAGE OF | 1700990005B | 26-JAN-2004 | 04-05-0466A | 02
05 | IL | HANOVER PARK, VILLAGE OF | 17031C0169G | 05-FEB-2004 | 04-05-1220V | 19
05 | IL | HANOVER PARK, VILLAGE OF | 17031C0307G | 17-JUN-2004 | 04-05-3198A | 02
05 | IL | HANOVER PARK, VILLAGE OF | 17031C0307G | 04-JUN-2004 | 04-05-3547A | 17
05 | IL | HANOVER PARK, VILLAGE OF | 17031C0169G | 21-JUL-2004 | 04-05-3840A | 02
05 | IL | HARVEY, CITY OF | 17031C0731F | 31-MAR-2004 | 04-05-2157A | 02
05 | IL | HENRY COUNTY | 1707390150B | 05-MAY-2004 | 04-05-2837A | 02
05 | IL | HENRY COUNTY | 1707390025B | 28-JUL-2004 | 04-05-4125A | 02
05 | IL | HICKORY HILLS, CITY OF | 17031C0602F | 03-MAR-2004 | 04-05-2253A | 02
05 | IL | HIGHLAND PARK, CITY OF | 17097C0279F | 09-JAN-2004 | 04-05-0380A | 02
05 | IL | HIGHLAND PARK, CITY OF | 17097C0279F | 16-APR-2004 | 04-05-2957A | 02
05 | IL | HIGHLAND PARK, CITY OF | 17097C0279F | 09-JUN-2004 | 04-05-3483A | 02
05 | IL | HINSDALE, VILLAGE OF | 1701050003B | 03-JUN-2004 | 04-05-3231A | 02
05 | IL | HOFFMAN ESTATES, VILLAGE OF | 17031C0187F | 31-MAR-2004 | 04-05-2153A | 02
05 | IL | HOLIDAY HILLS, VILLAGE OF | 1709360001B | 18-JUN-2004 | 04-05-3599A | 02
05 | IL | HOLIDAY HILLS, VILLAGE OF | 1709360001B | 02-JUN-2004 | 04-05-3600A | 02
05 | IL | HOLIDAY HILLS, VILLAGE OF | 1709360001B | 21-JUL-2004 | 04-05-3926A | 02
05 | IL | IROQUOIS COUNTY | 17075C0200D | 21-APR-2004 | 04-05-0541A | 02
05 | IL | IROQUOIS COUNTY | 17075C0150D | 18-FEB-2004 | 04-05-1608A | 02
05 | IL | IROQUOIS COUNTY | 17075C0035D | 25-FEB-2004 | 04-05-2124A | 02
05 | IL | IROQUOIS COUNTY | 17075C0110D | 28-APR-2004 | 04-05-2399A | 02
05 | IL | IROQUOIS COUNTY | 17075C0040D | 16-APR-2004 | 04-05-2732A | 02
05 | IL | IROQUOIS COUNTY | 17075C0105D | 16-APR-2004 | 04-05-2732A | 02
05 | IL | IROQUOIS COUNTY | 17075C0035D | 30-APR-2004 | 04-05-3077A | 02
05 | IL | IROQUOIS COUNTY | 17075C0105D | 02-JUL-2004 | 04-05-3895A | 02
05 | IL | ISLAND LAKE, VILLAGE OF | 1703700001B | 20-FEB-2004 | 04-05-1927A | 02
05 | IL | ISLAND LAKE, VILLAGE OF | 1703700001B | 27-FEB-2004 | 04-05-2112A | 02
05 | IL | JEROME, VILLAGE OF | 17167C0243E | 04-MAY-2004 | 04-05-1181V | 19
05 | IL | JERSEY COUNTY | 1703120125B | 12-MAY-2004 | 04-05-3357A | 02
05 | IL | JOLIET, CITY OF | 17197C0130E | 04-FEB-2004 | 04-05-1165A | 02
05 | IL | JOLIET, CITY OF | 17197C0144E | 30-JAN-2004 | 04-05-1680A | 02
05 | IL | JOLIET, CITY OF | 17197C0161E | 24-MAR-2004 | 04-05-1718A | 17
05 | IL | JOLIET, CITY OF | 17197C0141F | 18-JUN-2004 | 04-05-2272A | 02
05 | IL | JOLIET, CITY OF | 17197C0144E | 28-APR-2004 | 04-05-2767A | 02
05 | IL | JOLIET, CITY OF | 17197C0144E | 30-JUL-2004 | 04-05-3808A | 02
05 | IL | KANE COUNTY | 17089C0233F | 14-JUN-2004 | 03-05-3385P | 05
05 | IL | KANE COUNTY | 17089C0241F | 14-JUN-2004 | 03-05-3385P | 05
05 | IL | KANE COUNTY | 17089C0139F | 03-MAR-2004 | 04-05-0395A | 02
05 | IL | KANE COUNTY | 17089C0333F | 14-JAN-2004 | 04-05-1278A | 02
05 | IL | KANE COUNTY | 17089C0385F | 18-FEB-2004 | 04-05-1688A | 02
05 | IL | KANE COUNTY | 17089C0232F | 23-APR-2004 | 04-05-2637A | 01
05 | IL | KANE COUNTY | 17089C0326F | 02-APR-2004 | 04-05-2751A | 02
05 | IL | KANE COUNTY | 17089C0334F | 23-JUN-2004 | 04-05-3148A | 02
05 | IL | KANE COUNTY | 17089C0342F | 23-JUN-2004 | 04-05-3148A | 02
05 | IL | KANE COUNTY | 17089C0261F | 16-JUN-2004 | 04-05-3164A | 02
05 | IL | KANKAKEE COUNTY | 1703360170C | 09-APR-2004 | 03-05-5663A | 02
05 | IL | KANKAKEE COUNTY | 1703360185C | 23-JAN-2004 | 04-05-1158A | 17
05 | IL | KANKAKEE COUNTY | 1703360170C | 02-JUL-2004 | 04-05-2729A | 17
05 | IL | KANKAKEE COUNTY | 1703360155B | 07-APR-2004 | 04-05-2803A | 02
05 | IL | KANKAKEE COUNTY | 1703360190C | 30-JUN-2004 | 04-05-3363A | 02
05 | IL | KANKAKEE COUNTY | 1703360190C | 28-MAY-2004 | 04-05-3426A | 02
05 | IL | KANKAKEE COUNTY | 1703360185C | 26-MAY-2004 | 04-05-3572A | 02
05 | IL | KANKAKEE COUNTY | 1703360180C | 23-JUN-2004 | 04-05-3734A | 02
05 | IL | KANKAKEE COUNTY | 1703360185C | 23-JUN-2004 | 04-05-3763A | 02
05 | IL | KEITHSBURG, CITY OF | 1705080005E | 03-MAR-2004 | 04-05-1335A | 02
05 | IL | KEITHSBURG, CITY OF | 1705080005E | 21-MAY-2004 | 04-05-3477A | 02
05 | IL | KEITHSBURG, CITY OF | 1705080005E | 30-JUN-2004 | 04-05-3748X | 02
05 | IL | LA SALLE COUNTY | 17099C0275E | 16-JAN-2004 | 04-05-1354A | 02
05 | IL | LAKE COUNTY | 17097C0153F | 04-FEB-2004 | 04-05-0675A | 02
05 | IL | LAKE COUNTY | 17097C0155G | 04-FEB-2004 | 04-05-0675A | 02
05 | IL | LAKE COUNTY | 17097C0010F | 28-JAN-2004 | 04-05-1041A | 02
05 | IL | LAKE COUNTY | 17097C0010F | 07-JAN-2004 | 04-05-1370A | 02
05 | IL | LAKE COUNTY | 17097C0019F | 09-JAN-2004 | 04-05-1466A | 02
05 | IL | LAKE COUNTY | 17097C0026F | 06-FEB-2004 | 04-05-1567A | 02
05 | IL | LAKE COUNTY | 17097C0010F | 13-FEB-2004 | 04-05-1780A | 02
05 | IL | LAKE COUNTY | 17097C0205F | 20-FEB-2004 | 04-05-1955A | 02
05 | IL | LAKE COUNTY | 17097C0266G | 02-JUN-2004 | 04-05-2072A | 02
05 | IL | LAKE COUNTY | 17097C0105H | 28-APR-2004 | 04-05-2089A | 02
05 | IL | LAKE COUNTY | 17097C0028F | 24-MAR-2004 | 04-05-2177A | 02
05 | IL | LAKE COUNTY | 17097C0126F | 03-MAR-2004 | 04-05-2292A | 02
05 | IL | LAKE COUNTY | 17097C0010F | 26-MAR-2004 | 04-05-2501A | 02
05 | IL | LAKE COUNTY | 17097C0118F | 31-MAR-2004 | 04-05-2507A | 02
05 | IL | LAKE COUNTY | 17097C0010F | 07-APR-2004 | 04-05-2549A | 02
05 | IL | LAKE COUNTY | 17097C0020F | 24-MAR-2004 | 04-05-2630A | 02
05 | IL | LAKE COUNTY | 17097C0105H | 07-APR-2004 | 04-05-2680A | 02
05 | IL | LAKE COUNTY | 17097C0020F | 28-MAY-2004 | 04-05-2755A | 02
05 | IL | LAKE COUNTY | 17097C0028F | 28-APR-2004 | 04-05-2759A | 02
05 | IL | LAKE COUNTY | 17097C0076F | 02-JUN-2004 | 04-05-2940A | 02
05 | IL | LAKE COUNTY | 17097C0038F | 23-APR-2004 | 04-05-2942A | 02
05 | IL | LAKE COUNTY | 17097C0010F | 12-MAY-2004 | 04-05-3273A | 02
05 | IL | LAKE COUNTY | 17097C0028F | 19-MAY-2004 | 04-05-3474A | 02
05 | IL | LAKE COUNTY | 17097C0266G | 18-JUN-2004 | 04-05-3693A | 02
05 | IL | LAKE COUNTY | 17097C0110H | 09-JUL-2004 | 04-05-3966A | 02
05 | IL | LAKE COUNTY | 17097C0010F | 28-JUL-2004 | 04-05-4159A | 02
05 | IL | LAKE FOREST, CITY OF | 17097C0277F | 19-MAY-2004 | 04-05-3352A | 02
05 | IL | LAKE VILLA, VILLAGE OF | 17097C0037F | 02-JUL-2004 | 04-05-3754A | 02
05 | IL | LAKEMOOR, VILLAGE OF | 1707320230B | 23-JUL-2004 | 04-05-2808A | 01
05 | IL | LANSING, VILLAGE OF | 17031C0759F | 07-JAN-2004 | 04-05-0639A | 02
05 | IL | LAWRENCE COUNTY | 1704090020B | 30-JUL-2004 | 04-05-3853A | 01
05 | IL | LEE COUNTY | 17103C0150D | 23-JAN-2004 | 04-05-0294A | 02
05 | IL | LELAND GROVE, CITY OF | 17167C0241E | 04-MAY-2004 | 04-05-1179V | 19
05 | IL | LIBERTYVILLE, VILLAGE OF | 17097C0164G | 14-JAN-2004 | 04-05-0910A | 17
05 | IL | LIBERTYVILLE, VILLAGE OF | 17097C0164G | 09-APR-2004 | 04-05-2051A | 01
05 | IL | LINCOLNSHIRE, VILLAGE OF | 17097C0258G | 28-MAY-2004 | 04-05-2457A | 02
05 | IL | LISLE, VILLAGE OF | 1702110005B | 24-MAY-2004 | 04-05-2589A | 02
05 | IL | LIVINGSTON COUNTY | 1709290009A | 02-APR-2004 | 04-05-2523A | 02
05 | IL | LOCKPORT, CITY OF | 17197C0158E | 28-MAY-2004 | 04-05-3155A | 02
05 | IL | LOMBARD, VILLAGE OF | 1701970045B | 29-MAR-2004 | 04-05-1190A | 02
05 | IL | LONG GROVE, VILLAGE OF | 17097C0253F | 21-JAN-2004 | 03-05-5533A | 02
05 | IL | LYNWOOD, VILLAGE OF | 17031C0768F | 28-JAN-2004 | 04-05-1169A | 02
05 | IL | MACHESNEY PARK, VILLAGE OF | 1710090005A | 07-JAN-2004 | 04-05-1372A | 02
05 | IL | MACHESNEY PARK, VILLAGE OF | 1710090005A | 09-APR-2004 | 04-05-2671A | 02
05 | IL | MACHESNEY PARK, VILLAGE OF | 1710090005A | 05-MAY-2004 | 04-05-3153A | 02
05 | IL | MADISON COUNTY | 1704360055B | 17-MAR-2004 | 04-05-1967A | 02
05 | IL | MADISON COUNTY | 1704360120B | 17-MAR-2004 | 04-05-2073A | 01
05 | IL | MADISON COUNTY | 1704360090B | 14-JUL-2004 | 04-05-2843A | 02
05 | IL | MADISON COUNTY | 1704360115B | 16-JUN-2004 | 04-05-2939A | 01
05 | IL | MADISON COUNTY | 1704360120B | 25-JUN-2004 | 04-05-3738A | 02
05 | IL | MANHATTAN, VILLAGE OF | 17197C0295E | 29-JUL-2004 | 04-05-0099P | 06
05 | IL | MANHATTAN, VILLAGE OF | 17197C0311E | 29-JUL-2004 | 04-05-0099P | 06
05 | IL | MANHATTAN, VILLAGE OF | 17197C0311E | 17-MAR-2004 | 04-05-2046A | 02
05 | IL | MANHATTAN, VILLAGE OF | 17197C0311E | 16-APR-2004 | 04-05-2709A | 02
05 | IL | MANHATTAN, VILLAGE OF | 17197C0311E | 16-JUL-2004 | 04-05-3169A | 02
05 | IL | MAPLE PARK, VILLAGE OF | 17037C0090D | 24-JUN-2004 | 03-05-3994P | 05
05 | IL | MAPLE PARK, VILLAGE OF | 17089C0225F | 24-JUN-2004 | 03-05-3994P | 05
05 | IL | MARION, CITY OF | 1707190002B | 21-MAY-2004 | 04-05-3439A | 02
05 | IL | MARSHALL COUNTY | 1709940025B | 18-JUN-2004 | 04-05-3492A | 02
05 | IL | MASON COUNTY | 1704630175B | 24-MAR-2004 | 04-05-2580A | 02
05 | IL | MATTESON, VILLAGE OF | 17031C0738F | 14-JUL-2004 | 04-05-3520A | 01
05 | IL | MCHENRY COUNTY | 1707320115B | 14-JAN-2004 | 03-05-5702A | 17
05 | IL | MCHENRY COUNTY | 1707320240B | 02-APR-2004 | 04-05-0287A | 02
05 | IL | MCHENRY COUNTY | 1707320025B | 14-JAN-2004 | 04-05-1353A | 02
05 | IL | MCHENRY COUNTY | 1707320230B | 11-FEB-2004 | 04-05-1379A | 02
05 | IL | MCHENRY COUNTY | 1707320115B | 23-JAN-2004 | 04-05-1560A | 02
05 | IL | MCHENRY COUNTY | 1707320240B | 25-FEB-2004 | 04-05-1827A | 02
05 | IL | MCHENRY COUNTY | 1707320115B | 11-FEB-2004 | 04-05-1959X | 02
05 | IL | MCHENRY COUNTY | 1707320230B | 28-APR-2004 | 04-05-1993A | 02
05 | IL | MCHENRY COUNTY | 1707320080B | 04-JUN-2004 | 04-05-3178A | 02
05 | IL | MCHENRY COUNTY | 1707320085C | 04-JUN-2004 | 04-05-3178A | 02
05 | IL | MCHENRY COUNTY | 1707320115B | 14-JUL-2004 | 04-05-3792A | 02
05 | IL | MCHENRY COUNTY | 1707320115B | 23-JUL-2004 | 04-05-3847A | 02
05 | IL | MCHENRY COUNTY | 1707320240B | 21-JUL-2004 | 04-05-4001A | 02
05 | IL | MCHENRY, CITY OF | 1704830003D | 14-JAN-2004 | 04-05-0173A | 02
05 | IL | MCHENRY, CITY OF | 1704830003D | 16-APR-2004 | 04-05-0686A | 02
05 | IL | MCHENRY, CITY OF | 1704830003D | 27-FEB-2004 | 04-05-1812A | 02
05 | IL | MCLEAN COUNTY | 17113C0350D | 14-JAN-2004 | 03-05-5022A | 02
05 | IL | MCLEAN COUNTY | 17113C0314D | 10-MAR-2004 | 04-05-0560A | 02
05 | IL | MCLEAN COUNTY | 17113C0314D | 03-MAR-2004 | 04-05-1721A | 02
05 | IL | MCLEAN COUNTY | 17113C0475D | 26-MAR-2004 | 04-05-2505A | 02
05 | IL | MIDLOTHIAN, VILLAGE OF | 17031C0638F | 27-FEB-2004 | 04-05-1690A | 02
05 | IL | MIDLOTHIAN, VILLAGE OF | 17031C0639F | 18-FEB-2004 | 04-05-2041A | 02
05 | IL | MIDLOTHIAN, VILLAGE OF | 17031C0726F | 02-JUN-2004 | 04-05-3187A | 02
05 | IL | MOLINE, CITY OF | 17161C0328E | 30-JAN-2004 | 04-05-0215A | 01
05 | IL | MOLINE, CITY OF | 17161C0140E | 28-JUL-2004 | 04-05-3879A | 01
05 | IL | MONROE COUNTY | 1705090175D | 11-FEB-2004 | 04-05-1793A | 02
05 | IL | MONROE COUNTY | 1705090175D | 07-JUL-2004 | 04-05-2705A | 02
05 | IL | MOUNT PROSPECT, VILLAGE OF | 17031C0212F | 09-JAN-2004 | 03-05-5417A | 02
05 | IL | MOUNT PROSPECT, VILLAGE OF | 17031C0212F | 28-JAN-2004 | 04-05-0179A | 17
05 | IL | MOUNT PROSPECT, VILLAGE OF | 17031C0212F | 30-JAN-2004 | 04-05-0532A | 17
05 | IL | MOUNT PROSPECT, VILLAGE OF | 17031C0212F | 21-JAN-2004 | 04-05-0950A | 17
05 | IL | MOUNT PROSPECT, VILLAGE OF | 17031C0212F | 23-JAN-2004 | 04-05-1040A | 17
05 | IL | MOUNT PROSPECT, VILLAGE OF | 17031C0216F | 24-MAR-2004 | 04-05-1401A | 17
05 | IL | MOUNT PROSPECT, VILLAGE OF | 17031C0209F | 30-APR-2004 | 04-05-2502A | 02
05 | IL | MOUNT PROSPECT, VILLAGE OF | 17031C0212F | 14-MAY-2004 | 04-05-2801A | 02
05 | IL | MOUNT PROSPECT, VILLAGE OF | 17031C0216F | 09-JUL-2004 | 04-05-3793A | 02
05 | IL | NAPERVILLE, CITY OF | 1702130021C | 18-FEB-2004 | 03-05-5170P | 06
05 | IL | NAPERVILLE, CITY OF | 17197C0033F | 18-FEB-2004 | 03-05-5170P | 06
05 | IL | NEW ATHENS, VILLAGE OF | 17163C0455D | 01-MAR-2004 | 04-05-0883P | 06
05 | IL | NEW ATHENS, VILLAGE OF | 17163C0455D | 28-APR-2004 | 04-05-2427A | 02
05 | IL | NORMAL, TOWN OF | 17113C0482D | 14-JAN-2004 | 04-05-1503A | 02
05 | IL | NORMAL, TOWN OF | 17113C0314D | 30-APR-2004 | 04-05-2747A | 17
05 | IL | NORTHFIELD, VILLAGE OF | 17031C0232F | 27-FEB-2004 | 04-05-0010A | 02
05 | IL | NORTHFIELD, VILLAGE OF | 17031C0232F | 21-MAY-2004 | 04-05-3350A | 02
05 | IL | NORTHFIELD, VILLAGE OF | 17031C0232F | 16-JUN-2004 | 04-05-3626A | 02
05 | IL | NORTHLAKE, CITY OF | 17031C0367F | 07-JUN-2004 | 04-05-3226A | 02
05 | IL | OAK BROOK, VILLAGE OF | 1702140002B | 22-JAN-2004 | 04-05-0503A | 02
05 | IL | OAK FOREST, CITY OF | 17031C0707F | 23-JAN-2004 | 04-05-1609A | 02
05 | IL | OAK FOREST, CITY OF | 17031C0707F | 02-JUN-2004 | 04-05-3586A | 02
05 | IL | OFALLON, CITY OF | 17163C0206D | 14-MAY-2004 | 04-05-2329P | 06
05 | IL | OFALLON, CITY OF | 17163C0210D | 14-MAY-2004 | 04-05-2329P | 06
05 | IL | OFALLON, CITY OF | 17163C0230D | 21-JUL-2004 | 04-05-2821A | 02
05 | IL | OFALLON, CITY OF | 17163C0205D | 28-MAY-2004 | 04-05-3345A | 02
05 | IL | OFALLON, CITY OF | 17163C0210D | 28-JUL-2004 | 04-05-3922A | 02
05 | IL | OGLE COUNTY | 1705250075A | 06-FEB-2004 | 04-05-0721A | 02
05 | IL | OGLE COUNTY | 1705250425A | 09-JUL-2004 | 04-05-3258A | 02
05 | IL | OGLE COUNTY | 1705250235A | 23-JUN-2004 | 04-05-3323A | 17
05 | IL | OGLE COUNTY | 1705250235A | 23-JUN-2004 | 04-05-3721A | 02
05 | IL | OLNEY, CITY OF | 170581_01D | 12-MAR-2004 | 04-05-1998A | 02
05 | IL | OREGON, CITY OF | 1705300001C | 24-MAR-2004 | 04-05-2581A | 02
05 | IL | ORLAND PARK, VILLAGE OF | 17031C0613F | 28-JAN-2004 | 03-05-4951A | 02
05 | IL | ORLAND PARK, VILLAGE OF | 17031C0613F | 11-FEB-2004 | 04-05-1311A | 01
05 | IL | ORLAND PARK, VILLAGE OF | 17031C0593F | 05-MAR-2004 | 04-05-2215A | 17
05 | IL | ORLAND PARK, VILLAGE OF | 17031C0594F | 05-MAR-2004 | 04-05-2215A | 17
05 | IL | ORLAND PARK, VILLAGE OF | 17031C0703F | 23-APR-2004 | 04-05-2556A | 02
05 | IL | ORLAND PARK, VILLAGE OF | 17031C0703F | 05-MAY-2004 | 04-05-2670A | 01
05 | IL | PALATINE, VILLAGE OF | 17031C0044F | 14-JAN-2004 | 04-05-0940A | 17
05 | IL | PALATINE, VILLAGE OF | 17031C0044F | 11-FEB-2004 | 04-05-0954A | 17
05 | IL | PALATINE, VILLAGE OF | 17031C0044F | 09-APR-2004 | 04-05-1689A | 17
05 | IL | PALATINE, VILLAGE OF | 17031C0044F | 05-MAY-2004 | 04-05-2371A | 17
05 | IL | PALOS HEIGHTS, CITY OF | 17031C0616F | 16-JAN-2004 | 03-05-4173A | 17
05 | IL | PALOS HILLS, CITY OF | 17031C0604F | 06-FEB-2004 | 04-05-1572A | 02
05 | IL | PALOS HILLS, CITY OF | 17031C0604F | 03-MAR-2004 | 04-05-1701A | 01
05 | IL | PARK CITY, CITY OF | 17097C0157G | 22-JUN-2004 | 03-05-4393A | 02
05 | IL | PEORIA COUNTY | 1705330175B | 17-MAR-2004 | 04-05-2431A | 02
05 | IL | PEORIA COUNTY | 1705330175B | 30-JUN-2004 | 04-05-3287A | 02
05 | IL | PEORIA COUNTY | 1705330175B | 21-JUL-2004 | 04-05-3359A | 02
05 | IL | PEORIA COUNTY | 1705330075B | 30-JUL-2004 | 04-05-3997A | 02
05 | IL | PEOTONE, VILLAGE OF | 17197C0500E | 23-JUN-2004 | 04-05-3776A | 02
05 | IL | PIATT COUNTY | 1705420004B | 24-MAR-2004 | 04-05-0982A | 02
05 | IL | PIATT COUNTY | 1705420004B | 30-APR-2004 | 04-05-2464A | 01
05 | IL | PIATT COUNTY | 1705420004B | 23-JUN-2004 | 04-05-3168A | 02
05 | IL | PIKE COUNTY | 1705510075B | 10-MAR-2004 | 03-05-5163P | 06
05 | IL | PIKE COUNTY | 1705510100B | 10-MAR-2004 | 03-05-5163P | 06
05 | IL | PIKE COUNTY | 1705510175B | 10-MAR-2004 | 03-05-5163P | 06
05 | IL | PIKE COUNTY | 1705510200B | 10-MAR-2004 | 03-05-5163P | 06
05 | IL | PIKE COUNTY | 1705510275B | 10-MAR-2004 | 03-05-5163P | 06
05 | IL | PIKE COUNTY | 1705510300B | 10-MAR-2004 | 03-05-5163P | 06
05 | IL | PLAINFIELD, VILLAGE OF | 17197C0036E | 05-JAN-2004 | 03-05-3973P | 05
05 | IL | PLAINFIELD, VILLAGE OF | 17197C0045F | 05-MAR-2004 | 04-05-0088P | 05
05 | IL | PLAINFIELD, VILLAGE OF | 17197C0038E | 27-FEB-2004 | 04-05-0132A | 01
05 | IL | PLAINFIELD, VILLAGE OF | 17197C0045F | 11-FEB-2004 | 04-05-0349A | 01
05 | IL | PLAINFIELD, VILLAGE OF | 17197C0036E | 12-JUL-2004 | 04-05-1634P | 05
05 | IL | PLAINFIELD, VILLAGE OF | 17197C0130E | 07-MAY-2004 | 04-05-2210A | 01
05 | IL | PLAINFIELD, VILLAGE OF | 17197C0045F | 16-JUL-2004 | 04-05-3328A | 02
05 | IL | PONTIAC, CITY OF | 1704260001C | 11-FEB-2004 | 04-05-1790A | 02
05 | IL | PONTIAC, CITY OF | 1704260001C | 03-MAR-2004 | 04-05-2195A | 02
05 | IL | PONTOON BEACH, VILLAGE OF | 1704360120B | 16-JAN-2004 | 04-05-1508X | 02
05 | IL | PONTOON BEACH, VILLAGE OF | 1704470001B | 30-JUL-2004 | 04-05-4089A | 02
05 | IL | POSEN, VILLAGE OF | 17031C0643F | 28-APR-2004 | 04-05-2859A | 02
05 | IL | PRAIRIE DU ROCHER, VILLAGE OF | 1705780001C | 13-MAY-2004 | 03-05-4001P | 06
05 | IL | PROSPECT HEIGHTS, CITY OF | 17031C0208F | 25-FEB-2004 | 04-05-1589A | 02
05 | IL | PROSPECT HEIGHTS, CITY OF | 17031C0206F | 12-MAY-2004 | 04-05-3115A | 02
05 | IL | PULASKI COUNTY | 1705620025A | 19-MAR-2004 | 04-05-2145A | 02
05 | IL | QUINCY, CITY OF | 1700030020B | 09-APR-2004 | 04-05-2158A | 02
05 | IL | QUINCY, CITY OF | 1700030020B | 17-MAR-2004 | 04-05-2483A | 02
05 | IL | QUINCY, CITY OF | 1700010160C | 26-MAR-2004 | 04-05-2573A | 02
05 | IL | RIVERTON, VILLAGE OF | 17167C0260E | 04-MAY-2004 | 04-05-1176V | 19
05 | IL | ROCK ISLAND COUNTY | 17161C0145E | 20-FEB-2004 | 04-05-1830A | 02
05 | IL | ROCK ISLAND COUNTY | 17161C0175E | 12-MAR-2004 | 04-05-2268A | 02
05 | IL | ROCK ISLAND COUNTY | 17161C0275E | 04-JUN-2004 | 04-05-3427A | 02
05 | IL | ROCK ISLAND, CITY OF | 17161C0115E | 25-FEB-2004 | 04-05-2092A | 02
05 | IL | ROCKFORD, CITY OF | 1707230013B | 23-JUL-2004 | 04-05-3927A | 02
05 | IL | ROUND LAKE BEACH, VILLAGE OF | 17097C0126F | 03-MAR-2004 | 04-05-2088A | 02
05 | IL | ROUND LAKE BEACH, VILLAGE OF | 17097C0126F | 05-MAR-2004 | 04-05-2122A | 02
05 | IL | ROUND LAKE PARK, VILLAGE OF | 17097C0129F | 17-MAR-2004 | 04-05-1585A | 02
05 | IL | ROUND LAKE, VILLAGE OF | 17097C0128F | 04-JUN-2004 | 04-05-3368A | 01
05 | IL | ROUND LAKE, VILLAGE OF | 17097C0129F | 04-JUN-2004 | 04-05-3368A | 01
05 | IL | ROUND LAKE, VILLAGE OF | 17097C0137F | 04-JUN-2004 | 04-05-3368A | 01
05 | IL | ROUND LAKE, VILLAGE OF | 17097C0140F | 04-JUN-2004 | 04-05-3368A | 01
05 | IL | SALEM, CITY OF | 1704540005B | 30-APR-2004 | 04-05-2262A | 02
05 | IL | SANDWICH, CITY OF | 1701880002C | 07-MAY-2004 | 04-05-3043A | 02
05 | IL | SANGAMON COUNTY | 17167C0200E | 28-JUL-2004 | 04-05-3968A | 02
05 | IL | SANGAMON COUNTY * | 1706040025D | 17-FEB-2004 | 04-05-0498A | 02
05 | IL | SANGAMON COUNTY * | 17167C0200E | 04-MAY-2004 | 04-05-1178V | 19
05 | IL | SANGAMON COUNTY * | 17167C0220E | 04-MAY-2004 | 04-05-1178V | 19
05 | IL | SANGAMON COUNTY * | 17167C0230E | 04-MAY-2004 | 04-05-1178V | 19
05 | IL | SANGAMON COUNTY * | 17167C0260E | 04-MAY-2004 | 04-05-1178V | 19
05 | IL | SANGAMON COUNTY * | 17167C0265E | 04-MAY-2004 | 04-05-1178V | 19
05 | IL | SANGAMON COUNTY * | 17167C0300E | 04-MAY-2004 | 04-05-1178V | 19
05 | IL | SANGAMON COUNTY * | 17167C0325E | 04-MAY-2004 | 04-05-1178V | 19
05 | IL | SANGAMON COUNTY * | 17167C0404E | 04-MAY-2004 | 04-05-1178V | 19
05 | IL | SANGAMON COUNTY * | 17167C0410E | 04-MAY-2004 | 04-05-1178V | 19
05 | IL | SANGAMON COUNTY * | 1709120045C | 17-FEB-2004 | 04-05-1215A | 02
05 | IL | SCHAUMBURG, VILLAGE OF | 17031C0183F | 05-FEB-2004 | 04-05-1219V | 19
05 | IL | SCHAUMBURG, VILLAGE OF | 17031C0187F | 05-FEB-2004 | 04-05-1219V | 19
05 | IL | SCHAUMBURG, VILLAGE OF | 17031C0188G | 05-FEB-2004 | 04-05-1219V | 19
05 | IL | SCHAUMBURG, VILLAGE OF | 17031C0193F | 05-FEB-2004 | 04-05-1219V | 19
05 | IL | SCHAUMBURG, VILLAGE OF | 17031C0189F | 19-MAR-2004 | 04-05-1136A | 01
05 | IL | SENECA, VILLAGE OF | 17099C0578E | 20-FEB-2004 | 04-05-1459A | 02
05 | IL | SENECA, VILLAGE OF | 17099C0586E | 20-FEB-2004 | 04-05-1459A | 02
05 | IL | SENECA, VILLAGE OF | 17099C0578E | 12-MAR-2004 | 04-05-2280A | 02
05 | IL | SHILOH, VILLAGE OF | 17163C0215D | 24-MAR-2004 | 04-05-0725A | 02
05 | IL | SHILOH, VILLAGE OF | 17163C0220D | 02-JUN-2004 | 04-05-1809A | 02
05 | IL | SHILOH, VILLAGE OF | 17163C0205D | 12-MAY-2004 | 04-05-2697A | 01
05 | IL | SHOREWOOD,VILLAGE OF | 17197C0225E | 27-FEB-2004 | 04-05-1564A | 02
05 | IL | SOUTH ELGIN, VILLAGE OF | 17089C0168F | 11-FEB-2004 | 04-05-1708A | 02
05 | IL | SOUTH HOLLAND, VILLAGE OF | 17031C0751F | 14-APR-2004 | 04-05-1514A | 17
05 | IL | SOUTH HOLLAND, VILLAGE OF | 17031C0751F | 24-MAR-2004 | 04-05-2020A | 02
05 | IL | SPARTA, CITY OF | 170579_02B | 07-MAY-2004 | 04-05-2494A | 02
05 | IL | SPRINGFIELD, CITY OF | 17031C0265E | 04-MAY-2004 | 04-05-1177V | 19
05 | IL | SPRINGFIELD, CITY OF | 1706040030D | 28-JUN-2004 | 04-05-2607A | 02
05 | IL | ST. CHARLES, CITY OF | 17089C0260F | 21-APR-2004 | 04-05-2904A | 01
05 | IL | ST. CHARLES, CITY OF | 17089C0260F | 25-JUN-2004 | 04-05-3403A | 02
05 | IL | ST. CLAIR COUNTY | 17163C0340D | 03-MAR-2004 | 04-05-1404A | 02
05 | IL | ST. CLAIR COUNTY | 17163C0555D | 23-JAN-2004 | 04-05-1590A | 02
05 | IL | ST. CLAIR COUNTY | 17163C0235D | 25-FEB-2004 | 04-05-1842A | 02
05 | IL | ST. CLAIR COUNTY | 17163C0215D | 13-FEB-2004 | 04-05-2027A | 02
05 | IL | ST. CLAIR COUNTY | 17163C0215D | 03-MAR-2004 | 04-05-2039A | 02
05 | IL | ST. CLAIR COUNTY | 17163C0210D | 09-APR-2004 | 04-05-2421A | 02
05 | IL | ST. CLAIR COUNTY | 17163C0235D | 14-APR-2004 | 04-05-2620A | 17
05 | IL | ST. CLAIR COUNTY | 17163C0220D | 28-APR-2004 | 04-05-2741A | 01
05 | IL | ST. CLAIR COUNTY | 17163C0355D | 14-APR-2004 | 04-05-2912A | 02
05 | IL | ST. CLAIR COUNTY | 17163C0065D | 05-MAY-2004 | 04-05-2929A | 02
05 | IL | ST. CLAIR COUNTY | 17163C0205D | 04-JUN-2004 | 04-05-3003A | 02
05 | IL | ST. CLAIR COUNTY | 17163C0355D | 14-MAY-2004 | 04-05-3405A | 02
05 | IL | ST. CLAIR COUNTY | 17163C0365D | 09-JUN-2004 | 04-05-3468A | 02
05 | IL | ST. CLAIR COUNTY | 17163C0510D | 14-JUN-2004 | 04-05-3484A | 02
05 | IL | ST. CLAIR COUNTY | 17163C0215D | 23-JUN-2004 | 04-05-3715A | 02
05 | IL | ST. CLAIR COUNTY | 17163C0380D | 02-JUL-2004 | 04-05-3746A | 02
05 | IL | ST. CLAIR COUNTY * | 17163C0215D | 22-MAR-2004 | 03-05-4649A | 02
05 | IL | ST. CLAIR COUNTY * | 17163C0220D | 17-FEB-2004 | 04-05-1861X | 01
05 | IL | STEPHENSON COUNTY | 1706390150B | 14-JAN-2004 | 03-05-5033A | 02
05 | IL | STEPHENSON COUNTY | 1706390150B | 14-JAN-2004 | 03-05-5034A | 02
05 | IL | STREAMWOOD, VILLAGE OF | 17031C0164F | 06-MAY-2004 | 04-05-1194P | 05
05 | IL | SWANSEA, VILLAGE OF | 17163C0215D | 26-MAR-2004 | 04-05-1254A | 02
05 | IL | SWANSEA, VILLAGE OF | 17163C0215D | 19-MAR-2004 | 04-05-2418A | 17
05 | IL | SWANSEA, VILLAGE OF | 17163C0215D | 30-JUN-2004 | 04-05-2546A | 02
05 | IL | SWANSEA, VILLAGE OF | 17163C0215D | 16-JUN-2004 | 04-05-3099A | 02
05 | IL | SWANSEA, VILLAGE OF | 17163C0215D | 02-JUN-2004 | 04-05-3308A | 02
05 | IL | SWANSEA, VILLAGE OF | 17163C0215D | 14-MAY-2004 | 04-05-3443A | 02
05 | IL | SWANSEA, VILLAGE OF | 17163C0215D | 30-JUL-2004 | 04-05-4171A | 02
05 | IL | SYCAMORE, CITY OF | 17037C0076D | 06-FEB-2004 | 04-05-1420A | 02
05 | IL | THIRD LAKE, VILLAGE OF | 17097C0132G | 19-MAR-2004 | 04-05-2414A | 02
05 | IL | TINLEY PARK, CITY OF | 17031C0706F | 30-JUL-2004 | 03-05-1457P | 05
05 | IL | TINLEY PARK, CITY OF | 17031C0708F | 30-JUL-2004 | 03-05-1457P | 05
05 | IL | TINLEY PARK, CITY OF | 17031C0717F | 03-MAR-2004 | 04-05-1834A | 01
05 | IL | TUSCOLA, CITY OF | 1701950005C | 18-JUN-2004 | 04-05-3747A | 02
05 | IL | TUSCOLA, CITY OF | 1701950005C | 23-JUN-2004 | 04-05-3796A | 02
05 | IL | UNION COUNTY | 1706560075B | 02-JUN-2004 | 04-05-2629A | 02
05 | IL | URBANA, CITY OF | 1700350009B | 20-FEB-2004 | 04-05-2091A | 02
05 | IL | VERMILION COUNTY | 1709350006B | 10-MAR-2004 | 04-05-2257A | 02
05 | IL | VILLA GROVE, CITY OF | 1701960001B | 06-FEB-2004 | 04-05-1162A | 02
05 | IL | VILLA GROVE, CITY OF | 1701960001B | 21-JUL-2004 | 04-05-3904A | 01
05 | IL | VILLA PARK, VILLAGE OF | 1702170001B | 27-MAY-2004 | 04-05-3219A | 02
05 | IL | WARRENVILLE, CITY OF | 1702180001C | 12-FEB-2004 | 04-05-0500A | 02
05 | IL | WARRENVILLE, CITY OF | 1702180001C | 18-MAR-2004 | 04-05-1223A | 02
05 | IL | WATSEKA, CITY OF | 17075C0120D | 21-JAN-2004 | 04-05-1675A | 02
05 | IL | WAUCONDA, VILLAGE OF | 17097C0119G | 12-MAR-2004 | 04-05-2263A | 02
05 | IL | WESTCHESTER, VILLAGE OF | 17031C0459F | 11-MAR-2004 | 03-05-4100A | 02
05 | IL | WESTCHESTER, VILLAGE OF | 17031C0459F | 05-FEB-2004 | 04-05-1214A | 02
05 | IL | WESTCHESTER, VILLAGE OF | 17031C0459F | 14-JUL-2004 | 04-05-3976A | 02
05 | IL | WESTMONT, VILLAGE OF | 1702200001B | 22-JAN-2004 | 04-05-1213A | 02
05 | IL | WESTMONT, VILLAGE OF | 1702200001B | 17-MAY-2004 | 04-05-3216A | 02
05 | IL | WHEATON, CITY OF | 1702210005B | 15-MAR-2004 | 04-05-0461A | 02
05 | IL | WHEATON, CITY OF | 1702210005B | 29-MAR-2004 | 04-05-1188A | 02
05 | IL | WHEELING, VILLAGE OF | 17031C0068F | 26-MAR-2004 | 04-05-1044A | 02
05 | IL | WHEELING, VILLAGE OF | 17031C0068F | 09-JUL-2004 | 04-05-1471A | 01
05 | IL | WHEELING, VILLAGE OF | 17031C0068F | 27-FEB-2004 | 04-05-1703A | 01
05 | IL | WHEELING, VILLAGE OF | 17031C0068F | 25-FEB-2004 | 04-05-1761A | 02
05 | IL | WHEELING, VILLAGE OF | 17031C0068F | 02-APR-2004 | 04-05-2547A | 02
05 | IL | WHEELING, VILLAGE OF | 17031C0206F | 02-JUL-2004 | 04-05-3711A | 01
05 | IL | WHITESIDE COUNTY | 1706870025B | 17-MAR-2004 | 04-05-1059A | 02
05 | IL | WHITESIDE COUNTY | 1706870175B | 14-APR-2004 | 04-05-2721A | 02
05 | IL | WHITESIDE COUNTY | 1706870175B | 09-JUL-2004 | 04-05-3849A | 02
05 | IL | WILL COUNTY | 17197C0163E | 26-MAY-2004 | 03-05-2577P | 06
05 | IL | WILL COUNTY | 17197C0280E | 26-MAY-2004 | 03-05-2577P | 06
05 | IL | WILL COUNTY | 17197C0350E | 22-MAR-2004 | 03-05-3999P | 06
05 | IL | WILL COUNTY | 17197C0530E | 07-JAN-2004 | 03-05-5693A | 02
05 | IL | WILL COUNTY | 17197C0315E | 07-JAN-2004 | 04-05-0397A | 02
05 | IL | WILL COUNTY | 17197C0090E | 23-JAN-2004 | 04-05-0844A | 17
05 | IL | WILL COUNTY | 17197C0211F | 03-MAR-2004 | 04-05-1252A | 02
05 | IL | WILL COUNTY | 17197C0135F | 23-JAN-2004 | 04-05-1557A | 02
05 | IL | WILL COUNTY | 17197C0135F | 23-JAN-2004 | 04-05-1582A | 02
05 | IL | WILL COUNTY | 17197C0090E | 14-MAY-2004 | 04-05-1724A | 17
05 | IL | WILL COUNTY | 17197C0440E | 06-FEB-2004 | 04-05-1733A | 02
05 | IL | WILL COUNTY | 17197C0405E | 26-MAR-2004 | 04-05-1801A | 17
05 | IL | WILL COUNTY | 17197C0320E | 17-MAR-2004 | 04-05-1989A | 02
05 | IL | WILL COUNTY | 17197C0285E | 07-APR-2004 | 04-05-2511A | 02
05 | IL | WILL COUNTY | 17197C0135F | 16-APR-2004 | 04-05-2833A | 02
05 | IL | WILL COUNTY | 17197C0218E | 16-JUN-2004 | 04-05-3130A | 02
05 | IL | WILL COUNTY | 1706950305E | 28-MAY-2004 | 04-05-3309A | 02
05 | IL | WILL COUNTY | 17197C0190E | 26-MAY-2004 | 04-05-3337A | 02
05 | IL | WILL COUNTY | 17197C0286E | 21-JUL-2004 | 04-05-3619A | 02
05 | IL | WILL COUNTY | 17197C0090E | 02-JUL-2004 | 04-05-3780A | 02
05 | IL | WILLOW SPRINGS, VILLAGE OF | 17031C0582F | 08-JAN-2004 | 03-05-4459A | 02
05 | IL | WILMETTE, VILLAGE OF | 17031C0253F | 23-APR-2004 | 04-05-2239A | 02
05 | IL | WINNEBAGO COUNTY | 1707200035B | 26-MAR-2004 | 04-05-0676A | 17
05 | IL | WINNEBAGO COUNTY | 1707200040B | 24-MAR-2004 | 04-05-1719A | 17
05 | IL | WINNEBAGO COUNTY | 1707200015B | 14-APR-2004 | 04-05-2151A | 02
05 | IL | WINNETKA, VILLAGE OF | 17031C0232F | 23-JAN-2004 | 04-05-1107A | 01
05 | IL | WINNETKA, VILLAGE OF | 17031C0232F | 27-FEB-2004 | 04-05-1853A | 01
05 | IL | WINNETKA, VILLAGE OF | 17031C0232F | 04-JUN-2004 | 04-05-2392A | 02
05 | IL | WINNETKA, VILLAGE OF | 17031C0232F | 02-APR-2004 | 04-05-2760A | 02
05 | IL | WINNETKA, VILLAGE OF | 17031C0251F | 02-APR-2004 | 04-05-2760A | 02
05 | IL | WINNETKA, VILLAGE OF | 17031C0232F | 14-MAY-2004 | 04-05-3264A | 02
05 | IL | WOODFORD COUNTY | 1707300100B | 07-MAY-2004 | 04-05-3078A | 02
05 | IL | WOODLAND, VILLAGE OF | 17075C0185D | 28-JAN-2004 | 04-05-0798A | 01
05 | IL | WORTH, VILLAGE OF | 17031C0608F | 28-APR-2004 | 04-05-2062A | 02
05 | IN | ADAMS COUNTY | 18001C0136D | 04-FEB-2004 | 04-05-0302A | 17
05 | IN | ADAMS COUNTY | 18001C0185D | 30-JUN-2004 | 04-05-2220A | 17
05 | IN | ADAMS COUNTY | 18001C0195D | 16-APR-2004 | 04-05-2450A | 02
05 | IN | ALLEN COUNTY | 18003C0260F | 04-JUN-2004 | 04-05-A015A | 02
05 | IN | ALLEN COUNTY | 18003C0155F | 14-JUN-2004 | 04-05-A097A | 02
05 | IN | ALLEN COUNTY | 18003C0115F | 14-JAN-2004 | 04-05-1331A | 02
05 | IN | ALLEN COUNTY | 18003C0210F | 06-FEB-2004 | 04-05-1709A | 01
05 | IN | ALLEN COUNTY | 18003C0110F | 06-FEB-2004 | 04-05-1729A | 02
05 | IN | ALLEN COUNTY | 18003C0105F | 14-APR-2004 | 04-05-1962A | 02
05 | IN | ALLEN COUNTY | 18003C0135F | 28-MAY-2004 | 04-05-2007A | 02
05 | IN | ALLEN COUNTY | 18003C0110F | 05-MAR-2004 | 04-05-2083A | 02
05 | IN | ALLEN COUNTY | 18003C0120F | 25-FEB-2004 | 04-05-2105A | 02
05 | IN | ALLEN COUNTY | 18003C0125F | 25-FEB-2004 | 04-05-2105A | 02
05 | IN | ALLEN COUNTY | 18003C0260F | 05-MAR-2004 | 04-05-2190A | 02
05 | IN | ALLEN COUNTY | 18003C0135F | 10-MAR-2004 | 04-05-2282A | 02
05 | IN | ALLEN COUNTY | 18003C0160F | 19-MAR-2004 | 04-05-2422A | 02
05 | IN | ALLEN COUNTY | 18003C0110F | 28-APR-2004 | 04-05-2444A | 17
05 | IN | ALLEN COUNTY | 18003C0060F | 23-JUL-2004 | 04-05-2452A | 01
05 | IN | ALLEN COUNTY | 18003C0175F | 31-MAR-2004 | 04-05-2513A | 02
05 | IN | ALLEN COUNTY | 18003C0055F | 31-MAR-2004 | 04-05-2552A | 02
05 | IN | ALLEN COUNTY | 18003C0060F | 26-MAR-2004 | 04-05-2675A | 02
05 | IN | ALLEN COUNTY | 18003C0110F | 05-MAY-2004 | 04-05-2689A | 01
05 | IN | ALLEN COUNTY | 18003C0060F | 09-APR-2004 | 04-05-2718A | 02
05 | IN | ALLEN COUNTY | 18003C0135F | 26-MAR-2004 | 04-05-2725A | 02
05 | IN | ALLEN COUNTY | 18003C0060F | 09-APR-2004 | 04-05-2934A | 02
05 | IN | ALLEN COUNTY | 18003C0120F | 14-APR-2004 | 04-05-2974A | 02
05 | IN | ALLEN COUNTY | 18003C0160F | 21-APR-2004 | 04-05-2975A | 02
05 | IN | ALLEN COUNTY | 18003C0245F | 14-APR-2004 | 04-05-2976A | 02
05 | IN | ALLEN COUNTY | 18003C0155F | 16-APR-2004 | 04-05-3002A | 02
05 | IN | ALLEN COUNTY | 18003C0105F | 21-APR-2004 | 04-05-3063A | 02
05 | IN | ALLEN COUNTY | 18003C0135F | 21-APR-2004 | 04-05-3100A | 02
05 | IN | ALLEN COUNTY | 18003C0160F | 28-APR-2004 | 04-05-3175A | 02
05 | IN | ANDERSON, CITY OF | 1801500003B | 22-JUN-2004 | 04-05-2519A | 01
05 | IN | BARTHOLOMEW COUNTY | 1800060150B | 17-JUN-2004 | 04-05-A046A | 02
05 | IN | BARTHOLOMEW COUNTY | 1800060150B | 21-JAN-2004 | 04-05-1435A | 02
05 | IN | BARTHOLOMEW COUNTY | 1800060075B | 09-JAN-2004 | 04-05-1439A | 02
05 | IN | BARTHOLOMEW COUNTY | 1800060025B | 14-JAN-2004 | 04-05-1517A | 02
05 | IN | BARTHOLOMEW COUNTY | 1800060050B | 25-FEB-2004 | 04-05-1789A | 02
05 | IN | BARTHOLOMEW COUNTY | 1800060050B | 18-FEB-2004 | 04-05-2011A | 02
05 | IN | BARTHOLOMEW COUNTY | 1800060050B | 24-MAR-2004 | 04-05-2407A | 02
05 | IN | BARTHOLOMEW COUNTY | 1800060150B | 26-MAR-2004 | 04-05-2410A | 02
05 | IN | BLOOMINGTON, CITY OF | 1801690025C | 30-JUL-2004 | 04-05-3118A | 17
05 | IN | BOONE COUNTY | 1800110005B | 25-FEB-2004 | 04-05-1077A | 01
05 | IN | BOONE COUNTY | 1800110085B | 07-JUL-2004 | 04-05-3282A | 02
05 | IN | BROWN COUNTY | 1851740080B | 02-JUN-2004 | 04-05-0019A | 01
05 | IN | BROWN COUNTY | 1851740015B | 27-FEB-2004 | 04-05-2033A | 02
05 | IN | BROWN COUNTY | 1851740060B | 14-JUL-2004 | 04-05-2832A | 02
05 | IN | BROWN COUNTY | 1851740040B | 26-MAY-2004 | 04-05-2865A | 02
05 | IN | CARMEL, CITY OF | 18057C0228F | 04-JUN-2004 | 04-05-A010A | 02
05 | IN | CARMEL, CITY OF | 18057C0227F | 28-JAN-2004 | 04-05-0574A | 01
05 | IN | CARMEL, CITY OF | 18057C0209F | 14-JAN-2004 | 04-05-1460A | 02
05 | IN | CARMEL, CITY OF | 18057C0236F | 25-FEB-2004 | 04-05-1474A | 02
05 | IN | CARMEL, CITY OF | 18057C0235F | 14-JAN-2004 | 04-05-1495A | 02
05 | IN | CARMEL, CITY OF | 18057C0226F | 30-JAN-2004 | 04-05-1693A | 02
05 | IN | CARMEL, CITY OF | 18057C0235F | 13-FEB-2004 | 04-05-1725A | 02
05 | IN | CARMEL, CITY OF | 18057C0235F | 21-APR-2004 | 04-05-2395A | 02
05 | IN | CARMEL, CITY OF | 18057C0206F | 07-APR-2004 | 04-05-2783A | 02
05 | IN | CARMEL, CITY OF | 18057C0235F | 30-JUN-2004 | 04-05-2992A | 02
05 | IN | CARMEL, CITY OF | 18057C0235F | 12-MAY-2004 | 04-05-3159A | 02
05 | IN | CARMEL, CITY OF | 18057C0205F | 30-JUN-2004 | 04-05-3398A | 17
05 | IN | CARROLL COUNTY | 1800190025B | 27-FEB-2004 | 04-05-2047A | 02
05 | IN | CARROLL COUNTY | 1800190051B | 19-MAR-2004 | 04-05-2225A | 02
05 | IN | CARROLL COUNTY | 1800190025B | 30-APR-2004 | 04-05-2273A | 02
05 | IN | CARROLL COUNTY | 1800190014B | 12-MAR-2004 | 04-05-2385A | 02
05 | IN | CEDAR GROVE, TOWN OF | 18047C0150C | 07-APR-2004 | 04-05-1931A | 02
05 | IN | CICERO, TOWN OF | 18057C0045F | 27-FEB-2004 | 04-05-0125A | 17
05 | IN | CICERO, TOWN OF | 18057C0025F | 23-JAN-2004 | 04-05-0164A | 02
05 | IN | CICERO, TOWN OF | 18057C0135F | 16-JAN-2004 | 04-05-0364A | 17
05 | IN | CICERO, TOWN OF | 18057C0135F | 14-JAN-2004 | 04-05-0649A | 17
05 | IN | CICERO, TOWN OF | 18057C0135F | 12-MAR-2004 | 04-05-1058A | 17
05 | IN | CICERO, TOWN OF | 18057C0135F | 07-JAN-2004 | 04-05-1143A | 02
05 | IN | CICERO, TOWN OF | 18057C0135F | 23-JAN-2004 | 04-05-1591A | 02
05 | IN | CICERO, TOWN OF | 18057C0045F | 19-MAR-2004 | 04-05-1841A | 17
05 | IN | CICERO, TOWN OF | 18057C0135F | 27-FEB-2004 | 04-05-2067A | 02
05 | IN | CICERO, TOWN OF | 18057C0135F | 16-APR-2004 | 04-05-2441A | 17
05 | IN | CLARK COUNTY | 1804260175C | 25-JUN-2004 | 04-05-A062A | 02
05 | IN | CLARK COUNTY | 1804260125C | 14-JAN-2004 | 03-05-5101A | 17
05 | IN | CLARK COUNTY | 1804260175C | 14-JAN-2004 | 04-05-0963A | 02
05 | IN | CLARK COUNTY | 1804260175C | 23-JAN-2004 | 04-05-1295A | 02
05 | IN | CLARK COUNTY | 1804260175C | 28-JAN-2004 | 04-05-1296A | 02
05 | IN | CLARK COUNTY | 1804260175C | 02-APR-2004 | 04-05-1491A | 01
05 | IN | CLARK COUNTY | 1804260175C | 24-MAR-2004 | 04-05-1653A | 17
05 | IN | CLARK COUNTY | 1804260175C | 11-FEB-2004 | 04-05-1654A | 02
05 | IN | CLARK COUNTY | 1804260125C | 25-FEB-2004 | 04-05-1747A | 02
05 | IN | CLARK COUNTY | 1804260125C | 06-FEB-2004 | 04-05-1851X | 17
05 | IN | CLARK COUNTY | 1804260175C | 25-FEB-2004 | 04-05-1954A | 02
05 | IN | CLARK COUNTY | 1804260175C | 25-FEB-2004 | 04-05-2004X | 02
05 | IN | CLARK COUNTY | 1804260175C | 03-MAR-2004 | 04-05-2255X | 01
05 | IN | CLARK COUNTY | 1804260175C | 31-MAR-2004 | 04-05-2770A | 02
05 | IN | CLARK COUNTY | 1804260175C | 28-MAY-2004 | 04-05-3384A | 02
05 | IN | COLUMBUS, CITY OF | 1800070020D | 16-APR-2004 | 04-05-2738A | 01
05 | IN | COLUMBUS, CITY OF | 1800070015D | 28-APR-2004 | 04-05-2750A | 01
05 | IN | COLUMBUS, CITY OF | 1800070020D | 09-APR-2004 | 04-05-2825A | 02
05 | IN | COLUMBUS, CITY OF | 1800070020D | 25-JUN-2004 | 04-05-3331A | 01
05 | IN | CONNERSVILLE, CITY OF | 180061_03B | 07-JAN-2004 | 04-05-1276A | 02
05 | IN | DE KALB COUNTY | 1800440070B | 07-JAN-2004 | 03-05-3401A | 02
05 | IN | DEARBORN COUNTY | 1800380035B | 02-JUN-2004 | 03-05-1627A | 01
05 | IN | DEARBORN COUNTY | 1800380035B | 30-JUL-2004 | 04-05-4208A | 17
05 | IN | DELAWARE COUNTY | 1800510075C | 05-MAY-2004 | 04-05-2949A | 01
05 | IN | DELAWARE COUNTY | 1800510125C | 16-JUN-2004 | 04-05-2959A | 02
05 | IN | ELKHART COUNTY | 1800560020B | 26-MAR-2004 | 04-05-0644A | 17
05 | IN | ELKHART COUNTY | 1800560020B | 09-JAN-2004 | 04-05-1166A | 02
05 | IN | ELKHART COUNTY | 1800560015B | 27-FEB-2004 | 04-05-1422A | 02
05 | IN | ELKHART COUNTY | 1800560010B | 16-JAN-2004 | 04-05-1477A | 02
05 | IN | ELKHART COUNTY | 1800560100A | 11-FEB-2004 | 04-05-1568A | 02
05 | IN | ELKHART COUNTY | 1800560005A | 05-MAR-2004 | 04-05-2069A | 02
05 | IN | ELKHART COUNTY | 1800560075A | 16-APR-2004 | 04-05-2532A | 01
05 | IN | ELKHART, CITY OF | 1800570010C | 07-APR-2004 | 04-05-2121A | 02
05 | IN | ELLETTSVILLE, TOWN OF | 180170_01C | 02-JUL-2004 | 04-05-2287A | 02
05 | IN | ELWOOD, CITY OF | 1801520001C | 10-MAR-2004 | 04-05-1549A | 02
05 | IN | ELWOOD, CITY OF | 1801520001C | 06-FEB-2004 | 04-05-1996A | 02
05 | IN | EVANSVILLE, CITY OF | 1802570005B | 01-JUN-2004 | 04-05-2645A | 02
05 | IN | EVANSVILLE, CITY OF | 1802570001B | 28-JUN-2004 | 04-05-3200A | 01
05 | IN | FAYETTE COUNTY | 1804170004B | 17-MAR-2004 | 04-05-2271A | 02
05 | IN | FISHERS, TOWN OF | 18057C0255F | 09-JUL-2004 | 03-05-5182P | 05
05 | IN | FISHERS, TOWN OF | 18057C0255F | 16-APR-2004 | 03-05-5466A | 01
05 | IN | FISHERS, TOWN OF | 18057C0255F | 28-JAN-2004 | 04-05-1386X | 01
05 | IN | FISHERS, TOWN OF | 18057C0235F | 21-APR-2004 | 04-05-1452A | 17
05 | IN | FISHERS, TOWN OF | 18057C0255F | 25-FEB-2004 | 04-05-1657A | 02
05 | IN | FISHERS, TOWN OF | 18057C0235F | 11-FEB-2004 | 04-05-1682A | 02
05 | IN | FISHERS, TOWN OF | 18057C0235F | 02-APR-2004 | 04-05-1826A | 01
05 | IN | FISHERS, TOWN OF | 18057C0255F | 31-MAR-2004 | 04-05-2405X | 17
05 | IN | FISHERS, TOWN OF | 18057C0235F | 26-MAR-2004 | 04-05-2411A | 02
05 | IN | FISHERS, TOWN OF | 18057C0255F | 19-MAR-2004 | 04-05-2412A | 02
05 | IN | FISHERS, TOWN OF | 18057C0235F | 02-APR-2004 | 04-05-2850A | 02
05 | IN | FISHERS, TOWN OF | 18057C0235F | 14-APR-2004 | 04-05-2984A | 02
05 | IN | FISHERS, TOWN OF | 18057C0255F | 28-MAY-2004 | 04-05-3101A | 02
05 | IN | FISHERS, TOWN OF | 18057C0260F | 28-MAY-2004 | 04-05-3101A | 02
05 | IN | FISHERS, TOWN OF | 18057C0255F | 07-JUL-2004 | 04-05-3279A | 01
05 | IN | FISHERS, TOWN OF | 18057C0255F | 21-JUL-2004 | 04-05-4131X | 01
05 | IN | FLOYD COUNTY | 1804320005B | 24-MAR-2004 | 04-05-2296A | 02
05 | IN | FORT WAYNE, CITY OF | 18003C0155F | 23-JUN-2004 | 04-05-A043A | 02
05 | IN | FORT WAYNE, CITY OF | 18003C0195F | 14-JUN-2004 | 04-05-A098A | 01
05 | IN | FORT WAYNE, CITY OF | 18003C0110F | 21-JAN-2004 | 04-05-1098A | 02
05 | IN | FORT WAYNE, CITY OF | 18003C0155F | 21-JAN-2004 | 04-05-1098A | 02
05 | IN | FORT WAYNE, CITY OF | 18003C0190F | 16-JAN-2004 | 04-05-1387A | 01
05 | IN | FORT WAYNE, CITY OF | 18003C0190F | 29-JUL-2004 | 04-05-1578A | 02
05 | IN | FORT WAYNE, CITY OF | 18003C0105F | 21-JAN-2004 | 04-05-1579A | 02
05 | IN | FORT WAYNE, CITY OF | 18003C0155F | 24-MAR-2004 | 04-05-1611A | 02
05 | IN | FORT WAYNE, CITY OF | 18003C0195F | 20-FEB-2004 | 04-05-1836A | 02
05 | IN | FORT WAYNE, CITY OF | 18003C0195F | 27-FEB-2004 | 04-05-2135A | 02
05 | IN | FORT WAYNE, CITY OF | 18003C0190F | 10-MAR-2004 | 04-05-2355A | 02
05 | IN | FORT WAYNE, CITY OF | 18003C0110F | 14-JUN-2004 | 04-05-2447A | 02
05 | IN | FORT WAYNE, CITY OF | 18003C0150F | 14-APR-2004 | 04-05-2500A | 02
05 | IN | FORT WAYNE, CITY OF | 18003C0145F | 09-APR-2004 | 04-05-2715A | 02
05 | IN | FORT WAYNE, CITY OF | 18003C0145F | 09-APR-2004 | 04-05-2925A | 02
05 | IN | FORT WAYNE, CITY OF | 18003C0190F | 14-APR-2004 | 04-05-2945A | 02
05 | IN | FORT WAYNE, CITY OF | 18003C0190F | 05-MAY-2004 | 04-05-2967A | 02
05 | IN | FORT WAYNE, CITY OF | 18003C0180F | 05-MAY-2004 | 04-05-2973A | 02
05 | IN | FORT WAYNE, CITY OF | 18003C0110F | 21-APR-2004 | 04-05-2977A | 02
05 | IN | FORT WAYNE, CITY OF | 18003C0155F | 14-APR-2004 | 04-05-2978A | 02
05 | IN | FORT WAYNE, CITY OF | 18003C0145F | 16-APR-2004 | 04-05-2979A | 02
05 | IN | FORT WAYNE, CITY OF | 18003C0105F | 28-APR-2004 | 04-05-2993A | 02
05 | IN | FORT WAYNE, CITY OF | 18003C0190F | 21-APR-2004 | 04-05-3042A | 02
05 | IN | FORT WAYNE, CITY OF | 18003C0190F | 05-MAY-2004 | 04-05-3066A | 02
05 | IN | FORT WAYNE, CITY OF | 18003C0195F | 07-MAY-2004 | 04-05-3249A | 02
05 | IN | FORT WAYNE, CITY OF | 18003C0100F | 16-JUN-2004 | 04-05-3252A | 01
05 | IN | FORT WAYNE, CITY OF | 18003C0190F | 07-MAY-2004 | 04-05-3326A | 02
05 | IN | FRANKLIN COUNTY | 18047C0040C | 04-FEB-2004 | 04-05-1655A | 02
05 | IN | FRANKLIN COUNTY | 18047C0040C | 13-FEB-2004 | 04-05-2096X | 02
05 | IN | FRANKLIN, CITY OF | 1801140002B | 25-FEB-2004 | 04-05-2102A | 02
05 | IN | FRANKLIN, CITY OF | 1801140002B | 16-APR-2004 | 04-05-2999A | 02
05 | IN | FRANKLIN, CITY OF | 1801140002B | 19-MAY-2004 | 04-05-3146A | 02
05 | IN | FULTON COUNTY | 1800700050B | 13-FEB-2004 | 04-05-1623A | 02
05 | IN | FULTON COUNTY | 1800700050B | 07-MAY-2004 | 04-05-3000A | 02
05 | IN | GOSHEN, CITY OF | 1800580005B | 05-APR-2004 | 04-05-1340A | 01
05 | IN | GREENFIELD, CITY OF | 1800840006C | 14-JAN-2004 | 04-05-1104A | 01
05 | IN | GREENFIELD, CITY OF | 1800840006C | 14-JUN-2004 | 04-05-3376A | 01
05 | IN | GREENSBURG, CITY OF | 1800430001B | 16-APR-2004 | 04-05-2924A | 02
05 | IN | GREENWOOD, CITY OF | 1801150002B | 12-JUL-2004 | 04-05-0097P | 05
05 | IN | GREENWOOD, CITY OF | 1801150002B | 21-JAN-2004 | 04-05-1662A | 02
05 | IN | GREENWOOD, CITY OF | 1801110050C | 16-APR-2004 | 04-05-2211A | 01
05 | IN | GREENWOOD, CITY OF | 1801150002B | 21-MAY-2004 | 04-05-2294A | 01
05 | IN | GRIFFITH, TOWN OF | 1851750004C | 29-JAN-2004 | 03-05-5175P | 05
05 | IN | GRIFFITH, TOWN OF | 1851750004C | 02-APR-2004 | 04-05-2178A | 02
05 | IN | HAGERSTOWN, TOWN OF | 1802840005B | 27-FEB-2004 | 04-05-0407A | 17
05 | IN | HAGERSTOWN, TOWN OF | 1802840005B | 27-FEB-2004 | 04-05-0408A | 17
05 | IN | HAGERSTOWN, TOWN OF | 1802840005B | 18-JUN-2004 | 04-05-3518A | 02
05 | IN | HAMILTON COUNTY | 18057C0155F | 18-FEB-2004 | 03-05-4405A | 17
05 | IN | HAMILTON COUNTY | 18057C0155F | 03-MAR-2004 | 03-05-4758A | 17
05 | IN | HAMILTON COUNTY | 18057C0155F | 14-JAN-2004 | 04-05-0583A | 02
05 | IN | HAMILTON COUNTY | 18057C0065F | 23-JAN-2004 | 04-05-1705A | 02
05 | IN | HAMILTON COUNTY | 18057C0226F | 05-MAY-2004 | 04-05-2297A | 02
05 | IN | HAMILTON COUNTY | 18057C0165F | 12-MAY-2004 | 04-05-3371A | 02
05 | IN | HAMILTON, TOWN OF | 1802480001D | 09-JUN-2004 | 04-05-A008A | 02
05 | IN | HAMILTON, TOWN OF | 1802480001D | 26-MAR-2004 | 04-05-1934A | 02
05 | IN | HAMMOND, CITY OF | 1801340007B | 04-JUN-2004 | 04-05-3347A | 02
05 | IN | HANCOCK COUNTY | 1804190100B | 23-JUN-2004 | 04-05-2544A | 01
05 | IN | HANCOCK COUNTY | 1804190025B | 23-APR-2004 | 04-05-2706A | 01
05 | IN | HANCOCK COUNTY | 1804190025B | 09-JUL-2004 | 04-05-3353A | 02
05 | IN | HARRISON COUNTY | 1800850008B | 19-MAY-2004 | 04-05-2565A | 02
05 | IN | HENDRICKS COUNTY | 1804150100B | 26-MAR-2004 | 04-05-0183A | 17
05 | IN | HENDRICKS COUNTY | 1804150100B | 09-JAN-2004 | 04-05-1345A | 02
05 | IN | HENDRICKS COUNTY | 1804150050B | 14-JAN-2004 | 04-05-1432A | 02
05 | IN | HENDRICKS COUNTY | 1804150100B | 02-APR-2004 | 04-05-2561A | 02
05 | IN | HENDRICKS COUNTY | 1804150050B | 28-APR-2004 | 04-05-2910A | 02
05 | IN | HENRY COUNTY | 18065C0075C | 19-MAR-2004 | 04-05-2143A | 02
05 | IN | HENRY COUNTY | 18065C0100C | 19-MAR-2004 | 04-05-2143A | 02
05 | IN | HENRY COUNTY | 18065C0175C | 14-APR-2004 | 04-05-2762A | 02
05 | IN | HENRY COUNTY | 18065C0050C | 28-JUL-2004 | 04-05-3705A | 02
05 | IN | HIGHLAND, TOWN OF | 1851760001C | 29-JAN-2004 | 03-05-5174P | 05
05 | IN | HIGHLAND, TOWN OF | 1851760002C | 29-JAN-2004 | 03-05-5174P | 05
05 | IN | HOBART, CITY OF | 1801360005B | 28-APR-2004 | 04-05-2981A | 02
05 | IN | HOWARD COUNTY | 1804140027B | 28-JAN-2004 | 04-05-1092A | 02
05 | IN | HOWARD COUNTY | 1804140025B | 07-JAN-2004 | 04-05-1352A | 02
05 | IN | HOWARD COUNTY | 1804140027B | 02-APR-2004 | 04-05-2775A | 02
05 | IN | INDIANAPOLIS, CITY OF | 18097C0280E | 28-MAY-2004 | 04-05-A014A | 02
05 | IN | INDIANAPOLIS, CITY OF | 18097C0044E | 25-JUN-2004 | 04-05-A023A | 02
05 | IN | INDIANAPOLIS, CITY OF | 18097C0262E | 17-JUN-2004 | 04-05-A039A | 02
05 | IN | INDIANAPOLIS, CITY OF | 18097C0180E | 25-JUN-2004 | 04-05-A063A | 02
05 | IN | INDIANAPOLIS, CITY OF | 18097C0087E | 25-JUN-2004 | 04-05-A066A | 02
05 | IN | INDIANAPOLIS, CITY OF | 18097C0037E | 27-FEB-2004 | 04-05-0160A | 17
05 | IN | INDIANAPOLIS, CITY OF | 18097C0063E | 21-JAN-2004 | 04-05-0587A | 02
05 | IN | INDIANAPOLIS, CITY OF | 18097C0109E | 07-JAN-2004 | 04-05-0776A | 02
05 | IN | INDIANAPOLIS, CITY OF | 18097C0262E | 28-JUL-2004 | 04-05-0866A | 01
05 | IN | INDIANAPOLIS, CITY OF | 18097C0209E | 07-MAY-2004 | 04-05-0876P | 06
05 | IN | INDIANAPOLIS, CITY OF | 18097C0180E | 14-JAN-2004 | 04-05-0953A | 01
05 | IN | INDIANAPOLIS, CITY OF | 18097C0062E | 14-JAN-2004 | 04-05-1269A | 02
05 | IN | INDIANAPOLIS, CITY OF | 18097C0064E | 14-JAN-2004 | 04-05-1269A | 02
05 | IN | INDIANAPOLIS, CITY OF | 18097C0044E | 14-JAN-2004 | 04-05-1307A | 02
05 | IN | INDIANAPOLIS, CITY OF | 18097C0234E | 28-JAN-2004 | 04-05-1529A | 01
05 | IN | INDIANAPOLIS, CITY OF | 18097C0119E | 07-APR-2004 | 04-05-1692A | 17
05 | IN | INDIANAPOLIS, CITY OF | 18097C0240E | 06-FEB-2004 | 04-05-1750A | 01
05 | IN | INDIANAPOLIS, CITY OF | 18097C0228E | 17-MAR-2004 | 04-05-1785A | 02
05 | IN | INDIANAPOLIS, CITY OF | 18097C0063E | 05-MAR-2004 | 04-05-1819A | 02
05 | IN | INDIANAPOLIS, CITY OF | 18097C0114E | 03-MAR-2004 | 04-05-1845A | 02
05 | IN | INDIANAPOLIS, CITY OF | 18097C0118E | 03-MAR-2004 | 04-05-1845A | 02
05 | IN | INDIANAPOLIS, CITY OF | 18097C0088E | 04-JUN-2004 | 04-05-1930A | 01
05 | IN | INDIANAPOLIS, CITY OF | 18097C0180E | 25-FEB-2004 | 04-05-1950A | 02
05 | IN | INDIANAPOLIS, CITY OF | 18097C0228E | 30-JUN-2004 | 04-05-1975A | 02
05 | IN | INDIANAPOLIS, CITY OF | 18097C0262E | 02-JUN-2004 | 04-05-2058A | 02
05 | IN | INDIANAPOLIS, CITY OF | 18097C0135E | 12-MAY-2004 | 04-05-2090A | 02
05 | IN | INDIANAPOLIS, CITY OF | 18097C0063E | 24-MAR-2004 | 04-05-2201A | 01
05 | IN | INDIANAPOLIS, CITY OF | 18097C0039E | 27-FEB-2004 | 04-05-2204A | 02
05 | IN | INDIANAPOLIS, CITY OF | 18097C0127E | 04-JUN-2004 | 04-05-2216A | 02
05 | IN | INDIANAPOLIS, CITY OF | 18097C0290E | 12-MAR-2004 | 04-05-2227A | 02
05 | IN | INDIANAPOLIS, CITY OF | 18097C0038E | 10-MAR-2004 | 04-05-2275A | 02
05 | IN | INDIANAPOLIS, CITY OF | 18097C0064E | 10-MAR-2004 | 04-05-2298A | 02
05 | IN | INDIANAPOLIS, CITY OF | 18097C0039E | 31-MAR-2004 | 04-05-2413A | 02
05 | IN | INDIANAPOLIS, CITY OF | 18097C0232E | 12-MAY-2004 | 04-05-2517A | 17
05 | IN | INDIANAPOLIS, CITY OF | 18097C0088E | 07-APR-2004 | 04-05-2522A | 01
05 | IN | INDIANAPOLIS, CITY OF | 18097C0270E | 30-APR-2004 | 04-05-2557A | 02
05 | IN | INDIANAPOLIS, CITY OF | 18097C0186E | 09-APR-2004 | 04-05-2710A | 01
05 | IN | INDIANAPOLIS, CITY OF | 18097C0088E | 28-APR-2004 | 04-05-2717A | 01
05 | IN | INDIANAPOLIS, CITY OF | 18097C0109E | 05-MAY-2004 | 04-05-2737A | 02
05 | IN | INDIANAPOLIS, CITY OF | 18097C0063E | 07-APR-2004 | 04-05-2822A | 02
05 | IN | INDIANAPOLIS, CITY OF | 18097C0061E | 23-JUN-2004 | 04-05-2970A | 01
05 | IN | INDIANAPOLIS, CITY OF | 18097C0186E | 05-MAY-2004 | 04-05-3014A | 01
05 | IN | INDIANAPOLIS, CITY OF | 18097C0063E | 04-JUN-2004 | 04-05-3031A | 02
05 | IN | INDIANAPOLIS, CITY OF | 18097C0119E | 14-JUN-2004 | 04-05-3141A | 17
05 | IN | INDIANAPOLIS, CITY OF | 18097C0254E | 30-APR-2004 | 04-05-3188A | 02
05 | IN | INDIANAPOLIS, CITY OF | 18097C0038E | 02-JUL-2004 | 04-05-3283A | 01
05 | IN | INDIANAPOLIS, CITY OF | 18097C0039E | 02-JUL-2004 | 04-05-3283A | 01
05 | IN | INDIANAPOLIS, CITY OF | 18097C0264E | 12-MAY-2004 | 04-05-3346A | 02
05 | IN | INDIANAPOLIS, CITY OF | 18097C0186E | 16-JUL-2004 | 04-05-3703A | 01
05 | IN | INDIANAPOLIS, CITY OF | 18097C0262E | 16-JUN-2004 | 04-05-3704A | 01
05 | IN | JACKSON COUNTY | 1804050130B | 23-JAN-2004 | 04-05-1559A | 02
05 | IN | JASPER COUNTY | 1804390005B | 13-FEB-2004 | 04-05-1249A | 02
05 | IN | JEFFERSONVILLE, CITY OF | 1800270005D | 09-APR-2004 | 04-05-2769A | 02
05 | IN | JOHNSON COUNTY | 1801110100C | 11-FEB-2004 | 04-05-0997A | 02
05 | IN | JOHNSON COUNTY | 1801110008C | 14-JAN-2004 | 04-05-1541A | 02
05 | IN | JOHNSON COUNTY | 1801110100C | 03-MAR-2004 | 04-05-2118A | 02
05 | IN | JOHNSON COUNTY | 1801110012C | 19-MAR-2004 | 04-05-2451A | 02
05 | IN | KNOX COUNTY | 1804220065C | 27-FEB-2004 | 04-05-2224A | 02
05 | IN | KOKOMO, CITY OF | 1800930005B | 14-JAN-2004 | 04-05-1341A | 02
05 | IN | KOSCIUSKO COUNTY | 18085C0100C | 25-JUN-2004 | 04-05-A064A | 02
05 | IN | KOSCIUSKO COUNTY | 18085C0035C | 07-JAN-2004 | 04-05-0273A | 02
05 | IN | KOSCIUSKO COUNTY | 18085C0080C | 04-FEB-2004 | 04-05-0905A | 02
05 | IN | KOSCIUSKO COUNTY | 18085C0028C | 28-JAN-2004 | 04-05-0991A | 02
05 | IN | KOSCIUSKO COUNTY | 18085C0100C | 21-JAN-2004 | 04-05-1226A | 02
05 | IN | KOSCIUSKO COUNTY | 18085C0045C | 06-FEB-2004 | 04-05-1547A | 02
05 | IN | KOSCIUSKO COUNTY | 18085C0067C | 06-FEB-2004 | 04-05-1788A | 02
05 | IN | KOSCIUSKO COUNTY | 18085C0040C | 18-FEB-2004 | 04-05-2052A | 02
05 | IN | KOSCIUSKO COUNTY | 18085C0080C | 03-MAR-2004 | 04-05-2103A | 02
05 | IN | KOSCIUSKO COUNTY | 18085C0080C | 12-MAR-2004 | 04-05-2391A | 02
05 | IN | KOSCIUSKO COUNTY | 18085C0080C | 17-MAR-2004 | 04-05-2448A | 02
05 | IN | KOSCIUSKO COUNTY | 18085C0080C | 17-MAR-2004 | 04-05-2449A | 02
05 | IN | KOSCIUSKO COUNTY | 18085C0080C | 07-APR-2004 | 04-05-2847A | 02
05 | IN | KOSCIUSKO COUNTY | 18085C0080C | 07-MAY-2004 | 04-05-3104A | 02
05 | IN | LA PORTE COUNTY | 1801440275C | 19-MAR-2004 | 04-05-2243A | 02
05 | IN | LA PORTE, CITY OF | 1804900005C | 07-JAN-2004 | 04-05-0145A | 02
05 | IN | LADOGA, TOWN OF | 39049C0231H | 30-APR-2004 | 04-05-3189A | 02
05 | IN | LAFAYETTE, CITY OF | 1804280055B | 06-MAY-2004 | 03-05-4997A | 17
05 | IN | LAGRANGE COUNTY | 1801250004B | 21-JAN-2004 | 04-05-1430A | 02
05 | IN | LAGRANGE COUNTY | 1801250003B | 30-JAN-2004 | 04-05-1769A | 02
05 | IN | LAGRANGE COUNTY | 1801250004B | 05-MAR-2004 | 04-05-2213A | 02
05 | IN | LAGRANGE COUNTY | 1801250004B | 07-APR-2004 | 04-05-2550A | 02
05 | IN | LAGRANGE COUNTY | 1801250004B | 26-MAY-2004 | 04-05-2867A | 02
05 | IN | LAGRANGE COUNTY | 1801250003B | 18-JUN-2004 | 04-05-3053A | 02
05 | IN | LAGRANGE COUNTY | 1801250004B | 07-MAY-2004 | 04-05-3135A | 02
05 | IN | LAGRANGE COUNTY | 1801250001B | 05-MAY-2004 | 04-05-3154A | 02
05 | IN | LAGRANGE COUNTY | 1801250003B | 21-JUL-2004 | 04-05-4321X | 02
05 | IN | LAKE COUNTY | 1801260045B | 29-JAN-2004 | 03-05-3366P | 05
05 | IN | LAKE COUNTY | 1801260065B | 29-JAN-2004 | 03-05-3366P | 05
05 | IN | LAWRENCEBURG, CITY OF | 1800410001B | 28-MAY-2004 | 04-05-2793A | 01
05 | IN | LEBANON, CITY OF | 1800130001D | 14-JAN-2004 | 04-05-0801A | 02
05 | IN | LEBANON, CITY OF | 1800130002D | 23-JUN-2004 | 04-05-2460A | 17
05 | IN | LEBANON, CITY OF | 1800130002D | 21-APR-2004 | 04-05-3016A | 02
05 | IN | LEBANON, CITY OF | 1800130002D | 26-MAY-2004 | 04-05-3322A | 02
05 | IN | LIBERTY, TOWNSHIP OF | 1804880001A | 07-JUL-2004 | 04-05-3163A | 02
05 | IN | MADISON COUNTY | 1804420006B | 09-JUL-2004 | 04-05-3634A | 02
05 | IN | MADISON, CITY OF | 180107_06B | 03-MAR-2004 | 04-05-2022A | 02
05 | IN | MARION, CITY OF | 18053C0145D | 30-JUN-2004 | 04-05-2162A | 02
05 | IN | MICHIGAN CITY, CITY OF | 1801470015B | 19-MAR-2004 | 04-05-2474A | 02
05 | IN | MONROE COUNTY | 1804440001B | 26-MAY-2004 | 04-05-2061A | 02
05 | IN | MORGAN COUNTY | 1801760050B | 19-MAR-2004 | 04-05-1329A | 02
05 | IN | MUNCIE, CITY OF | 1800530006C | 14-JAN-2004 | 04-05-0445A | 17
05 | IN | NASHVILLE, TOWN OF | 1800180001D | 11-FEB-2004 | 04-05-1791A | 01
05 | IN | NEW ALBANY, CITY OF | 1800620010D | 07-APR-2004 | 04-05-2520A | 02
05 | IN | NEW HAVEN, CITY OF | 18003C0200F | 01-MAR-2004 | 04-05-0063A | 17
05 | IN | NEW HAVEN, CITY OF | 18003C0155F | 28-APR-2004 | 04-05-2017A | 02
05 | IN | NOBLE COUNTY | 1801830050B | 09-JUN-2004 | 04-05-A018A | 02
05 | IN | NOBLE COUNTY | 1801830075B | 11-FEB-2004 | 04-05-1606A | 02
05 | IN | NOBLESVILLE, CITY OF | 18057C0135F | 14-JAN-2004 | 03-05-5499A | 17
05 | IN | NOBLESVILLE, CITY OF | 18057C0145F | 04-FEB-2004 | 03-05-5654A | 02
05 | IN | NOBLESVILLE, CITY OF | 18057C0135F | 20-FEB-2004 | 04-05-0155A | 17
05 | IN | NOBLESVILLE, CITY OF | 18057C0260F | 23-JAN-2004 | 04-05-0369A | 02
05 | IN | NOBLESVILLE, CITY OF | 18057C0130F | 23-JAN-2004 | 04-05-0554A | 17
05 | IN | NOBLESVILLE, CITY OF | 18057C0135F | 07-JAN-2004 | 04-05-0730A | 17
05 | IN | NOBLESVILLE, CITY OF | 18057C0130F | 23-JAN-2004 | 04-05-0779A | 17
05 | IN | NOBLESVILLE, CITY OF | 18057C0135F | 07-JAN-2004 | 04-05-0856A | 17
05 | IN | NOBLESVILLE, CITY OF | 18057C0135F | 21-JAN-2004 | 04-05-0860A | 17
05 | IN | NOBLESVILLE, CITY OF | 18057C0235F | 18-FEB-2004 | 04-05-0943A | 02
05 | IN | NOBLESVILLE, CITY OF | 18057C0130F | 30-JAN-2004 | 04-05-0984A | 17
05 | IN | NOBLESVILLE, CITY OF | 18057C0135F | 25-FEB-2004 | 04-05-1160A | 17
05 | IN | NOBLESVILLE, CITY OF | 18057C0255F | 14-JAN-2004 | 04-05-1231A | 02
05 | IN | NOBLESVILLE, CITY OF | 18057C0135F | 23-JAN-2004 | 04-05-1248A | 17
05 | IN | NOBLESVILLE, CITY OF | 18057C0135F | 11-FEB-2004 | 04-05-1480A | 01
05 | IN | NOBLESVILLE, CITY OF | 18057C0145F | 16-JAN-2004 | 04-05-1558A | 02
05 | IN | NOBLESVILLE, CITY OF | 18057C0135F | 11-FEB-2004 | 04-05-1659A | 17
05 | IN | NOBLESVILLE, CITY OF | 18057C0135F | 13-FEB-2004 | 04-05-1691A | 17
05 | IN | NOBLESVILLE, CITY OF | 18057C0135F | 25-FEB-2004 | 04-05-1728A | 17
05 | IN | NOBLESVILLE, CITY OF | 18057C0145F | 05-MAY-2004 | 04-05-2095A | 02
05 | IN | NOBLESVILLE, CITY OF | 18057C0135F | 19-MAR-2004 | 04-05-2208A | 17
05 | IN | NOBLESVILLE, CITY OF | 18057C0145F | 26-MAR-2004 | 04-05-2368A | 02
05 | IN | NOBLESVILLE, CITY OF | 18057C0135F | 12-MAR-2004 | 04-05-2384A | 17
05 | IN | NOBLESVILLE, CITY OF | 18057C0155F | 19-MAR-2004 | 04-05-2537A | 02
05 | IN | NOBLESVILLE, CITY OF | 18057C0135F | 17-MAR-2004 | 04-05-2612A | 17
05 | IN | NOBLESVILLE, CITY OF | 18057C0145F | 09-APR-2004 | 04-05-2617A | 02
05 | IN | NOBLESVILLE, CITY OF | 18057C0155F | 31-MAR-2004 | 04-05-2727A | 02
05 | IN | NOBLESVILLE, CITY OF | 18057C0155F | 12-MAY-2004 | 04-05-3102A | 02
05 | IN | NORTH MANCHESTER, TOWN OF | 18169C0030D | 24-MAR-2004 | 04-05-2187A | 01
05 | IN | NORTH WEBSTER, TOWN OF | 18085C0045C | 07-JAN-2004 | 04-05-0926A | 02
05 | IN | NORTH WEBSTER, TOWN OF | 18085C0045C | 12-MAY-2004 | 04-05-3020A | 02
05 | IN | OWEN COUNTY | 1804810004B | 07-JAN-2004 | 04-05-1306A | 02
05 | IN | PLYMOUTH, CITY OF | 180164_02B | 28-APR-2004 | 04-05-1740A | 17
05 | IN | PLYMOUTH, CITY OF | 180164_04B | 12-MAY-2004 | 04-05-3336A | 02
05 | IN | PULASKI COUNTY | 1804820004A | 02-JUN-2004 | 04-05-3299A | 02
05 | IN | RANDOLPH COUNTY | 1804290002B | 21-JAN-2004 | 04-05-0427A | 02
05 | IN | ROCKPORT, CITY OF | 1802370250A | 21-MAY-2004 | 04-05-3255A | 02
05 | IN | ROCKPORT, CITY OF | 1802390001B | 21-MAY-2004 | 04-05-3255A | 02
05 | IN | RUSH COUNTY | 1804210100B | 17-JUN-2004 | 04-05-A045A | 02
05 | IN | RUSHVILLE, CITY OF | 1802230001B | 14-APR-2004 | 04-05-2377A | 02
05 | IN | SCHERERVILLE, TOWN OF | 1801420005B | 13-FEB-2004 | 04-05-1467A | 02
05 | IN | SCHERERVILLE, TOWN OF | 1801420005B | 25-FEB-2004 | 04-05-2060A | 02
05 | IN | SCHERERVILLE, TOWN OF | 1801260085B | 30-APR-2004 | 04-05-3082A | 01
05 | IN | SCOTT COUNTY | 1804740001B | 06-FEB-2004 | 04-05-1499A | 02
05 | IN | SEYMOUR, CITY OF | 1800990004C | 04-FEB-2004 | 04-05-1308A | 02
05 | IN | SEYMOUR, CITY OF | 1800990004C | 17-MAR-2004 | 04-05-1463A | 02
05 | IN | SEYMOUR, CITY OF | 1800990004C | 18-FEB-2004 | 04-05-1596A | 01
05 | IN | SEYMOUR, CITY OF | 1800990004C | 11-FEB-2004 | 04-05-1672A | 02
05 | IN | SEYMOUR, CITY OF | 1800990004C | 10-MAR-2004 | 04-05-1676A | 02
05 | IN | SEYMOUR, CITY OF | 1800990004C | 10-MAR-2004 | 04-05-1677A | 02
05 | IN | SHELBY COUNTY | 1802350015B | 28-JAN-2004 | 04-05-1586A | 02
05 | IN | ST. JOSEPH COUNTY | 1802240040B | 14-APR-2004 | 03-05-5701A | 02
05 | IN | STARKE COUNTY | 1802400002B | 23-JAN-2004 | 04-05-1671A | 02
05 | IN | STEUBEN COUNTY | 1802430025B | 14-JUN-2004 | 04-05-A003A | 02
05 | IN | STEUBEN COUNTY | 1802430100B | 09-JUN-2004 | 04-05-A017A | 02
05 | IN | STEUBEN COUNTY | 1802430025B | 14-JAN-2004 | 04-05-0825A | 02
05 | IN | STEUBEN COUNTY | 1802430025B | 21-JAN-2004 | 04-05-1444A | 02
05 | IN | STEUBEN COUNTY | 1802430075B | 28-JAN-2004 | 04-05-1539A | 02
05 | IN | STEUBEN COUNTY | 1802430075B | 06-FEB-2004 | 04-05-1561A | 02
05 | IN | STEUBEN COUNTY | 1802430025B | 06-FEB-2004 | 04-05-1744A | 02
05 | IN | STEUBEN COUNTY | 1802430025B | 11-FEB-2004 | 04-05-1787A | 02
05 | IN | STEUBEN COUNTY | 1802430075B | 25-FEB-2004 | 04-05-2075A | 02
05 | IN | STEUBEN COUNTY | 1802430100B | 12-MAY-2004 | 04-05-2191A | 02
05 | IN | STEUBEN COUNTY | 1802430075B | 19-MAR-2004 | 04-05-2313A | 02
05 | IN | STEUBEN COUNTY | 1802430075B | 16-APR-2004 | 04-05-2947A | 02
05 | IN | STEUBEN COUNTY | 1802430100B | 19-MAY-2004 | 04-05-3348A | 02
05 | IN | SYRACUSE, TOWN OF | 18085C0031C | 23-APR-2004 | 04-05-3084A | 02
05 | IN | TELL CITY, CITY OF | 180197_06B | 21-JAN-2004 | 04-05-0005A | 02
05 | IN | TIPPECANOE COUNTY | 1804280015B | 14-JAN-2004 | 04-05-1303A | 02
05 | IN | TIPPECANOE COUNTY | 1804280015B | 18-JUN-2004 | 04-05-2106A | 02
05 | IN | TIPTON COUNTY | 1804750002B | 28-APR-2004 | 04-05-2543A | 02
05 | IN | TIPTON, CITY OF | 1802550001C | 17-MAR-2004 | 04-05-2577A | 02
05 | IN | TIPTON, CITY OF | 1802550001C | 24-MAR-2004 | 04-05-2703A | 02
05 | IN | TIPTON, CITY OF | 1802550001C | 09-APR-2004 | 04-05-2841A | 02
05 | IN | TIPTON, CITY OF | 1802550001C | 14-APR-2004 | 04-05-2866A | 02
05 | IN | VANDERBURGH COUNTY | 1802560025C | 18-JUN-2004 | 04-05-A006A | 01
05 | IN | VANDERBURGH COUNTY | 1802560075C | 04-JUN-2004 | 04-05-A013A | 02
05 | IN | VANDERBURGH COUNTY | 1802560025C | 23-JUN-2004 | 04-05-A044A | 02
05 | IN | VANDERBURGH COUNTY * | 1802560100B | 08-JAN-2004 | 04-05-1187A | 01
05 | IN | VANDERBURGH COUNTY * | 1802560025C | 29-JAN-2004 | 04-05-1197A | 02
05 | IN | VANDERBURGH COUNTY * | 1802560025C | 20-JAN-2004 | 04-05-1203A | 02
05 | IN | VANDERBURGH COUNTY * | 1802560025C | 05-FEB-2004 | 04-05-1855A | 02
05 | IN | VANDERBURGH COUNTY * | 1802560025C | 23-FEB-2004 | 04-05-1863A | 01
05 | IN | VANDERBURGH COUNTY * | 1802560025C | 23-FEB-2004 | 04-05-1864A | 01
05 | IN | VANDERBURGH COUNTY * | 1802560025C | 19-FEB-2004 | 04-05-1865A | 02
05 | IN | VANDERBURGH COUNTY * | 1802560025C | 15-APR-2004 | 04-05-1873A | 02
05 | IN | VANDERBURGH COUNTY * | 1802560025C | 29-MAR-2004 | 04-05-1878A | 02
05 | IN | VANDERBURGH COUNTY * | 1802560100B | 17-MAY-2004 | 04-05-1898A | 02
05 | IN | VANDERBURGH COUNTY * | 1802560025C | 07-JUN-2004 | 04-05-1899A | 02
05 | IN | VANDERBURGH COUNTY * | 1802560025C | 20-MAY-2004 | 04-05-2592A | 02
05 | IN | VANDERBURGH COUNTY * | 1802560025C | 27-MAY-2004 | 04-05-2605A | 02
05 | IN | VANDERBURGH COUNTY * | 1802760075C | 01-JUN-2004 | 04-05-2646A | 02
05 | IN | VANDERBURGH COUNTY * | 1802560025C | 21-JUN-2004 | 04-05-3193A | 02
05 | IN | VANDERBURGH COUNTY * | 1802560025C | 24-JUN-2004 | 04-05-3194A | 01
05 | IN | VEVAY, TOWN OF | 1803520001B | 04-FEB-2004 | 04-05-1550A | 02
05 | IN | VIGO COUNTY | 1802630055B | 10-MAR-2004 | 03-05-4574A | 01
05 | IN | VIGO COUNTY | 1802630065B | 10-MAR-2004 | 03-05-4574A | 01
05 | IN | VIGO COUNTY | 1802630070B | 11-FEB-2004 | 04-05-0001A | 02
05 | IN | VIGO COUNTY | 1802630150B | 21-APR-2004 | 04-05-1700A | 02
05 | IN | VIGO COUNTY | 1802630070B | 30-APR-2004 | 04-05-3055A | 02
05 | IN | VINCENNES, CITY OF | 1801200005C | 02-JUN-2004 | 04-05-3056A | 02
05 | IN | WABASH, CITY OF | 18169C0070D | 16-JAN-2004 | 03-05-5522A | 02
05 | IN | WABASH, CITY OF | 18169C0070D | 12-MAR-2004 | 04-05-2146A | 02
05 | IN | WARRICK COUNTY | 1804180100C | 26-MAR-2004 | 04-05-2554A | 02
05 | IN | WARRICK COUNTY | 1804180100C | 21-MAY-2004 | 04-05-3301A | 02
05 | IN | WARRICK COUNTY | 1804180125B | 14-JUL-2004 | 04-05-3335A | 02
05 | IN | WARRICK COUNTY | 1804180200B | 14-JUL-2004 | 04-05-3335A | 02
05 | IN | WARSAW, CITY OF | 18085C0067C | 25-FEB-2004 | 04-05-2141A | 02
05 | IN | WARSAW, CITY OF | 18085C0067C | 16-JUL-2004 | 04-05-2486A | 02
05 | IN | WESTFIELD, TOWN OF | 18057C0115F | 08-MAR-2004 | 03-05-4410A | 02
05 | IN | WESTFIELD, TOWN OF | 18057C0130F | 28-MAY-2004 | 04-05-2499A | 02
05 | IN | WESTFIELD, TOWN OF | 18057C0140F | 21-MAY-2004 | 04-05-3044A | 01
05 | IN | WHITE COUNTY | 1804470002C | 14-JAN-2004 | 04-05-1342A | 02
05 | IN | WHITE COUNTY | 1804470002C | 06-FEB-2004 | 04-05-1421A | 02
05 | IN | WHITE COUNTY | 1804470005C | 23-JAN-2004 | 04-05-1597A | 02
05 | IN | WHITE COUNTY | 1804470005C | 06-FEB-2004 | 04-05-1713A | 02
05 | IN | WHITE COUNTY | 1804470002C | 11-FEB-2004 | 04-05-1818A | 02
05 | IN | WHITE COUNTY | 1804470005C | 13-FEB-2004 | 04-05-1840A | 02
05 | IN | WHITE COUNTY | 1804470002C | 13-FEB-2004 | 04-05-1951A | 02
05 | IN | WHITE COUNTY | 1804470002C | 18-FEB-2004 | 04-05-2025A | 02
05 | IN | WHITE COUNTY | 1804470002C | 19-MAR-2004 | 04-05-2109A | 02
05 | IN | WHITE COUNTY | 1804470005C | 25-FEB-2004 | 04-05-2159A | 02
05 | IN | WHITE COUNTY | 1804470002C | 17-MAR-2004 | 04-05-2429A | 02
05 | IN | WHITE COUNTY | 1804470002C | 14-MAY-2004 | 04-05-2731A | 02
05 | IN | WHITE COUNTY | 1804470005C | 23-APR-2004 | 04-05-3114A | 02
05 | IN | WHITE COUNTY | 1804470005C | 30-JUL-2004 | 04-05-3383A | 02
05 | IN | WHITELAND, TOWN OF | 1801180001A | 09-JAN-2004 | 04-05-1146A | 01
05 | IN | WHITELAND, TOWN OF | 1801180001A | 14-MAY-2004 | 04-05-3396A | 02
05 | IN | WHITLEY COUNTY | 1802980002B | 28-MAY-2004 | 04-05-A009A | 02
05 | IN | WHITLEY COUNTY | 1802980002B | 25-FEB-2004 | 04-05-1106A | 02
05 | IN | WHITLEY COUNTY | 1802980001B | 30-JAN-2004 | 04-05-1618A | 02
05 | IN | WHITLEY COUNTY | 1802980001B | 02-APR-2004 | 04-05-2638A | 02
05 | IN | WHITLEY COUNTY | 1802980002B | 19-MAY-2004 | 04-05-3143A | 02
05 | IN | WHITLEY COUNTY | 1802980001B | 23-JUN-2004 | 04-05-3158A | 02
05 | IN | WINONA LAKE, TOWN OF | 18085C0086C | 04-JUN-2004 | 04-05-A011A | 02
05 | IN | WINONA LAKE, TOWN OF | 18085C0086C | 06-FEB-2004 | 03-05-5516A | 02
05 | IN | WINONA LAKE, TOWN OF | 18085C0086C | 07-JAN-2004 | 04-05-1009A | 02
05 | IN | WINONA LAKE, TOWN OF | 18085C0086C | 25-FEB-2004 | 04-05-2166A | 02
05 | IN | YORKTOWN, TOWN OF | 1803610001A | 02-JUN-2004 | 04-05-2379A | 02
05 | MI | ADA, TOWNSHIP OF | 2602480010B | 22-JUN-2004 | 04-05-2113A | 01
05 | MI | ANN ARBOR, CITY OF | 2602130010C | 20-FEB-2004 | 04-05-1526A | 17
05 | MI | ANN ARBOR, CITY OF | 2602130005D | 14-APR-2004 | 04-05-2690A | 02
05 | MI | ARGENTINE, TOWNSHIP OF | 2603920010A | 16-APR-2004 | 04-05-2933A | 02
05 | MI | AU TRAIN, TOWNSHIP OF | 2603420025C | 26-MAR-2004 | 04-05-2490A | 02
05 | MI | AUGRES, TOWNSHIP OF | 2600130025B | 03-MAR-2004 | 04-05-2134A | 02
05 | MI | BALDWIN, TOWNSHIP OF | 2600990016D | 09-JUN-2004 | 04-05-3631A | 02
05 | MI | BANGOR, CHARTER TOWNSHIP OF | 26017C0140D | 09-JAN-2004 | 03-05-4926A | 02
05 | MI | BANGOR, CHARTER TOWNSHIP OF | 26017C0140D | 10-MAR-2004 | 04-05-0276A | 02
05 | MI | BANGOR, CHARTER TOWNSHIP OF | 26017C0145D | 09-APR-2004 | 04-05-1351A | 01
05 | MI | BANGOR, CHARTER TOWNSHIP OF | 26017C0140D | 03-MAR-2004 | 04-05-2023A | 02
05 | MI | BANGOR, CHARTER TOWNSHIP OF | 26017C0140D | 13-FEB-2004 | 04-05-2055A | 02
05 | MI | BANGOR, CHARTER TOWNSHIP OF | 26017C0140D | 24-MAR-2004 | 04-05-2545X | 02
05 | MI | BANGOR, CHARTER TOWNSHIP OF | 26017C0140D | 07-APR-2004 | 04-05-2852A | 02
05 | MI | BANGOR, CHARTER TOWNSHIP OF | 26017C0140D | 09-JUN-2004 | 04-05-3489A | 02
05 | MI | BAY MILLS, TOWNSHIP OF | 2603740050B | 07-JAN-2004 | 04-05-0277A | 02
05 | MI | BAY MILLS, TOWNSHIP OF | 2603740050B | 04-FEB-2004 | 04-05-1759A | 02
05 | MI | BAY MILLS, TOWNSHIP OF | 2603740025B | 21-MAY-2004 | 04-05-3167A | 02
05 | MI | BEAVER, TOWNSHIP OF | 26017C0100D | 16-JAN-2004 | 04-05-1004A | 02
05 | MI | BEDFORD, TOWNSHIP OF | 26115C0363D | 07-MAY-2004 | 04-05-1638P | 06
05 | MI | BEDFORD, TOWNSHIP OF | 2600520010B | 11-FEB-2004 | 04-05-2012A | 02
05 | MI | BEDFORD, TOWNSHIP OF | 26115C0364D | 31-MAR-2004 | 04-05-2152A | 02
05 | MI | BEDFORD, TOWNSHIP OF | 2600520005B | 04-JUN-2004 | 04-05-2508A | 02
05 | MI | BELLEVUE, VILLAGE OF | 260566_01A | 12-MAR-2004 | 04-05-2250A | 02
05 | MI | BENTON, TOWNSHIP OF | 2600310002B | 16-APR-2004 | 04-05-2614A | 01
05 | MI | BLOOMFIELD HILLS, CITY OF | 2607120001A | 21-JUL-2004 | 04-05-2956A | 17
05 | MI | BLOOMFIELD, TOWNSHIP OF | 2601690004C | 26-MAY-2004 | 04-05-3030A | 02
05 | MI | BLOOMFIELD, TOWNSHIP OF | 2601690010B | 23-JUN-2004 | 04-05-3625A | 02
05 | MI | BOYNE CITY, CITY OF | 2600560001B | 05-MAR-2004 | 04-05-1528A | 01
05 | MI | BOYNE CITY, CITY OF | 2600560001B | 30-JUN-2004 | 04-05-3534X | 01
05 | MI | BRANT, TOWNSHIP OF | 26145C0230D | 14-JAN-2004 | 04-05-1443A | 02
05 | MI | BRIDGEPORT, CHARTER TOWNSHIP OF | 26145C0200D | 09-JAN-2004 | 04-05-0732A | 02
05 | MI | BRIDGETON, TOWNSHIP OF | 2604660005B | 28-MAY-2004 | 04-05-3265A | 02
05 | MI | BROOKS, TOWNSHIP OF | 2604670010B | 07-JAN-2004 | 04-05-1062A | 02
05 | MI | BROWNSTOWN, CHARTER TOWNSHIP OF | 2602180010B | 12-MAY-2004 | 04-05-2330P | 06
05 | MI | BROWNSTOWN, CHARTER TOWNSHIP OF | 2602180005D | 14-JUN-2004 | 04-05-3598A | 02
05 | MI | BRUCE, TOWNSHIP OF | 2603750025A | 07-JAN-2004 | 04-05-0278A | 02
05 | MI | BRUCE, TOWNSHIP OF | 2608840025A | 14-APR-2004 | 04-05-2232A | 02
05 | MI | BRUCE, TOWNSHIP OF | 2603750050A | 26-MAY-2004 | 04-05-2279A | 02
05 | MI | BRUCE, TOWNSHIP OF | 2608840025A | 31-MAR-2004 | 04-05-2503A | 02
05 | MI | BUENA VISTA, TOWNSHIP OF | 26145C0085D | 20-FEB-2004 | 04-05-1843A | 02
05 | MI | BUENA VISTA, TOWNSHIP OF | 26145C0090D | 12-MAR-2004 | 04-05-2264A | 02
05 | MI | BURTON, CITY OF | 2602870001B | 23-JUL-2004 | 04-05-3058A | 02
05 | MI | CALEDONIA, TOWNSHIP OF | 2606930005B | 17-MAR-2004 | 04-05-2317A | 02
05 | MI | CANTON, TOWNSHIP OF | 2602190005B | 27-FEB-2004 | 04-05-1746A | 17
05 | MI | CASEVILLE, VILLAGE OF | 2606770001B | 21-MAY-2004 | 04-05-3366A | 02
05 | MI | CHEBOYGAN, CITY OF | 2600580005B | 16-JAN-2004 | 04-05-0429A | 02
05 | MI | CHERRY GROVE, TOWNSHIP OF | 26165C0451C | 28-JUL-2004 | 04-05-3694A | 02
05 | MI | CHESTERFIELD, TOWNSHIP OF | 2601200005B | 16-JAN-2004 | 04-05-0447A | 02
05 | MI | CHESTERFIELD, TOWNSHIP OF | 2601200010B | 16-JAN-2004 | 04-05-0728A | 17
05 | MI | CHESTERFIELD, TOWNSHIP OF | 2601200010B | 03-MAR-2004 | 04-05-1999A | 02
05 | MI | CHESTERFIELD, TOWNSHIP OF | 2601200010B | 20-MAY-2004 | 04-05-2032A | 02
05 | MI | CHESTERFIELD, TOWNSHIP OF | 2601200010B | 21-APR-2004 | 04-05-3007A | 02
05 | MI | CHESTERFIELD, TOWNSHIP OF | 2601200010B | 07-MAY-2004 | 04-05-3260A | 02
05 | MI | CHESTERFIELD, TOWNSHIP OF | 2601200010B | 16-JUL-2004 | 04-05-3942A | 02
05 | MI | CHOCOLAY, TOWNSHIP OF | 2604480015B | 05-MAY-2004 | 04-05-3098A | 02
05 | MI | CLAY, TOWNSHIP OF | 2601940001B | 19-MAR-2004 | 04-05-1116A | 02
05 | MI | CLAY, TOWNSHIP OF | 2601940001B | 24-MAR-2004 | 04-05-1357A | 02
05 | MI | CLAY, TOWNSHIP OF | 2601940001B | 18-FEB-2004 | 04-05-1932A | 02
05 | MI | CLAY, TOWNSHIP OF | 2601940003B | 10-MAR-2004 | 04-05-2349A | 02
05 | MI | CLAY, TOWNSHIP OF | 2601940003B | 31-MAR-2004 | 04-05-2582A | 02
05 | MI | CLAY, TOWNSHIP OF | 2601940003B | 05-MAY-2004 | 04-05-3294A | 02
05 | MI | CLINTON, CHARTER TOWNSHIP OF | 2601210005E | 19-FEB-2004 | 04-05-0884P | 05
05 | MI | CLINTON, CHARTER TOWNSHIP OF | 2601210005E | 09-JUL-2004 | 04-05-3641A | 02
05 | MI | COLDWATER, CITY OF | 2608130005A | 07-APR-2004 | 04-05-2820A | 02
05 | MI | COMMERCE, TOWNSHIP OF | 2604730005B | 12-MAY-2004 | 04-05-3378A | 02
05 | MI | COMMERCE, TOWNSHIP OF | 2604730005B | 21-MAY-2004 | 04-05-3446A | 02
05 | MI | CORUNNA, CITY OF | 2606020001A | 16-JAN-2004 | 04-05-1118A | 02
05 | MI | CORUNNA, CITY OF | 2606020001A | 16-APR-2004 | 04-05-2936A | 02
05 | MI | DE WITT, CITY OF | 2600600005B | 13-FEB-2004 | 03-05-4773A | 02
05 | MI | DE WITT, TOWNSHIP OF | 2606310005B | 16-JAN-2004 | 04-05-0944A | 01
05 | MI | DEARBORN HEIGHTS, CITY OF | 2602210006B | 06-FEB-2004 | 04-05-1616C | 02
05 | MI | DEARBORN HEIGHTS, CITY OF | 2602210006B | 25-JUN-2004 | 04-05-2724A | 17
05 | MI | DEARBORN HEIGHTS, CITY OF | 2602210007C | 12-MAY-2004 | 04-05-3121A | 02
05 | MI | DEARBORN HEIGHTS, CITY OF | 2602210007C | 28-MAY-2004 | 04-05-3528A | 02
05 | MI | DEARBORN, CITY OF | 2602200005D | 07-JAN-2004 | 04-05-1233A | 02
05 | MI | DEARBORN, CITY OF | 2602200005D | 28-JAN-2004 | 04-05-1553A | 02
05 | MI | DEARBORN, CITY OF | 2602200005D | 28-JAN-2004 | 04-05-1687A | 02
05 | MI | DEARBORN, CITY OF | 2602200005D | 27-FEB-2004 | 04-05-1992A | 02
05 | MI | DEARBORN, CITY OF | 2602200005D | 23-APR-2004 | 04-05-2998A | 02
05 | MI | DEARBORN, CITY OF | 2602200005D | 14-MAY-2004 | 04-05-3184A | 02
05 | MI | DEARBORN, CITY OF | 2602200005D | 19-MAY-2004 | 04-05-3432A | 02
05 | MI | DEARBORN, CITY OF | 2602200005D | 21-JUL-2004 | 04-05-3647A | 02
05 | MI | DEERFIELD, TOWNSHIP OF | 26073C0305C | 10-MAR-2004 | 04-05-2194A | 02
05 | MI | DEERFIELD, TOWNSHIP OF | 26073C0305C | 12-MAY-2004 | 04-05-3365A | 02
05 | MI | DETOUR, TOWNSHIP OF | 2607750001A | 13-FEB-2004 | 04-05-1817A | 02
05 | MI | DRUMMOND ISLAND, TOWNSHIP OF | 2608030025A | 03-MAR-2004 | 04-05-1722A | 02
05 | MI | DRUMMOND ISLAND, TOWNSHIP OF | 2608030075A | 11-FEB-2004 | 04-05-1757A | 02
05 | MI | DRUMMOND ISLAND, TOWNSHIP OF | 2608030025A | 24-MAR-2004 | 04-05-2569A | 02
05 | MI | DRUMMOND ISLAND, TOWNSHIP OF | 2608030075A | 30-APR-2004 | 04-05-2848A | 02
05 | MI | EAST GRAND RAPIDS, CITY OF | 2601050001B | 26-MAY-2004 | 04-05-3315A | 02
05 | MI | EAST GRAND RAPIDS, CITY OF | 2601050001B | 14-JUL-2004 | 04-05-3355A | 02
05 | MI | EGELSTON, TOWNSHIP OF | 2606800002B | 21-APR-2004 | 04-05-3032A | 02
05 | MI | EGELSTON, TOWNSHIP OF | 2606800002B | 16-JUN-2004 | 04-05-3570A | 02
05 | MI | EMMETT, TOWNSHIP OF | 2605610006A | 21-MAY-2004 | 04-05-3086A | 02
05 | MI | ERIE, TOWNSHIP OF | 26115C0388D | 12-MAR-2004 | 04-05-2350A | 02
05 | MI | ERIE, TOWNSHIP OF | 26115C0388D | 05-MAY-2004 | 04-05-2734A | 01
05 | MI | EVART, CITY OF | 2603270001C | 07-JAN-2004 | 04-05-0127A | 01
05 | MI | EVART, TOWNSHIP OF | 2608100025A | 27-FEB-2004 | 04-05-2180A | 02
05 | MI | FABIUS, TOWNSHIP OF | 2607810025A | 14-JAN-2004 | 04-05-0835A | 02
05 | MI | FABIUS, TOWNSHIP OF | 2607810025A | 06-FEB-2004 | 04-05-1754A | 02
05 | MI | FABIUS, TOWNSHIP OF | 2607810025A | 06-FEB-2004 | 04-05-1755A | 02
05 | MI | FABIUS, TOWNSHIP OF | 2607810025A | 18-FEB-2004 | 04-05-1815A | 02
05 | MI | FABIUS, TOWNSHIP OF | 2607810025A | 18-FEB-2004 | 04-05-2028A | 02
05 | MI | FABIUS, TOWNSHIP OF | 2607810025A | 20-FEB-2004 | 04-05-2196A | 02
05 | MI | FABIUS, TOWNSHIP OF | 2607810025A | 20-FEB-2004 | 04-05-2197A | 02
05 | MI | FABIUS, TOWNSHIP OF | 2607810025A | 24-MAR-2004 | 04-05-2541A | 02
05 | MI | FABIUS, TOWNSHIP OF | 2607810025A | 07-MAY-2004 | 04-05-3316A | 02
05 | MI | FABIUS, TOWNSHIP OF | 2607810025A | 14-JUN-2004 | 04-05-3680A | 02
05 | MI | FABIUS, TOWNSHIP OF | 2607810025A | 09-JUN-2004 | 04-05-3681A | 02
05 | MI | FARMINGTON HILLS, CITY OF | 2601720005C | 14-JAN-2004 | 04-05-0586A | 01
05 | MI | FARMINGTON HILLS, CITY OF | 2601720002C | 21-JAN-2004 | 04-05-1599A | 02
05 | MI | FARMINGTON HILLS, CITY OF | 2601720011C | 07-MAY-2004 | 04-05-2056A | 01
05 | MI | FLAT ROCK, CITY OF | 2602240003B | 25-FEB-2004 | 04-05-1470A | 01
05 | MI | FLAT ROCK, CITY OF | 2602240005B | 25-FEB-2004 | 04-05-1470A | 01
05 | MI | FLAT ROCK, CITY OF | 2602240005B | 30-APR-2004 | 04-05-2084A | 01
05 | MI | FLUSHING, TOWNSHIP OF | 2603960009A | 14-MAY-2004 | 04-05-2944C | 02
05 | MI | FORD RIVER, TOWNSHIP OF | 26041C0791C | 05-MAY-2004 | 04-05-3129A | 02
05 | MI | FOWLERVILLE,VILLAGE OF | 2604390001A | 09-JAN-2004 | 04-05-1504A | 02
05 | MI | FOWLERVILLE,VILLAGE OF | 2604390001A | 03-MAR-2004 | 04-05-1825A | 02
05 | MI | FRANKENLUST, TOWNSHIP OF | 26017C0200D | 21-JAN-2004 | 04-05-1436A | 02
05 | MI | FRANKENLUST, TOWNSHIP OF | 26017C0200D | 14-MAY-2004 | 04-05-3393A | 02
05 | MI | FRASER, CITY OF | 2601220001B | 09-JAN-2004 | 04-05-1029A | 17
05 | MI | FRASER, CITY OF | 2601220001B | 14-JAN-2004 | 04-05-1154A | 02
05 | MI | FRASER, CITY OF | 2601220001B | 24-MAR-2004 | 04-05-1332A | 02
05 | MI | FRASER, CITY OF | 2601220001B | 14-JAN-2004 | 04-05-1383A | 02
05 | MI | FRASER, CITY OF | 2601220001B | 14-JAN-2004 | 04-05-1392A | 02
05 | MI | FRASER, CITY OF | 2601220001B | 14-JAN-2004 | 04-05-1393A | 02
05 | MI | FRASER, CITY OF | 2601220001B | 14-JAN-2004 | 04-05-1394A | 02
05 | MI | FRASER, CITY OF | 2601220001B | 14-JAN-2004 | 04-05-1396A | 02
05 | MI | FRASER, CITY OF | 2601220001B | 14-JAN-2004 | 04-05-1397A | 02
05 | MI | FRASER, CITY OF | 2601220001B | 14-JAN-2004 | 04-05-1409A | 02
05 | MI | FRASER, CITY OF | 2601220001B | 14-JAN-2004 | 04-05-1410A | 02
05 | MI | FRASER, CITY OF | 2601220001B | 14-JAN-2004 | 04-05-1412A | 02
05 | MI | FRASER, CITY OF | 2601220001B | 07-JAN-2004 | 04-05-1458A | 02
05 | MI | FRASER, CITY OF | 2601220001B | 21-JAN-2004 | 04-05-1501A | 02
05 | MI | FRASER, CITY OF | 2601220001B | 05-MAR-2004 | 04-05-2443A | 02
05 | MI | FRASER, CITY OF | 2601220001B | 23-APR-2004 | 04-05-3009A | 02
05 | MI | FRASER, CITY OF | 2601220001B | 25-JUN-2004 | 04-05-3635A | 02
05 | MI | FRASER, CITY OF | 2601220001B | 14-JUL-2004 | 04-05-3677A | 02
05 | MI | FRASER, TOWNSHIP OF | 26017C0110D | 07-APR-2004 | 04-05-2526A | 02
05 | MI | FRASER, TOWNSHIP OF | 26017C0065D | 12-MAY-2004 | 04-05-3179A | 02
05 | MI | FRENCHTOWN, CHARTER TOWNSHIP OF | 26115C0241D | 30-JUN-2004 | 04-05-1844A | 02
05 | MI | FRENDONIA, TOWNSHIP OF | 260562_06A | 19-MAY-2004 | 04-05-2318A | 02
05 | MI | FRENDONIA, TOWNSHIP OF | 260562_08A | 16-JUN-2004 | 04-05-3297A | 02
05 | MI | GEORGETOWN, CHARTER TOWNSHIP OF | 2605890003B | 13-FEB-2004 | 04-05-0915A | 02
05 | MI | GEORGETOWN, CHARTER TOWNSHIP OF | 2605890003B | 16-JAN-2004 | 04-05-0962A | 17
05 | MI | GEORGETOWN, CHARTER TOWNSHIP OF | 2605890003B | 19-MAR-2004 | 04-05-2042A | 01
05 | MI | GEORGETOWN, CHARTER TOWNSHIP OF | 2605890005B | 19-MAR-2004 | 04-05-2042A | 01
05 | MI | GEORGETOWN, CHARTER TOWNSHIP OF | 2605890003B | 16-APR-2004 | 04-05-2575A | 01
05 | MI | GIBRALTAR, CITY OF | 2602260001B | 19-MAY-2004 | 04-05-3049A | 02
05 | MI | GRAND BLANC, CITY OF | 2602550001B | 29-JUN-2004 | 03-05-2569P | 05
05 | MI | GRAND BLANC, TOWNSHIP OF | 2600790010B | 07-APR-2004 | 04-05-2906A | 02
05 | MI | GRAND HAVEN, TOWNSHIP OF | 2602700005B | 16-JAN-2004 | 04-05-1469A | 02
05 | MI | GRAND HAVEN, TOWNSHIP OF | 2602700005B | 27-FEB-2004 | 04-05-2026A | 02
05 | MI | GRAND HAVEN, TOWNSHIP OF | 2602700005B | 18-FEB-2004 | 04-05-2076A | 02
05 | MI | GRAND RAPIDS, CITY OF | 2601060025C | 27-FEB-2004 | 03-05-4861A | 01
05 | MI | GRAND RAPIDS, CITY OF | 2601060025C | 31-MAR-2004 | 04-05-2555A | 02
05 | MI | GRANDVILLE, CITY OF | 2602710004B | 10-MAR-2004 | 04-05-2174A | 02
05 | MI | GRANDVILLE, CITY OF | 2602710002B | 09-APR-2004 | 04-05-2496A | 02
05 | MI | GRANDVILLE, CITY OF | 2602710001B | 23-APR-2004 | 04-05-2702A | 02
05 | MI | GRANDVILLE, CITY OF | 2602710002B | 28-APR-2004 | 04-05-3051A | 02
05 | MI | GRANDVILLE, CITY OF | 2602710004B | 09-JUL-2004 | 04-05-3595A | 02
05 | MI | GREEN OAK, TOWNSHIP OF | 2604400005B | 14-APR-2004 | 04-05-3012A | 02
05 | MI | GREEN OAK, TOWNSHIP OF | 2604400005B | 21-APR-2004 | 04-05-3018A | 02
05 | MI | GREEN OAK, TOWNSHIP OF | 2604400015B | 05-MAY-2004 | 04-05-3103A | 02
05 | MI | GREEN OAK, TOWNSHIP OF | 2604400010B | 30-JUL-2004 | 04-05-3577A | 02
05 | MI | GREENBUSH, TOWNSHIP OF | 2600010007C | 21-JAN-2004 | 03-05-5687A | 02
05 | MI | GREENBUSH, TOWNSHIP OF | 2600010004C | 14-JAN-2004 | 04-05-1069A | 02
05 | MI | GREENBUSH, TOWNSHIP OF | 2600010004C | 27-FEB-2004 | 04-05-2265A | 02
05 | MI | GREENBUSH, TOWNSHIP OF | 2600010004C | 10-MAR-2004 | 04-05-2266A | 02
05 | MI | GREENBUSH, TOWNSHIP OF | 2600010007C | 07-APR-2004 | 04-05-2907A | 02
05 | MI | GREENBUSH, TOWNSHIP OF | 2600010007C | 16-APR-2004 | 04-05-2958A | 02
05 | MI | GROSSE ILE, TOWNSHIP OF | 2602270005B | 23-JAN-2004 | 04-05-1714A | 02
05 | MI | GROSSE ILE, TOWNSHIP OF | 2602270010B | 27-FEB-2004 | 04-05-2024A | 02
05 | MI | GROSSE ILE, TOWNSHIP OF | 2602270010B | 16-APR-2004 | 04-05-2766A | 02
05 | MI | GROSSE ILE, TOWNSHIP OF | 2602270010B | 23-APR-2004 | 04-05-2773A | 02
05 | MI | HAMBURG, TOWNSHIP OF | 2601180010C | 10-MAR-2004 | 04-05-2283A | 02
05 | MI | HAMPTON, TOWNSHIP OF | 26017C0185D | 13-FEB-2004 | 04-05-1389A | 02
05 | MI | HAMPTON, TOWNSHIP OF | 26017C0185D | 18-FEB-2004 | 04-05-1823A | 02
05 | MI | HAMPTON, TOWNSHIP OF | 26017C0185D | 11-FEB-2004 | 04-05-1824A | 02
05 | MI | HAMPTON, TOWNSHIP OF | 26017C0190D | 25-FEB-2004 | 04-05-2130A | 02
05 | MI | HAMPTON, TOWNSHIP OF | 26017C0185D | 12-MAR-2004 | 04-05-2386A | 02
05 | MI | HAMPTON, TOWNSHIP OF | 26017C0190D | 12-MAR-2004 | 04-05-2525A | 02
05 | MI | HAMPTON, TOWNSHIP OF | 26017C0185D | 24-MAR-2004 | 04-05-2529A | 02
05 | MI | HAMPTON, TOWNSHIP OF | 26017C0185D | 09-JUN-2004 | 04-05-3521A | 01
05 | MI | HARRISON, TOWNSHIP OF | 2601230005C | 07-JAN-2004 | 04-05-1170A | 02
05 | MI | HARRISON, TOWNSHIP OF | 2601230010C | 27-FEB-2004 | 04-05-1260A | 02
05 | MI | HARRISON, TOWNSHIP OF | 2601230010C | 10-MAR-2004 | 04-05-1287A | 01
05 | MI | HARRISON, TOWNSHIP OF | 2601230005C | 09-JAN-2004 | 04-05-1313A | 02
05 | MI | HARRISON, TOWNSHIP OF | 2601230010C | 23-JAN-2004 | 04-05-1500A | 02
05 | MI | HARRISON, TOWNSHIP OF | 2601230010C | 06-FEB-2004 | 04-05-1538A | 02
05 | MI | HARRISON, TOWNSHIP OF | 2601230005C | 30-JAN-2004 | 04-05-1600A | 02
05 | MI | HARRISON, TOWNSHIP OF | 2601230010C | 28-JAN-2004 | 04-05-1603A | 02
05 | MI | HARRISON, TOWNSHIP OF | 2601230010C | 06-FEB-2004 | 04-05-1604A | 02
05 | MI | HARRISON, TOWNSHIP OF | 2601230005C | 11-FEB-2004 | 04-05-1696A | 02
05 | MI | HARRISON, TOWNSHIP OF | 2601230005C | 06-FEB-2004 | 04-05-1770A | 02
05 | MI | HARRISON, TOWNSHIP OF | 2601230010C | 25-FEB-2004 | 04-05-2070A | 02
05 | MI | HARRISON, TOWNSHIP OF | 2601230010C | 03-MAR-2004 | 04-05-2286A | 02
05 | MI | HARRISON, TOWNSHIP OF | 2601230005C | 19-MAR-2004 | 04-05-2481A | 02
05 | MI | HARRISON, TOWNSHIP OF | 2601230005C | 24-MAR-2004 | 04-05-2578A | 02
05 | MI | HARRISON, TOWNSHIP OF | 2601230005C | 24-MAR-2004 | 04-05-2634A | 02
05 | MI | HARRISON, TOWNSHIP OF | 2601230005C | 26-MAR-2004 | 04-05-2672A | 02
05 | MI | HARRISON, TOWNSHIP OF | 2601230010C | 31-MAR-2004 | 04-05-2781A | 02
05 | MI | HARRISON, TOWNSHIP OF | 2601230010C | 14-APR-2004 | 04-05-2786A | 02
05 | MI | HARRISON, TOWNSHIP OF | 2601230005C | 16-APR-2004 | 04-05-2792A | 02
05 | MI | HARRISON, TOWNSHIP OF | 2601230005C | 21-APR-2004 | 04-05-2809A | 02
05 | MI | HARRISON, TOWNSHIP OF | 2601230010C | 07-APR-2004 | 04-05-2846A | 02
05 | MI | HARRISON, TOWNSHIP OF | 2601230005C | 05-MAY-2004 | 04-05-2857A | 02
05 | MI | HARRISON, TOWNSHIP OF | 2601230010C | 21-MAY-2004 | 04-05-2954A | 01
05 | MI | HARRISON, TOWNSHIP OF | 2601230005C | 25-JUN-2004 | 04-05-3295A | 02
05 | MI | HARRISON, TOWNSHIP OF | 2601230010C | 14-MAY-2004 | 04-05-3307A | 02
05 | MI | HARRISON, TOWNSHIP OF | 2601230005C | 19-MAY-2004 | 04-05-3445A | 02
05 | MI | HARRISON, TOWNSHIP OF | 2601230010C | 28-MAY-2004 | 04-05-3473A | 02
05 | MI | HARRISON, TOWNSHIP OF | 2601230005C | 09-JUN-2004 | 04-05-3578A | 02
05 | MI | HARRISON, TOWNSHIP OF | 2601230005C | 04-JUN-2004 | 04-05-3615A | 02
05 | MI | HARRISON, TOWNSHIP OF | 2601230005C | 14-JUL-2004 | 04-05-3649A | 02
05 | MI | HARRISON, TOWNSHIP OF | 2601230010C | 30-JUN-2004 | 04-05-3692A | 02
05 | MI | HAYNES, TOWNSHIP OF | 260274_07A | 05-MAY-2004 | 04-05-3091A | 02
05 | MI | HAYNES, TOWNSHIP OF | 260274_06A | 14-MAY-2004 | 04-05-3392A | 02
05 | MI | HIGHLAND, TOWNSHIP OF | 2606500005A | 19-MAY-2004 | 04-05-2684A | 02
05 | MI | HIGHLAND, TOWNSHIP OF | 2606500010A | 04-JUN-2004 | 04-05-3479A | 02
05 | MI | HOLLAND, TOWNSHIP OF | 2604920003D | 13-FEB-2004 | 04-05-1935A | 02
05 | MI | HOLLAND, TOWNSHIP OF | 2604920003D | 09-JUN-2004 | 04-05-3172A | 02
05 | MI | HOPE, TOWNSHIP OF | 2606810005B | 23-JAN-2004 | 04-05-1425A | 02
05 | MI | HUDSON, CITY OF | 2601160001B | 14-JAN-2004 | 04-05-1399A | 02
05 | MI | HUDSON, TOWNSHIP OF | 2608070050B | 09-JUN-2004 | 04-05-3045A | 02
05 | MI | HUDSONVILLE, CITY OF | 2604930002A | 14-JAN-2004 | 04-05-1509X | 02
05 | MI | HURON, TOWNSHIP OF | 2604150001A | 18-FEB-2004 | 04-05-1242A | 02
05 | MI | IDA, TOWNSHIP OF | 26115C0215D | 14-MAY-2004 | 04-05-2364A | 02
05 | MI | IDA, TOWNSHIP OF | 26115C0355D | 19-MAY-2004 | 04-05-3503A | 02
05 | MI | IMLAY CITY, CITY OF | 2603370001B | 27-FEB-2004 | 04-05-0521A | 01
05 | MI | INDEPENDENCE, TOWNSHIP OF | 2604750006B | 06-FEB-2004 | 04-05-1679A | 02
05 | MI | INDEPENDENCE, TOWNSHIP OF | 2604750008B | 16-APR-2004 | 04-05-3033A | 02
05 | MI | IRA, TOWNSHIP OF | 2601990005B | 09-APR-2004 | 04-05-2853A | 02
05 | MI | IRA, TOWNSHIP OF | 2601990005B | 12-MAY-2004 | 04-05-3259A | 02
05 | MI | JAMES, TOWNSHIP OF | 26145C0130D | 04-FEB-2004 | 04-05-0989A | 01
05 | MI | JAMES, TOWNSHIP OF | 26145C0130D | 14-JAN-2004 | 04-05-1080A | 02
05 | MI | JAMES, TOWNSHIP OF | 26145C0130D | 23-JAN-2004 | 04-05-1442A | 02
05 | MI | JAMES, TOWNSHIP OF | 26145C0130D | 06-FEB-2004 | 04-05-1783A | 02
05 | MI | JOHNSTOWN, TOWNSHIP OF | 260355_05A | 09-JAN-2004 | 04-05-1402A | 02
05 | MI | JOHNSTOWN, TOWNSHIP OF | 260355_02A | 19-MAY-2004 | 04-05-3008A | 02
05 | MI | JOHNSTOWN, TOWNSHIP OF | 260355_07A | 14-MAY-2004 | 04-05-3109A | 02
05 | MI | KALAMAZOO, CITY OF | 2603150016C | 17-MAR-2004 | 04-05-1140A | 02
05 | MI | KALAMAZOO, CITY OF | 2603150016C | 21-APR-2004 | 04-05-3024A | 02
05 | MI | KAWKAWLIN, TOWNSHIP OF | 26017C0110D | 23-JUN-2004 | 04-05-3718A | 02
05 | MI | L'ANSE, VILLAGE OF | 260552_01A | 19-MAR-2004 | 04-05-2538A | 02
05 | MI | LAKE, TOWNSHIP OF | 260030009A | 16-APR-2004 | 04-05-2167A | 02
05 | MI | LAKE, TOWNSHIP OF | 260030_01A | 14-APR-2004 | 04-05-2870A | 02
05 | MI | LAKE, TOWNSHIP OF | 260030_09A | 12-MAY-2004 | 04-05-3269A | 02
05 | MI | LAKE, TOWNSHIP OF | 260030_09A | 16-JUL-2004 | 04-05-3496A | 02
05 | MI | LAKETOWN, TOWNSHIP OF | 2602530005A | 12-MAR-2004 | 04-05-1756A | 02
05 | MI | LANSING, CITY OF | 2600900006B | 13-FEB-2004 | 04-05-1743A | 02
05 | MI | LEELANAU, TOWNSHIP OF | 260114_07B | 07-JAN-2004 | 04-05-0927A | 02
05 | MI | LEELANAU, TOWNSHIP OF | 260114_07B | 11-FEB-2004 | 04-05-1763A | 02
05 | MI | LEELANAU, TOWNSHIP OF | 260114_11B | 20-FEB-2004 | 04-05-2043A | 02
05 | MI | LINCOLN PARK, CITY OF | 2602340002B | 23-JAN-2004 | 04-05-1023A | 02
05 | MI | LIVONIA, CITY OF | 2602330002B | 23-JAN-2004 | 04-05-1576A | 02
05 | MI | LIVONIA, CITY OF | 2602330003B | 17-MAR-2004 | 04-05-1952A | 17
05 | MI | LIVONIA, CITY OF | 2602330003B | 07-MAY-2004 | 04-05-2132A | 17
05 | MI | LONG LAKE, TOWNSHIP OF | 2607820025A | 26-MAR-2004 | 04-05-2101A | 02
05 | MI | LOWELL, CITY OF | 2601080001B | 03-MAR-2004 | 04-05-2277A | 02
05 | MI | MACOMB, TOWNSHIP OF | 2604450020B | 21-JUN-2004 | 04-05-0091P | 06
05 | MI | MACOMB, TOWNSHIP OF | 2604450015B | 18-FEB-2004 | 04-05-1003A | 17
05 | MI | MACOMB, TOWNSHIP OF | 2604450010B | 14-JAN-2004 | 04-05-1416A | 01
05 | MI | MAPLE GROVE, TOWNSHIP OF | 2606440001B | 14-APR-2004 | 04-05-2758A | 02
05 | MI | MARENGO, TOWNSHIP OF | 2605630005A | 24-MAR-2004 | 04-05-2380A | 02
05 | MI | MARENGO, TOWNSHIP OF | 2605630005A | 05-MAY-2004 | 04-05-3039A | 02
05 | MI | MARSHALL, TOWNSHIP OF | 2606420010A | 23-JUN-2004 | 04-05-3594A | 02
05 | MI | MASONVILLE, TOWNSHIP OF | 26041C0439C | 14-JAN-2004 | 04-05-1543A | 02
05 | MI | MASONVILLE, TOWNSHIP OF | 26041C0439C | 07-APR-2004 | 04-05-2736A | 02
05 | MI | MENOMINEE, TOWNSHIP OF | 2607020015B | 09-JAN-2004 | 04-05-1024A | 02
05 | MI | MENOMINEE, TOWNSHIP OF | 2607020030B | 02-APR-2004 | 04-05-1717A | 02
05 | MI | MENOMINEE, TOWNSHIP OF | 2607020015B | 07-MAY-2004 | 04-05-2252A | 02
05 | MI | MENOMINEE, TOWNSHIP OF | 2607020015B | 30-JUN-2004 | 04-05-3722A | 02
05 | MI | MERIDIAN, CHARTER TOWNSHIP OF | 2600930013B | 16-JAN-2004 | 04-05-1055A | 02
05 | MI | MERIDIAN, CHARTER TOWNSHIP OF | 2600930013B | 13-FEB-2004 | 04-05-1426A | 01
05 | MI | MERIDIAN, CHARTER TOWNSHIP OF | 2600930015B | 18-FEB-2004 | 04-05-2049A | 02
05 | MI | MERIDIAN, CHARTER TOWNSHIP OF | 2600930010B | 25-FEB-2004 | 04-05-2094A | 02
05 | MI | MERIDIAN, CHARTER TOWNSHIP OF | 2600930015B | 03-MAR-2004 | 04-05-2240A | 02
05 | MI | MERIDIAN, CHARTER TOWNSHIP OF | 2600930010B | 19-MAR-2004 | 04-05-2290A | 02
05 | MI | MERIDIAN, CHARTER TOWNSHIP OF | 2600930010B | 26-MAR-2004 | 04-05-2615A | 02
05 | MI | MERIDIAN, CHARTER TOWNSHIP OF | 2600930010B | 16-APR-2004 | 04-05-2711A | 02
05 | MI | MERIDIAN, CHARTER TOWNSHIP OF | 2600930010B | 05-MAY-2004 | 04-05-2905A | 02
05 | MI | MERIDIAN, CHARTER TOWNSHIP OF | 2600930015B | 14-MAY-2004 | 04-05-3390A | 02
05 | MI | MERIDIAN, CHARTER TOWNSHIP OF | 2600930010B | 26-MAY-2004 | 04-05-3452A | 02
05 | MI | MERIDIAN, CHARTER TOWNSHIP OF | 2600930015B | 28-MAY-2004 | 04-05-3610A | 02
05 | MI | MERIDIAN, CHARTER TOWNSHIP OF | 2600930010B | 09-JUN-2004 | 04-05-3645A | 02
05 | MI | MIDDLEVILLE, VILLAGE OF | 260356_01A | 28-APR-2004 | 04-05-1965A | 02
05 | MI | MIDLAND, CITY OF | 2601400008D | 12-MAR-2004 | 04-05-1097A | 02
05 | MI | MIDLAND, CITY OF | 2601400007D | 12-MAY-2004 | 04-05-3186A | 02
05 | MI | MIDLAND, CITY OF | 2601400007D | 26-MAY-2004 | 04-05-3502A | 02
05 | MI | MONROE, CITY OF | 26115C0244D | 23-JUN-2004 | 04-05-3708A | 02
05 | MI | MONROE, CITY OF | 26115C0244D | 21-JUL-2004 | 04-05-3833A | 02
05 | MI | MOUNT PLEASANT, CITY OF | 26073C0306C | 28-APR-2004 | 04-05-3061A | 02
05 | MI | NILES, TOWNSHIP OF | 260041_07B | 26-MAR-2004 | 04-05-2114A | 02
05 | MI | NORTHVILLE, CITY OF | 2602350001B | 03-MAR-2004 | 04-05-0819A | 02
05 | MI | NORTHVILLE, TOWNSHIP OF | 2606690005B | 14-MAY-2004 | 04-05-3391A | 02
05 | MI | NORTON SHORES, CITY OF | 2601650002A | 27-FEB-2004 | 04-05-0785A | 01
05 | MI | NORTON SHORES, CITY OF | 2601650001A | 14-JUN-2004 | 04-05-3653A | 02
05 | MI | NORVELL, TOWNSHIP OF | 260424_10A | 26-MAY-2004 | 04-05-3382A | 02
05 | MI | NORVELL, TOWNSHIP OF | 260424_04A | 16-JUN-2004 | 04-05-3590A | 02
05 | MI | NOTTAWA, TOWNSHIP OF | 26073C0165C | 13-FEB-2004 | 04-05-1513A | 02
05 | MI | NOTTAWA, TOWNSHIP OF | 2605140015B | 19-MAY-2004 | 04-05-3263A | 02
05 | MI | NOVI, CITY OF | 2601750005C | 05-FEB-2004 | 03-05-5165P | 05
05 | MI | NOVI, CITY OF | 2601750006C | 05-FEB-2004 | 03-05-5165P | 05
05 | MI | NOVI, CITY OF | 2601750005C | 07-JUL-2004 | 04-05-2635A | 01
05 | MI | ONOTA, TOWNSHIP OF | 2603450025B | 12-MAY-2004 | 04-05-3266A | 02
05 | MI | OSCODA, TOWNSHIP OF | 2601010025C | 11-FEB-2004 | 04-05-2010A | 02
05 | MI | OSCODA, TOWNSHIP OF | 2601010025C | 23-APR-2004 | 04-05-2400A | 02
05 | MI | OVID, VILLAGE OF | 2603180001C | 05-MAR-2004 | 04-05-2226A | 02
05 | MI | OWOSSO, CITY OF | 2605960004B | 18-FEB-2004 | 04-05-1765A | 02
05 | MI | OWOSSO, CITY OF | 2605960004B | 09-APR-2004 | 04-05-2382A | 02
05 | MI | OWOSSO, CITY OF | 2605960003B | 23-APR-2004 | 04-05-2845A | 02
05 | MI | OWOSSO, CITY OF | 2605960004B | 28-MAY-2004 | 04-05-3025A | 02
05 | MI | PARK, TOWNSHIP OF | 2601850001B | 07-APR-2004 | 04-05-2014A | 01
05 | MI | PAW PAW, VILLAGE OF | 260598_01A | 21-JAN-2004 | 04-05-1078A | 02
05 | MI | PAW PAW, VILLAGE OF | 260598_01A | 28-JUL-2004 | 04-05-3436A | 02
05 | MI | PENTWATER, VILLAGE OF | 2602770001B | 26-MAY-2004 | 04-05-2756A | 02
05 | MI | PITTSFIELD, CHARTER TOWNSHIP OF | 2606230020C | 09-APR-2004 | 03-05-2560P | 05
05 | MI | PLAINFIELD, TOWNSHIP OF | 2601090010B | 21-JAN-2004 | 03-05-5557A | 02
05 | MI | PLYMOUTH, CHARTER TOWNSHIP OF | 2602370005C | 02-JUL-2004 | 04-05-3068A | 17
05 | MI | PORTAGE, CITY OF | 2605770006A | 31-MAR-2004 | 04-05-2366A | 02
05 | MI | PORTLAND, TOWNSHIP OF | 2608310025A | 14-JAN-2004 | 04-05-0802A | 02
05 | MI | PORTLAND, TOWNSHIP OF | 2608310025A | 21-JUL-2004 | 04-05-3675A | 02
05 | MI | RABER, TOWNSHIP OF | 2607860025A | 18-FEB-2004 | 04-05-1663A | 02
05 | MI | REDFORD, TOWNSHIP OF | 2602380005B | 19-MAR-2004 | 04-05-1969A | 02
05 | MI | ROCHESTER HILLS, CITY OF | 2604710020B | 05-MAY-2004 | 04-05-2148A | 02
05 | MI | RUSH, TOWNSHIP OF | 260522_06A | 14-MAY-2004 | 04-05-3460A | 02
05 | MI | SAGINAW, TOWNSHIP OF | 26145C0130D | 18-MAR-2004 | 04-05-1384A | 02
05 | MI | SAGINAW, TOWNSHIP OF | 26145C0130D | 26-MAY-2004 | 04-05-2693A | 01
05 | MI | SALEM,TOWNSHIP OF | 2606360002B | 28-APR-2004 | 04-05-2254A | 02
05 | MI | SAULT SAINTE MARIE, CITY OF | 2600590006B | 07-JAN-2004 | 04-05-1461A | 02
05 | MI | SCIO, TOWNSHIP OF | 2605370025A | 23-JAN-2004 | 04-05-0858A | 02
05 | MI | SCIO, TOWNSHIP OF | 2605370004A | 11-FEB-2004 | 04-05-1134A | 01
05 | MI | SHELBY, TOWNSHIP OF | 2601260020B | 07-MAY-2004 | 04-05-3270A | 02
05 | MI | SILVER CREEK, TOWNSHIP OF | 260369_07B | 30-APR-2004 | 04-05-3037A | 02
05 | MI | SILVER CREEK, TOWNSHIP OF | 260369_01B | 16-JUN-2004 | 04-05-3333A | 02
05 | MI | SIMS, TOWNSHIP OF | 2600150006C | 16-JAN-2004 | 04-05-0577A | 02
05 | MI | SIMS, TOWNSHIP OF | 2600150003C | 05-MAY-2004 | 04-05-3111A | 02
05 | MI | SOUTHFIELD, CITY OF | 2601790010B | 23-APR-2004 | 04-05-2902A | 02
05 | MI | SPARTA, VILLAGE OF | 2603360001A | 04-JUN-2004 | 04-05-3419A | 02
05 | MI | SPRING LAKE, VILLAGE OF | 2602820001B | 07-APR-2004 | 04-05-2446A | 02
05 | MI | ST. CLAIR SHORES, CITY OF | 2601270005B | 18-FEB-2004 | 04-05-0213A | 02
05 | MI | ST. CLAIR SHORES, CITY OF | 2601270005B | 14-JAN-2004 | 04-05-1356A | 02
05 | MI | ST. CLAIR SHORES, CITY OF | 2601270005B | 07-JAN-2004 | 04-05-1385A | 02
05 | MI | ST. CLAIR SHORES, CITY OF | 2601270005B | 28-JAN-2004 | 04-05-1413A | 02
05 | MI | ST. CLAIR SHORES, CITY OF | 2601270005B | 16-JAN-2004 | 04-05-1456A | 02
05 | MI | ST. CLAIR SHORES, CITY OF | 2601270005B | 21-JAN-2004 | 04-05-1497A | 02
05 | MI | ST. CLAIR SHORES, CITY OF | 2601270005B | 23-JAN-2004 | 04-05-1515A | 02
05 | MI | ST. CLAIR SHORES, CITY OF | 2601270005B | 18-FEB-2004 | 04-05-1563A | 02
05 | MI | ST. CLAIR SHORES, CITY OF | 2601270005B | 13-FEB-2004 | 04-05-1933A | 02
05 | MI | ST. CLAIR SHORES, CITY OF | 2601270005B | 26-MAR-2004 | 04-05-1953A | 02
05 | MI | ST. CLAIR SHORES, CITY OF | 2601270005B | 27-FEB-2004 | 04-05-2015A | 02
05 | MI | ST. CLAIR SHORES, CITY OF | 2601270005B | 27-FEB-2004 | 04-05-2036A | 02
05 | MI | ST. CLAIR SHORES, CITY OF | 2601270005B | 20-FEB-2004 | 04-05-2045A | 02
05 | MI | ST. CLAIR SHORES, CITY OF | 2601270005B | 07-APR-2004 | 04-05-2104A | 02
05 | MI | ST. CLAIR SHORES, CITY OF | 2601270005B | 25-FEB-2004 | 04-05-2193A | 02
05 | MI | ST. CLAIR SHORES, CITY OF | 2601270005B | 17-MAR-2004 | 04-05-2246A | 02
05 | MI | ST. CLAIR SHORES, CITY OF | 2601270005B | 03-MAR-2004 | 04-05-2251A | 02
05 | MI | ST. CLAIR SHORES, CITY OF | 2601270005B | 10-MAR-2004 | 04-05-2285A | 02
05 | MI | ST. CLAIR SHORES, CITY OF | 2601270005B | 14-APR-2004 | 04-05-2585A | 02
05 | MI | ST. CLAIR SHORES, CITY OF | 2601270005B | 24-MAR-2004 | 04-05-2624A | 02
05 | MI | ST. CLAIR SHORES, CITY OF | 2601270005B | 05-MAY-2004 | 04-05-2682A | 02
05 | MI | ST. CLAIR SHORES, CITY OF | 2601270005B | 31-MAR-2004 | 04-05-2691A | 02
05 | MI | ST. CLAIR SHORES, CITY OF | 2601270005B | 28-APR-2004 | 04-05-2695A | 02
05 | MI | ST. CLAIR SHORES, CITY OF | 2601270005B | 23-APR-2004 | 04-05-2699A | 02
05 | MI | ST. CLAIR SHORES, CITY OF | 2601270005B | 07-APR-2004 | 04-05-2701A | 02
05 | MI | ST. CLAIR SHORES, CITY OF | 2601270005B | 14-APR-2004 | 04-05-2748A | 02
05 | MI | ST. CLAIR SHORES, CITY OF | 2601270005B | 02-APR-2004 | 04-05-2817A | 02
05 | MI | ST. CLAIR SHORES, CITY OF | 2601270005B | 05-MAY-2004 | 04-05-2819A | 02
05 | MI | ST. CLAIR SHORES, CITY OF | 2601270005B | 09-APR-2004 | 04-05-2903A | 02
05 | MI | ST. CLAIR SHORES, CITY OF | 2601270005B | 14-APR-2004 | 04-05-2990A | 02
05 | MI | ST. CLAIR SHORES, CITY OF | 2601270005B | 14-APR-2004 | 04-05-2991A | 02
05 | MI | ST. CLAIR SHORES, CITY OF | 2601270005B | 21-APR-2004 | 04-05-3021A | 02
05 | MI | ST. CLAIR SHORES, CITY OF | 2601270005B | 28-APR-2004 | 04-05-3034A | 02
05 | MI | ST. CLAIR SHORES, CITY OF | 2601270005B | 21-MAY-2004 | 04-05-3035A | 02
05 | MI | ST. CLAIR SHORES, CITY OF | 2601270005B | 21-APR-2004 | 04-05-3041A | 02
05 | MI | ST. CLAIR SHORES, CITY OF | 2601270005B | 26-MAY-2004 | 04-05-3050A | 02
05 | MI | ST. CLAIR SHORES, CITY OF | 2601270005B | 07-MAY-2004 | 04-05-3119A | 02
05 | MI | ST. CLAIR SHORES, CITY OF | 2601270005B | 19-MAY-2004 | 04-05-3136A | 02
05 | MI | ST. CLAIR SHORES, CITY OF | 2601270005B | 28-APR-2004 | 04-05-3165A | 02
05 | MI | ST. CLAIR SHORES, CITY OF | 2601270005B | 07-MAY-2004 | 04-05-3338A | 02
05 | MI | ST. CLAIR SHORES, CITY OF | 2601270005B | 12-MAY-2004 | 04-05-3342A | 02
05 | MI | ST. CLAIR SHORES, CITY OF | 2601270005B | 12-MAY-2004 | 04-05-3351A | 02
05 | MI | ST. CLAIR SHORES, CITY OF | 2601270005B | 26-MAY-2004 | 04-05-3375A | 02
05 | MI | ST. CLAIR SHORES, CITY OF | 2601270005B | 02-JUL-2004 | 04-05-3402A | 02
05 | MI | ST. CLAIR SHORES, CITY OF | 2601270005B | 14-MAY-2004 | 04-05-3410A | 02
05 | MI | ST. CLAIR SHORES, CITY OF | 2601270005B | 02-JUN-2004 | 04-05-3431A | 02
05 | MI | ST. CLAIR SHORES, CITY OF | 2601270005B | 26-MAY-2004 | 04-05-3491A | 02
05 | MI | ST. CLAIR SHORES, CITY OF | 2601270005B | 16-JUN-2004 | 04-05-3513A | 02
05 | MI | ST. CLAIR SHORES, CITY OF | 2601270005B | 26-MAY-2004 | 04-05-3522A | 02
05 | MI | ST. CLAIR SHORES, CITY OF | 2601270005B | 14-JUN-2004 | 04-05-3524A | 02
05 | MI | ST. CLAIR SHORES, CITY OF | 2601270005B | 02-JUN-2004 | 04-05-3569A | 02
05 | MI | ST. CLAIR SHORES, CITY OF | 2601270005B | 14-JUN-2004 | 04-05-3571A | 02
05 | MI | ST. CLAIR SHORES, CITY OF | 2601270005B | 02-JUN-2004 | 04-05-3597A | 02
05 | MI | ST. CLAIR SHORES, CITY OF | 2601270005B | 14-JUN-2004 | 04-05-3687A | 02
05 | MI | ST. JOSEPH, CITY OF | 2600440001B | 23-JUL-2004 | 04-05-3936A | 01
05 | MI | STERLING HEIGHTS, CITY OF | 2601280015F | 14-JAN-2004 | 04-05-1322A | 17
05 | MI | STERLING HEIGHTS, CITY OF | 2601280015F | 30-JAN-2004 | 04-05-1350A | 02
05 | MI | STERLING HEIGHTS, CITY OF | 2601280010E | 06-FEB-2004 | 04-05-1365A | 01
05 | MI | STERLING HEIGHTS, CITY OF | 2601280015F | 18-FEB-2004 | 04-05-1816A | 02
05 | MI | STERLING HEIGHTS, CITY OF | 2601280015F | 26-MAR-2004 | 04-05-2097A | 17
05 | MI | STERLING HEIGHTS, CITY OF | 2601280015F | 28-MAY-2004 | 04-05-2985A | 17
05 | MI | STERLING HEIGHTS, CITY OF | 2601280015F | 23-JUL-2004 | 04-05-3116A | 02
05 | MI | STERLING HEIGHTS, CITY OF | 2601280015F | 07-MAY-2004 | 04-05-3174A | 02
05 | MI | STRONACH, TOWNSHIP OF | 2608010025A | 11-FEB-2004 | 04-05-1309A | 02
05 | MI | SUMMIT, TOWNSHIP OF | 2605750009A | 25-JUN-2004 | 04-05-2966A | 01
05 | MI | SUPERIOR, TOWNSHIP OF | 2603800002B | 27-FEB-2004 | 04-05-2236A | 02
05 | MI | SUPERIOR, TOWNSHIP OF | 2603800002B | 05-MAY-2004 | 04-05-3144A | 02
05 | MI | SWAN CREEK, TOWNSHIP OF | 26145C0175D | 26-MAR-2004 | 04-05-2716A | 02
05 | MI | SWAN CREEK, TOWNSHIP OF | 26145C0175D | 02-APR-2004 | 04-05-2799A | 02
05 | MI | TAYLOR, CITY OF | 2607280004A | 19-MAR-2004 | 04-05-2403A | 02
05 | MI | TAYLOR, CITY OF | 2607280004A | 30-APR-2004 | 04-05-2404A | 17
05 | MI | TAYMOUTH, TOWNSHIP OF | 26145C0250D | 09-JAN-2004 | 04-05-1010A | 02
05 | MI | TAYMOUTH, TOWNSHIP OF | 26145C0250D | 31-MAR-2004 | 04-05-2498A | 02
05 | MI | THOMAS, TOWNSHIP OF | 26145C0130D | 23-JAN-2004 | 04-05-1487A | 02
05 | MI | TROY, CITY OF | 2601800004E | 11-MAR-2004 | 03-05-0535P | 05
05 | MI | TROY, CITY OF | 2601800004E | 06-FEB-2004 | 03-05-4568A | 02
05 | MI | TROY, CITY OF | 2601800004E | 13-FEB-2004 | 04-05-0597A | 02
05 | MI | TROY, CITY OF | 2601800006E | 13-FEB-2004 | 04-05-0597A | 02
05 | MI | TROY, CITY OF | 2601800004E | 14-JAN-2004 | 04-05-1073A | 02
05 | MI | TROY, CITY OF | 2601800006E | 14-JAN-2004 | 04-05-1232A | 02
05 | MI | TROY, CITY OF | 2601800004E | 06-FEB-2004 | 04-05-1673A | 02
05 | MI | TROY, CITY OF | 2601800006E | 27-FEB-2004 | 04-05-1795A | 02
05 | MI | TROY, CITY OF | 2601800003E | 03-MAR-2004 | 04-05-2016A | 02
05 | MI | TROY, CITY OF | 2601800004E | 24-MAR-2004 | 04-05-2082A | 02
05 | MI | TROY, CITY OF | 2601800004E | 24-MAR-2004 | 04-05-2291A | 02
05 | MI | TROY, CITY OF | 2601800006E | 07-APR-2004 | 04-05-2301A | 02
05 | MI | TROY, CITY OF | 2601800004E | 14-JUL-2004 | 04-05-2353A | 17
05 | MI | TROY, CITY OF | 2601800003E | 19-MAR-2004 | 04-05-2616X | 02
05 | MI | TROY, CITY OF | 2601800006E | 14-APR-2004 | 04-05-2937A | 02
05 | MI | TROY, CITY OF | 2601800006E | 19-MAY-2004 | 04-05-3149A | 02
05 | MI | TROY, CITY OF | 2601800006E | 21-MAY-2004 | 04-05-3512A | 02
05 | MI | TROY, CITY OF | 2601800006E | 23-JUN-2004 | 04-05-3661A | 02
05 | MI | TROY, CITY OF | 2601800004E | 14-JUL-2004 | 04-05-3679A | 02
05 | MI | VICTOR, TOWNSHIP OF | 2607200010B | 17-MAR-2004 | 04-05-1050A | 02
05 | MI | VICTOR, TOWNSHIP OF | 2607200010B | 30-APR-2004 | 04-05-3005A | 01
05 | MI | WALKER, CITY OF | 2601100010B | 17-MAR-2004 | 04-05-2495A | 02
05 | MI | WARREN, CITY OF | 2601290010C | 06-FEB-2004 | 04-05-1575A | 17
05 | MI | WARREN, CITY OF | 2601290010C | 27-FEB-2004 | 04-05-1963A | 02
05 | MI | WARREN, CITY OF | 2601290010C | 27-FEB-2004 | 04-05-2129A | 02
05 | MI | WARREN, CITY OF | 2601290005C | 12-MAR-2004 | 04-05-2212A | 02
05 | MI | WARREN, CITY OF | 2601290010C | 26-MAR-2004 | 04-05-2678A | 02
05 | MI | WARREN, CITY OF | 2601290005C | 23-APR-2004 | 04-05-2941A | 02
05 | MI | WARREN, CITY OF | 2601290010C | 30-APR-2004 | 04-05-3029A | 02
05 | MI | WARREN, CITY OF | 2601290010C | 28-MAY-2004 | 04-05-3506A | 02
05 | MI | WASHINGTON, TOWNSHIP OF | 2604470015A | 28-JAN-2004 | 04-05-1366A | 01
05 | MI | WASHINGTON, TOWNSHIP OF | 2604470015A | 03-MAY-2004 | 04-05-2331P | 06
05 | MI | WASHINGTON, TOWNSHIP OF | 2604470020A | 03-MAY-2004 | 04-05-2331P | 06
05 | MI | WASHINGTON, TOWNSHIP OF | 2604470020A | 23-JUN-2004 | 04-05-3271A | 02
05 | MI | WATERFORD, CHARTER TOWNSHIP OF | 2602840020B | 21-JAN-2004 | 04-05-0928A | 02
05 | MI | WATERFORD, CHARTER TOWNSHIP OF | 2602840005B | 27-FEB-2004 | 04-05-1262A | 02
05 | MI | WATERFORD, CHARTER TOWNSHIP OF | 2602840020B | 04-FEB-2004 | 04-05-1483A | 02
05 | MI | WATERFORD, CHARTER TOWNSHIP OF | 2602840010B | 19-MAR-2004 | 04-05-1686A | 02
05 | MI | WATERFORD, CHARTER TOWNSHIP OF | 2602840010B | 18-FEB-2004 | 04-05-1764A | 02
05 | MI | WATERFORD, CHARTER TOWNSHIP OF | 2602840010B | 13-FEB-2004 | 04-05-1808A | 02
05 | MI | WATERFORD, CHARTER TOWNSHIP OF | 2602840020B | 10-MAR-2004 | 04-05-1971A | 02
05 | MI | WATERFORD, CHARTER TOWNSHIP OF | 2602840020B | 27-FEB-2004 | 04-05-2081A | 02
05 | MI | WATERFORD, CHARTER TOWNSHIP OF | 2602840010B | 25-FEB-2004 | 04-05-2219A | 02
05 | MI | WATERFORD, CHARTER TOWNSHIP OF | 2602840010B | 05-MAR-2004 | 04-05-2235A | 02
05 | MI | WATERFORD, CHARTER TOWNSHIP OF | 2602840005B | 19-MAR-2004 | 04-05-2524A | 02
05 | MI | WATERFORD, CHARTER TOWNSHIP OF | 2602840005B | 21-APR-2004 | 04-05-2835A | 02
05 | MI | WATERFORD, CHARTER TOWNSHIP OF | 2602840010B | 21-APR-2004 | 04-05-2964A | 02
05 | MI | WATERFORD, CHARTER TOWNSHIP OF | 2602840020B | 30-JUN-2004 | 04-05-3486A | 02
05 | MI | WAYNE, CITY OF | 2602450005B | 11-FEB-2004 | 04-05-0264A | 02
05 | MI | WEST BLOOMFIELD, TOWNSHIP OF | 2601820011B | 06-FEB-2004 | 04-05-1723A | 02
05 | MI | WHITE LAKE, TOWNSHIP OF | 2604790010B | 03-MAR-2004 | 04-05-0702A | 01
05 | MI | WHITE LAKE, TOWNSHIP OF | 2604790005B | 11-FEB-2004 | 04-05-1453A | 02
05 | MI | WHITE LAKE, TOWNSHIP OF | 2604790005B | 25-FEB-2004 | 04-05-2150A | 02
05 | MI | WHITE LAKE, TOWNSHIP OF | 2604790010B | 21-APR-2004 | 04-05-2676A | 02
05 | MI | WHITE LAKE, TOWNSHIP OF | 2604790005B | 21-APR-2004 | 04-05-3011A | 02
05 | MI | WHITE LAKE, TOWNSHIP OF | 2604790005B | 14-JUL-2004 | 04-05-3579A | 02
05 | MI | WHITE OAK, TOWNSHIP OF | 260417_06A | 26-MAR-2004 | 04-05-2440A | 02
05 | MI | WHITEWATER, TOWNSHIP OF | 2607940025A | 18-FEB-2004 | 04-05-1109A | 02
05 | MI | WHITEWATER, TOWNSHIP OF | 2607940025A | 06-APR-2004 | 04-05-1641P | 06
05 | MI | WHITEWATER, TOWNSHIP OF | 2607940025A | 18-JUN-2004 | 04-05-3589A | 02
05 | MI | WILLIAMSTOWN, TOWNSHIP OF | 2600950005A | 31-MAR-2004 | 04-05-2064A | 02
05 | MI | WILLIAMSTOWN, TOWNSHIP OF | 2600950005A | 28-APR-2004 | 04-05-2170A | 02
05 | MI | WINDSOR, CHARTER TOWNSHIP OF | 2600710005C | 09-JAN-2004 | 04-05-1390A | 02
05 | MI | WOLVERINE LAKE, VILLAGE OF | 260480_01A | 09-JUN-2004 | 04-05-3576A | 02
05 | MI | WOODHAVEN, CITY OF | 2607300005A | 28-MAY-2004 | 04-05-3527A | 17
05 | MI | WOODHAVEN, CITY OF | 2607300005A | 14-JUN-2004 | 04-05-3678A | 02
05 | MI | WORTH, TOWNSHIP OF | 260296_06A | 09-JAN-2004 | 04-05-0425A | 02
05 | MI | WYANDOTTE, CITY OF | 2602460001B | 23-JUN-2004 | 04-05-3735A | 02
05 | MN | AFTON, CITY OF | 275226_06A | 06-FEB-2004 | 04-05-1086A | 02
05 | MN | AITKIN COUNTY | 2706280205C | 30-JAN-2004 | 04-05-1669A | 02
05 | MN | AITKIN COUNTY | 2706280205C | 04-FEB-2004 | 04-05-1772A | 02
05 | MN | AITKIN COUNTY | 2706280325C | 04-FEB-2004 | 04-05-1773A | 02
05 | MN | AITKIN COUNTY | 2706280215C | 04-FEB-2004 | 04-05-1774A | 02
05 | MN | AITKIN COUNTY | 2706280205C | 10-MAR-2004 | 04-05-1775A | 02
05 | MN | AITKIN COUNTY | 2706280275B | 10-MAR-2004 | 04-05-1777A | 02
05 | MN | AITKIN COUNTY | 2706280325C | 04-FEB-2004 | 04-05-1797A | 02
05 | MN | AITKIN COUNTY | 2706280240C | 20-FEB-2004 | 04-05-1821A | 02
05 | MN | AITKIN COUNTY | 2706280425B | 12-MAR-2004 | 04-05-2359A | 02
05 | MN | AITKIN COUNTY | 2706280055B | 16-APR-2004 | 04-05-2785A | 02
05 | MN | AITKIN COUNTY | 2706280400C | 14-JUN-2004 | 04-05-3700A | 02
05 | MN | AITKIN COUNTY | 2706280205C | 23-JUN-2004 | 04-05-3743A | 02
05 | MN | AITKIN, CITY OF | 2700010001B | 02-APR-2004 | 04-05-1776A | 02
05 | MN | AITKIN, CITY OF | 2700010001B | 09-JUL-2004 | 04-05-3668A | 17
05 | MN | ALBERT LEA, CITY OF | 2701350003B | 20-FEB-2004 | 04-05-2168A | 02
05 | MN | ANDOVER, CITY OF | 2706890015B | 20-FEB-2004 | 04-05-1369A | 02
05 | MN | ANDOVER, CITY OF | 2706890015B | 17-MAR-2004 | 04-05-2484A | 02
05 | MN | ANDOVER, CITY OF | 2706890015B | 28-MAY-2004 | 04-05-3262A | 02
05 | MN | ANDOVER, CITY OF | 2706890010B | 02-JUL-2004 | 04-05-3629A | 02
05 | MN | ANOKA COUNTY | 2700050050A | 14-JUL-2004 | 04-05-3978A | 02
05 | MN | ANOKA, CITY OF | 275227_04A | 23-JAN-2004 | 04-05-1427A | 01
05 | MN | ANOKA, CITY OF | 275227_04A | 05-MAY-2004 | 04-05-3113A | 02
05 | MN | BAYPORT, CITY OF | 275229_02A | 16-JAN-2004 | 04-05-0733A | 02
05 | MN | BENTON COUNTY | 2700190025B | 30-JUL-2004 | 04-05-3987A | 17
05 | MN | BIG STONE COUNTY | 2706520085B | 14-JAN-2004 | 04-05-1230A | 02
05 | MN | BIG STONE COUNTY | 2706520115B | 02-JUL-2004 | 04-05-3054A | 02
05 | MN | BLAINE, CITY OF | 2700070003D | 07-MAY-2004 | 03-05-3369P | 06
05 | MN | BLAINE, CITY OF | 2700070003D | 26-JUL-2004 | 03-05-3380P | 05
05 | MN | BLAINE, CITY OF | 2700070003D | 07-JAN-2004 | 03-05-5275A | 01
05 | MN | BLAINE, CITY OF | 2700070005D | 07-JAN-2004 | 03-05-5275A | 01
05 | MN | BLAINE, CITY OF | 2700070005D | 09-JUN-2004 | 04-05-1391A | 01
05 | MN | BLAINE, CITY OF | 2700070001D | 20-FEB-2004 | 04-05-2048A | 17
05 | MN | BLAINE, CITY OF | 2700070010D | 12-MAR-2004 | 04-05-2071A | 01
05 | MN | BLAINE, CITY OF | 2700070001D | 26-MAR-2004 | 04-05-2566A | 02
05 | MN | BLAINE, CITY OF | 2700070003D | 26-MAR-2004 | 04-05-2566A | 02
05 | MN | BLAINE, CITY OF | 2700070003D | 14-JUL-2004 | 04-05-2864A | 01
05 | MN | BLAINE, CITY OF | 2700070005D | 23-JUN-2004 | 04-05-2943A | 01
05 | MN | BLAINE, CITY OF | 2700070005D | 30-JUN-2004 | 04-05-3815A | 01
05 | MN | BLAINE, CITY OF | 2700070003D | 28-JUL-2004 | 04-05-3839A | 02
05 | MN | BLOOMINGTON, CITY OF | 2752300001B | 05-FEB-2004 | 04-05-0499A | 02
05 | MN | BLUE EARTH COUNTY | 2752310105D | 17-MAR-2004 | 04-05-1562A | 02
05 | MN | BLUE EARTH COUNTY | 2752310110D | 16-APR-2004 | 04-05-2810A | 17
05 | MN | BROOKLYN PARK, CITY OF | 2701520003D | 08-JAN-2004 | 04-05-1192A | 02
05 | MN | BROOKLYN PARK, CITY OF | 2701520002C | 29-JAN-2004 | 04-05-1217A | 02
05 | MN | CAMBRIDGE, CITY OF | 27059C0190D | 12-MAY-2004 | 04-05-3112A | 02
05 | MN | CARVER COUNTY | 2700490025C | 29-JAN-2004 | 02-05-0831P | 05
05 | MN | CARVER COUNTY | 2700490050C | 29-JAN-2004 | 02-05-0831P | 05
05 | MN | CARVER COUNTY | 2700490105C | 14-JAN-2004 | 04-05-1506A | 02
05 | MN | CENTER CITY, CITY OF | 2706850001A | 25-FEB-2004 | 04-05-1970A | 02
05 | MN | CHAMPLIN, CITY OF | 2701530001A | 07-JUN-2004 | 04-05-2647A | 02
05 | MN | CHAMPLIN, CITY OF | 2701530001A | 21-JUN-2004 | 04-05-3190A | 02
05 | MN | CHISAGO COUNTY | 2706820175C | 14-JAN-2004 | 04-05-1234A | 02
05 | MN | CHISAGO COUNTY | 2706820175C | 28-MAY-2004 | 04-05-2487A | 02
05 | MN | CHISAGO COUNTY | 2706820175C | 19-MAY-2004 | 04-05-3411A | 02
05 | MN | CHISAGO COUNTY | 2706820175C | 28-JUL-2004 | 04-05-3465A | 02
05 | MN | CHISAGO COUNTY | 2706820025B | 28-MAY-2004 | 04-05-3508A | 02
05 | MN | CLAY COUNTY | 2752350100C | 25-FEB-2004 | 04-05-1486A | 02
05 | MN | CLAY COUNTY | 2752350175C | 25-FEB-2004 | 04-05-1502A | 01
05 | MN | CLAY COUNTY | 2752350200C | 21-JAN-2004 | 04-05-1622A | 02
05 | MN | CLAY COUNTY | 2752350100C | 14-JUL-2004 | 04-05-3981A | 02
05 | MN | COON RAPIDS,CITY OF | 2700110001A | 26-MAR-2004 | 04-05-2367A | 02
05 | MN | COON RAPIDS,CITY OF | 2700110001A | 23-JUL-2004 | 04-05-3896A | 02
05 | MN | CROSSLAKE, CITY OF | 270095_10B | 14-JAN-2004 | 03-05-5212A | 02
05 | MN | CROSSLAKE, CITY OF | 270095_10B | 21-JAN-2004 | 04-05-1424A | 02
05 | MN | CROSSLAKE, CITY OF | 270095_2B | 17-MAR-2004 | 04-05-2305A | 02
05 | MN | CROSSLAKE, CITY OF | 270095_6B | 12-MAR-2004 | 04-05-2306A | 02
05 | MN | CROSSLAKE, CITY OF | 270095_08B | 16-APR-2004 | 04-05-2830A | 02
05 | MN | CROSSLAKE, CITY OF | 270095_10B | 23-JUL-2004 | 04-05-3759A | 02
05 | MN | CROSSLAKE, CITY OF | 270095_09B | 30-JUL-2004 | 04-05-4209A | 02
05 | MN | CROW WING COUNTY | 2700910200B | 05-APR-2004 | 04-05-1133A | 02
05 | MN | DAKOTA COUNTY | 2701010225B | 26-MAR-2004 | 04-05-0789A | 02
05 | MN | DAKOTA COUNTY | 2701010250B | 07-JAN-2004 | 04-05-0796A | 02
05 | MN | DAKOTA COUNTY | 2701010175B | 09-APR-2004 | 04-05-2931A | 02
05 | MN | DILWORTH, CITY OF | 2700800001B | 07-APR-2004 | 04-05-2128A | 02
05 | MN | EAST BETHEL, CITY OF | 2700120010A | 16-JAN-2004 | 04-05-1271A | 01
05 | MN | EAST BETHEL, CITY OF | 2700120010A | 27-FEB-2004 | 04-05-1378A | 01
05 | MN | EAST GRAND FORKS, CITY OF | 2752360005C | 17-MAR-2004 | 04-05-1947A | 02
05 | MN | EDEN PRAIRIE, CITY OF | 2701590005C | 12-JAN-2004 | 04-05-0460A | 02
05 | MN | EDEN PRAIRIE, CITY OF | 2701590005C | 20-JAN-2004 | 04-05-1208A | 02
05 | MN | EDEN PRAIRIE, CITY OF | 2701590005C | 15-APR-2004 | 04-05-1868A | 02
05 | MN | EDEN PRAIRIE, CITY OF | 2701590005C | 10-MAY-2004 | 04-05-1881A | 02
05 | MN | EDEN PRAIRIE, CITY OF | 2701590005C | 10-MAY-2004 | 04-05-1882A | 02
05 | MN | EDEN PRAIRIE, CITY OF | 2701590005C | 10-MAY-2004 | 04-05-1887A | 02
05 | MN | EDEN PRAIRIE, CITY OF | 2701590005C | 10-MAY-2004 | 04-05-1894A | 02
05 | MN | EDEN PRAIRIE, CITY OF | 2701590005C | 10-MAY-2004 | 04-05-1895A | 02
05 | MN | EDEN PRAIRIE, CITY OF | 2701590005C | 10-MAY-2004 | 04-05-1897A | 02
05 | MN | EDEN PRAIRIE, CITY OF | 2701590005C | 24-MAY-2004 | 04-05-2597A | 02
05 | MN | EDEN PRAIRIE, CITY OF | 2701590005C | 17-JUN-2004 | 04-05-2651A | 02
05 | MN | EDEN PRAIRIE, CITY OF | 2701590005C | 13-MAY-2004 | 04-05-3209X | 02
05 | MN | EDINA, CITY OF | 2701600004B | 08-MAR-2004 | 04-05-1212A | 02
05 | MN | EYOTA, CITY OF | 27109C0351D | 30-JAN-2004 | 04-05-0974A | 02
05 | MN | FARIBAULT, CITY OF | 2704040001C | 07-JAN-2004 | 04-05-0994A | 02
05 | MN | FARMINGTON, CITY OF | 2701040001C | 20-FEB-2004 | 04-05-1482A | 08
05 | MN | FREEBORN COUNTY | 2701340180B | 28-JUL-2004 | 04-05-3596A | 02
05 | MN | GOLDEN VALLEY, CITY OF | 2701620001B | 02-FEB-2004 | 04-05-0486A | 02
05 | MN | GOODHUE COUNTY | 2701400125A | 07-APR-2004 | 04-05-2625A | 02
05 | MN | GOODHUE COUNTY | 2701400125A | 26-MAY-2004 | 04-05-3429A | 02
05 | MN | GRANT COUNTY | 2705490004B | 28-APR-2004 | 04-05-3125A | 02
05 | MN | GREENWOOD, TOWNSHIP OF | 2707360575C | 10-MAR-2004 | 04-05-1973A | 02
05 | MN | GREENWOOD, TOWNSHIP OF | 2707360575C | 14-JUN-2004 | 04-05-3514A | 02
05 | MN | HAM LAKE, CITY OF | 2706740005B | 19-APR-2004 | 03-05-2018P | 06
05 | MN | HAM LAKE, CITY OF | 2706740005B | 19-MAR-2004 | 04-05-0999A | 01
05 | MN | HAM LAKE, CITY OF | 2706740010B | 05-MAY-2004 | 04-05-2238A | 01
05 | MN | HAM LAKE, CITY OF | 2706740005B | 07-JUL-2004 | 04-05-3689A | 02
05 | MN | HUGO, CITY OF | 2700150010B | 19-MAR-2004 | 03-05-2576P | 05
05 | MN | HUGO, CITY OF | 2705040010C | 19-MAR-2004 | 03-05-2576P | 05
05 | MN | HUGO, CITY OF | 2705040010C | 23-JAN-2004 | 04-05-0742A | 02
05 | MN | HUGO, CITY OF | 2705040010C | 23-JAN-2004 | 04-05-1264A | 01
05 | MN | HUGO, CITY OF | 2705040005C | 13-MAY-2004 | 04-05-1782A | 01
05 | MN | HUGO, CITY OF | 2705040010C | 23-APR-2004 | 04-05-2687A | 02
05 | MN | HUGO, CITY OF | 2705040010C | 07-JUL-2004 | 04-05-3485A | 01
05 | MN | ISANTI COUNTY | 27059C0135D | 21-JUN-2004 | 03-05-3978P | 05
05 | MN | ISANTI COUNTY | 27059C0145D | 21-JUN-2004 | 03-05-3978P | 05
05 | MN | ISANTI COUNTY | 27059C0150D | 21-JUN-2004 | 03-05-3978P | 05
05 | MN | ISANTI COUNTY | 27059C0180D | 07-JAN-2004 | 03-05-5272A | 02
05 | MN | ISANTI COUNTY | 27059C0170D | 07-JAN-2004 | 04-05-1285A | 02
05 | MN | ISANTI COUNTY | 27059C0280D | 16-JAN-2004 | 04-05-1371A | 02
05 | MN | ISANTI COUNTY | 27059C0285D | 14-JAN-2004 | 04-05-1465A | 02
05 | MN | ISANTI COUNTY | 27059C0170D | 03-MAR-2004 | 04-05-1511A | 02
05 | MN | ISANTI COUNTY | 27059C0050D | 14-JUL-2004 | 04-05-1694A | 02
05 | MN | ISANTI COUNTY | 27059C0325D | 13-FEB-2004 | 04-05-1739A | 02
05 | MN | ISANTI COUNTY | 27059C0150D | 18-FEB-2004 | 04-05-1742A | 02
05 | MN | ISANTI COUNTY | 27059C0350D | 23-JUN-2004 | 04-05-1964A | 02
05 | MN | ISANTI COUNTY | 27059C0250D | 25-FEB-2004 | 04-05-2125A | 02
05 | MN | ISANTI COUNTY | 27059C0135D | 17-MAR-2004 | 04-05-2188A | 02
05 | MN | ISANTI COUNTY | 27059C0150D | 17-MAR-2004 | 04-05-2188A | 02
05 | MN | ISANTI COUNTY | 27059C0135D | 09-APR-2004 | 04-05-2376A | 02
05 | MN | ISANTI COUNTY | 27059C0135D | 19-MAR-2004 | 04-05-2389A | 02
05 | MN | ISANTI COUNTY | 27059C0135D | 17-MAR-2004 | 04-05-2433A | 02
05 | MN | ISANTI COUNTY | 27059C0125D | 28-APR-2004 | 04-05-2536A | 02
05 | MN | ISANTI COUNTY | 27059C0100D | 17-MAR-2004 | 04-05-2576A | 02
05 | MN | ISANTI COUNTY | 27059C0282D | 02-JUL-2004 | 04-05-2628A | 01
05 | MN | ISANTI COUNTY | 27059C0275D | 28-APR-2004 | 04-05-2673A | 02
05 | MN | ISANTI COUNTY | 27059C0075D | 14-APR-2004 | 04-05-2742A | 02
05 | MN | ISANTI COUNTY | 27059C0075D | 26-MAR-2004 | 04-05-2743A | 02
05 | MN | ISANTI COUNTY | 27059C0185D | 05-MAY-2004 | 04-05-2744A | 02
05 | MN | ISANTI COUNTY | 27059C0135D | 31-MAR-2004 | 04-05-2771A | 02
05 | MN | ISANTI COUNTY | 27059C0050D | 07-APR-2004 | 04-05-2774A | 02
05 | MN | ISANTI COUNTY | 27059C0305D | 12-MAY-2004 | 04-05-3047A | 02
05 | MN | ISANTI COUNTY | 27059C0190D | 30-APR-2004 | 04-05-3048A | 02
05 | MN | ISANTI COUNTY | 27059C0185D | 05-MAY-2004 | 04-05-3096A | 02
05 | MN | ISANTI COUNTY | 27059C0275D | 05-MAY-2004 | 04-05-3274A | 02
05 | MN | ISANTI COUNTY | 27059C0250D | 09-JUL-2004 | 04-05-3325A | 02
05 | MN | ISANTI COUNTY | 27059C0275D | 28-MAY-2004 | 04-05-3437A | 02
05 | MN | ISANTI COUNTY | 27059C0075D | 09-JUL-2004 | 04-05-3730A | 02
05 | MN | ISANTI COUNTY | 27059C0150D | 21-JUL-2004 | 04-05-3803A | 02
05 | MN | ISANTI COUNTY | 27059C0100D | 16-JUL-2004 | 04-05-3960A | 02
05 | MN | ISANTI, CITY OF | 27059C0282D | 05-MAR-2004 | 04-05-1235A | 02
05 | MN | ISANTI, CITY OF | 27059C0282D | 27-FEB-2004 | 04-05-1594A | 17
05 | MN | ISANTI, CITY OF | 27059C0282D | 25-JUN-2004 | 04-05-2749A | 02
05 | MN | ISANTI, CITY OF | 27059C0282D | 14-JUL-2004 | 04-05-3027A | 02
05 | MN | ISANTI, CITY OF | 27059C0301D | 21-JUL-2004 | 04-05-3958A | 02
05 | MN | ITASCA COUNTY | 2702000775A | 03-MAR-2004 | 04-05-2260A | 02
05 | MN | ITASCA COUNTY | 2702000775A | 31-MAR-2004 | 04-05-2485A | 02
05 | MN | ITASCA COUNTY | 2702000900A | 02-JUN-2004 | 04-05-2831A | 02
05 | MN | ITASCA COUNTY | 2702000775A | 12-MAY-2004 | 04-05-3285A | 02
05 | MN | ITASCA COUNTY | 2702000800A | 28-JUL-2004 | 04-05-3973A | 02
05 | MN | JACKSON,CITY OF | 2702130002D | 07-JAN-2004 | 04-05-0995A | 02
05 | MN | JORDAN, CITY OF | 2704300001C | 14-APR-2004 | 03-05-5666A | 01
05 | MN | LAC QUI PARLE COUNTY | 2702390200B | 16-APR-2004 | 04-05-1518A | 02
05 | MN | LAKE CITY, CITY OF | 27157C0065D | 30-JUL-2004 | 04-05-4205A | 02
05 | MN | LAKE CRYSTAL, CITY OF | 270030A | 12-MAR-2004 | 04-05-1584A | 02
05 | MN | LAKEVILLE, CITY OF | 2701070004C | 07-APR-2004 | 04-05-2453A | 02
05 | MN | LE SUEUR COUNTY | 27079C0045D | 17-MAR-2004 | 04-05-2314A | 02
05 | MN | LE SUEUR COUNTY | 27079C0425D | 30-APR-2004 | 04-05-3134A | 02
05 | MN | LINDSTROM, CITY OF | 2706820150C | 07-JAN-2004 | 04-05-1479A | 02
05 | MN | LINO LAKES, CITY OF | 2700150010B | 02-JUN-2004 | 04-05-0094P | 06
05 | MN | LINO LAKES, CITY OF | 2700150010B | 21-JAN-2004 | 04-05-0803A | 02
05 | MN | LINO LAKES, CITY OF | 2700150010B | 12-MAY-2004 | 04-05-2234A | 02
05 | MN | LINO LAKES, CITY OF | 2700150005B | 28-MAY-2004 | 04-05-3385A | 02
05 | MN | LITCHFIELD, CITY OF | 2702850001B | 02-JUN-2004 | 04-05-3300A | 02
05 | MN | MANTORVILLE, CITY OF | 2705850001B | 16-APR-2004 | 04-05-2960A | 02
05 | MN | MAPLE GROVE, CITY OF | 2701690001B | 29-JAN-2004 | 04-05-0508A | 02
05 | MN | MAPLE GROVE, CITY OF | 2701690001B | 05-FEB-2004 | 04-05-1222A | 02
05 | MN | MC LEOD COUNTY | 2706160085C | 21-JAN-2004 | 04-05-1548A | 02
05 | MN | MEDICINE LAKE, CITY OF | 2706900001A | 06-MAY-2004 | 04-05-1875A | 02
05 | MN | MEEKER COUNTY | 2702800001B | 14-APR-2004 | 04-05-2752A | 02
05 | MN | MEEKER COUNTY | 2702800006B | 30-JUL-2004 | 04-05-4151A | 02
05 | MN | MIDDLE RIVER, CITY OF | 2702700001B | 21-APR-2004 | 04-05-3064A | 02
05 | MN | MILLE LACS COUNTY | 2706240200B | 24-MAR-2004 | 04-05-1758A | 02
05 | MN | MINNEAPOLIS, CITY OF | 2701720008B | 28-JUN-2004 | 04-05-3201A | 02
05 | MN | MINNETONKA, CITY OF | 2701730001C | 29-JAN-2004 | 04-05-0502A | 02
05 | MN | MINNETONKA, CITY OF | 2701730003C | 06-MAY-2004 | 04-05-1193A | 02
05 | MN | MINNETRISTA, CITY OF | 270175_01B | 05-FEB-2004 | 03-05-5350A | 02
05 | MN | MINNETRISTA, CITY OF | 270175_01B | 19-FEB-2004 | 04-05-0493A | 02
05 | MN | MINNETRISTA, CITY OF | 2701750005B | 14-JUN-2004 | 04-05-2642A | 02
05 | MN | MORRISON COUNTY | 2706170225B | 02-JUN-2004 | 04-05-3532A | 02
05 | MN | MOWER COUNTY | 2703070080A | 28-APR-2004 | 04-05-2955A | 02
05 | MN | MOWER COUNTY | 2703070025A | 28-JUL-2004 | 04-05-3306A | 02
05 | MN | MURRAY COUNTY | 2706450230A | 17-MAR-2004 | 04-05-2044A | 02
05 | MN | NEW PRAGUE, CITY OF | 27079C0091D | 11-MAR-2004 | 03-05-1835P | 05
05 | MN | NEW ULM, CITY OF | 27015C0215C | 09-JUL-2004 | 04-05-3819A | 02
05 | MN | NORMAN COUNTY | 27107C0300D | 10-MAR-2004 | 04-05-2278A | 02
05 | MN | NORTH ST. PAUL, CITY OF | 2703820005B | 02-JUL-2004 | 04-05-3807A | 02
05 | MN | OLMSTED COUNTY | 27109C0142E | 23-FEB-2004 | 03-05-3988P | 05
05 | MN | OLMSTED COUNTY | 27109C0025D | 02-JUN-2004 | 04-05-3494A | 02
05 | MN | PINE COUNTY | 2707040340B | 07-JAN-2004 | 04-05-1167A | 02
05 | MN | PINE COUNTY | 2707040325B | 14-JAN-2004 | 04-05-1464A | 02
05 | MN | PINE COUNTY | 2707040325B | 18-FEB-2004 | 04-05-1768A | 02
05 | MN | PINE COUNTY | 2707040340B | 04-JUN-2004 | 04-05-3652A | 02
05 | MN | PLYMOUTH, CITY OF | 2701790010C | 20-JAN-2004 | 04-05-1207A | 02
05 | MN | POLK COUNTY | 2705030290B | 03-MAR-2004 | 04-05-1811A | 02
05 | MN | POLK COUNTY | 2705030025B | 05-MAY-2004 | 04-05-3065A | 02
05 | MN | POLK COUNTY | 2705030200B | 21-MAY-2004 | 04-05-3324A | 02
05 | MN | PRIOR LAKE, CITY OF | 2704320004C | 21-JAN-2004 | 04-05-1570A | 02
05 | MN | PRIOR LAKE, CITY OF | 2704320003C | 06-FEB-2004 | 04-05-1766A | 02
05 | MN | PRIOR LAKE, CITY OF | 2704320004C | 27-FEB-2004 | 04-05-2080A | 02
05 | MN | PRIOR LAKE, CITY OF | 2704320004C | 31-MAR-2004 | 04-05-2470A | 01
05 | MN | PRIOR LAKE, CITY OF | 2704320002C | 05-MAY-2004 | 04-05-2824A | 01
05 | MN | PRIOR LAKE, CITY OF | 2704320002C | 16-JUL-2004 | 04-05-3450A | 02
05 | MN | PRIOR LAKE, CITY OF | 2704320004C | 14-JUN-2004 | 04-05-3617X | 02
05 | MN | RAMSEY, CITY OF | 2706810020B | 26-MAY-2004 | 04-05-2935A | 17
05 | MN | RICE COUNTY | 2706460100B | 30-JAN-2004 | 04-05-1595A | 02
05 | MN | RICE COUNTY | 2706460075B | 20-FEB-2004 | 04-05-2031A | 02
05 | MN | RICE COUNTY | 2706460025C | 26-MAR-2004 | 04-05-2315A | 02
05 | MN | RICE COUNTY | 2706460025C | 05-MAY-2004 | 04-05-2763A | 02
05 | MN | RICE COUNTY | 2706460025C | 09-APR-2004 | 04-05-2836A | 02
05 | MN | RICE COUNTY | 2706460025C | 28-JUL-2004 | 04-05-3688A | 02
05 | MN | ROSEAU COUNTY | 2706330225C | 09-JUN-2004 | 04-05-3472A | 02
05 | MN | ROSEAU COUNTY | 2706330250C | 16-JUL-2004 | 04-05-3822A | 01
05 | MN | SAUK CENTRE, CITY OF | 2704590001B | 25-FEB-2004 | 04-05-2200A | 02
05 | MN | SAUK RAPIDS, CITY OF | 2700230002D | 02-JUL-2004 | 04-05-3696A | 01
05 | MN | SCOTT COUNTY | 2704280100C | 19-MAR-2004 | 04-05-2249A | 02
05 | MN | SCOTT COUNTY | 2704280020C | 07-APR-2004 | 04-05-2728A | 02
05 | MN | SHERBURNE COUNTY | 27141C0245E | 13-FEB-2004 | 04-05-1767A | 02
05 | MN | SHERBURNE COUNTY | 27141C0245E | 16-APR-2004 | 04-05-1779A | 17
05 | MN | SHERBURNE COUNTY | 27141C0360E | 30-APR-2004 | 04-05-2126A | 17
05 | MN | SHERBURNE COUNTY | 27141C0360E | 02-APR-2004 | 04-05-2381A | 17
05 | MN | SHERBURNE COUNTY | 27141C0355E | 05-MAY-2004 | 04-05-2788A | 02
05 | MN | SHERBURNE COUNTY | 27141C0265E | 26-MAY-2004 | 04-05-3401A | 02
05 | MN | SHERBURNE COUNTY | 27141C0205E | 18-JUN-2004 | 04-05-3536A | 02
05 | MN | SHERBURNE COUNTY | 27141C0240E | 25-JUN-2004 | 04-05-3813A | 02
05 | MN | SHOREVIEW, CITY OF | 2703840001B | 18-JUN-2004 | 04-05-2946A | 01
05 | MN | SHOREVIEW, CITY OF | 2703840001B | 21-APR-2004 | 04-05-3072A | 02
05 | MN | ST. CLOUD, CITY OF | 2704560015C | 12-MAY-2004 | 04-05-2950A | 02
05 | MN | ST. LOUIS COUNTY | 2704160775C | 12-MAR-2004 | 04-05-0939A | 02
05 | MN | ST. LOUIS COUNTY | 2704160600C | 14-JUL-2004 | 04-05-3871A | 02
05 | MN | ST. PAUL, CITY OF | 2752480028F | 21-JUL-2004 | 04-05-3875A | 01
05 | MN | ST. PAUL, CITY OF | 2752480036F | 21-JUL-2004 | 04-05-3875A | 01
05 | MN | STEARNS COUNTY | 2705460125A | 14-JAN-2004 | 04-05-0596A | 02
05 | MN | STEARNS COUNTY | 2705460355B | 19-MAR-2004 | 04-05-0955A | 01
05 | MN | STEARNS COUNTY | 2705460270B | 14-JAN-2004 | 04-05-1520A | 02
05 | MN | STEARNS COUNTY | 2705460270B | 30-JAN-2004 | 04-05-1620A | 02
05 | MN | STEARNS COUNTY | 2705460270B | 04-JUN-2004 | 04-05-2542A | 02
05 | MN | STEARNS COUNTY | 2705460265B | 14-APR-2004 | 04-05-2920A | 02
05 | MN | STEARNS COUNTY | 2705460260B | 19-MAY-2004 | 04-05-3088A | 02
05 | MN | STEELE COUNTY | 2706350070B | 12-MAY-2004 | 04-05-2735A | 02
05 | MN | STILLWATER, CITY OF | 2752490005C | 27-FEB-2004 | 04-05-1752A | 01
05 | MN | VADNAIS HEIGHTS, CITY OF | 2703850001C | 14-JAN-2004 | 04-05-1535A | 02
05 | MN | VADNAIS HEIGHTS, CITY OF | 2703850001C | 20-FEB-2004 | 04-05-2161A | 02
05 | MN | WABASHA COUNTY | 27157C0200D | 02-JUL-2004 | 04-05-3038A | 02
05 | MN | WASHINGTON COUNTY | 2704990025B | 30-APR-2004 | 04-05-2948A | 02
05 | MN | WASHINGTON COUNTY | 2704990125B | 30-APR-2004 | 04-05-2969A | 02
05 | MN | WASHINGTON COUNTY | 2704990025B | 28-APR-2004 | 04-05-3028A | 02
05 | MN | WASHINGTON COUNTY | 2704990025B | 28-JUL-2004 | 04-05-3779A | 02
05 | MN | WATERTOWN, CITY OF | 2700560001C | 12-MAR-2004 | 04-05-2360A | 02
05 | MN | WATERVILLE, CITY OF | 27079C0427D | 28-JAN-2004 | 04-05-1602A | 02
05 | MN | WATERVILLE, CITY OF | 27079C0427D | 28-APR-2004 | 04-05-2816A | 02
05 | MN | WATERVILLE, CITY OF | 27079C0427D | 21-JUL-2004 | 04-05-3844A | 02
05 | MN | WAYZATA, CITY OF | 2701880005C | 20-JAN-2004 | 04-05-0501A | 01
05 | MN | WHITE BEAR,TOWNSHIP OF | 2706880010B | 04-FEB-2004 | 04-05-1337A | 02
05 | MN | WHITE BEAR,TOWNSHIP OF | 2706880005B | 14-JAN-2004 | 04-05-1524A | 02
05 | MN | WHITE BEAR,TOWNSHIP OF | 2706880010B | 25-FEB-2004 | 04-05-1614A | 02
05 | MN | WHITE BEAR,TOWNSHIP OF | 2706880005B | 25-JUN-2004 | 04-05-3826A | 02
05 | MN | WINONA COUNTY | 2705250053C | 06-FEB-2004 | 03-05-5632A | 02
05 | MN | WINONA COUNTY | 2705250175C | 14-MAY-2004 | 04-05-3133A | 02
05 | MN | WINONA, CITY OF | 2705250100C | 05-FEB-2004 | 04-05-0100P | 06
05 | MN | WINONA, CITY OF | 2705250092C | 04-FEB-2004 | 04-05-1338A | 01
05 | MN | WINONA, CITY OF | 2752500006D | 06-FEB-2004 | 04-05-1347A | 01
05 | MN | WORTHINGTON, CITY OF | 2703210002B | 14-APR-2004 | 04-05-2567A | 02
05 | MN | WRIGHT COUNTY | 2705340025C | 02-JUN-2004 | 04-05-2953A | 02
05 | OH | AKRON, CITY OF | 3905230017B | 13-FEB-2004 | 04-05-1706A | 02
05 | OH | ALLEN COUNTY | 3907580109B | 29-MAR-2004 | 03-05-0444P | 05
05 | OH | ASHLAND COUNTY | 3907590004B | 14-JAN-2004 | 04-05-1400A | 02
05 | OH | ASHLAND COUNTY | 3907590005B | 17-MAR-2004 | 04-05-2108A | 02
05 | OH | ATHENS COUNTY | 3907600075B | 24-MAR-2004 | 04-05-0634A | 02
05 | OH | ATHENS COUNTY | 3907600075B | 05-MAR-2004 | 04-05-1122A | 02
05 | OH | ATHENS COUNTY | 3907600075B | 07-JUL-2004 | 04-05-3568A | 02
05 | OH | ATHENS COUNTY | 3907600075B | 23-JUN-2004 | 04-05-3805A | 02
05 | OH | ATHENS, CITY OF | 3900160005B | 18-FEB-2004 | 04-05-0738A | 01
05 | OH | AVON LAKE, CITY OF | 390602-02B | 27-FEB-2004 | 04-05-2059A | 02
05 | OH | AVON LAKE, CITY OF | 3906020002B | 02-JUL-2004 | 04-05-3182A | 02
05 | OH | AVON, CITY OF | 3903480005C | 30-JUL-2004 | 04-05-3349A | 02
05 | OH | AVON, CITY OF | 3903480005C | 14-JUN-2004 | 04-05-3480A | 02
05 | OH | BEAVERCREEK, CITY OF | 3908760002B | 20-FEB-2004 | 04-05-1974A | 02
05 | OH | BELLAIRE, VILLAGE OF | 3900250001B | 27-FEB-2004 | 04-05-2131A | 02
05 | OH | BELLEFONTAINE, CITY OF | 3903400001C | 12-MAR-2004 | 04-05-2270A | 17
05 | OH | BELLEFONTAINE, CITY OF | 3903400001C | 25-JUN-2004 | 04-05-3251A | 02
05 | OH | BEREA, CITY OF | 3900970001B | 18-FEB-2004 | 04-05-1374A | 02
05 | OH | BEREA, CITY OF | 3900970001B | 14-JUN-2004 | 04-05-3658A | 02
05 | OH | BROWN COUNTY | 39015C0341C | 11-FEB-2004 | 03-05-5082A | 02
05 | OH | BROWN COUNTY | 39015C0319C | 28-JUL-2004 | 04-05-3882A | 02
05 | OH | BUTLER COUNTY | 3900370115B | 31-MAR-2004 | 04-05-2123A | 01
05 | OH | BUTLER COUNTY | 3900370035B | 02-APR-2004 | 04-05-2791A | 02
05 | OH | BUTLER COUNTY | 3900370040C | 07-MAY-2004 | 04-05-3093A | 02
05 | OH | CANAL FULTON, VILLAGE OF | 3905110001B | 06-FEB-2004 | 04-05-1375A | 02
05 | OH | CANAL FULTON, VILLAGE OF | 3905110001B | 13-FEB-2004 | 04-05-1711A | 02
05 | OH | CANAL WINCHESTER, VILLAGE OF | 39049C0377H | 04-MAR-2004 | 03-05-2900A | 08
05 | OH | CANAL WINCHESTER, VILLAGE OF | 39049C0377H | 14-JUL-2004 | 04-05-3461A | 01
05 | OH | CARROLL COUNTY | 3907630075B | 26-MAR-2004 | 04-05-2459A | 02
05 | OH | CARROLL COUNTY | 3907630075B | 14-JUN-2004 | 04-05-3720A | 02
05 | OH | CARROLL COUNTY | 3907630075B | 07-JUL-2004 | 04-05-3850A | 02
05 | OH | CHAGRIN FALLS, VILLAGE OF | 3901030001B | 14-APR-2004 | 03-05-3946A | 02
05 | OH | CHAGRIN FALLS, VILLAGE OF | 3901030001B | 07-JAN-2004 | 04-05-0906A | 17
05 | OH | CHARDON, CITY OF | 3901910005C | 09-JAN-2004 | 04-05-1284A | 02
05 | OH | CINCINNATI, CITY OF | 39061C0203D | 18-MAY-2004 | 04-05-2666V | 19
05 | OH | CINCINNATI, CITY OF | 39061C0327D | 18-MAY-2004 | 04-05-2666V | 19
05 | OH | CINCINNATI, CITY OF | 39061C0331D | 18-MAY-2004 | 04-05-2666V | 19
05 | OH | CLERMONT COUNTY | 3900650085D | 07-JAN-2004 | 04-05-1336A | 02
05 | OH | CLINTON COUNTY | 3907640003B | 14-JAN-2004 | 04-05-0363A | 02
05 | OH | CLINTON COUNTY | 3907640003B | 09-JAN-2004 | 04-05-1132A | 02
05 | OH | COLUMBIANA COUNTY | 3900760100B | 14-MAY-2004 | 04-05-2572A | 02
05 | OH | COLUMBIANA COUNTY | 3900760025B | 05-MAY-2004 | 04-05-3080A | 02
05 | OH | COLUMBUS, CITY OF | 39049C0120G | 09-JAN-2004 | 04-05-0712A | 01
05 | OH | COLUMBUS, CITY OF | 39049C0290G | 16-APR-2004 | 04-05-1327A | 01
05 | OH | COLUMBUS, CITY OF | 39049C0276G | 18-FEB-2004 | 04-05-1431A | 01
05 | OH | COLUMBUS, CITY OF | 39049C0270G | 11-FEB-2004 | 04-05-1605A | 02
05 | OH | COLUMBUS, CITY OF | 39049C0233H | 07-MAY-2004 | 04-05-1649P | 06
05 | OH | COLUMBUS, CITY OF | 39049C0234H | 07-MAY-2004 | 04-05-1649P | 06
05 | OH | COLUMBUS, CITY OF | 39049C0242H | 07-MAY-2004 | 04-05-1649P | 06
05 | OH | COLUMBUS, CITY OF | 39049C0210G | 27-FEB-2004 | 04-05-1751A | 01
05 | OH | COLUMBUS, CITY OF | 39049C0220G | 27-FEB-2004 | 04-05-1751A | 01
05 | OH | COLUMBUS, CITY OF | 39049C0270G | 18-FEB-2004 | 04-05-1813A | 02
05 | OH | COLUMBUS, CITY OF | 39049C0210G | 27-FEB-2004 | 04-05-1835A | 02
05 | OH | COLUMBUS, CITY OF | 39049C0220G | 27-FEB-2004 | 04-05-1835A | 02
05 | OH | COLUMBUS, CITY OF | 39049C0227G | 05-MAR-2004 | 04-05-1990A | 01
05 | OH | COLUMBUS, CITY OF | 39049C0228G | 11-FEB-2004 | 04-05-2030A | 02
05 | OH | COLUMBUS, CITY OF | 39049C0158G | 10-MAR-2004 | 04-05-2053A | 02
05 | OH | COLUMBUS, CITY OF | 39049C0226G | 05-MAR-2004 | 04-05-2244A | 02
05 | OH | COLUMBUS, CITY OF | 39049C0120G | 26-MAR-2004 | 04-05-2445A | 02
05 | OH | COLUMBUS, CITY OF | 39049C0231H | 14-MAY-2004 | 04-05-3311A | 02
05 | OH | COLUMBUS, CITY OF | 39049C0227H | 09-JUN-2004 | 04-05-3406A | 01
05 | OH | COLUMBUS, CITY OF | 39049C0135H | 30-JUL-2004 | 04-05-3407A | 17
05 | OH | COLUMBUS, CITY OF | 39049C0227H | 14-MAY-2004 | 04-05-3409A | 01
05 | OH | COLUMBUS, CITY OF | 39049C0234H | 26-MAY-2004 | 04-05-3423A | 02
05 | OH | COLUMBUS, CITY OF | 39049C0227H | 30-JUN-2004 | 04-05-3671A | 01
05 | OH | COLUMBUS, CITY OF | 39049C0241H | 23-JUL-2004 | 04-05-3816A | 01
05 | OH | COLUMBUS, CITY OF | 39049C0227H | 30-JUN-2004 | 04-05-3834X | 01
05 | OH | COLUMBUS, CITY OF | 39049C0139H | 28-JUL-2004 | 04-05-3908A | 01
05 | OH | COLUMBUS, CITY OF | 39049C0227H | 28-JUL-2004 | 04-05-3908A | 01
05 | OH | COLUMBUS, CITY OF | 39049C0241H | 23-JUL-2004 | 04-05-4140A | 02
05 | OH | COSHOCTON COUNTY | 3907650120B | 17-MAR-2004 | 04-05-2209A | 01
05 | OH | CROOKSVILLE, VILLAGE OF | 3904410001B | 19-MAR-2004 | 04-05-2093A | 01
05 | OH | DAYTON, CITY OF | 3904090015D | 04-JUN-2004 | 04-05-3455A | 02
05 | OH | DEFIANCE COUNTY | 3901430105B | 03-MAR-2004 | 03-05-5255A | 01
05 | OH | DELAWARE COUNTY | 39041C0165J | 05-MAR-2004 | 04-05-0711A | 02
05 | OH | DELAWARE COUNTY | 39041C0175J | 05-MAR-2004 | 04-05-0711A | 02
05 | OH | DELAWARE COUNTY | 39041C0085J | 07-APR-2004 | 04-05-2563A | 02
05 | OH | DELAWARE COUNTY | 39041C0080J | 14-JUN-2004 | 04-05-2564A | 17
05 | OH | DELAWARE COUNTY | 39041C0080J | 05-MAY-2004 | 04-05-2868A | 02
05 | OH | DELAWARE, CITY OF | 39041C0115J | 07-APR-2004 | 04-05-2562A | 02
05 | OH | DOVER, CITY OF | 3905430005B | 07-JAN-2004 | 04-05-0400A | 02
05 | OH | DOVER, CITY OF | 3905430005B | 16-APR-2004 | 04-05-1601A | 02
05 | OH | DUBLIN, CITY OF | 39049C0109G | 23-APR-2004 | 04-05-2928A | 01
05 | OH | DUBLIN, CITY OF | 39049C0107H | 28-MAY-2004 | 04-05-3071A | 02
05 | OH | DUBLIN, CITY OF | 39049C0126H | 09-JUL-2004 | 04-05-3873A | 17
05 | OH | DUBLIN, CITY OF | 39049C0106H | 21-JUL-2004 | 04-05-3999A | 02
05 | OH | EASTLAKE, CITY OF | 3903130001B | 30-JUL-2004 | 04-05-4170A | 02
05 | OH | FAIRFIELD COUNTY | 3901580115D | 05-APR-2004 | 03-05-5190P | 05
05 | OH | FAIRFIELD COUNTY | 3901580120D | 05-APR-2004 | 03-05-5190P | 05
05 | OH | FAIRFIELD COUNTY | 3901580185D | 05-APR-2004 | 03-05-5190P | 05
05 | OH | FAIRFIELD COUNTY | 3901580035D | 09-JAN-2004 | 04-05-0875A | 02
05 | OH | FAIRFIELD COUNTY | 3901580035D | 14-JAN-2004 | 04-05-1490A | 02
05 | OH | FAIRFIELD COUNTY | 3901580035D | 06-FEB-2004 | 04-05-1619A | 02
05 | OH | FAIRFIELD COUNTY | 3901580035D | 07-APR-2004 | 04-05-1846A | 02
05 | OH | FAIRFIELD COUNTY | 3901580035D | 05-MAY-2004 | 04-05-2311A | 17
05 | OH | FAIRFIELD, CITY OF | 3900380005B | 14-JAN-2004 | 04-05-0957A | 02
05 | OH | FAIRFIELD, CITY OF | 3900380005B | 20-FEB-2004 | 04-05-1956A | 02
05 | OH | FAIRFIELD, CITY OF | 3900380005B | 17-MAR-2004 | 04-05-2365A | 02
05 | OH | FAIRFIELD, CITY OF | 3900380005B | 19-MAY-2004 | 04-05-2787A | 17
05 | OH | FAYETTE COUNTY | 39047C0150C | 26-MAR-2004 | 04-05-2467A | 02
05 | OH | FAYETTE COUNTY * | 39047C0225C | 03-MAR-2004 | 04-05-1225V | 19
05 | OH | FINDLAY, CITY OF | 3902440005C | 16-JAN-2004 | 04-05-0390A | 01
05 | OH | FINDLAY, CITY OF | 3902440008C | 16-JAN-2004 | 04-05-0390A | 01
05 | OH | FINDLAY, CITY OF | 3907670060B | 28-MAY-2004 | 04-05-1373A | 01
05 | OH | FINDLAY, CITY OF | 3902440004B | 11-FEB-2004 | 04-05-1792A | 02
05 | OH | FINDLAY, CITY OF | 3902440004B | 11-FEB-2004 | 04-05-1847A | 02
05 | OH | FINDLAY, CITY OF | 3902440005C | 25-JUN-2004 | 04-05-3511A | 01
05 | OH | FINDLAY, CITY OF | 3902440008C | 25-JUN-2004 | 04-05-3511A | 01
05 | OH | FINDLAY, CITY OF | 3902440009B | 25-JUN-2004 | 04-05-3697A | 02
05 | OH | FINDLAY, CITY OF | 3902440009B | 23-JUL-2004 | 04-05-4115A | 02
05 | OH | FINDLAY, CITY OF | 3902440005C | 28-JUL-2004 | 04-05-4176A | 02
05 | OH | FRANKLIN COUNTY | 39049C0210G | 21-JAN-2004 | 04-05-0780A | 02
05 | OH | FRANKLIN COUNTY | 39049C0120G | 16-JAN-2004 | 04-05-1281A | 01
05 | OH | FRANKLIN COUNTY | 39049C0376H | 30-JAN-2004 | 04-05-1698A | 02
05 | OH | FRANKLIN COUNTY | 39049C0227G | 03-MAR-2004 | 04-05-1807A | 01
05 | OH | FRANKLIN COUNTY | 39049C0290G | 18-FEB-2004 | 04-05-1936A | 02
05 | OH | FRANKLIN COUNTY | 39049C0290G | 13-FEB-2004 | 04-05-1937A | 02
05 | OH | FRANKLIN COUNTY | 39049C0290G | 13-FEB-2004 | 04-05-1938A | 02
05 | OH | FRANKLIN COUNTY | 39049C0290G | 25-FEB-2004 | 04-05-1939A | 02
05 | OH | FRANKLIN COUNTY | 39049C0290G | 18-FEB-2004 | 04-05-1940A | 02
05 | OH | FRANKLIN COUNTY | 39049C0290G | 18-FEB-2004 | 04-05-1941A | 02
05 | OH | FRANKLIN COUNTY | 39049C0290G | 18-FEB-2004 | 04-05-1942A | 02
05 | OH | FRANKLIN COUNTY | 39049C0290G | 18-FEB-2004 | 04-05-1943A | 02
05 | OH | FRANKLIN COUNTY | 39049C0290G | 13-FEB-2004 | 04-05-1944A | 02
05 | OH | FRANKLIN COUNTY | 39049C0290G | 13-FEB-2004 | 04-05-1945A | 02
05 | OH | FRANKLIN COUNTY | 39049C0290G | 13-FEB-2004 | 04-05-1946A | 02
05 | OH | FRANKLIN COUNTY | 39049C0376H | 24-MAR-2004 | 04-05-2274A | 02
05 | OH | FRANKLIN COUNTY | 39049C0210G | 21-APR-2004 | 04-05-2764A | 02
05 | OH | FRANKLIN COUNTY | 39049C0379G | 12-MAY-2004 | 04-05-3140A | 02
05 | OH | FRANKLIN COUNTY | 39049C0227H | 09-JUN-2004 | 04-05-3408A | 01
05 | OH | FULTON COUNTY | 3901820100C | 06-FEB-2004 | 03-05-5252A | 02
05 | OH | FULTON COUNTY | 3901820133C | 27-FEB-2004 | 04-05-0111A | 02
05 | OH | FULTON COUNTY | 3901820050C | 06-FEB-2004 | 04-05-0850A | 02
05 | OH | FULTON COUNTY | 3901820127C | 30-APR-2004 | 04-05-1814A | 01
05 | OH | FULTON COUNTY | 3901820135C | 14-MAY-2004 | 04-05-3361A | 02
05 | OH | GAHANNA, CITY OF | 39049C0167G | 18-FEB-2004 | 04-05-1753A | 17
05 | OH | GALLIA COUNTY | 39053C0279D | 06-FEB-2004 | 04-05-1433A | 02
05 | OH | GALLIA COUNTY | 39053C0265D | 09-JAN-2004 | 04-05-1492A | 02
05 | OH | GALLIA COUNTY | 39053C0267D | 04-FEB-2004 | 04-05-1531A | 02
05 | OH | GALLIA COUNTY | 39053C0283D | 27-FEB-2004 | 04-05-1986A | 02
05 | OH | GALLIA COUNTY | 39053C0283D | 27-FEB-2004 | 04-05-1987A | 02
05 | OH | GALLIA COUNTY | 39053C0289D | 18-FEB-2004 | 04-05-2063A | 02
05 | OH | GALLIA COUNTY | 39053C0362D | 05-MAR-2004 | 04-05-2256A | 02
05 | OH | GALLIA COUNTY | 39053C0259D | 25-JUN-2004 | 04-05-3173A | 02
05 | OH | GERMANTOWN, VILLAGE OF | 3904110001B | 14-JAN-2004 | 03-05-5672A | 01
05 | OH | GERMANTOWN, VILLAGE OF | 3907750080B | 14-JAN-2004 | 03-05-5672A | 01
05 | OH | GRANDVIEW HEIGHTS, CITY OF | 39049C0231H | 25-JUN-2004 | 04-05-3248A | 02
05 | OH | GREENE COUNTY | 3901930040B | 30-APR-2004 | 04-05-2739A | 02
05 | OH | GREENE COUNTY | 3901930025C | 30-JUL-2004 | 04-05-3618A | 17
05 | OH | GROVE CITY, CITY OF | 39049C0331G | 24-FEB-2004 | 03-05-5176P | 06
05 | OH | GROVEPORT, VILLAGE OF | 39049C0357G | 25-FEB-2004 | 04-05-1076A | 01
05 | OH | GUERNSEY COUNTY | 39059C0025C | 07-JAN-2004 | 04-05-1070A | 02
05 | OH | HAMILTON COUNTY | 39061C0240D | 16-JUL-2004 | 04-05-3912A | 01
05 | OH | HAMILTON COUNTY | 39061C0332D | 30-JUL-2004 | 04-05-3995A | 02
05 | OH | HAMILTON COUNTY * | 3902040070B | 08-JAN-2004 | 04-05-0484A | 02
05 | OH | HAMILTON COUNTY * | 3902040030B | 12-JAN-2004 | 04-05-1182A | 02
05 | OH | HAMILTON COUNTY * | 3902040025B | 09-FEB-2004 | 04-05-1198A | 02
05 | OH | HAMILTON COUNTY * | 3902040040C | 26-FEB-2004 | 04-05-1204A | 02
05 | OH | HAMILTON COUNTY * | 3902040040C | 29-JAN-2004 | 04-05-1209A | 02
05 | OH | HAMILTON COUNTY * | 39061C0045D | 18-MAY-2004 | 04-05-2665V | 19
05 | OH | HAMILTON COUNTY * | 39061C0115D | 18-MAY-2004 | 04-05-2665V | 19
05 | OH | HAMILTON COUNTY * | 39061C0165D | 18-MAY-2004 | 04-05-2665V | 19
05 | OH | HAMILTON COUNTY * | 39061C0170D | 18-MAY-2004 | 04-05-2665V | 19
05 | OH | HAMILTON COUNTY * | 39061C0180D | 18-MAY-2004 | 04-05-2665V | 19
05 | OH | HAMILTON COUNTY * | 39061C0209D | 18-MAY-2004 | 04-05-2665V | 19
05 | OH | HAMILTON COUNTY * | 39061C0332D | 18-MAY-2004 | 04-05-2665V | 19
05 | OH | HANCOCK COUNTY | 3907670100B | 24-MAR-2004 | 04-05-0411A | 02
05 | OH | HANCOCK COUNTY | 3907670130B | 16-JAN-2004 | 04-05-1489A | 02
05 | OH | HARRISON, CITY OF | 39061C0015D | 18-MAY-2004 | 04-05-2664V | 19
05 | OH | HARRISON, CITY OF | 39061C0135D | 18-MAY-2004 | 04-05-2664V | 19
05 | OH | HENRY COUNTY | 3907760050B | 18-FEB-2004 | 04-05-1115A | 02
05 | OH | HOCKING COUNTY | 3902720025C | 16-APR-2004 | 04-05-2794A | 02
05 | OH | HOCKING COUNTY | 3902720100C | 30-APR-2004 | 04-05-2800A | 02
05 | OH | HUBBARD, CITY OF | 3905370001B | 07-JAN-2004 | 04-05-1326A | 17
05 | OH | HURON COUNTY | 3907700005B | 25-FEB-2004 | 04-05-0442A | 02
05 | OH | IRONTON, CITY OF | 3903270005C | 18-FEB-2004 | 04-05-2008A | 02
05 | OH | JACKSON, CITY OF | 3902920005D | 19-MAY-2004 | 04-05-3458A | 02
05 | OH | JAMESTOWN, VILLAGE OF | 3908810001A | 17-MAR-2004 | 04-05-0426A | 02
05 | OH | KETTERING, CITY OF | 3904120010B | 14-JUN-2004 | 04-05-1988A | 02
05 | OH | KETTERING, CITY OF | 3904120010B | 03-MAR-2004 | 04-05-2267A | 02
05 | OH | KETTERING, CITY OF | 3904120010B | 21-JUL-2004 | 04-05-3877A | 02
05 | OH | KETTERING, CITY OF | 3904120010B | 02-JUL-2004 | 04-05-3903A | 02
05 | OH | KNOX COUNTY | 3903060025C | 30-JUN-2004 | 04-05-2205A | 02
05 | OH | LAKE COUNTY | 3907710053C | 31-MAR-2004 | 04-05-2079A | 02
05 | OH | LAKE COUNTY | 3907710028C | 28-MAY-2004 | 04-05-3388A | 02
05 | OH | LANCASTER, CITY OF | 3901580105D | 07-JAN-2004 | 03-05-4905A | 01
05 | OH | LAWRENCE COUNTY | 3903250105B | 06-FEB-2004 | 04-05-0436A | 02
05 | OH | LAWRENCE COUNTY | 3903250110B | 27-FEB-2004 | 04-05-2009A | 02
05 | OH | LAWRENCE COUNTY | 3903250185B | 07-MAY-2004 | 04-05-3334A | 02
05 | OH | LICKING COUNTY | 3903280200B | 09-APR-2004 | 04-05-2147A | 01
05 | OH | LICKING COUNTY | 3903280200B | 19-MAR-2004 | 04-05-2631A | 02
05 | OH | LOGAN COUNTY | 3907720025C | 21-JAN-2004 | 04-05-1658A | 02
05 | OH | LOGAN COUNTY | 3907720025C | 04-FEB-2004 | 04-05-1734A | 02
05 | OH | LOGAN COUNTY | 3907720025C | 25-JUN-2004 | 04-05-2533A | 02
05 | OH | LOGAN COUNTY | 3907720025C | 24-MAR-2004 | 04-05-2757A | 02
05 | OH | LOGAN COUNTY | 3907720025C | 02-JUN-2004 | 04-05-2828A | 02
05 | OH | LOGAN COUNTY | 3907720025C | 05-MAY-2004 | 04-05-3257A | 02
05 | OH | LOGAN COUNTY | 3907720025C | 30-JUL-2004 | 04-05-3823A | 02
05 | OH | LOGAN, CITY OF | 3902720100C | 03-MAR-2004 | 04-05-1784C | 01
05 | OH | LOGAN, CITY OF | 3902740002C | 03-MAR-2004 | 04-05-1784C | 01
05 | OH | LORAIN COUNTY | 3903460095B | 04-FEB-2004 | 04-05-1441A | 02
05 | OH | LORAIN COUNTY | 3903460090B | 09-JUL-2004 | 04-05-3611A | 02
05 | OH | LORAIN, CITY OF | 3903510010C | 07-JAN-2004 | 03-05-5225A | 01
05 | OH | LORAIN, CITY OF | 3903510005C | 19-MAY-2004 | 04-05-2284A | 17
05 | OH | LORAIN, CITY OF | 3903510004C | 07-APR-2004 | 04-05-2780X | 02
05 | OH | LOUISVILLE, CITY OF | 3905160002D | 07-JUL-2004 | 04-05-3906A | 02
05 | OH | LOVELAND, CITY OF | 39061C0120D | 18-MAY-2004 | 04-05-2663V | 19
05 | OH | LUCAS COUNTY | 39095C0140D | 07-JAN-2004 | 03-05-4853A | 01
05 | OH | LUCAS COUNTY | 39095C0062D | 29-MAR-2004 | 04-05-0898P | 06
05 | OH | LUCAS COUNTY | 39095C0064D | 20-FEB-2004 | 04-05-1299A | 01
05 | OH | LUCAS COUNTY | 39095C0042D | 11-FEB-2004 | 04-05-1521A | 01
05 | OH | LUCAS COUNTY | 39095C0237D | 14-JAN-2004 | 04-05-1532A | 02
05 | OH | LUCAS COUNTY | 39095C0212D | 21-MAY-2004 | 04-05-1695A | 01
05 | OH | LUCAS COUNTY | 39095C0064D | 06-FEB-2004 | 04-05-1837A | 02
05 | OH | LUCAS COUNTY | 39095C0064D | 12-MAY-2004 | 04-05-1966A | 02
05 | OH | LUCAS COUNTY | 39095C0370D | 05-MAR-2004 | 04-05-2186A | 02
05 | OH | LUCAS COUNTY | 39095C0236D | 17-MAR-2004 | 04-05-2408A | 02
05 | OH | LUCAS COUNTY | 39095C0053D | 28-APR-2004 | 04-05-2776A | 02
05 | OH | LUCAS COUNTY | 39095C0062D | 16-APR-2004 | 04-05-2778A | 02
05 | OH | LUCAS COUNTY | 39095C0061D | 05-MAY-2004 | 04-05-2842A | 02
05 | OH | LUCAS COUNTY | 39095C0064D | 14-APR-2004 | 04-05-2965A | 02
05 | OH | LUCAS COUNTY | 39095C0236D | 05-MAY-2004 | 04-05-3132A | 02
05 | OH | LUCAS COUNTY | 39095C0053D | 07-JUL-2004 | 04-05-3713A | 02
05 | OH | LUCAS COUNTY | 39095C0063D | 21-JUL-2004 | 04-05-3789A | 02
05 | OH | LUCAS COUNTY | 39095C0058D | 02-JUL-2004 | 04-05-3799A | 02
05 | OH | LUCAS COUNTY | 39095C0218D | 14-JUL-2004 | 04-05-3913A | 02
05 | OH | LUCAS COUNTY | 39095C0064D | 21-JUL-2004 | 04-05-3914A | 02
05 | OH | LUCAS COUNTY | 39095C0385D | 14-JUL-2004 | 04-05-3915A | 02
05 | OH | MADISON COUNTY | 3907730050B | 21-APR-2004 | 04-05-2570A | 02
05 | OH | MAHONING COUNTY | 3903670050B | 05-MAY-2004 | 04-05-3286A | 02
05 | OH | MAHONING COUNTY | 3903670125B | 21-JUL-2004 | 04-05-3344A | 01
05 | OH | MALVERN, VILLAGE OF | 3900520001B | 30-JUN-2004 | 04-05-2583A | 17
05 | OH | MARION COUNTY | 39101C0150C | 04-FEB-2004 | 04-05-0793A | 02
05 | OH | MARION COUNTY | 39101C0055C | 24-MAR-2004 | 04-05-2430A | 02
05 | OH | MARION COUNTY | 39101C0075C | 16-JUN-2004 | 04-05-3523A | 02
05 | OH | MCCONNELSVILLE, VILLAGE OF | 390422_01B | 21-JAN-2004 | 04-05-1610A | 02
05 | OH | MEDINA COUNTY | 3903780075B | 24-MAR-2004 | 04-05-2218A | 02
05 | OH | MEDINA COUNTY | 3903780030C | 28-JUL-2004 | 04-05-2911A | 02
05 | OH | MEDINA COUNTY | 3903780080B | 09-JUN-2004 | 04-05-3593A | 02
05 | OH | MEDINA COUNTY | 3903780080B | 14-JUN-2004 | 04-05-3609A | 02
05 | OH | MENTOR, CITY OF | 3903170010C | 05-MAR-2004 | 04-05-0117A | 02
05 | OH | MERCER COUNTY | 3903920100B | 17-MAR-2004 | 04-05-1551A | 01
05 | OH | MERCER COUNTY | 3903920100B | 18-FEB-2004 | 04-05-1800A | 02
05 | OH | MERCER COUNTY | 3903920100B | 25-FEB-2004 | 04-05-2202A | 02
05 | OH | MERCER COUNTY | 3903920100B | 28-APR-2004 | 04-05-2765A | 02
05 | OH | MERCER COUNTY | 3903920100B | 07-MAY-2004 | 04-05-3330A | 02
05 | OH | MERCER COUNTY | 3903920100B | 12-MAY-2004 | 04-05-3356A | 02
05 | OH | MERCER COUNTY | 3903920100B | 19-MAY-2004 | 04-05-3433A | 02
05 | OH | MERCER COUNTY | 3903920100B | 14-JUN-2004 | 04-05-3608A | 02
05 | OH | MERCER COUNTY | 3903920100B | 14-JUL-2004 | 04-05-3919A | 02
05 | OH | MERCER COUNTY | 3903920100B | 21-JUL-2004 | 04-05-3949A | 02
05 | OH | MERCER COUNTY | 3903920100B | 30-JUL-2004 | 04-05-3955A | 02
05 | OH | MIAMI COUNTY | 3903980110C | 23-JUL-2004 | 04-05-3170A | 02
05 | OH | MIAMI COUNTY | 3903980100B | 30-JUN-2004 | 04-05-3814A | 02
05 | OH | MONTEZUMA, VILLAGE OF | 3903960001B | 28-JUL-2004 | 04-05-3975A | 02
05 | OH | MORAINE, CITY OF | 3904140005B | 18-JUN-2004 | 04-05-3320A | 02
05 | OH | MOUNT HEALTHY, CITY OF | 39061C0182D | 18-MAY-2004 | 04-05-2662V | 19
05 | OH | MT. GILEAD, VILLAGE OF | 3904240001D | 14-APR-2004 | 04-05-1274A | 02
05 | OH | MT. GILEAD, VILLAGE OF | 3904240001D | 09-APR-2004 | 04-05-1360A | 02
05 | OH | MUNROE FALLS, CITY OF | 3908430001B | 12-MAR-2004 | 04-05-2198A | 02
05 | OH | MUNROE FALLS, CITY OF | 3908430001B | 09-JUN-2004 | 04-05-3466A | 02
05 | OH | MUSKINGUM COUNTY | 3904250105D | 19-MAY-2004 | 04-05-1381A | 02
05 | OH | NAPOLEON, CITY OF | 3902660005D | 31-MAR-2004 | 04-05-2469A | 02
05 | OH | NEW ALBANY, VILLAGE OF | 39049C0183G | 14-JUN-2004 | 04-05-3607A | 02
05 | OH | NEW PHILADELPHIA, CITY OF | 3905450005C | 13-FEB-2004 | 04-05-2006A | 02
05 | OH | NEW PHILADELPHIA, CITY OF | 3905450005C | 23-JUL-2004 | 04-05-2140A | 02
05 | OH | NEW PHILADELPHIA, CITY OF | 3905450005C | 30-JUN-2004 | 04-05-3801A | 01
05 | OH | NEWARK,CITY OF | 3903350002F | 24-MAR-2004 | 03-05-5541A | 17
05 | OH | NEWARK,CITY OF | 3903350002F | 09-JAN-2004 | 04-05-1377A | 02
05 | OH | NEWTOWN, VILLAGE OF | 39061C0240D | 18-MAY-2004 | 04-05-2661V | 19
05 | OH | NEWTOWN, VILLAGE OF | 39061C0355D | 18-MAY-2004 | 04-05-2661V | 19
05 | OH | NILES, CITY OF | 3905400005C | 24-MAR-2004 | 04-05-1021A | 02
05 | OH | NILES, CITY OF | 3905400005C | 14-JAN-2004 | 04-05-1544A | 02
05 | OH | NILES, CITY OF | 3905400005C | 20-FEB-2004 | 04-05-1979A | 17
05 | OH | NILES, CITY OF | 3905400005C | 23-APR-2004 | 04-05-3162A | 02
05 | OH | NILES, CITY OF | 3905400005C | 16-JUL-2004 | 04-05-3860A | 02
05 | OH | NORTH BEND, VILLAGE OF | 39061C0165D | 18-MAY-2004 | 04-05-2660V | 19
05 | OH | NORTH COLLEGE HILL, CITY OF | 3902320001B | 05-APR-2004 | 04-05-1200A | 02
05 | OH | NORTH COLLEGE HILL, CITY OF | 3902320183 | 18-MAY-2004 | 04-05-2659V | 19
05 | OH | NORTH OLMSTED, CITY OF | 3901200002C | 07-JAN-2004 | 04-05-1066A | 02
05 | OH | NORTH RIDGEVILLE, CITY OF | 3903520005C | 06-FEB-2004 | 03-05-4898C | 02
05 | OH | NORTH RIDGEVILLE, CITY OF | 3903520005C | 06-FEB-2004 | 04-05-0254A | 02
05 | OH | NORTH RIDGEVILLE, CITY OF | 3903520005C | 14-JAN-2004 | 04-05-1292A | 02
05 | OH | NORTH RIDGEVILLE, CITY OF | 3903520005C | 14-JAN-2004 | 04-05-1533A | 02
05 | OH | NORTH RIDGEVILLE, CITY OF | 3903520005C | 17-MAR-2004 | 04-05-2214A | 02
05 | OH | NORTH ROYALTON, CITY OF | 3901210003B | 07-JAN-2004 | 04-05-0263A | 02
05 | OH | NORTH ROYALTON, CITY OF | 3901210005B | 07-JAN-2004 | 04-05-0263A | 02
05 | OH | OTTAWA COUNTY | 3904320200B | 14-JAN-2004 | 03-05-5559A | 01
05 | OH | OTTAWA COUNTY | 3904320125B | 07-JAN-2004 | 04-05-1011A | 02
05 | OH | OTTAWA COUNTY | 3904320200B | 21-JAN-2004 | 04-05-1148A | 01
05 | OH | OTTAWA COUNTY | 3904320200B | 06-FEB-2004 | 04-05-1741A | 02
05 | OH | OTTAWA COUNTY | 3904320125B | 25-FEB-2004 | 04-05-2021A | 02
05 | OH | OTTAWA COUNTY | 3904320200B | 25-FEB-2004 | 04-05-2054A | 02
05 | OH | OTTAWA COUNTY | 3904320200B | 26-MAR-2004 | 04-05-2154A | 02
05 | OH | OTTAWA COUNTY | 3904320125B | 21-APR-2004 | 04-05-2818A | 02
05 | OH | OTTAWA COUNTY | 3904320200B | 14-MAY-2004 | 04-05-3438A | 02
05 | OH | OTTAWA COUNTY | 3904320200B | 09-JUN-2004 | 04-05-3481A | 02
05 | OH | OTTAWA COUNTY | 3904320200B | 14-JUN-2004 | 04-05-3499A | 02
05 | OH | OTTAWA COUNTY | 3904320125B | 18-JUN-2004 | 04-05-3632A | 02
05 | OH | OTTAWA, VILLAGE OF | 3904720002C | 27-FEB-2004 | 04-05-1554A | 17
05 | OH | OTTAWA, VILLAGE OF | 3904720002C | 10-MAR-2004 | 04-05-2302A | 02
05 | OH | OTTAWA, VILLAGE OF | 3904720002C | 21-MAY-2004 | 04-05-2378A | 02
05 | OH | OTTAWA, VILLAGE OF | 3904720002C | 16-APR-2004 | 04-05-2951A | 02
05 | OH | OTTAWA, VILLAGE OF | 3904720002C | 09-JUL-2004 | 04-05-3644A | 01
05 | OH | PAULDING COUNTY | 3907770125C | 12-MAR-2004 | 04-05-1748A | 02
05 | OH | PERRYSVILLE, VILLAGE OF | 390730_01A | 14-APR-2004 | 04-05-1334A | 02
05 | OH | PICKAWAY COUNTY | 39129C0175H | 05-MAR-2004 | 04-05-1581A | 02
05 | OH | PIONEER, VILLAGE OF | 3905820001D | 28-APR-2004 | 04-05-3110A | 02
05 | OH | PORTAGE COUNTY | 390453_03C | 03-MAR-2004 | 04-05-1056A | 02
05 | OH | PORTAGE COUNTY | 390453_32A | 26-MAR-2004 | 04-05-2065A | 02
05 | OH | PORTAGE COUNTY | 390453_34C | 30-APR-2004 | 04-05-2497A | 02
05 | OH | PORTAGE COUNTY | 390453_35C | 12-MAY-2004 | 04-05-3310A | 02
05 | OH | POWELL, VILLAGE OF | 39041C0212J | 25-FEB-2004 | 03-05-2574P | 05
05 | OH | PREBLE COUNTY | 3904600010B | 28-MAY-2004 | 04-05-3487A | 02
05 | OH | PUTNAM COUNTY | 3904650135B | 16-APR-2004 | 04-05-0656A | 02
05 | OH | PUTNAM COUNTY | 3907580050B | 16-APR-2004 | 04-05-0656A | 02
05 | OH | PUTNAM COUNTY | 3904650100B | 09-JAN-2004 | 04-05-1279A | 02
05 | OH | PUTNAM COUNTY | 3904650130B | 28-JAN-2004 | 04-05-1314A | 02
05 | OH | PUTNAM COUNTY | 3904650100B | 25-FEB-2004 | 04-05-1429A | 02
05 | OH | PUTNAM COUNTY | 3904650100B | 23-APR-2004 | 04-05-1771A | 02
05 | OH | PUTNAM COUNTY | 3904650100B | 21-MAY-2004 | 04-05-2834A | 02
05 | OH | PUTNAM COUNTY | 3904650130B | 02-JUL-2004 | 04-05-2839A | 02
05 | OH | PUTNAM COUNTY | 3904650130B | 16-APR-2004 | 04-05-3006A | 02
05 | OH | PUTNAM COUNTY | 3904650100B | 28-APR-2004 | 04-05-3026A | 02
05 | OH | PUTNAM COUNTY | 3904650100B | 23-JUN-2004 | 04-05-3312A | 02
05 | OH | PUTNAM COUNTY | 3904650130B | 28-MAY-2004 | 04-05-3380A | 02
05 | OH | PUTNAM COUNTY | 3904650135B | 19-MAY-2004 | 04-05-3441A | 02
05 | OH | PUTNAM COUNTY | 3904650110B | 25-JUN-2004 | 04-05-3643A | 02
05 | OH | PUTNAM COUNTY | 3904650100B | 07-JUL-2004 | 04-05-3782A | 02
05 | OH | REYNOLDSBURG, CITY OF | 39049C0279G | 09-JAN-2004 | 04-05-0330A | 02
05 | OH | REYNOLDSBURG, CITY OF | 39049C0283G | 09-JAN-2004 | 04-05-0330A | 02
05 | OH | RICHLAND COUNTY | 3904760175B | 14-JAN-2004 | 04-05-0729A | 17
05 | OH | RICHLAND COUNTY | 3904760100B | 30-APR-2004 | 04-05-3060A | 02
05 | OH | ROSS COUNTY | 39141C0400C | 07-JAN-2004 | 04-05-0522A | 02
05 | OH | ROSS COUNTY | 39141C0345C | 14-JAN-2004 | 04-05-1293A | 02
05 | OH | ROSS COUNTY | 39141C0365C | 13-FEB-2004 | 04-05-1737A | 02
05 | OH | ROSS COUNTY | 39141C0400C | 24-MAR-2004 | 04-05-2388A | 02
05 | OH | ROSS COUNTY | 39141C0200C | 30-JUN-2004 | 04-05-3837A | 02
05 | OH | ROSSFORD, CITY OF | 3905890001B | 14-MAY-2004 | 04-05-3319A | 02
05 | OH | SANDUSKY COUNTY | 3904860025B | 28-APR-2004 | 04-05-2363A | 02
05 | OH | SANDUSKY, CITY OF | 390156_04B | 03-MAR-2004 | 04-05-1624A | 02
05 | OH | SANDUSKY, CITY OF | 390156_04B | 03-MAR-2004 | 04-05-1651A | 02
05 | OH | SANDUSKY, CITY OF | 390156_04B | 03-MAR-2004 | 04-05-1652A | 02
05 | OH | SANDUSKY, CITY OF | 390156_06B | 13-FEB-2004 | 04-05-1745A | 02
05 | OH | SANDUSKY, CITY OF | 390156_04B | 19-MAY-2004 | 04-05-3105A | 01
05 | OH | SCIOTO COUNTY | 39145C0428D | 07-JAN-2004 | 04-05-0588A | 02
05 | OH | SCIOTO COUNTY | 39145C0386D | 07-JAN-2004 | 04-05-1171A | 02
05 | OH | SCIOTO COUNTY | 39145C0529D | 09-JUN-2004 | 04-05-3074A | 17
05 | OH | SCIOTO COUNTY | 39145C0529D | 23-JUN-2004 | 04-05-3760A | 17
05 | OH | SENECA COUNTY | 3907790085B | 07-JAN-2004 | 03-05-5419A | 02
05 | OH | SHAKER HEIGHTS, CITY OF | 3901290004C | 16-JUL-2004 | 04-05-3885A | 02
05 | OH | SHARONVILLE, CITY OF | 3902360001C | 20-JAN-2004 | 04-05-0480A | 01
05 | OH | SHARONVILLE, CITY OF | 39061C0093D | 10-JUN-2004 | 04-05-1891A | 02
05 | OH | SHELBY COUNTY | 3905030055C | 05-MAR-2004 | 04-05-2111A | 02
05 | OH | SHELBY COUNTY | 3905030050C | 22-JUL-2004 | 04-05-2336P | 05
05 | OH | SHELBY COUNTY | 3905030110C | 16-JUN-2004 | 04-05-3070A | 02
05 | OH | SHELBY COUNTY | 3905030060C | 28-MAY-2004 | 04-05-3137A | 02
05 | OH | SHELBY COUNTY | 3905030055C | 23-JUN-2004 | 04-05-3417A | 02
05 | OH | SHELBY COUNTY | 3905030060C | 30-JUN-2004 | 04-05-3866A | 02
05 | OH | SPRINGBORO, CITY OF | 3905640001B | 21-JUL-2004 | 04-05-3624A | 17
05 | OH | SPRINGFIELD, CITY OF | 3907320180A | 18-JUN-2004 | 04-05-3762A | 02
05 | OH | SPRINGFIELD, CITY OF | 3907320180A | 25-JUN-2004 | 04-05-3766A | 02
05 | OH | STARK COUNTY | 3907800102B | 09-JAN-2004 | 04-05-0715A | 17
05 | OH | STARK COUNTY | 3907800019B | 17-MAR-2004 | 04-05-2293A | 02
05 | OH | STARK COUNTY | 3907800019B | 24-MAR-2004 | 04-05-2390A | 02
05 | OH | STARK COUNTY | 3907800019B | 09-APR-2004 | 04-05-2921A | 02
05 | OH | STARK COUNTY | 3907800175B | 02-JUN-2004 | 04-05-3097A | 02
05 | OH | STARK COUNTY | 3907800085B | 28-JUL-2004 | 04-05-3717A | 02
05 | OH | STOW, CITY OF | 3905320005B | 16-JUN-2004 | 04-05-3774A | 02
05 | OH | STRONGSVILLE, CITY OF | 3901320005B | 23-APR-2004 | 04-05-2504A | 01
05 | OH | SYLVANIA, CITY OF | 39095C0051D | 14-JAN-2004 | 04-05-1522A | 02
05 | OH | TERRACE PARK, VILLAGE OF | 39061C0241D | 18-MAY-2004 | 04-05-2658V | 19
05 | OH | TOLEDO, CITY OF | 39095C0078D | 14-JAN-2004 | 04-05-1117A | 02
05 | OH | TOLEDO, CITY OF | 39095C0231D | 18-FEB-2004 | 04-05-1346A | 17
05 | OH | TOLEDO, CITY OF | 39095C0064D | 09-JAN-2004 | 04-05-1398A | 02
05 | OH | TOLEDO, CITY OF | 39095C0059D | 04-FEB-2004 | 04-05-1451A | 02
05 | OH | TOLEDO, CITY OF | 39095C0086D | 31-MAR-2004 | 04-05-1831A | 02
05 | OH | TOLEDO, CITY OF | 39095C0064D | 18-FEB-2004 | 04-05-1832A | 02
05 | OH | TOLEDO, CITY OF | 39095C0059D | 25-FEB-2004 | 04-05-1997A | 02
05 | OH | TOLEDO, CITY OF | 39095C0059D | 26-MAR-2004 | 04-05-2398A | 02
05 | OH | TOLEDO, CITY OF | 39095C0079D | 14-APR-2004 | 04-05-2688A | 02
05 | OH | TOLEDO, CITY OF | 39095C0079D | 07-MAY-2004 | 04-05-3131A | 02
05 | OH | TOLEDO, CITY OF | 39095C0086D | 19-MAY-2004 | 04-05-3332A | 02
05 | OH | TOLEDO, CITY OF | 39095C0066D | 19-MAY-2004 | 04-05-3453A | 02
05 | OH | TOLEDO, CITY OF | 39095C0059D | 23-JUL-2004 | 04-05-3591A | 02
05 | OH | TOLEDO, CITY OF | 39095C0064D | 14-JUN-2004 | 04-05-3630A | 02
05 | OH | TOLEDO, CITY OF | 39095C0068D | 14-JUN-2004 | 04-05-3630A | 02
05 | OH | TOLEDO, CITY OF | 39095C0079D | 16-JUL-2004 | 04-05-3719A | 02
05 | OH | TOLEDO, CITY OF | 39095C0079D | 07-JUL-2004 | 04-05-3790A | 02
05 | OH | TOLEDO, CITY OF | 3953730059D | 30-JUN-2004 | 04-05-3791A | 02
05 | OH | TOLEDO, CITY OF | 39095C0079D | 09-JUL-2004 | 04-05-3798A | 02
05 | OH | TOLEDO, CITY OF | 39095C0064D | 14-JUL-2004 | 04-05-3984A | 02
05 | OH | TOLEDO, CITY OF | 39095C0068D | 14-JUL-2004 | 04-05-3984A | 02
05 | OH | TROY, CITY OF | 3904020005B | 16-JUN-2004 | 04-05-3781A | 02
05 | OH | TUSCARAWAS COUNTY | 3907820100B | 21-APR-2004 | 04-05-0187A | 02
05 | OH | TUSCARAWAS COUNTY | 3907820070B | 27-FEB-2004 | 04-05-1960A | 02
05 | OH | TUSCARAWAS COUNTY | 3907820080B | 05-MAR-2004 | 04-05-2369A | 02
05 | OH | TUSCARAWAS COUNTY | 3907820090B | 02-JUN-2004 | 04-05-3448A | 02
05 | OH | TUSCARAWAS COUNTY | 3907820160B | 25-JUN-2004 | 04-05-3769A | 01
05 | OH | TUSCARAWAS COUNTY | 3907820130B | 28-JUL-2004 | 04-05-4177A | 02
05 | OH | UHRICHSVILLE, CITY OF | 3905470005C | 10-MAR-2004 | 04-05-2316A | 02
05 | OH | UNION COUNTY | 3908080100B | 21-APR-2004 | 04-05-0018A | 01
05 | OH | UNION COUNTY | 3908080150B | 26-MAY-2004 | 04-05-3364A | 02
05 | OH | UNION COUNTY | 3908080100B | 28-MAY-2004 | 04-05-3399A | 02
05 | OH | UNION COUNTY | 3908080100B | 09-JUL-2004 | 04-05-3867A | 02
05 | OH | WARREN COUNTY | 3907570005C | 21-JAN-2004 | 04-05-0818A | 01
05 | OH | WARREN COUNTY | 3907570069D | 23-JAN-2004 | 04-05-1283A | 02
05 | OH | WARREN COUNTY | 3907570050C | 07-MAY-2004 | 04-05-2962A | 02
05 | OH | WASHINGTON COUNTY | 3905660150B | 23-JUN-2004 | 04-05-2802A | 02
05 | OH | WASHINGTON COUNTY | 3905660125B | 16-JUL-2004 | 04-05-3387A | 02
05 | OH | WASHINGTON COUNTY | 3905660125B | 12-MAY-2004 | 04-05-3415A | 02
05 | OH | WASHINGTON COUNTY | 3905660125B | 02-JUL-2004 | 04-05-3482A | 02
05 | OH | WASHINGTON COUNTY | 3905660075B | 25-JUN-2004 | 04-05-3510A | 02
05 | OH | WASHINGTON COURTHOUSE, CITY OF | 39047C0166C | 03-MAR-2004 | 04-05-1854V | 19
05 | OH | WAYNE COUNTY | 39169C0075D | 07-JAN-2004 | 04-05-1407A | 02
05 | OH | WAYNE COUNTY | 39169C0275C | 04-FEB-2004 | 04-05-1472A | 02
05 | OH | WAYNE COUNTY | 39169C0100D | 30-JUN-2004 | 04-05-3898A | 02
05 | OH | WEST CARROLLTON, CITY OF | 3904190005C | 30-APR-2004 | 04-05-2463A | 02
05 | OH | WHITEHALL, CITY OF | 39049C0260G | 09-JUL-2004 | 04-05-3622A | 02
05 | OH | WHITEHOUSE, VILLAGE OF | 39095C0218D | 31-MAR-2004 | 04-05-1980A | 01
05 | OH | WHITEHOUSE, VILLAGE OF | 39095C0218D | 02-APR-2004 | 04-05-1981A | 01
05 | OH | WHITEHOUSE, VILLAGE OF | 39095C0218D | 19-MAR-2004 | 04-05-1982A | 01
05 | OH | WHITEHOUSE, VILLAGE OF | 39095C0218D | 17-MAR-2004 | 04-05-2426A | 02
05 | OH | WHITEHOUSE, VILLAGE OF | 39095C0214D | 12-MAY-2004 | 04-05-3381A | 02
05 | OH | WHITEHOUSE, VILLAGE OF | 39095C0218D | 12-MAY-2004 | 04-05-3381A | 02
05 | OH | WILLIAMS COUNTY | 3907850025B | 24-MAR-2004 | 04-05-2627A | 02
05 | OH | WILLIAMS COUNTY | 3907850050B | 09-APR-2004 | 04-05-2901A | 02
05 | OH | WILLIAMS COUNTY | 3907850025B | 21-JUL-2004 | 04-05-3937A | 02
05 | OH | WILLIAMS COUNTY | 3907850050B | 28-JUL-2004 | 04-05-3938A | 02
05 | OH | WILLIAMS COUNTY | 3907850025B | 23-JUL-2004 | 04-05-3939A | 02
05 | OH | WOOD COUNTY | 3908090016B | 14-MAY-2004 | 04-05-3161A | 02
05 | OH | XENIA, CITY OF | 3901970009C | 23-JUN-2004 | 04-05-3829A | 02
05 | WI | ADAMS COUNTY | 55001C0025C | 21-JUL-2004 | 04-05-3809A | 02
05 | WI | ALGOMA, CITY OF | 5502130001B | 07-MAY-2004 | 04-05-3318A | 02
05 | WI | ALLOUEZ, VILLAGE OF | 5500200125B | 17-JUN-2004 | 04-05-2650A | 02
05 | WI | ALLOUEZ, VILLAGE OF | 5500200125B | 17-JUN-2004 | 04-05-2656A | 02
05 | WI | ARCADIA, CITY OF | 5504390001B | 28-JUL-2004 | 04-05-3775A | 01
05 | WI | BARABOO, CITY OF | 55111C0405D | 16-JUN-2004 | 04-05-3642A | 17
05 | WI | BARRON COUNTY | 5505680180B | 21-APR-2004 | 04-05-2814A | 02
05 | WI | BARRON COUNTY | 5505680125B | 18-JUN-2004 | 04-05-3683A | 02
05 | WI | BAYFIELD COUNTY | 5505390026B | 16-APR-2004 | 04-05-2730A | 02
05 | WI | BEAVER DAM, CITY OF | 5500950001D | 13-FEB-2004 | 04-05-1315A | 02
05 | WI | BIG FALLS, VILLAGE OF | 550493_01A | 23-APR-2004 | 04-05-3019A | 02
05 | WI | BIRCHWOOD, VILLAGE OF | 550574_01B | 13-FEB-2004 | 04-05-2057A | 02
05 | WI | BLACK EARTH, VILLAGE OF | 55025C0169F | 16-JAN-2004 | 04-05-1545A | 02
05 | WI | BROWN COUNTY * | 5500200150B | 03-MAY-2004 | 04-05-1889A | 01
05 | WI | BROWN COUNTY * | 5500200150B | 10-JUN-2004 | 04-05-3232A | 01
05 | WI | BUFFALO COUNTY | 555547_19A | 31-MAR-2004 | 04-05-2473A | 02
05 | WI | BURLINGTON, CITY OF | 5503480001C | 29-JUL-2004 | 04-05-1089A | 01
05 | WI | BURNETT COUNTY | 5500320400B | 26-MAR-2004 | 04-05-1000A | 02
05 | WI | CASCADE, VILLAGE OF | 5504250001B | 23-APR-2004 | 04-05-2804A | 01
05 | WI | CECIL, VILLAGE OF | 550416_01B | 25-FEB-2004 | 04-05-2085A | 02
05 | WI | CHILTON, CITY OF | 5500370001D | 27-FEB-2004 | 04-05-1660A | 17
05 | WI | CHIPPEWA COUNTY | 5555490200C | 04-FEB-2004 | 03-05-5728A | 02
05 | WI | CHIPPEWA COUNTY | 5555490250C | 07-JAN-2004 | 04-05-0311A | 02
05 | WI | CHIPPEWA COUNTY | 5555490125B | 04-FEB-2004 | 04-05-1665A | 02
05 | WI | CHIPPEWA COUNTY | 5555490075B | 07-APR-2004 | 04-05-2798A | 02
05 | WI | CHIPPEWA COUNTY | 5555490275C | 07-APR-2004 | 04-05-2811A | 02
05 | WI | CHIPPEWA COUNTY | 5555490250C | 28-APR-2004 | 04-05-2840A | 02
05 | WI | CHIPPEWA COUNTY | 5555490250C | 09-JUN-2004 | 04-05-3151A | 17
05 | WI | CHIPPEWA COUNTY | 5555490075B | 26-MAY-2004 | 04-05-3288A | 02
05 | WI | CHIPPEWA COUNTY | 5555490200C | 19-MAY-2004 | 04-05-3435A | 02
05 | WI | CHIPPEWA COUNTY | 5555490250C | 21-JUL-2004 | 04-05-3507A | 01
05 | WI | CHIPPEWA COUNTY | 5555490200C | 09-JUL-2004 | 04-05-3953A | 02
05 | WI | CHIPPEWA FALLS, CITY OF | 5500440006C | 19-MAY-2004 | 04-05-2797A | 02
05 | WI | COLUMBIA COUNTY | 5505810250C | 11-FEB-2004 | 04-05-0951A | 02
05 | WI | COLUMBIA COUNTY | 5505810175C | 07-JAN-2004 | 04-05-1297A | 17
05 | WI | COLUMBIA COUNTY | 5505810200C | 30-JUN-2004 | 04-05-3709A | 02
05 | WI | CROSS PLAINS, VILLAGE OF | 55025C0357F | 28-MAY-2004 | 04-05-3377A | 02
05 | WI | DANE COUNTY | 55025C0413F | 04-FEB-2004 | 03-05-5106A | 01
05 | WI | DANE COUNTY | 55025C0175F | 03-MAR-2004 | 04-05-0806A | 02
05 | WI | DANE COUNTY | 55025C0244F | 21-JAN-2004 | 04-05-1034A | 02
05 | WI | DANE COUNTY | 55025C0394F | 23-JAN-2004 | 04-05-1060A | 02
05 | WI | DANE COUNTY | 55025C0025F | 21-JAN-2004 | 04-05-1093A | 02
05 | WI | DANE COUNTY | 55025C0244F | 06-FEB-2004 | 04-05-1580A | 02
05 | WI | DANE COUNTY | 55025C0443F | 28-JAN-2004 | 04-05-1683A | 02
05 | WI | DANE COUNTY | 55025C0175F | 02-APR-2004 | 04-05-2553A | 02
05 | WI | DANE COUNTY | 55025C0243F | 02-APR-2004 | 04-05-2838A | 02
05 | WI | DANE COUNTY | 55025C0650F | 07-APR-2004 | 04-05-2854A | 02
05 | WI | DANE COUNTY | 55025C0650F | 07-APR-2004 | 04-05-2855A | 02
05 | WI | DANE COUNTY | 55025C0650F | 09-APR-2004 | 04-05-2856A | 02
05 | WI | DANE COUNTY | 55025C0243F | 02-JUL-2004 | 04-05-2923A | 02
05 | WI | DANE COUNTY | 55025C0625F | 16-APR-2004 | 04-05-2994A | 02
05 | WI | DANE COUNTY | 55025C0625F | 21-APR-2004 | 04-05-3108A | 02
05 | WI | DANE COUNTY | 55025C0393F | 23-JUN-2004 | 04-05-3397A | 02
05 | WI | DANE COUNTY | 55025C0556F | 23-JUN-2004 | 04-05-3397A | 02
05 | WI | DANE COUNTY | 55025C0175F | 16-JUN-2004 | 04-05-3710A | 02
05 | WI | DANE COUNTY | 55025C0625F | 30-JUN-2004 | 04-05-3843A | 02
05 | WI | DANE COUNTY | 55025C0243F | 30-JUL-2004 | 04-05-4090A | 02
05 | WI | DANE COUNTY* | 55025C0166F | 26-FEB-2004 | 03-05-4102P | 05
05 | WI | DANE COUNTY* | 55025C0175F | 26-FEB-2004 | 03-05-4102P | 05
05 | WI | DARLINGTON, CITY OF | 5502280003C | 27-FEB-2004 | 04-05-1542A | 01
05 | WI | DE FOREST, VILLAGE OF | 55025C0252F | 28-JAN-2004 | 04-05-1014A | 02
05 | WI | DE FOREST, VILLAGE OF | 55025C0251F | 09-JAN-2004 | 04-05-1161A | 02
05 | WI | DE FOREST, VILLAGE OF | 55025C0088F | 16-JAN-2004 | 04-05-1488A | 02
05 | WI | DE FOREST, VILLAGE OF | 55025C0251F | 21-JAN-2004 | 04-05-1613A | 02
05 | WI | DE FOREST, VILLAGE OF | 55025C0251F | 30-JAN-2004 | 04-05-1710A | 02
05 | WI | DE FOREST, VILLAGE OF | 55025C0251F | 14-JUN-2004 | 04-05-2192A | 02
05 | WI | DE FOREST, VILLAGE OF | 55025C0252F | 19-MAR-2004 | 04-05-2304A | 01
05 | WI | DE FOREST, VILLAGE OF | 55025C0251F | 24-MAR-2004 | 04-05-2466A | 02
05 | WI | DE FOREST, VILLAGE OF | 55025C0251F | 17-MAR-2004 | 04-05-2611A | 02
05 | WI | DE FOREST, VILLAGE OF | 55025C0251F | 09-APR-2004 | 04-05-2636A | 02
05 | WI | DE FOREST, VILLAGE OF | 55025C0251F | 14-JUN-2004 | 04-05-3567A | 02
05 | WI | DE FOREST, VILLAGE OF | 55025C0088F | 23-JUN-2004 | 04-05-3621A | 02
05 | WI | DE FOREST, VILLAGE OF | 55025C0251F | 14-JUL-2004 | 04-05-3672A | 02
05 | WI | DE FOREST, VILLAGE OF | 55025C0251F | 23-JUL-2004 | 04-05-3701A | 17
05 | WI | DE FOREST, VILLAGE OF | 55025C0251F | 21-JUL-2004 | 04-05-3909X | 02
05 | WI | DE PERE, CITY OF | 5500200125B | 17-FEB-2004 | 03-05-4638A | 02
05 | WI | DE PERE, CITY OF | 5500210005C | 08-JAN-2004 | 04-05-0504A | 02
05 | WI | DODGE COUNTY | 5500940175B | 07-MAY-2004 | 04-05-2233A | 02
05 | WI | DOOR COUNTY | 5501090065A | 25-FEB-2004 | 04-05-2050A | 02
05 | WI | DOOR COUNTY | 5501090085A | 14-JUN-2004 | 04-05-3089A | 02
05 | WI | DOUGLAS COUNTY | 5505380825B | 19-MAR-2004 | 04-05-2019A | 02
05 | WI | DOUGLAS COUNTY | 5505380475B | 09-JUL-2004 | 04-05-3758A | 02
05 | WI | DOUSMAN, VILLAGE OF | 5504800001C | 23-JUN-2004 | 04-05-2860A | 02
05 | WI | DUNN COUNTY | 5501180200B | 18-FEB-2004 | 04-05-1805A | 02
05 | WI | DUNN COUNTY | 5501180125A | 13-FEB-2004 | 04-05-1949A | 02
05 | WI | DUNN COUNTY | 5501180125A | 05-MAY-2004 | 04-05-3281A | 02
05 | WI | EAU CLAIRE COUNTY | 5555520175B | 14-JAN-2004 | 04-05-0280A | 02
05 | WI | FOND DU LAC COUNTY | 5501310090C | 30-JAN-2004 | 04-05-1156A | 17
05 | WI | FOND DU LAC COUNTY | 5501310060C | 30-APR-2004 | 04-05-1519A | 17
05 | WI | FOND DU LAC COUNTY | 5501310060C | 04-FEB-2004 | 04-05-1762A | 02
05 | WI | FOND DU LAC COUNTY | 5501310070D | 25-FEB-2004 | 04-05-1849A | 17
05 | WI | FOND DU LAC COUNTY | 5501310070D | 11-FEB-2004 | 04-05-1850A | 02
05 | WI | FOND DU LAC COUNTY | 5501310070D | 20-FEB-2004 | 04-05-1977A | 02
05 | WI | FOND DU LAC COUNTY | 5501310080B | 25-FEB-2004 | 04-05-2038A | 02
05 | WI | FOND DU LAC COUNTY | 5501310070D | 12-MAR-2004 | 04-05-2222X | 02
05 | WI | FOND DU LAC COUNTY | 5501310080B | 03-MAR-2004 | 04-05-2289A | 02
05 | WI | FOND DU LAC COUNTY | 5501310030B | 10-MAR-2004 | 04-05-2438A | 02
05 | WI | FOND DU LAC COUNTY | 5501310185B | 09-APR-2004 | 04-05-2806A | 02
05 | WI | FOND DU LAC COUNTY | 5501310070D | 14-APR-2004 | 04-05-2862A | 02
05 | WI | FOND DU LAC COUNTY | 5501310090C | 21-APR-2004 | 04-05-3083A | 02
05 | WI | FOND DU LAC COUNTY | 5501310060C | 12-MAY-2004 | 04-05-3147A | 02
05 | WI | FOND DU LAC COUNTY | 5501310070D | 04-JUN-2004 | 04-05-3504A | 01
05 | WI | FOND DU LAC COUNTY | 5501310060C | 09-JUN-2004 | 04-05-3627A | 02
05 | WI | FOND DU LAC COUNTY | 5501310070D | 28-JUL-2004 | 04-05-3764A | 02
05 | WI | FOND DU LAC, CITY OF | 5501310070D | 16-APR-2004 | 04-05-0772P | 06
05 | WI | FOND DU LAC, CITY OF | 5501310090C | 16-APR-2004 | 04-05-0772P | 06
05 | WI | FOND DU LAC, CITY OF | 5501360005D | 13-FEB-2004 | 04-05-1473A | 02
05 | WI | FOND DU LAC, CITY OF | 5501360005D | 30-JAN-2004 | 04-05-1617A | 02
05 | WI | FOND DU LAC, CITY OF | 5501360005D | 17-MAR-2004 | 04-05-2288A | 02
05 | WI | FOND DU LAC, CITY OF | 5501360005D | 17-MAR-2004 | 04-05-2425A | 02
05 | WI | FOND DU LAC, CITY OF | 5501360005D | 23-APR-2004 | 04-05-2789A | 02
05 | WI | FOND DU LAC, CITY OF | 5501360005D | 12-MAY-2004 | 04-05-2917A | 17
05 | WI | FOND DU LAC, CITY OF | 5501360005D | 12-MAY-2004 | 04-05-3139A | 02
05 | WI | FOND DU LAC, CITY OF | 5501360005D | 16-JUN-2004 | 04-05-3690A | 02
05 | WI | FOREST COUNTY | 5506030001A | 18-FEB-2004 | 04-05-2078A | 02
05 | WI | FOREST COUNTY | 5506030001A | 09-JUL-2004 | 04-05-3812A | 02
05 | WI | FOREST COUNTY | 5506030009A | 16-JUL-2004 | 04-05-3897A | 02
05 | WI | FREMONT, VILLAGE OF | 5504960001C | 16-JAN-2004 | 04-05-1408X | 02
05 | WI | FREMONT, VILLAGE OF | 5504960001C | 12-MAR-2004 | 04-05-2309A | 02
05 | WI | FREMONT, VILLAGE OF | 5504920205B | 30-APR-2004 | 04-05-2812A | 02
05 | WI | FREMONT, VILLAGE OF | 5504960001C | 14-JUN-2004 | 04-05-3616A | 02
05 | WI | GLENDALE, CITY OF | 5502750005C | 07-JAN-2004 | 04-05-1168A | 02
05 | WI | GREEN BAY, CITY OF | 5500220020E | 08-JAN-2004 | 04-05-0506A | 02
05 | WI | GREEN BAY, CITY OF | 5500220010E | 03-JUN-2004 | 04-05-3230A | 02
05 | WI | GREEN LAKE COUNTY | 5501650004A | 16-JUL-2004 | 04-05-3872A | 02
05 | WI | GREENFIELD, CITY OF | 5502770001B | 09-JUN-2004 | 04-05-2987A | 02
05 | WI | HOWARD, VILLAGE OF | 5500230005B | 08-JAN-2004 | 03-05-4677A | 02
05 | WI | HOWARD, VILLAGE OF | 5500230005B | 02-FEB-2004 | 04-05-1221A | 02
05 | WI | HOWARD, VILLAGE OF | 5500230005B | 06-MAY-2004 | 04-05-1871A | 01
05 | WI | HOWARD, VILLAGE OF | 5500230005B | 28-JUN-2004 | 04-05-2596A | 02
05 | WI | INDEPENDENCE, CITY OF | 5504440001B | 30-JUN-2004 | 04-05-3810A | 02
05 | WI | IOWA COUNTY | 5505220025B | 19-MAR-2004 | 04-05-2029A | 17
05 | WI | JACKSON COUNTY | 5505830125B | 16-JUL-2004 | 04-05-3935A | 02
05 | WI | JEFFERSON COUNTY | 5501910200B | 23-JAN-2004 | 04-05-1569A | 02
05 | WI | JEFFERSON COUNTY | 5501910200B | 04-FEB-2004 | 04-05-1730A | 02
05 | WI | JEFFERSON COUNTY | 5501910250B | 25-FEB-2004 | 04-05-2077A | 02
05 | WI | JEFFERSON, CITY OF | 5555610001B | 21-MAY-2004 | 04-05-3358A | 02
05 | WI | KEWASKUM, VILLAGE OF | 5504740001C | 05-MAY-2004 | 04-05-2930A | 02
05 | WI | LA CROSSE COUNTY * | 5502170120A | 03-MAY-2004 | 04-05-1876A | 02
05 | WI | LA CROSSE COUNTY * | 5502170120A | 06-MAY-2004 | 04-05-1888A | 02
05 | WI | LA CROSSE COUNTY * | 5502170105A | 17-MAY-2004 | 04-05-1900A | 02
05 | WI | LA CROSSE COUNTY * | 5502170120A | 17-JUN-2004 | 04-05-2609A | 02
05 | WI | LA CROSSE COUNTY * | 5502170110A | 28-JUN-2004 | 04-05-3191A | 02
05 | WI | LA CROSSE COUNTY * | 5502170105A | 24-JUN-2004 | 04-05-3199A | 02
05 | WI | LA CROSSE COUNTY * | 5502170105A | 24-JUN-2004 | 04-05-3220A | 02
05 | WI | LA CROSSE, CITY OF | 5555620008B | 15-JAN-2004 | 03-05-5352A | 02
05 | WI | LA CROSSE, CITY OF | 5555620005B | 01-JUN-2004 | 04-05-2644A | 01
05 | WI | LA CROSSE, CITY OF | 5555620005B | 07-JUN-2004 | 04-05-2649A | 02
05 | WI | LAKE DELTON, VILLAGE OF | 55111C0250D | 16-APR-2004 | 04-05-2982A | 02
05 | WI | LAKE DELTON, VILLAGE OF | 55111C0231D | 30-JUN-2004 | 04-05-3817A | 02
05 | WI | LAKE DELTON, VILLAGE OF | 55111C0250D | 30-JUN-2004 | 04-05-3817A | 02
05 | WI | LEDGEVIEW, TOWN OF | 550020125B | 26-FEB-2004 | 04-05-0505A | 02
05 | WI | LEDGEVIEW, TOWN OF | 5500200125B | 23-APR-2004 | 04-05-1870A | 02
05 | WI | LEDGEVIEW, TOWN OF | 5500200125B | 24-JUN-2004 | 04-05-2606A | 02
05 | WI | LINCOLN COUNTY | 5505850020B | 04-FEB-2004 | 03-05-5524A | 17
05 | WI | LINCOLN COUNTY | 5505850185B | 30-JAN-2004 | 04-05-1079A | 02
05 | WI | MADISON, CITY OF | 55025C0394F | 22-MAR-2004 | 04-05-0882P | 06
05 | WI | MADISON, CITY OF | 55025C0394F | 16-JAN-2004 | 04-05-1333A | 02
05 | WI | MADISON, CITY OF | 55025C0264F | 13-FEB-2004 | 04-05-1343A | 01
05 | WI | MADISON, CITY OF | 55025C0427F | 14-JAN-2004 | 04-05-1536A | 02
05 | WI | MADISON, CITY OF | 55025C0394F | 14-JAN-2004 | 04-05-1537A | 02
05 | WI | MADISON, CITY OF | 55025C0431F | 10-MAR-2004 | 04-05-2117A | 02
05 | WI | MADISON, CITY OF | 55025C0413F | 18-FEB-2004 | 04-05-2183X | 01
05 | WI | MADISON, CITY OF | 55025C0244F | 24-MAR-2004 | 04-05-2221A | 02
05 | WI | MADISON, CITY OF | 55025C0394F | 31-MAR-2004 | 04-05-2319A | 01
05 | WI | MADISON, CITY OF | 55025C0394F | 24-MAR-2004 | 04-05-2351A | 02
05 | WI | MADISON, CITY OF | 55025C0394F | 05-MAY-2004 | 04-05-2823A | 02
05 | WI | MADISON, CITY OF | 55025C0264F | 07-MAY-2004 | 04-05-2826A | 01
05 | WI | MARATHON COUNTY | 5502450375B | 04-FEB-2004 | 04-05-0282A | 02
05 | WI | MARATHON COUNTY | 5502450100B | 02-APR-2004 | 04-05-0414A | 02
05 | WI | MARATHON COUNTY | 5502450375B | 04-FEB-2004 | 04-05-0904A | 01
05 | WI | MARATHON COUNTY | 5502450375B | 16-APR-2004 | 04-05-0947A | 01
05 | WI | MARATHON COUNTY | 5502450400B | 23-JAN-2004 | 04-05-1286A | 17
05 | WI | MARATHON COUNTY | 5502450375B | 24-MAR-2004 | 04-05-1304A | 02
05 | WI | MARATHON COUNTY | 5502450525B | 21-JAN-2004 | 04-05-1615A | 02
05 | WI | MARATHON COUNTY | 5502450400B | 26-MAR-2004 | 04-05-2139A | 02
05 | WI | MARATHON COUNTY | 5502450375B | 02-APR-2004 | 04-05-2518A | 02
05 | WI | MARATHON COUNTY | 5502450350B | 21-APR-2004 | 04-05-2633A | 02
05 | WI | MARATHON COUNTY | 5502450375B | 30-APR-2004 | 04-05-2723A | 02
05 | WI | MARATHON COUNTY | 5502450575B | 12-MAY-2004 | 04-05-2861A | 02
05 | WI | MARATHON COUNTY | 5502450525B | 21-JUL-2004 | 04-05-2988A | 02
05 | WI | MARATHON COUNTY | 5502450375B | 19-MAY-2004 | 04-05-3183A | 02
05 | WI | MARATHON COUNTY | 5502450400B | 21-MAY-2004 | 04-05-3394A | 02
05 | WI | MARATHON COUNTY | 5502450400B | 23-JUN-2004 | 04-05-3787X | 02
05 | WI | MARINETTE COUNTY | 5502590450B | 30-APR-2004 | 04-05-2704A | 02
05 | WI | MARINETTE, CITY OF | 5502610001B | 07-JAN-2004 | 04-05-1310A | 02
05 | WI | MARINETTE, CITY OF | 5502610001B | 07-APR-2004 | 04-05-2164A | 02
05 | WI | MARINETTE, CITY OF | 5502610001B | 21-APR-2004 | 04-05-3106A | 02
05 | WI | MAZOMANIE, VILLAGE OF | 55025C0166F | 07-APR-2004 | 04-05-2442A | 02
05 | WI | MAZOMANIE, VILLAGE OF | 55025C0166F | 26-FEB-2004 | 03-05-4102P | 05
05 | WI | MAZOMANIE, VILLAGE OF | 55025C0175F | 26-FEB-2004 | 03-05-4102P | 05
05 | WI | MENASHA, CITY OF | 55139C0105E | 12-MAR-2004 | 04-05-0932A | 02
05 | WI | MENASHA, CITY OF | 55139C0105E | 10-MAR-2004 | 04-05-1786A | 01
05 | WI | MENASHA, CITY OF | 55139C0105E | 28-MAY-2004 | 04-05-3525A | 02
05 | WI | MEQUON, CITY OF | 55089C0090D | 11-FEB-2004 | 04-05-1358A | 02
05 | WI | MEQUON, CITY OF | 55089C0079D | 28-JUL-2004 | 04-05-2686A | 02
05 | WI | MILWAUKEE, CITY OF | 5502780004B | 25-FEB-2004 | 03-05-4738A | 01
05 | WI | MILWAUKEE, CITY OF | 5502780019C | 05-MAY-2004 | 04-05-2714A | 02
05 | WI | MONROE, CITY OF | 5501620001C | 07-JAN-2004 | 04-05-1417A | 02
05 | WI | MUKWONAGO, VILLAGE OF | 5504850002B | 14-JAN-2004 | 04-05-1298A | 02
05 | WI | MUSKEGO, CITY OF | 5504860002B | 13-FEB-2004 | 04-05-1738A | 02
05 | WI | MUSKEGO, CITY OF | 5504860001B | 05-MAY-2004 | 04-05-2540A | 02
05 | WI | MUSKEGO, CITY OF | 5504860002B | 14-APR-2004 | 04-05-2796A | 17
05 | WI | MUSKEGO, CITY OF | 5504860002B | 23-JUN-2004 | 04-05-3741A | 02
05 | WI | NEENAH, CITY OF | 55139C0112E | 14-APR-2004 | 04-05-2199A | 02
05 | WI | NEW BERLIN, CITY OF | 5504870004E | 05-MAY-2004 | 04-05-2790A | 17
05 | WI | NEW LONDON, CITY OF | 5503080001A | 28-MAY-2004 | 04-05-3470A | 02
05 | WI | NEW RICHMOND, CITY OF | 5503840001B | 29-JAN-2004 | 04-05-1216A | 02
05 | WI | NEW RICHMOND, CITY OF | 5503840001B | 25-MAR-2004 | 04-05-1858A | 02
05 | WI | NORTH FOND DU LAC, VILLAGE OF | 5501380002C | 21-JAN-2004 | 04-05-1674A | 02
05 | WI | NORTH FOND DU LAC, VILLAGE OF | 5501380004C | 13-FEB-2004 | 04-05-1802A | 02
05 | WI | NORTH FOND DU LAC, VILLAGE OF | 5501380004C | 13-FEB-2004 | 04-05-1803A | 02
05 | WI | NORTH FOND DU LAC, VILLAGE OF | 5501380004C | 13-FEB-2004 | 04-05-1804A | 02
05 | WI | OCONTO COUNTY | 5502940365A | 04-FEB-2004 | 04-05-1720A | 02
05 | WI | OCONTO COUNTY | 5502940365A | 25-FEB-2004 | 04-05-1806A | 02
05 | WI | OCONTO COUNTY | 5502940355B | 31-MAR-2004 | 04-05-2746A | 02
05 | WI | OCONTO, CITY OF | 5502970002B | 23-JUL-2004 | 04-05-3930A | 02
05 | WI | OSHKOSH, CITY OF | 55139C0225E | 21-JAN-2004 | 04-05-0719A | 02
05 | WI | OSHKOSH, CITY OF | 55139C0225E | 07-JAN-2004 | 04-05-0840A | 01
05 | WI | OSHKOSH, CITY OF | 55139C0225E | 04-FEB-2004 | 04-05-1716X | 01
05 | WI | OSHKOSH, CITY OF | 55139C0215E | 16-APR-2004 | 04-05-2677A | 01
05 | WI | OSHKOSH, CITY OF | 55139C0215E | 09-JUL-2004 | 04-05-3424A | 17
05 | WI | OSHKOSH, CITY OF | 55139C0220E | 09-JUL-2004 | 04-05-3424A | 17
05 | WI | OUTAGAMIE COUNTY | 5503020050B | 23-APR-2004 | 04-05-3067A | 02
05 | WI | OUTAGAMIE COUNTY | 5503020050B | 07-MAY-2004 | 04-05-3124A | 02
05 | WI | OZAUKEE COUNTY | 55089C0050E | 11-FEB-2004 | 04-05-0172A | 02
05 | WI | OZAUKEE COUNTY | 55089C0058D | 18-FEB-2004 | 04-05-1368A | 17
05 | WI | PEPIN COUNTY | 555570_08C | 16-JUL-2004 | 04-05-2300A | 02
05 | WI | PEWAUKEE, VILLAGE OF | 5504890002B | 26-MAR-2004 | 04-05-1704A | 02
05 | WI | PIERCE COUNTY | 5555710125C | 07-JUL-2004 | 04-05-3928A | 02
05 | WI | PLEASANT PRAIRIE, VILLAGE OF | 5506130010B | 27-FEB-2004 | 03-05-5503A | 02
05 | WI | PLEASANT PRAIRIE, VILLAGE OF | 5506130005B | 21-JAN-2004 | 04-05-1667A | 02
05 | WI | PLEASANT PRAIRIE, VILLAGE OF | 5506130005B | 02-APR-2004 | 04-05-1699A | 02
05 | WI | PLEASANT PRAIRIE, VILLAGE OF | 5506130010B | 18-JUN-2004 | 04-05-3022A | 02
05 | WI | PORTAGE COUNTY | 5505720175C | 25-FEB-2004 | 04-05-0533A | 02
05 | WI | PORTAGE COUNTY | 5505720250C | 02-APR-2004 | 04-05-2230A | 02
05 | WI | PORTAGE COUNTY | 5505720150C | 26-MAY-2004 | 04-05-2489A | 17
05 | WI | PORTAGE COUNTY | 5505720150C | 28-JUL-2004 | 04-05-3797A | 02
05 | WI | RACINE COUNTY | 5503470010B | 27-FEB-2004 | 04-05-1434A | 02
05 | WI | RACINE COUNTY | 5503470010B | 18-JUN-2004 | 04-05-1852A | 02
05 | WI | RACINE COUNTY | 5503470010B | 13-FEB-2004 | 04-05-1991A | 02
05 | WI | RACINE COUNTY | 5503470005B | 05-MAR-2004 | 04-05-2393A | 02
05 | WI | RACINE COUNTY | 5503470010B | 16-APR-2004 | 04-05-2815A | 02
05 | WI | RACINE COUNTY | 5503470010B | 07-JUL-2004 | 04-05-3440A | 02
05 | WI | RACINE COUNTY | 5503470010B | 14-JUN-2004 | 04-05-3462A | 01
05 | WI | RACINE COUNTY | 5503470005B | 14-JUL-2004 | 04-05-3698A | 02
05 | WI | RACINE COUNTY | 5503470005B | 09-JUL-2004 | 04-05-3778A | 02
05 | WI | RACINE COUNTY | 5503470010B | 07-JUL-2004 | 04-05-3952X | 01
05 | WI | RHINELANDER, CITY OF | 55085C0326B | 04-FEB-2004 | 04-05-1546A | 02
05 | WI | RICHLAND COUNTY | 5503560200B | 27-FEB-2004 | 04-05-1498A | 17
05 | WI | RICHLAND COUNTY | 5503560225B | 18-JUN-2004 | 04-05-3628A | 02
05 | WI | RICHLAND COUNTY | 5503560225B | 18-JUN-2004 | 04-05-3684A | 02
05 | WI | RUSK COUNTY | 5506020240B | 23-JAN-2004 | 04-05-0809A | 02
05 | WI | RUSK COUNTY | 5506020245B | 04-FEB-2004 | 04-05-1380A | 02
05 | WI | RUSK COUNTY | 5506020245B | 25-FEB-2004 | 04-05-1972A | 02
05 | WI | RUSK COUNTY | 5506020245B | 12-MAY-2004 | 04-05-3087A | 02
05 | WI | SAUK COUNTY | 55111C0075D | 30-JAN-2004 | 04-05-1681A | 02
05 | WI | SAUK COUNTY | 55111C0625D | 19-MAY-2004 | 04-05-3290A | 02
05 | WI | SAUK COUNTY | 55111C0575D | 07-JUL-2004 | 04-05-3655A | 17
05 | WI | SAUKVILLE, VILLAGE OF | 55089C0056E | 12-MAR-2004 | 04-05-2142A | 02
05 | WI | SAUKVILLE, VILLAGE OF | 55089C0056E | 14-JUL-2004 | 04-05-3682A | 02
05 | WI | SAWYER COUNTY | 5505910250B | 16-JAN-2004 | 04-05-0167A | 02
05 | WI | SAWYER COUNTY | 5505910100B | 02-APR-2004 | 04-05-2772A | 02
05 | WI | SAWYER COUNTY | 5505910300B | 30-JUN-2004 | 04-05-3062A | 02
05 | WI | SAWYER COUNTY | 5505910125B | 09-JUN-2004 | 04-05-3516A | 02
05 | WI | SHAWANO COUNTY | 5504120150B | 27-FEB-2004 | 04-05-1592A | 02
05 | WI | SHAWANO COUNTY | 5504120175B | 27-FEB-2004 | 04-05-1984A | 02
05 | WI | SHAWANO COUNTY | 5504120150B | 24-MAR-2004 | 04-05-2510A | 02
05 | WI | SHAWANO COUNTY | 5504120150B | 12-MAY-2004 | 04-05-3369A | 02
05 | WI | SHAWANO COUNTY | 5504120150B | 16-JUL-2004 | 04-05-3864A | 02
05 | WI | SHEBOYGAN FALLS, CITY OF | 5504310005B | 05-MAY-2004 | 04-05-3036A | 02
05 | WI | SHEBOYGAN FALLS, CITY OF | 5504310005B | 05-MAY-2004 | 04-05-3127A | 02
05 | WI | SHELL LAKE, CITY OF | 5504690001E | 08-JAN-2004 | 03-05-3601A | 02
05 | WI | ST. CROIX COUNTY | 555578_02B | 14-APR-2004 | 04-05-2722A | 02
05 | WI | ST. CROIX COUNTY | 555578_36B | 09-JUL-2004 | 04-05-3092A | 02
05 | WI | ST. CROIX COUNTY | 555578_B40 | 14-JUN-2004 | 04-05-3587A | 02
05 | WI | ST. CROIX COUNTY | 555578_21B | 25-JUN-2004 | 04-05-3795A | 02
05 | WI | STOUGHTON, CITY OF | 55025C0640F | 27-FEB-2004 | 04-05-0740A | 01
05 | WI | STOUGHTON, CITY OF | 55025C0640F | 19-MAR-2004 | 04-05-2478A | 02
05 | WI | STOUGHTON, CITY OF | 55025C0640F | 14-JUL-2004 | 04-05-2548A | 02
05 | WI | STURGEON BAY, CITY OF | 5501110005B | 07-JAN-2004 | 04-05-1022A | 02
05 | WI | STURGEON BAY, CITY OF | 5501110005B | 14-JAN-2004 | 04-05-1267A | 02
05 | WI | STURGEON BAY, CITY OF | 5501110005B | 24-MAR-2004 | 04-05-2455A | 02
05 | WI | SUPERIOR, CITY OF | 5501160002B | 07-MAY-2004 | 04-05-2708A | 01
05 | WI | TOMAH, CITY OF | 5502910001B | 06-FEB-2004 | 04-05-1405A | 01
05 | WI | TOMAH, CITY OF | 5502910002B | 26-MAY-2004 | 04-05-3354A | 02
05 | WI | TOMAH, CITY OF | 5502910002B | 09-JUL-2004 | 04-05-3892A | 02
05 | WI | TOMAH, CITY OF | 5502910001B | 23-JUL-2004 | 04-05-3962A | 02
05 | WI | TREMPEALEAU COUNTY | 555585_41A | 05-MAR-2004 | 04-05-2173A | 02
05 | WI | VERNON COUNTY | 5504500025B | 23-JUN-2004 | 04-05-3613A | 02
05 | WI | VERONA, CITY OF | 55025C0557F | 21-JUL-2004 | 04-05-3663A | 02
05 | WI | VERONA, CITY OF | 55025C0557F | 23-JUN-2004 | 04-05-3726A | 02
05 | WI | WALWORTH COUNTY | 5504620020B | 28-MAY-2004 | 04-05-3500A | 02
05 | WI | WASHBURN COUNTY | 5506060075B | 16-APR-2004 | 04-05-2753A | 02
05 | WI | WASHBURN COUNTY | 5506060125B | 19-MAY-2004 | 04-05-3284A | 02
05 | WI | WASHBURN COUNTY | 5506060150B | 09-JUN-2004 | 04-05-3501A | 02
05 | WI | WASHBURN COUNTY | 5506060150B | 16-JUN-2004 | 04-05-3580A | 02
05 | WI | WASHBURN COUNTY | 5506060025B | 16-JUN-2004 | 04-05-3727A | 02
05 | WI | WASHINGTON COUNTY | 5504710020B | 20-FEB-2004 | 04-05-0403A | 01
05 | WI | WASHINGTON COUNTY | 5504710010B | 03-MAR-2004 | 04-05-0841A | 02
05 | WI | WASHINGTON COUNTY | 5504710045B | 24-JUN-2004 | 04-05-0900P | 06
05 | WI | WASHINGTON COUNTY | 5504710015B | 27-FEB-2004 | 04-05-1075A | 02
05 | WI | WASHINGTON COUNTY | 5504710055B | 19-MAR-2004 | 04-05-2383A | 02
05 | WI | WASHINGTON COUNTY | 5504710050B | 04-JUN-2004 | 04-05-2745A | 02
05 | WI | WASHINGTON COUNTY | 5504710050B | 18-JUN-2004 | 04-05-3156A | 01
05 | WI | WASHINGTON COUNTY | 5504710060B | 02-JUN-2004 | 04-05-3413A | 02
05 | WI | WASHINGTON COUNTY | 5504710050B | 02-JUL-2004 | 04-05-3430A | 02
05 | WI | WAUKESHA COUNTY | 5504760015B | 23-JAN-2004 | 04-05-0745A | 02
05 | WI | WAUKESHA COUNTY | 5504760080C | 23-JAN-2004 | 04-05-0937A | 02
05 | WI | WAUKESHA COUNTY | 5504760015B | 23-JAN-2004 | 04-05-1057A | 02
05 | WI | WAUKESHA COUNTY | 5504760015B | 14-JAN-2004 | 04-05-1135A | 02
05 | WI | WAUKESHA COUNTY | 5504760060B | 16-APR-2004 | 04-05-1319A | 02
05 | WI | WAUKESHA COUNTY | 5504760015B | 18-FEB-2004 | 04-05-1447A | 02
05 | WI | WAUKESHA COUNTY | 5504760015B | 03-MAR-2004 | 04-05-2086A | 02
05 | WI | WAUKESHA COUNTY | 5504760090B | 03-MAR-2004 | 04-05-2107A | 02
05 | WI | WAUKESHA COUNTY | 5504760015B | 26-MAR-2004 | 04-05-2182A | 02
05 | WI | WAUKESHA COUNTY | 5504760020B | 30-APR-2004 | 04-05-2228A | 02
05 | WI | WAUKESHA COUNTY | 5504760010B | 10-MAR-2004 | 04-05-2276A | 02
05 | WI | WAUKESHA COUNTY | 5504760020B | 16-APR-2004 | 04-05-2632A | 17
05 | WI | WAUKESHA COUNTY | 5504760090B | 04-JUN-2004 | 04-05-2851A | 17
05 | WI | WAUKESHA COUNTY | 5504760015B | 02-JUN-2004 | 04-05-2858A | 02
05 | WI | WAUKESHA COUNTY | 5504760065B | 23-APR-2004 | 04-05-2900A | 02
05 | WI | WAUKESHA COUNTY | 5504760120B | 28-MAY-2004 | 04-05-3464A | 02
05 | WI | WAUKESHA COUNTY | 5504760020B | 14-JUL-2004 | 04-05-3714A | 02
05 | WI | WAUKESHA COUNTY | 5504760020B | 09-JUL-2004 | 04-05-3862A | 02
05 | WI | WAUKESHA COUNTY | 5504760010B | 30-JUL-2004 | 04-05-3947A | 02
05 | WI | WAUKESHA, CITY OF | 5504910004B | 14-JAN-2004 | 04-05-0022A | 02
05 | WI | WAUKESHA, CITY OF | 5504910004B | 02-JUN-2004 | 04-05-1047A | 01
05 | WI | WAUNAKEE, VILLAGE OF | 55025C0237F | 21-JAN-2004 | 04-05-1263A | 17
05 | WI | WAUNAKEE, VILLAGE OF | 55025C0241F | 18-FEB-2004 | 04-05-1571A | 02
05 | WI | WAUNAKEE, VILLAGE OF | 55025C0228F | 23-APR-2004 | 04-05-2217A | 17
05 | WI | WAUNAKEE, VILLAGE OF | 55025C0237F | 26-MAY-2004 | 04-05-2761A | 17
05 | WI | WAUNAKEE, VILLAGE OF | 55025C0237F | 25-JUN-2004 | 04-05-3575A | 17
05 | WI | WAUNAKEE, VILLAGE OF | 55025C0237F | 30-JUN-2004 | 04-05-3753A | 17
05 | WI | WAUPACA COUNTY | 5504920115A | 24-MAR-2004 | 04-05-1512A | 02
05 | WI | WAUPACA COUNTY | 5504920115A | 09-APR-2004 | 04-05-2310A | 02
05 | WI | WAUPACA COUNTY | 5504920155A | 30-JUN-2004 | 04-05-3017A | 02
05 | WI | WAUPACA COUNTY | 5504920115A | 25-JUN-2004 | 04-05-3254A | 02
05 | WI | WAUPACA COUNTY | 5504920130A | 07-MAY-2004 | 04-05-3272A | 02
05 | WI | WAUPACA COUNTY | 5504920155A | 28-MAY-2004 | 04-05-3414A | 02
05 | WI | WAUPACA COUNTY | 5504920030A | 14-JUN-2004 | 04-05-3469A | 02
05 | WI | WAUPACA COUNTY | 5504920140B | 16-JUN-2004 | 04-05-3582A | 02
05 | WI | WAUPACA COUNTY | 5504920145A | 16-JUL-2004 | 04-05-3838A | 02
05 | WI | WAUPACA COUNTY | 5504920200A | 09-JUL-2004 | 04-05-3889A | 02
05 | WI | WAUPUN, CITY OF | 5501080001E | 03-MAR-2004 | 04-05-2259A | 02
05 | WI | WAUSHARA COUNTY | 5505400125B | 02-JUN-2004 | 04-05-2610A | 02
05 | WI | WAUSHARA COUNTY | 5505400325B | 30-JUL-2004 | 04-05-3449A | 02
05 | WI | WHITE LAKE, VILLAGE OF | 550233_01 | 09-JUN-2004 | 04-05-2269A | 02
05 | WI | WHITEWATER, CITY OF | 5502000004B | 18-JUN-2004 | 04-05-3673A | 02
05 | WI | WIND POINT, VILLAGE OF | 5503550001B | 09-JUL-2004 | 04-05-3180A | 02
05 | WI | WINNEBAGO COUNTY | 55139C0030E | 09-APR-2004 | 03-05-5121A | 02
05 | WI | WINNEBAGO COUNTY | 55139C0105E | 09-JAN-2004 | 04-05-0272A | 02
05 | WI | WINNEBAGO COUNTY | 55139C0225E | 25-FEB-2004 | 04-05-0405A | 01
05 | WI | WINNEBAGO COUNTY | 55139C0065E | 03-MAR-2004 | 04-05-0812A | 02
05 | WI | WINNEBAGO COUNTY | 55139C0355E | 07-JAN-2004 | 04-05-0862A | 01
05 | WI | WINNEBAGO COUNTY | 55139C0200E | 25-FEB-2004 | 04-05-1577A | 01
05 | WI | WINNEBAGO COUNTY | 55139C0165E | 18-FEB-2004 | 04-05-1726A | 01
05 | WI | WINNEBAGO COUNTY | 55139C0165E | 19-MAR-2004 | 04-05-2516A | 01
05 | WI | WINNEBAGO COUNTY | 55139C0225E | 30-JUN-2004 | 04-05-2571A | 01
05 | WI | WINNEBAGO COUNTY | 55139C0170E | 16-APR-2004 | 04-05-2926A | 02
05 | WI | WINNEBAGO COUNTY | 55139C0225E | 09-JUN-2004 | 04-05-3442A | 02
05 | WI | WINNEBAGO COUNTY | 55139C0365E | 07-JUL-2004 | 04-05-3749A | 01
05 | WI | WINNEBAGO COUNTY | 55139C0105E | 16-JUL-2004 | 04-05-3890A | 02
05 | WI | WINNECONNE, VILLAGE OF | 55139C0176E | 10-MAR-2004 | 04-05-2223A | 02
05 | WI | WISCONSIN DELLS, CITY OF | 55111C0125D | 04-FEB-2004 | 04-05-1364A | 01
05 | WI | WOOD COUNTY | 55141C0245F | 13-FEB-2004 | 04-05-1240A | 02
05 | WI | WYOCENA, VILLAGE OF | 5500660001C | 21-JUL-2004 | 04-05-3851A | 02
06 | AR | ARKANSAS COUNTY | 0504180004B | 14-JUN-2004 | 04-06-1500A | 02
06 | AR | BENTON COUNTY | 05007C0170E | 18-FEB-2004 | 04-06-515A | 02
06 | AR | BENTON, CITY OF | 0501920005B | 04-FEB-2004 | 04-06-496A | 17
06 | AR | BENTONVILLE, CITY OF | 05007C0155H | 14-MAY-2004 | 04-06-1051A | 02
06 | AR | BENTONVILLE, CITY OF | 05007C0155H | 14-JUL-2004 | 04-06-1820A | 02
06 | AR | BENTONVILLE, CITY OF | 05007C0155H | 28-JUL-2004 | 04-06-1895A | 01
06 | AR | BENTONVILLE, CITY OF | 05007C0155H | 19-MAY-2004 | 04-06-817A | 01
06 | AR | BOONEVILLE, CITY OF | 050472_01B | 04-FEB-2004 | 04-06-460A | 02
06 | AR | BRYANT, CITY OF | 0503080001C | 23-JUN-2004 | 04-06-1646A | 02
06 | AR | CABOT, CITY OF | 0504480020B | 16-APR-2004 | 04-06-1334A | 02
06 | AR | CAMDEN, CITY OF | 0501630004A | 14-JUL-2004 | 04-06-987A | 02
06 | AR | CARROLL COUNTY | 050024_19A | 28-JAN-2004 | 04-06-436A | 02
06 | AR | CASH, TOWN OF | 05031C0125C | 19-MAY-2004 | 04-06-1243A | 01
06 | AR | CLARK COUNTY | 0504220225B | 23-APR-2004 | 04-06-613A | 02
06 | AR | CLARKSVILLE, CITY OF | 0501120002C | 14-MAY-2004 | 04-06-1443A | 02
06 | AR | CLARKSVILLE, CITY OF | 0501120002C | 25-FEB-2004 | 04-06-791A | 02
06 | AR | CLEBURNE COUNTY | 0504240025C | 28-MAY-2004 | 04-06-1340A | 02
06 | AR | CLEBURNE COUNTY | 0504240125C | 09-JUN-2004 | 04-06-1415A | 02
06 | AR | CLEBURNE COUNTY | 0504240025C | 30-JAN-2004 | 04-06-579A | 02
06 | AR | CLEBURNE COUNTY | 0504240100C | 07-JAN-2004 | 04-06-617A | 02
06 | AR | CLINTON, CITY OF | 0502110003D | 21-JAN-2004 | 04-06-462A | 02
06 | AR | CONWAY, CITY OF | 05045C0130F | 07-MAY-2004 | 04-06-1231A | 17
06 | AR | CONWAY, CITY OF | 05045C0130F | 26-MAY-2004 | 04-06-1378A | 02
06 | AR | CONWAY, CITY OF | 05045C0130F | 17-MAR-2004 | 04-06-768A | 02
06 | AR | CRAIGHEAD COUNTY | 05031C0050C | 27-FEB-2004 | 04-06-116A | 02
06 | AR | DE QUEEN, CITY OF | 050204_01B | 12-MAY-2004 | 04-06-1120A | 01
06 | AR | ELKINS, CITY OF | 05143C0120E | 04-JUN-2004 | 04-06-1254A | 01
06 | AR | FARMINGTON, CITY OF | 05143C0095D | 24-MAR-2004 | 04-06-1147A | 02
06 | AR | FAULKNER COUNTY | 05045C0155E | 31-MAR-2004 | 04-06-1124A | 02
06 | AR | FAULKNER COUNTY | 05045C0215E | 30-JUN-2004 | 04-06-1498A | 02
06 | AR | FAULKNER COUNTY | 05045C0155E | 21-MAY-2004 | 04-06-1520A | 02
06 | AR | FAULKNER COUNTY | 05045C0215E | 31-MAR-2004 | 04-06-955A | 02
06 | AR | FAULKNER COUNTY | 05045C0145F | 10-MAR-2004 | 04-06-973A | 02
06 | AR | FAYETTEVILLE, CITY OF | 05143C0091D | 13-JAN-2004 | 03-06-1948P | 05
06 | AR | FAYETTEVILLE, CITY OF | 05143C0084D | 09-JUL-2004 | 04-06-1496A | 02
06 | AR | FORT SMITH, CITY OF | 0550130005D | 09-JUN-2004 | 04-06-1691A | 02
06 | AR | FORT SMITH, CITY OF | 0550130015D | 18-FEB-2004 | 04-06-792A | 02
06 | AR | GARLAND COUNTY | 05051C0090C | 24-MAR-2004 | 04-06-1162A | 02
06 | AR | GARLAND COUNTY | 05051C0165C | 07-APR-2004 | 04-06-1227A | 02
06 | AR | GARLAND COUNTY | 05051C0158C | 28-MAY-2004 | 04-06-1540A | 02
06 | AR | GARLAND COUNTY | 05051C0165C | 18-JUN-2004 | 04-06-1725A | 02
06 | AR | GARLAND COUNTY | 05051C0050C | 28-APR-2004 | 04-06-635A | 02
06 | AR | GOSHEN, CITY OF | 05143C0125D | 04-JUN-2004 | 04-06-1352A | 02
06 | AR | GRANT COUNTY | 050434_19B | 14-APR-2004 | 04-06-1232A | 02
06 | AR | GRUBBS, TOWN OF | 0501010001B | 28-MAY-2004 | 04-06-1567A | 02
06 | AR | HEBER SPRINGS, CITY OF | 0502400005B | 14-MAY-2004 | 04-06-1311A | 02
06 | AR | HOLLY GROVE, CITY OF | 0501570001C | 19-MAY-2004 | 04-06-1590A | 02
06 | AR | HOT SPRINGS, CITY OF | 05051C0159C | 07-JUL-2004 | 04-06-1504A | 02
06 | AR | HOT SPRINGS, CITY OF | 05051C0154C | 09-JAN-2004 | 04-06-300A | 02
06 | AR | HOT SPRINGS, CITY OF | 05051C0154C | 05-FEB-2004 | 04-06-679A | 01
06 | AR | JACKSONVILLE, CITY OF | 0501800005E | 09-JUL-2004 | 04-06-1525A | 17
06 | AR | JACKSONVILLE, CITY OF | 0501800005E | 27-JUL-2004 | 04-06-1607P | 05
06 | AR | JACKSONVILLE, CITY OF | 0501800005E | 05-MAR-2004 | 04-06-532A | 01
06 | AR | JACKSONVILLE, CITY OF | 0501800010E | 05-MAY-2004 | 04-06-846A | 02
06 | AR | JEFFERSON COUNTY | 0504400160B | 23-APR-2004 | 04-06-205A | 02
06 | AR | JEFFERSON COUNTY | 0504400010B | 04-FEB-2004 | 04-06-499A | 02
06 | AR | JOHNSON, CITY OF | 05143C0082D | 24-MAR-2004 | 04-06-479A | 17
06 | AR | JONESBORO, CITY OF | 05031C0131C | 03-MAR-2004 | 04-06-591A | 02
06 | AR | LAWRENCE COUNTY | 0504430100C | 28-APR-2004 | 04-06-1336A | 02
06 | AR | LEE COUNTY | 0504440050B | 04-JUN-2004 | 04-06-1586A | 02
06 | AR | LINCOLN COUNTY | 050445_23B | 05-MAY-2004 | 04-06-1486A | 02
06 | AR | LITTLE ROCK, CITY OF | 0501810126F | 07-JAN-2004 | 03-06-1726P | 05
06 | AR | LITTLE ROCK, CITY OF | 0501810127F | 07-JAN-2004 | 03-06-1726P | 05
06 | AR | LITTLE ROCK, CITY OF | 0501810102F | 24-JUN-2004 | 03-06-2056P | 05
06 | AR | LITTLE ROCK, CITY OF | 0501810082F | 03-MAR-2004 | 04-06-522A | 02
06 | AR | LITTLE ROCK, CITY OF | 0501810029F | 21-APR-2004 | 04-06-619A | 02
06 | AR | LITTLE ROCK, CITY OF | 0501810091F | 23-APR-2004 | 04-06-739A | 01
06 | AR | LITTLE ROCK, CITY OF | 0501810029F | 18-FEB-2004 | 04-06-793A | 02
06 | AR | LOGAN COUNTY | 0504470125D | 14-JUL-2004 | 04-06-794A | 02
06 | AR | LONOKE COUNTY | 0504480145B | 09-JUN-2004 | 04-06-1560A | 02
06 | AR | LONOKE COUNTY | 0504480300B | 05-MAY-2004 | 04-06-835A | 02
06 | AR | LONOKE COUNTY | 0504480325B | 03-MAR-2004 | 04-06-939A | 02
06 | AR | MANILA, CITY OF | 0501490005B | 21-MAY-2004 | 04-06-899A | 02
06 | AR | MCGEHEE, CITY OF | 0500680005C | 19-MAR-2004 | 04-06-1092A | 02
06 | AR | MORRILTON, CITY OF | 0500440005B | 03-MAR-2004 | 04-06-705A | 02
06 | AR | MOUNTAINBURG, CITY OF | 05033C0110E | 12-MAR-2004 | 04-06-1046A | 02
06 | AR | NORFORK, CITY OF | 05005C0090D | 05-MAY-2004 | 04-06-1142A | 17
06 | AR | NORTH LITTLE ROCK, CITY OF | 0501820008D | 30-JUN-2004 | 04-06-1526A | 02
06 | AR | NORTH LITTLE ROCK, CITY OF | 0501820003D | 14-APR-2004 | 04-06-155A | 02
06 | AR | PARAGOULD, CITY OF | 0500850010D | 28-JUL-2004 | 04-06-1952A | 02
06 | AR | PARAGOULD, CITY OF | 0500850010D | 05-MAR-2004 | 04-06-832A | 02
06 | AR | PERRY COUNTY | 05105C0150B | 19-MAY-2004 | 04-06-1503A | 02
06 | AR | PERRY COUNTY | 05105C0150B | 02-JUL-2004 | 04-06-1666A | 02
06 | AR | PERRY COUNTY | 05105C0150B | 09-JAN-2004 | 04-06-439A | 02
06 | AR | PERRYVILLE, CITY OF | 05105C0129B | 25-FEB-2004 | 04-06-778A | 02
06 | AR | POCAHONTAS, CITY OF | 0501830001B | 12-MAY-2004 | 04-06-1419A | 02
06 | AR | POPE COUNTY | 0504580007A | 02-JUN-2004 | 04-06-1534A | 02
06 | AR | PULASKI COUNTY | 0501790257D | 07-APR-2004 | 04-06-1247A | 02
06 | AR | PULASKI COUNTY | 0501790254D | 02-JUN-2004 | 04-06-994A | 01
06 | AR | ROGERS, CITY OF | 05007C0135E | 03-MAY-2004 | 03-06-2052P | 05
06 | AR | ROGERS, CITY OF | 05007C0145E | 03-MAY-2004 | 03-06-2052P | 05
06 | AR | ROGERS, CITY OF | 05007C0155H | 03-MAY-2004 | 03-06-2052P | 05
06 | AR | ROGERS, CITY OF | 05007C0165F | 03-MAY-2004 | 03-06-2052P | 05
06 | AR | ROGERS, CITY OF | 05007C0165F | 07-MAY-2004 | 04-06-1399A | 01
06 | AR | ROGERS, CITY OF | 05007C0162F | 27-FEB-2004 | 04-06-958A | 02
06 | AR | SALINE COUNTY | 0501910145B | 21-JUL-2004 | 04-06-1096A | 02
06 | AR | SALINE COUNTY | 0501910290C | 21-MAY-2004 | 04-06-1145A | 02
06 | AR | SALINE COUNTY | 0501910140B | 18-JUN-2004 | 04-06-1649A | 02
06 | AR | SHARP COUNTY | 050464_13A | 09-JUN-2004 | 04-06-1116A | 02
06 | AR | SHERWOOD, CITY OF | 0502350002E | 18-JUN-2004 | 04-06-1802A | 02
06 | AR | SHERWOOD, CITY OF | 0502350001E | 30-JUL-2004 | 04-06-2041A | 02
06 | AR | SHERWOOD, CITY OF | 0502350002E | 13-FEB-2004 | 04-06-795A | 02
06 | AR | STUTTGART, CITY OF | 0500020005C | 17-MAR-2004 | 04-06-777A | 02
06 | AR | TUCKERMAN, CITY OF | 0501050001B | 10-MAR-2004 | 04-06-962A | 02
06 | AR | WYNNE, CITY OF | 0500600005B | 31-MAR-2004 | 04-06-1261A | 02
06 | AR | WYNNE, CITY OF | 0500600005B | 14-JUL-2004 | 04-06-1764A | 02
06 | AR | WYNNE, CITY OF | 0500600005B | 14-JUL-2004 | 04-06-1766A | 02
06 | AR | WYNNE, CITY OF | 0500600005B | 14-JUL-2004 | 04-06-1767A | 02
06 | AR | YELL COUNTY | 05149C0050E | 14-JUL-2004 | 04-06-1709A | 02
06 | LA | ACADIA PARISH | 2200010185B | 14-MAY-2004 | 04-06-1495A | 02
06 | LA | ALEXANDRIA, CITY OF | 2201460015F | 09-JUL-2004 | 04-06-1155A | 02
06 | LA | ALEXANDRIA, CITY OF | 2201460015F | 09-JUL-2004 | 04-06-1290A | 02
06 | LA | ALEXANDRIA, CITY OF | 2201450235D | 21-JUL-2004 | 04-06-1870A | 01
06 | LA | ALEXANDRIA, CITY OF | 2201460015F | 30-JUL-2004 | 04-06-1946A | 02
06 | LA | ALEXANDRIA, CITY OF | 2201460015F | 14-JAN-2004 | 04-06-475A | 02
06 | LA | ALLEN PARISH | 2200090225B | 31-MAR-2004 | 04-06-1114A | 02
06 | LA | ALLEN PARISH | 2200090225B | 09-JUN-2004 | 04-06-1583A | 02
06 | LA | ALLEN PARISH | 2200090225B | 28-MAY-2004 | 04-06-1643A | 02
06 | LA | ALLEN PARISH | 2200090225B | 02-JUL-2004 | 04-06-1770A | 02
06 | LA | ALLEN PARISH | 2200090225B | 23-JAN-2004 | 04-06-541A | 02
06 | LA | ALLEN PARISH | 2200090150B | 09-JAN-2004 | 04-06-626A | 02
06 | LA | ALLEN PARISH | 2200090225B | 12-MAR-2004 | 04-06-984A | 02
06 | LA | ASCENSION PARISH | 2200130045C | 12-MAY-2004 | 03-06-2423A | 02
06 | LA | ASCENSION PARISH | 2200130070B | 07-MAY-2004 | 04-06-1128A | 02
06 | LA | ASCENSION PARISH | 2200130045C | 21-APR-2004 | 04-06-1385A | 02
06 | LA | ASCENSION PARISH | 2200130035C | 14-MAY-2004 | 04-06-1480A | 02
06 | LA | ASCENSION PARISH | 2200130045C | 28-JUL-2004 | 04-06-1669A | 02
06 | LA | ASCENSION PARISH | 2200130110D | 30-JUL-2004 | 04-06-1676A | 02
06 | LA | ASCENSION PARISH | 2200130040B | 21-JUL-2004 | 04-06-1757A | 02
06 | LA | ASCENSION PARISH | 2200130110D | 30-JUL-2004 | 04-06-1981A | 02
06 | LA | ASCENSION PARISH | 2200130045C | 28-JUL-2004 | 04-06-2018A | 02
06 | LA | ASCENSION PARISH | 2200130030C | 20-FEB-2004 | 04-06-474A | 02
06 | LA | ASCENSION PARISH | 2200130045C | 14-APR-2004 | 04-06-527A | 01
06 | LA | ASCENSION PARISH | 2200130045C | 02-APR-2004 | 04-06-604A | 02
06 | LA | ASCENSION PARISH | 2200130120C | 25-FEB-2004 | 04-06-730A | 02
06 | LA | ASCENSION PARISH | 2200130040B | 14-APR-2004 | 04-06-920A | 02
06 | LA | AVOYELLES PARISH | 2200190175B | 12-MAY-2004 | 04-06-1423A | 02
06 | LA | AVOYELLES PARISH | 2200190075B | 02-JUL-2004 | 04-06-1838A | 02
06 | LA | AVOYELLES PARISH | 2200190075B | 11-FEB-2004 | 04-06-725A | 02
06 | LA | AVOYELLES PARISH | 2200190175B | 05-MAR-2004 | 04-06-963A | 02
06 | LA | BOSSIER CITY, CITY OF | 2200330030C | 07-MAY-2004 | 04-06-1031A | 01
06 | LA | BOSSIER CITY, CITY OF | 2200310315B | 21-APR-2004 | 04-06-1146A | 02
06 | LA | BOSSIER CITY, CITY OF | 2200310315B | 21-APR-2004 | 04-06-1150A | 02
06 | LA | BOSSIER CITY, CITY OF | 2200330030C | 21-APR-2004 | 04-06-1309A | 01
06 | LA | BOSSIER CITY, CITY OF | 2200330030C | 30-APR-2004 | 04-06-1358X | 01
06 | LA | BOSSIER CITY, CITY OF | 2200330030C | 14-MAY-2004 | 04-06-1479A | 01
06 | LA | BOSSIER CITY, CITY OF | 2200330005C | 25-JUN-2004 | 04-06-1481A | 02
06 | LA | BOSSIER CITY, CITY OF | 2200310295B | 14-MAY-2004 | 04-06-1515A | 01
06 | LA | BOSSIER CITY, CITY OF | 2200310315B | 26-MAY-2004 | 04-06-1516A | 02
06 | LA | BOSSIER CITY, CITY OF | 2200330030C | 09-JUN-2004 | 04-06-1573A | 01
06 | LA | BOSSIER CITY, CITY OF | 2200330005C | 23-JUN-2004 | 04-06-1754A | 02
06 | LA | BOSSIER CITY, CITY OF | 2200330030C | 09-JUL-2004 | 04-06-1842A | 01
06 | LA | BOSSIER CITY, CITY OF | 2200330030C | 16-JUL-2004 | 04-06-1843A | 01
06 | LA | BOSSIER CITY, CITY OF | 2200330010C | 14-JUL-2004 | 04-06-1995A | 02
06 | LA | BOSSIER CITY, CITY OF | 2200310315B | 21-JUL-2004 | 04-06-2005A | 01
06 | LA | BOSSIER CITY, CITY OF | 2200330030C | 16-JUL-2004 | 04-06-2006X | 01
06 | LA | BOSSIER CITY, CITY OF | 2200330030C | 28-JUL-2004 | 04-06-2011A | 01
06 | LA | BOSSIER CITY, CITY OF | 2200330030C | 16-JAN-2004 | 04-06-687A | 02
06 | LA | BOSSIER CITY, CITY OF | 2200330005C | 04-FEB-2004 | 04-06-722A | 02
06 | LA | BOSSIER CITY, CITY OF | 2200330030C | 25-FEB-2004 | 04-06-796A | 01
06 | LA | BOSSIER CITY, CITY OF | 2200310285B | 18-FEB-2004 | 04-06-798A | 02
06 | LA | BOSSIER CITY, CITY OF | 2200330030C | 03-MAR-2004 | 04-06-841A | 01
06 | LA | BOSSIER PARISH | 2200310475B | 16-JAN-2004 | 04-06-077A | 02
06 | LA | BOSSIER PARISH | 2200310285B | 07-APR-2004 | 04-06-1100A | 02
06 | LA | BOSSIER PARISH | 2200310225B | 26-MAR-2004 | 04-06-1102A | 02
06 | LA | BOSSIER PARISH | 2200310285B | 11-FEB-2004 | 04-06-110A | 02
06 | LA | BOSSIER PARISH | 2200310435B | 21-APR-2004 | 04-06-1234A | 01
06 | LA | BOSSIER PARISH | 2200310295B | 21-APR-2004 | 04-06-1291A | 02
06 | LA | BOSSIER PARISH | 2200310285B | 23-APR-2004 | 04-06-1299A | 02
06 | LA | BOSSIER PARISH | 2200310390B | 09-JUL-2004 | 04-06-1477A | 01
06 | LA | BOSSIER PARISH | 2200310425B | 27-FEB-2004 | 04-06-772A | 02
06 | LA | BOSSIER PARISH | 2200310285B | 05-MAR-2004 | 04-06-922X | 02
06 | LA | CADDO PARISH | 22017C0456F | 24-MAR-2004 | 04-06-1132A | 02
06 | LA | CADDO PARISH | 22017C0344F | 14-APR-2004 | 04-06-891A | 02
06 | LA | CADDO PARISH | 22017C0190F | 29-JUL-2004 | 04-06-893A | 02
06 | LA | CADDO PARISH | 22017C0250F | 31-MAR-2004 | 04-06-977A | 02
06 | LA | CALCASIEU PARISH | 2200370550B | 02-JUL-2004 | 04-06-1875A | 02
06 | LA | CALCASIEU PARISH | 2200370225D | 04-FEB-2004 | 04-06-751A | 02
06 | LA | CATAHOULA PARISH | 2200470200D | 14-APR-2004 | 04-06-1260A | 02
06 | LA | CLAIBORNE PARISH | 2203620090B | 02-JUN-2004 | 04-06-1371A | 02
06 | LA | CLAIBORNE PARISH | 2203620115B | 10-MAR-2004 | 04-06-576A | 02
06 | LA | DENHAM SPRINGS, CITY OF | 22063C0205D | 06-FEB-2004 | 04-06-493A | 01
06 | LA | DENHAM SPRINGS, CITY OF | 22063C0115D | 04-FEB-2004 | 04-06-745A | 02
06 | LA | EAST BATON ROUGE PARISH | 2200580090D | 25-JUN-2004 | 04-06-1230A | 02
06 | LA | EAST BATON ROUGE PARISH | 2200580095D | 19-JUL-2004 | 04-06-1250A | 02
06 | LA | EAST BATON ROUGE PARISH | 2200580110D | 04-JUN-2004 | 04-06-1265A | 02
06 | LA | EAST BATON ROUGE PARISH | 2200580110D | 30-JUL-2004 | 04-06-1533A | 02
06 | LA | EAST BATON ROUGE PARISH | 2200580115D | 21-MAY-2004 | 04-06-1542A | 02
06 | LA | EAST BATON ROUGE PARISH | 2200580080D | 21-MAY-2004 | 04-06-1572A | 02
06 | LA | EAST BATON ROUGE PARISH | 2200580100D | 18-JUN-2004 | 04-06-1694A | 02
06 | LA | EAST BATON ROUGE PARISH | 2200580080D | 23-JUN-2004 | 04-06-1810X | 02
06 | LA | EAST BATON ROUGE PARISH | 2200580125C | 06-FEB-2004 | 04-06-521A | 01
06 | LA | EAST BATON ROUGE PARISH | 2200580045D | 12-MAR-2004 | 04-06-550A | 02
06 | LA | EAST BATON ROUGE PARISH | 2200580035D | 23-JAN-2004 | 04-06-581A | 01
06 | LA | EAST BATON ROUGE PARISH | 2200580110D | 11-FEB-2004 | 04-06-607A | 02
06 | LA | EAST BATON ROUGE PARISH | 2200580100D | 20-FEB-2004 | 04-06-838A | 02
06 | LA | EAST BATON ROUGE PARISH | 2200580110D | 12-MAR-2004 | 04-06-907A | 01
06 | LA | EVANGELINE PARISH | 2200640006B | 04-JUN-2004 | 04-06-1324A | 02
06 | LA | EVANGELINE PARISH | 2200640007C | 07-JUL-2004 | 04-06-1881A | 02
06 | LA | EVANGELINE PARISH | 2200640007C | 14-APR-2004 | 04-06-455A | 02
06 | LA | HAMMOND, CITY OF | 2202080002D | 07-JUL-2004 | 04-06-1864A | 02
06 | LA | HAMMOND, CITY OF | 2202080002D | 04-FEB-2004 | 04-06-719A | 02
06 | LA | IBERIA PARISH | 2200780150C | 24-MAR-2004 | 04-06-219A | 02
06 | LA | IBERVILLE PARISH | 2200830004C | 28-MAY-2004 | 04-06-1316A | 02
06 | LA | JEFFERSON DAVIS PARISH | 2200950095B | 23-JUN-2004 | 04-06-1667A | 02
06 | LA | JEFFERSON DAVIS PARISH | 2200950060B | 09-APR-2004 | 04-06-724A | 02
06 | LA | JEFFERSON DAVIS PARISH | 2200950025B | 30-APR-2004 | 04-06-937A | 02
06 | LA | JEFFERSON PARISH | 22051C0045E | 23-JUL-2004 | 04-06-2027A | 02
06 | LA | JEFFERSON PARISH | 22051C0135E | 18-FEB-2004 | 04-06-366A | 02
06 | LA | KINDER, TOWN OF | 220010_01C | 16-APR-2004 | 04-06-1036A | 02
06 | LA | KINDER, TOWN OF | 220010_01C | 28-MAY-2004 | 04-06-1267A | 02
06 | LA | KINDER, TOWN OF | 220010_01C | 30-JUN-2004 | 04-06-1869A | 02
06 | LA | KINDER, TOWN OF | 220010_01C | 14-JUL-2004 | 04-06-1885A | 02
06 | LA | KINDER, TOWN OF | 220010_01C | 05-MAR-2004 | 04-06-997A | 02
06 | LA | LAFAYETTE PARISH | 22055C0045G | 12-MAR-2004 | 04-06-1037A | 02
06 | LA | LAFAYETTE PARISH | 22055C0045G | 09-APR-2004 | 04-06-1121A | 02
06 | LA | LAFAYETTE PARISH | 22055C0065G | 30-JUN-2004 | 04-06-1637A | 01
06 | LA | LAFAYETTE PARISH | 22055C0065G | 16-JUL-2004 | 04-06-445A | 01
06 | LA | LAFAYETTE PARISH | 22055C0065G | 21-MAY-2004 | 04-06-906A | 01
06 | LA | LAFAYETTE, CITY OF | 22055C0045G | 31-MAR-2004 | 04-06-1127A | 02
06 | LA | LAFAYETTE, CITY OF | 22055C0045G | 12-MAY-2004 | 04-06-1539A | 02
06 | LA | LAFAYETTE, CITY OF | 22055C0065G | 16-JUN-2004 | 04-06-1723A | 02
06 | LA | LAFAYETTE, CITY OF | 22055C0045G | 02-JUL-2004 | 04-06-1811A | 02
06 | LA | LAFAYETTE, CITY OF | 22055C0045G | 23-JUL-2004 | 04-06-1970A | 02
06 | LA | LAFAYETTE, CITY OF | 22055C0045G | 21-JUL-2004 | 04-06-1999A | 02
06 | LA | LAFAYETTE, CITY OF | 22055C0045G | 25-FEB-2004 | 04-06-510A | 17
06 | LA | LAFAYETTE, CITY OF | 22055C0045G | 09-JAN-2004 | 04-06-625A | 02
06 | LA | LAFAYETTE, CITY OF | 22055C0045G | 19-MAR-2004 | 04-06-996A | 02
06 | LA | LAFOURCHE PARISH | 2252020130C | 19-MAR-2004 | 04-06-601A | 02
06 | LA | LAKE CHARLES, CITY OF | 2200400010E | 25-JUN-2004 | 04-06-1594A | 02
06 | LA | LASALLE PARISH | 220112_29B | 04-JUN-2004 | 04-06-1360A | 02
06 | LA | LIVINGSTON PARISH | 22063C0225D | 26-MAR-2004 | 04-06-1071A | 02
06 | LA | LIVINGSTON PARISH | 22063C0120D | 19-MAY-2004 | 04-06-1074A | 02
06 | LA | LIVINGSTON PARISH | 22063C0125D | 16-APR-2004 | 04-06-1091A | 02
06 | LA | LIVINGSTON PARISH | 22063C0115D | 31-MAR-2004 | 04-06-1106A | 02
06 | LA | LIVINGSTON PARISH | 22063C0125D | 02-APR-2004 | 04-06-1152A | 02
06 | LA | LIVINGSTON PARISH | 22063C0225D | 30-APR-2004 | 04-06-1172A | 02
06 | LA | LIVINGSTON PARISH | 22063C0115D | 16-APR-2004 | 04-06-1226A | 02
06 | LA | LIVINGSTON PARISH | 22063C0235D | 05-MAY-2004 | 04-06-1269A | 02
06 | LA | LIVINGSTON PARISH | 22063C0225D | 21-APR-2004 | 04-06-1272A | 02
06 | LA | LIVINGSTON PARISH | 22063C0225D | 30-JUN-2004 | 04-06-1368A | 02
06 | LA | LIVINGSTON PARISH | 22063C0115D | 02-JUL-2004 | 04-06-1441A | 02
06 | LA | LIVINGSTON PARISH | 22063C0125D | 05-MAY-2004 | 04-06-1483A | 02
06 | LA | LIVINGSTON PARISH | 22063C0125D | 12-MAY-2004 | 04-06-1553A | 02
06 | LA | LIVINGSTON PARISH | 22063C0425D | 28-JUL-2004 | 04-06-1582A | 02
06 | LA | LIVINGSTON PARISH | 22063C0120D | 30-JUN-2004 | 04-06-1685A | 02
06 | LA | LIVINGSTON PARISH | 22063C0138D | 30-JUN-2004 | 04-06-1685A | 02
06 | LA | LIVINGSTON PARISH | 22063C0125D | 09-JUN-2004 | 04-06-1710A | 02
06 | LA | LIVINGSTON PARISH | 22063C0250D | 07-JUL-2004 | 04-06-1775A | 02
06 | LA | LIVINGSTON PARISH | 22063C0125D | 23-JUN-2004 | 04-06-1797A | 02
06 | LA | LIVINGSTON PARISH | 22063C0115D | 09-JUL-2004 | 04-06-1812A | 02
06 | LA | LIVINGSTON PARISH | 22063C0115D | 09-JUL-2004 | 04-06-1877A | 02
06 | LA | LIVINGSTON PARISH | 22063C0125D | 23-JUL-2004 | 04-06-1969A | 02
06 | LA | LIVINGSTON PARISH | 22063C0205D | 21-JAN-2004 | 04-06-501A | 01
06 | LA | LIVINGSTON PARISH | 22063C0210D | 21-JAN-2004 | 04-06-501A | 01
06 | LA | LIVINGSTON PARISH | 22063C0120D | 21-JAN-2004 | 04-06-587A | 02
06 | LA | LIVINGSTON PARISH | 22063C0125D | 21-JAN-2004 | 04-06-593A | 02
06 | LA | LIVINGSTON PARISH | 22063C0475D | 07-JAN-2004 | 04-06-606A | 02
06 | LA | LIVINGSTON PARISH | 22063C0207D | 28-JAN-2004 | 04-06-746A | 02
06 | LA | LIVINGSTON PARISH | 22063C0125D | 06-FEB-2004 | 04-06-757A | 02
06 | LA | LIVINGSTON PARISH | 22063C0115D | 11-FEB-2004 | 04-06-816A | 02
06 | LA | LIVINGSTON PARISH | 22063C0225D | 03-MAR-2004 | 04-06-944A | 02
06 | LA | LIVINGSTON PARISH | 22063C0205D | 12-MAY-2004 | 04-06-954A | 02
06 | LA | LIVINGSTON PARISH | 22063C0205D | 28-APR-2004 | 04-06-974A | 02
06 | LA | LIVINGSTON PARISH | 22063C0125D | 03-MAR-2004 | 04-06-975A | 02
06 | LA | LIVINGSTON PARISH | 22063C0125D | 05-MAR-2004 | 04-06-976A | 02
06 | LA | MANDEVILLE, TOWN OF | 2202020002C | 16-JUL-2004 | 04-06-1887A | 02
06 | LA | MANDEVILLE, TOWN OF | 2202020002C | 06-FEB-2004 | 04-06-315A | 02
06 | LA | MONROE, CITY OF | 22073C0045E | 30-JUN-2004 | 04-06-1546A | 02
06 | LA | MONROE, CITY OF | 22073C0075E | 07-JAN-2004 | 04-06-172A | 02
06 | LA | MOREHOUSE PARISH | 2203670075B | 10-MAR-2004 | 04-06-062A | 02
06 | LA | NATCHITOCHES, CITY OF | 2201310003C | 14-JUL-2004 | 04-06-1840A | 02
06 | LA | NEW ORLEANS/ORLEANS PARISH | 2252030160E | 16-JAN-2004 | 04-06-647A | 02
06 | LA | OPELOUSAS, CITY OF | 2201730002B | 23-APR-2004 | 04-06-1383A | 02
06 | LA | OUACHITA PARISH | 22073C0050E | 09-JUN-2004 | 04-06-1577A | 02
06 | LA | OUACHITA PARISH | 22073C0045E | 29-JAN-2004 | 04-06-378P | 06
06 | LA | PINEVILLE, CITY OF | 2201510005B | 02-JUL-2004 | 04-06-1640A | 01
06 | LA | POINTE COUPEE PARISH | 2201400345B | 19-MAR-2004 | 04-06-989A | 02
06 | LA | RAPIDES PARISH | 2201450350D | 25-JUN-2004 | 04-06-1432A | 02
06 | LA | RAPIDES PARISH | 2201450350D | 02-JUL-2004 | 04-06-1519A | 02
06 | LA | RAPIDES PARISH | 2201450350D | 25-JUN-2004 | 04-06-1580A | 17
06 | LA | RAPIDES PARISH | 2201450250C | 16-JUL-2004 | 04-06-1809A | 02
06 | LA | RICHLAND PARISH | 220154_24C | 31-MAR-2004 | 04-06-1050A | 02
06 | LA | RICHLAND PARISH | 220154_15C | 20-FEB-2004 | 04-06-368A | 02
06 | LA | SHREVEPORT, CITY OF | 22017C0487F | 02-APR-2004 | 04-06-1108A | 01
06 | LA | SHREVEPORT, CITY OF | 22017C0487F | 23-APR-2004 | 04-06-1335A | 01
06 | LA | SHREVEPORT, CITY OF | 22017C0478F | 19-MAY-2004 | 04-06-1444A | 02
06 | LA | SHREVEPORT, CITY OF | 22017C0487F | 21-MAY-2004 | 04-06-1476A | 01
06 | LA | SHREVEPORT, CITY OF | 22017C0478F | 26-MAY-2004 | 04-06-1492A | 02
06 | LA | SHREVEPORT, CITY OF | 22017C0451F | 26-MAY-2004 | 04-06-1581A | 02
06 | LA | SHREVEPORT, CITY OF | 22017C0478F | 25-JUN-2004 | 04-06-1675A | 02
06 | LA | SHREVEPORT, CITY OF | 22017C0487F | 28-JUL-2004 | 04-06-1798A | 01
06 | LA | SHREVEPORT, CITY OF | 22017C0478F | 30-JUN-2004 | 04-06-1847A | 02
06 | LA | SHREVEPORT, CITY OF | 22017C0487F | 23-JUL-2004 | 04-06-1932A | 02
06 | LA | SHREVEPORT, CITY OF | 22017C0489F | 11-FEB-2004 | 04-06-289A | 02
06 | LA | SHREVEPORT, CITY OF | 22017C0469F | 21-JAN-2004 | 04-06-498A | 02
06 | LA | SHREVEPORT, CITY OF | 22017C0452F | 18-FEB-2004 | 04-06-595A | 02
06 | LA | SHREVEPORT, CITY OF | 22017C0478F | 14-JAN-2004 | 04-06-596A | 01
06 | LA | SHREVEPORT, CITY OF | 22017C0466F | 30-JAN-2004 | 04-06-695A | 02
06 | LA | SHREVEPORT, CITY OF | 22017C0467F | 20-FEB-2004 | 04-06-720A | 01
06 | LA | SHREVEPORT, CITY OF | 22017C0487F | 03-MAR-2004 | 04-06-785A | 02
06 | LA | SHREVEPORT, CITY OF | 22017C0487F | 27-FEB-2004 | 04-06-942A | 02
06 | LA | SHREVEPORT, CITY OF | 22017C0468F | 23-JUN-2004 | 04-06-951A | 02
06 | LA | ST. CHARLES PARISH | 2201600125C | 14-JAN-2004 | 04-06-196A | 02
06 | LA | ST. HELENA PARISH | 2201610150A | 07-JAN-2004 | 04-06-166A | 02
06 | LA | ST. LANDRY PARISH | 2201650325C | 09-JAN-2004 | 04-06-448A | 02
06 | LA | ST. LANDRY PARISH | 2201650325C | 04-FEB-2004 | 04-06-638A | 02
06 | LA | ST. LANDRY PARISH | 2201650325C | 10-MAR-2004 | 04-06-643A | 02
06 | LA | ST. MARTIN PARISH | 2201780225B | 14-JAN-2004 | 04-06-214A | 01
06 | LA | ST. TAMMANY PARISH | 2252050300C | 11-FEB-2004 | 03-06-2731A | 02
06 | LA | ST. TAMMANY PARISH | 2252050240E | 07-JUL-2004 | 04-06-1295A | 02
06 | LA | ST. TAMMANY PARISH | 2252050125C | 14-MAY-2004 | 04-06-1341A | 02
06 | LA | ST. TAMMANY PARISH | 2252050380C | 04-FEB-2004 | 04-06-416A | 02
06 | LA | ST. TAMMANY PARISH | 2252050125C | 07-JAN-2004 | 04-06-526A | 02
06 | LA | ST. TAMMANY PARISH | 2252050245C | 04-FEB-2004 | 04-06-760A | 02
06 | LA | ST. TAMMANY PARISH | 2252050430D | 23-JUL-2004 | 04-06-934A | 02
06 | LA | TANGIPAHOA PARISH | 2202060225E | 14-APR-2004 | 04-06-1288A | 02
06 | LA | TANGIPAHOA PARISH | 2202060125D | 21-APR-2004 | 04-06-1357A | 02
06 | LA | TANGIPAHOA PARISH | 2202060175E | 02-JUL-2004 | 04-06-1377A | 02
06 | LA | TANGIPAHOA PARISH | 2202060175E | 04-JUN-2004 | 04-06-1562A | 02
06 | LA | TANGIPAHOA PARISH | 2202060240D | 09-JUL-2004 | 04-06-1599A | 01
06 | LA | TANGIPAHOA PARISH | 2202060190D | 25-FEB-2004 | 04-06-251A | 02
06 | LA | TANGIPAHOA PARISH | 2202060165E | 07-JAN-2004 | 04-06-252A | 02
06 | LA | TANGIPAHOA PARISH | 2202060205D | 19-MAR-2004 | 04-06-253A | 02
06 | LA | TANGIPAHOA PARISH | 2202060165E | 11-FEB-2004 | 04-06-688A | 02
06 | LA | TANGIPAHOA PARISH | 2202060165E | 21-APR-2004 | 04-06-716A | 02
06 | LA | TERREBONNE PARISH | 2252060120C | 28-APR-2004 | 04-06-1156A | 02
06 | LA | VERMILION PARISH | 2202210175D | 06-FEB-2004 | 04-06-373A | 01
06 | LA | VILLE PLATTE, TOWN OF | 2200700001C | 13-FEB-2004 | 03-06-2439A | 02
06 | LA | WALKER, TOWN OF | 22063C0226D | 16-JUL-2004 | 04-06-1834A | 02
06 | LA | WALKER, TOWN OF | 22063C0226D | 09-JAN-2004 | 04-06-602A | 02
06 | LA | WALKER, TOWN OF | 22063C0207D | 16-JAN-2004 | 04-06-634A | 02
06 | LA | WASHINGTON PARISH | 2202300105B | 04-JUN-2004 | 04-06-1693A | 02
06 | LA | WEST FELICIANA PARISH | 2202450007B | 14-JUL-2004 | 04-06-1893A | 02
06 | LA | WEST MONROE, CITY OF | 22073C0070E | 12-MAY-2004 | 04-06-1414A | 02
06 | LA | WEST MONROE, CITY OF | 22073C0045E | 14-APR-2004 | 04-06-833A | 02
06 | LA | ZACHARY, CITY OF | 2200610005B | 27-FEB-2004 | 04-06-837A | 01
06 | NM | ALAMOGORDO, CITY OF | 3500450003B | 23-JAN-2004 | 04-06-621A | 02
06 | NM | ALAMOGORDO, CITY OF | 3500450004B | 23-JAN-2004 | 04-06-704A | 02
06 | NM | ALBUQUERQUE, CITY OF | 35001C0329E | 03-MAR-2004 | 03-06-1003P | 05
06 | NM | ALBUQUERQUE, CITY OF | 35001C0326E | 16-APR-2004 | 03-06-1219P | 06
06 | NM | ALBUQUERQUE, CITY OF | 35001C0327E | 21-APR-2004 | 03-06-1727P | 05
06 | NM | ALBUQUERQUE, CITY OF | 35001C0328E | 27-JAN-2004 | 03-06-2542P | 06
06 | NM | ALBUQUERQUE, CITY OF | 35001C0329E | 27-JAN-2004 | 03-06-2542P | 06
06 | NM | ALBUQUERQUE, CITY OF | 35001C0336E | 27-JAN-2004 | 03-06-2542P | 06
06 | NM | ALBUQUERQUE, CITY OF | 35001C0337E | 27-JAN-2004 | 03-06-2542P | 06
06 | NM | ALBUQUERQUE, CITY OF | 35001C0129F | 16-APR-2004 | 04-06-039P | 05
06 | NM | ALBUQUERQUE, CITY OF | 35001C0133F | 16-APR-2004 | 04-06-039P | 05
06 | NM | ALBUQUERQUE, CITY OF | 35001C0141F | 16-APR-2004 | 04-06-039P | 05
06 | NM | ALBUQUERQUE, CITY OF | 35001C0339E | 26-MAR-2004 | 04-06-1060A | 02
06 | NM | ALBUQUERQUE, CITY OF | 35001C0386F | 19-MAR-2004 | 04-06-1069A | 02
06 | NM | ALBUQUERQUE, CITY OF | 35001C0143E | 09-JUN-2004 | 04-06-1171A | 02
06 | NM | ALBUQUERQUE, CITY OF | 35001C0336E | 09-JUL-2004 | 04-06-1193P | 06
06 | NM | ALBUQUERQUE, CITY OF | 35001C0141F | 27-APR-2004 | 04-06-138P | 06
06 | NM | ALBUQUERQUE, CITY OF | 35001C0114E | 28-MAY-2004 | 04-06-1429A | 02
06 | NM | ALBUQUERQUE, CITY OF | 35001C0359F | 07-JAN-2004 | 04-06-179A | 02
06 | NM | ALBUQUERQUE, CITY OF | 35001C0119E | 16-JUL-2004 | 04-06-1882A | 02
06 | NM | ALBUQUERQUE, CITY OF | 35001C0331E | 03-MAR-2004 | 04-06-222A | 01
06 | NM | ALBUQUERQUE, CITY OF | 35001C0354E | 07-JAN-2004 | 04-06-529A | 02
06 | NM | ALBUQUERQUE, CITY OF | 35001C0141F | 23-MAR-2004 | 04-06-671P | 06
06 | NM | ALBUQUERQUE, CITY OF | 35001C0142F | 23-MAR-2004 | 04-06-671P | 06
06 | NM | ALBUQUERQUE, CITY OF | 35001C0161F | 12-MAR-2004 | 04-06-756A | 02
06 | NM | ALBUQUERQUE, CITY OF | 35001C0353E | 03-MAR-2004 | 04-06-771A | 02
06 | NM | ALBUQUERQUE, CITY OF | 35001C0133F | 03-MAR-2004 | 04-06-784A | 02
06 | NM | ALBUQUERQUE, CITY OF | 35001C0119E | 25-FEB-2004 | 04-06-912A | 02
06 | NM | BERNALILLO COUNTY | 35001C0328D | 06-JAN-2004 | 03-06-2528P | 05
06 | NM | BERNALILLO COUNTY | 35001C0117F | 09-APR-2004 | 04-06-1170A | 02
06 | NM | BERNALILLO COUNTY | 35001C0529E | 23-JUN-2004 | 04-06-1726A | 02
06 | NM | BERNALILLO COUNTY | 35001C0339E | 20-APR-2004 | 04-06-654P | 05
06 | NM | BERNALILLO COUNTY | 35001C0343E | 20-APR-2004 | 04-06-654P | 05
06 | NM | BERNALILLO COUNTY | 35001C0328E | 27-FEB-2004 | 04-06-659P | 05
06 | NM | BERNALILLO COUNTY | 35001C0134F | 28-APR-2004 | 04-06-766A | 02
06 | NM | BERNALILLO COUNTY | 35001C0333E | 03-MAR-2004 | 04-06-936A | 02
06 | NM | CARLSBAD, CITY OF | 3500170004C | 21-JUL-2004 | 04-06-1043A | 01
06 | NM | CARLSBAD, CITY OF | 3500170004C | 12-MAY-2004 | 04-06-1289A | 01
06 | NM | CARLSBAD, CITY OF | 3500170004C | 16-JUL-2004 | 04-06-1942A | 02
06 | NM | FARMINGTON, CITY OF | 3500670039E | 04-FEB-2004 | 04-06-690A | 01
06 | NM | GRANT COUNTY | 3501210022B | 31-MAR-2004 | 04-06-1085A | 02
06 | NM | LAS CRUCES, CITY OF | 35013C0633E | 16-JUL-2004 | 04-06-1795A | 02
06 | NM | LAS CRUCES, CITY OF | 35013C0631E | 02-JUL-2004 | 04-06-1849A | 02
06 | NM | LAS CRUCES, CITY OF | 35013C0631E | 18-FEB-2004 | 04-06-234P | 05
06 | NM | LAS CRUCES, CITY OF | 35013C0518F | 26-MAR-2004 | 04-06-694A | 02
06 | NM | LAS CRUCES, CITY OF | 35013C0631E | 25-FEB-2004 | 04-06-892A | 02
06 | NM | LAS RANCHOS DE ALBUQUERQUE, VILLAGE OF | 35001C0117F | 14-APR-2004 | 04-06-1126A | 02
06 | NM | LOS LUNAS, VILLAGE OF | 3501440005A | 14-JUL-2004 | 04-06-1823A | 02
06 | NM | OTERO COUNTY | 3500440021B | 23-JAN-2004 | 04-06-328A | 02
06 | NM | RIO RANCHO, CITY OF | 35043C0902C | 04-JUN-2004 | 03-06-681P | 05
06 | NM | SAN JUAN COUNTY | 3500640350B | 09-JUL-2004 | 04-06-1308A | 02
06 | NM | SANTA FE, CITY OF | 3500700005C | 14-JUN-2004 | 04-06-1349A | 02
06 | NM | SANTA FE, CITY OF | 3500700005C | 16-JUN-2004 | 04-06-1708A | 02
06 | NM | SANTA FE, CITY OF | 3500700002B | 09-JUL-2004 | 04-06-1804A | 02
06 | NM | SANTA FE, CITY OF | 3500700005C | 21-JUL-2004 | 04-06-1845A | 02
06 | NM | SANTA FE, CITY OF | 3500700005C | 07-JUL-2004 | 04-06-1948A | 02
06 | NM | SANTA FE, CITY OF | 3500700009B | 14-JUL-2004 | 04-06-1950A | 02
06 | NM | SILVER CITY, TOWN OF | 3500220002C | 30-APR-2004 | 04-06-1346A | 02
06 | NM | VALENCIA COUNTY | 3500860070D | 28-JUL-2004 | 04-06-1949A | 02
06 | OK | ADAIR COUNTY | 4005010006C | 03-MAR-2004 | 04-06-926A | 02
06 | OK | ADAIR, TOWN OF | 40097C0145D | 16-JAN-2004 | 04-06-633A | 02
06 | OK | ARDMORE,CITY OF | 4000310015B | 23-APR-2004 | 04-06-1313A | 02
06 | OK | ARDMORE,CITY OF | 4000310015B | 05-MAR-2004 | 04-06-696A | 02
06 | OK | BARTLESVILLE, CITY OF | 4002200013D | 02-JUL-2004 | 04-06-1654A | 02
06 | OK | BIXBY, TOWN OF | 40143C0610H | 02-APR-2004 | 04-06-1246A | 02
06 | OK | BIXBY, TOWN OF | 40143C0610H | 09-JUN-2004 | 04-06-1300A | 01
06 | OK | BIXBY, TOWN OF | 40143C0610H | 21-APR-2004 | 04-06-1329A | 02
06 | OK | BIXBY, TOWN OF | 40143C0610H | 14-JUL-2004 | 04-06-1859A | 02
06 | OK | BIXBY, TOWN OF | 40143C0610H | 07-JAN-2004 | 04-06-600A | 02
06 | OK | BIXBY, TOWN OF | 40143C0610H | 03-MAR-2004 | 04-06-911A | 02
06 | OK | BLAINE COUNTY | 4000110125A | 12-MAR-2004 | 04-06-1028A | 02
06 | OK | BLANCHARD, CITY OF | 4001010050A | 18-JUN-2004 | 04-06-1696A | 02
06 | OK | BLANCHARD, CITY OF | 4005380050A | 09-JAN-2004 | 04-06-363A | 02
06 | OK | BLANCHARD, CITY OF | 4001010015B | 07-JAN-2004 | 04-06-458A | 01
06 | OK | BROKEN ARROW, CITY OF | 40143C0544H | 30-APR-2004 | 04-06-1342A | 02
06 | OK | BROKEN ARROW, CITY OF | 40143C0543J | 09-JUL-2004 | 04-06-1983A | 02
06 | OK | BROKEN ARROW, CITY OF | 40143C0543J | 30-JUL-2004 | 04-06-1984A | 02
06 | OK | BROKEN ARROW, CITY OF | 40143C0543J | 23-JAN-2004 | 04-06-698A | 02
06 | OK | BROKEN ARROW, CITY OF | 40143C0541J | 26-MAR-2004 | 04-06-733A | 02
06 | OK | BROKEN ARROW, CITY OF | 40143C0541J | 10-MAR-2004 | 04-06-762A | 17
06 | OK | BROKEN ARROW, CITY OF | 40143C0541J | 28-MAY-2004 | 04-06-819A | 02
06 | OK | BROKEN ARROW, CITY OF | 40143C0543J | 03-MAR-2004 | 04-06-950A | 02
06 | OK | CANADIAN COUNTY | 40017C0290D | 30-JUN-2004 | 04-06-1716A | 02
06 | OK | CHEROKEE COUNTY | 40021C0075C | 26-MAY-2004 | 04-06-1359A | 02
06 | OK | CHOCTAW, CITY OF | 40109C0426G | 14-JAN-2004 | 04-06-603A | 01
06 | OK | CLAREMORE, CITY OF | 4053750005F | 28-JUL-2004 | 04-06-2063A | 02
06 | OK | COMANCHE COUNTY | 40031C0226C | 21-JUL-2004 | 04-06-1552A | 02
06 | OK | DEL CITY, CITY OF | 40109C0383G | 23-JUL-2004 | 04-06-1879A | 02
06 | OK | DELAWARE COUNTY | 40041C0180D | 02-APR-2004 | 04-06-1086A | 02
06 | OK | DELAWARE COUNTY | 40041C0045D | 31-MAR-2004 | 04-06-750A | 02
06 | OK | EDMOND, CITY OF | 40109C0069G | 14-JAN-2004 | 03-06-2621A | 17
06 | OK | EDMOND, CITY OF | 40109C0090G | 14-JAN-2004 | 03-06-2720A | 02
06 | OK | EDMOND, CITY OF | 40109C0069G | 19-MAY-2004 | 04-06-1245A | 17
06 | OK | EDMOND, CITY OF | 40109C0069G | 09-JUN-2004 | 04-06-1354A | 17
06 | OK | EDMOND, CITY OF | 40109C0069G | 12-MAY-2004 | 04-06-1449A | 02
06 | OK | EDMOND, CITY OF | 40109C0069G | 19-MAY-2004 | 04-06-1597A | 02
06 | OK | EDMOND, CITY OF | 40109C0080G | 17-MAR-2004 | 04-06-171A | 17
06 | OK | EDMOND, CITY OF | 40109C0080G | 09-JUL-2004 | 04-06-1928A | 02
06 | OK | EDMOND, CITY OF | 40109C0080G | 27-FEB-2004 | 04-06-639A | 02
06 | OK | EDMOND, CITY OF | 40109C0069G | 11-FEB-2004 | 04-06-797A | 02
06 | OK | EL RENO, CITY OF | 40017C0315D | 14-JUN-2004 | 04-06-1756A | 02
06 | OK | ELK CITY, CITY OF | 4000100017D | 14-JUL-2004 | 04-06-1430A | 02
06 | OK | ELK CITY, CITY OF | 4000100018D | 19-MAY-2004 | 04-06-894A | 02
06 | OK | ENID, CITY OF | 40047C0115C | 04-JUN-2004 | 04-06-1664A | 02
06 | OK | ENID, CITY OF | 40047C0115C | 23-JAN-2004 | 04-06-272A | 02
06 | OK | GRADY COUNTY | 4004830150C | 07-JUL-2004 | 04-06-1701A | 02
06 | OK | HARRAH, CITY OF | 40109C0431G | 09-JUL-2004 | 04-06-1900A | 02
06 | OK | HARRAH, CITY OF | 40109C0431G | 28-MAY-2004 | 04-06-779A | 02
06 | OK | HARRAH, CITY OF | 40109C0431G | 04-JUN-2004 | 04-06-780A | 02
06 | OK | HARRAH, CITY OF | 40109C0431G | 28-MAY-2004 | 04-06-781A | 02
06 | OK | HARRAH, CITY OF | 40109C0431G | 10-MAR-2004 | 04-06-788A | 02
06 | OK | HENRYETTA, CITY OF | 4001440003C | 16-JUL-2004 | 04-06-1578A | 02
06 | OK | HENRYETTA, CITY OF | 4001440003C | 25-FEB-2004 | 04-06-464A | 02
06 | OK | INOLA, TOWN OF | 4004560005B | 04-JUN-2004 | 04-06-1401A | 02
06 | OK | JACKSON COUNTY | 4004800200A | 02-APR-2004 | 04-06-1270A | 02
06 | OK | JACKSON COUNTY | 4004800100A | 16-APR-2004 | 04-06-1271A | 02
06 | OK | JENKS, CITY OF | 40143C0605H | 07-JAN-2004 | 04-06-513A | 02
06 | OK | JENKS, CITY OF | 40143C0605H | 14-JAN-2004 | 04-06-646X | 02
06 | OK | JENKS, CITY OF | 40143C0513J | 25-FEB-2004 | 04-06-829A | 02
06 | OK | KAY COUNTY | 4004770175A | 28-JUL-2004 | 04-06-2061A | 02
06 | OK | KINGFISHER COUNTY | 40073C0625C | 16-APR-2004 | 04-06-1088A | 02
06 | OK | KINGFISHER COUNTY | 40073C0475C | 07-APR-2004 | 04-06-1252A | 02
06 | OK | KINGFISHER COUNTY | 40073C0400C | 26-MAY-2004 | 04-06-1497A | 02
06 | OK | KINGFISHER COUNTY | 40073C0475C | 25-FEB-2004 | 04-06-908A | 02
06 | OK | LAWTON, CITY OF | 40031C0252C | 16-JUN-2004 | 04-06-1235A | 02
06 | OK | LAWTON, CITY OF | 40031C0258C | 23-APR-2004 | 04-06-1302A | 02
06 | OK | LAWTON, CITY OF | 40031C0252C | 06-FEB-2004 | 04-06-726A | 02
06 | OK | LAWTON, CITY OF | 40031C0252C | 20-FEB-2004 | 04-06-815A | 02
06 | OK | LE FLORE COUNTY | 4004840014B | 26-MAY-2004 | 04-06-1595A | 02
06 | OK | LE FLORE COUNTY | 4004840014B | 02-JUL-2004 | 04-06-1896A | 02
06 | OK | LE FLORE COUNTY | 4004840007B | 28-JAN-2004 | 04-06-276A | 02
06 | OK | LINDSAY, CITY OF | 4002450001B | 14-APR-2004 | 04-06-1278A | 02
06 | OK | MAYES COUNTY | 40097C0100D | 14-APR-2004 | 04-06-1112A | 02
06 | OK | MAYES COUNTY | 40097C0100D | 07-APR-2004 | 04-06-1130A | 02
06 | OK | MAYES COUNTY | 40097C0243D | 30-JUN-2004 | 04-06-1362A | 02
06 | OK | MAYES COUNTY | 40097C0360D | 18-JUN-2004 | 04-06-1678A | 02
06 | OK | MAYES COUNTY | 40097C0330D | 08-JUL-2004 | 04-06-575P | 05
06 | OK | MAYES COUNTY | 40097C0155D | 12-MAY-2004 | 04-06-743A | 02
06 | OK | MAYES COUNTY | 40097C0180D | 04-FEB-2004 | 04-06-775A | 02
06 | OK | MCCLAIN COUNTY | 4005380050A | 17-MAR-2004 | 04-06-929A | 02
06 | OK | MCCLAIN COUNTY | 4005380050A | 19-MAR-2004 | 04-06-930A | 02
06 | OK | MCCLAIN COUNTY | 4005380100B | 16-APR-2004 | 04-06-935A | 02
06 | OK | MCCURTAIN COUNTY | 4001060019A | 07-MAY-2004 | 04-06-1328A | 02
06 | OK | MIDWEST CITY, CITY OF | 40109C0381G | 02-MAR-2004 | 04-06-035P | 05
06 | OK | MIDWEST CITY, CITY OF | 40109C0385G | 24-MAR-2004 | 04-06-1089A | 02
06 | OK | MIDWEST CITY, CITY OF | 40109C0405G | 02-JUL-2004 | 04-06-1344A | 02
06 | OK | MIDWEST CITY, CITY OF | 40109C0405G | 21-MAY-2004 | 04-06-1530A | 02
06 | OK | MIDWEST CITY, CITY OF | 40109C0383G | 28-JUL-2004 | 04-06-1794A | 01
06 | OK | MIDWEST CITY, CITY OF | 40109C0383G | 05-MAY-2004 | 04-06-923A | 01
06 | OK | MOORE, CITY OF | 40027C0041F | 26-MAY-2004 | 04-06-1098A | 02
06 | OK | MOORE, CITY OF | 40027C0029F | 16-APR-2004 | 04-06-1125A | 02
06 | OK | MOORE, CITY OF | 40027C0037F | 21-APR-2004 | 04-06-1387A | 02
06 | OK | MOORE, CITY OF | 40027C0041F | 09-JUL-2004 | 04-06-1780A | 17
06 | OK | MOORE, CITY OF | 40027C0041F | 25-FEB-2004 | 04-06-703A | 02
06 | OK | MOORE, CITY OF | 40027C0037F | 30-JAN-2004 | 04-06-718A | 02
06 | OK | MOORE, CITY OF | 40027C0033F | 25-FEB-2004 | 04-06-847A | 02
06 | OK | MUSKOGEE COUNTY | 40101C0109D | 14-JUL-2004 | 04-06-1846A | 02
06 | OK | MUSKOGEE COUNTY | 40101C0066D | 13-FEB-2004 | 04-06-802A | 02
06 | OK | MUSKOGEE, CITY OF | 40101C0136D | 25-JUN-2004 | 04-06-1587A | 17
06 | OK | MUSTANG, CITY OF | 40017C0470D | 30-JAN-2004 | 04-06-642A | 02
06 | OK | MUSTANG, CITY OF | 40017C0490D | 30-JAN-2004 | 04-06-642A | 02
06 | OK | MUSTANG, CITY OF | 40017C0470D | 04-FEB-2004 | 04-06-773A | 02
06 | OK | MUSTANG, CITY OF | 40017C0470D | 25-FEB-2004 | 04-06-981X | 02
06 | OK | NEWCASTLE, CITY OF | 4001030006E | 28-JUL-2004 | 04-06-1944A | 02
06 | OK | NEWCASTLE, CITY OF | 4001030009E | 28-JUL-2004 | 04-06-1944A | 02
06 | OK | NORMAN,CITY OF | 40027C0095G | 14-APR-2004 | 02-06-1713P | 05
06 | OK | NORMAN,CITY OF | 40027C0095G | 15-APR-2004 | 03-06-2874P | 06
06 | OK | NORMAN,CITY OF | 40027C0080F | 30-APR-2004 | 04-06-1364A | 02
06 | OK | NORMAN,CITY OF | 40027C0095G | 18-JUN-2004 | 04-06-1679A | 02
06 | OK | NORMAN,CITY OF | 40027C0120F | 20-FEB-2004 | 04-06-307A | 02
06 | OK | NORMAN,CITY OF | 40027C0080F | 11-FEB-2004 | 04-06-727A | 01
06 | OK | NORTH ENID, TOWN OF | 40047C0115C | 25-JUN-2004 | 04-06-1762A | 02
06 | OK | OCHELATA, TOWN OF | 400315_01B | 19-MAR-2004 | 04-06-992A | 02
06 | OK | OKLAHOMA CITY, CITY OF | 40109C0069G | 11-FEB-2004 | 03-06-1793A | 01
06 | OK | OKLAHOMA CITY, CITY OF | 40109C0216G | 09-JAN-2004 | 03-06-2612A | 02
06 | OK | OKLAHOMA CITY, CITY OF | 40109C0216G | 09-JAN-2004 | 03-06-2643A | 02
06 | OK | OKLAHOMA CITY, CITY OF | 40109C0201G | 16-JAN-2004 | 03-06-2836A | 02
06 | OK | OKLAHOMA CITY, CITY OF | 40109C0508G | 02-APR-2004 | 04-06-1026A | 02
06 | OK | OKLAHOMA CITY, CITY OF | 40109C0063G | 05-MAY-2004 | 04-06-131P | 05
06 | OK | OKLAHOMA CITY, CITY OF | 40109C0064G | 05-MAY-2004 | 04-06-131P | 05
06 | OK | OKLAHOMA CITY, CITY OF | 40109C0201G | 05-MAY-2004 | 04-06-131P | 05
06 | OK | OKLAHOMA CITY, CITY OF | 40109C0362G | 25-JUN-2004 | 04-06-1421A | 02
06 | OK | OKLAHOMA CITY, CITY OF | 40109C0362G | 05-MAY-2004 | 04-06-1433A | 02
06 | OK | OKLAHOMA CITY, CITY OF | 40109C0415G | 19-MAY-2004 | 04-06-1442A | 02
06 | OK | OKLAHOMA CITY, CITY OF | 40109C0216G | 12-MAY-2004 | 04-06-1547A | 02
06 | OK | OKLAHOMA CITY, CITY OF | 40109C0216G | 21-MAY-2004 | 04-06-1629A | 02
06 | OK | OKLAHOMA CITY, CITY OF | 40109C0367G | 16-JUL-2004 | 04-06-1670A | 02
06 | OK | OKLAHOMA CITY, CITY OF | 40109C0219G | 30-JUN-2004 | 04-06-1799A | 02
06 | OK | OKLAHOMA CITY, CITY OF | 40109C0391G | 30-JUL-2004 | 04-06-1897A | 02
06 | OK | OKLAHOMA CITY, CITY OF | 40109C0218G | 23-JUL-2004 | 04-06-1940A | 02
06 | OK | OKLAHOMA CITY, CITY OF | 40109C0329G | 30-JUL-2004 | 04-06-1958A | 02
06 | OK | OKLAHOMA CITY, CITY OF | 40109C0368G | 16-JUL-2004 | 04-06-1967A | 02
06 | OK | OKLAHOMA CITY, CITY OF | 40109C0509G | 03-MAR-2004 | 04-06-218A | 01
06 | OK | OKLAHOMA CITY, CITY OF | 40109C0508G | 21-APR-2004 | 04-06-346A | 02
06 | OK | OKLAHOMA CITY, CITY OF | 40109C0214G | 07-JAN-2004 | 04-06-442A | 02
06 | OK | OKLAHOMA CITY, CITY OF | 40109C0214G | 25-FEB-2004 | 04-06-702A | 02
06 | OK | OKLAHOMA CITY, CITY OF | 40109C0216G | 30-JAN-2004 | 04-06-707A | 02
06 | OK | OKLAHOMA CITY, CITY OF | 40109C0195G | 13-FEB-2004 | 04-06-708A | 02
06 | OK | OKLAHOMA CITY, CITY OF | 40109C0367G | 30-JAN-2004 | 04-06-717A | 02
06 | OK | OKLAHOMA CITY, CITY OF | 40109C0202G | 30-JAN-2004 | 04-06-729A | 02
06 | OK | OKLAHOMA CITY, CITY OF | 40109C0182G | 18-FEB-2004 | 04-06-801A | 02
06 | OK | OKLAHOMA CITY, CITY OF | 40109C0391G | 11-FEB-2004 | 04-06-804A | 02
06 | OK | OKLAHOMA CITY, CITY OF | 40109C0202G | 27-FEB-2004 | 04-06-823A | 02
06 | OK | OKLAHOMA CITY, CITY OF | 40109C0368G | 18-JUN-2004 | 04-06-850A | 02
06 | OK | OKLAHOMA CITY, CITY OF | 40109C0216G | 17-MAR-2004 | 04-06-945A | 02
06 | OK | OKLAHOMA CITY, CITY OF | 40109C0182G | 14-APR-2004 | 04-06-946A | 17
06 | OK | OKLAHOMA COUNTY | 40109C0043G | 24-FEB-2004 | 03-06-691P | 05
06 | OK | OKLAHOMA COUNTY | 40109C0044G | 24-FEB-2004 | 03-06-691P | 05
06 | OK | OKLAHOMA COUNTY | 40109C0045G | 24-FEB-2004 | 03-06-691P | 05
06 | OK | OKLAHOMA COUNTY | 40109C0290G | 23-APR-2004 | 04-06-1326A | 02
06 | OK | OKLAHOMA COUNTY | 40109C0060G | 21-JUL-2004 | 04-06-1339A | 02
06 | OK | OKMULGEE COUNTY | 4004920125B | 05-MAR-2004 | 04-06-947A | 02
06 | OK | OTTAWA COUNTY | 4001540150B | 28-JAN-2004 | 04-06-273A | 02
06 | OK | OWASSO, CITY OF | 40143C0245H | 24-MAR-2004 | 03-06-1731P | 08
06 | OK | OWASSO, CITY OF | 40143C0236H | 23-JUL-2004 | 04-06-1973A | 02
06 | OK | PIEDMONT, CITY OF | 40017C0190D | 09-JUN-2004 | 04-06-1345A | 17
06 | OK | PONCA CITY, CITY OF | 4000800005C | 04-JUN-2004 | 04-06-1569A | 02
06 | OK | PONTOTOC COUNTY | 4004950005A | 23-JAN-2004 | 04-06-645A | 02
06 | OK | POTTAWATOMIE COUNTY | 40125C0125D | 14-MAY-2004 | 04-06-1390A | 02
06 | OK | POTTAWATOMIE COUNTY | 40125C0085D | 04-JUN-2004 | 04-06-1507A | 01
06 | OK | ROGERS COUNTY | 4053790075B | 28-JAN-2004 | 03-06-2905A | 01
06 | OK | ROGERS COUNTY | 4053790075B | 14-MAY-2004 | 04-06-1563A | 02
06 | OK | ROGERS COUNTY | 4053790130C | 25-JUN-2004 | 04-06-1652A | 02
06 | OK | ROGERS COUNTY | 4053790200B | 30-JUN-2004 | 04-06-1782A | 02
06 | OK | ROGERS COUNTY | 4053790110C | 30-JUL-2004 | 04-06-2012A | 02
06 | OK | ROGERS COUNTY | 4053790130C | 16-JAN-2004 | 04-06-471A | 02
06 | OK | ROGERS COUNTY | 4053790075B | 10-MAR-2004 | 04-06-765A | 02
06 | OK | ROLAND, TOWN OF | 40135C0190D | 07-JUN-2004 | 04-06-965A | 01
06 | OK | SAPULPA, CITY OF | 4000530135C | 12-MAY-2004 | 04-06-1412A | 02
06 | OK | SAPULPA, CITY OF | 4000530135C | 19-MAY-2004 | 04-06-1436A | 02
06 | OK | TULSA COUNTY | 40143C0090H | 14-MAY-2004 | 04-06-1512A | 02
06 | OK | TULSA, CITY OF | 40143C0526J | 26-MAR-2004 | 04-06-1097A | 02
06 | OK | TULSA, CITY OF | 40143C0505H | 07-JAN-2004 | 04-06-142P | 06
06 | OK | TULSA, CITY OF | 40143C0527J | 14-JUL-2004 | 04-06-1886A | 02
06 | OK | TULSA, CITY OF | 40143C0514J | 03-MAR-2004 | 04-06-225A | 02
06 | OK | TULSA, CITY OF | 40143C0527J | 07-MAY-2004 | 04-06-345A | 02
06 | OK | TULSA, CITY OF | 40143C0345H | 13-FEB-2004 | 04-06-435A | 17
06 | OK | TULSA, CITY OF | 40143C0536J | 12-FEB-2004 | 04-06-552P | 05
06 | OK | TULSA, CITY OF | 40143C0538J | 12-FEB-2004 | 04-06-552P | 05
06 | OK | TULSA, CITY OF | 40143C0389J | 04-FEB-2004 | 04-06-686A | 02
06 | OK | TULSA, CITY OF | 40143C0605H | 06-FEB-2004 | 04-06-744A | 02
06 | OK | TULSA, CITY OF | 40143C0388J | 10-MAR-2004 | 04-06-968A | 02
06 | OK | TULSA, CITY OF | 40143C0520H | 19-MAR-2004 | 04-06-993A | 17
06 | OK | WAGONER COUNTY | 4002150027B | 14-MAY-2004 | 04-06-1306A | 02
06 | OK | WAGONER COUNTY | 4002150027B | 23-JUL-2004 | 04-06-1484A | 02
06 | OK | WAGONER COUNTY | 4002150065B | 23-JAN-2004 | 04-06-622A | 02
06 | OK | WARR ACRES, CITY OF | 40109C0211G | 16-JUN-2004 | 04-06-1641A | 02
06 | OK | WARR ACRES, CITY OF | 40109C0211G | 18-JUN-2004 | 04-06-1692A | 02
06 | OK | WARR ACRES, CITY OF | 40109C0192G | 02-JUL-2004 | 04-06-1866A | 02
06 | OK | WARR ACRES, CITY OF | 40109C0211G | 07-JAN-2004 | 04-06-543A | 02
06 | OK | WARR ACRES, CITY OF | 40109C0211G | 13-FEB-2004 | 04-06-828A | 02
06 | OK | WARR ACRES, CITY OF | 40109C0211G | 05-MAY-2004 | 04-06-834A | 02
06 | OK | WASHINGTON COUNTY | 4004590040A | 14-JUN-2004 | 04-06-1343A | 02
06 | OK | WATONGA, CITY OF | 4000160001B | 07-JUL-2004 | 04-06-1827A | 02
06 | OK | YUKON, CITY OF | 40017C0339E | 23-APR-2004 | 04-06-1417A | 02
06 | OK | YUKON, CITY OF | 40017C0339E | 03-MAR-2004 | 04-06-814A | 02
06 | TX | ABILENE, CITY OF | 4854500020 | 23-APR-2004 | 04-06-1454P | 06
06 | TX | ABILENE, CITY OF | 4854500020D | 14-JUN-2004 | 04-06-1531A | 02
06 | TX | ALEDO, CITY OF | 4805200225C | 09-JUN-2004 | 03-06-1950P | 05
06 | TX | ALEDO, CITY OF | 4816590005A | 09-JUN-2004 | 03-06-1950P | 05
06 | TX | ALICE, CITY OF | 4812580155C | 07-JUL-2004 | 04-06-1815A | 01
06 | TX | ALLEN, CITY OF | 48085C0435G | 05-MAY-2004 | 04-06-1424A | 02
06 | TX | ALTON, CITY OF | 4815710005A | 28-JAN-2004 | 04-06-618A | 02
06 | TX | ANNA, CITY OF | 48085C0175G | 10-JUN-2004 | 04-06-392P | 06
06 | TX | ARLINGTON, CITY OF | 48439C0433J | 21-APR-2004 | 04-06-1338A | 02
06 | TX | ARLINGTON, CITY OF | 48439C0339J | 19-MAY-2004 | 04-06-1485A | 02
06 | TX | ARLINGTON, CITY OF | 48439C0441J | 14-MAY-2004 | 04-06-1493A | 02
06 | TX | ARLINGTON, CITY OF | 48439C0319J | 09-JUL-2004 | 04-06-1659A | 01
06 | TX | ARLINGTON, CITY OF | 48439C0441J | 25-FEB-2004 | 04-06-611A | 02
06 | TX | ARLINGTON, CITY OF | 48439C0433J | 27-FEB-2004 | 04-06-682A | 02
06 | TX | ARLINGTON, CITY OF | 48439C0440J | 17-JUN-2004 | 04-06-871P | 06
06 | TX | AUSTIN, CITY OF | 48453C0160E | 02-APR-2004 | 04-06-1099A | 02
06 | TX | AUSTIN, CITY OF | 48453C0210F | 04-JUN-2004 | 04-06-1680A | 02
06 | TX | AUSTIN, CITY OF | 48453C0210F | 30-JUN-2004 | 04-06-1779A | 02
06 | TX | AUSTIN, CITY OF | 48453C0245E | 16-JUL-2004 | 04-06-1852A | 02
06 | TX | AUSTIN, CITY OF | 48453C0165E | 23-JUL-2004 | 04-06-1935A | 02
06 | TX | AUSTIN, CITY OF | 48453C0205E | 20-FEB-2004 | 04-06-290A | 02
06 | TX | AUSTIN, CITY OF | 48453C0200E | 14-JAN-2004 | 04-06-511A | 01
06 | TX | AUSTIN, CITY OF | 48453C0205E | 14-JAN-2004 | 04-06-534A | 02
06 | TX | AUSTIN, CITY OF | 48453C0195E | 23-APR-2004 | 04-06-677A | 02
06 | TX | AUSTIN, CITY OF | 48453C0300E | 21-MAY-2004 | 04-06-749A | 02
06 | TX | AUSTIN, CITY OF | 48453C0170G | 20-FEB-2004 | 04-06-849A | 02
06 | TX | BANDERA COUNTY | 4800200100A | 16-JUL-2004 | 04-06-1064A | 02
06 | TX | BARTONVILLE, TOWN OF | 48121C0510E | 05-MAY-2004 | 04-06-1350A | 02
06 | TX | BASTROP COUNTY | 48021C0112C | 08-JUL-2004 | 04-06-1182P | 06
06 | TX | BASTROP COUNTY | 48021C0114C | 08-JUL-2004 | 04-06-1182P | 06
06 | TX | BASTROP COUNTY | 48021C0179C | 18-FEB-2004 | 04-06-296A | 02
06 | TX | BEDFORD, CITY OF | 48439C0330J | 03-MAR-2004 | 03-06-2903P | 06
06 | TX | BEDFORD, CITY OF | 48439C0330J | 28-JAN-2004 | 04-06-002A | 02
06 | TX | BEDFORD, CITY OF | 48439C0308H | 19-MAR-2004 | 04-06-1103A | 02
06 | TX | BEXAR COUNTY | 48029C0220F | 09-JAN-2004 | 04-06-294A | 02
06 | TX | BONHAM WATER AUTHORITY | 4815820005B | 31-MAR-2004 | 04-06-1136A | 02
06 | TX | BRAZORIA COUNTY | 48039C0030I | 19-MAR-2004 | 04-06-1081A | 02
06 | TX | BRAZORIA COUNTY | 48039C0030I | 14-APR-2004 | 04-06-1236A | 02
06 | TX | BRAZORIA COUNTY | 48039C0030I | 07-MAY-2004 | 04-06-1544A | 02
06 | TX | BROWN COUNTY | 4807170006B | 13-FEB-2004 | 04-06-685A | 02
06 | TX | BROWNFIELD, CITY OF | 4806200005B | 14-JUN-2004 | 04-06-1240A | 02
06 | TX | BURLESON, CITY OF | 48251C0033H | 28-JAN-2004 | 03-06-060P | 06
06 | TX | BURLESON, CITY OF | 48251C0041H | 28-JAN-2004 | 03-06-060P | 06
06 | TX | BURLESON, CITY OF | 48251C0037H | 10-MAR-2004 | 03-06-1544P | 05
06 | TX | BURLESON, CITY OF | 48251C0039G | 10-MAR-2004 | 03-06-1544P | 05
06 | TX | BURLESON, CITY OF | 48251C0037H | 21-MAY-2004 | 04-06-540A | 01
06 | TX | BURNET COUNTY | 48053C0210C | 25-JUN-2004 | 04-06-1367A | 02
06 | TX | CAMERON COUNTY | 4801010250B | 07-APR-2004 | 04-06-120A | 01
06 | TX | CAMERON COUNTY | 4801010350B | 02-JUL-2004 | 04-06-1446A | 01
06 | TX | CAMPBELL, TOWN OF | 48231C0225E | 27-FEB-2004 | 04-06-764A | 02
06 | TX | CARROLLTON, CITY OF | 48113C0155J | 23-MAR-2004 | 03-06-2532P | 05
06 | TX | CARROLLTON, CITY OF | 48113C0160J | 23-MAR-2004 | 03-06-2532P | 05
06 | TX | CARROLLTON, CITY OF | 48121C0705F | 23-MAR-2004 | 03-06-2532P | 05
06 | TX | CARROLLTON, CITY OF | 48121C0710F | 23-MAR-2004 | 03-06-2532P | 05
06 | TX | CARROLLTON, CITY OF | 48113C0020J | 21-APR-2004 | 03-06-699P | 05
06 | TX | CARROLLTON, CITY OF | 48113C0020J | 20-FEB-2004 | 04-06-047P | 06
06 | TX | CARROLLTON, CITY OF | 48113C0040J | 14-APR-2004 | 04-06-1045A | 02
06 | TX | CARROLLTON, CITY OF | 48113C0160J | 16-APR-2004 | 04-06-1123A | 02
06 | TX | CARROLLTON, CITY OF | 48113C0160J | 23-JUN-2004 | 04-06-1242A | 17
06 | TX | CARROLLTON, CITY OF | 48113C0020J | 07-MAY-2004 | 04-06-1322A | 17
06 | TX | CARROLLTON, CITY OF | 48113C0020J | 04-JUN-2004 | 04-06-1686A | 02
06 | TX | CARROLLTON, CITY OF | 48113C0020J | 25-JUN-2004 | 04-06-1695A | 17
06 | TX | CARROLLTON, CITY OF | 48113C0020J | 15-JUL-2004 | 04-06-228P | 05
06 | TX | CEDAR HILL, CITY OF | 48113C0605J | 23-JAN-2004 | 02-06-2440P | 05
06 | TX | CEDAR HILL, CITY OF | 48113C0605J | 02-APR-2004 | 04-06-887A | 02
06 | TX | CELINA, CITY OF | 48085C0110G | 07-APR-2004 | 04-06-921A | 02
06 | TX | CHEROKEE COUNTY | 4807390004B | 16-JUL-2004 | 04-06-1975A | 02
06 | TX | COLLEYVILLE, CITY OF | 48439C0307J | 06-MAY-2004 | 04-06-383P | 05
06 | TX | COLLIN COUNTY | 48085C0470G | 10-JUN-2004 | 04-06-1203P | 06
06 | TX | COLLIN COUNTY | 48085C0440G | 23-JUN-2004 | 04-06-1763A | 02
06 | TX | COLLIN COUNTY | 48085C0375G | 28-JUN-2004 | 04-06-656P | 06
06 | TX | COLLIN COUNTY | 48085C0505G | 28-JUN-2004 | 04-06-656P | 06
06 | TX | COLORADO COUNTY | 48089C0425C | 13-FEB-2004 | 04-06-519A | 02
06 | TX | COLUMBUS, CITY OF | 48089C0145C | 13-FEB-2004 | 04-06-747A | 02
06 | TX | COMAL COUNTY | 4854630080C | 04-JUN-2004 | 04-06-127P | 05
06 | TX | CONROE, CITY OF | 48339C0378F | 19-APR-2004 | 03-06-1941P | 06
06 | TX | CONROE, CITY OF | 48339C0387F | 21-JAN-2004 | 03-06-2326P | 06
06 | TX | CONROE, CITY OF | 48339C0389F | 21-JAN-2004 | 03-06-2326P | 06
06 | TX | CONROE, CITY OF | 48339C0391F | 21-JAN-2004 | 03-06-2326P | 06
06 | TX | CONROE, CITY OF | 48339C0395F | 21-JAN-2004 | 03-06-2326P | 06
06 | TX | CONROE, CITY OF | 48339C0379F | 30-JAN-2004 | 04-06-701A | 02
06 | TX | COPPELL, CITY OF | 48113C0155J | 03-JUN-2004 | 04-06-1459P | 06
06 | TX | COPPELL, CITY OF | 48113C0135J | 17-MAR-2004 | 04-06-825A | 02
06 | TX | CORINTH, TOWN OF | 48121C0393F | 28-JAN-2004 | 04-06-544A | 02
06 | TX | CORINTH, TOWN OF | 48121C0389E | 12-APR-2004 | 04-06-563P | 06
06 | TX | CORSICANA, CITY OF | 4804980005A | 07-APR-2004 | 04-06-1256X | 02
06 | TX | CORSICANA, CITY OF | 4804980005A | 26-MAY-2004 | 04-06-1273A | 02
06 | TX | CORYELL COUNTY | 4807680370B | 28-MAY-2004 | 04-06-1157A | 02
06 | TX | CROWLEY, CITY OF | 48439C0530H | 14-APR-2004 | 04-06-1279A | 02
06 | TX | DALLAS, CITY OF | 48113C0195J | 16-JAN-2004 | 04-06-102A | 02
06 | TX | DALLAS, CITY OF | 48113C0490J | 18-JUN-2004 | 04-06-1084A | 02
06 | TX | DALLAS, CITY OF | 48113C0040J | 09-APR-2004 | 04-06-1140A | 02
06 | TX | DALLAS, CITY OF | 48113C0195J | 14-APR-2004 | 04-06-1294A | 02
06 | TX | DALLAS, CITY OF | 48113C0365J | 14-MAY-2004 | 04-06-1408A | 02
06 | TX | DALLAS, CITY OF | 48113C0365J | 30-APR-2004 | 04-06-1410A | 02
06 | TX | DALLAS, CITY OF | 48113C0355J | 07-MAY-2004 | 04-06-1535A | 02
06 | TX | DALLAS, CITY OF | 48113C0365J | 26-MAY-2004 | 04-06-1548A | 02
06 | TX | DALLAS, CITY OF | 48113C0170J | 26-MAY-2004 | 04-06-1644X | 01
06 | TX | DALLAS, CITY OF | 48113C0330J | 30-JAN-2004 | 04-06-169A | 02
06 | TX | DALLAS, CITY OF | 48113C0355J | 23-JUN-2004 | 04-06-1819A | 02
06 | TX | DALLAS, CITY OF | 48113C0335J | 02-JUL-2004 | 04-06-1824A | 02
06 | TX | DALLAS, CITY OF | 48113C0195J | 21-JUL-2004 | 04-06-1858A | 02
06 | TX | DALLAS, CITY OF | 48113C0360K | 07-JAN-2004 | 04-06-545A | 02
06 | TX | DALLAS, CITY OF | 48113C0360K | 16-JAN-2004 | 04-06-548A | 02
06 | TX | DALLAS, CITY OF | 48113C0355J | 07-JAN-2004 | 04-06-590A | 01
06 | TX | DALLAS, CITY OF | 48113C0195J | 23-JAN-2004 | 04-06-678A | 02
06 | TX | DALLAS, CITY OF | 48113C0310J | 06-FEB-2004 | 04-06-728A | 01
06 | TX | DALLAS, CITY OF | 48113C0185J | 13-FEB-2004 | 04-06-755A | 02
06 | TX | DALLAS, CITY OF | 48113C0170J | 28-APR-2004 | 04-06-881A | 02
06 | TX | DALLAS, CITY OF | 48113C0330J | 24-MAR-2004 | 04-06-888A | 02
06 | TX | DALLAS, CITY OF | 48113C0355J | 03-MAR-2004 | 04-06-900A | 02
06 | TX | DALLAS, CITY OF | 48113C0320J | 25-FEB-2004 | 04-06-918A | 02
06 | TX | DALLAS, CITY OF | 48113C0365J | 04-JUN-2004 | 04-06-966A | 02
06 | TX | DENTON COUNTY | 48121C0245E | 06-FEB-2004 | 04-06-605A | 01
06 | TX | DENTON, CITY OF | 48121C0388E | 29-JUN-2004 | 04-06-664P | 05
06 | TX | DENTON, CITY OF | 48121C0360E | 27-FEB-2004 | 04-06-769A | 02
06 | TX | DENTON, CITY OF | 48121C0380E | 07-MAY-2004 | 04-06-830A | 02
06 | TX | EDGECLIFF VILLAGE, TOWN OF | 48439C0415H | 27-FEB-2004 | 04-06-783A | 17
06 | TX | EL PASO, CITY OF | 4802140019B | 14-MAY-2004 | 04-06-1040A | 02
06 | TX | EL PASO, CITY OF | 4802140026D | 12-MAY-2004 | 04-06-1241A | 02
06 | TX | EL PASO, CITY OF | 4802140027D | 12-MAY-2004 | 04-06-1241A | 02
06 | TX | EL PASO, CITY OF | 4802140029B | 14-JUN-2004 | 04-06-1283A | 02
06 | TX | EL PASO, CITY OF | 4802140042B | 05-MAY-2004 | 04-06-1353X | 02
06 | TX | EL PASO, CITY OF | 4802140042B | 07-MAY-2004 | 04-06-1403A | 02
06 | TX | EL PASO, CITY OF | 4802140024B | 28-JUL-2004 | 04-06-1561A | 02
06 | TX | EL PASO, CITY OF | 4802140020B | 21-MAY-2004 | 04-06-1568A | 02
06 | TX | EL PASO, CITY OF | 4802140048B | 23-JUL-2004 | 04-06-1889A | 01
06 | TX | EL PASO, CITY OF | 4802140042B | 31-MAR-2004 | 04-06-650A | 02
06 | TX | ELLIS COUNTY | 48139C0190D | 14-JUL-2004 | 04-06-1865A | 02
06 | TX | ELLIS COUNTY | 48139C0070D | 26-JUL-2004 | 04-06-851P | 06
06 | TX | EULESS, CITY OF | 48439C0330J | 04-JUN-2004 | 04-06-875P | 05
06 | TX | FARMERS BRANCH, CITY OF | 48113C0170J | 16-JUL-2004 | 04-06-1517A | 02
06 | TX | FLOWER MOUND, TOWN OF | 48121C0540E | 09-JUN-2004 | 03-06-2331P | 05
06 | TX | FLOWER MOUND, TOWN OF | 48121C0540E | 23-JUN-2004 | 03-06-2881P | 06
06 | TX | FLOWER MOUND, TOWN OF | 48121C0540E | 09-JUL-2004 | 04-06-1856A | 02
06 | TX | FLOWER MOUND, TOWN OF | 48121C0545E | 07-APR-2004 | 04-06-425A | 02
06 | TX | FLOWER MOUND, TOWN OF | 48121C0540E | 31-MAR-2004 | 04-06-454A | 02
06 | TX | FLOWER MOUND, TOWN OF | 48121C0540E | 21-JAN-2004 | 04-06-676A | 02
06 | TX | FORNEY, CITY OF | 480410B | 08-MAR-2004 | 03-06-1527P | 06
06 | TX | FORNEY, CITY OF | 4804110025B | 08-MAR-2004 | 03-06-1527P | 06
06 | TX | FORT BEND COUNTY | 48157C0230J | 15-MAR-2004 | 03-06-449P | 06
06 | TX | FORT BEND COUNTY | 48157C0240J | 15-MAR-2004 | 03-06-449P | 06
06 | TX | FORT BEND COUNTY | 48157C0015J | 28-MAY-2004 | 04-06-1059A | 01
06 | TX | FORT BEND COUNTY | 48157C0100J | 28-MAY-2004 | 04-06-1059A | 01
06 | TX | FORT BEND COUNTY | 48157C0115J | 07-JUL-2004 | 04-06-1753X | 01
06 | TX | FORT BEND COUNTY | 48157C0235J | 10-FEB-2004 | 04-06-248P | 06
06 | TX | FORT BEND COUNTY | 48157C0245J | 10-FEB-2004 | 04-06-248P | 06
06 | TX | FORT BEND COUNTY | 48157C0255J | 10-FEB-2004 | 04-06-248P | 06
06 | TX | FORT BEND COUNTY | 48157C0265J | 10-FEB-2004 | 04-06-248P | 06
06 | TX | FORT BEND COUNTY | 48157C0115J | 14-MAY-2004 | 04-06-889A | 01
06 | TX | FORT BEND COUNTY M.U.D. #23 | 48157C0290J | 30-APR-2004 | 04-06-561P | 05
06 | TX | FORT WORTH, CITY OF | 48439C0169H | 23-APR-2004 | 03-06-1935P | 06
06 | TX | FORT WORTH, CITY OF | 48439C0170H | 23-APR-2004 | 03-06-1935P | 06
06 | TX | FORT WORTH, CITY OF | 48439C0380H | 30-JUL-2004 | 03-06-2049P | 05
06 | TX | FORT WORTH, CITY OF | 48439C0165H | 29-JUN-2004 | 03-06-2340R | 05
06 | TX | FORT WORTH, CITY OF | 48439C0312J | 14-MAY-2004 | 03-06-2546P | 05
06 | TX | FORT WORTH, CITY OF | 48439C0314J | 14-MAY-2004 | 03-06-2546P | 05
06 | TX | FORT WORTH, CITY OF | 48439C0316J | 14-MAY-2004 | 03-06-2546P | 05
06 | TX | FORT WORTH, CITY OF | 48439C0318J | 14-MAY-2004 | 03-06-2546P | 05
06 | TX | FORT WORTH, CITY OF | 48439C0290J | 12-MAR-2004 | 03-06-2551P | 05
06 | TX | FORT WORTH, CITY OF | 48439C0160H | 26-JUL-2004 | 04-06-038P | 05
06 | TX | FORT WORTH, CITY OF | 48439C0160H | 30-APR-2004 | 04-06-048P | 06
06 | TX | FORT WORTH, CITY OF | 48439C0360H | 02-JUL-2004 | 04-06-1033A | 01
06 | TX | FORT WORTH, CITY OF | 48439C0395J | 17-MAR-2004 | 04-06-1053A | 02
06 | TX | FORT WORTH, CITY OF | 48439C0265H | 23-APR-2004 | 04-06-1080A | 01
06 | TX | FORT WORTH, CITY OF | 48439C0385J | 19-MAR-2004 | 04-06-1115A | 02
06 | TX | FORT WORTH, CITY OF | 48439C0395J | 05-MAY-2004 | 04-06-1382A | 02
06 | TX | FORT WORTH, CITY OF | 48439C0430H | 12-MAY-2004 | 04-06-1565A | 02
06 | TX | FORT WORTH, CITY OF | 48439C0165H | 16-JUN-2004 | 04-06-1704A | 02
06 | TX | FORT WORTH, CITY OF | 48439C0260H | 25-JUN-2004 | 04-06-1789A | 02
06 | TX | FORT WORTH, CITY OF | 48439C0395J | 23-JUN-2004 | 04-06-1807A | 02
06 | TX | FORT WORTH, CITY OF | 48439C0535H | 11-FEB-2004 | 04-06-198A | 02
06 | TX | FORT WORTH, CITY OF | 48439C0170H | 20-JUL-2004 | 04-06-230P | 05
06 | TX | FORT WORTH, CITY OF | 48439C0290J | 23-JAN-2004 | 04-06-312A | 02
06 | TX | FORT WORTH, CITY OF | 48439C0170H | 16-JAN-2004 | 04-06-335A | 02
06 | TX | FORT WORTH, CITY OF | 48439C0285J | 28-JAN-2004 | 04-06-341A | 02
06 | TX | FORT WORTH, CITY OF | 48439C0245H | 14-JAN-2004 | 04-06-411A | 02
06 | TX | FORT WORTH, CITY OF | 48439C0415H | 31-MAR-2004 | 04-06-763A | 02
06 | TX | FORT WORTH, CITY OF | 48439C0170H | 05-MAR-2004 | 04-06-770A | 02
06 | TX | FORT WORTH, CITY OF | 48439C0170H | 24-MAR-2004 | 04-06-979A | 02
06 | TX | FORT WORTH, CITY OF | 48439C0270J | 21-JUL-2004 | 04-06-983A | 02
06 | TX | FREDERICKSBURG, CITY OF | 48171C0286C | 19-MAR-2004 | 04-06-845A | 02
06 | TX | FRIENDSWOOD, CITY OF | 4854680005E | 21-MAY-2004 | 04-06-1555A | 02
06 | TX | FRISCO, CITY OF | 48085C0265G | 21-JUL-2004 | 03-06-2038P | 05
06 | TX | FRISCO, CITY OF | 48085C0270G | 21-JUL-2004 | 03-06-2038P | 05
06 | TX | FRISCO, CITY OF | 48085C0405G | 20-JUL-2004 | 04-06-672P | 06
06 | TX | GARLAND, CITY OF | 48113C0210K | 10-JUN-2004 | 03-06-2537P | 05
06 | TX | GARLAND, CITY OF | 48113C0230J | 10-JUN-2004 | 03-06-2537P | 05
06 | TX | GARLAND, CITY OF | 48113C0220K | 16-JAN-2004 | 03-06-2939A | 02
06 | TX | GARLAND, CITY OF | 48113C0240J | 14-MAY-2004 | 04-06-1494A | 17
06 | TX | GARLAND, CITY OF | 48113C0360K | 23-JUL-2004 | 04-06-1697A | 17
06 | TX | GARLAND, CITY OF | 48113C0220K | 04-FEB-2004 | 04-06-495A | 01
06 | TX | GARLAND, CITY OF | 48113C0210K | 23-JAN-2004 | 04-06-709A | 17
06 | TX | GILLESPIE COUNTY | 48171C0300C | 25-JUN-2004 | 04-06-1068A | 02
06 | TX | GRANBURY, CITY OF | 4803570005B | 24-MAY-2004 | 04-06-237P | 06
06 | TX | GRAND PRAIRIE, CITY OF | 48113C0445J | 12-JAN-2004 | 03-06-192P | 05
06 | TX | GRAND PRAIRIE, CITY OF | 48113C0465J | 12-JAN-2004 | 03-06-192P | 05
06 | TX | GRAND PRAIRIE, CITY OF | 48113C0295J | 02-APR-2004 | 04-06-1077A | 02
06 | TX | GRAND PRAIRIE, CITY OF | 48113C0445J | 09-JUN-2004 | 04-06-1487A | 02
06 | TX | GRAND PRAIRIE, CITY OF | 48113C0315J | 16-APR-2004 | 04-06-492A | 17
06 | TX | GRAND PRAIRIE, CITY OF | 48113C0455J | 28-JAN-2004 | 04-06-536A | 02
06 | TX | GRAND PRAIRIE, CITY OF | 48113C0445J | 04-FEB-2004 | 04-06-712A | 01
06 | TX | GRAPEVINE, CITY OF | 48439C0215H | 30-JAN-2004 | 04-06-754A | 02
06 | TX | HARRIS COUNTY | 48201C0070J | 23-JUL-2004 | 03-06-1393P | 05
06 | TX | HARRIS COUNTY | 48201C0235K | 23-JUL-2004 | 03-06-1393P | 05
06 | TX | HARRIS COUNTY | 48201C0245K | 09-APR-2004 | 04-06-1034A | 02
06 | TX | HARRIS COUNTY | 48201C1030K | 19-MAR-2004 | 04-06-1061X | 01
06 | TX | HARRIS COUNTY | 48201C0240J | 21-APR-2004 | 04-06-1166A | 01
06 | TX | HARRIS COUNTY | 48201C0245K | 14-JUN-2004 | 04-06-1224P | 06
06 | TX | HARRIS COUNTY | 48201C0415J | 09-FEB-2004 | 04-06-132P | 05
06 | TX | HARRIS COUNTY | 48201C0420K | 09-FEB-2004 | 04-06-132P | 05
06 | TX | HARRIS COUNTY | 48201C0605J | 09-FEB-2004 | 04-06-132P | 05
06 | TX | HARRIS COUNTY | 48201C0610J | 09-FEB-2004 | 04-06-132P | 05
06 | TX | HARRIS COUNTY | 48201C0405J | 25-JUN-2004 | 04-06-1348A | 01
06 | TX | HARRIS COUNTY | 48201C0630J | 12-MAY-2004 | 04-06-1397A | 02
06 | TX | HARRIS COUNTY | 48201C0410J | 23-JUN-2004 | 04-06-1431A | 01
06 | TX | HARRIS COUNTY | 48201C0245K | 04-JUN-2004 | 04-06-1445A | 02
06 | TX | HARRIS COUNTY | 48201C1030K | 02-JUN-2004 | 04-06-1559A | 01
06 | TX | HARRIS COUNTY | 48201C0430K | 07-JAN-2004 | 04-06-167A | 01
06 | TX | HARRIS COUNTY | 48201C0245K | 16-JUN-2004 | 04-06-1793A | 02
06 | TX | HARRIS COUNTY | 48201C0245K | 23-JUL-2004 | 04-06-2043A | 02
06 | TX | HARRIS COUNTY | 48201C0235K | 31-MAR-2004 | 04-06-505A | 01
06 | TX | HARRIS COUNTY | 48201C0320K | 07-JAN-2004 | 04-06-546A | 02
06 | TX | HARRIS COUNTY | 48201C0410J | 28-JAN-2004 | 04-06-627A | 01
06 | TX | HARRIS COUNTY | 48201C0430K | 17-MAR-2004 | 04-06-738A | 01
06 | TX | HARRIS COUNTY | 48201C0515J | 28-JAN-2004 | 04-06-741A | 02
06 | TX | HARRIS COUNTY | 48201C1030K | 13-FEB-2004 | 04-06-774A | 01
06 | TX | HARRIS COUNTY | 48201C1030K | 27-FEB-2004 | 04-06-806A | 01
06 | TX | HARRIS COUNTY | 48201C0430K | 05-MAR-2004 | 04-06-956A | 02
06 | TX | HARRIS COUNTY | 48201C0260J | 19-MAR-2004 | 04-06-961A | 02
06 | TX | HARRIS COUNTY | 48201C1030K | 09-APR-2004 | 04-06-990A | 01
06 | TX | HAYS COUNTY | 48209C0130E | 14-JAN-2004 | 04-06-275A | 02
06 | TX | HENDERSON COUNTY | 48213C0225C | 30-JUN-2004 | 04-06-1067A | 02
06 | TX | HIDALGO COUNTY | 4803340375B | 17-MAR-2004 | 03-06-1738P | 05
06 | TX | HIDALGO COUNTY | 4803340400C | 09-APR-2004 | 04-06-1119A | 02
06 | TX | HIDALGO COUNTY | 4803340300D | 12-MAY-2004 | 04-06-1307A | 01
06 | TX | HIDALGO COUNTY | 4803340400C | 21-JUL-2004 | 04-06-1790A | 02
06 | TX | HOOD COUNTY | 4803560145B | 28-JUL-2004 | 04-06-1960A | 02
06 | TX | HOOD COUNTY | 4803560110C | 09-JUL-2004 | 04-06-1968A | 02
06 | TX | HOOD COUNTY | 4803560130C | 25-FEB-2004 | 04-06-343A | 02
06 | TX | HOOD COUNTY | 4803560140B | 19-MAR-2004 | 04-06-608A | 02
06 | TX | HOOD COUNTY | 4803560145B | 19-MAR-2004 | 04-06-608A | 02
06 | TX | HOOD COUNTY | 4803560035B | 28-JAN-2004 | 04-06-614A | 02
06 | TX | HOOD COUNTY | 4803560140B | 02-APR-2004 | 04-06-684A | 02
06 | TX | HOUSTON COUNTY | 4808720006A | 07-APR-2004 | 04-06-088A | 02
06 | TX | HOUSTON, CITY OF | 48201C0810K | 03-FEB-2004 | 03-06-2507A | 02
06 | TX | HOUSTON, CITY OF | 48201C0605J | 17-FEB-2004 | 03-06-405P | 05
06 | TX | HOUSTON, CITY OF | 48201C0610J | 17-FEB-2004 | 03-06-405P | 05
06 | TX | HOUSTON, CITY OF | 48201C0860K | 21-JAN-2004 | 04-06-098A | 02
06 | TX | HOUSTON, CITY OF | 48201C0680K | 23-JUN-2004 | 04-06-1228A | 01
06 | TX | HOUSTON, CITY OF | 48201C0865K | 03-MAR-2004 | 04-06-776A | 02
06 | TX | HOUSTON, CITY OF | 48201C0880K | 27-FEB-2004 | 04-06-820A | 02
06 | TX | HOUSTON, CITY OF | 48201C0865K | 13-FEB-2004 | 04-06-824A | 02
06 | TX | HOUSTON, CITY OF | 48201C0895J | 27-FEB-2004 | 04-06-933A | 02
06 | TX | HOUSTON, CITY OF | 48201C0430K | 17-MAR-2004 | 04-06-952A | 02
06 | TX | HUNTSVILLE, CITY OF | 4806390120C | 28-JAN-2004 | 04-06-428A | 02
06 | TX | HURST, CITY OF | 48439C0304J | 30-JUL-2004 | 03-06-2672P | 05
06 | TX | HURST, CITY OF | 48439C0195H | 24-MAR-2004 | 04-06-657P | 05
06 | TX | IRVING, CITY OF | 48113C0315J | 14-APR-2004 | 04-06-1284A | 02
06 | TX | IRVING, CITY OF | 48113C0320J | 05-MAY-2004 | 04-06-1361A | 02
06 | TX | IRVING, CITY OF | 48113C0315J | 30-JUL-2004 | 04-06-1768A | 01
06 | TX | IRVING, CITY OF | 48113C0315J | 07-JUL-2004 | 04-06-1828A | 02
06 | TX | JACKSON COUNTY | 4803790350B | 26-MAY-2004 | 04-06-1511A | 02
06 | TX | JEFFERSON COUNTY | 4803850255C | 28-MAY-2004 | 04-06-1554A | 02
06 | TX | JOHNSON COUNTY | 48251C0041H | 30-APR-2004 | 04-06-1369A | 02
06 | TX | JONESTOWN, CITY OF | 48453C0280E | 05-MAR-2004 | 04-06-447A | 02
06 | TX | KILGORE, CITY OF | 4802630004D | 10-MAR-2004 | 04-06-1065A | 02
06 | TX | KILGORE, CITY OF | 4802630004D | 02-JUL-2004 | 04-06-1705A | 02
06 | TX | KILLEEN, CITY OF | 4800310005C | 26-MAR-2004 | 04-06-1174A | 02
06 | TX | KINGSVILLE, CITY OF | 4804240005C | 20-FEB-2004 | 04-06-268A | 17
06 | TX | KIRBY, CITY OF | 48029C0457E | 21-JUL-2004 | 04-06-1972A | 02
06 | TX | KYLE, CITY OF | 48209C0185E | 23-MAR-2004 | 03-06-1940P | 05
06 | TX | KYLE, CITY OF | 48209C0205E | 23-MAR-2004 | 03-06-1940P | 05
06 | TX | LAKEWAY, CITY OF | 48453C0330E | 07-MAY-2004 | 04-06-1416A | 02
06 | TX | LANCASTER, CITY OF | 48113C0635J | 19-MAY-2004 | 04-06-895A | 17
06 | TX | LAREDO, CITY OF | 4810590640B | 14-MAY-2004 | 03-06-2688P | 06
06 | TX | LAREDO, CITY OF | 4810590650B | 14-MAY-2004 | 03-06-2688P | 06
06 | TX | LAREDO, CITY OF | 4810590640B | 07-APR-2004 | 04-06-119A | 02
06 | TX | LEAGUE CITY, CITY OF | 4854880011D | 30-JAN-2004 | 03-06-1583A | 01
06 | TX | LEAGUE CITY, CITY OF | 4854880025D | 02-APR-2004 | 04-06-1253A | 02
06 | TX | LEAGUE CITY, CITY OF | 4854880005D | 07-MAY-2004 | 04-06-1402A | 01
06 | TX | LEAGUE CITY, CITY OF | 4854880025D | 07-MAY-2004 | 04-06-1402A | 01
06 | TX | LEON VALLEY, CITY OF | 48029C0263F | 19-MAR-2004 | 04-06-1039A | 02
06 | TX | LEON VALLEY, CITY OF | 48029C0263F | 31-MAR-2004 | 04-06-1239A | 02
06 | TX | LEWISVILLE, CITY OF | 48121C0565F | 26-MAY-2004 | 04-06-1405A | 01
06 | TX | LEWISVILLE, CITY OF | 48121C0545E | 18-JUN-2004 | 04-06-1689A | 02
06 | TX | LEWISVILLE, CITY OF | 48121C0565F | 21-JAN-2004 | 04-06-491A | 02
06 | TX | LITTLE ELM, TOWN OF | 48121C0420E | 16-JUN-2004 | 04-06-1673A | 02
06 | TX | LONGVIEW, CITY OF | 4802640010D | 12-MAY-2004 | 04-06-1538A | 02
06 | TX | LUBBOCK COUNTY | 48303C0275D | 14-JUN-2004 | 04-06-1642A | 02
06 | TX | LUBBOCK COUNTY | 48303C0275D | 14-JUN-2004 | 04-06-1698A | 02
06 | TX | LUBBOCK COUNTY | 48303C0275D | 18-JUN-2004 | 04-06-1829X | 02
06 | TX | LUBBOCK COUNTY | 48303C0275D | 25-JUN-2004 | 04-06-1830X | 01
06 | TX | LUBBOCK COUNTY | 48303C0275D | 09-JUL-2004 | 04-06-1947X | 02
06 | TX | LUBBOCK, CITY OF | 48303C0285D | 19-MAR-2004 | 04-06-1030A | 02
06 | TX | LUBBOCK, CITY OF | 48303C0285D | 05-MAR-2004 | 04-06-1041A | 02
06 | TX | LUBBOCK, CITY OF | 48303C0315D | 10-MAR-2004 | 04-06-1049A | 02
06 | TX | LUBBOCK, CITY OF | 48303C0305D | 05-MAR-2004 | 04-06-1054A | 02
06 | TX | LUBBOCK, CITY OF | 48303C0290D | 10-MAR-2004 | 04-06-1066A | 02
06 | TX | LUBBOCK, CITY OF | 48303C0295D | 05-MAY-2004 | 04-06-1073A | 02
06 | TX | LUBBOCK, CITY OF | 48303C0295D | 31-MAR-2004 | 04-06-1075A | 02
06 | TX | LUBBOCK, CITY OF | 48303C0290D | 26-MAR-2004 | 04-06-1104A | 02
06 | TX | LUBBOCK, CITY OF | 48303C0295D | 24-MAR-2004 | 04-06-1105A | 02
06 | TX | LUBBOCK, CITY OF | 48303C0410D | 07-APR-2004 | 04-06-1133A | 01
06 | TX | LUBBOCK, CITY OF | 48303C0290D | 31-MAR-2004 | 04-06-1137A | 02
06 | TX | LUBBOCK, CITY OF | 48303C0290D | 30-APR-2004 | 04-06-1161A | 02
06 | TX | LUBBOCK, CITY OF | 48303C0280D | 23-JUN-2004 | 04-06-1244A | 02
06 | TX | LUBBOCK, CITY OF | 48303C0295D | 07-APR-2004 | 04-06-1248A | 01
06 | TX | LUBBOCK, CITY OF | 48303C0290D | 09-APR-2004 | 04-06-1258A | 02
06 | TX | LUBBOCK, CITY OF | 48303C0290D | 07-APR-2004 | 04-06-1259A | 02
06 | TX | LUBBOCK, CITY OF | 48303C0285D | 16-APR-2004 | 04-06-1266A | 02
06 | TX | LUBBOCK, CITY OF | 48303C0305D | 30-APR-2004 | 04-06-1305A | 02
06 | TX | LUBBOCK, CITY OF | 48303C0295D | 21-APR-2004 | 04-06-1386A | 02
06 | TX | LUBBOCK, CITY OF | 48303C0295D | 12-MAY-2004 | 04-06-1450A | 02
06 | TX | LUBBOCK, CITY OF | 48303C0295D | 12-MAY-2004 | 04-06-1510A | 02
06 | TX | LUBBOCK, CITY OF | 48303C0295D | 12-MAY-2004 | 04-06-1513A | 02
06 | TX | LUBBOCK, CITY OF | 48303C0295D | 19-MAY-2004 | 04-06-1514A | 02
06 | TX | LUBBOCK, CITY OF | 48303C0275D | 18-FEB-2004 | 04-06-151A | 02
06 | TX | LUBBOCK, CITY OF | 48303C0290D | 26-MAY-2004 | 04-06-1523A | 02
06 | TX | LUBBOCK, CITY OF | 48303C0295D | 04-JUN-2004 | 04-06-1529A | 02
06 | TX | LUBBOCK, CITY OF | 48303C0290D | 28-MAY-2004 | 04-06-1543A | 02
06 | TX | LUBBOCK, CITY OF | 48303C0295D | 14-MAY-2004 | 04-06-1585A | 02
06 | TX | LUBBOCK, CITY OF | 48303C0295D | 28-MAY-2004 | 04-06-1658A | 02
06 | TX | LUBBOCK, CITY OF | 48303C0290D | 14-JUN-2004 | 04-06-1662A | 02
06 | TX | LUBBOCK, CITY OF | 48303C0290D | 14-JUN-2004 | 04-06-1671A | 02
06 | TX | LUBBOCK, CITY OF | 48303C0295D | 23-JUN-2004 | 04-06-1761A | 02
06 | TX | LUBBOCK, CITY OF | 48303C0295D | 07-JUL-2004 | 04-06-1781A | 02
06 | TX | LUBBOCK, CITY OF | 48303C0285D | 14-JUL-2004 | 04-06-1871A | 01
06 | TX | LUBBOCK, CITY OF | 48303C0290D | 02-JUL-2004 | 04-06-1931A | 02
06 | TX | LUBBOCK, CITY OF | 48303C0290D | 28-JUL-2004 | 04-06-1937A | 02
06 | TX | LUBBOCK, CITY OF | 48303C0290D | 30-JUL-2004 | 04-06-1955A | 02
06 | TX | LUBBOCK, CITY OF | 48303C0290D | 28-JUL-2004 | 04-06-1978A | 02
06 | TX | LUBBOCK, CITY OF | 48303C0295D | 07-JAN-2004 | 04-06-577A | 02
06 | TX | LUBBOCK, CITY OF | 48303C0280D | 07-JAN-2004 | 04-06-597A | 02
06 | TX | LUBBOCK, CITY OF | 48303C0295D | 21-JAN-2004 | 04-06-637A | 01
06 | TX | LUBBOCK, CITY OF | 48303C0290D | 28-JAN-2004 | 04-06-689A | 01
06 | TX | LUBBOCK, CITY OF | 48303C0315D | 04-FEB-2004 | 04-06-811A | 02
06 | TX | LUBBOCK, CITY OF | 48303C0285D | 17-MAR-2004 | 04-06-822A | 01
06 | TX | LUBBOCK, CITY OF | 48303C0290D | 27-FEB-2004 | 04-06-839A | 02
06 | TX | LUBBOCK, CITY OF | 48303C0290D | 25-FEB-2004 | 04-06-927A | 02
06 | TX | LUCAS, CITY OF | 48085C0455G | 06-FEB-2004 | 04-06-612A | 02
06 | TX | MANSFIELD, CITY OF | 48439C0590H | 04-JUN-2004 | 04-06-1078A | 01
06 | TX | MANSFIELD, CITY OF | 48439C0557H | 19-MAY-2004 | 04-06-1355A | 01
06 | TX | MARTINDALE, TOWN OF | 4815870005D | 24-MAR-2004 | 04-06-1135A | 02
06 | TX | MARTINDALE, TOWN OF | 4815870005D | 26-MAY-2004 | 04-06-1304A | 02
06 | TX | MCKINNEY, CITY OF | 48085C0285G | 19-MAY-2004 | 03-06-2322P | 05
06 | TX | MCKINNEY, CITY OF | 48085C0305G | 28-JUL-2004 | 04-06-1687A | 02
06 | TX | MCKINNEY, CITY OF | 48085C0285G | 10-MAY-2004 | 04-06-658P | 06
06 | TX | MEADOWLAKES, CITY OF | 48053C0312D | 10-MAR-2004 | 04-06-1000A | 02
06 | TX | MEDINA COUNTY | 4804720325B | 02-JUN-2004 | 04-06-1158A | 02
06 | TX | MENARD COUNTY | 4812380144A | 28-APR-2004 | 04-06-1027A | 02
06 | TX | MESQUITE, CITY OF | 48113C0530J | 29-JAN-2004 | 03-06-1221P | 05
06 | TX | MESQUITE, CITY OF | 48113C0370J | 21-JAN-2004 | 03-06-1529P | 05
06 | TX | MESQUITE, CITY OF | 48113C0390J | 21-JAN-2004 | 03-06-1529P | 05
06 | TX | MESQUITE, CITY OF | 48113C0380K | 29-APR-2004 | 03-06-1750P | 05
06 | TX | MESQUITE, CITY OF | 48113C0530J | 10-JUN-2004 | 03-06-2692P | 05
06 | TX | MESQUITE, CITY OF | 48113C0370J | 14-APR-2004 | 03-06-700P | 05
06 | TX | MESQUITE, CITY OF | 48113C0390J | 14-APR-2004 | 03-06-700P | 05
06 | TX | MESQUITE, CITY OF | 48113C0530J | 11-FEB-2004 | 04-06-680A | 02
06 | TX | MESQUITE, CITY OF | 48113C0530J | 03-MAR-2004 | 04-06-767A | 02
06 | TX | MIDLAND COUNTY | 48329C0044E | 16-JUN-2004 | 04-06-1677A | 02
06 | TX | MIDLAND COUNTY | 48329C0044E | 16-JUN-2004 | 04-06-1711A | 02
06 | TX | MIDLAND, CITY OF | 48329C0088E | 24-MAR-2004 | 04-06-1138A | 02
06 | TX | MIDLAND, CITY OF | 48329C0088E | 24-MAR-2004 | 04-06-1139A | 02
06 | TX | MIDLAND, CITY OF | 48329C0086E | 30-APR-2004 | 04-06-1420A | 01
06 | TX | MIDLAND, CITY OF | 48329C0088E | 28-MAY-2004 | 04-06-1528A | 02
06 | TX | MIDLAND, CITY OF | 48329C0089E | 18-JUN-2004 | 04-06-1653A | 02
06 | TX | MIDLAND, CITY OF | 48329C0088E | 02-JUL-2004 | 04-06-1825A | 02
06 | TX | MIDLAND, CITY OF | 48329C0087E | 04-FEB-2004 | 04-06-681A | 02
06 | TX | MIDLAND, CITY OF | 48329C0069E | 23-JAN-2004 | 04-06-699A | 02
06 | TX | MINEOLA, CITY OF | 480679_02A | 28-JUL-2004 | 04-06-1589A | 02
06 | TX | MINEOLA, CITY OF | 480679_02A | 14-APR-2004 | 04-06-843A | 02
06 | TX | MONTAGUE COUNTY | 48337C0260C | 13-FEB-2004 | 04-06-740A | 02
06 | TX | MONTGOMERY COUNTY | 48339C0515F | 12-MAY-2004 | 04-06-1118A | 02
06 | TX | MONTGOMERY COUNTY | 48339C0215F | 02-APR-2004 | 04-06-1168A | 02
06 | TX | MONTGOMERY COUNTY | 48339C0195F | 14-JUL-2004 | 04-06-1635A | 02
06 | TX | MONTGOMERY COUNTY | 48339C0415F | 09-JUL-2004 | 04-06-1714A | 02
06 | TX | MONTGOMERY COUNTY | 48339C0388F | 31-MAR-2004 | 04-06-840A | 02
06 | TX | MONTGOMERY COUNTY | 48339C0510F | 12-MAR-2004 | 04-06-885A | 02
06 | TX | MONTGOMERY COUNTY | 48339C0685F | 07-JUL-2004 | 04-06-925A | 02
06 | TX | NAVARRO COUNTY | 4809500001A | 20-APR-2004 | 04-06-1195P | 06
06 | TX | NAVARRO COUNTY | 4809500005A | 20-APR-2004 | 04-06-1195P | 06
06 | TX | NAVARRO COUNTY | 4809500009A | 20-APR-2004 | 04-06-1195P | 06
06 | TX | NORTH RICHLAND HILLS, CITY OF | 48439C0301H | 30-MAR-2004 | 04-06-564P | 06
06 | TX | NUECES COUNTY | 4854940520D | 23-JUL-2004 | 04-06-1682A | 02
06 | TX | OAK RIDGE NORTH, CITY OF | 48339C0539G | 21-JUL-2004 | 04-06-1633A | 02
06 | TX | ODESSA, CITY OF | 48135C0170D | 09-JAN-2004 | 03-06-2808A | 02
06 | TX | ODESSA, CITY OF | 48135C0170D | 28-JUL-2004 | 04-06-1992A | 02
06 | TX | ODESSA, CITY OF | 48135C0170D | 04-FEB-2004 | 04-06-484A | 01
06 | TX | ODESSA, CITY OF | 48135C0170D | 09-APR-2004 | 04-06-999A | 01
06 | TX | OLNEY, CITY OF | 48503C0040D | 16-APR-2004 | 04-06-1325A | 02
06 | TX | PALO PINTO COUNTY | 4805160100A | 07-JUL-2004 | 04-06-1884A | 02
06 | TX | PALO PINTO COUNTY | 4805160200A | 05-MAR-2004 | 04-06-876A | 02
06 | TX | PARKER COUNTY | 4805200250B | 19-MAR-2004 | 04-06-456A | 02
06 | TX | PARKER COUNTY | 4805200275B | 09-JAN-2004 | 04-06-628A | 02
06 | TX | PARKER, CITY OF | 48085C0435G | 25-FEB-2004 | 04-06-844A | 02
06 | TX | PASADENA, CITY OF | 48201C0940J | 17-FEB-2004 | 03-06-1531P | 05
06 | TX | PEARLAND, CITY OF | 48039C0040I | 11-FEB-2004 | 04-06-217A | 01
06 | TX | PEARLAND, CITY OF | 48039C0045J | 21-JAN-2004 | 04-06-506A | 01
06 | TX | PEARLAND, CITY OF | 48039C0035I | 12-MAR-2004 | 04-06-582A | 01
06 | TX | PEARLAND, CITY OF | 48039C0010I | 11-FEB-2004 | 04-06-629A | 02
06 | TX | PFLUGERVILLE, CITY OF | 48453C0075E | 23-JUL-2004 | 04-06-1945A | 02
06 | TX | PLANO, CITY OF | 48085C0430G | 04-FEB-2004 | 03-06-407P | 05
06 | TX | PLANO, CITY OF | 48085C0445G | 09-APR-2004 | 04-06-1286A | 02
06 | TX | PLANO, CITY OF | 48085C0420G | 16-APR-2004 | 04-06-1319A | 02
06 | TX | PLANO, CITY OF | 48085C0445G | 23-JUN-2004 | 04-06-1683A | 02
06 | TX | PLANO, CITY OF | 48085C0410G | 28-JUL-2004 | 04-06-1699A | 02
06 | TX | PLANO, CITY OF | 48085C0410G | 28-JUL-2004 | 04-06-1706A | 02
06 | TX | PLANO, CITY OF | 48085C0440G | 30-JUN-2004 | 04-06-1717A | 02
06 | TX | PLANO, CITY OF | 48085C0420G | 25-FEB-2004 | 04-06-630A | 17
06 | TX | PLANO, CITY OF | 48085C0440G | 18-FEB-2004 | 04-06-790A | 02
06 | TX | PLANO, CITY OF | 48085C0420G | 17-MAR-2004 | 04-06-953A | 02
06 | TX | POLK COUNTY | 4805260009B | 30-JUL-2004 | 04-06-2002A | 02
06 | TX | RANDALL COUNTY | 4805320115B | 30-JUN-2004 | 04-06-1524A | 02
06 | TX | RANDALL COUNTY | 4805320180B | 30-JUN-2004 | 04-06-1524A | 02
06 | TX | RANSOM CANYON, TOWN OF | 48303C0339D | 16-APR-2004 | 04-06-1318A | 02
06 | TX | RANSOM CANYON, TOWN OF | 48303C0343D | 04-JUN-2004 | 04-06-1488A | 02
06 | TX | RICHARDSON, CITY OF | 48113C0205J | 26-MAR-2004 | 04-06-1042A | 02
06 | TX | RICHARDSON, CITY OF | 48113C0205J | 14-APR-2004 | 04-06-1315A | 02
06 | TX | RICHARDSON, CITY OF | 48113C0185J | 21-JAN-2004 | 04-06-547A | 02
06 | TX | RICHARDSON, CITY OF | 48113C0205J | 13-FEB-2004 | 04-06-636A | 17
06 | TX | RICHLAND HILLS, CITY OF | 48439C0303H | 20-JUL-2004 | 03-06-848P | 05
06 | TX | RICHLAND HILLS, CITY OF | 48439C0311J | 20-JUL-2004 | 03-06-848P | 05
06 | TX | ROCKWALL COUNTY | 4805430035B | 16-APR-2004 | 04-06-1274A | 02
06 | TX | ROCKWALL, CITY OF | 4805470005C | 17-MAR-2004 | 04-06-014A | 02
06 | TX | ROCKWALL, CITY OF | 4805430045B | 28-MAY-2004 | 04-06-037P | 06
06 | TX | ROCKWALL, CITY OF | 4805470005C | 28-MAY-2004 | 04-06-037P | 06
06 | TX | ROCKWALL, CITY OF | 4805470005C | 23-APR-2004 | 04-06-1317A | 02
06 | TX | ROCKWALL, CITY OF | 4805470005C | 16-APR-2004 | 04-06-1330A | 02
06 | TX | ROCKWALL, CITY OF | 4805470005C | 14-MAY-2004 | 04-06-1502A | 02
06 | TX | ROCKWALL, CITY OF | 4805470005C | 04-JUN-2004 | 04-06-1564A | 02
06 | TX | ROCKWALL, CITY OF | 4805470005C | 30-JUN-2004 | 04-06-1783A | 02
06 | TX | ROCKWALL, CITY OF | 4805470005C | 14-JUL-2004 | 04-06-1850A | 02
06 | TX | ROCKWALL, CITY OF | 4805470005C | 17-MAR-2004 | 04-06-641A | 02
06 | TX | ROUND ROCK, CITY OF | 48491C0240C | 12-MAY-2004 | 04-06-1058A | 02
06 | TX | SACHSE, CITY OF | 48113C0230J | 14-APR-2004 | 03-06-2321P | 05
06 | TX | SACHSE, CITY OF | 48113C0235J | 17-FEB-2004 | 03-06-2327P | 05
06 | TX | SACHSE, CITY OF | 48113C0230J | 12-MAY-2004 | 04-06-668A | 02
06 | TX | SAGINAW, CITY OF | 48439C0260H | 02-APR-2004 | 04-06-1122A | 01
06 | TX | SAGINAW, CITY OF | 48439C0260H | 28-MAY-2004 | 04-06-1411A | 01
06 | TX | SAGINAW, CITY OF | 48439C0165H | 23-JUN-2004 | 04-06-864P | 05
06 | TX | SAN ANTONIO, CITY OF | 48029C0267F | 27-MAY-2004 | 03-06-1201P | 05
06 | TX | SAN ANTONIO, CITY OF | 48029C0284F | 14-JUN-2004 | 03-06-2527P | 06
06 | TX | SAN ANTONIO, CITY OF | 48029C0582E | 29-MAR-2004 | 03-06-2536P | 06
06 | TX | SAN ANTONIO, CITY OF | 48029C0286F | 30-JUN-2004 | 04-06-031P | 05
06 | TX | SAN ANTONIO, CITY OF | 48029C0243F | 02-APR-2004 | 04-06-1087A | 02
06 | TX | SAN ANTONIO, CITY OF | 48029C0243F | 19-MAR-2004 | 04-06-1154A | 02
06 | TX | SAN ANTONIO, CITY OF | 48029C0476E | 29-JUN-2004 | 04-06-1178P | 06
06 | TX | SAN ANTONIO, CITY OF | 48029C0283F | 02-APR-2004 | 04-06-1251A | 02
06 | TX | SAN ANTONIO, CITY OF | 48029C0140F | 09-JUN-2004 | 04-06-1255A | 02
06 | TX | SAN ANTONIO, CITY OF | 48029C0243F | 14-APR-2004 | 04-06-1365A | 02
06 | TX | SAN ANTONIO, CITY OF | 48029C0257F | 09-JUL-2004 | 04-06-1833A | 02
06 | TX | SAN ANTONIO, CITY OF | 48029C0140F | 29-MAR-2004 | 04-06-385P | 06
06 | TX | SAN ANTONIO, CITY OF | 48029C0145F | 01-MAR-2004 | 04-06-554P | 06
06 | TX | SAN ANTONIO, CITY OF | 48029C0281F | 01-MAR-2004 | 04-06-554P | 06
06 | TX | SAN ANTONIO, CITY OF | 48029C0242F | 14-JAN-2004 | 04-06-609A | 02
06 | TX | SAN ANTONIO, CITY OF | 48029C0243F | 12-MAR-2004 | 04-06-648A | 02
06 | TX | SAN ANTONIO, CITY OF | 48029C0243F | 12-MAR-2004 | 04-06-877A | 02
06 | TX | SAN ANTONIO, CITY OF | 48029C0243F | 12-MAR-2004 | 04-06-878A | 02
06 | TX | SAN BENITO, CITY OF | 4801130005B | 26-MAR-2004 | 04-06-949A | 02
06 | TX | SELMA, CITY OF | 48029C0304E | 23-APR-2004 | 04-06-1173A | 02
06 | TX | SHERMAN, CITY OF | 48181C0135E | 18-JUN-2004 | 04-06-1159A | 17
06 | TX | SHERMAN, CITY OF | 48181C0135E | 16-JUL-2004 | 04-06-1977X | 17
06 | TX | SLATON, CITY OF | 48303C0470D | 18-JUN-2004 | 04-06-1238A | 01
06 | TX | SMITH COUNTY | 4811850330B | 30-APR-2004 | 04-06-1149A | 02
06 | TX | SMITH COUNTY | 4811850335B | 28-JUL-2004 | 04-06-1426A | 02
06 | TX | SMITH COUNTY | 4811850340B | 28-JUL-2004 | 04-06-1663A | 02
06 | TX | SMITH COUNTY | 4811850330B | 18-FEB-2004 | 04-06-758A | 02
06 | TX | SOUTH LAKE, CITY OF | 48439C0195H | 26-MAY-2004 | 03-06-2693P | 06
06 | TX | SOUTH LAKE, CITY OF | 48439C0205H | 16-JUN-2004 | 04-06-866P | 05
06 | TX | STEPHENS COUNTY | 48429C0075C | 14-APR-2004 | 04-06-905A | 02
06 | TX | SUNNYVALE, TOWN OF | 48113C0390J | 30-MAR-2004 | 04-06-566P | 05
06 | TX | SUNSET VALLEY, CITY OF | 48453C0210F | 04-JUN-2004 | 04-06-1674A | 02
06 | TX | TARRANT COUNTY | 48439C0117H | 07-MAY-2004 | 04-06-1398A | 02
06 | TX | TARRANT COUNTY | 48439C0440J | 02-JUL-2004 | 04-06-1596A | 02
06 | TX | TARRANT COUNTY | 48439C0140H | 28-JAN-2004 | 04-06-731A | 02
06 | TX | TEMPLE, CITY OF | 4800340009C | 13-APR-2004 | 02-06-2439P | 05
06 | TX | TEMPLE, CITY OF | 4800340010C | 13-APR-2004 | 02-06-2439P | 05
06 | TX | TEMPLE, CITY OF | 4807060230B | 13-APR-2004 | 02-06-2439P | 05
06 | TX | TEXARKANA, CITY OF | 4800600005B | 14-APR-2004 | 04-06-1296A | 02
06 | TX | TEXAS CITY, CITY OF | 4855140025C | 28-MAY-2004 | 04-06-1435A | 02
06 | TX | TOOL, CITY OF | 48213C0040D | 14-JAN-2004 | 04-06-616A | 02
06 | TX | TRAVIS COUNTY | 48453C0135F | 30-JAN-2004 | 03-06-2913C | 01
06 | TX | TRAVIS COUNTY | 48453C0200E | 02-APR-2004 | 04-06-1110A | 02
06 | TX | TRAVIS COUNTY | 48453C0135F | 22-JUL-2004 | 04-06-1218P | 06
06 | TX | TRAVIS COUNTY | 48453C0250E | 23-JUL-2004 | 04-06-1784A | 02
06 | TX | TYLER, CITY OF | 4805710015B | 28-JAN-2004 | 04-06-329A | 02
06 | TX | TYLER, CITY OF | 4805710015B | 23-JAN-2004 | 04-06-417A | 02
06 | TX | UNIVERSAL CITY, CITY OF | 48029C0316E | 21-APR-2004 | 04-06-759A | 17
06 | TX | UNIVERSITY PARK, CITY OF | 48113C0335J | 14-JUL-2004 | 04-06-1778A | 02
06 | TX | UVALDE, CITY OF | 4806300004D | 02-APR-2004 | 04-06-1047A | 02
06 | TX | UVALDE, CITY OF | 4806300002D | 11-FEB-2004 | 04-06-452A | 17
06 | TX | VERNON, CITY OF | 4816520005B | 21-JAN-2004 | 04-06-588A | 02
06 | TX | VICTORIA, CITY OF | 4806380005G | 14-JUN-2004 | 04-06-1707A | 02
06 | TX | VICTORIA, CITY OF | 4806380005G | 13-FEB-2004 | 04-06-807A | 02
06 | TX | WALKER COUNTY | 4810420007C | 26-MAY-2004 | 04-06-1566A | 02
06 | TX | WALKER COUNTY | 4810420007C | 09-JAN-2004 | 04-06-324A | 02
06 | TX | WALKER COUNTY | 4810420011B | 20-FEB-2004 | 04-06-813A | 02
06 | TX | WATAUGA, CITY OF | 48439C0301H | 05-MAY-2004 | 04-06-1439A | 02
06 | TX | WATAUGA, CITY OF | 48439C0282H | 18-FEB-2004 | 04-06-826A | 02
06 | TX | WEATHERFORD, CITY OF | 4805220005D | 14-MAY-2004 | 04-06-1400A | 02
06 | TX | WHARTON, CITY OF | 4806520210C | 14-JAN-2004 | 04-06-507A | 01
06 | TX | WHITE SETTLEMENT, CITY OF | 48439C0380H | 14-MAY-2004 | 03-06-2529P | 05
06 | TX | WICHITA COUNTY | 4811890160B | 21-JUL-2004 | 04-06-1962A | 02
06 | TX | WICHITA FALLS, CITY OF | 4806620025E | 07-MAY-2004 | 04-06-1388A | 02
06 | TX | WILLIAMSON COUNTY | 48491C0250C | 18-JUN-2004 | 04-06-882A | 17
06 | TX | WILLIAMSON COUNTY | 48491C0306C | 23-JUL-2004 | 04-06-980A | 01
06 | TX | WOOD COUNTY | 4810550005A | 12-MAY-2004 | 04-06-1029A | 02
06 | TX | WYLIE, CITY OF | 48085C0585G | 17-FEB-2004 | 03-06-2327P | 06
06 | TX | WYLIE, CITY OF | 48085C0465H | 22-JUL-2004 | 04-06-1010P | 06
06 | TX | WYLIE, CITY OF | 48085C0470G | 14-JUL-2004 | 04-06-1381A | 02
06 | TX | WYLIE, CITY OF | 48085C0470G | 30-JUN-2004 | 04-06-1527A | 01
06 | TX | WYLIE, CITY OF | 48085C0585G | 30-JUN-2004 | 04-06-1527A | 01
07 | IA | AMES, CITY OF | 1902540004B | 15-JUL-2004 | 03-07-892P | 05
07 | IA | AMES, CITY OF | 1909070065B | 15-JUL-2004 | 03-07-892P | 05
07 | IA | AMES, CITY OF | 1902540005B | 11-FEB-2004 | 04-07-055A | 01
07 | IA | AMES, CITY OF | 1902540008C | 11-FEB-2004 | 04-07-055A | 01
07 | IA | ANKENY, CITY OF | 1902260003C | 09-JUN-2004 | 04-07-A083A | 02
07 | IA | ANKENY, CITY OF | 1909010050B | 27-JUL-2004 | 03-07-499P | 05
07 | IA | ATLANTIC, CITY OF | 1900490005B | 05-MAY-2004 | 04-07-596A | 02
07 | IA | BETTENDORF, CITY OF | 1902400003C | 17-JUN-2004 | 04-07-A117A | 02
07 | IA | BETTENDORF, CITY OF | 1902400004D | 24-MAR-2004 | 04-07-351A | 02
07 | IA | BETTENDORF, CITY OF | 1902400003C | 19-MAR-2004 | 04-07-361A | 01
07 | IA | BETTENDORF, CITY OF | 1902400004D | 05-MAY-2004 | 04-07-561A | 02
07 | IA | BLACK HAWK COUNTY | 1905350045B | 17-JUN-2004 | 04-07-A004A | 02
07 | IA | BLACK HAWK COUNTY | 1905350065B | 09-JAN-2004 | 04-07-296A | 02
07 | IA | BLACK HAWK COUNTY | 1905350065B | 11-FEB-2004 | 04-07-297A | 02
07 | IA | BLACK HAWK COUNTY | 1905350045B | 13-FEB-2004 | 04-07-411A | 02
07 | IA | BONDURANT, CITY OF | 190707_01A | 03-MAR-2004 | 04-07-415A | 01
07 | IA | BREMER COUNTY | 19017C0055C | 14-JAN-2004 | 04-07-278A | 02
07 | IA | BUCHANAN COUNTY | 1908480175C | 14-JAN-2004 | 04-07-310A | 02
07 | IA | BUFFALO, CITY OF | 1902410003B | 28-JAN-2004 | 04-07-365A | 02
07 | IA | CAMANCHE, CITY OF | 1900860005B | 30-APR-2004 | 04-07-A028A | 02
07 | IA | CEDAR FALLS, CITY OF | 1900170006B | 16-APR-2004 | 04-07-A005A | 02
07 | IA | CEDAR FALLS, CITY OF | 1900170006B | 21-JAN-2004 | 04-07-211A | 02
07 | IA | CEDAR FALLS, CITY OF | 1900170004B | 18-FEB-2004 | 04-07-343A | 01
07 | IA | CEDAR FALLS, CITY OF | 1900170006B | 23-JAN-2004 | 04-07-375A | 02
07 | IA | CEDAR FALLS, CITY OF | 1900170002B | 28-JAN-2004 | 04-07-381A | 02
07 | IA | CLEAR LAKE, CITY OF | 1900590003B | 21-JAN-2004 | 04-07-379A | 02
07 | IA | CLINTON COUNTY | 190859_21B | 02-JUN-2004 | 04-07-659A | 02
07 | IA | CLINTON, CITY OF | 1900880015C | 21-JAN-2004 | 04-07-309A | 02
07 | IA | CLINTON, CITY OF | 1900880005B | 09-APR-2004 | 04-07-590A | 01
07 | IA | CLIVE, CITY OF | 1904880005C | 21-MAY-2004 | 04-07-A103A | 02
07 | IA | CLIVE, CITY OF | 1904880005C | 18-JUN-2004 | 04-07-A136A | 02
07 | IA | CLIVE, CITY OF | 1904880005C | 18-FEB-2004 | 04-07-352A | 17
07 | IA | CLIVE, CITY OF | 1904880005C | 21-APR-2004 | 04-07-422A | 01
07 | IA | CORALVILLE, CITY OF | 19103C0070D | 13-FEB-2004 | 03-07-105P | 06
07 | IA | CORALVILLE, CITY OF | 19103C0090D | 13-FEB-2004 | 03-07-105P | 06
07 | IA | CORALVILLE, CITY OF | 19103C0090D | 09-JAN-2004 | 04-07-321A | 02
07 | IA | COUNCIL BLUFFS, CITY OF | 1902350005D | 10-MAR-2004 | 04-07-515A | 02
07 | IA | COUNCIL BLUFFS, CITY OF | 1902350010C | 05-MAY-2004 | 04-07-637A | 01
07 | IA | CRESCENT, CITY OF | 1907230001A | 28-JAN-2004 | 04-07-145A | 02
07 | IA | DALLAS COUNTY | 19049C0075D | 30-JAN-2004 | 04-07-370A | 02
07 | IA | DAVENPORT, CITY OF | 1902420003B | 30-JUN-2004 | 03-07-888P | 05
07 | IA | DAVENPORT, CITY OF | 1902420006B | 10-MAR-2004 | 04-07-520A | 02
07 | IA | DAVENPORT, CITY OF | 1902420005B | 02-JUN-2004 | 04-07-654A | 02
07 | IA | DES MOINES, CITY OF | 1902270003D | 12-MAR-2004 | 04-07-158A | 02
07 | IA | DES MOINES, CITY OF | 19181C0010D | 04-FEB-2004 | 04-07-160A | 01
07 | IA | DES MOINES, CITY OF | 19181C0030D | 04-FEB-2004 | 04-07-160A | 01
07 | IA | DICKINSON COUNTY | 1908640050C | 16-JAN-2004 | 04-07-366A | 02
07 | IA | FARMINGTON, CITY OF | 190267_01B | 23-APR-2004 | 04-07-446A | 02
07 | IA | FLOYD COUNTY | 190127_25B | 28-JAN-2004 | 04-07-359A | 02
07 | IA | GRANGER, CITY OF | 19049C0069D | 31-MAR-2004 | 04-07-282A | 02
07 | IA | GRANGER, CITY OF | 19049C0069D | 14-JUN-2004 | 04-07-538P | 05
07 | IA | GRIMES, CITY OF | 1902280001B | 07-JAN-2004 | 04-07-315A | 02
07 | IA | GRIMES, CITY OF | 1902280001B | 26-MAR-2004 | 04-07-447A | 02
07 | IA | HOLLAND, CITY OF | 190404_01A | 18-FEB-2004 | 04-07-059A | 02
07 | IA | HUMBOLDT, CITY OF | 1901550005B | 09-JAN-2004 | 04-07-302A | 02
07 | IA | IOWA CITY, CITY OF | 19103C0090D | 13-FEB-2004 | 04-07-442A | 02
07 | IA | IOWA CITY, CITY OF | 19103C0090D | 12-MAR-2004 | 04-07-517A | 02
07 | IA | JOHNSON COUNTY | 19103C0090D | 06-MAY-2004 | 04-07-A043A | 02
07 | IA | JOHNSON COUNTY | 19103C0066D | 23-APR-2004 | 04-07-579A | 02
07 | IA | LINN COUNTY | 1908290045B | 07-JAN-2004 | 04-07-239A | 02
07 | IA | MANCHESTER, CITY OF | 1901120002B | 28-MAY-2004 | 04-07-A076A | 02
07 | IA | MANCHESTER, CITY OF | 1901120001B | 21-JAN-2004 | 04-07-226A | 02
07 | IA | MARION, CITY OF | 1908290070B | 14-JAN-2004 | 04-07-173A | 01
07 | IA | MISSOURI VALLEY, CITY OF | 1901470001B | 28-JAN-2004 | 04-07-339A | 01
07 | IA | MUSCATINE COUNTY | 1908360050B | 19-MAR-2004 | 04-07-367A | 02
07 | IA | NORTH LIBERTY, CITY OF | 19103C0060D | 21-MAY-2004 | 04-07-568A | 01
07 | IA | NORWALK, CITY OF | 19181C0010D | 10-MAR-2004 | 04-07-525A | 02
07 | IA | POLK, CITY OF | 1909010025B | 30-JAN-2004 | 04-07-197A | 01
07 | IA | SHEFFIELD, CITY OF | 190132_01B | 21-JAN-2004 | 04-07-013A | 01
07 | IA | SIOUX CITY, CITY OF | 1902980016A | 03-MAR-2004 | 04-07-460A | 02
07 | IA | SPENCER, CITY OF | 1900710005B | 06-MAY-2004 | 04-07-A050A | 02
07 | IA | SPENCER, CITY OF | 1900710005B | 03-MAR-2004 | 04-07-360A | 01
07 | IA | SPENCER, CITY OF | 1900710005B | 27-FEB-2004 | 04-07-502A | 02
07 | IA | SPENCER, CITY OF | 1900710005B | 28-APR-2004 | 04-07-635A | 01
07 | IA | STORY COUNTY | 1909070065B | 01-JUL-2004 | 04-07-046P | 05
07 | IA | SWISHER, CITY OF | 19103C0016D | 14-APR-2004 | 04-07-507A | 02
07 | IA | SWISHER, CITY OF | 19103C0016D | 26-MAY-2004 | 04-07-688A | 02
07 | IA | VINTON, CITY OF | 1900160005B | 26-MAY-2004 | 04-07-A108A | 02
07 | IA | VOLGA, CITY OF | 190085_01B | 09-APR-2004 | 04-07-631A | 02
07 | IA | WATERLOO, CITY OF | 1900250015E | 05-MAY-2004 | 04-07-344A | 02
07 | IA | WATERLOO, CITY OF | 1900250015E | 07-APR-2004 | 04-07-483A | 02
07 | IA | WATERLOO, CITY OF | 1900250005E | 17-MAR-2004 | 04-07-559A | 02
07 | IA | WATERLOO, CITY OF | 1900250015E | 17-MAR-2004 | 04-07-559A | 02
07 | IA | WATERLOO, CITY OF | 1900250016E | 17-MAR-2004 | 04-07-560A | 02
07 | IA | WATERLOO, CITY OF | 1900250005E | 30-JUN-2004 | 04-07-580A | 17
07 | IA | WATERLOO, CITY OF | 1900250015E | 02-APR-2004 | 04-07-644A | 02
07 | IA | WAVERLY, CITY OF | 19017C0054C | 07-JAN-2004 | 04-07-340A | 02
07 | IA | WAVERLY, CITY OF | 19017C0054C | 30-APR-2004 | 04-07-672A | 02
07 | IA | WELLMAN, CITY OF | 1902760001A | 30-JUL-2004 | 04-07-682A | 02
07 | KS | ALLEN COUNTY | 20001C0085D | 09-JAN-2004 | 04-07-217A | 01
07 | KS | ATCHISON, CITY OF | 2000100001B | 13-FEB-2004 | 04-07-412A | 02
07 | KS | BELLE PLAINE, CITY OF | 20191C0120B | 25-FEB-2004 | 04-07-464A | 02
07 | KS | BOURBON COUNTY | 2000220006B | 04-FEB-2004 | 04-07-250A | 02
07 | KS | BUTLER COUNTY | 2000370160C | 28-MAY-2004 | 04-07-A056A | 02
07 | KS | CHANUTE, CITY OF | 2002410005C | 24-FEB-2004 | 04-07-267A | 02
07 | KS | CHEROKEE COUNTY | 2000440300B | 10-MAR-2004 | 04-07-051A | 02
07 | KS | COWLEY COUNTY | 2005630235B | 25-FEB-2004 | 04-07-378A | 02
07 | KS | DICKINSON COUNTY | 20041C0209C | 30-JAN-2004 | 04-07-255A | 02
07 | KS | DICKINSON COUNTY | 20041C0070C | 28-JAN-2004 | 04-07-396A | 02
07 | KS | DOUGLAS COUNTY | 20045C0080C | 06-MAY-2004 | 04-07-A027A | 02
07 | KS | DOUGLAS COUNTY | 20045C0070C | 07-JAN-2004 | 03-07-1410A | 01
07 | KS | ELLSWORTH, CITY OF | 2000980001B | 11-FEB-2004 | 04-07-437A | 02
07 | KS | FRANKLIN COUNTY | 2005650050B | 30-JUN-2004 | 04-07-457A | 02
07 | KS | GARDEN PLAIN, CITY OF | 2003210175A | 10-MAR-2004 | 04-07-553A | 02
07 | KS | HARVEY COUNTY | 2005850125D | 11-FEB-2004 | 04-07-185A | 02
07 | KS | HOISINGTON, CITY OF | 2000200001C | 13-FEB-2004 | 04-07-371A | 02
07 | KS | HOISINGTON, CITY OF | 2000200001C | 10-MAR-2004 | 04-07-508A | 02
07 | KS | HUTCHINSON, CITY OF | 20155C0285D | 26-MAY-2004 | 04-07-A071A | 01
07 | KS | HUTCHINSON, CITY OF | 20155C0285D | 13-FEB-2004 | 04-07-430A | 02
07 | KS | JEFFERSON COUNTY | 2001470125C | 14-JUN-2004 | 04-07-417A | 02
07 | KS | JEFFERSON COUNTY | 2001470075B | 10-MAR-2004 | 04-07-462A | 02
07 | KS | JEFFERSON COUNTY | 2001470075B | 14-MAY-2004 | 04-07-670A | 02
07 | KS | JOHNSON COUNTY | 20091C0208F | 28-MAY-2004 | 04-07-A098A | 02
07 | KS | JUNCTION CITY, CITY OF | 2001120005C | 16-JAN-2004 | 04-07-294A | 02
07 | KS | KINGMAN COUNTY | 2005890006B | 02-APR-2004 | 04-07-571A | 02
07 | KS | LABETTE COUNTY | 2005900005B | 21-APR-2004 | 04-07-657A | 02
07 | KS | LAWRENCE, CITY OF | 20045C0036C | 17-JUN-2004 | 04-07-A130A | 02
07 | KS | LAWRENCE, CITY OF | 20045C0019C | 13-FEB-2004 | 03-07-1276P | 05
07 | KS | LAWRENCE, CITY OF | 20045C0060C | 13-FEB-2004 | 03-07-1276P | 05
07 | KS | LEAVENWORTH COUNTY | 2001860125D | 07-APR-2004 | 04-07-516A | 02
07 | KS | LEAWOOD, CITY OF | 20091C0217F | 04-FEB-2004 | 04-07-317A | 01
07 | KS | MANHATTAN, CITY OF | 20161C0353E | 19-MAY-2004 | 04-07-A059A | 02
07 | KS | MANHATTAN, CITY OF | 20161C0353E | 21-MAY-2004 | 04-07-A068A | 02
07 | KS | MANHATTAN, CITY OF | 20161C0361E | 21-MAY-2004 | 04-07-A068A | 02
07 | KS | MANHATTAN, CITY OF | 20161C0353E | 21-MAY-2004 | 04-07-A086A | 02
07 | KS | MANHATTAN, CITY OF | 20161C0361E | 14-MAY-2004 | 04-07-A087A | 02
07 | KS | MANHATTAN, CITY OF | 20161C0361E | 04-FEB-2004 | 04-07-402A | 02
07 | KS | MANHATTAN, CITY OF | 20161C0353E | 27-FEB-2004 | 04-07-421A | 02
07 | KS | MANHATTAN, CITY OF | 20161C0361E | 11-FEB-2004 | 04-07-445A | 02
07 | KS | MANHATTAN, CITY OF | 20161C0353E | 03-MAR-2004 | 04-07-501A | 02
07 | KS | MANHATTAN, CITY OF | 20161C0353E | 09-APR-2004 | 04-07-620A | 02
07 | KS | MANHATTAN, CITY OF | 20161C0353E | 09-APR-2004 | 04-07-621A | 02
07 | KS | MANHATTAN, CITY OF | 20161C0334E | 14-APR-2004 | 04-07-622A | 02
07 | KS | MANHATTAN, CITY OF | 20161C0353E | 30-APR-2004 | 04-07-669A | 02
07 | KS | MANHATTAN, CITY OF | 20161C0361E | 30-APR-2004 | 04-07-669A | 02
07 | KS | MCPHERSON, CITY OF | 2002170005D | 23-JAN-2004 | 04-07-324A | 17
07 | KS | MCPHERSON, CITY OF | 2002170015D | 21-JAN-2004 | 04-07-348A | 02
07 | KS | MCPHERSON, CITY OF | 2002170005D | 21-JAN-2004 | 04-07-395A | 02
07 | KS | MCPHERSON, CITY OF | 2002170005D | 31-MAR-2004 | 04-07-632A | 02
07 | KS | MCPHERSON, CITY OF | 2002170005D | 19-MAY-2004 | 04-07-667A | 02
07 | KS | MCPHERSON, CITY OF | 2002170005D | 19-MAY-2004 | 04-07-680A | 02
07 | KS | MIAMI COUNTY | 200220_27A | 06-MAY-2004 | 04-07-A035A | 02
07 | KS | MIAMI COUNTY | 200220_23A | 07-JAN-2004 | 04-07-293A | 02
07 | KS | MULVANE, CITY OF | 2003260005D | 25-FEB-2004 | 04-07-391A | 02
07 | KS | NEOSHO COUNTY | 2005980001A | 06-FEB-2004 | 04-07-175A | 02
07 | KS | NEWTON, CITY OF | 2001330005C | 18-FEB-2004 | 04-07-439A | 02
07 | KS | OLATHE, CITY OF | 20091C0189F | 21-MAY-2004 | 04-07-A037A | 02
07 | KS | OLATHE, CITY OF | 20091C0213F | 26-MAY-2004 | 04-07-A101A | 02
07 | KS | OLATHE, CITY OF | 20091C0306F | 09-JAN-2004 | 04-07-314A | 01
07 | KS | OSWEGO, CITY OF | 200545_01A | 13-FEB-2004 | 04-07-364A | 02
07 | KS | OVERLAND PARK, CITY OF | 20091C0217F | 23-APR-2004 | 04-07-A015A | 02
07 | KS | OVERLAND PARK, CITY OF | 20091C0218F | 21-APR-2004 | 04-07-026P | 05
07 | KS | OVERLAND PARK, CITY OF | 20091C0208F | 06-FEB-2004 | 04-07-174A | 02
07 | KS | OVERLAND PARK, CITY OF | 20091C0212F | 16-JAN-2004 | 04-07-291A | 02
07 | KS | OVERLAND PARK, CITY OF | 20091C0218F | 05-MAR-2004 | 04-07-453A | 01
07 | KS | OVERLAND PARK, CITY OF | 20091C0218F | 30-APR-2004 | 04-07-467A | 02
07 | KS | OVERLAND PARK, CITY OF | 20091C0218F | 07-JUL-2004 | 04-07-539P | 17
07 | KS | OVERLAND PARK, CITY OF | 20091C0211F | 16-APR-2004 | 04-07-671A | 02
07 | KS | PAOLA, CITY OF | 2002240001B | 26-MAR-2004 | 04-07-513A | 02
07 | KS | PARK CITY, CITY OF | 2009630001A | 14-JUN-2004 | 04-07-A140A | 02
07 | KS | PARSONS, CITY OF | 2001840005C | 26-MAY-2004 | 04-07-A129A | 02
07 | KS | PITTSBURG, CITY OF | 200564_29B | 23-JAN-2004 | 04-07-369A | 02
07 | KS | RENO COUNTY | 20155C0140D | 12-MAY-2004 | 04-07-A040A | 02
07 | KS | RENO COUNTY | 20155C0267D | 16-JAN-2004 | 04-07-334A | 02
07 | KS | RENO COUNTY | 20155C0650D | 28-JAN-2004 | 04-07-404A | 02
07 | KS | RICE COUNTY | 2002900008C | 14-MAY-2004 | 04-07-A057A | 02
07 | KS | RICE COUNTY | 2002900008C | 31-MAR-2004 | 04-07-582A | 02
07 | KS | RILEY COUNTY | 20161C0327E | 18-FEB-2004 | 04-07-115A | 01
07 | KS | RILEY COUNTY | 20161C0215E | 07-JAN-2004 | 04-07-342A | 02
07 | KS | RILEY COUNTY | 20161C0366E | 04-JUN-2004 | 04-07-655A | 02
07 | KS | RILEY, CITY OF | 20161C0212E | 31-MAR-2004 | 04-07-587A | 02
07 | KS | RILEY, CITY OF | 20161C0212E | 16-JUL-2004 | 04-07-588A | 02
07 | KS | RILEY, CITY OF | 20161C0212E | 16-JUL-2004 | 04-07-589A | 02
07 | KS | ROELAND PARK, CITY OF | 20091C0094F | 07-JAN-2004 | 04-07-325A | 02
07 | KS | ROELAND PARK, CITY OF | 20091C0094F | 11-FEB-2004 | 04-07-406A | 02
07 | KS | SALINA, CITY OF | 2003190015B | 30-APR-2004 | 04-07-A041A | 02
07 | KS | SALINA, CITY OF | 2003190015B | 21-MAY-2004 | 04-07-A082A | 02
07 | KS | SALINA, CITY OF | 2003190015B | 26-MAY-2004 | 04-07-A115A | 02
07 | KS | SALINA, CITY OF | 2003190005B | 17-JUN-2004 | 04-07-A126A | 02
07 | KS | SALINA, CITY OF | 2003190015B | 28-MAY-2004 | 04-07-A133A | 02
07 | KS | SALINA, CITY OF | 2003190015B | 14-JUN-2004 | 04-07-A134A | 02
07 | KS | SALINA, CITY OF | 2003190015B | 14-JUN-2004 | 04-07-A138A | 02
07 | KS | SALINA, CITY OF | 2003190015B | 07-JAN-2004 | 04-07-124A | 02
07 | KS | SALINA, CITY OF | 2003190005B | 14-JAN-2004 | 04-07-347A | 02
07 | KS | SALINA, CITY OF | 2003190015B | 13-FEB-2004 | 04-07-438A | 02
07 | KS | SALINA, CITY OF | 2003190015B | 25-FEB-2004 | 04-07-488A | 02
07 | KS | SALINA, CITY OF | 2003190015B | 19-MAR-2004 | 04-07-509A | 02
07 | KS | SALINA, CITY OF | 2003190015B | 17-MAR-2004 | 04-07-514A | 02
07 | KS | SALINA, CITY OF | 2003190015B | 23-APR-2004 | 04-07-658A | 02
07 | KS | SALINA, CITY OF | 2003190015B | 16-APR-2004 | 04-07-681A | 02
07 | KS | SALINE COUNTY | 2003160125B | 18-FEB-2004 | 04-07-280A | 01
07 | KS | SALINE COUNTY | 2003160080B | 13-FEB-2004 | 04-07-409A | 02
07 | KS | SALINE COUNTY | 2003160025B | 19-MAR-2004 | 04-07-478A | 02
07 | KS | SEDGWICK COUNTY | 2003210300A | 09-JUN-2004 | 04-07-A122A | 02
07 | KS | SEDGWICK COUNTY | 2003210025A | 23-JAN-2004 | 03-07-1463A | 02
07 | KS | SEDGWICK COUNTY | 2003210225A | 21-JAN-2004 | 04-07-386A | 02
07 | KS | SEDGWICK COUNTY | 2003210125A | 31-MAR-2004 | 04-07-440A | 17
07 | KS | SEDGWICK COUNTY | 2003210175A | 26-MAR-2004 | 04-07-456A | 02
07 | KS | SEDGWICK COUNTY | 2003210150A | 05-MAR-2004 | 04-07-552A | 02
07 | KS | SEDGWICK COUNTY | 2003210075A | 19-MAR-2004 | 04-07-570A | 02
07 | KS | SEDGWICK COUNTY | 2003210200A | 16-APR-2004 | 04-07-660A | 02
07 | KS | SEDGWICK COUNTY | 2003210300A | 05-MAY-2004 | 04-07-679A | 17
07 | KS | SEDGWICK, CITY OF | 2001340001D | 04-JUN-2004 | 04-07-A113A | 02
07 | KS | SHAWNEE COUNTY | 2003310065C | 10-MAR-2004 | 04-07-524A | 02
07 | KS | SHAWNEE, CITY OF | 20091C0065F | 05-MAY-2004 | 04-07-428A | 01
07 | KS | SUMNER COUNTY | 20191C0260B | 19-MAR-2004 | 04-07-435A | 02
07 | KS | WICHITA, CITY OF | 2003280035B | 25-JUN-2004 | 04-07-A116A | 02
07 | KS | WICHITA, CITY OF | 2003280015B | 29-JUL-2004 | 03-07-1283P | 05
07 | KS | WICHITA, CITY OF | 2003280020B | 17-JUN-2004 | 03-07-878P | 05
07 | KS | WICHITA, CITY OF | 2003280020B | 26-APR-2004 | 03-07-890P | 05
07 | KS | WICHITA, CITY OF | 2003210025A | 12-FEB-2004 | 03-07-898P | 05
07 | KS | WICHITA, CITY OF | 2003280030B | 20-FEB-2004 | 04-07-327A | 02
07 | KS | WICHITA, CITY OF | 2003280035B | 13-FEB-2004 | 04-07-424A | 02
07 | KS | WICHITA, CITY OF | 2003280025B | 05-MAR-2004 | 04-07-500A | 02
07 | KS | WICHITA, CITY OF | 2003280035B | 05-MAR-2004 | 04-07-500A | 02
07 | KS | WICHITA, CITY OF | 2003280015B | 20-APR-2004 | 04-07-537P | 06
07 | KS | WICHITA, CITY OF | 2003280030B | 16-JUN-2004 | 04-07-624A | 17
07 | KS | WICHITA, CITY OF | 2003280015B | 05-MAY-2004 | 04-07-678A | 02
07 | MO | ANDERSON, CITY OF | 290217_02B | 07-JAN-2004 | 03-07-1388A | 02
07 | MO | ANDREW COUNTY | 2900040150B | 25-JUN-2004 | 04-07-576A | 02
07 | MO | ARCADIA, CITY OF | 290168B | 28-APR-2004 | 04-07-414A | 02
07 | MO | BENTON COUNTY | 2900270125B | 16-JAN-2004 | 04-07-368A | 02
07 | MO | BOONE COUNTY | 2900340087B | 12-MAR-2004 | 04-07-481A | 01
07 | MO | BUTLER COUNTY | 2900440065C | 17-MAR-2004 | 04-07-257A | 02
07 | MO | BUTLER COUNTY | 2900440210B | 05-MAR-2004 | 04-07-479A | 02
07 | MO | CALLAWAY COUNTY | 2900490250B | 09-JUL-2004 | 04-07-691X | 02
07 | MO | CAMDEN COUNTY | 2907890001B | 26-MAY-2004 | 04-07-A034A | 02
07 | MO | CAMDEN COUNTY | 2907890005B | 03-MAR-2004 | 04-07-205A | 02
07 | MO | CAMDEN COUNTY | 2907890001B | 21-JAN-2004 | 04-07-323A | 02
07 | MO | CAMDEN COUNTY | 2907890005B | 25-FEB-2004 | 04-07-376A | 02
07 | MO | CAMDEN COUNTY | 2907890006B | 21-JAN-2004 | 04-07-380A | 02
07 | MO | CAMDEN COUNTY | 2907890003B | 12-MAR-2004 | 04-07-444A | 02
07 | MO | CAMDEN COUNTY | 2907890008B | 23-JUL-2004 | 04-07-491A | 02
07 | MO | CAMDEN COUNTY | 2907890002B | 02-JUL-2004 | 04-07-495A | 02
07 | MO | CAMDEN COUNTY | 2907890003B | 21-APR-2004 | 04-07-521A | 02
07 | MO | CAMDEN COUNTY | 2907890006B | 09-JUN-2004 | 04-07-595A | 02
07 | MO | CAMDEN COUNTY | 2907890008B | 07-APR-2004 | 04-07-599A | 02
07 | MO | CAMDEN COUNTY | 2907890002B | 09-JUL-2004 | 04-07-611A | 02
07 | MO | CAMDEN COUNTY | 2907890003B | 23-JUN-2004 | 04-07-645A | 02
07 | MO | CAPE GIRARDEAU COUNTY | 2907900095C | 03-MAR-2004 | 04-07-433A | 02
07 | MO | CAPE GIRARDEAU COUNTY | 2907900125B | 23-APR-2004 | 04-07-454A | 02
07 | MO | CARDWELL, CITY OF | 2901250001B | 26-MAR-2004 | 04-07-581A | 02
07 | MO | CARUTHERSVILLE, CITY OF | 2902750001B | 09-JAN-2004 | 04-07-227A | 02
07 | MO | CASS COUNTY | 2907830100C | 12-MAY-2004 | 04-07-A039A | 02
07 | MO | CASS COUNTY | 2907830125B | 27-FEB-2004 | 04-07-443A | 02
07 | MO | CASS COUNTY | 2907830025C | 20-FEB-2004 | 04-07-480X | 02
07 | MO | CASS COUNTY | 2907830200B | 02-APR-2004 | 04-07-512A | 02
07 | MO | CASS COUNTY | 2907830050C | 16-APR-2004 | 04-07-551A | 02
07 | MO | CHESTERFIELD, CITY OF | 29189C0145H | 24-MAR-2004 | 04-07-471A | 17
07 | MO | CHRISTIAN COUNTY | 2908470003A | 14-JAN-2004 | 04-07-216A | 02
07 | MO | CHRISTIAN COUNTY | 2908470003A | 12-MAR-2004 | 04-07-326A | 02
07 | MO | CLAY COUNTY | 2900860050C | 17-MAR-2004 | 04-07-484A | 02
07 | MO | CLAY COUNTY | 2900860060B | 09-APR-2004 | 04-07-649A | 02
07 | MO | CLAYCOMO, VILLAGE OF | 2900890005C | 23-JAN-2004 | 04-07-285A | 02
07 | MO | CLINTON COUNTY | 2907930150B | 25-FEB-2004 | 04-07-287A | 02
07 | MO | COLE COUNTY | 2901070080B | 28-JAN-2004 | 04-07-394A | 02
07 | MO | COTTLEVILLE, CITY OF | 29183C0244E | 09-APR-2004 | 04-07-493A | 01
07 | MO | DE SOTO, CITY OF | 2952630002C | 09-JAN-2004 | 04-07-154A | 02
07 | MO | DEXTER, CITY OF | 2904240001B | 05-MAY-2004 | 04-07-476A | 02
07 | MO | EUREKA, CITY OF | 29189C0351H | 14-MAY-2004 | 04-07-A052A | 02
07 | MO | FENTON, CITY OF | 29189C0287H | 04-JUN-2004 | 04-07-A114A | 17
07 | MO | FLORISSANT, CITY OF | 29189C0062J | 23-APR-2004 | 04-07-392A | 17
07 | MO | FLORISSANT, CITY OF | 29189C0062J | 02-APR-2004 | 04-07-626A | 02
07 | MO | FRANKLIN COUNTY | 2904930180B | 14-JAN-2004 | 04-07-266A | 02
07 | MO | FREDERICKTOWN, CITY OF | 29123C0170C | 07-APR-2004 | 04-07-641X | 02
07 | MO | FREEMAN, CITY OF | 2900660001B | 16-JUN-2004 | 04-07-237A | 17
07 | MO | FULTON, CITY OF | 2900510003C | 21-MAY-2004 | 04-07-A066A | 02
07 | MO | GLENAIRE, CITY OF | 290092_01B | 05-MAR-2004 | 04-07-472A | 02
07 | MO | GREENE COUNTY | 2907820095D | 14-APR-2004 | 04-07-A007A | 02
07 | MO | GREENE COUNTY | 2907820095D | 28-APR-2004 | 04-07-A036A | 02
07 | MO | GREENE COUNTY | 2907820125C | 31-MAR-2004 | 04-07-338A | 02
07 | MO | GREENE COUNTY | 2907820095D | 04-FEB-2004 | 04-07-398A | 02
07 | MO | GREENE COUNTY | 2907820095D | 04-FEB-2004 | 04-07-399A | 02
07 | MO | GREENE COUNTY | 2907820130C | 09-APR-2004 | 04-07-652A | 02
07 | MO | INDEPENDENCE,CITY OF | 2901720010E | 19-MAY-2004 | 04-07-A123A | 02
07 | MO | INDEPENDENCE,CITY OF | 2901720010E | 09-JUN-2004 | 04-07-608A | 02
07 | MO | JACKSON COUNTY | 2904920141B | 14-JUL-2004 | 04-07-618A | 02
07 | MO | JEFFERSON CITY, CITY OF | 2901080004C | 07-JAN-2004 | 04-07-224A | 02
07 | MO | JEFFERSON COUNTY | 2908080090D | 14-MAY-2004 | 04-07-A013A | 02
07 | MO | JEFFERSON COUNTY | 2908080080C | 10-MAR-2004 | 04-07-235A | 02
07 | MO | JEFFERSON COUNTY | 2908080020B | 28-JAN-2004 | 04-07-298A | 02
07 | MO | JEFFERSON COUNTY | 2908080120D | 07-JAN-2004 | 04-07-303A | 02
07 | MO | JEFFERSON COUNTY | 2908080130B | 16-JAN-2004 | 04-07-333A | 02
07 | MO | JEFFERSON COUNTY | 2908080080C | 30-JAN-2004 | 04-07-387A | 02
07 | MO | JEFFERSON COUNTY | 2908080160B | 25-FEB-2004 | 04-07-407A | 01
07 | MO | JEFFERSON COUNTY | 2908080085C | 03-MAR-2004 | 04-07-505A | 01
07 | MO | JEFFERSON COUNTY | 2908080160B | 02-JUN-2004 | 04-07-563A | 02
07 | MO | JEFFERSON COUNTY | 2908080120D | 23-JUN-2004 | 04-07-566A | 02
07 | MO | JEFFERSON COUNTY | 2908080080C | 30-APR-2004 | 04-07-610A | 02
07 | MO | JEFFERSON COUNTY | 2908080160B | 26-MAY-2004 | 04-07-683A | 02
07 | MO | JOHNSON COUNTY | 2908090200A | 06-FEB-2004 | 04-07-305A | 02
07 | MO | KANSAS CITY, CITY OF | 2901730065B | 19-MAY-2004 | 04-07-A054A | 02
07 | MO | KENNETT, CITY OF | 2901290005B | 28-MAY-2004 | 04-07-A092A | 02
07 | MO | KENNETT, CITY OF | 2901290005B | 05-APR-2004 | 04-07-413A | 01
07 | MO | KENNETT, CITY OF | 2901290005B | 26-MAY-2004 | 04-07-690A | 01
07 | MO | LACLEDE COUNTY | 2908110250B | 11-FEB-2004 | 04-07-388A | 02
07 | MO | LADUE,CITY OF | 29189C0169J | 30-APR-2004 | 04-07-A046A | 02
07 | MO | LADUE,CITY OF | 29189C0282H | 25-JUN-2004 | 04-07-518A | 01
07 | MO | LAKE LOTAWANA, CITY OF | 2906970001A | 17-JUN-2004 | 04-07-A095A | 02
07 | MO | LAKE ST. LOUIS, CITY OF | 29183C0220F | 12-MAR-2004 | 04-07-473A | 02
07 | MO | LAKE WINNEBAGO, CITY OF | 2908770001A | 07-JAN-2004 | 04-07-286A | 02
07 | MO | LAKE WINNEBAGO, CITY OF | 2908770001A | 28-JAN-2004 | 04-07-397X | 02
07 | MO | LEE'S SUMMIT, CITY OF | 2901740007C | 16-APR-2004 | 04-07-A008A | 02
07 | MO | LEE'S SUMMIT, CITY OF | 2901740021C | 13-FEB-2004 | 04-07-329A | 02
07 | MO | LEE'S SUMMIT, CITY OF | 2901740022D | 05-MAY-2004 | 04-07-564A | 02
07 | MO | LEE'S SUMMIT, CITY OF | 2901740022D | 05-MAY-2004 | 04-07-640A | 02
07 | MO | LEWIS COUNTY | 2908440008B | 07-JAN-2004 | 03-07-1221A | 02
07 | MO | LIBERTY, CITY OF | 2900960003B | 19-MAR-2004 | 04-07-003A | 01
07 | MO | LINCOLN COUNTY | 2908690180C | 20-FEB-2004 | 04-07-400A | 02
07 | MO | LIVINGSTON COUNTY | 2908140175A | 06-MAY-2004 | 04-07-A018A | 02
07 | MO | LIVINGSTON COUNTY | 2908140175B | 28-MAY-2004 | 04-07-565A | 02
07 | MO | MADISON COUNTY | 29123C0160C | 18-FEB-2004 | 04-07-374A | 02
07 | MO | MANCHESTER, CITY OF | 29189C0259H | 09-APR-2004 | 04-07-482A | 01
07 | MO | MARYLAND HEIGHTS, CITY OF | 29189C0152H | 02-APR-2004 | 04-07-625A | 02
07 | MO | MCDONALD COUNTY | 2908170125B | 25-FEB-2004 | 04-07-410A | 02
07 | MO | MONTGOMERY COUNTY | 2902420150B | 09-JAN-2004 | 04-07-330A | 02
07 | MO | MORGAN COUNTY | 2902440200B | 06-MAY-2004 | 04-07-A022A | 02
07 | MO | MORGAN COUNTY | 2902440200A | 26-MAY-2004 | 04-07-A072A | 02
07 | MO | MORGAN COUNTY | 2902440200B | 07-JAN-2004 | 04-07-193A | 02
07 | MO | MORGAN COUNTY | 2902440200B | 03-MAR-2004 | 04-07-431A | 02
07 | MO | MORGAN COUNTY | 2902440200B | 20-FEB-2004 | 04-07-474A | 02
07 | MO | MORGAN COUNTY | 2902440200A | 02-APR-2004 | 04-07-510A | 02
07 | MO | MORGAN COUNTY | 2902440200B | 09-APR-2004 | 04-07-639A | 02
07 | MO | MORGAN COUNTY | 2902440200B | 07-MAY-2004 | 04-07-665A | 02
07 | MO | NEWTON COUNTY | 2908200120B | 09-JUN-2004 | 04-07-470A | 02
07 | MO | O'FALLON, CITY OF | 29183C0430E | 09-JAN-2004 | 04-07-166A | 01
07 | MO | O'FALLON, CITY OF | 29183C0230F | 25-FEB-2004 | 04-07-469A | 01
07 | MO | O'FALLON, CITY OF | 29183C0235E | 17-MAR-2004 | 04-07-492A | 01
07 | MO | O'FALLON, CITY OF | 29183C0230F | 19-MAR-2004 | 04-07-609X | 01
07 | MO | OSAGE BEACH, CITY OF | 290671_03A | 23-JAN-2004 | 03-07-1432A | 02
07 | MO | OSAGE BEACH, CITY OF | 290671_A | 07-APR-2004 | 04-07-633A | 02
07 | MO | PIKE COUNTY | 2902860006B | 07-JAN-2004 | 03-07-1449A | 02
07 | MO | PLATTE COUNTY | 2904750165A | 07-JAN-2004 | 04-07-248A | 02
07 | MO | PLATTE COUNTY | 2904750125A | 14-JAN-2004 | 04-07-249A | 02
07 | MO | PLEASANT HILL, CITY OF | 2907830050C | 24-MAR-2004 | 04-07-451A | 02
07 | MO | QULIN, CITY OF | 2900480001A | 28-JAN-2004 | 04-07-320A | 02
07 | MO | RAYMORE, CITY OF | 290070A | 05-JAN-2004 | 03-07-1279P | 06
07 | MO | RAYMORE, CITY OF | 290070_03A | 19-MAY-2004 | 04-07-585A | 02
07 | MO | RAYTOWN, CITY OF | 2901760005B | 04-FEB-2004 | 04-07-331X | 02
07 | MO | REPUBLIC, CITY OF | 2901480001B | 23-APR-2004 | 04-07-A003A | 02
07 | MO | REPUBLIC, CITY OF | 2901480001B | 19-APR-2004 | 04-07-038P | 05
07 | MO | REPUBLIC, CITY OF | 2907820120B | 19-APR-2004 | 04-07-038P | 05
07 | MO | REPUBLIC, CITY OF | 2901480001B | 21-APR-2004 | 04-07-638A | 01
07 | MO | RIVERSIDE, CITY OF | 2902960001B | 09-JUN-2004 | 04-07-A143A | 02
07 | MO | ROCK HILL, CITY OF | 29189C0301H | 07-JAN-2004 | 04-07-318A | 02
07 | MO | ROGERSVILLE, CITY OF | 29225C0225A | 06-MAY-2004 | 04-07-A024A | 02
07 | MO | SIKESTON, CITY OF | 2952700006C | 12-MAR-2004 | 04-07-436A | 02
07 | MO | SPRINGFIELD, CITY OF | 2901490006B | 09-JAN-2004 | 04-07-233A | 02
07 | MO | ST. CHARLES COUNTY | 29183C0280E | 21-JAN-2004 | 04-07-319A | 02
07 | MO | ST. CHARLES COUNTY | 29183C0457E | 14-JAN-2004 | 04-07-341A | 02
07 | MO | ST. CHARLES COUNTY | 29183C0267E | 28-JAN-2004 | 04-07-363A | 02
07 | MO | ST. CHARLES COUNTY | 29183C0288E | 05-MAR-2004 | 04-07-504A | 02
07 | MO | ST. CHARLES COUNTY | 29183C0267E | 10-MAR-2004 | 04-07-556A | 02
07 | MO | ST. CHARLES COUNTY | 29183C0264E | 07-APR-2004 | 04-07-598A | 02
07 | MO | ST. CHARLES, CITY OF | 29183C0288E | 16-JAN-2004 | 04-07-269A | 02
07 | MO | ST. CHARLES, CITY OF | 29183C0260E | 04-FEB-2004 | 04-07-279A | 01
07 | MO | ST. CHARLES, CITY OF | 29183C0267E | 06-FEB-2004 | 04-07-418A | 02
07 | MO | ST. CHARLES, CITY OF | 29183C0266E | 25-FEB-2004 | 04-07-427A | 01
07 | MO | ST. CHARLES, CITY OF | 29183C0286E | 05-MAR-2004 | 04-07-503A | 02
07 | MO | ST. CHARLES, CITY OF | 29183C0286E | 28-MAY-2004 | 04-07-676A | 02
07 | MO | ST. LOUIS COUNTY | 29189C0145H | 26-MAY-2004 | 04-07-A074A | 17
07 | MO | ST. LOUIS COUNTY | 29189C0054J | 14-JUN-2004 | 04-07-A239A | 01
07 | MO | ST. LOUIS COUNTY | 29189C0312H | 28-JAN-2004 | 03-07-894P | 05
07 | MO | ST. LOUIS COUNTY | 29189C0316H | 28-JAN-2004 | 03-07-894P | 05
07 | MO | ST. LOUIS COUNTY | 29189C0279J | 21-JAN-2004 | 04-07-332A | 01
07 | MO | ST. LOUIS COUNTY | 29189C0405H | 30-JAN-2004 | 04-07-384A | 02
07 | MO | ST. LOUIS COUNTY | 29189C0410H | 24-MAR-2004 | 04-07-475A | 02
07 | MO | ST. LOUIS COUNTY | 29189C0267H | 17-MAR-2004 | 04-07-487A | 02
07 | MO | ST. LOUIS COUNTY | 29189C0405H | 16-APR-2004 | 04-07-634A | 02
07 | MO | ST. LOUIS, CITY OF | 2903850020A | 16-JAN-2004 | 04-07-322A | 02
07 | MO | ST. PETERS, CITY OF | 29183C0242E | 17-MAR-2004 | 04-07-202A | 01
07 | MO | ST. PETERS, CITY OF | 29183C0242E | 26-MAY-2004 | 04-07-616A | 01
07 | MO | ST. PETERS, CITY OF | 29183C0242E | 18-JUN-2004 | 04-07-662A | 01
07 | MO | ST. PETERS, CITY OF | 29183C0264E | 28-APR-2004 | 04-07-686A | 02
07 | MO | STE. GENEVIEVE, CITY OF | 2903250001A | 12-MAY-2004 | 03-07-1278P | 05
07 | MO | STE. GENEVIEVE, CITY OF | 2903250001A | 10-JUN-2004 | 04-07-540P | 06
07 | MO | STE. GENEVIEVE, CITY OF | 2908330075B | 10-JUN-2004 | 04-07-540P | 06
07 | MO | STODDARD COUNTY | 2908450100B | 24-MAR-2004 | 04-07-567A | 02
07 | MO | STONE COUNTY | 2904290100B | 28-APR-2004 | 04-07-A019A | 02
07 | MO | TANEY COUNTY | 290435_03A | 14-JAN-2004 | 04-07-271A | 02
07 | MO | TANEY COUNTY | 290435A_06A | 23-JUN-2004 | 04-07-584A | 02
07 | MO | TARKIO, CITY OF | 290013_02B | 25-FEB-2004 | 04-07-182A | 02
07 | MO | TROY, CITY OF | 2906410002A | 19-MAY-2004 | 03-07-102P | 05
07 | MO | UNIVERSITY CITY, CITY OF | 29189C0187H | 21-JAN-2004 | 04-07-393A | 02
07 | MO | VALLEY PARK, CITY OF | 29189C0286H | 14-JAN-2004 | 03-07-1239A | 01
07 | MO | VALLEY PARK, CITY OF | 29189C0286H | 25-MAY-2004 | 04-07-419C | 01
07 | MO | VALLEY PARK, CITY OF | 29189C0286H | 18-FEB-2004 | 04-07-441A | 02
07 | MO | VALLEY PARK, CITY OF | 29189C0286H | 07-MAY-2004 | 04-07-689A | 02
07 | MO | VANDALIA, CITY OF | 2900200001B | 30-APR-2004 | 04-07-653A | 02
07 | MO | WARDSVILLE, CITY OF | 2901070090B | 16-JAN-2004 | 04-07-356A | 02
07 | MO | WARREN COUNTY | 2904430125B | 26-MAY-2004 | 04-07-A073A | 02
07 | MO | WARREN COUNTY | 2904430125B | 23-JAN-2004 | 04-07-337A | 02
07 | MO | WARREN COUNTY | 2904430075C | 11-FEB-2004 | 04-07-354A | 02
07 | MO | WEBB CITY, CITY OF | 2901870001B | 18-FEB-2004 | 04-07-434A | 01
07 | MO | WEBSTER COUNTY | 29225C0250A | 14-JAN-2004 | 03-07-1419A | 02
07 | MO | WEBSTER COUNTY | 29225C0250A | 02-JUN-2004 | 04-07-597A | 02
07 | MO | WEBSTER COUNTY | 29225C0350A | 09-JUN-2004 | 04-07-603A | 02
07 | MO | WEBSTER COUNTY | 29225C0125A | 19-MAY-2004 | 04-07-630A | 02
07 | MO | WILLARD, CITY OF | 2906530004A | 07-APR-2004 | 04-07-583A | 02
07 | MO | WRIGHT CITY, CITY OF | 2904430075C | 24-MAR-2004 | 04-07-452A | 01
07 | NE | ALLIANCE, CITY OF | 3100110005A | 19-MAR-2004 | 04-07-477A | 02
07 | NE | AURORA, CITY OF | 3101050005C | 03-MAR-2004 | 04-07-429A | 02
07 | NE | AURORA, CITY OF | 3101050005C | 19-MAR-2004 | 04-07-498A | 02
07 | NE | AURORA, CITY OF | 3101050005C | 30-APR-2004 | 04-07-687A | 02
07 | NE | BELLEVUE, CITY OF | 31153C0065F | 21-MAY-2004 | 04-07-A025A | 02
07 | NE | BELLEVUE, CITY OF | 31153C0065F | 09-APR-2004 | 04-07-646A | 02
07 | NE | BUFFALO COUNTY | 3104190002B | 16-JUN-2004 | 04-07-619A | 02
07 | NE | CEDAR RAPIDS, VILLAGE OF | 31011C0409C | 06-MAY-2004 | 04-07-A020A | 02
07 | NE | CEDAR RAPIDS, VILLAGE OF | 31011C0417C | 21-JAN-2004 | 04-07-389A | 02
07 | NE | COLFAX COUNTY | 31037C0130C | 03-MAR-2004 | 04-07-490A | 02
07 | NE | CUSTER COUNTY | 3104280019B | 18-FEB-2004 | 04-07-104A | 02
07 | NE | DAWSON COUNTY | 3100580011B | 07-JAN-2004 | 04-07-258A | 01
07 | NE | DODGE COUNTY | 3100680175B | 14-APR-2004 | 04-07-408A | 17
07 | NE | DODGE COUNTY | 3100680150B | 18-FEB-2004 | 04-07-448A | 02
07 | NE | DODGE COUNTY | 3100680150B | 20-FEB-2004 | 04-07-449A | 02
07 | NE | DODGE COUNTY | 3100680150B | 27-FEB-2004 | 04-07-450A | 02
07 | NE | DOUGLAS COUNTY | 3100730125B | 07-JAN-2004 | 04-07-268A | 01
07 | NE | FREMONT, CITY OF | 3100690001C | 26-MAR-2004 | 04-07-499A | 02
07 | NE | GRAND ISLAND, CITY OF | 3104570225A | 23-APR-2004 | 04-07-A001A | 02
07 | NE | GRAND ISLAND, CITY OF | 3101030015B | 12-MAY-2004 | 04-07-A051A | 02
07 | NE | GRAND ISLAND, CITY OF | 3101030005B | 23-JAN-2004 | 04-07-262A | 01
07 | NE | GRAND ISLAND, CITY OF | 3101030005B | 28-JAN-2004 | 04-07-353A | 02
07 | NE | GRAND ISLAND, CITY OF | 3101030005B | 06-FEB-2004 | 04-07-423X | 01
07 | NE | GRAND ISLAND, CITY OF | 3101030015B | 05-MAR-2004 | 04-07-465A | 02
07 | NE | GRAND ISLAND, CITY OF | 3101030010B | 12-MAR-2004 | 04-07-486A | 02
07 | NE | GRAND ISLAND, CITY OF | 3101030005B | 02-JUN-2004 | 04-07-497A | 02
07 | NE | GRAND ISLAND, CITY OF | 3101030020B | 24-MAR-2004 | 04-07-523A | 02
07 | NE | GRAND ISLAND, CITY OF | 3101030005B | 09-APR-2004 | 04-07-592A | 02
07 | NE | GRAND ISLAND, CITY OF | 3101030005B | 14-APR-2004 | 04-07-605A | 02
07 | NE | GRAND ISLAND, CITY OF | 3101030005B | 16-APR-2004 | 04-07-629A | 02
07 | NE | GRAND ISLAND, CITY OF | 3101000100C | 07-APR-2004 | 04-07-647A | 02
07 | NE | GRAND ISLAND, CITY OF | 3101030020B | 30-APR-2004 | 04-07-674A | 02
07 | NE | HALL COUNTY | 3101000100C | 28-APR-2004 | 04-07-A006A | 02
07 | NE | HASTINGS, CITY OF | 3100010010B | 19-MAR-2004 | 04-07-090A | 01
07 | NE | KEARNEY COUNTY | 31099C0075A | 19-MAY-2004 | 04-07-A009A | 02
07 | NE | KEARNEY COUNTY | 31099C0100A | 02-JUN-2004 | 04-07-A089A | 02
07 | NE | KEARNEY COUNTY | 31099C0025A | 07-MAY-2004 | 04-07-664A | 02
07 | NE | KEARNEY COUNTY | 31099C0075A | 28-MAY-2004 | 04-07-668A | 02
07 | NE | KEARNEY, CITY OF | 3100160020C | 26-MAY-2004 | 04-07-677A | 02
07 | NE | LANCASTER COUNTY | 31109C0405E | 24-MAR-2004 | 04-07-496A | 02
07 | NE | LINCOLN, CITY OF | 31109C0285E | 05-MAY-2004 | 04-07-030P | 05
07 | NE | LINCOLN, CITY OF | 31109C0305E | 05-MAY-2004 | 04-07-030P | 05
07 | NE | LINCOLN, CITY OF | 31109C0315E | 30-JAN-2004 | 04-07-261A | 02
07 | NE | LINCOLN, CITY OF | 31109C0315E | 07-JAN-2004 | 04-07-290A | 01
07 | NE | LINCOLN, CITY OF | 31109C0305E | 07-JAN-2004 | 04-07-311A | 02
07 | NE | LINCOLN, CITY OF | 31109C0305E | 18-FEB-2004 | 04-07-336A | 01
07 | NE | LINCOLN, CITY OF | 31109C0316E | 25-FEB-2004 | 04-07-350A | 02
07 | NE | LINCOLN, CITY OF | 31109C0305E | 04-FEB-2004 | 04-07-420A | 02
07 | NE | LINCOLN, CITY OF | 31109C0280E | 24-MAR-2004 | 04-07-562A | 02
07 | NE | LINCOLN, CITY OF | 31109C0310E | 05-MAY-2004 | 04-07-602A | 17
07 | NE | LINCOLN, CITY OF | 31109C0316E | 14-APR-2004 | 04-07-623A | 02
07 | NE | LINCOLN, CITY OF | 31109C0316E | 16-APR-2004 | 04-07-642A | 02
07 | NE | LOUISVILLE, VILLAGE OF | 3100310001B | 03-MAR-2004 | 04-07-485A | 02
07 | NE | MERRICK COUNTY | 3104570175B | 28-APR-2004 | 04-07-A017A | 02
07 | NE | MERRICK COUNTY | 3104570225A | 09-JUN-2004 | 04-07-A128X | 02
07 | NE | MERRICK COUNTY | 3104570175B | 14-JAN-2004 | 04-07-276A | 02
07 | NE | MERRICK COUNTY | 3104570175B | 03-MAR-2004 | 04-07-304A | 02
07 | NE | MERRICK COUNTY | 3104570175B | 18-FEB-2004 | 04-07-307A | 02
07 | NE | MERRICK COUNTY | 3104570150A | 26-MAR-2004 | 04-07-577A | 02
07 | NE | MERRICK COUNTY | 3104570075A | 28-APR-2004 | 04-07-673A | 02
07 | NE | OMAHA, CITY OF | 3152740045G | 14-MAY-2004 | 04-07-A023A | 02
07 | NE | OMAHA, CITY OF | 3152740045G | 02-JUN-2004 | 04-07-A047A | 02
07 | NE | OMAHA, CITY OF | 3152740050F | 04-JUN-2004 | 04-07-A080A | 01
07 | NE | OMAHA, CITY OF | 3152740025F | 09-JAN-2004 | 04-07-349A | 02
07 | NE | OMAHA, CITY OF | 3152740025F | 07-MAY-2004 | 04-07-684A | 02
07 | NE | PAPILLION, CITY OF | 31153C0065F | 31-MAR-2004 | 04-07-593A | 01
07 | NE | PLATTSMOUTH, CITY OF | 3100330001B | 26-MAY-2004 | 04-07-666A | 02
07 | NE | RALSTON, CITY OF | 3100770001B | 05-MAY-2004 | 04-07-572A | 01
07 | NE | SALINE COUNTY | 3101870005A | 25-JUN-2004 | 04-07-A137A | 02
07 | NE | SCHUYLER, CITY OF | 31037C0130C | 26-MAY-2004 | 04-07-A102A | 02
07 | NE | SCHUYLER, CITY OF | 31037C0130C | 08-JAN-2004 | 04-07-135A | 02
07 | NE | SCHUYLER, CITY OF | 31037C0130C | 07-JAN-2004 | 04-07-300A | 02
07 | NE | SCHUYLER, CITY OF | 31037C0130C | 28-JAN-2004 | 04-07-403A | 02
07 | NE | SCHUYLER, CITY OF | 31037C0130C | 14-APR-2004 | 04-07-575A | 02
07 | NE | SCHUYLER, CITY OF | 31037C0130C | 30-APR-2004 | 04-07-628A | 01
07 | NE | SEWARD COUNTY | 3104740001B | 23-JAN-2004 | 04-07-362A | 01
07 | NE | WAYNE COUNTY | 3104840002B | 24-FEB-2004 | 04-07-039P | 06
07 | NE | WAYNE COUNTY | 3104840005B | 24-FEB-2004 | 04-07-039P | 06
08 | CO | ADAMS COUNTY | 08001C0175G | 14-MAY-2004 | 02-08-398P | 05
08 | CO | ADAMS COUNTY | 08001C0465G | 14-MAY-2004 | 02-08-398P | 05
08 | CO | ADAMS COUNTY | 08001C0470G | 14-MAY-2004 | 02-08-398P | 05
08 | CO | ADAMS COUNTY | 08001C0475G | 14-MAY-2004 | 02-08-398P | 05
08 | CO | ADAMS COUNTY | 08001C0730G | 14-MAY-2004 | 02-08-398P | 05
08 | CO | ADAMS COUNTY | 08001C0735G | 14-MAY-2004 | 02-08-398P | 05
08 | CO | ADAMS COUNTY | 08001C0065G | 24-JAN-2004 | 03-08-0620P | 06
08 | CO | ADAMS COUNTY | 08001C0075G | 24-JAN-2004 | 03-08-0620P | 06
08 | CO | ADAMS COUNTY | 08001C0055G | 12-MAY-2004 | 03-08-0621P | 05
08 | CO | ADAMS COUNTY | 08001C0075G | 19-MAR-2004 | 04-08-0295A | 02
08 | CO | ARAPAHOE COUNTY | 08005C0145J | 06-MAY-2004 | 04-08-0154A | 02
08 | CO | ARAPAHOE COUNTY | 08005C0485J | 29-JAN-2004 | 04-08-0227A | 01
08 | CO | ARAPAHOE COUNTY | 08005C0460J | 18-FEB-2004 | 04-08-0279A | 17
08 | CO | ARAPAHOE COUNTY | 08005C0435J | 08-APR-2004 | 04-08-0366A | 01
08 | CO | ARVADA, CITY OF | 08059C0183E | 23-JAN-2004 | 04-08-0111A | 02
08 | CO | ARVADA, CITY OF | 08059C0183E | 09-JAN-2004 | 04-08-0172A | 02
08 | CO | ARVADA, CITY OF | 08059C0204E | 30-JAN-2004 | 04-08-0260A | 02
08 | CO | ARVADA, CITY OF | 08059C0203E | 05-MAR-2004 | 04-08-0267A | 02
08 | CO | ARVADA, CITY OF | 08059C0183E | 28-APR-2004 | 04-08-0303A | 02
08 | CO | ARVADA, CITY OF | 08059C0183E | 02-APR-2004 | 04-08-0309A | 02
08 | CO | ARVADA, CITY OF | 08059C0183E | 19-MAR-2004 | 04-08-0363A | 02
08 | CO | ARVADA, CITY OF | 08059C0183E | 02-APR-2004 | 04-08-0369A | 02
08 | CO | ARVADA, CITY OF | 08059C0184E | 08-APR-2004 | 04-08-0388A | 02
08 | CO | ARVADA, CITY OF | 08059C0203E | 16-APR-2004 | 04-08-0417A | 02
08 | CO | BOULDER COUNTY | 08013C0437G | 11-FEB-2004 | 04-08-0269A | 02
08 | CO | BOULDER COUNTY | 08013C0410F | 20-FEB-2004 | 04-08-0308A | 02
08 | CO | BOULDER COUNTY | 08013C0245F | 08-APR-2004 | 04-08-0368A | 02
08 | CO | BOULDER, CITY OF | 08013C0535F | 15-APR-2004 | 03-08-0410P | 05
08 | CO | BOULDER, CITY OF | 08013C0555G | 15-APR-2004 | 03-08-0410P | 05
08 | CO | BOULDER, CITY OF | 08013C0395F | 23-JAN-2004 | 03-08-0669A | 02
08 | CO | BOULDER, CITY OF | 08013C0395F | 18-FEB-2004 | 04-08-0125A | 02
08 | CO | BOULDER, CITY OF | 08013C0395F | 03-MAR-2004 | 04-08-0158A | 02
08 | CO | BOULDER, CITY OF | 08012C0395F | 31-MAR-2004 | 04-08-0399A | 02
08 | CO | BOULDER, CITY OF | 08013C0395F | 08-APR-2004 | 04-08-0412X | 02
08 | CO | BRIGHTON, CITY OF | 08001C0065G | 24-JAN-2004 | 03-08-0620P | 06
08 | CO | BRIGHTON, CITY OF | 08001C0075G | 24-JAN-2004 | 03-08-0620P | 06
08 | CO | BRIGHTON, CITY OF | 08001C0055G | 12-MAY-2004 | 03-08-0621P | 05
08 | CO | CENTENNIAL, CITY OF | 08005C0455J | 08-APR-2004 | 04-08-0341A | 02
08 | CO | CHAFFEE COUNTY | 0802690375B | 17-MAR-2004 | 04-08-0292A | 02
08 | CO | COLORADO SPRINGS, CITY OF | 08041C0508F | 15-JAN-2004 | 01-08-177P | 05
08 | CO | COLORADO SPRINGS, CITY OF | 08041C0295F | 19-MAY-2004 | 03-08-0659P | 06
08 | CO | COLORADO SPRINGS, CITY OF | 08041C0506F | 19-MAY-2004 | 03-08-0659P | 06
08 | CO | COLORADO SPRINGS, CITY OF | 08041C0537F | 31-MAR-2004 | 04-08-0089A | 02
08 | CO | COLORADO SPRINGS, CITY OF | 08041C0538F | 29-JAN-2004 | 04-08-0123A | 02
08 | CO | COLORADO SPRINGS, CITY OF | 08041C0516F | 06-FEB-2004 | 04-08-0160A | 02
08 | CO | COLORADO SPRINGS, CITY OF | 08041C0726F | 18-FEB-2004 | 04-08-0166A | 02
08 | CO | COLORADO SPRINGS, CITY OF | 08041C0516F | 05-MAR-2004 | 04-08-0182A | 17
08 | CO | COLORADO SPRINGS, CITY OF | 08041C0726F | 13-FEB-2004 | 04-08-0266A | 02
08 | CO | COLORADO SPRINGS, CITY OF | 08014C0518F | 02-APR-2004 | 04-08-0307A | 02
08 | CO | COLORADO SPRINGS, CITY OF | 08041C0726F | 14-MAY-2004 | 04-08-0403X | 02
08 | CO | COLORADO SPRINGS, CITY OF | 08041C0736F | 16-APR-2004 | 04-08-0421A | 02
08 | CO | COLORADO SPRINGS, CITY OF | 08041C0519F | 17-JUN-2004 | 04-08-0510A | 02
08 | CO | COLUMBINE VALLEY, TOWN OF | 08005C0435J | 01-MAR-2004 | 03-08-0691P | 06
08 | CO | COMMERCE CITY, CITY OF | 08001C0075G | 24-JAN-2004 | 03-08-0620P | 06
08 | CO | COSTILLA COUNTY | 0802760325A | 26-MAY-2004 | 04-08-0445A | 02
08 | CO | DENVER, CITY AND COUNTY OF | 0800460022C | 03-MAR-2004 | 04-08-0159A | 01
08 | CO | DENVER, CITY AND COUNTY OF | 0800460010C | 04-FEB-2004 | 04-08-0215A | 02
08 | CO | DENVER, CITY AND COUNTY OF | 0800460018C | 03-MAR-2004 | 04-08-0318A | 02
08 | CO | DOUGLAS COUNTY | 0800490065C | 01-APR-2004 | 03-08-0664P | 06
08 | CO | DOUGLAS COUNTY | 0800490130C | 01-JUN-2004 | 04-08-0428P | 06
08 | CO | EAGLE COUNTY | 0800510200C | 09-APR-2004 | 04-08-0165P | 06
08 | CO | EAGLE COUNTY | 0800510240C | 23-APR-2004 | 04-08-0281A | 02
08 | CO | EAGLE COUNTY | 0800510240C | 25-MAR-2004 | 04-08-0344A | 02
08 | CO | EAGLE COUNTY | 0800510416C | 31-MAR-2004 | 04-08-0350A | 17
08 | CO | EL PASO COUNTY | 08041C0508F | 15-JAN-2004 | 01-08-177P | 05
08 | CO | EL PASO COUNTY | 08041C0744F | 09-APR-2004 | 03-08-0318P | 06
08 | CO | EL PASO COUNTY | 08041C0763F | 09-APR-2004 | 03-08-0318P | 06
08 | CO | EL PASO COUNTY | 08041C0790F | 16-JUN-2004 | 03-08-0406P | 05
08 | CO | EL PASO COUNTY | 08041C0800F | 16-JUN-2004 | 03-08-0406P | 05
08 | CO | EL PASO COUNTY | 08041C0260F | 23-JUN-2004 | 03-08-0449P | 05
08 | CO | EL PASO COUNTY | 08041C0270F | 23-JUN-2004 | 03-08-0449P | 05
08 | CO | EL PASO COUNTY | 08041C0286F | 23-JUN-2004 | 03-08-0449P | 05
08 | CO | EL PASO COUNTY | 08041C0325F | 23-JUN-2004 | 03-08-0617P | 05
08 | CO | EL PASO COUNTY | 08041C0752F | 24-MAR-2004 | 03-08-0619P | 05
08 | CO | EL PASO COUNTY | 08041C0756F | 24-MAR-2004 | 03-08-0619P | 05
08 | CO | EL PASO COUNTY | 08041C0575F | 04-MAR-2004 | 03-08-0646P | 06
08 | CO | EL PASO COUNTY | 08041C0506F | 19-MAY-2004 | 03-08-0659P | 06
08 | CO | EL PASO COUNTY | 08041C0575F | 19-MAR-2004 | 04-08-0012P | 06
08 | CO | EL PASO COUNTY | 08041C0575F | 05-MAY-2004 | 04-08-0109P | 06
08 | CO | EL PASO COUNTY | 08041C1170F | 11-FEB-2004 | 04-08-0146A | 02
08 | CO | EL PASO COUNTY | 08041C0325F | 30-APR-2004 | 04-08-0170A | 02
08 | CO | EL PASO COUNTY | 08041C0504F | 16-JAN-2004 | 04-08-0175A | 01
08 | CO | EL PASO COUNTY | 08041C0763F | 06-FEB-2004 | 04-08-0178A | 02
08 | CO | EL PASO COUNTY | 08041C0825F | 13-FEB-2004 | 04-08-0270A | 02
08 | CO | EL PASO COUNTY | 08041C0744F | 17-JUN-2004 | 04-08-0381A | 17
08 | CO | EL PASO COUNTY | 08041C0763F | 16-APR-2004 | 04-08-0411A | 02
08 | CO | FLORENCE, CITY OF | 0800700361D | 26-MAY-2004 | 04-08-0499A | 02
08 | CO | FLORENCE, CITY OF | 0800700361D | 26-MAY-2004 | 04-08-0500A | 02
08 | CO | FORT COLLINS, CITY OF | 0801020011C | 10-MAR-2004 | 03-08-0612P | 05
08 | CO | FORT COLLINS, CITY OF | 0801020011C | 19-MAY-2004 | 04-08-0389X | 06
08 | CO | FOUNTAIN, CITY OF | 08041C0763F | 09-APR-2004 | 03-08-0318P | 06
08 | CO | GEORGETOWN, TOWN OF | 0800350001C | 19-MAR-2004 | 04-08-0274A | 02
08 | CO | JEFFERSON COUNTY | 08059C0265E | 02-JUN-2004 | 03-08-0479P | 05
08 | CO | JEFFERSON COUNTY | 08059C0265E | 03-MAR-2004 | 04-08-0028A | 02
08 | CO | JEFFERSON COUNTY | 08059C0380E | 21-JAN-2004 | 04-08-0101A | 02
08 | CO | JEFFERSON COUNTY | 08059C0281E | 25-MAR-2004 | 04-08-0163A | 02
08 | CO | JEFFERSON COUNTY | 08059C0405E | 29-JAN-2004 | 04-08-0169P | 06
08 | CO | JEFFERSON COUNTY | 08059C0385E | 14-JAN-2004 | 04-08-0179A | 02
08 | CO | JEFFERSON COUNTY | 08059C0285E | 06-FEB-2004 | 04-08-0183A | 02
08 | CO | JEFFERSON COUNTY | 08059C0385E | 01-MAR-2004 | 04-08-0184A | 02
08 | CO | JEFFERSON COUNTY | 08059C0385E | 13-FEB-2004 | 04-08-0188A | 02
08 | CO | JEFFERSON COUNTY | 08059C0385E | 04-FEB-2004 | 04-08-0189A | 02
08 | CO | JEFFERSON COUNTY | 08059C0360E | 10-MAR-2004 | 04-08-0217A | 02
08 | CO | JEFFERSON COUNTY | 08059C0385E | 21-JAN-2004 | 04-08-0220A | 02
08 | CO | JEFFERSON COUNTY | 08059C0385E | 21-JAN-2004 | 04-08-0222A | 02
08 | CO | JEFFERSON COUNTY | 08059C0385E | 30-JAN-2004 | 04-08-0246A | 02
08 | CO | JEFFERSON COUNTY | 08059C0405E | 29-JAN-2004 | 04-08-0247A | 02
08 | CO | JEFFERSON COUNTY | 08059C0385E | 25-FEB-2004 | 04-08-0252A | 02
08 | CO | JEFFERSON COUNTY | 08059C0405E | 19-MAR-2004 | 04-08-0285A | 02
08 | CO | JEFFERSON COUNTY | 08059C0385E | 13-FEB-2004 | 04-08-0293A | 02
08 | CO | JEFFERSON COUNTY | 08059C0265E | 23-APR-2004 | 04-08-0316A | 02
08 | CO | JEFFERSON COUNTY | 08059C0385E | 25-FEB-2004 | 04-08-0326A | 02
08 | CO | JEFFERSON COUNTY | 08059C0405E | 24-JUN-2004 | 04-08-0346P | 06
08 | CO | JEFFERSON COUNTY | 08059C0270E | 02-APR-2004 | 04-08-0359A | 02
08 | CO | JEFFERSON COUNTY | 08059C0385E | 07-MAY-2004 | 04-08-0360A | 02
08 | CO | JEFFERSON COUNTY | 08059C0405E | 28-APR-2004 | 04-08-0387A | 02
08 | CO | JEFFERSON COUNTY | 08059C0385E | 14-JUN-2004 | 04-08-0405A | 02
08 | CO | JEFFERSON COUNTY | 08059C0405E | 26-MAY-2004 | 04-08-0423A | 02
08 | CO | JEFFERSON COUNTY | 08059C0405E | 19-MAY-2004 | 04-08-0435A | 01
08 | CO | JEFFERSON COUNTY | 08059C0405E | 28-APR-2004 | 04-08-0443A | 02
08 | CO | LAKEWOOD, CITY OF | 08059C0315E | 11-MAR-2004 | 03-08-0596P | 05
08 | CO | LAKEWOOD, CITY OF | 08059C0305E | 09-JAN-2004 | 04-08-0046A | 02
08 | CO | LAKEWOOD, CITY OF | 08059C0305E | 09-JAN-2004 | 04-08-0157A | 02
08 | CO | LAKEWOOD, CITY OF | 08059C0310E | 29-JAN-2004 | 04-08-0177A | 02
08 | CO | LAKEWOOD, CITY OF | 08059C0302E | 26-MAY-2004 | 04-08-0378A | 02
08 | CO | LARIMER COUNTY | 0801010192C | 10-MAR-2004 | 03-08-0612P | 06
08 | CO | LARIMER COUNTY | 0801010150D | 12-MAR-2004 | 04-08-0229A | 01
08 | CO | LARIMER COUNTY | 0801010119B | 17-MAR-2004 | 04-08-0275A | 02
08 | CO | LITTLETON, CITY OF | 0800170005D | 01-MAR-2004 | 03-08-0691P | 05
08 | CO | LITTLETON, CITY OF | 0800170010D | 01-MAR-2004 | 03-08-0691P | 05
08 | CO | MANITOU SPRINGS, CITY OF | 08041C0707F | 12-MAY-2004 | 04-08-0013P | 06
08 | CO | MONUMENT, TOWN OF | 08041C0278F | 13-APR-2004 | 03-08-0661P | 05
08 | CO | MONUMENT, TOWN OF | 08041C0279F | 13-APR-2004 | 03-08-0661P | 05
08 | CO | MONUMENT, TOWN OF | 08041C0286F | 13-APR-2004 | 03-08-0661P | 05
08 | CO | MONUMENT, TOWN OF | 08041C0287F | 13-APR-2004 | 03-08-0661P | 05
08 | CO | MORGAN COUNTY | 0801290175C | 08-APR-2004 | 04-08-0335A | 02
08 | CO | PALMER LAKE, TOWN OF | 08041C0260F | 25-FEB-2004 | 04-08-0151A | 02
08 | CO | PARKER, TOWN OF | 0803100070D | 27-MAY-2004 | 04-08-0033P | 05
08 | CO | PUEBLO COUNTY | 0801470450B | 11-FEB-2004 | 04-08-0192A | 02
08 | CO | STEAMBOAT SPRINGS, CITY OF | 0801590003C | 12-APR-2004 | 03-08-0036P | 05
08 | CO | STEAMBOAT SPRINGS, CITY OF | 0801590002C | 04-FEB-2004 | 03-08-0650A | 02
08 | CO | STEAMBOAT SPRINGS, CITY OF | 0801590002C | 03-MAR-2004 | 04-08-0339A | 02
08 | CO | STEAMBOAT SPRINGS, CITY OF | 0801590002C | 08-APR-2004 | 04-08-0356A | 02
08 | CO | WELD COUNTY | 0802660855C | 04-FEB-2004 | 04-08-0161A | 01
08 | CO | WELD COUNTY | 0802660850C | 10-MAR-2004 | 04-08-0298A | 02
08 | CO | WESTMINSTER, CITY OF | 08059C0091E | 14-APR-2004 | 03-08-0023P | 05
08 | CO | WESTMINSTER, CITY OF | 08059C0093E | 14-APR-2004 | 03-08-0023P | 05
08 | CO | WESTMINSTER, CITY OF | 08059C0089E | 06-MAY-2004 | 03-08-0520P | 05
08 | CO | WESTMINSTER, CITY OF | 08059C0093E | 06-MAY-2004 | 03-08-0520P | 05
08 | CO | WESTMINSTER, CITY OF | 08059C0092E | 19-MAR-2004 | 04-08-0349A | 02
08 | MT | BUTTE-SILVER BOW COUNTY | 3000770183D | 12-MAR-2004 | 04-08-0327A | 02
08 | MT | CARBON COUNTY | 3001390315C | 03-MAR-2004 | 04-08-0041A | 02
08 | MT | CARBON COUNTY | 3001390305B | 20-FEB-2004 | 04-08-0276A | 01
08 | MT | CASCADE COUNTY | 3000080416B | 16-APR-2004 | 04-08-0418A | 02
08 | MT | CASCADE COUNTY | 3000080416B | 16-APR-2004 | 04-08-0433A | 02
08 | MT | FLATHEAD COUNTY | 3000231400C | 19-MAR-2004 | 04-08-0153A | 02
08 | MT | FLATHEAD COUNTY | 3000231805D | 23-APR-2004 | 04-08-0320A | 02
08 | MT | FLATHEAD COUNTY | 3000232305D | 08-APR-2004 | 04-08-0347A | 02
08 | MT | FLATHEAD COUNTY | 3000232305D | 16-APR-2004 | 04-08-0436X | 02
08 | MT | GLENDIVE, CITY OF | 3000150005B | 25-FEB-2004 | 04-08-0174A | 02
08 | MT | LAKE COUNTY | 30047C0350B | 06-MAY-2004 | 04-08-0424A | 02
08 | MT | LEWIS AND CLARK COUNTY | 3000381542D | 06-MAY-2004 | 04-08-0338A | 02
08 | MT | LEWIS AND CLARK COUNTY | 3000381541C | 27-MAY-2004 | 04-08-0351P | 06
08 | MT | LEWIS AND CLARK COUNTY | 3000381542D | 27-MAY-2004 | 04-08-0351P | 06
08 | MT | LINCOLN COUNTY | 3001570620B | 17-MAR-2004 | 04-08-0337A | 02
08 | MT | LIVINGSTON, CITY OF | 3000510005B | 25-FEB-2004 | 04-08-0128A | 02
08 | MT | MINERAL COUNTY | 3001590006B | 25-MAR-2004 | 04-08-0294A | 02
08 | MT | MINERAL COUNTY | 3001590006C | 08-APR-2004 | 04-08-0402X | 02
08 | MT | MISSOULA COUNTY | 30063C1465D | 18-FEB-2004 | 04-08-0278A | 01
08 | MT | MISSOULA COUNTY | 30063C0890D | 17-MAR-2004 | 04-08-0297A | 02
08 | MT | PARK COUNTY | 3001600020B | 21-JAN-2004 | 04-08-0124A | 02
08 | MT | PARK COUNTY | 3001600033B | 26-MAR-2004 | 04-08-0340A | 02
08 | MT | PARK COUNTY | 3001600024B | 14-APR-2004 | 04-08-0394A | 02
08 | MT | PARK COUNTY | 3001600033A | 06-MAY-2004 | 04-08-0414A | 02
08 | MT | RAVALLI COUNTY | 30081C0045C | 16-APR-2004 | 04-08-0250A | 17
08 | MT | ROUNDUP, CITY OF | 3000500001B | 06-MAY-2004 | 04-08-0289A | 02
08 | MT | SANDERS COUNTY | 3000720023B | 16-JAN-2004 | 04-08-0130A | 02
08 | MT | SANDERS COUNTY | 3000720023B | 23-JAN-2004 | 04-08-0193A | 02
08 | MT | SANDERS COUNTY | 3000720019B | 17-MAR-2004 | 04-08-0273A | 02
08 | MT | WHITEFISH, CITY OF | 3000231090C | 25-MAR-2004 | 04-08-0277A | 02
08 | MT | YELLOWSTONE COUNTY | 3001421020A | 09-JAN-2004 | 03-08-0515A | 01
08 | ND | BISMARCK, CITY OF | 3801490025A | 14-JAN-2004 | 04-08-0118A | 02
08 | ND | BISMARCK, CITY OF | 3801490025A | 03-MAR-2004 | 04-08-0313A | 01
08 | ND | BISMARCK, CITY OF | 3801490025A | 26-MAR-2004 | 04-08-0376X | 01
08 | ND | BURLEIGH COUNTY | 3800170780A | 26-MAY-2004 | 04-08-0452A | 02
08 | ND | FORT RANSOM, CITY OF | 3803320001A | 12-MAY-2004 | 04-08-0413A | 01
08 | ND | GRAND FORKS, CITY OF | 3853650010D | 17-MAR-2004 | 04-08-0362A | 02
08 | ND | GRAND FORKS, CITY OF | 3853650010D | 21-MAY-2004 | 04-08-0487A | 01
08 | ND | MANDAN, CITY OF | 3800720020B | 20-FEB-2004 | 03-08-0670A | 02
08 | ND | MINOT, CITY OF | 38101C0783D | 14-JAN-2004 | 04-08-0076A | 02
08 | ND | MINOT, CITY OF | 38101C0776D | 04-FEB-2004 | 04-08-0225A | 02
08 | ND | RANSOM COUNTY | 3800890025B | 11-FEB-2004 | 04-08-0228A | 02
08 | ND | SOURIS, CITY OF | 3800100001A | 10-MAR-2004 | 04-08-0100A | 02
08 | ND | TRENTON, TOWNSHIP OF | 3806790025A | 18-FEB-2004 | 04-08-0143A | 02
08 | ND | WALSH COUNTY | 3801350005B | 30-JAN-2004 | 04-08-0152A | 01
08 | SD | ABERDEEN, CITY OF | 46013C0245C | 14-JAN-2004 | 04-08-0164A | 02
08 | SD | ABERDEEN, CITY OF | 46013C0265C | 01-MAR-2004 | 04-08-0186A | 02
08 | SD | ABERDEEN, CITY OF | 46013C0330C | 06-MAY-2004 | 04-08-0385A | 01
08 | SD | BROOKINGS, CITY OF | 4600040005B | 16-JAN-2004 | 03-08-0632A | 01
08 | SD | BROOKINGS, CITY OF | 4600040005B | 03-MAR-2004 | 04-08-0342A | 01
08 | SD | BROWN COUNTY | 46013C0310C | 13-FEB-2004 | 04-08-0265A | 02
08 | SD | CASTLEWOOD, CITY OF | 460035_01B | 18-FEB-2004 | 04-08-0261A | 02
08 | SD | DAVISON COUNTY | 460020_10B | 11-FEB-2004 | 04-08-0149A | 01
08 | SD | DELL RAPIDS, CITY OF | 4600590001A | 09-JAN-2004 | 04-08-0073A | 02
08 | SD | DELL RAPIDS, CITY OF | 4600590001A | 03-MAR-2004 | 04-08-0310A | 02
08 | SD | GRANT COUNTY | 4602660008B | 17-JUN-2004 | 04-08-0375A | 02
08 | SD | GROTON, CITY OF | 46013C0352C | 13-FEB-2004 | 04-08-0264A | 02
08 | SD | GROTON, CITY OF | 46013C0352C | 25-FEB-2004 | 04-08-0291A | 02
08 | SD | HILL CITY, CITY OF | 4601160001C | 14-JUN-2004 | 04-08-0460A | 02
08 | SD | LAKE COUNTY | 4602760150B | 20-FEB-2004 | 04-08-0272A | 02
08 | SD | LAKE COUNTY | 4602760150B | 25-FEB-2004 | 04-08-0321A | 02
08 | SD | LAKE COUNTY | 4602760150B | 12-MAR-2004 | 04-08-0348A | 02
08 | SD | LINCOLN COUNTY | 4602770001B | 06-FEB-2004 | 04-08-0059A | 02
08 | SD | LINCOLN COUNTY | 4602770003B | 23-JAN-2004 | 04-08-0134A | 02
08 | SD | MADISON, CITY OF | 4600440002B | 08-APR-2004 | 04-08-0112A | 17
08 | SD | MADISON, CITY OF | 4600440002B | 12-MAR-2004 | 04-08-0352A | 02
08 | SD | MINNEHAHA COUNTY | 4600570170C | 03-MAR-2004 | 04-08-0077A | 02
08 | SD | MINNEHAHA COUNTY | 4600570155C | 28-APR-2004 | 04-08-0429A | 02
08 | SD | PENNINGTON COUNTY | 4600641105B | 23-APR-2004 | 04-08-0357A | 02
08 | SD | PIERRE, CITY OF | 46065C0401C | 21-MAY-2004 | 04-08-0466A | 02
08 | SD | RAPID CITY, CITY OF | 4654200008F | 18-FEB-2004 | 04-08-0173A | 01
08 | SD | RAPID CITY, CITY OF | 4654200008F | 09-APR-2004 | 04-08-0396A | 01
08 | SD | RAPID CITY, CITY OF | 4654200004F | 09-APR-2004 | 04-08-0397A | 02
08 | SD | SIOUX FALLS, CITY OF | 4600570065C | 14-MAY-2004 | 04-08-0446A | 02
08 | SD | SPEARFISH, CITY OF | 4600460004E | 26-MAY-2004 | 04-08-0372A | 02
08 | SD | SPEARFISH, CITY OF | 4600460005E | 30-APR-2004 | 04-08-0422A | 02
08 | SD | UNION COUNTY | 460242_38D | 09-JUN-2004 | 04-08-0311A | 01
08 | UT | ALPINE, CITY OF | 4902280005A | 12-MAY-2004 | 04-08-0420A | 02
08 | UT | BOUNTIFUL, CITY OF | 4900390005C | 06-FEB-2004 | 04-08-0257A | 02
08 | UT | CACHE COUNTY | 4900120009B | 03-MAR-2004 | 04-08-0256A | 02
08 | UT | CARBON COUNTY | 4900320255B | 07-JAN-2004 | 04-08-0103A | 02
08 | UT | CARBON COUNTY | 4900320260B | 07-JAN-2004 | 04-08-0103A | 02
08 | UT | CEDAR CITY, CITY OF | 4900730725B | 19-FEB-2004 | 03-08-0370P | 05
08 | UT | CEDAR CITY, CITY OF | 4900740001B | 19-FEB-2004 | 03-08-0370P | 05
08 | UT | CEDAR CITY, CITY OF | 4900740003B | 19-FEB-2004 | 03-08-0370P | 05
08 | UT | DAVIS COUNTY | 4900380160B | 14-JAN-2004 | 04-08-0137A | 02
08 | UT | GRAND COUNTY | 4902320038A | 26-MAR-2004 | 04-08-0144A | 02
08 | UT | IRON COUNTY | 4900730725B | 19-FEB-2004 | 03-08-0370P | 06
08 | UT | LINDON, CITY OF | 4902100005C | 08-APR-2004 | 04-08-0383A | 02
08 | UT | MORGAN CITY,CITY OF | 4900930001B | 26-MAY-2004 | 04-08-0456A | 02
08 | UT | MORGAN COUNTY | 4900920175B | 06-FEB-2004 | 04-08-0224A | 02
08 | UT | NIBLEY, TOWN OF | 490023_02A | 25-FEB-2004 | 04-08-0262A | 02
08 | UT | OAKLEY, TOWN OF | 4901380001B | 13-FEB-2004 | 04-08-0226A | 02
08 | UT | OAKLEY, TOWN OF | 4901380001B | 12-MAR-2004 | 04-08-0353A | 02
08 | UT | OGDEN, CITY OF | 4901890004B | 26-MAR-2004 | 04-08-0045A | 17
08 | UT | PARK CITY, CITY OF | 4901390005B | 25-FEB-2004 | 04-08-0214A | 02
08 | UT | PRICE, CITY OF | 4900360001D | 19-MAY-2004 | 04-08-0312A | 01
08 | UT | RICHFIELD, CITY OF | 4901210011B | 25-MAR-2004 | 04-08-0343A | 02
08 | UT | RIVERTON, CITY OF | 49035C0440F | 25-MAR-2004 | 03-08-0349P | 06
08 | UT | RIVERTON, CITY OF | 49035C0420E | 11-FEB-2004 | 04-08-0116A | 02
08 | UT | SALINA, CITY OF | 4901320001B | 02-JUN-2004 | 04-08-0072P | 05
08 | UT | SALT LAKE COUNTY | 49035C0317E | 05-MAR-2004 | 04-08-0086A | 02
08 | UT | SALT LAKE COUNTY | 49035C0466E | 20-FEB-2004 | 04-08-0171A | 02
08 | UT | SALT LAKE COUNTY | 49035C0303F | 25-FEB-2004 | 04-08-0221A | 02
08 | UT | ST. GEORGE, CITY OF | 4901770013D | 12-MAR-2004 | 04-08-0142A | 02
08 | UT | WASHINGTON,CITY OF | 4901820015C | 11-FEB-2004 | 04-08-0263A | 02
08 | UT | WASHINGTON,CITY OF | 4901820015C | 28-JUN-2004 | 04-08-0395A | 02
08 | UT | WEBER COUNTY | 4901870407B | 09-JUN-2004 | 04-08-0408A | 02
08 | UT | WELLSVILLE, CITY OF | 4900310001B | 17-JUN-2004 | 04-08-0457A | 02
08 | UT | WEST JORDAN, CITY OF | 49035C0410E | 15-APR-2004 | 03-08-0549P | 06
08 | UT | WEST JORDAN, CITY OF | 49035C0430E | 15-APR-2004 | 03-08-0549P | 06
08 | UT | WEST JORDAN, CITY OF | 49035C0430E | 25-MAR-2004 | 04-08-0014P | 05
08 | UT | WEST JORDAN, CITY OF | 49035C0430E | 04-FEB-2004 | 04-08-0185A | 02
08 | WY | CAMPBELL COUNTY | 5600810600B | 12-MAY-2004 | 04-08-0416A | 02
08 | WY | CHEYENNE, CITY OF | 5600300005E | 03-MAR-2004 | 04-08-0150A | 17
08 | WY | CHEYENNE, CITY OF | 5600300005E | 10-MAR-2004 | 04-08-0162A | 01
08 | WY | CHEYENNE, CITY OF | 5600300005E | 25-FEB-2004 | 04-08-0305A | 02
08 | WY | GILLETTE, CITY OF | 5600070005C | 17-MAR-2004 | 04-08-0336A | 02
08 | WY | KEMMERER,TOWN OF | 5600350005B | 25-MAR-2004 | 04-08-0304A | 02
08 | WY | LARAMIE COUNTY | 5600290510D | 13-FEB-2004 | 04-08-0254A | 02
08 | WY | LARAMIE COUNTY | 5600290505D | 10-MAR-2004 | 04-08-0290A | 02
08 | WY | LARAMIE COUNTY | 5600290505D | 23-APR-2004 | 04-08-0406A | 02
08 | WY | PARK COUNTY | 5600850029B | 12-MAY-2004 | 04-08-0431A | 02
08 | WY | ROCK SPRINGS, CITY OF | 5600510005E | 06-MAY-2004 | 04-08-0329A | 02
08 | WY | SHERIDAN COUNTY | 5600470020C | 25-FEB-2004 | 04-08-0138A | 02
09 | AZ | BUCKEYE, TOWN OF | 04013C0675F | 07-MAY-2004 | 03-09-1020P | 06
09 | AZ | BUCKEYE, TOWN OF | 04013C1080H | 07-MAY-2004 | 03-09-1020P | 06
09 | AZ | BUCKEYE, TOWN OF | 04013C1090H | 07-MAY-2004 | 03-09-1020P | 06
09 | AZ | BUCKEYE, TOWN OF | 04013C1540G | 07-MAY-2004 | 03-09-1020P | 06
09 | AZ | BUCKEYE, TOWN OF | 04013C2035G | 27-MAY-2004 | 04-09-0544P | 05
09 | AZ | BUCKEYE, TOWN OF | 04013C2055F | 27-MAY-2004 | 04-09-0544P | 05
09 | AZ | BUCKEYE, TOWN OF | 04013C2035G | 27-MAY-2004 | 04-09-0585P | 05
09 | AZ | BUCKEYE, TOWN OF | 04013C2055F | 27-MAY-2004 | 04-09-0585P | 05
09 | AZ | CHANDLER, CITY OF | 04013C2670G | 02-APR-2004 | 04-09-0581A | 01
09 | AZ | CHANDLER, CITY OF | 04013C3035G | 30-APR-2004 | 04-09-0842A | 01
09 | AZ | COCONINO COUNTY | 0400193600B | 25-FEB-2004 | 04-09-0379A | 02
09 | AZ | COLORADO RIVER INDIAN TRIBE | 0401230075A | 19-MAR-2004 | 04-09-0270A | 02
09 | AZ | COOLIDGE, CITY OF | 0400770725C | 22-APR-2004 | 04-09-0163P | 06
09 | AZ | GLENDALE, CITY OF | 04013C1615J | 14-JUN-2004 | 03-09-1538P | 06
09 | AZ | MARANA, TOWN OF | 04019C1610K | 18-MAR-2004 | 02-09-829P | 05
09 | AZ | MARANA, TOWN OF | 04019C1610K | 22-APR-2004 | 04-09-0465X | 05
09 | AZ | MARANA, TOWN OF | 04019C1025K | 19-APR-2004 | 04-09-0474P | 06
09 | AZ | MARANA, TOWN OF | 04019C1610K | 22-APR-2004 | 04-09-0750P | 05
09 | AZ | MARICOPA COUNTY | 04013C0240E | 07-MAY-2004 | 03-09-1020P | 06
09 | AZ | MARICOPA COUNTY | 04013C0265F | 07-MAY-2004 | 03-09-1020P | 06
09 | AZ | MARICOPA COUNTY | 04013C0660F | 07-MAY-2004 | 03-09-1020P | 06
09 | AZ | MARICOPA COUNTY | 04013C0675F | 07-MAY-2004 | 03-09-1020P | 06
09 | AZ | MARICOPA COUNTY | 04013C1035G | 07-MAY-2004 | 03-09-1020P | 06
09 | AZ | MARICOPA COUNTY | 04013C1055G | 07-MAY-2004 | 03-09-1020P | 06
09 | AZ | MARICOPA COUNTY | 04013C1060G | 07-MAY-2004 | 03-09-1020P | 06
09 | AZ | MARICOPA COUNTY | 04013C1070G | 07-MAY-2004 | 03-09-1020P | 06
09 | AZ | MARICOPA COUNTY | 04013C1080H | 07-MAY-2004 | 03-09-1020P | 06
09 | AZ | MARICOPA COUNTY | 04013C1090H | 07-MAY-2004 | 03-09-1020P | 06
09 | AZ | MARICOPA COUNTY | 04013C1510H | 07-MAY-2004 | 03-09-1020P | 06
09 | AZ | MARICOPA COUNTY | 04013C1525G | 07-MAY-2004 | 03-09-1020P | 06
09 | AZ | MARICOPA COUNTY | 04013C1540G | 07-MAY-2004 | 03-09-1020P | 06
09 | AZ | MARICOPA COUNTY | 04013C0025E | 19-JAN-2004 | 03-09-1312P | 06
09 | AZ | MARICOPA COUNTY | 04013C0050E | 19-JAN-2004 | 03-09-1312P | 06
09 | AZ | MARICOPA COUNTY | 04013C0375F | 19-JAN-2004 | 03-09-1312P | 06
09 | AZ | MARICOPA COUNTY | 04013C0400G | 19-JAN-2004 | 03-09-1312P | 06
09 | AZ | MARICOPA COUNTY | 04013C1615J | 14-JUN-2004 | 03-09-1538P | 06
09 | AZ | MARICOPA COUNTY | 04013C1510H | 07-MAY-2004 | 03-09-1562P | 06
09 | AZ | MARICOPA COUNTY | 04013C1525G | 07-MAY-2004 | 03-09-1562P | 06
09 | AZ | MARICOPA COUNTY | 04013C2000F | 07-MAY-2004 | 03-09-1562P | 06
09 | AZ | MARICOPA COUNTY | 04013C2460G | 07-MAY-2004 | 03-09-1562P | 06
09 | AZ | MARICOPA COUNTY | 04013C2470G | 07-MAY-2004 | 03-09-1562P | 06
09 | AZ | MARICOPA COUNTY | 04013C2475F | 07-MAY-2004 | 03-09-1562P | 06
09 | AZ | MARICOPA COUNTY | 04013C2480G | 07-MAY-2004 | 03-09-1562P | 06
09 | AZ | MARICOPA COUNTY | 04013C2090G | 25-FEB-2004 | 04-09-0588A | 02
09 | AZ | MESA, CITY OF | 04013C2195F | 29-JAN-2004 | 04-09-0304A | 01
09 | AZ | MESA, CITY OF | 04013C2195F | 07-JAN-2004 | 04-09-0359A | 02
09 | AZ | MOHAVE COUNTY | 0400582435D | 29-JAN-2004 | 04-09-0351A | 02
09 | AZ | PHOENIX, CITY OF | 04013C1655J | 14-APR-2004 | 03-09-0012P | 06
09 | AZ | PHOENIX, CITY OF | 04013C1660G | 14-APR-2004 | 03-09-0012P | 06
09 | AZ | PHOENIX, CITY OF | 04013C1660G | 27-MAY-2004 | 03-09-0910P | 05
09 | AZ | PHOENIX, CITY OF | 04013C1185G | 25-MAR-2004 | 03-09-0934P | 05
09 | AZ | PHOENIX, CITY OF | 04013C2140F | 09-JAN-2004 | 04-09-0111A | 02
09 | AZ | PHOENIX, CITY OF | 04013C2130F | 13-FEB-2004 | 04-09-0261A | 02
09 | AZ | PHOENIX, CITY OF | 04013C2165G | 08-APR-2004 | 04-09-0337A | 02
09 | AZ | PHOENIX, CITY OF | 04013C2145G | 18-FEB-2004 | 04-09-0363A | 01
09 | AZ | PHOENIX, CITY OF | 04013C2130F | 30-JAN-2004 | 04-09-0413A | 02
09 | AZ | PHOENIX, CITY OF | 04013C2130F | 06-FEB-2004 | 04-09-0459A | 02
09 | AZ | PHOENIX, CITY OF | 04013C2130F | 11-FEB-2004 | 04-09-0477A | 02
09 | AZ | PHOENIX, CITY OF | 04013C2130F | 06-FEB-2004 | 04-09-0531A | 02
09 | AZ | PHOENIX, CITY OF | 04013C2130F | 03-MAR-2004 | 04-09-0632A | 02
09 | AZ | PHOENIX, CITY OF | 04013C2130F | 31-MAR-2004 | 04-09-0645A | 02
09 | AZ | PHOENIX, CITY OF | 04013C1660G | 24-JUN-2004 | 04-09-0654X | 05
09 | AZ | PHOENIX, CITY OF | 04013C2140F | 02-APR-2004 | 04-09-0715A | 01
09 | AZ | PHOENIX, CITY OF | 04013C2120F | 22-JUN-2004 | 04-09-0716P | 05
09 | AZ | PHOENIX, CITY OF | 04013C2130F | 14-APR-2004 | 04-09-0800A | 02
09 | AZ | PHOENIX, CITY OF | 04013C1670F | 28-APR-2004 | 04-09-0836A | 02
09 | AZ | PIMA COUNTY | 04019C1610K | 18-MAR-2004 | 02-09-829P | 05
09 | AZ | PIMA COUNTY | 04019C1616K | 18-MAR-2004 | 02-09-829P | 05
09 | AZ | PIMA COUNTY | 04019C1617K | 18-MAR-2004 | 02-09-829P | 05
09 | AZ | PIMA COUNTY | 04019C1636K | 18-MAR-2004 | 02-09-829P | 05
09 | AZ | PIMA COUNTY | 04019C1637K | 18-MAR-2004 | 02-09-829P | 05
09 | AZ | PIMA COUNTY | 04019C1643K | 18-MAR-2004 | 02-09-829P | 05
09 | AZ | PIMA COUNTY | 04019C1644K | 18-MAR-2004 | 02-09-829P | 05
09 | AZ | PIMA COUNTY | 04019C1645K | 18-MAR-2004 | 02-09-829P | 05
09 | AZ | PIMA COUNTY | 04019C1663K | 18-MAR-2004 | 02-09-829P | 05
09 | AZ | PIMA COUNTY | 04019C2810K | 01-MAR-2004 | 03-09-0141P | 06
09 | AZ | PIMA COUNTY | 04019C2225K | 23-JAN-2004 | 04-09-0222A | 02
09 | AZ | PIMA COUNTY | 04019C1020K | 21-JAN-2004 | 04-09-0317A | 02
09 | AZ | PIMA COUNTY | 04019C1025K | 21-JAN-2004 | 04-09-0317A | 02
09 | AZ | PIMA COUNTY | 04019C1635K | 29-APR-2004 | 04-09-0380P | 06
09 | AZ | PIMA COUNTY | 04019C1610K | 22-APR-2004 | 04-09-0465X | 05
09 | AZ | PIMA COUNTY | 04019C1616K | 22-APR-2004 | 04-09-0465X | 05
09 | AZ | PIMA COUNTY | 04019C1617K | 22-APR-2004 | 04-09-0465X | 05
09 | AZ | PIMA COUNTY | 04019C1636K | 22-APR-2004 | 04-09-0465X | 05
09 | AZ | PIMA COUNTY | 04019C1637K | 22-APR-2004 | 04-09-0465X | 05
09 | AZ | PIMA COUNTY | 04019C1643K | 22-APR-2004 | 04-09-0465X | 05
09 | AZ | PIMA COUNTY | 04019C1644K | 22-APR-2004 | 04-09-0465X | 05
09 | AZ | PIMA COUNTY | 04019C1645K | 22-APR-2004 | 04-09-0465X | 05
09 | AZ | PIMA COUNTY | 04019C1663K | 22-APR-2004 | 04-09-0465X | 05
09 | AZ | PIMA COUNTY | 04019C1025K | 19-APR-2004 | 04-09-0474P | 06
09 | AZ | PIMA COUNTY | 04019C2290K | 03-MAR-2004 | 04-09-0518A | 02
09 | AZ | PIMA COUNTY | 04019C1690K | 01-MAR-2004 | 04-09-0532A | 02
09 | AZ | PIMA COUNTY | 04019C1630K | 28-APR-2004 | 04-09-0782A | 02
09 | AZ | PIMA COUNTY | 04019C2810K | 28-APR-2004 | 04-09-0978A | 02
09 | AZ | PIMA COUNTY | 04019C1637K | 18-JUN-2004 | 04-09-1046A | 02
09 | AZ | PINAL COUNTY | 0400770300C | 23-JAN-2004 | 04-09-0176A | 02
09 | AZ | PINAL COUNTY | 0400770950C | 06-FEB-2004 | 04-09-0328A | 02
09 | AZ | PRESCOTT VALLEY, TOWN OF | 04025C1739F | 04-FEB-2004 | 04-09-0458A | 02
09 | AZ | PRESCOTT VALLEY, TOWN OF | 04025C2102F | 04-FEB-2004 | 04-09-0464A | 02
09 | AZ | PRESCOTT VALLEY, TOWN OF | 04025C2085F | 10-MAR-2004 | 04-09-0528A | 01
09 | AZ | PRESCOTT, CITY OF | 04025C2080F | 06-FEB-2004 | 04-09-0446A | 17
09 | AZ | PRESCOTT, CITY OF | 04025C2090F | 25-MAR-2004 | 04-09-0733A | 02
09 | AZ | QUEEN CREEK, TOWN OF | 04013C2695G | 22-JAN-2004 | 03-09-0247P | 06
09 | AZ | SANTA CRUZ COUNTY | 0400900280B | 04-FEB-2004 | 04-09-0028A | 02
09 | AZ | SANTA CRUZ COUNTY | 0400900280B | 06-FEB-2004 | 04-09-0313A | 02
09 | AZ | SANTA CRUZ COUNTY | 0400900200A | 08-APR-2004 | 04-09-0663A | 02
09 | AZ | SANTA CRUZ COUNTY | 0400900020B | 08-APR-2004 | 04-09-0826A | 02
09 | AZ | SCOTTSDALE, CITY OF | 04013C1230G | 09-APR-2004 | 04-09-0804A | 02
09 | AZ | SCOTTSDALE, CITY OF | 04013C1695G | 12-MAY-2004 | 04-09-0946A | 02
09 | AZ | SOUTH TUCSON, TOWN OF | 04019C2228K | 06-MAY-2004 | 04-09-0828A | 02
09 | AZ | TUCSON, CITY OF | 04019C1610K | 18-MAR-2004 | 02-09-829P | 05
09 | AZ | TUCSON, CITY OF | 04019C1616K | 18-MAR-2004 | 02-09-829P | 05
09 | AZ | TUCSON, CITY OF | 04019C1617K | 18-MAR-2004 | 02-09-829P | 05
09 | AZ | TUCSON, CITY OF | 04019C1636K | 18-MAR-2004 | 02-09-829P | 05
09 | AZ | TUCSON, CITY OF | 04019C1637K | 18-MAR-2004 | 02-09-829P | 05
09 | AZ | TUCSON, CITY OF | 04019C1639K | 18-MAR-2004 | 02-09-829P | 05
09 | AZ | TUCSON, CITY OF | 04019C1643K | 18-MAR-2004 | 02-09-829P | 05
09 | AZ | TUCSON, CITY OF | 04019C1644K | 18-MAR-2004 | 02-09-829P | 05
09 | AZ | TUCSON, CITY OF | 04019C1645K | 18-MAR-2004 | 02-09-829P | 05
09 | AZ | TUCSON, CITY OF | 04019C1663K | 18-MAR-2004 | 02-09-829P | 05
09 | AZ | TUCSON, CITY OF | 04019C2210K | 18-MAR-2004 | 04-09-0427P | 06
09 | AZ | TUCSON, CITY OF | 04019C1610K | 22-APR-2004 | 04-09-0465X | 05
09 | AZ | TUCSON, CITY OF | 04019C1616K | 22-APR-2004 | 04-09-0465X | 05
09 | AZ | TUCSON, CITY OF | 04019C1617K | 22-APR-2004 | 04-09-0465X | 05
09 | AZ | TUCSON, CITY OF | 04019C1636K | 22-APR-2004 | 04-09-0465X | 05
09 | AZ | TUCSON, CITY OF | 04019C1637K | 22-APR-2004 | 04-09-0465X | 05
09 | AZ | TUCSON, CITY OF | 04019C1639K | 22-APR-2004 | 04-09-0465X | 05
09 | AZ | TUCSON, CITY OF | 04019C1643K | 22-APR-2004 | 04-09-0465X | 05
09 | AZ | TUCSON, CITY OF | 04019C1644K | 22-APR-2004 | 04-09-0465X | 05
09 | AZ | TUCSON, CITY OF | 04019C1645K | 22-APR-2004 | 04-09-0465X | 05
09 | AZ | TUCSON, CITY OF | 04019C1663K | 22-APR-2004 | 04-09-0465X | 05
09 | AZ | TUCSON, CITY OF | 04019C2210K | 11-FEB-2004 | 04-09-0506A | 02
09 | AZ | TUCSON, CITY OF | 04019C1639K | 31-MAR-2004 | 04-09-0665A | 02
09 | AZ | TUCSON, CITY OF | 04019C2210K | 08-APR-2004 | 04-09-0746A | 02
09 | AZ | YAVAPAI COUNTY | 04025C2060F | 06-FEB-2004 | 03-09-1684A | 02
09 | AZ | YAVAPAI COUNTY | 04025C2040F | 21-JAN-2004 | 04-09-0228A | 02
09 | AZ | YAVAPAI COUNTY | 04025C1340F | 28-MAY-2004 | 04-09-0527A | 02
09 | AZ | YUMA COUNTY | 0400990885D | 24-MAR-2004 | 02-09-045P | 05
09 | AZ | YUMA COUNTY | 0400990925B | 10-JUN-2004 | 03-09-0639P | 06
09 | CA | AGOURA HILLS, CITY OF | 0650720002B | 17-JUN-2004 | 04-09-1075A | 02
09 | CA | ALAMEDA COUNTY | 0600010095B | 26-MAR-2004 | 04-09-0631A | 02
09 | CA | ALAMEDA, CITY OF | 0600020005B | 03-MAY-2004 | 04-09-0250P | 06
09 | CA | ANAHEIM, CITY OF | 06059C0134H | 19-FEB-2004 | 02-09-212V | 19
09 | CA | ANAHEIM, CITY OF | 06059C0152H | 19-FEB-2004 | 02-09-212V | 19
09 | CA | ANAHEIM, CITY OF | 06059C0156H | 19-FEB-2004 | 02-09-212V | 19
09 | CA | ANAHEIM, CITY OF | 06059C0157H | 19-FEB-2004 | 02-09-212V | 19
09 | CA | ANAHEIM, CITY OF | 06059C0156H | 26-FEB-2004 | 04-09-0586P | 06
09 | CA | ANDERSON, CITY OF | 0603590001C | 25-FEB-2004 | 04-09-0568A | 02
09 | CA | ARCATA, CITY OF | 0600610002E | 18-MAY-2004 | 03-09-0824P | 05
09 | CA | BEAUMONT, CITY OF | 0602470005B | 09-JUN-2004 | 04-09-0829A | 02
09 | CA | BELMONT, CITY OF | 0650160005B | 13-JAN-2004 | 04-09-0057P | 06
09 | CA | BREA, CITY OF | 06059C0033H | 21-APR-2004 | 04-09-0839P | 06
09 | CA | BREA, CITY OF | 06059C0041H | 21-APR-2004 | 04-09-0839P | 06
09 | CA | BURBANK, CITY OF | 0650180005C | 20-MAY-2004 | 02-09-874P | 05
09 | CA | BURBANK, CITY OF | 0650180005C | 19-MAY-2004 | 02-09-944P | 05
09 | CA | BURBANK, CITY OF | 0650180005C | 01-MAR-2004 | 04-09-0457A | 02
09 | CA | BUTTE COUNTY | 06007C0505C | 04-FEB-2004 | 04-09-0146A | 02
09 | CA | BUTTE COUNTY | 06007C0375C | 23-APR-2004 | 04-09-0880A | 02
09 | CA | CALAVERAS COUNTY | 0606330150B | 26-MAR-2004 | 04-09-0687A | 02
09 | CA | CAMPBELL, CITY OF | 0603380005C | 17-MAR-2004 | 04-09-0439A | 02
09 | CA | CATHEDRAL CITY, CITY OF | 0607040005D | 11-FEB-2004 | 04-09-0533A | 01
09 | CA | CATHEDRAL CITY, CITY OF | 0607040005D | 19-MAR-2004 | 04-09-0779A | 01
09 | CA | CHULA VISTA, CITY OF | 06073C1914F | 11-JUN-2004 | 03-09-0900P | 05
09 | CA | CHULA VISTA, CITY OF | 06073C2152F | 11-JUN-2004 | 03-09-0900P | 05
09 | CA | CLAYTON, CITY OF | 0600270001C | 07-MAY-2004 | 04-09-0774A | 02
09 | CA | CLEARLAKE, CITY OF | 0607140005C | 23-JUN-2004 | 04-09-1093A | 02
09 | CA | CONCORD, CITY OF | 0650220007C | 21-JAN-2004 | 04-09-0471A | 02
09 | CA | CONCORD, CITY OF | 0650220006C | 31-MAR-2004 | 04-09-0535A | 02
09 | CA | CONCORD, CITY OF | 0650220007C | 23-APR-2004 | 04-09-0685A | 02
09 | CA | CONCORD, CITY OF | 0650220007C | 14-APR-2004 | 04-09-0791A | 02
09 | CA | CONCORD, CITY OF | 0650220006C | 26-MAY-2004 | 04-09-0926A | 02
09 | CA | CONTRA COSTA COUNTY | 0600250365B | 24-MAR-2004 | 03-09-0909P | 06
09 | CA | CONTRA COSTA COUNTY | 0600250370B | 24-MAR-2004 | 03-09-0909P | 06
09 | CA | CONTRA COSTA COUNTY | 0600250525B | 24-MAR-2004 | 03-09-0909P | 06
09 | CA | CONTRA COSTA COUNTY | 0600250400B | 24-MAY-2004 | 04-09-0109P | 06
09 | CA | CONTRA COSTA COUNTY | 0600250435C | 06-FEB-2004 | 04-09-0252A | 02
09 | CA | CONTRA COSTA COUNTY | 0600250470C | 07-JAN-2004 | 04-09-0280A | 02
09 | CA | CONTRA COSTA COUNTY | 0600250275B | 30-JAN-2004 | 04-09-0388A | 02
09 | CA | CONTRA COSTA COUNTY | 0600250275B | 10-MAR-2004 | 04-09-0522A | 02
09 | CA | CONTRA COSTA COUNTY | 0600250275B | 06-MAY-2004 | 04-09-0612A | 02
09 | CA | CONTRA COSTA COUNTY | 0600250470C | 10-MAR-2004 | 04-09-0641A | 02
09 | CA | CONTRA COSTA COUNTY | 0600250525B | 26-MAR-2004 | 04-09-0729A | 02
09 | CA | COSTA MESA, CITY OF | 06059C0259H | 19-FEB-2004 | 02-09-212V | 19
09 | CA | DANA POINT, CITY OF | 06059C0508H | 30-APR-2004 | 04-09-0618A | 02
09 | CA | DAVIS, CITY OF | 0604240036C | 14-JAN-2004 | 04-09-0385A | 02
09 | CA | DAVIS, CITY OF | 0604240009C | 04-FEB-2004 | 04-09-0452A | 02
09 | CA | DAVIS, CITY OF | 0604240009C | 31-MAR-2004 | 04-09-0747A | 01
09 | CA | DAVIS, CITY OF | 0604240009C | 09-APR-2004 | 04-09-0806A | 01
09 | CA | EL DORADO COUNTY | 0600400725C | 06-FEB-2004 | 04-09-0357A | 02
09 | CA | EL DORADO COUNTY | 0600400609B | 10-MAR-2004 | 04-09-0671A | 02
09 | CA | ELK GROVE, CITY OF | 0602620320E | 16-JAN-2004 | 04-09-0056A | 01
09 | CA | ENCINITAS, CITY OF | 06073C1063F | 19-MAY-2004 | 04-09-0728A | 02
09 | CA | ESCONDIDO, CITY OF | 06073C1076F | 21-MAY-2004 | 03-09-1334P | 05
09 | CA | ESCONDIDO, CITY OF | 06073C1083F | 17-JUN-2004 | 04-09-0957A | 02
09 | CA | FAIRFIELD, CITY OF | 0603700010C | 04-FEB-2004 | 03-09-0990A | 02
09 | CA | FAIRFIELD, CITY OF | 0603700009D | 19-MAY-2004 | 04-09-0469A | 01
09 | CA | FAIRFIELD, CITY OF | 0603700010C | 08-APR-2004 | 04-09-0771A | 01
09 | CA | FIREBAUGH, CITY OF | 06019C1430F | 21-JAN-2004 | 04-09-0083A | 02
09 | CA | FOUNTAIN VALLEY, CITY OF | 06059C0252H | 19-FEB-2004 | 02-09-212V | 19
09 | CA | FOUNTAIN VALLEY, CITY OF | 06059C0253H | 19-FEB-2004 | 02-09-212V | 19
09 | CA | FOUNTAIN VALLEY, CITY OF | 06059C0252H | 20-FEB-2004 | 04-09-0332A | 02
09 | CA | FOUNTAIN VALLEY, CITY OF | 06059C0254H | 20-FEB-2004 | 04-09-0332A | 02
09 | CA | FOUNTAIN VALLEY, CITY OF | 06059C0252H | 12-MAR-2004 | 04-09-0559A | 02
09 | CA | FOUNTAIN VALLEY, CITY OF | 06059C0252H | 26-MAR-2004 | 04-09-0688A | 02
09 | CA | FOUNTAIN VALLEY, CITY OF | 06059C0252H | 09-APR-2004 | 04-09-0692A | 02
09 | CA | FOUNTAIN VALLEY, CITY OF | 06059C0252H | 09-APR-2004 | 04-09-0693A | 02
09 | CA | FOUNTAIN VALLEY, CITY OF | 06059C0252H | 17-MAR-2004 | 04-09-0759A | 02
09 | CA | FOUNTAIN VALLEY, CITY OF | 06059C0254H | 17-MAR-2004 | 04-09-0759A | 02
09 | CA | FOUNTAIN VALLEY, CITY OF | 06059C0252H | 09-APR-2004 | 04-09-0873A | 02
09 | CA | FRESNO COUNTY | 06019C1590F | 05-JAN-2004 | 03-09-1270P | 06
09 | CA | FRESNO COUNTY | 06019C2130F | 13-FEB-2004 | 04-09-0372A | 02
09 | CA | FRESNO, CITY OF | 06019C1590F | 05-JAN-2004 | 03-09-1270P | 06
09 | CA | FULLERTON, CITY OF | 06059C0041H | 19-FEB-2004 | 02-09-212V | 19
09 | CA | FULLERTON, CITY OF | 06059C0131H | 19-FEB-2004 | 02-09-212V | 19
09 | CA | GARDEN GROVE, CITY OF | 06059C0137H | 19-FEB-2004 | 02-09-212V | 19
09 | CA | GARDEN GROVE, CITY OF | 06059C0138H | 19-FEB-2004 | 02-09-212V | 19
09 | CA | GARDEN GROVE, CITY OF | 06059C0139H | 19-FEB-2004 | 02-09-212V | 19
09 | CA | GARDEN GROVE, CITY OF | 06059C0142H | 19-FEB-2004 | 02-09-212V | 19
09 | CA | GARDEN GROVE, CITY OF | 06059C0143H | 19-FEB-2004 | 02-09-212V | 19
09 | CA | GOLETA, CITY OF | 0603312337E | 04-JUN-2004 | 04-09-0935A | 02
09 | CA | HAYWARD, CITY OF | 0650330011E | 21-JAN-2004 | 04-09-0411A | 02
09 | CA | HEMET, CITY OF | 0602530005D | 04-FEB-2004 | 04-09-0362A | 01
09 | CA | HEMET, CITY OF | 0602451490C | 25-MAR-2004 | 04-09-0619A | 01
09 | CA | HEMET, CITY OF | 0602530005D | 03-MAR-2004 | 04-09-0667A | 01
09 | CA | HEMET, CITY OF | 0602530005D | 26-MAY-2004 | 04-09-0988A | 01
09 | CA | HIGHLAND, CITY OF | 06071C8706F | 11-FEB-2004 | 04-09-0570A | 01
09 | CA | HUMBOLDT COUNTY | 0600601450B | 23-APR-2004 | 04-09-0207A | 02
09 | CA | HUMBOLDT COUNTY | 0600601175B | 07-JAN-2004 | 04-09-0215A | 02
09 | CA | HUMBOLDT COUNTY | 0600601830B | 13-FEB-2004 | 04-09-0292A | 02
09 | CA | HUMBOLDT COUNTY | 0600601450B | 23-APR-2004 | 04-09-0449A | 02
09 | CA | HUMBOLDT COUNTY | 0600601175B | 01-MAR-2004 | 04-09-0561A | 02
09 | CA | HUNTINGTON BEACH, CITY OF | 06059C0231H | 19-FEB-2004 | 02-09-212V | 19
09 | CA | HUNTINGTON BEACH, CITY OF | 06059C0232H | 19-FEB-2004 | 02-09-212V | 19
09 | CA | HUNTINGTON BEACH, CITY OF | 06059C0233H | 19-FEB-2004 | 02-09-212V | 19
09 | CA | HUNTINGTON BEACH, CITY OF | 06059C0251H | 19-FEB-2004 | 02-09-212V | 19
09 | CA | HUNTINGTON BEACH, CITY OF | 06059C0253H | 19-FEB-2004 | 02-09-212V | 19
09 | CA | HUNTINGTON BEACH, CITY OF | 06059C0261H | 19-FEB-2004 | 02-09-212V | 19
09 | CA | HUNTINGTON BEACH, CITY OF | 06059C0253H | 12-MAR-2004 | 04-09-0516A | 02
09 | CA | HUNTINGTON BEACH, CITY OF | 06059C0253H | 20-FEB-2004 | 04-09-0607A | 02
09 | CA | HUNTINGTON BEACH, CITY OF | 06059C0263H | 25-MAR-2004 | 04-09-0653A | 01
09 | CA | HUNTINGTON BEACH, CITY OF | 06059C0263H | 14-APR-2004 | 04-09-0896X | 01
09 | CA | HUNTINGTON BEACH, CITY OF | 06059C0232H | 28-APR-2004 | 04-09-0911A | 02
09 | CA | IRVINE, CITY OF | 06059C0291H | 19-FEB-2004 | 02-09-212V | 19
09 | CA | IRVINE, CITY OF | 06059C0295H | 19-FEB-2004 | 02-09-212V | 19
09 | CA | ISLETON,CITY OF | 0602650001B | 03-MAR-2004 | 04-09-0479A | 02
09 | CA | KERN COUNTY | 0600750585B | 02-JUN-2004 | 04-09-0703A | 02
09 | CA | LA HABRA, CITY OF | 06059C0037H | 19-FEB-2004 | 02-09-212V | 19
09 | CA | LA HABRA, CITY OF | 06059C0041H | 19-FEB-2004 | 02-09-212V | 19
09 | CA | LA HABRA, CITY OF | 06059C0033H | 21-APR-2004 | 04-09-0839P | 06
09 | CA | LA HABRA, CITY OF | 06059C0041H | 21-APR-2004 | 04-09-0839P | 06
09 | CA | LA QUINTA, CITY OF | 0607090005B | 08-APR-2004 | 04-09-0567A | 01
09 | CA | LAGUNA BEACH, CITY OF | 06059C0417E | 25-FEB-2004 | 04-09-0428A | 02
09 | CA | LAGUNA BEACH, CITY OF | 06059C0417H | 05-MAR-2004 | 04-09-0700X | 02
09 | CA | LAGUNA HILLS, CITY OF | 06059C0429H | 12-MAY-2004 | 04-09-1017A | 01
09 | CA | LAKE COUNTY | 0600900845B | 09-JAN-2004 | 04-09-0360A | 02
09 | CA | LAKE COUNTY | 0600900655A | 04-FEB-2004 | 04-09-0542A | 02
09 | CA | LAKE COUNTY | 0600900825A | 23-APR-2004 | 04-09-0743A | 02
09 | CA | LAKE COUNTY | 0600900825A | 16-APR-2004 | 04-09-0763A | 02
09 | CA | LAKE COUNTY | 0600900680B | 14-APR-2004 | 04-09-0778A | 02
09 | CA | LAKE FOREST, CITY OF | 06059C0314H | 19-FEB-2004 | 02-09-212V | 19
09 | CA | LAKE FOREST, CITY OF | 06059C0318H | 19-FEB-2004 | 02-09-212V | 19
09 | CA | LAKE FOREST, CITY OF | 06059C0314H | 12-MAY-2004 | 04-09-0813A | 17
09 | CA | LARKSPUR, CITY OF | 0650400001B | 08-APR-2004 | 04-09-0815A | 02
09 | CA | LINDSAY, CITY OF | 0604060001C | 25-FEB-2004 | 04-09-0495A | 01
09 | CA | LINDSAY, CITY OF | 0650660670B | 25-FEB-2004 | 04-09-0495A | 01
09 | CA | LONG BEACH, CITY OF | 0601360025C | 10-MAR-2004 | 04-09-0414A | 01
09 | CA | LOS ANGELES COUNTY | 0650430390B | 16-JAN-2004 | 04-09-0197A | 02
09 | CA | LOS ANGELES, CITY OF | 0601370069D | 06-FEB-2004 | 03-09-1671A | 02
09 | CA | LOS ANGELES, CITY OF | 0601370069D | 17-JUN-2004 | 04-09-0102P | 05
09 | CA | LOS ANGELES, CITY OF | 0601370064C | 23-JAN-2004 | 04-09-0201A | 02
09 | CA | LOS ANGELES, CITY OF | 0601370071C | 20-FEB-2004 | 04-09-0227A | 02
09 | CA | LOS ANGELES, CITY OF | 0601370071C | 25-FEB-2004 | 04-09-0322A | 02
09 | CA | LOS ANGELES, CITY OF | 0601370073D | 09-APR-2004 | 04-09-0370A | 02
09 | CA | LOS ANGELES, CITY OF | 0601370073D | 25-FEB-2004 | 04-09-0451A | 02
09 | CA | LOS ANGELES, CITY OF | 0601370054D | 05-MAR-2004 | 04-09-0597A | 02
09 | CA | LOS ANGELES, CITY OF | 0601370071C | 06-MAY-2004 | 04-09-0613A | 02
09 | CA | LOS ANGELES, CITY OF | 0601370064C | 14-APR-2004 | 04-09-0762A | 02
09 | CA | LOS ANGELES, CITY OF | 0601370073D | 12-MAY-2004 | 04-09-0810A | 02
09 | CA | LOS ANGELES, CITY OF | 0601370071C | 12-MAY-2004 | 04-09-0974A | 02
09 | CA | LOS ANGELES, CITY OF | 0601370071C | 21-MAY-2004 | 04-09-0987A | 02
09 | CA | LOS ANGELES, CITY OF | 0601370071C | 23-JUN-2004 | 04-09-1102A | 02
09 | CA | MADERA COUNTY | 0601700640B | 21-JAN-2004 | 04-09-0257A | 02
09 | CA | MARIN COUNTY | 0601730268B | 07-JAN-2004 | 04-09-0192A | 02
09 | CA | MARIN COUNTY | 0601730465A | 14-JAN-2004 | 04-09-0412A | 02
09 | CA | MARTINEZ, CITY OF | 0650440002B | 04-FEB-2004 | 04-09-0260A | 02
09 | CA | MARTINEZ, CITY OF | 0650440002B | 04-FEB-2004 | 04-09-0336A | 02
09 | CA | MENLO PARK, CITY OF | 0603210008D | 01-MAR-2004 | 04-09-0269A | 02
09 | CA | MENLO PARK, CITY OF | 0603210008D | 29-JAN-2004 | 04-09-0456A | 01
09 | CA | MENLO PARK, CITY OF | 0603210007D | 14-APR-2004 | 04-09-0824A | 02
09 | CA | MENLO PARK, CITY OF | 0603210008D | 28-APR-2004 | 04-09-0843A | 02
09 | CA | MENLO PARK, CITY OF | 0603210008D | 23-APR-2004 | 04-09-0844A | 02
09 | CA | MENLO PARK, CITY OF | 0603210008D | 06-MAY-2004 | 04-09-0887A | 02
09 | CA | MERCED COUNTY | 06047C0440E | 21-JAN-2004 | 04-09-0305A | 01
09 | CA | MERCED COUNTY | 06047C0410E | 21-JAN-2004 | 04-09-0321A | 01
09 | CA | MERCED COUNTY | 06047C0470E | 21-JAN-2004 | 04-09-0431A | 01
09 | CA | MERCED, CITY OF | 06047C0430E | 01-MAR-2004 | 04-09-0148A | 01
09 | CA | MERCED, CITY OF | 06047C0440E | 04-FEB-2004 | 04-09-0278A | 01
09 | CA | MERCED, CITY OF | 06047C0430E | 29-JAN-2004 | 04-09-0460A | 01
09 | CA | MERCED, CITY OF | 06047C0430E | 06-FEB-2004 | 04-09-0490A | 01
09 | CA | MERCED, CITY OF | 06047C0440E | 13-FEB-2004 | 04-09-0510A | 01
09 | CA | MERCED, CITY OF | 06047C0440E | 31-MAR-2004 | 04-09-0689A | 01
09 | CA | MERCED, CITY OF | 06047C0445E | 31-MAR-2004 | 04-09-0689A | 01
09 | CA | MILL VALLEY, CITY OF | 0601770005B | 07-MAY-2004 | 04-09-0865A | 02
09 | CA | MILL VALLEY, CITY OF | 0601770005B | 23-APR-2004 | 04-09-0872A | 02
09 | CA | MILPITAS, CITY OF | 0603440001G | 14-JAN-2004 | 04-09-0423A | 02
09 | CA | MILPITAS, CITY OF | 0603440003G | 14-JAN-2004 | 04-09-0433A | 02
09 | CA | MILPITAS, CITY OF | 0603440001G | 14-JAN-2004 | 04-09-0435A | 02
09 | CA | MILPITAS, CITY OF | 0603440001G | 06-FEB-2004 | 04-09-0447A | 02
09 | CA | MILPITAS, CITY OF | 0603440003G | 04-FEB-2004 | 04-09-0520A | 02
09 | CA | MILPITAS, CITY OF | 0603440003G | 06-FEB-2004 | 04-09-0529A | 02
09 | CA | MILPITAS, CITY OF | 0603440003G | 11-FEB-2004 | 04-09-0530A | 02
09 | CA | MILPITAS, CITY OF | 0603440003G | 11-FEB-2004 | 04-09-0553A | 02
09 | CA | MILPITAS, CITY OF | 0603440001G | 09-APR-2004 | 04-09-0576A | 02
09 | CA | MILPITAS, CITY OF | 0603440001G | 25-FEB-2004 | 04-09-0580A | 02
09 | CA | MILPITAS, CITY OF | 0603440001G | 05-MAR-2004 | 04-09-0676A | 02
09 | CA | MILPITAS, CITY OF | 0603440001G | 25-MAR-2004 | 04-09-0722A | 02
09 | CA | MILPITAS, CITY OF | 0603440001G | 16-APR-2004 | 04-09-0864A | 02
09 | CA | MILPITAS, CITY OF | 0603440003G | 30-APR-2004 | 04-09-0870A | 02
09 | CA | MILPITAS, CITY OF | 0603440003G | 28-APR-2004 | 04-09-0908A | 02
09 | CA | MILPITAS, CITY OF | 0603440003G | 28-APR-2004 | 04-09-0915A | 02
09 | CA | MILPITAS, CITY OF | 0603440003G | 23-APR-2004 | 04-09-0931A | 02
09 | CA | MILPITAS, CITY OF | 0603440003G | 07-MAY-2004 | 04-09-0962A | 02
09 | CA | MILPITAS, CITY OF | 0603440001G | 14-MAY-2004 | 04-09-0975A | 02
09 | CA | MILPITAS, CITY OF | 0603440003G | 07-MAY-2004 | 04-09-0992A | 02
09 | CA | MILPITAS, CITY OF | 0603440003G | 14-MAY-2004 | 04-09-0993A | 02
09 | CA | MILPITAS, CITY OF | 0603440003G | 21-MAY-2004 | 04-09-1006A | 02
09 | CA | MILPITAS, CITY OF | 0603440001G | 26-MAY-2004 | 04-09-1052A | 02
09 | CA | MILPITAS, CITY OF | 0603440003G | 17-JUN-2004 | 04-09-1081A | 02
09 | CA | MILPITAS, CITY OF | 0603440001G | 14-JUN-2004 | 04-09-1130A | 02
09 | CA | MISSION VIEJO, CIY OF | 06059C0431H | 19-FEB-2004 | 02-09-212V | 19
09 | CA | MONO COUNTY | 06019410-15 | 28-APR-2004 | 02-09-445P | 05
09 | CA | MONO COUNTY | 06019413-05 | 28-APR-2004 | 02-09-445P | 05
09 | CA | MONO COUNTY | 060194C13 | 28-APR-2004 | 02-09-445P | 05
09 | CA | MONTEREY COUNTY | 0601950185D | 12-MAY-2004 | 04-09-0683A | 02
09 | CA | MORENO VALLEY, CITY OF | 0650740020B | 07-MAY-2004 | 03-09-1074P | 06
09 | CA | MOUNTAIN VIEW, CITY OF | 0603470003D | 10-MAR-2004 | 04-09-0686A | 02
09 | CA | MURRIETA, CITY OF | 0607512730A | 02-APR-2004 | 03-09-1383P | 06
09 | CA | MURRIETA, CITY OF | 0607512740A | 02-APR-2004 | 03-09-1383P | 06
09 | CA | MURRIETA, CITY OF | 0607512740A | 15-APR-2004 | 03-09-1620P | 05
09 | CA | MURRIETA, CITY OF | 0607512740A | 29-APR-2004 | 04-09-0819X | 05
09 | CA | NAPA COUNTY | 0602050345A | 25-MAR-2004 | 04-09-0734A | 02
09 | CA | NAPA, CITY OF | 0602070005D | 25-FEB-2004 | 04-09-0591A | 02
09 | CA | NAPA, CITY OF | 0602070005D | 23-APR-2004 | 04-09-0793A | 02
09 | CA | NAPA, CITY OF | 0602070005D | 08-APR-2004 | 04-09-0825A | 02
09 | CA | NAPA, CITY OF | 0602070005D | 06-MAY-2004 | 04-09-0942A | 02
09 | CA | NEEDLES, CITY OF | 06071C5026F | 21-JAN-2004 | 04-09-0085A | 01
09 | CA | NEEDLES, CITY OF | 06071C5028F | 21-JAN-2004 | 04-09-0085A | 01
09 | CA | NEWARK, CITY OF | 0600090005F | 08-APR-2004 | 04-09-0649A | 02
09 | CA | NEWPORT BEACH, CITY OF | 06059C0267H | 19-FEB-2004 | 02-09-212V | 19
09 | CA | NEWPORT BEACH, CITY OF | 06059C0269H | 19-FEB-2004 | 02-09-212V | 19
09 | CA | NEWPORT BEACH, CITY OF | 06059C0381H | 19-FEB-2004 | 02-09-212V | 19
09 | CA | NEWPORT BEACH, CITY OF | 06059C0382H | 19-FEB-2004 | 02-09-212V | 19
09 | CA | OAKLAND, CITY OF | 0650480025B | 21-JAN-2004 | 04-09-0014A | 02
09 | CA | OAKLEY, CITY OF | 0607660355A | 10-MAR-2004 | 04-09-0382A | 01
09 | CA | OCEANSIDE, CITY OF | 06073C0752G | 21-JAN-2004 | 04-09-0245A | 02
09 | CA | OCEANSIDE, CITY OF | 06073C0752G | 29-JAN-2004 | 04-09-0430A | 02
09 | CA | ORANGE COUNTY | 06059C0112H | 19-FEB-2004 | 02-09-212V | 19
09 | CA | ORANGE COUNTY | 06059C0167H | 19-FEB-2004 | 02-09-212V | 19
09 | CA | ORANGE COUNTY | 06059C0269H | 19-FEB-2004 | 02-09-212V | 19
09 | CA | ORANGE COUNTY | 06059C0286H | 19-FEB-2004 | 02-09-212V | 19
09 | CA | ORANGE COUNTY | 06059C0314H | 19-FEB-2004 | 02-09-212V | 19
09 | CA | ORANGE COUNTY | 06059C0316H | 19-FEB-2004 | 02-09-212V | 19
09 | CA | ORANGE COUNTY | 06059C0318H | 19-FEB-2004 | 02-09-212V | 19
09 | CA | ORANGE COUNTY | 06059C0337H | 19-FEB-2004 | 02-09-212V | 19
09 | CA | ORANGE COUNTY | 06059C0426H | 19-FEB-2004 | 02-09-212V | 19
09 | CA | ORANGE COUNTY | 06059C0427H | 19-FEB-2004 | 02-09-212V | 19
09 | CA | ORANGE COUNTY | 06059C0437H | 19-FEB-2004 | 02-09-212V | 19
09 | CA | ORANGE COUNTY | 06059C0451H | 19-FEB-2004 | 02-09-212V | 19
09 | CA | ORANGE COUNTY | 06059C0455H | 19-FEB-2004 | 02-09-212V | 19
09 | CA | ORANGE COUNTY | 06059C0455H | 08-JUN-2004 | 04-09-0241P | 06
09 | CA | ORANGE, CITY OF | 06059C0142H | 19-FEB-2004 | 02-09-212V | 19
09 | CA | ORANGE, CITY OF | 06059C0157H | 19-FEB-2004 | 02-09-212V | 19
09 | CA | ORANGE, CITY OF | 06059C0159H | 19-FEB-2004 | 02-09-212V | 19
09 | CA | ORANGE, CITY OF | 06059C0166H | 19-FEB-2004 | 02-09-212V | 19
09 | CA | ORANGE, CITY OF | 06059C0167H | 19-FEB-2004 | 02-09-212V | 19
09 | CA | ORANGE, CITY OF | 06059C0168H | 19-FEB-2004 | 02-09-212V | 19
09 | CA | PALM SPRINGS, CITY OF | 0602570008C | 10-JUN-2004 | 04-09-0476P | 06
09 | CA | PALO ALTO, CITY OF | 0603480003E | 13-FEB-2004 | 04-09-0160A | 02
09 | CA | PALO ALTO, CITY OF | 0603480002E | 28-APR-2004 | 04-09-0299A | 02
09 | CA | PALO ALTO, CITY OF | 0603480002E | 14-JAN-2004 | 04-09-0344A | 02
09 | CA | PALO ALTO, CITY OF | 0603480003E | 29-JAN-2004 | 04-09-0487A | 02
09 | CA | PALO ALTO, CITY OF | 0603480002E | 29-JAN-2004 | 04-09-0488A | 02
09 | CA | PALO ALTO, CITY OF | 0603480003E | 29-JAN-2004 | 04-09-0488A | 02
09 | CA | PALO ALTO, CITY OF | 0603480003E | 03-MAR-2004 | 04-09-0556A | 02
09 | CA | PALO ALTO, CITY OF | 0603480003E | 05-MAR-2004 | 04-09-0578A | 02
09 | CA | PALO ALTO, CITY OF | 0603480003E | 01-MAR-2004 | 04-09-0643A | 02
09 | CA | PALO ALTO, CITY OF | 0603480003E | 03-MAR-2004 | 04-09-0661A | 02
09 | CA | PALO ALTO, CITY OF | 0603480002E | 08-APR-2004 | 04-09-0695A | 02
09 | CA | PALO ALTO, CITY OF | 0603480002A | 16-APR-2004 | 04-09-0799A | 02
09 | CA | PALO ALTO, CITY OF | 0603480003E | 09-APR-2004 | 04-09-0822A | 02
09 | CA | PALO ALTO, CITY OF | 0603480003E | 16-APR-2004 | 04-09-0862A | 02
09 | CA | PERRIS, CITY OF | 0602580010D | 03-MAR-2004 | 04-09-0079A | 01
09 | CA | PETALUMA, CITY OF | 0603790001C | 06-FEB-2004 | 04-09-0485A | 01
09 | CA | PISMO BEACH, CITY OF | 0603090002B | 28-APR-2004 | 04-09-0727A | 02
09 | CA | PITTSBURG,CITY OF | 0600330001E | 27-JAN-2004 | 02-09-771P | 06
09 | CA | PLACER COUNTY | 06061C0059F | 08-JAN-2004 | 03-09-1212P | 05
09 | CA | PLEASANT HILL, CITY OF | 0600340005C | 21-JAN-2004 | 04-09-0204A | 02
09 | CA | PLEASANT HILL, CITY OF | 0600340003C | 23-JAN-2004 | 04-09-0338A | 02
09 | CA | PLEASANT HILL, CITY OF | 0600340005C | 16-JAN-2004 | 04-09-0443A | 02
09 | CA | PLUMAS COUNTY | 0602440850C | 03-MAR-2004 | 04-09-0651P | 06
09 | CA | PLUMAS COUNTY | 0602441000C | 03-MAR-2004 | 04-09-0651P | 06
09 | CA | PLUMAS COUNTY | 0602244130C | 07-MAY-2004 | 04-09-0910A | 02
09 | CA | RANCHO CUCAMONGA, CITY OF | 06071C7890F | 14-JAN-2004 | 03-09-0356P | 06
09 | CA | RANCHO CUCAMONGA, CITY OF | 06071C8628F | 06-FEB-2004 | 04-09-0113A | 01
09 | CA | RANCHO CUCAMONGA, CITY OF | 06071C7890F | 26-MAR-2004 | 04-09-0757A | 02
09 | CA | RANCHO SANTA MARGARITA, CITY OF | 06059C0455H | 08-JUN-2004 | 04-09-0241P | 06
09 | CA | RANCHO SANTA MARGARITA, CITY OF | 06059C0338H | 30-MAR-2004 | 04-09-0242P | 06
09 | CA | RANCHO SANTA MARGARITA, CITY OF | 06059C0451H | 30-MAR-2004 | 04-09-0242P | 06
09 | CA | REDDING, CITY OF | 0603600025D | 06-MAY-2004 | 04-09-0921A | 02
09 | CA | REDDING, CITY OF | 0603600025D | 21-MAY-2004 | 04-09-0956A | 02
09 | CA | REDLANDS, CITY OF | 06071C8712F | 23-JAN-2004 | 04-09-0045A | 01
09 | CA | RIO VISTA,CITY OF | 0606310514C | 29-JAN-2004 | 04-09-0086A | 01
09 | CA | RIVERSIDE COUNTY | 0602450705A | 28-JAN-2004 | 04-09-0058P | 06
09 | CA | RIVERSIDE COUNTY | 0602452135B | 07-JAN-2004 | 04-09-0312A | 02
09 | CA | RIVERSIDE COUNTY | 0602450070A | 14-APR-2004 | 04-09-0723A | 02
09 | CA | RIVERSIDE COUNTY | 0602452065C | 07-MAY-2004 | 04-09-0922A | 02
09 | CA | RIVERSIDE COUNTY | 0602452065C | 17-JUN-2004 | 04-09-1058A | 02
09 | CA | RIVERSIDE, CITY OF | 0602450745B | 07-MAY-2004 | 03-09-1074P | 06
09 | CA | RIVERSIDE, CITY OF | 0602600015B | 12-MAY-2004 | 04-09-0949A | 02
09 | CA | ROCKLIN, CITY OF | 06061C0412F | 07-MAY-2004 | 04-09-0543A | 01
09 | CA | ROSEVILLE, CITY OF | 06061C0413F | 26-MAR-2004 | 04-09-0705A | 02
09 | CA | SACRAMENTO COUNTY | 0602620090E | 14-JAN-2004 | 04-09-0365A | 02
09 | CA | SACRAMENTO COUNTY | 0602620440D | 12-MAY-2004 | 04-09-0644A | 02
09 | CA | SACRAMENTO COUNTY | 0602620115E | 16-APR-2004 | 04-09-0709A | 02
09 | CA | SACRAMENTO COUNTY | 0602620400D | 08-APR-2004 | 04-09-0742A | 02
09 | CA | SACRAMENTO COUNTY | 0602620475E | 12-MAY-2004 | 04-09-0924A | 02
09 | CA | SACRAMENTO, CITY OF | 0602660015F | 08-APR-2004 | 04-09-0589A | 02
09 | CA | SACRAMENTO, CITY OF | 0602660020F | 03-MAR-2004 | 04-09-0681A | 02
09 | CA | SALINAS, CITY OF | 0602020003D | 17-FEB-2004 | 03-09-0924P | 06
09 | CA | SAN BERNARDINO COUNTY | 06071C7955F | 11-FEB-2004 | 04-09-0188A | 02
09 | CA | SAN BERNARDINO, CITY OF | 06071C7930F | 05-MAR-2004 | 03-09-1494A | 01
09 | CA | SAN DIEGO COUNTY | 06073C1903F | 09-APR-2004 | 02-09-1324P | 06
09 | CA | SAN DIEGO COUNTY | 06073C1129F | 19-FEB-2004 | 03-09-0999P | 05
09 | CA | SAN DIEGO COUNTY | 06073C1076F | 21-MAY-2004 | 03-09-1334P | 05
09 | CA | SAN DIEGO COUNTY | 06073C1735F | 21-JAN-2004 | 04-09-0081A | 02
09 | CA | SAN DIEGO COUNTY | 06073C1735F | 11-FEB-2004 | 04-09-0551A | 02
09 | CA | SAN DIEGO, CITY OF | 06073C1903F | 09-APR-2004 | 02-09-1324P | 05
09 | CA | SAN DIEGO, CITY OF | 06073C1334F | 03-MAR-2004 | 04-09-0466A | 02
09 | CA | SAN JOSE, CITY OF | 0603490009G | 09-JAN-2004 | 04-09-0366A | 02
09 | CA | SAN JOSE, CITY OF | 0603490014E | 09-JAN-2004 | 04-09-0367A | 02
09 | CA | SAN JOSE, CITY OF | 0603490009G | 09-JAN-2004 | 04-09-0369A | 02
09 | CA | SAN JOSE, CITY OF | 0603490009G | 09-JAN-2004 | 04-09-0378A | 02
09 | CA | SAN JOSE, CITY OF | 0603490010E | 09-JAN-2004 | 04-09-0384A | 02
09 | CA | SAN JOSE, CITY OF | 0603490037D | 09-JAN-2004 | 04-09-0389A | 02
09 | CA | SAN JOSE, CITY OF | 0603490026D | 14-JAN-2004 | 04-09-0425A | 02
09 | CA | SAN JOSE, CITY OF | 0603490020F | 23-JAN-2004 | 04-09-0434A | 02
09 | CA | SAN JOSE, CITY OF | 0603490020F | 25-FEB-2004 | 04-09-0468A | 02
09 | CA | SAN JOSE, CITY OF | 0603490020F | 21-JAN-2004 | 04-09-0480A | 02
09 | CA | SAN JOSE, CITY OF | 0603490009G | 06-FEB-2004 | 04-09-0537A | 02
09 | CA | SAN JOSE, CITY OF | 0603490019E | 18-FEB-2004 | 04-09-0575A | 02
09 | CA | SAN JOSE, CITY OF | 0603490020F | 18-FEB-2004 | 04-09-0602A | 02
09 | CA | SAN JOSE, CITY OF | 0603490020F | 25-FEB-2004 | 04-09-0605A | 02
09 | CA | SAN JOSE, CITY OF | 0603490037D | 25-FEB-2004 | 04-09-0606A | 02
09 | CA | SAN JOSE, CITY OF | 0603490020F | 25-FEB-2004 | 04-09-0614A | 02
09 | CA | SAN JOSE, CITY OF | 0603490031D | 01-MAR-2004 | 04-09-0656A | 02
09 | CA | SAN JOSE, CITY OF | 0603490020F | 03-MAR-2004 | 04-09-0660A | 02
09 | CA | SAN JOSE, CITY OF | 0603490026D | 03-MAR-2004 | 04-09-0662A | 02
09 | CA | SAN JOSE, CITY OF | 0603490014E | 10-MAR-2004 | 04-09-0701A | 02
09 | CA | SAN JOSE, CITY OF | 0603490020F | 19-MAR-2004 | 04-09-0708A | 02
09 | CA | SAN JOSE, CITY OF | 0603490020F | 17-MAR-2004 | 04-09-0718A | 02
09 | CA | SAN JOSE, CITY OF | 0603490009G | 26-MAR-2004 | 04-09-0720A | 02
09 | CA | SAN JOSE, CITY OF | 0603490026D | 25-MAR-2004 | 04-09-0721A | 02
09 | CA | SAN JOSE, CITY OF | 0603490009G | 26-MAR-2004 | 04-09-0744A | 02
09 | CA | SAN JOSE, CITY OF | 0603490014E | 19-MAR-2004 | 04-09-0748A | 02
09 | CA | SAN JOSE, CITY OF | 0603490037D | 14-APR-2004 | 04-09-0749A | 02
09 | CA | SAN JOSE, CITY OF | 0603490020F | 25-MAR-2004 | 04-09-0767A | 02
09 | CA | SAN JOSE, CITY OF | 0603490014E | 26-MAR-2004 | 04-09-0776A | 02
09 | CA | SAN JOSE, CITY OF | 0603490026D | 31-MAR-2004 | 04-09-0780A | 02
09 | CA | SAN JOSE, CITY OF | 0603490020F | 08-APR-2004 | 04-09-0796A | 02
09 | CA | SAN JOSE, CITY OF | 0603490009G | 08-APR-2004 | 04-09-0811A | 02
09 | CA | SAN JOSE, CITY OF | 0603490020F | 08-APR-2004 | 04-09-0834A | 02
09 | CA | SAN JOSE, CITY OF | 0603490019E | 14-APR-2004 | 04-09-0838A | 02
09 | CA | SAN JOSE, CITY OF | 0603490026D | 16-APR-2004 | 04-09-0881A | 02
09 | CA | SAN JOSE, CITY OF | 0603490009G | 23-APR-2004 | 04-09-0885A | 02
09 | CA | SAN JOSE, CITY OF | 0603490047E | 06-MAY-2004 | 04-09-0898A | 02
09 | CA | SAN JOSE, CITY OF | 0603490026D | 23-APR-2004 | 04-09-0901A | 02
09 | CA | SAN JOSE, CITY OF | 0603490026D | 23-APR-2004 | 04-09-0907A | 02
09 | CA | SAN JOSE, CITY OF | 0603490009G | 30-APR-2004 | 04-09-0927A | 02
09 | CA | SAN JOSE, CITY OF | 0603490020F | 06-MAY-2004 | 04-09-0948A | 02
09 | CA | SAN JOSE, CITY OF | 0603490009G | 06-MAY-2004 | 04-09-0968A | 02
09 | CA | SAN JOSE, CITY OF | 0603490037D | 12-MAY-2004 | 04-09-0970A | 02
09 | CA | SAN JOSE, CITY OF | 0603490048E | 12-MAY-2004 | 04-09-0973A | 02
09 | CA | SAN JOSE, CITY OF | 0603490053E | 12-MAY-2004 | 04-09-0973A | 02
09 | CA | SAN JOSE, CITY OF | 0603490009G | 26-MAY-2004 | 04-09-0980A | 02
09 | CA | SAN JOSE, CITY OF | 0603490009G | 14-MAY-2004 | 04-09-0995A | 02
09 | CA | SAN JOSE, CITY OF | 0603490020F | 26-MAY-2004 | 04-09-1010A | 02
09 | CA | SAN JOSE, CITY OF | 0603490048E | 28-MAY-2004 | 04-09-1011A | 02
09 | CA | SAN JOSE, CITY OF | 0603490014E | 26-MAY-2004 | 04-09-1027A | 02
09 | CA | SAN JOSE, CITY OF | 0603490020F | 26-MAY-2004 | 04-09-1028A | 02
09 | CA | SAN JOSE, CITY OF | 0603490020F | 26-MAY-2004 | 04-09-1031A | 02
09 | CA | SAN JOSE, CITY OF | 0603490047E | 26-MAY-2004 | 04-09-1045A | 02
09 | CA | SAN JOSE, CITY OF | 0603490014E | 02-JUN-2004 | 04-09-1053A | 02
09 | CA | SAN JOSE, CITY OF | 0603490037D | 26-MAY-2004 | 04-09-1054A | 02
09 | CA | SAN JOSE, CITY OF | 0603490020F | 19-MAY-2004 | 04-09-1056A | 02
09 | CA | SAN JOSE, CITY OF | 0603490026D | 26-MAY-2004 | 04-09-1065A | 02
09 | CA | SAN JOSE, CITY OF | 0603490010E | 26-MAY-2004 | 04-09-1092A | 02
09 | CA | SAN JOSE, CITY OF | 0603490037D | 14-JUN-2004 | 04-09-1105A | 02
09 | CA | SAN JOSE, CITY OF | 0603490020F | 14-JUN-2004 | 04-09-1120A | 02
09 | CA | SAN JOSE, CITY OF | 0603490048E | 02-JUN-2004 | 04-09-1132X | 02
09 | CA | SAN JOSE, CITY OF | 0603490053E | 02-JUN-2004 | 04-09-1132X | 02
09 | CA | SAN JUAN CAPISTRANO, CITY OF | 06059C0444H | 19-FEB-2004 | 02-09-212V | 19
09 | CA | SAN JUAN CAPISTRANO, CITY OF | 06059C0506H | 19-FEB-2004 | 02-09-212V | 19
09 | CA | SAN JUAN CAPISTRANO, CITY OF | 06059C0444H | 19-MAR-2004 | 04-09-0675A | 01
09 | CA | SAN JUAN CAPISTRANO, CITY OF | 06059C0507H | 19-MAR-2004 | 04-09-0675A | 01
09 | CA | SAN LEANDRO, CITY OF | 0600130003C | 31-MAR-2004 | 04-09-0753A | 02
09 | CA | SAN LUIS OBISPO COUNTY | 0603040732E | 05-FEB-2004 | 01-09-895V | 19
09 | CA | SAN LUIS OBISPO COUNTY | 0603042583E | 05-FEB-2004 | 01-09-895V | 19
09 | CA | SAN LUIS OBISPO COUNTY | 0603040477B | 01-MAR-2004 | 04-09-0387A | 01
09 | CA | SAN LUIS OBISPO COUNTY | 0603040729C | 09-JAN-2004 | 04-09-0398A | 02
09 | CA | SAN LUIS OBISPO COUNTY | 0603040902C | 17-MAR-2004 | 04-09-0698A | 01
09 | CA | SAN LUIS OBISPO, CITY OF | 0603100005C | 01-MAR-2004 | 04-09-0444A | 02
09 | CA | SAN MARCOS, CITY OF | 06073C1052F | 14-JUN-2004 | 04-09-0562A | 02
09 | CA | SAN RAFAEL, CITY OF | 0650580015B | 06-MAY-2004 | 04-09-0673A | 02
09 | CA | SAN RAFAEL, CITY OF | 0650580015B | 31-MAR-2004 | 04-09-0761A | 02
09 | CA | SANTA ANA, CITY OF | 06059C0038H | 19-FEB-2004 | 02-09-212V | 19
09 | CA | SANTA ANA, CITY OF | 06059C0143H | 19-FEB-2004 | 02-09-212V | 19
09 | CA | SANTA ANA, CITY OF | 06059C0257H | 19-FEB-2004 | 02-09-212V | 19
09 | CA | SANTA ANA, CITY OF | 06059C0258H | 19-FEB-2004 | 02-09-212V | 19
09 | CA | SANTA ANA, CITY OF | 06059C0259H | 19-FEB-2004 | 02-09-212V | 19
09 | CA | SANTA ANA, CITY OF | 06059C0276H | 19-FEB-2004 | 02-09-212V | 19
09 | CA | SANTA ANA, CITY OF | 06059C0281H | 19-FEB-2004 | 02-09-212V | 19
09 | CA | SANTA ANA, CITY OF | 06059C0028F | 07-JAN-2004 | 04-09-0264A | 01
09 | CA | SANTA ANA, CITY OF | 06059C0028F | 10-MAR-2004 | 04-09-0699A | 01
09 | CA | SANTA BARBARA COUNTY | 0603310730E | 03-JUN-2004 | 00-09-976V | 19
09 | CA | SANTA BARBARA COUNTY | 0603310740E | 03-JUN-2004 | 00-09-976V | 19
09 | CA | SANTA BARBARA COUNTY | 0603310745E | 03-JUN-2004 | 00-09-976V | 19
09 | CA | SANTA BARBARA COUNTY | 0603312341E | 03-JUN-2004 | 00-09-976V | 19
09 | CA | SANTA BARBARA COUNTY | 0603312342E | 03-JUN-2004 | 00-09-976V | 19
09 | CA | SANTA BARBARA COUNTY | 0603310730C | 16-APR-2004 | 04-09-0835A | 02
09 | CA | SANTA BARBARA, CITY OF | 0603350005D | 15-JAN-2004 | 01-09-220P | 05
09 | CA | SANTA BARBARA, CITY OF | 0603350010D | 15-JAN-2004 | 01-09-220P | 05
09 | CA | SANTA CLARA COUNTY | 0603370255E | 14-APR-2004 | 04-09-0868A | 02
09 | CA | SANTA CLARA, CITY OF | 0603500003D | 09-JAN-2004 | 04-09-0390A | 02
09 | CA | SANTA CLARA, CITY OF | 0603500003D | 21-JAN-2004 | 04-09-0436A | 02
09 | CA | SANTA CLARA, CITY OF | 0603500003D | 23-JAN-2004 | 04-09-0484A | 02
09 | CA | SANTA CLARA, CITY OF | 0603500001D | 04-FEB-2004 | 04-09-0514A | 02
09 | CA | SANTA CLARA, CITY OF | 0603500005D | 17-MAR-2004 | 04-09-0574A | 02
09 | CA | SANTA CLARA, CITY OF | 0603500001D | 18-FEB-2004 | 04-09-0596A | 02
09 | CA | SANTA CLARA, CITY OF | 0603500005D | 25-MAR-2004 | 04-09-0730A | 02
09 | CA | SANTA CLARA, CITY OF | 0603500001D | 14-APR-2004 | 04-09-0859A | 02
09 | CA | SANTA CLARA, CITY OF | 0603500001D | 14-APR-2004 | 04-09-0878A | 02
09 | CA | SANTA CLARA, CITY OF | 0603500003D | 28-APR-2004 | 04-09-0889A | 02
09 | CA | SANTA CLARA, CITY OF | 0603500003D | 28-APR-2004 | 04-09-0890A | 02
09 | CA | SANTA CLARA, CITY OF | 0603500003D | 28-APR-2004 | 04-09-0891A | 02
09 | CA | SANTA CLARA, CITY OF | 0603500001D | 28-APR-2004 | 04-09-0906A | 02
09 | CA | SANTA CLARA, CITY OF | 0603500003D | 06-MAY-2004 | 04-09-0923A | 02
09 | CA | SANTA CLARA, CITY OF | 0603500001D | 06-MAY-2004 | 04-09-0939A | 02
09 | CA | SANTA CLARA, CITY OF | 0603500003D | 19-MAY-2004 | 04-09-0985A | 02
09 | CA | SANTA CLARA, CITY OF | 0603500003D | 26-MAY-2004 | 04-09-1069A | 02
09 | CA | SANTA CLARA, CITY OF | 0603500003D | 28-JUN-2004 | 04-09-1100A | 02
09 | CA | SANTA CLARA, CITY OF | 0603500003D | 14-JUN-2004 | 04-09-1104A | 02
09 | CA | SANTA CLARITA, CITY OF | 0607290460C | 12-JAN-2004 | 04-09-0237P | 06
09 | CA | SANTA PAULA, CITY OF | 0604200002C | 20-FEB-2004 | 04-09-0625A | 02
09 | CA | SANTA ROSA, CITY OF | 0603810011B | 07-JAN-2004 | 04-09-0046A | 02
09 | CA | SCOTTS VALLEY, CITY OF | 0603530220B | 26-MAY-2004 | 04-09-1033A | 02
09 | CA | SEAL BEACH, CITY OF | 06059C0226H | 07-MAY-2004 | 04-09-1012A | 02
09 | CA | SHASTA COUNTY | 0603580885E | 06-FEB-2004 | 04-09-0478A | 02
09 | CA | SIMI VALLEY, CITY OF | 0604210002B | 09-APR-2004 | 03-09-1631P | 05
09 | CA | SIMI VALLEY, CITY OF | 0604210004B | 30-JAN-2004 | 04-09-0234P | 05
09 | CA | SIMI VALLEY, CITY OF | 0604210004B | 11-FEB-2004 | 04-09-0346A | 02
09 | CA | SIMI VALLEY, CITY OF | 0604210007B | 21-JAN-2004 | 04-09-0347A | 02
09 | CA | SIMI VALLEY, CITY OF | 0604210008B | 25-MAR-2004 | 04-09-0376A | 02
09 | CA | SIMI VALLEY, CITY OF | 0604210006B | 13-FEB-2004 | 04-09-0558A | 02
09 | CA | SIMI VALLEY, CITY OF | 0604210006B | 20-FEB-2004 | 04-09-0560A | 02
09 | CA | SIMI VALLEY, CITY OF | 0604210006B | 20-FEB-2004 | 04-09-0571A | 02
09 | CA | SIMI VALLEY, CITY OF | 0604210008B | 25-FEB-2004 | 04-09-0611A | 02
09 | CA | SIMI VALLEY, CITY OF | 0604210004B | 03-MAR-2004 | 04-09-0640A | 02
09 | CA | SIMI VALLEY, CITY OF | 0604210004B | 01-MAR-2004 | 04-09-0658A | 02
09 | CA | SIMI VALLEY, CITY OF | 0604210009B | 25-MAR-2004 | 04-09-0719A | 02
09 | CA | SIMI VALLEY, CITY OF | 0604210008B | 02-APR-2004 | 04-09-0794A | 02
09 | CA | SIMI VALLEY, CITY OF | 0604210002B | 23-APR-2004 | 04-09-0930A | 02
09 | CA | SIMI VALLEY, CITY OF | 0604210006B | 26-MAY-2004 | 04-09-1016A | 02
09 | CA | SIMI VALLEY, CITY OF | 0604210008B | 26-MAY-2004 | 04-09-1016A | 02
09 | CA | SOLANO COUNTY | 0606310406B | 14-APR-2004 | 04-09-0713A | 02
09 | CA | SONOMA COUNTY | 0603750515B | 07-JAN-2004 | 04-09-0259A | 02
09 | CA | SONOMA COUNTY | 0603750885B | 10-MAR-2004 | 04-09-0455A | 02
09 | CA | SONOMA COUNTY | 0603750530B | 18-FEB-2004 | 04-09-0519A | 02
09 | CA | SONOMA COUNTY | 0603750655B | 19-MAR-2004 | 04-09-0595A | 02
09 | CA | SONOMA COUNTY | 0603750635B | 31-MAR-2004 | 04-09-0635A | 02
09 | CA | SONOMA COUNTY | 0603750690B | 12-MAR-2004 | 04-09-0710A | 02
09 | CA | SONOMA COUNTY | 0603750655B | 26-MAR-2004 | 04-09-0731A | 02
09 | CA | SONOMA, CITY OF | 0603830005D | 07-MAY-2004 | 04-09-0940A | 02
09 | CA | SOUTH LAKE TAHOE, CITY OF | 0650600010B | 25-FEB-2004 | 04-09-0615A | 02
09 | CA | SOUTH SAN FRANCISCO, CITY OF | 0650620008B | 16-JAN-2004 | 03-09-1646A | 01
09 | CA | SUNNYVALE, CITY OF | 0603520001D | 09-JAN-2004 | 04-09-0143A | 02
09 | CA | SUNNYVALE, CITY OF | 0603520001D | 13-FEB-2004 | 04-09-0564A | 02
09 | CA | SUNNYVALE, CITY OF | 0603520001D | 25-FEB-2004 | 04-09-0610A | 02
09 | CA | SUNNYVALE, CITY OF | 0603520001D | 02-APR-2004 | 04-09-0808A | 02
09 | CA | SUNNYVALE, CITY OF | 0603520001D | 16-APR-2004 | 04-09-0879A | 02
09 | CA | SUNNYVALE, CITY OF | 0603520001D | 06-MAY-2004 | 04-09-0941A | 02
09 | CA | SUNNYVALE, CITY OF | 0603520001D | 21-MAY-2004 | 04-09-1009A | 02
09 | CA | SUNNYVALE, CITY OF | 0603520001D | 18-JUN-2004 | 04-09-1049A | 01
09 | CA | SUNNYVALE, CITY OF | 0603520001D | 26-MAY-2004 | 04-09-1094A | 02
09 | CA | TEHAMA COUNTY | 0650640457C | 03-MAR-2004 | 04-09-0467A | 02
09 | CA | TEMECULA, CITY OF | 0607420010B | 04-FEB-2004 | 03-09-0162P | 05
09 | CA | THOUSAND OAKS, CITY OF | 0604130935C | 09-JAN-2004 | 04-09-0364A | 02
09 | CA | THOUSAND OAKS, CITY OF | 0604220020A | 25-MAR-2004 | 04-09-0523A | 02
09 | CA | THOUSAND OAKS, CITY OF | 0604220015B | 02-JUN-2004 | 04-09-1044A | 02
09 | CA | TIBURON, CITY OF | 0601730465A | 17-MAR-2004 | 04-09-0647A | 02
09 | CA | TIBURON, CITY OF | 060430_25A | 16-APR-2004 | 04-09-0863A | 02
09 | CA | TRINITY COUNTY | 06105C0595C | 14-APR-2004 | 04-09-0481A | 02
09 | CA | TRUCKEE, TOWN OF | 0602100483C | 23-FEB-2004 | 04-09-0566P | 08
09 | CA | TULARE COUNTY | 0650660280B | 06-FEB-2004 | 04-09-0315A | 01
09 | CA | TULARE COUNTY | 0650660470B | 29-JAN-2004 | 04-09-0349A | 01
09 | CA | TUSTIN, CITY OF | 06059C0279H | 19-FEB-2004 | 02-09-212V | 19
09 | CA | TUSTIN, CITY OF | 06059C0283H | 19-FEB-2004 | 02-09-212V | 19
09 | CA | VALLEJO, CITY OF | 0603740005C | 16-JAN-2004 | 04-09-0395A | 01
09 | CA | VALLEJO, CITY OF | 0603740005C | 20-FEB-2004 | 04-09-0545A | 01
09 | CA | VALLEJO, CITY OF | 0603740005C | 08-APR-2004 | 04-09-0599A | 02
09 | CA | VALLEJO, CITY OF | 0603740010C | 09-APR-2004 | 04-09-0770A | 02
09 | CA | VENTURA COUNTY | 0604130935C | 21-JAN-2004 | 04-09-0247A | 02
09 | CA | VENTURA COUNTY | 0604130535B | 14-APR-2004 | 04-09-0690A | 17
09 | CA | VICTORVILLE, CITY OF | 06071C5820F | 26-MAR-2004 | 04-09-0740A | 02
09 | CA | VILLA PARK, CITY OF | 06059C0154H | 12-MAY-2004 | 04-09-1015A | 02
09 | CA | VISALIA, CITY OF | 0604090005D | 09-JAN-2004 | 04-09-0345A | 02
09 | CA | VISALIA, CITY OF | 0604090010C | 03-MAR-2004 | 04-09-0598A | 02
09 | CA | WALNUT CREEK, CITY OF | 0650700001D | 07-JAN-2004 | 04-09-0361A | 02
09 | CA | WALNUT CREEK, CITY OF | 0650700001D | 01-MAR-2004 | 04-09-0600A | 02
09 | CA | WATSONVILLE, CITY OF | 0603570004C | 21-JAN-2004 | 04-09-0354A | 01
09 | CA | WESTMINSTER, CITY OF | 06059C0138H | 19-FEB-2004 | 02-09-212V | 19
09 | CA | WESTMINSTER, CITY OF | 06059C0232H | 19-FEB-2004 | 02-09-212V | 19
09 | CA | WESTMINSTER, CITY OF | 06059C0251H | 19-FEB-2004 | 02-09-212V | 19
09 | CA | WESTMINSTER, CITY OF | 06059C0252H | 19-FEB-2004 | 02-09-212V | 19
09 | CA | WESTMINSTER, CITY OF | 06059C0252H | 25-MAR-2004 | 04-09-0617A | 02
09 | CA | WINDSOR, TOWN OF | 0603750545B | 05-MAR-2004 | 04-09-0633A | 02
09 | CA | WOODLAND, CITY OF | 0604260410C | 09-FEB-2004 | 04-09-0229V | 19
09 | CA | WOODLAND, CITY OF | 0604260420C | 09-FEB-2004 | 04-09-0229V | 19
09 | CA | WOODLAND, CITY OF | 0604260440C | 09-FEB-2004 | 04-09-0229V | 19
09 | CA | WOODLAND, CITY OF | 0604260420C | 06-FEB-2004 | 04-09-0493A | 02
09 | CA | WOODLAND, CITY OF | 0604260420C | 06-FEB-2004 | 04-09-0494A | 02
09 | CA | WOODLAND, CITY OF | 0604260440C | 25-FEB-2004 | 04-09-0569A | 02
09 | CA | WOODLAND, CITY OF | 0604260440C | 01-MAR-2004 | 04-09-0622A | 02
09 | CA | WOODLAND, CITY OF | 0604260410C | 17-JUN-2004 | 04-09-0678A | 02
09 | CA | WOODLAND, CITY OF | 0604260410C | 17-MAR-2004 | 04-09-0712A | 02
09 | CA | WOODLAND, CITY OF | 0604260410C | 09-APR-2004 | 04-09-0777A | 02
09 | CA | YORBA LINDA, CITY OF | 06059C0009F | 09-JAN-2004 | 04-09-0082A | 02
09 | CA | YREKA, CITY OF | 0603670003B | 21-JAN-2004 | 04-09-0343A | 01
09 | CA | YUBA COUNTY | 0604270295B | 25-MAR-2004 | 04-09-0383A | 01
09 | CA | YUBA COUNTY | 0604270360B | 18-FEB-2004 | 04-09-0512A | 01
09 | CA | YUBA COUNTY | 0604270360B | 14-APR-2004 | 04-09-0582A | 02
09 | CA | YUBA COUNTY | 0604270360B | 26-MAY-2004 | 04-09-0691A | 01
09 | CA | YUBA COUNTY | 0604270225B | 28-APR-2004 | 04-09-0702A | 02
09 | CA | YUCAIPA, CITY OF | 06071C8745F | 09-JAN-2004 | 04-09-0422A | 02
09 | HI | HAWAII COUNTY | 1551660713D | 27-FEB-2004 | 03-09-1333P | 06
09 | HI | HAWAII COUNTY | 1551660713D | 20-JAN-2004 | 03-09-1531P | 05
09 | HI | HAWAII COUNTY | 1551660859D | 03-APR-2004 | 99-09-671V | 19
09 | HI | HONOLULU , CITY AND COUNTY OF | 15003C0030E | 03-MAR-2004 | 04-09-0265A | 02
09 | NV | CHURCHILL COUNTY | 3200300645E | 09-JAN-2004 | 04-09-0233A | 02
09 | NV | CLARK COUNTY | 32003C2195E | 22-JAN-2004 | 03-09-0886P | 06
09 | NV | CLARK COUNTY | 32003C2553E | 15-APR-2004 | 03-09-1710P | 06
09 | NV | CLARK COUNTY | 32003C2553E | 15-JAN-2004 | 04-09-0021P | 06
09 | NV | CLARK COUNTY | 32003C2554E | 15-JAN-2004 | 04-09-0021P | 06
09 | NV | CLARK COUNTY | 32003C2190E | 12-MAR-2004 | 04-09-0166P | 06
09 | NV | CLARK COUNTY | 32003C2557E | 12-MAR-2004 | 04-09-0167P | 06
09 | NV | CLARK COUNTY | 32003C2180E | 15-JUN-2004 | 04-09-0210P | 06
09 | NV | CLARK COUNTY | 32003C2562E | 26-MAR-2004 | 04-09-0339A | 01
09 | NV | CLARK COUNTY | 32003C2553E | 19-MAY-2004 | 04-09-0352P | 06
09 | NV | CLARK COUNTY | 32003C2569E | 03-JUN-2004 | 04-09-0454P | 06
09 | NV | CLARK COUNTY | 32003C2590E | 03-JUN-2004 | 04-09-0454P | 06
09 | NV | CLARK COUNTY | 32003C2910E | 03-JUN-2004 | 04-09-0454P | 06
09 | NV | CLARK COUNTY | 32003C2930E | 03-JUN-2004 | 04-09-0454P | 06
09 | NV | CLARK COUNTY | 32003C2590E | 03-JUN-2004 | 04-09-0981P | 06
09 | NV | DOUGLAS COUNTY | 32005C0040F | 14-JAN-2004 | 04-09-0139A | 02
09 | NV | DOUGLAS COUNTY | 32005C0210F | 04-FEB-2004 | 04-09-0386A | 02
09 | NV | DOUGLAS COUNTY | 32005C0205F | 28-APR-2004 | 04-09-0888A | 02
09 | NV | FALLON, CITY OF | 3200020001A | 29-JAN-2004 | 04-09-0393A | 02
09 | NV | HENDERSON, CITY OF | 32003C2225E | 08-JAN-2004 | 03-09-0180P | 06
09 | NV | HENDERSON, CITY OF | 32003C2610E | 08-JAN-2004 | 03-09-0180P | 06
09 | NV | HENDERSON, CITY OF | 32003C2595E | 03-JUN-2004 | 03-09-0644P | 06
09 | NV | HENDERSON, CITY OF | 32003C2615E | 12-FEB-2004 | 04-09-0012P | 06
09 | NV | HENDERSON, CITY OF | 32003C2590E | 30-JAN-2004 | 04-09-0127P | 06
09 | NV | HENDERSON, CITY OF | 32003C2930E | 30-JAN-2004 | 04-09-0127P | 06
09 | NV | HENDERSON, CITY OF | 32003C2585E | 16-JAN-2004 | 04-09-0177P | 06
09 | NV | HENDERSON, CITY OF | 32003C2615E | 16-JAN-2004 | 04-09-0177P | 06
09 | NV | HENDERSON, CITY OF | 32003C2590E | 16-JAN-2004 | 04-09-0391A | 02
09 | NV | HENDERSON, CITY OF | 32003C2590E | 13-FEB-2004 | 04-09-0410A | 02
09 | NV | HENDERSON, CITY OF | 32003C2590E | 16-JAN-2004 | 04-09-0429A | 02
09 | NV | HENDERSON, CITY OF | 32003C2580E | 12-MAR-2004 | 04-09-0448A | 02
09 | NV | HENDERSON, CITY OF | 32003C2590E | 03-JUN-2004 | 04-09-0454P | 06
09 | NV | HENDERSON, CITY OF | 32003C2910E | 03-JUN-2004 | 04-09-0454P | 06
09 | NV | HENDERSON, CITY OF | 32003C2930E | 03-JUN-2004 | 04-09-0454P | 06
09 | NV | HENDERSON, CITY OF | 32003C2590E | 31-MAR-2004 | 04-09-0508A | 02
09 | NV | HENDERSON, CITY OF | 32003C2615E | 12-MAR-2004 | 04-09-0548A | 02
09 | NV | HENDERSON, CITY OF | 32003C2590E | 09-APR-2004 | 04-09-0853A | 01
09 | NV | HENDERSON, CITY OF | 32003C2615E | 07-MAY-2004 | 04-09-0938A | 01
09 | NV | LAS VEGAS, CITY OF | 32003C2170E | 21-MAY-2004 | 04-09-0845A | 02
09 | NV | MESQUITE, CITY OF | 32003C0387E | 28-APR-2004 | 04-09-0869A | 02
09 | NV | NORTH LAS VEGAS, CITY OF | 32003C2160E | 26-FEB-2004 | 04-09-0165P | 06
09 | NV | NORTH LAS VEGAS, CITY OF | 32003C2180E | 15-JUN-2004 | 04-09-0210P | 06
09 | NV | NORTH LAS VEGAS, CITY OF | 32003C2160E | 12-APR-2004 | 04-09-0637P | 06
09 | NV | NYE COUNTY | 3200184405C | 30-JAN-2004 | 04-09-0263A | 02
09 | NV | RENO, CITY OF | 32031C3178E | 25-FEB-2004 | 04-09-0482A | 01
09 | NV | SPARKS, CITY OF | 32031C3012E | 17-MAR-2004 | 04-09-0400A | 01
09 | NV | WASHOE COUNTY | 32031C3159E | 07-MAY-2004 | 04-09-0524A | 02
09 | NV | WASHOE COUNTY | 32031C3014E | 17-MAR-2004 | 04-09-0672A | 01
10 | AK | ANCHORAGE, MUNICIPALITY OF | 0200050243C | 21-JAN-2004 | 04-10-0187A | 02
10 | AK | ANCHORAGE, MUNICIPALITY OF | 0200050510C | 12-MAR-2004 | 04-10-0331A | 02
10 | AK | ANCHORAGE, MUNICIPALITY OF | 0200050241C | 12-MAR-2004 | 04-10-0332A | 02
10 | AK | ANCHORAGE, MUNICIPALITY OF | 0200050240C | 26-MAR-2004 | 04-10-0377A | 02
10 | AK | ANCHORAGE, MUNICIPALITY OF | 0200050243C | 28-APR-2004 | 04-10-0454A | 02
10 | AK | ANCHORAGE, MUNICIPALITY OF | 0200050242B | 28-APR-2004 | 04-10-0468A | 02
10 | AK | BETHEL, CITY OF | 0201040008B | 18-FEB-2004 | 04-10-0058A | 01
10 | AK | FAIRBANKS-NORTH STAR BOROUGH | 0250090181G | 29-JAN-2004 | 04-10-0189A | 01
10 | AK | FAIRBANKS-NORTH STAR BOROUGH | 0250090204G | 12-MAR-2004 | 04-10-0282A | 02
10 | AK | FAIRBANKS-NORTH STAR BOROUGH | 0250090181G | 25-FEB-2004 | 04-10-0318X | 01
10 | AK | JUNEAU, CITY AND BOROUGH OF | 0200090880C | 20-FEB-2004 | 04-10-0286A | 02
10 | AK | JUNEAU, CITY AND BOROUGH OF | 0200090885B | 09-APR-2004 | 04-10-0456A | 02
10 | AK | MATANUSKA-SUSITNA, BOROUGH OF | 0200219700C | 29-JAN-2004 | 03-10-0671A | 02
10 | AK | MATANUSKA-SUSITNA, BOROUGH OF | 0200218870C | 23-APR-2004 | 04-10-0330A | 17
10 | AK | PETERSBURG, CITY OF | 0200740001B | 20-FEB-2004 | 04-10-0128A | 02
10 | ID | ADA COUNTY | 16001C0141H | 19-MAR-2004 | 04-10-0155A | 17
10 | ID | BOISE, CITY OF | 16001C0284H | 23-JUN-2004 | 04-10-0532A | 01
10 | ID | BONNER COUNTY | 1602060355D | 09-JAN-2004 | 04-10-0156A | 02
10 | ID | BONNER COUNTY | 1602060300C | 04-FEB-2004 | 04-10-0214A | 02
10 | ID | BONNER COUNTY | 1602060075B | 25-FEB-2004 | 04-10-0215A | 02
10 | ID | BONNER COUNTY | 1602060300C | 16-APR-2004 | 04-10-0447A | 02
10 | ID | BONNER COUNTY | 1602060325B | 04-JUN-2004 | 04-10-0534A | 02
10 | ID | BONNEVILLE COUNTY | 1600270240C | 23-JAN-2004 | 04-10-0120A | 02
10 | ID | BONNEVILLE COUNTY | 1600270240C | 06-FEB-2004 | 04-10-0252A | 02
10 | ID | BONNEVILLE COUNTY | 1600270235D | 23-APR-2004 | 04-10-0421A | 01
10 | ID | CANYON COUNTY | 1602080250C | 18-FEB-2004 | 04-10-0083A | 02
10 | ID | CANYON COUNTY | 1602080208D | 12-MAY-2004 | 04-10-0150A | 02
10 | ID | CANYON COUNTY | 1602080156C | 14-JUN-2004 | 04-10-0425A | 02
10 | ID | CUSTER COUNTY | 16037C1200C | 31-MAR-2004 | 04-10-0306A | 02
10 | ID | EAGLE, CITY OF | 16001C0161H | 07-JAN-2004 | 03-10-0689A | 02
10 | ID | EAGLE, CITY OF | 16001C0162H | 17-MAR-2004 | 04-10-0354A | 02
10 | ID | GARDEN CITY, CITY OF | 16001C0166H | 20-FEB-2004 | 04-10-0129A | 01
10 | ID | GARDEN CITY, CITY OF | 16001C0169H | 06-FEB-2004 | 04-10-0234A | 02
10 | ID | GARDEN CITY, CITY OF | 16001C0166H | 17-MAR-2004 | 04-10-0294A | 02
10 | ID | GARDEN CITY, CITY OF | 16001C0169H | 16-APR-2004 | 04-10-0358A | 02
10 | ID | GARDEN CITY, CITY OF | 16001C0167H | 16-APR-2004 | 04-10-0371A | 01
10 | ID | HAILEY, CITY OF | 1600220668D | 14-JAN-2004 | 04-10-0176A | 02
10 | ID | KOOTENAI COUNTY | 1600760170D | 23-JAN-2004 | 04-10-0067A | 02
10 | ID | KOOTENAI COUNTY | 1600760125C | 16-APR-2004 | 04-10-0307A | 02
10 | ID | MADISON COUNTY | 16065C0020D | 14-APR-2004 | 04-10-0435A | 02
10 | ID | MERIDIAN, CITY OF | 16001C0232H | 03-MAR-2004 | 04-10-0295A | 02
10 | ID | MERIDIAN, CITY OF | 16001C0253H | 31-MAR-2004 | 04-10-0310A | 02
10 | ID | MERIDIAN, CITY OF | 16001C0144H | 23-APR-2004 | 04-10-0460A | 02
10 | ID | SHOSHONE COUNTY | 1601140230B | 09-JAN-2004 | 03-10-0804A | 02
10 | ID | SHOSHONE COUNTY | 1601140270B | 21-JAN-2004 | 04-10-0005A | 02
10 | ID | SHOSHONE COUNTY | 1601140265B | 14-JAN-2004 | 04-10-0164A | 02
10 | ID | SHOSHONE COUNTY | 1601140265B | 11-FEB-2004 | 04-10-0199A | 02
10 | ID | SHOSHONE COUNTY | 1601140235B | 06-FEB-2004 | 04-10-0261A | 02
10 | ID | SPIRIT LAKE, CITY OF | 1600840001A | 09-JAN-2004 | 04-10-0159A | 02
10 | ID | STAR, CITY OF | 16001C0125H | 21-JAN-2004 | 04-10-0030A | 01
10 | ID | STAR, CITY OF | 16001C0125H | 19-MAR-2004 | 04-10-0357A | 01
10 | ID | TETON COUNTY | 16081C0130C | 06-FEB-2004 | 04-10-0227A | 02
10 | ID | VALLEY COUNTY | 1602200475A | 23-JAN-2004 | 04-10-0111A | 02
10 | ID | VALLEY COUNTY | 1602200325A | 16-JAN-2004 | 04-10-0185A | 02
10 | ID | VALLEY COUNTY | 1602200175A | 13-FEB-2004 | 04-10-0206A | 02
10 | ID | VALLEY COUNTY | 1602200325A | 05-MAR-2004 | 04-10-0340A | 02
10 | ID | VALLEY COUNTY | 1602200175A | 26-MAR-2004 | 04-10-0408X | 02
10 | ID | VALLEY COUNTY | 1602200325A | 09-APR-2004 | 04-10-0450A | 02
10 | ID | VALLEY COUNTY | 1602200325A | 18-JUN-2004 | 04-10-0536A | 02
10 | ID | WEISER,CITY OF | 1601240005B | 17-JUN-2004 | 04-10-0391A | 02
10 | ID | WEISER,CITY OF | 1601240005B | 17-JUN-2004 | 04-10-0539A | 02
10 | OR | ALBANY, CITY OF | 4101370005F | 07-JAN-2004 | 04-10-0015A | 02
10 | OR | ALBANY, CITY OF | 4101370001F | 09-JAN-2004 | 04-10-0163A | 02
10 | OR | ALBANY, CITY OF | 4101370002F | 10-MAR-2004 | 04-10-0338A | 02
10 | OR | ALBANY, CITY OF | 4101370001F | 25-MAR-2004 | 04-10-0345A | 02
10 | OR | BAY CITY, CITY OF | 4101970001B | 07-JAN-2004 | 04-10-0188X | 02
10 | OR | BENTON COUNTY | 4100080175C | 16-JAN-2004 | 04-10-0020A | 02
10 | OR | CLACKAMAS COUNTY | 4155880020A | 09-JAN-2004 | 04-10-0048A | 02
10 | OR | CLATSOP COUNTY | 4100270021B | 09-APR-2004 | 04-10-0432A | 02
10 | OR | COLUMBIA COUNTY | 41009C0450C | 26-MAR-2004 | 04-10-0273A | 02
10 | OR | COLUMBIA COUNTY | 41009C0481C | 23-APR-2004 | 04-10-0276A | 02
10 | OR | COOS COUNTY | 4100420155B | 29-JAN-2004 | 04-10-0089A | 02
10 | OR | COOS COUNTY | 4100420325B | 09-JAN-2004 | 04-10-0147A | 02
10 | OR | COOS COUNTY | 4100420175B | 23-JAN-2004 | 04-10-0162A | 02
10 | OR | COOS COUNTY | 4100420225B | 12-MAY-2004 | 04-10-0494A | 02
10 | OR | CORVALLIS, CITY OF | 4100090004E | 31-MAR-2004 | 04-10-0202A | 02
10 | OR | CORVALLIS, CITY OF | 4100090002E | 02-APR-2004 | 04-10-0297A | 02
10 | OR | CORVALLIS, CITY OF | 4100090006E | 05-MAR-2004 | 04-10-0321A | 02
10 | OR | CORVALLIS, CITY OF | 4100090002E | 05-MAR-2004 | 04-10-0341A | 02
10 | OR | COTTAGE GROVE, CITY OF | 41039C2091F | 08-APR-2004 | 04-10-0433A | 02
10 | OR | DESCHUTES COUNTY | 41017C0320C | 16-APR-2004 | 04-10-0475A | 02
10 | OR | DETROIT, CITY OF | 41047C106G | 07-MAY-2004 | 04-10-0449A | 02
10 | OR | DOUGLAS COUNTY | 4100590930A | 02-APR-2004 | 04-10-0328A | 02
10 | OR | EUGENE, CITY OF | 41039C1126F | 23-JAN-2004 | 04-10-0123A | 02
10 | OR | EUGENE, CITY OF | 41039C0619F | 03-MAR-2004 | 04-10-0192A | 01
10 | OR | EUGENE, CITY OF | 41039C1136F | 04-FEB-2004 | 04-10-0204A | 02
10 | OR | EUGENE, CITY OF | 41039C0619F | 05-MAR-2004 | 04-10-0205A | 02
10 | OR | EUGENE, CITY OF | 41039C0619F | 30-JAN-2004 | 04-10-0209A | 02
10 | OR | EUGENE, CITY OF | 41039C1127F | 05-MAR-2004 | 04-10-0225A | 02
10 | OR | EUGENE, CITY OF | 41039C1128F | 01-MAR-2004 | 04-10-0226A | 02
10 | OR | EUGENE, CITY OF | 41039C1136F | 30-JAN-2004 | 04-10-0256A | 02
10 | OR | EUGENE, CITY OF | 41039C1116F | 13-FEB-2004 | 04-10-0283A | 02
10 | OR | EUGENE, CITY OF | 41039C0619F | 25-FEB-2004 | 04-10-0303A | 02
10 | OR | EUGENE, CITY OF | 41039C1136F | 01-MAR-2004 | 04-10-0304A | 02
10 | OR | EUGENE, CITY OF | 41039C1126F | 25-MAR-2004 | 04-10-0348A | 02
10 | OR | EUGENE, CITY OF | 41039C0619F | 14-APR-2004 | 04-10-0419A | 02
10 | OR | EUGENE, CITY OF | 41039C1104F | 16-APR-2004 | 04-10-0463A | 02
10 | OR | EUGENE, CITY OF | 41039C1127F | 12-MAY-2004 | 04-10-0481A | 02
10 | OR | EUGENE, CITY OF | 41039C1136F | 18-JUN-2004 | 04-10-0556A | 02
10 | OR | GRANTS PASS, CITY OF | 4101080003C | 09-APR-2004 | 04-10-0386A | 02
10 | OR | GRANTS PASS, CITY OF | 4101080003C | 14-APR-2004 | 04-10-0474X | 02
10 | OR | HILLSBORO, CITY OF | 4102380336B | 16-JAN-2004 | 04-10-0194A | 02
10 | OR | HILLSBORO, CITY OF | 4102430002B | 13-FEB-2004 | 04-10-0260A | 02
10 | OR | HILLSBORO, CITY OF | 4102430003B | 13-FEB-2004 | 04-10-0260A | 02
10 | OR | HILLSBORO, CITY OF | 4102380336B | 11-FEB-2004 | 04-10-0264A | 01
10 | OR | HILLSBORO, CITY OF | 4102380336B | 17-MAR-2004 | 04-10-0313A | 01
10 | OR | JACKSON COUNTY | 4155890492C | 03-MAR-2004 | 04-10-0296A | 02
10 | OR | JACKSON COUNTY | 4155890537B | 08-APR-2004 | 04-10-0352A | 01
10 | OR | JACKSON COUNTY | 4155890402B | 19-MAY-2004 | 04-10-0504A | 02
10 | OR | JEFFERSON, CITY OF | 41047C1000G | 25-MAR-2004 | 04-10-0299A | 02
10 | OR | JOSEPHINE COUNTY | 4155900388B | 12-MAR-2004 | 04-10-0153A | 02
10 | OR | JOSEPHINE COUNTY | 4155900206B | 26-MAY-2004 | 04-10-0493A | 02
10 | OR | KEIZER, CITY OF | 41047C0194G | 14-JAN-2004 | 04-10-0182A | 02
10 | OR | KEIZER, CITY OF | 41047C0194G | 25-FEB-2004 | 04-10-0250A | 02
10 | OR | KLAMATH COUNTY | 4101090745B | 11-FEB-2004 | 04-10-0266A | 02
10 | OR | KLAMATH COUNTY | 4101091350B | 19-MAR-2004 | 04-10-0342A | 02
10 | OR | KLAMATH COUNTY | 4101091350B | 19-MAR-2004 | 04-10-0365A | 02
10 | OR | KLAMATH COUNTY | 4101090745B | 06-MAY-2004 | 04-10-0428A | 02
10 | OR | KLAMATH COUNTY | 4101090745B | 21-MAY-2004 | 04-10-0484A | 02
10 | OR | KLAMATH COUNTY | 4101090755B | 26-MAY-2004 | 04-10-0510A | 02
10 | OR | LAKE OSWEGO, CITY OF | 4100180003C | 14-MAY-2004 | 04-10-0399A | 17
10 | OR | LANE COUNTY | 41039C0600F | 14-JAN-2004 | 03-10-0866A | 02
10 | OR | LANE COUNTY | 41039C1135F | 29-JAN-2004 | 04-10-0097A | 02
10 | OR | LANE COUNTY | 41039C0619F | 21-JAN-2004 | 04-10-0131A | 02
10 | OR | LANE COUNTY | 41039C1153F | 16-JAN-2004 | 04-10-0169A | 02
10 | OR | LANE COUNTY | 41039C1167F | 07-JAN-2004 | 04-10-0183A | 02
10 | OR | LANE COUNTY | 41039C1144F | 02-APR-2004 | 04-10-0195A | 17
10 | OR | LANE COUNTY | 41039C1695F | 30-JAN-2004 | 04-10-0203A | 02
10 | OR | LANE COUNTY | 41039C2400F | 26-MAR-2004 | 04-10-0217A | 02
10 | OR | LANE COUNTY | 41039C1645F | 18-FEB-2004 | 04-10-0253A | 02
10 | OR | LANE COUNTY | 41039C0945F | 02-JUN-2004 | 04-10-0263A | 02
10 | OR | LANE COUNTY | 41039C1127F | 13-FEB-2004 | 04-10-0275A | 02
10 | OR | LANE COUNTY | 41039C1080F | 23-APR-2004 | 04-10-0278A | 02
10 | OR | LANE COUNTY | 41039C1660F | 25-FEB-2004 | 04-10-0291A | 02
10 | OR | LANE COUNTY | 41039C1685F | 10-MAR-2004 | 04-10-0298A | 02
10 | OR | LANE COUNTY | 41039C1107F | 03-MAR-2004 | 04-10-0305A | 02
10 | OR | LANE COUNTY | 41039C0620F | 19-MAR-2004 | 04-10-0309A | 02
10 | OR | LANE COUNTY | 41039C0600F | 26-MAR-2004 | 04-10-0324A | 02
10 | OR | LANE COUNTY | 41039C1725F | 17-MAR-2004 | 04-10-0335A | 02
10 | OR | LANE COUNTY | 41039C0945F | 06-MAY-2004 | 04-10-0368A | 02
10 | OR | LANE COUNTY | 41039C2135F | 06-MAY-2004 | 04-10-0415A | 02
10 | OR | LANE COUNTY | 41039C0600F | 28-APR-2004 | 04-10-0457A | 02
10 | OR | LANE COUNTY | 41039C2400F | 28-APR-2004 | 04-10-0477A | 02
10 | OR | LANE COUNTY | 41039C1104F | 21-MAY-2004 | 04-10-0490A | 02
10 | OR | LANE COUNTY | 41039C1127F | 02-JUN-2004 | 04-10-0491A | 01
10 | OR | LANE COUNTY | 41039C0690F | 02-JUN-2004 | 04-10-0533A | 02
10 | OR | LANE COUNTY | 41039C1153F | 23-JUN-2004 | 04-10-0560A | 02
10 | OR | LEBANON, CITY OF | 4101410001C | 16-JAN-2004 | 04-10-0168A | 02
10 | OR | LINCOLN CITY, CITY OF | 4101300001C | 07-JAN-2004 | 04-10-0064A | 02
10 | OR | LINCOLN CITY, CITY OF | 4101300001C | 04-FEB-2004 | 04-10-0173A | 02
10 | OR | LINCOLN COUNTY | 4101290050B | 07-JAN-2004 | 04-10-0133A | 02
10 | OR | LINCOLN COUNTY | 4101290325B | 10-MAR-2004 | 04-10-0314A | 02
10 | OR | LINN COUNTY | 4101360680B | 23-JAN-2004 | 03-10-0874A | 02
10 | OR | LINN COUNTY | 4101360040B | 19-MAR-2004 | 03-10-0911A | 01
10 | OR | LINN COUNTY | 4101360350B | 17-MAR-2004 | 04-10-0127A | 02
10 | OR | LINN COUNTY | 4101360190B | 25-FEB-2004 | 04-10-0258A | 02
10 | OR | LINN COUNTY | 4101360195B | 19-MAR-2004 | 04-10-0350A | 02
10 | OR | MILWAUKIE, CITY OF | 4155880020A | 09-APR-2004 | 04-10-0438A | 02
10 | OR | MULTNOMAH COUNTY | 4101790215B | 09-JAN-2004 | 04-10-0158A | 02
10 | OR | MULTNOMAH COUNTY | 4101790381B | 25-FEB-2004 | 04-10-0181A | 02
10 | OR | OREGON CITY, CITY OF | 4100210001B | 14-MAY-2004 | 04-10-0505A | 02
10 | OR | POLK COUNTY | 41053C0050C | 07-JAN-2004 | 04-10-0044A | 02
10 | OR | POLK COUNTY | 41053C0225C | 12-MAY-2004 | 04-10-0482A | 02
10 | OR | PORTLAND, CITY OF | 4101830020D | 03-MAR-2004 | 04-10-0315A | 02
10 | OR | PORTLAND, CITY OF | 4101830047D | 14-APR-2004 | 04-10-0347A | 02
10 | OR | PORTLAND, CITY OF | 4101830048C | 16-APR-2004 | 04-10-0462A | 02
10 | OR | ROCKAWAY, CITY OF | 4102010001C | 11-FEB-2004 | 04-10-0274A | 02
10 | OR | ROSEBURG, CITY OF | 4100670005E | 13-FEB-2004 | 04-10-0201A | 02
10 | OR | ROSEBURG, CITY OF | 4100670005E | 23-JAN-2004 | 04-10-0208A | 02
10 | OR | ROSEBURG, CITY OF | 4100670005E | 18-FEB-2004 | 04-10-0292A | 02
10 | OR | ROSEBURG, CITY OF | 4100670005E | 19-MAR-2004 | 04-10-0293A | 02
10 | OR | ROSEBURG, CITY OF | 4100670005E | 17-MAR-2004 | 04-10-0356A | 02
10 | OR | ROSEBURG, CITY OF | 4100670005E | 09-APR-2004 | 04-10-0440A | 02
10 | OR | SALEM, CITY OF | 41047C0342H | 14-JAN-2004 | 03-10-0793A | 02
10 | OR | SALEM, CITY OF | 41047C0341H | 29-JAN-2004 | 04-10-0104A | 02
10 | OR | SALEM, CITY OF | 41047C0657G | 31-MAR-2004 | 04-10-0401A | 02
10 | OR | SALEM, CITY OF | 41047C0329G | 23-JUN-2004 | 04-10-0624A | 02
10 | OR | SCAPPOOSE, CITY OF | 41009C0482C | 25-MAR-2004 | 04-10-0364A | 02
10 | OR | SPRINGFIELD, CITY OF | 41039C1167F | 09-JAN-2004 | 04-10-0148A | 02
10 | OR | TILLAMOOK COUNTY | 4101960315A | 21-JAN-2004 | 04-10-0235A | 02
10 | OR | TILLAMOOK COUNTY | 4101960080A | 23-APR-2004 | 04-10-0400A | 02
10 | OR | UMATILLA COUNTY | 4102040795C | 18-FEB-2004 | 04-10-0229A | 02
10 | OR | VERNONIA, CITY OF | 41009C0381C | 04-FEB-2004 | 04-10-0200A | 02
10 | OR | WARRENTON, CITY OF | 4100330001B | 25-FEB-2004 | 04-10-0326A | 02
10 | OR | WASCO COUNTY | 410229B | 21-MAY-2004 | 04-10-0431A | 02
10 | OR | WASHINGTON COUNTY | 4102380509B | 17-MAR-2004 | 04-10-0319A | 02
10 | OR | WINSTON, CITY OF | 4155930001D | 19-MAR-2004 | 04-10-0336A | 02
10 | OR | YACHATS, CITY OF | 4101350001A | 14-JAN-2004 | 04-10-0142A | 02
10 | OR | YAMHILL COUNTY | 4102490137C | 14-JUN-2004 | 04-10-0511A | 02
10 | WA | BATTLE GROUND, CITY OF | 5300250001B | 09-JUN-2004 | 04-10-0514A | 02
10 | WA | BELLEVUE, CITY OF | 53033C0657F | 03-JUN-2004 | 03-10-0399P | 05
10 | WA | BELLEVUE, CITY OF | 53033C0656F | 11-FEB-2004 | 04-10-0232A | 02
10 | WA | BELLINGHAM, CITY OF | 53073C1653D | 11-FEB-2004 | 04-10-0057A | 02
10 | WA | BELLINGHAM, CITY OF | 53073C1214D | 21-JAN-2004 | 04-10-0224A | 01
10 | WA | BELLINGHAM, CITY OF | 53073C1653D | 21-MAY-2004 | 04-10-0427A | 02
10 | WA | BELLINGHAM, CITY OF | 53073C1240D | 26-MAY-2004 | 04-10-0444A | 02
10 | WA | BELLINGHAM, CITY OF | 53073C1653D | 06-MAY-2004 | 04-10-0498A | 02
10 | WA | BENTON COUNTY | 5302370440B | 26-MAY-2004 | 04-10-0404A | 02
10 | WA | BLAINE, CITY OF | 53073C0635D | 21-JAN-2004 | 04-10-0223A | 02
10 | WA | BOTHELL, CITY OF | 53033C0064G | 22-JAN-2004 | 03-10-0047P | 05
10 | WA | BOTHELL, CITY OF | 53033C0068G | 22-JAN-2004 | 03-10-0047P | 05
10 | WA | BREMERTON, CITY OF | 5300930015A | 19-MAY-2004 | 04-10-0461A | 02
10 | WA | BRIER, CITY OF | 53061C1317E | 02-JUN-2004 | 04-10-0366A | 02
10 | WA | BURIEN, CITY OF | 53033C0955F | 13-FEB-2004 | 04-10-0300X | 02
10 | WA | BURLINGTON, CITY OF | 5301530001B | 14-APR-2004 | 04-10-0455A | 02
10 | WA | BURLINGTON, CITY OF | 5301530001B | 12-MAY-2004 | 04-10-0501A | 02
10 | WA | CENTRALIA, CITY OF | 5301030002B | 23-APR-2004 | 04-10-0393A | 02
10 | WA | CHELAN COUNTY | 5300150250B | 07-JAN-2004 | 04-10-0022A | 02
10 | WA | CLALLAM COUNTY | 5300210545D | 18-FEB-2004 | 04-10-0237A | 02
10 | WA | CLALLAM COUNTY | 5300210575C | 25-FEB-2004 | 04-10-0272A | 02
10 | WA | CLARK COUNTY | 5300240312B | 07-MAY-2004 | 03-10-0921A | 01
10 | WA | CLARK COUNTY | 5300240100B | 23-JAN-2004 | 04-10-0132A | 02
10 | WA | CLARK COUNTY | 5300240225B | 23-JAN-2004 | 04-10-0132A | 02
10 | WA | CLARK COUNTY | 5300240312B | 14-APR-2004 | 04-10-0380A | 02
10 | WA | CLARK COUNTY | 5300240187C | 08-APR-2004 | 04-10-0383A | 02
10 | WA | CLARK COUNTY | 5300240311B | 28-APR-2004 | 04-10-0451A | 01
10 | WA | CLARK COUNTY | 5300240312B | 21-MAY-2004 | 04-10-0542X | 01
10 | WA | COWLITZ COUNTY | 5300320035D | 03-MAR-2004 | 04-10-0180A | 02
10 | WA | ELLENSBURG, CITY OF | 5302340001C | 26-MAY-2004 | 04-10-0269A | 01
10 | WA | FERNDALE, TOWN OF | 53073C1180D | 17-JAN-2004 | 02-10-334V | 19
10 | WA | FERNDALE, TOWN OF | 53073C0690D | 26-MAR-2004 | 04-10-0362A | 02
10 | WA | FIFE, CITY OF | 5301380326C | 19-MAR-2004 | 03-10-0847A | 01
10 | WA | GRANT COUNTY | 5300490370B | 03-MAR-2004 | 04-10-0302A | 02
10 | WA | GRAYS HARBOR COUNTY | 5300570350B | 23-JUN-2004 | 04-10-0507A | 02
10 | WA | ISLAND COUNTY | 53029C0165D | 14-JAN-2004 | 04-10-0074A | 02
10 | WA | ISLAND COUNTY | 53029C0445D | 17-MAR-2004 | 04-10-0271A | 02
10 | WA | ISSAQUAH, CITY OF | 53033C0691G | 22-JAN-2004 | 03-10-0308P | 05
10 | WA | ISSAQUAH, CITY OF | 53033C0693F | 22-JAN-2004 | 03-10-0308P | 05
10 | WA | JEFFERSON COUNTY | 5300690135B | 08-APR-2004 | 04-10-0414A | 02
10 | WA | KING COUNTY | 53033C1015F | 21-JAN-2004 | 04-10-0152A | 02
10 | WA | KING COUNTY | 53033C1280F | 29-JAN-2004 | 04-10-0166A | 02
10 | WA | KING COUNTY | 53033C0709G | 25-FEB-2004 | 04-10-0268A | 17
10 | WA | KING COUNTY | 53033C1078H | 17-MAR-2004 | 04-10-0279A | 02
10 | WA | KING COUNTY | 53033C1505F | 26-MAR-2004 | 04-10-0343A | 02
10 | WA | KING COUNTY | 53033C0687F | 26-MAR-2004 | 04-10-0372A | 02
10 | WA | KING COUNTY | 53033C1009F | 31-MAR-2004 | 04-10-0385A | 02
10 | WA | KING COUNTY | 53033C0615F | 04-JUN-2004 | 04-10-0439A | 02
10 | WA | KING COUNTY | 53033C0615F | 28-APR-2004 | 04-10-0464A | 02
10 | WA | KITSAP COUNTY | 5300920315B | 16-JAN-2004 | 04-10-0172A | 02
10 | WA | KITSAP COUNTY | 5300920310B | 20-FEB-2004 | 04-10-0285A | 02
10 | WA | KITSAP COUNTY | 5300920195B | 12-MAR-2004 | 04-10-0349A | 02
10 | WA | KITTITAS COUNTY | 5300950241B | 25-FEB-2004 | 04-10-0230A | 02
10 | WA | KITTITAS COUNTY | 5300950241B | 18-FEB-2004 | 04-10-0233A | 02
10 | WA | KITTITAS COUNTY | 5300950558B | 25-FEB-2004 | 04-10-0259A | 02
10 | WA | KITTITAS COUNTY | 5300950558B | 17-MAR-2004 | 04-10-0363X | 02
10 | WA | KITTITAS COUNTY | 5300950227B | 21-MAY-2004 | 04-10-0495A | 02
10 | WA | KLICKITAT COUNTY | 5300990025B | 17-MAR-2004 | 04-10-0255A | 02
10 | WA | LEWIS COUNTY | 5301020275B | 19-MAR-2004 | 04-10-0289A | 02
10 | WA | LEWIS COUNTY | 5301020230B | 16-APR-2004 | 04-10-0375A | 02
10 | WA | LEWIS COUNTY | 5301020043B | 23-APR-2004 | 04-10-0394A | 02
10 | WA | LEWIS COUNTY | 5301020465B | 26-MAY-2004 | 04-10-0395A | 02
10 | WA | LUMMI INDIAN RESERVATION, TRIBE OF | 53073C1165D | 02-JUN-2004 | 04-10-0521A | 02
10 | WA | MARYSVILLE, CITY OF | 53061C0716E | 19-MAY-2004 | 04-10-0506A | 02
10 | WA | MASON COUNTY | 5301150120C | 05-MAR-2004 | 04-10-0290A | 02
10 | WA | MASON COUNTY | 5301150110C | 14-JUN-2004 | 04-10-0376A | 02
10 | WA | MASON COUNTY | 5301150200C | 28-MAY-2004 | 04-10-0413A | 02
10 | WA | MASON COUNTY | 5301150200C | 14-MAY-2004 | 04-10-0417A | 02
10 | WA | MASON COUNTY | 5301150175D | 06-MAY-2004 | 04-10-0424A | 02
10 | WA | MONROE, CITY OF | 53061C1357E | 13-FEB-2004 | 04-10-0251A | 02
10 | WA | NOOKSACK, CITY OF | 53073C0737D | 17-JAN-2004 | 02-10-334V | 19
10 | WA | NOOKSACK, CITY OF | 53073C0737D | 12-MAY-2004 | 04-10-0492A | 02
10 | WA | OAKESDALE, TOWN OF | 5302100001A | 09-JAN-2004 | 04-10-0134A | 02
10 | WA | OKANOGAN COUNTY | 5301170550B | 08-APR-2004 | 04-10-0410A | 02
10 | WA | OKANOGAN, CITY OF | 5301190001C | 02-APR-2004 | 04-10-0402A | 02
10 | WA | OLYMPIA, CITY OF | 5301910003B | 11-FEB-2004 | 04-10-0216A | 02
10 | WA | OLYMPIA, CITY OF | 5301910004B | 14-MAY-2004 | 04-10-0478A | 02
10 | WA | PEND OREILLE COUNTY | 53051C0855C | 13-FEB-2004 | 04-10-0086A | 02
10 | WA | PEND OREILLE COUNTY | 53051C0855C | 16-JAN-2004 | 04-10-0184A | 02
10 | WA | PEND OREILLE COUNTY | 53051C0740C | 31-MAR-2004 | 04-10-0381A | 02
10 | WA | PEND OREILLE COUNTY | 53051C0850C | 08-APR-2004 | 04-10-0411A | 02
10 | WA | PEND OREILLE COUNTY | 53051C0855C | 08-APR-2004 | 04-10-0412A | 02
10 | WA | PIERCE COUNTY | 5301380125C | 13-FEB-2004 | 04-10-0165A | 02
10 | WA | PIERCE COUNTY | 5301380350D | 09-APR-2004 | 04-10-0398A | 02
10 | WA | PRESCOTT, TOWN OF | 5302590217B | 30-JAN-2004 | 04-10-0178A | 02
10 | WA | RITZVILLE, CITY OF | 5300050001B | 12-MAY-2004 | 04-10-0496A | 02
10 | WA | SAN JUAN COUNTY | 5301490006B | 21-JAN-2004 | 04-10-0108A | 02
10 | WA | SAN JUAN COUNTY | 5301490005B | 10-MAR-2004 | 04-10-0219A | 02
10 | WA | SAN JUAN COUNTY | 5301490006B | 25-FEB-2004 | 04-10-0288A | 02
10 | WA | SAN JUAN COUNTY | 5301490003B | 26-MAR-2004 | 04-10-0317A | 02
10 | WA | SAN JUAN COUNTY | 5301490005B | 03-MAR-2004 | 04-10-0329A | 02
10 | WA | SEDRO WOOLLEY, CITY OF | 5301590002B | 10-MAR-2004 | 04-10-0333A | 02
10 | WA | SKAGIT COUNTY | 5301510250C | 03-MAR-2004 | 04-10-0280A | 02
10 | WA | SKAGIT COUNTY | 5301510255D | 31-MAR-2004 | 04-10-0369A | 02
10 | WA | SKAGIT COUNTY | 5301510255D | 09-APR-2004 | 04-10-0466X | 02
10 | WA | SNOHOMISH COUNTY | 53061C1114E | 11-FEB-2004 | 04-10-0254A | 02
10 | WA | SPOKANE COUNTY | 5301740525B | 14-JAN-2004 | 04-10-0071A | 02
10 | WA | SPOKANE COUNTY | 5301740300C | 21-JAN-2004 | 04-10-0072A | 02
10 | WA | SPOKANE COUNTY | 5301740085B | 21-JAN-2004 | 04-10-0140A | 02
10 | WA | SPOKANE COUNTY | 5301740294C | 20-FEB-2004 | 04-10-0231A | 02
10 | WA | SPOKANE COUNTY | 5301740401C | 26-MAR-2004 | 04-10-0287A | 02
10 | WA | SPOKANE COUNTY | 5301740314B | 26-MAR-2004 | 04-10-0370A | 02
10 | WA | SPOKANE COUNTY | 5301740225B | 06-MAY-2004 | 04-10-0426A | 02
10 | WA | SPOKANE COUNTY | 5301740187B | 23-APR-2004 | 04-10-0430A | 02
10 | WA | SPOKANE COUNTY | 5301740300C | 14-APR-2004 | 04-10-0437A | 02
10 | WA | SPOKANE COUNTY | 5301740195B | 14-APR-2004 | 04-10-0443A | 02
10 | WA | SPOKANE COUNTY | 5301740391B | 30-APR-2004 | 04-10-0469A | 02
10 | WA | SPOKANE COUNTY | 5301740314B | 14-JUN-2004 | 04-10-0555A | 02
10 | WA | SPOKANE, CITY OF | 5301830015C | 14-APR-2004 | 02-10-545P | 05
10 | WA | TACOMA, CITY OF | 5301480020B | 26-MAY-2004 | 04-10-0522A | 02
10 | WA | THURSTON COUNTY | 5301880195C | 20-FEB-2004 | 04-10-0212A | 02
10 | WA | THURSTON COUNTY | 5301880562C | 07-MAY-2004 | 04-10-0316A | 02
10 | WA | THURSTON COUNTY | 5301880435C | 23-APR-2004 | 04-10-0445A | 02
10 | WA | THURSTON COUNTY | 5301880150C | 06-MAY-2004 | 04-10-0472A | 02
10 | WA | TOLEDO, CITY OF | 5303030001A | 23-APR-2004 | 04-10-0396A | 02
10 | WA | VANCOUVER, CITY OF | 5300240316B | 30-JAN-2004 | 03-10-0864A | 01
10 | WA | WALLA WALLA COUNTY | 5301940275B | 21-JAN-2004 | 04-10-0101A | 02
10 | WA | WEST RICHLAND, TOWN OF | 5302370465B | 28-MAY-2004 | 04-10-0373A | 02
10 | WA | WESTPORT, CITY OF | 5300670005C | 19-MAR-2004 | 04-10-0322A | 02
10 | WA | WHATCOM COUNTY | 53073C0633D | 17-JAN-2004 | 02-10-334V | 19
10 | WA | WHATCOM COUNTY | 53073C0634D | 17-JAN-2004 | 02-10-334V | 19
10 | WA | WHATCOM COUNTY | 53073C0641D | 17-JAN-2004 | 02-10-334V | 19
10 | WA | WHATCOM COUNTY | 53073C0644D | 17-JAN-2004 | 02-10-334V | 19
10 | WA | WHATCOM COUNTY | 53073C0655D | 17-JAN-2004 | 02-10-334V | 19
10 | WA | WHATCOM COUNTY | 53073C0695D | 17-JAN-2004 | 02-10-334V | 19
10 | WA | WHATCOM COUNTY | 53073C0731D | 17-JAN-2004 | 02-10-334V | 19
10 | WA | WHATCOM COUNTY | 53073C1180D | 17-JAN-2004 | 02-10-334V | 19
10 | WA | WHATCOM COUNTY | 53073C1185D | 17-JAN-2004 | 02-10-334V | 19
10 | WA | WHATCOM COUNTY | 53073C1218D | 17-JAN-2004 | 02-10-334V | 19
10 | WA | WHATCOM COUNTY | 53073C1235D | 17-JAN-2004 | 02-10-334V | 19
10 | WA | WHATCOM COUNTY | 53073C1255D | 17-JAN-2004 | 02-10-334V | 19
10 | WA | WHATCOM COUNTY | 53073C1270D | 17-JAN-2004 | 02-10-334V | 19
10 | WA | WHATCOM COUNTY | 53073C1675D | 17-JAN-2004 | 02-10-334V | 19
10 | WA | WHATCOM COUNTY | 53073C1705D | 17-JAN-2004 | 02-10-334V | 19
10 | WA | WHATCOM COUNTY | 53073C1710D | 17-JAN-2004 | 02-10-334V | 19
10 | WA | WHATCOM COUNTY | 53073C1715D | 17-JAN-2004 | 02-10-334V | 19
10 | WA | WHATCOM COUNTY | 53073C1675D | 16-JAN-2004 | 04-10-0137A | 02
10 | WA | WHATCOM COUNTY | 53073C1720D | 19-MAR-2004 | 04-10-0360A | 02
10 | WA | WHATCOM COUNTY | 53073C1265D | 02-APR-2004 | 04-10-0409A | 02
10 | WA | WHATCOM COUNTY | 53073C0633D | 23-APR-2004 | 04-10-0416A | 02
10 | WA | WHATCOM COUNTY | 53073C0690D | 08-APR-2004 | 04-10-0446X | 02
10 | WA | WHATCOM COUNTY | 53073C1700D | 30-APR-2004 | 04-10-0465A | 02
10 | WA | WHATCOM COUNTY | 53073C0700D | 07-MAY-2004 | 04-10-0485A | 02
10 | WA | WHATCOM COUNTY | 53073C1165D | 04-JUN-2004 | 04-10-0528A | 02
10 | WA | WHATCOM COUNTY | 53073C1610D | 04-JUN-2004 | 04-10-0547A | 02
10 | WA | WHATCOM COUNTY | 53073C0730D | 17-JUN-2004 | 04-10-0548A | 02
10 | WA | WHITMAN COUNTY | 5302050525B | 07-JAN-2004 | 04-10-0070A | 02
10 | WA | YAKIMA COUNTY | 5302171028B | 28-APR-2004 | 04-10-0476A | 02

Region | State | Community | Panel | Panel date
01 | MAINE | WASHINGTON, TOWN OF | 2300829999A | 01-MAR-2004
01 | MAINE | WASHINGTON, TOWN OF | 230082IND0A | 01-MAR-2004
01 | MAINE | WASHINGTON, TOWN OF | 2300820002B | 01-MAR-2004
01 | MAINE | WASHINGTON, TOWN OF | 2300820003B | 01-MAR-2004
01 | MAINE | WASHINGTON, TOWN OF | 2300820004B | 01-MAR-2004
01 | MAINE | WASHINGTON, TOWN OF | 2300820005B | 01-MAR-2004
01 | MAINE | WASHINGTON, TOWN OF | 2300820006B | 01-MAR-2004
01 | MAINE | WASHINGTON, TOWN OF | 2300820007B | 01-MAR-2004
01 | MAINE | WASHINGTON, TOWN OF | 2300820008B | 01-MAR-2004
01 | MAINE | WASHINGTON, TOWN OF | 2300820009B | 01-MAR-2004
01 | MAINE | WASHINGTON, TOWN OF | 2300820010B | 01-MAR-2004
01 | MAINE | WASHINGTON, TOWN OF | 2300820011B | 01-MAR-2004
01 | MAINE | WASHINGTON, TOWN OF | 2300820012B | 01-MAR-2004
01 | MAINE | WASHINGTON, TOWN OF | 2300820013B | 01-MAR-2004
01 | MAINE | WASHINGTON, TOWN OF | 2300820014B | 01-MAR-2004
01 | MASSACHUSETTS | CHELMSFORD, TOWN OF | 2501880001C | 16-JAN-2004
01 | MASSACHUSETTS | CHELMSFORD, TOWN OF | 2501880002C | 16-JAN-2004
01 | MASSACHUSETTS | CHELMSFORD, TOWN OF | 2501880003C | 16-JAN-2004
01 | MASSACHUSETTS | CHELMSFORD, TOWN OF | 2501880004C | 16-JAN-2004
01 | MASSACHUSETTS | CHELMSFORD, TOWN OF | 2501880005C | 16-JAN-2004
01 | MASSACHUSETTS | CHELMSFORD, TOWN OF | 2501880006C | 16-JAN-2004
01 | MASSACHUSETTS | CHELMSFORD, TOWN OF | 2501880007C | 16-JAN-2004
01 | MASSACHUSETTS | CHELMSFORD, TOWN OF | 2501880008C | 16-JAN-2004
01 | MASSACHUSETTS | CHELMSFORD, TOWN OF | 2501880009C | 16-JAN-2004
01 | MASSACHUSETTS | CHELMSFORD, TOWN OF | 2501880010C | 16-JAN-2004
01 | MASSACHUSETTS | CHELMSFORD, TOWN OF | 2501880011C | 16-JAN-2004
01 | MASSACHUSETTS | CHELMSFORD, TOWN OF | 2501880012C | 16-JAN-2004
01 | MASSACHUSETTS | CHELMSFORD, TOWN OF | 2501880013C | 16-JAN-2004
01 | MASSACHUSETTS | CHELMSFORD, TOWN OF | 250188IND0A | 16-JAN-2004
01 | MASSACHUSETTS | NORTH READING, TOWN OF | 2502090001D | 16-JUN-2004
01 | MASSACHUSETTS | NORTH READING, TOWN OF | 2502090002D | 16-JUN-2004
01 | MASSACHUSETTS | NORTH READING, TOWN OF | 2502090003D | 16-JUN-2004
01 | MASSACHUSETTS | NORTH READING, TOWN OF | 2502090004D | 16-JUN-2004
01 | MASSACHUSETTS | NORTH READING, TOWN OF | 2502090005D | 16-JUN-2004
01 | MASSACHUSETTS | NORTH READING, TOWN OF | 2502090006D | 16-JUN-2004
01 | MASSACHUSETTS | NORTH READING, TOWN OF | 2502090007D | 16-JUN-2004
01 | MASSACHUSETTS | NORTH READING, TOWN OF | 2502090008D | 16-JUN-2004
01 | MASSACHUSETTS | NORTH READING, TOWN OF | 2502090009D | 16-JUN-2004
01 | MASSACHUSETTS | NORTH READING, TOWN OF | 2502090010D | 16-JUN-2004
01 | MASSACHUSETTS | NORTH READING, TOWN OF | 2502090011D | 16-JUN-2004
01 | MASSACHUSETTS | NORTH READING, TOWN OF | 250209IND0A | 16-JUN-2004
02 | NEW JERSEY | GREENWICH, TOWNSHIP OF | 3404830001C | 17-MAY-2004
02 | NEW JERSEY | GREENWICH, TOWNSHIP OF | 3404830002C | 17-MAY-2004
02 | NEW JERSEY | GREENWICH, TOWNSHIP OF | 3404830003C | 17-MAY-2004
02 | NEW JERSEY | GREENWICH, TOWNSHIP OF | 3404830004C | 17-MAY-2004
02 | NEW JERSEY | GREENWICH, TOWNSHIP OF | 3404830005C | 17-MAY-2004
02 | NEW JERSEY | GREENWICH, TOWNSHIP OF | 3404830006C | 17-MAY-2004
02 | NEW JERSEY | GREENWICH, TOWNSHIP OF | 340483IND0A | 17-MAY-2004
02 | NEW YORK | BLENHEIM, TOWN OF | 36095C0293E | 02-APR-2004
02 | NEW YORK | BLENHEIM, TOWN OF | 36095C0401E | 02-APR-2004
02 | NEW YORK | BLENHEIM, TOWN OF | 36095C0402E | 02-APR-2004
02 | NEW YORK | BLENHEIM, TOWN OF | 36095C0404E | 02-APR-2004
02 | NEW YORK | BLENHEIM, TOWN OF | 36095C0406E | 02-APR-2004
02 | NEW YORK | BLENHEIM, TOWN OF | 36095C0412E | 02-APR-2004
02 | NEW YORK | BLENHEIM, TOWN OF | 36095CIND0A | 02-APR-2004
02 | NEW YORK | BROOME, TOWN OF | 36095C0294E | 02-APR-2004
02 | NEW YORK | BROOME, TOWN OF | 36095C0310E | 02-APR-2004
02 | NEW YORK | BROOME, TOWN OF | 36095C0320E | 02-APR-2004
02 | NEW YORK | BROOME, TOWN OF | 36095C0330E | 02-APR-2004
02 | NEW YORK | BROOME, TOWN OF | 36095C0407E | 02-APR-2004
02 | NEW YORK | BROOME, TOWN OF | 36095C0435E | 02-APR-2004
02 | NEW YORK | BROOME, TOWN OF | 36095C0455E | 02-APR-2004
02 | NEW YORK | BROOME, TOWN OF | 36095CIND0A | 02-APR-2004
02 | NEW YORK | CARLISLE, TOWN OF | 36095C0045E | 02-APR-2004
02 | NEW YORK | CARLISLE, TOWN OF | 36095C0065E | 02-APR-2004
02 | NEW YORK | CARLISLE, TOWN OF | 36095C0070E | 02-APR-2004
02 | NEW YORK | CARLISLE, TOWN OF | 36095C0089E | 02-APR-2004
02 | NEW YORK | CARLISLE, TOWN OF | 36095C0090E | 02-APR-2004
02 | NEW YORK | CARLISLE, TOWN OF | 36095C0135E | 02-APR-2004
02 | NEW YORK | CARLISLE, TOWN OF | 36095C0153E | 02-APR-2004
02 | NEW YORK | CARLISLE, TOWN OF | 36095C0154E | 02-APR-2004
02 | NEW YORK | CARLISLE, TOWN OF | 36095C0160E | 02-APR-2004
02 | NEW YORK | CARLISLE, TOWN OF | 36095C0176E | 02-APR-2004
02 | NEW YORK | CARLISLE, TOWN OF | 36095CIND0A | 02-APR-2004
02 | NEW YORK | COBLESKILL, TOWN OF | 36095C0135E | 02-APR-2004
02 | NEW YORK | COBLESKILL, TOWN OF | 36095C0142E | 02-APR-2004
02 | NEW YORK | COBLESKILL, TOWN OF | 36095C0153E | 02-APR-2004
02 | NEW YORK | COBLESKILL, TOWN OF | 36095C0154E | 02-APR-2004
02 | NEW YORK | COBLESKILL, TOWN OF | 36095C0160E | 02-APR-2004
02 | NEW YORK | COBLESKILL, TOWN OF | 36095C0161E | 02-APR-2004
02 | NEW YORK | COBLESKILL, TOWN OF | 36095C0162E | 02-APR-2004
02 | NEW YORK | COBLESKILL, TOWN OF | 36095C0166E | 02-APR-2004
02 | NEW YORK | COBLESKILL, TOWN OF | 36095C0167E | 02-APR-2004
02 | NEW YORK | COBLESKILL, TOWN OF | 36095C0176E | 02-APR-2004
02 | NEW YORK | COBLESKILL, TOWN OF | 36095C0178E | 02-APR-2004
02 | NEW YORK | COBLESKILL, TOWN OF | 36095CIND0A | 02-APR-2004
02 | NEW YORK | COBLESKILL, VILLAGE OF | 36095C0142E | 02-APR-2004
02 | NEW YORK | COBLESKILL, VILLAGE OF | 36095C0153E | 02-APR-2004
02 | NEW YORK | COBLESKILL, VILLAGE OF | 36095C0154E | 02-APR-2004
02 | NEW YORK | COBLESKILL, VILLAGE OF | 36095C0161E | 02-APR-2004
02 | NEW YORK | COBLESKILL, VILLAGE OF | 36095C0162E | 02-APR-2004
02 | NEW YORK | COBLESKILL, VILLAGE OF | 36095CIND0A | 02-APR-2004
02 | NEW YORK | CONESVILLE, TOWN OF | 36095C0414E | 02-APR-2004
02 | NEW YORK | CONESVILLE, TOWN OF | 36095C0418E | 02-APR-2004
02 | NEW YORK | CONESVILLE, TOWN OF | 36095C0419E | 02-APR-2004
02 | NEW YORK | CONESVILLE, TOWN OF | 36095C0435E | 02-APR-2004
02 | NEW YORK | CONESVILLE, TOWN OF | 36095C0438E | 02-APR-2004
02 | NEW YORK | CONESVILLE, TOWN OF | 36095C0439E | 02-APR-2004
02 | NEW YORK | CONESVILLE, TOWN OF | 36095C0477E | 02-APR-2004
02 | NEW YORK | CONESVILLE, TOWN OF | 36095C0481E | 02-APR-2004
02 | NEW YORK | CONESVILLE, TOWN OF | 36095CIND0A | 02-APR-2004
02 | NEW YORK | ESPERANCE, TOWN OF | 36095C0089E | 02-APR-2004
02 | NEW YORK | ESPERANCE, TOWN OF | 36095C0090E | 02-APR-2004
02 | NEW YORK | ESPERANCE, TOWN OF | 36095C0092E | 02-APR-2004
02 | NEW YORK | ESPERANCE, TOWN OF | 36095C0093E | 02-APR-2004
02 | NEW YORK | ESPERANCE, TOWN OF | 36095C0094E | 02-APR-2004
02 | NEW YORK | ESPERANCE, TOWN OF | 36095C0176E | 02-APR-2004
02 | NEW YORK | ESPERANCE, TOWN OF | 36095C0177E | 02-APR-2004
02 | NEW YORK | ESPERANCE, TOWN OF | 36095C0178E | 02-APR-2004
02 | NEW YORK | ESPERANCE, TOWN OF | 36095C0179E | 02-APR-2004
02 | NEW YORK | ESPERANCE, TOWN OF | 36095C0181E | 02-APR-2004
02 | NEW YORK | ESPERANCE, TOWN OF | 36095C0183E | 02-APR-2004
02 | NEW YORK | ESPERANCE, TOWN OF | 36095CIND0A | 02-APR-2004
02 | NEW YORK | ESPERANCE, VILLAGE OF | 36095C0094E | 02-APR-2004
02 | NEW YORK | ESPERANCE, VILLAGE OF | 36095CIND0A | 02-APR-2004
02 | NEW YORK | FULTON, TOWN OF | 36095C0284E | 02-APR-2004
02 | NEW YORK | FULTON, TOWN OF | 36095C0291E | 02-APR-2004
02 | NEW YORK | FULTON, TOWN OF | 36095C0292E | 02-APR-2004
02 | NEW YORK | FULTON, TOWN OF | 36095C0293E | 02-APR-2004
02 | NEW YORK | FULTON, TOWN OF | 36095C0294E | 02-APR-2004
02 | NEW YORK | FULTON, TOWN OF | 36095C0301E | 02-APR-2004
02 | NEW YORK | FULTON, TOWN OF | 36095C0303E | 02-APR-2004
02 | NEW YORK | FULTON, TOWN OF | 36095C0304E | 02-APR-2004
02 | NEW YORK | FULTON, TOWN OF | 36095CIND0A | 02-APR-2004
02 | NEW YORK | GILBOA, TOWN OF | 36095C0293E | 02-APR-2004
02 | NEW YORK | GILBOA, TOWN OF | 36095C0294E | 02-APR-2004
02 | NEW YORK | GILBOA, TOWN OF | 36095C0390E | 02-APR-2004
02 | NEW YORK | GILBOA, TOWN OF | 36095C0404E | 02-APR-2004
02 | NEW YORK | GILBOA, TOWN OF | 36095C0406E | 02-APR-2004
02 | NEW YORK | GILBOA, TOWN OF | 36095C0407E | 02-APR-2004
02 | NEW YORK | GILBOA, TOWN OF | 36095C0412E | 02-APR-2004
02 | NEW YORK | GILBOA, TOWN OF | 36095C0414E | 02-APR-2004
02 | NEW YORK | GILBOA, TOWN OF | 36095C0418E | 02-APR-2004
02 | NEW YORK | GILBOA, TOWN OF | 36095C0477E | 02-APR-2004
02 | NEW YORK | GILBOA, TOWN OF | 36095C0481E | 02-APR-2004
02 | NEW YORK | GILBOA, TOWN OF | 36095CIND0A | 02-APR-2004
02 | NEW YORK | JEFFERSON, TOWN OF | 36095C0240E | 02-APR-2004
02 | NEW YORK | JEFFERSON, TOWN OF | 36095C0245E | 02-APR-2004
02 | NEW YORK | JEFFERSON, TOWN OF | 36095C0360E | 02-APR-2004
02 | NEW YORK | JEFFERSON, TOWN OF | 36095C0390E | 02-APR-2004
02 | NEW YORK | JEFFERSON, TOWN OF | 36095CIND0A | 02-APR-2004
02 | NEW YORK | MIDDLEBURGH, TOWN OF | 36095C0166E | 02-APR-2004
02 | NEW YORK | MIDDLEBURGH, TOWN OF | 36095C0167E | 02-APR-2004
02 | NEW YORK | MIDDLEBURGH, TOWN OF | 36095C0186E | 02-APR-2004
02 | NEW YORK | MIDDLEBURGH, TOWN OF | 36095C0188E | 02-APR-2004
02 | NEW YORK | MIDDLEBURGH, TOWN OF | 36095C0189E | 02-APR-2004
02 | NEW YORK | MIDDLEBURGH, TOWN OF | 36095C0284E | 02-APR-2004
02 | NEW YORK | MIDDLEBURGH, TOWN OF | 36095C0301E | 02-APR-2004
02 | NEW YORK | MIDDLEBURGH, TOWN OF | 36095C0302E | 02-APR-2004
02 | NEW YORK | MIDDLEBURGH, TOWN OF | 36095C0303E | 02-APR-2004
02 | NEW YORK | MIDDLEBURGH, TOWN OF | 36095C0304E | 02-APR-2004
02 | NEW YORK | MIDDLEBURGH, TOWN OF | 36095C0310E | 02-APR-2004
02 | NEW YORK | MIDDLEBURGH, TOWN OF | 36095C0320E | 02-APR-2004
02 | NEW YORK | MIDDLEBURGH, TOWN OF | 36095C0330E | 02-APR-2004
02 | NEW YORK | MIDDLEBURGH, TOWN OF | 36095CIND0A | 02-APR-2004
02 | NEW YORK | MIDDLEBURGH, VILLAGE OF | 36095C0302E | 02-APR-2004
02 | NEW YORK | MIDDLEBURGH, VILLAGE OF | 36095C0304E | 02-APR-2004
02 | NEW YORK | MIDDLEBURGH, VILLAGE OF | 36095CIND0A | 02-APR-2004
02 | NEW YORK | RICHMONDVILLE, TOWN OF | 36095C0120E | 02-APR-2004
02 | NEW YORK | RICHMONDVILLE, TOWN OF | 36095C0140E | 02-APR-2004
02 | NEW YORK | RICHMONDVILLE, TOWN OF | 36095C0142E | 02-APR-2004
02 | NEW YORK | RICHMONDVILLE, TOWN OF | 36095C0145E | 02-APR-2004
02 | NEW YORK | RICHMONDVILLE, TOWN OF | 36095C0161E | 02-APR-2004
02 | NEW YORK | RICHMONDVILLE, TOWN OF | 36095CIND0A | 02-APR-2004
02 | NEW YORK | RICHMONDVILLE, VILLAGE OF | 36095C0140E | 02-APR-2004
02 | NEW YORK | RICHMONDVILLE, VILLAGE OF | 36095C0145E | 02-APR-2004
02 | NEW YORK | RICHMONDVILLE, VILLAGE OF | 36095CIND0A | 02-APR-2004
02 | NEW YORK | SCHOHARIE, TOWN OF | 36095C0160E | 02-APR-2004
02 | NEW YORK | SCHOHARIE, TOWN OF | 36095C0167E | 02-APR-2004
02 | NEW YORK | SCHOHARIE, TOWN OF | 36095C0176E | 02-APR-2004
02 | NEW YORK | SCHOHARIE, TOWN OF | 36095C0178E | 02-APR-2004
02 | NEW YORK | SCHOHARIE, TOWN OF | 36095C0179E | 02-APR-2004
02 | NEW YORK | SCHOHARIE, TOWN OF | 36095C0183E | 02-APR-2004
02 | NEW YORK | SCHOHARIE, TOWN OF | 36095C0186E | 02-APR-2004
02 | NEW YORK | SCHOHARIE, TOWN OF | 36095C0187E | 02-APR-2004
02 | NEW YORK | SCHOHARIE, TOWN OF | 36095C0188E | 02-APR-2004
02 | NEW YORK | SCHOHARIE, TOWN OF | 36095C0189E | 02-APR-2004
02 | NEW YORK | SCHOHARIE, TOWN OF | 36095C0191E | 02-APR-2004
02 | NEW YORK | SCHOHARIE, TOWN OF | 36095C0192E | 02-APR-2004
02 | NEW YORK | SCHOHARIE, TOWN OF | 36095CIND0A | 02-APR-2004
02 | NEW YORK | SCHOHARIE, VILLAGE OF | 36095C0187E | 02-APR-2004
02 | NEW YORK | SCHOHARIE, VILLAGE OF | 36095C0189E | 02-APR-2004
02 | NEW YORK | SCHOHARIE, VILLAGE OF | 36095C0191E | 02-APR-2004
02 | NEW YORK | SCHOHARIE, VILLAGE OF | 36095CIND0A | 02-APR-2004
02 | NEW YORK | SCHUYLER FALLS, TOWN OF | 3601720001D | 17-MAY-2004
02 | NEW YORK | SCHUYLER FALLS, TOWN OF | 3601720002D | 17-MAY-2004
02 | NEW YORK | SCHUYLER FALLS, TOWN OF | 3601720003D | 17-MAY-2004
02 | NEW YORK | SCHUYLER FALLS, TOWN OF | 3601720004D | 17-MAY-2004
02 | NEW YORK | SCHUYLER FALLS, TOWN OF | 3601720005D | 17-MAY-2004
02 | NEW YORK | SCHUYLER FALLS, TOWN OF | 3601720010D | 17-MAY-2004
02 | NEW YORK | SCHUYLER FALLS, TOWN OF | 3601720011D | 17-MAY-2004
02 | NEW YORK | SCHUYLER FALLS, TOWN OF | 3601720016D | 17-MAY-2004
02 | NEW YORK | SCHUYLER FALLS, TOWN OF | 3601720017D | 17-MAY-2004
02 | NEW YORK | SCHUYLER FALLS, TOWN OF | 3601720018D | 17-MAY-2004
02 | NEW YORK | SCHUYLER FALLS, TOWN OF | 3601720019D | 17-MAY-2004
02 | NEW YORK | SCHUYLER FALLS, TOWN OF | 3601720021D | 17-MAY-2004
02 | NEW YORK | SCHUYLER FALLS, TOWN OF | 3601720022D | 17-MAY-2004
02 | NEW YORK | SCHUYLER FALLS, TOWN OF | 3601720023D | 17-MAY-2004
02 | NEW YORK | SCHUYLER FALLS, TOWN OF | 360172IND0A | 17-MAY-2004
02 | NEW YORK | SEWARD, TOWN OF | 36095C0045E | 02-APR-2004
02 | NEW YORK | SEWARD, TOWN OF | 36095C0110E | 02-APR-2004
02 | NEW YORK | SEWARD, TOWN OF | 36095C0120E | 02-APR-2004
02 | NEW YORK | SEWARD, TOWN OF | 36095C0130E | 02-APR-2004
02 | NEW YORK | SEWARD, TOWN OF | 36095C0135E | 02-APR-2004
02 | NEW YORK | SEWARD, TOWN OF | 36095C0140E | 02-APR-2004
02 | NEW YORK | SEWARD, TOWN OF | 36095C0142E | 02-APR-2004
02 | NEW YORK | SEWARD, TOWN OF | 36095C0145E | 02-APR-2004
02 | NEW YORK | SEWARD, TOWN OF | 36095CIND0A | 02-APR-2004
02 | NEW YORK | SHARON SPRING, VILLAGE OF | 36095C0020E | 02-APR-2004
02 | NEW YORK | SHARON SPRING, VILLAGE OF | 36095C0040E | 02-APR-2004
02 | NEW YORK | SHARON SPRING, VILLAGE OF | 36095CIND0A | 02-APR-2004
02 | NEW YORK | SHARON, TOWN OF | 36095C0020E | 02-APR-2004
02 | NEW YORK | SHARON, TOWN OF | 36095C0040E | 02-APR-2004
02 | NEW YORK | SHARON, TOWN OF | 36095C0045E | 02-APR-2004
02 | NEW YORK | SHARON, TOWN OF | 36095C0110E | 02-APR-2004
02 | NEW YORK | SHARON, TOWN OF | 36095C0130E | 02-APR-2004
02 | NEW YORK | SHARON, TOWN OF | 36095C0135E | 02-APR-2004
02 | NEW YORK | SHARON, TOWN OF | 36095CIND0A | 02-APR-2004
02 | NEW YORK | SUMMIT, TOWN OF | 36095C0120E | 02-APR-2004
02 | NEW YORK | SUMMIT, TOWN OF | 36095C0140E | 02-APR-2004
02 | NEW YORK | SUMMIT, TOWN OF | 36095C0240E | 02-APR-2004
02 | NEW YORK | SUMMIT, TOWN OF | 36095C0245E | 02-APR-2004
02 | NEW YORK | SUMMIT, TOWN OF | 36095CIND0A | 02-APR-2004
02 | NEW YORK | VICTOR, VILLAGE OF | 3616480001A | 17-MAY-2004
02 | NEW YORK | WRIGHT, TOWN OF | 36095C0192E | 02-APR-2004
02 | NEW YORK | WRIGHT, TOWN OF | 36095C0215E | 02-APR-2004
02 | NEW YORK | WRIGHT, TOWN OF | 36095C0220E | 02-APR-2004
02 | NEW YORK | WRIGHT, TOWN OF | 36095C0310E | 02-APR-2004
02 | NEW YORK | WRIGHT, TOWN OF | 36095C0330E | 02-APR-2004
02 | NEW YORK | WRIGHT, TOWN OF | 36095CIND0A | 02-APR-2004
03 | PENNSYLVANIA | ANTHONY, TOWNSHIP OF | 42081C0265E | 16-MAR-2004
03 | PENNSYLVANIA | ANTHONY, TOWNSHIP OF | 42081C0270E | 16-MAR-2004
03 | PENNSYLVANIA | ANTHONY, TOWNSHIP OF | 42081C0340E | 16-MAR-2004
03 | PENNSYLVANIA | ANTHONY, TOWNSHIP OF | 42081C0344E | 16-MAR-2004
03 | PENNSYLVANIA | ANTHONY, TOWNSHIP OF | 42081C0345E | 16-MAR-2004
03 | PENNSYLVANIA | ANTHONY, TOWNSHIP OF | 42081C0417E | 16-MAR-2004
03 | PENNSYLVANIA | ANTHONY, TOWNSHIP OF | 42081CIND1A | 16-MAR-2004
03 | PENNSYLVANIA | ANTHONY, TOWNSHIP OF | 42081CIND2A | 16-MAR-2004
03 | PENNSYLVANIA | ARMSTRONG, TOWNSHIP OF | 42081C0427E | 16-MAR-2004
03 | PENNSYLVANIA | ARMSTRONG, TOWNSHIP OF | 42081C0429E | 16-MAR-2004
03 | PENNSYLVANIA | ARMSTRONG, TOWNSHIP OF | 42081C0431E | 16-MAR-2004
03 | PENNSYLVANIA | ARMSTRONG, TOWNSHIP OF | 42081C0432E | 16-MAR-2004
03 | PENNSYLVANIA | ARMSTRONG, TOWNSHIP OF | 42081C0433E | 16-MAR-2004
03 | PENNSYLVANIA | ARMSTRONG, TOWNSHIP OF | 42081C0434E | 16-MAR-2004
03 | PENNSYLVANIA | ARMSTRONG, TOWNSHIP OF | 42081C0436E | 16-MAR-2004
03 | PENNSYLVANIA | ARMSTRONG, TOWNSHIP OF | 42081C0437E | 16-MAR-2004
03 | PENNSYLVANIA | ARMSTRONG, TOWNSHIP OF | 42081C0441E | 16-MAR-2004
03 | PENNSYLVANIA | ARMSTRONG, TOWNSHIP OF | 42081C0442E | 16-MAR-2004
03 | PENNSYLVANIA | ARMSTRONG, TOWNSHIP OF | 42081C0443E | 16-MAR-2004
03 | PENNSYLVANIA | ARMSTRONG, TOWNSHIP OF | 42081C0500E | 16-MAR-2004
03 | PENNSYLVANIA | ARMSTRONG, TOWNSHIP OF | 42081C0505E | 16-MAR-2004
03 | PENNSYLVANIA | ARMSTRONG, TOWNSHIP OF | 42081C0510E | 16-MAR-2004
03 | PENNSYLVANIA | ARMSTRONG, TOWNSHIP OF | 42081CIND1A | 16-MAR-2004
03 | PENNSYLVANIA | ARMSTRONG, TOWNSHIP OF | 42081CIND2A | 16-MAR-2004
03 | PENNSYLVANIA | BASTRESS, TOWNSHIP OF | 42081C0423E | 16-MAR-2004
03 | PENNSYLVANIA | BASTRESS, TOWNSHIP OF | 42081C0424E | 16-MAR-2004
03 | PENNSYLVANIA | BASTRESS, TOWNSHIP OF | 42081C0428E | 16-MAR-2004
03 | PENNSYLVANIA | BASTRESS, TOWNSHIP OF | 42081C0429E | 16-MAR-2004
03 | PENNSYLVANIA | BASTRESS, TOWNSHIP OF | 42081C0495E | 16-MAR-2004
03 | PENNSYLVANIA | BASTRESS, TOWNSHIP OF | 42081C0500E | 16-MAR-2004
03 | PENNSYLVANIA | BASTRESS, TOWNSHIP OF | 42081CIND1A | 16-MAR-2004
03 | PENNSYLVANIA | BASTRESS, TOWNSHIP OF | 42081CIND2A | 16-MAR-2004
03 | PENNSYLVANIA | BRADY, TOWNSHIP OF | 42081C0510E | 16-MAR-2004
03 | PENNSYLVANIA | BRADY, TOWNSHIP OF | 42081C0512E | 16-MAR-2004
03 | PENNSYLVANIA | BRADY, TOWNSHIP OF | 42081C0514E | 16-MAR-2004
03 | PENNSYLVANIA | BRADY, TOWNSHIP OF | 42081C0515E | 16-MAR-2004
03 | PENNSYLVANIA | BRADY, TOWNSHIP OF | 42081CIND1A | 16-MAR-2004
03 | PENNSYLVANIA | BRADY, TOWNSHIP OF | 42081CIND2A | 16-MAR-2004
03 | PENNSYLVANIA | BROWN, TOWNSHIP OF | 42081C0025E | 16-MAR-2004
03 | PENNSYLVANIA | BROWN, TOWNSHIP OF | 42081C0030E | 16-MAR-2004
03 | PENNSYLVANIA | BROWN, TOWNSHIP OF | 42081C0035E | 16-MAR-2004
03 | PENNSYLVANIA | BROWN, TOWNSHIP OF | 42081C0040E | 16-MAR-2004
03 | PENNSYLVANIA | BROWN, TOWNSHIP OF | 42081C0045E | 16-MAR-2004
03 | PENNSYLVANIA | BROWN, TOWNSHIP OF | 42081C0100E | 16-MAR-2004
03 | PENNSYLVANIA | BROWN, TOWNSHIP OF | 42081C0105E | 16-MAR-2004
03 | PENNSYLVANIA | BROWN, TOWNSHIP OF | 42081C0115E | 16-MAR-2004
03 | PENNSYLVANIA | BROWN, TOWNSHIP OF | 42081CIND1A | 16-MAR-2004
03 | PENNSYLVANIA | BROWN, TOWNSHIP OF | 42081CIND2A | 16-MAR-2004
03 | PENNSYLVANIA | BUCKS COUNTY* | 42017CIND1B | 02-APR-2004
03 | PENNSYLVANIA | BUCKS COUNTY* | 42017CIND2B | 02-APR-2004
03 | PENNSYLVANIA | CASCADE, TOWNSHIP OF | 42081C0085E | 16-MAR-2004
03 | PENNSYLVANIA | CASCADE, TOWNSHIP OF | 42081C0090E | 16-MAR-2004
03 | PENNSYLVANIA | CASCADE, TOWNSHIP OF | 42081C0141E | 16-MAR-2004
03 | PENNSYLVANIA | CASCADE, TOWNSHIP OF | 42081C0142E | 16-MAR-2004
03 | PENNSYLVANIA | CASCADE, TOWNSHIP OF | 42081C0143E | 16-MAR-2004
03 | PENNSYLVANIA | CASCADE, TOWNSHIP OF | 42081C0144E | 16-MAR-2004
03 | PENNSYLVANIA | CASCADE, TOWNSHIP OF | 42081C0150E | 16-MAR-2004
03 | PENNSYLVANIA | CASCADE, TOWNSHIP OF | 42081C0155E | 16-MAR-2004
03 | PENNSYLVANIA | CASCADE, TOWNSHIP OF | 42081C0160E | 16-MAR-2004
03 | PENNSYLVANIA | CASCADE, TOWNSHIP OF | 42081C0215E | 16-MAR-2004
03 | PENNSYLVANIA | CASCADE, TOWNSHIP OF | 42081C0220E | 16-MAR-2004
03 | PENNSYLVANIA | CASCADE, TOWNSHIP OF | 42081C0225E | 16-MAR-2004
03 | PENNSYLVANIA | CASCADE, TOWNSHIP OF | 42081CIND1A | 16-MAR-2004
03 | PENNSYLVANIA | CASCADE, TOWNSHIP OF | 42081CIND2A | 16-MAR-2004
03 | PENNSYLVANIA | CLINTON, TOWNSHIP OF | 42081C0441E | 16-MAR-2004
03 | PENNSYLVANIA | CLINTON, TOWNSHIP OF | 42081C0442E | 16-MAR-2004
03 | PENNSYLVANIA | CLINTON, TOWNSHIP OF | 42081C0443E | 16-MAR-2004
03 | PENNSYLVANIA | CLINTON, TOWNSHIP OF | 42081C0444E | 16-MAR-2004
03 | PENNSYLVANIA | CLINTON, TOWNSHIP OF | 42081C0446E | 16-MAR-2004
03 | PENNSYLVANIA | CLINTON, TOWNSHIP OF | 42081C0447E | 16-MAR-2004
03 | PENNSYLVANIA | CLINTON, TOWNSHIP OF | 42081C0448E | 16-MAR-2004
03 | PENNSYLVANIA | CLINTON, TOWNSHIP OF | 42081C0449E | 16-MAR-2004
03 | PENNSYLVANIA | CLINTON, TOWNSHIP OF | 42081C0451E | 16-MAR-2004
03 | PENNSYLVANIA | CLINTON, TOWNSHIP OF | 42081C0453E | 16-MAR-2004
03 | PENNSYLVANIA | CLINTON, TOWNSHIP OF | 42081C0510E | 16-MAR-2004
03 | PENNSYLVANIA | CLINTON, TOWNSHIP OF | 42081C0512E | 16-MAR-2004
03 | PENNSYLVANIA | CLINTON, TOWNSHIP OF | 42081C0514E | 16-MAR-2004
03 | PENNSYLVANIA | CLINTON, TOWNSHIP OF | 42081C0515E | 16-MAR-2004
03 | PENNSYLVANIA | CLINTON, TOWNSHIP OF | 42081C0516E | 16-MAR-2004
03 | PENNSYLVANIA | CLINTON, TOWNSHIP OF | 42081C0517E | 16-MAR-2004
03 | PENNSYLVANIA | CLINTON, TOWNSHIP OF | 42081C0521E | 16-MAR-2004
03 | PENNSYLVANIA | CLINTON, TOWNSHIP OF | 42081CIND1A | 16-MAR-2004
03 | PENNSYLVANIA | CLINTON, TOWNSHIP OF | 42081CIND2A | 16-MAR-2004
03 | PENNSYLVANIA | COGAN HOUSE, TOWNSHIP OF | 42081C0125E | 16-MAR-2004
03 | PENNSYLVANIA | COGAN HOUSE, TOWNSHIP OF | 42081C0130E | 16-MAR-2004
03 | PENNSYLVANIA | COGAN HOUSE, TOWNSHIP OF | 42081C0135E | 16-MAR-2004
03 | PENNSYLVANIA | COGAN HOUSE, TOWNSHIP OF | 42081C0140E | 16-MAR-2004
03 | PENNSYLVANIA | COGAN HOUSE, TOWNSHIP OF | 42081C0190E | 16-MAR-2004
03 | PENNSYLVANIA | COGAN HOUSE, TOWNSHIP OF | 42081C0195E | 16-MAR-2004
03 | PENNSYLVANIA | COGAN HOUSE, TOWNSHIP OF | 42081C0200E | 16-MAR-2004
03 | PENNSYLVANIA | COGAN HOUSE, TOWNSHIP OF | 42081C0205E | 16-MAR-2004
03 | PENNSYLVANIA | COGAN HOUSE, TOWNSHIP OF | 42081C0260E | 16-MAR-2004
03 | PENNSYLVANIA | COGAN HOUSE, TOWNSHIP OF | 42081C0265E | 16-MAR-2004
03 | PENNSYLVANIA | COGAN HOUSE, TOWNSHIP OF | 42081C0270E | 16-MAR-2004
03 | PENNSYLVANIA | COGAN HOUSE, TOWNSHIP OF | 42081C0271E | 16-MAR-2004
03 | PENNSYLVANIA | COGAN HOUSE, TOWNSHIP OF | 42081CIND1A | 16-MAR-2004
03 | PENNSYLVANIA | COGAN HOUSE, TOWNSHIP OF | 42081CIND2A | 16-MAR-2004
03 | PENNSYLVANIA | CUMMINGS, TOWNSHIP OF | 42081C0180E | 16-MAR-2004
03 | PENNSYLVANIA | CUMMINGS, TOWNSHIP OF | 42081C0185E | 16-MAR-2004
03 | PENNSYLVANIA | CUMMINGS, TOWNSHIP OF | 42081C0190E | 16-MAR-2004
03 | PENNSYLVANIA | CUMMINGS, TOWNSHIP OF | 42081C0245E | 16-MAR-2004
03 | PENNSYLVANIA | CUMMINGS, TOWNSHIP OF | 42081C0250E | 16-MAR-2004
03 | PENNSYLVANIA | CUMMINGS, TOWNSHIP OF | 42081C0255E | 16-MAR-2004
03 | PENNSYLVANIA | CUMMINGS, TOWNSHIP OF | 42081C0260E | 16-MAR-2004
03 | PENNSYLVANIA | CUMMINGS, TOWNSHIP OF | 42081C0265E | 16-MAR-2004
03 | PENNSYLVANIA | CUMMINGS, TOWNSHIP OF | 42081C0325E | 16-MAR-2004
03 | PENNSYLVANIA | CUMMINGS, TOWNSHIP OF | 42081C0330E | 16-MAR-2004
03 | PENNSYLVANIA | CUMMINGS, TOWNSHIP OF | 42081C0335E | 16-MAR-2004
03 | PENNSYLVANIA | CUMMINGS, TOWNSHIP OF | 42081CIND1A | 16-MAR-2004
03 | PENNSYLVANIA | CUMMINGS, TOWNSHIP OF | 42081CIND2A | 16-MAR-2004
03 | PENNSYLVANIA | DUBOISTOWN, BOROUGH OF | 42081C0431E | 16-MAR-2004
03 | PENNSYLVANIA | DUBOISTOWN, BOROUGH OF | 42081C0432E | 16-MAR-2004
03 | PENNSYLVANIA | DUBOISTOWN, BOROUGH OF | 42081C0433E | 16-MAR-2004
03 | PENNSYLVANIA | DUBOISTOWN, BOROUGH OF | 42081CIND1A | 16-MAR-2004
03 | PENNSYLVANIA | DUBOISTOWN, BOROUGH OF | 42081CIND2A | 16-MAR-2004
03 | PENNSYLVANIA | EAST ROCKHILL, TOWNSHIP OF | 42017C0252H | 02-APR-2004
03 | PENNSYLVANIA | EAST ROCKHILL, TOWNSHIP OF | 42017C0256H | 02-APR-2004
03 | PENNSYLVANIA | EAST ROCKHILL, TOWNSHIP OF | 42017C0257H | 02-APR-2004
03 | PENNSYLVANIA | EAST ROCKHILL, TOWNSHIP OF | 42017CIND1B | 02-APR-2004
03 | PENNSYLVANIA | EAST ROCKHILL, TOWNSHIP OF | 42017CIND2B | 02-APR-2004
03 | PENNSYLVANIA | ELDRED, TOWNSHIP OF | 42081C0285E | 16-MAR-2004
03 | PENNSYLVANIA | ELDRED, TOWNSHIP OF | 42081C0290E | 16-MAR-2004
03 | PENNSYLVANIA | ELDRED, TOWNSHIP OF | 42081C0360E | 16-MAR-2004
03 | PENNSYLVANIA | ELDRED, TOWNSHIP OF | 42081C0361E | 16-MAR-2004
03 | PENNSYLVANIA | ELDRED, TOWNSHIP OF | 42081CIND1A | 16-MAR-2004
03 | PENNSYLVANIA | ELDRED, TOWNSHIP OF | 42081CIND2A | 16-MAR-2004
03 | PENNSYLVANIA | FAIRFIELD, TOWNSHIP OF | 42081C0361E | 16-MAR-2004
03 | PENNSYLVANIA | FAIRFIELD, TOWNSHIP OF | 42081C0362E | 16-MAR-2004
03 | PENNSYLVANIA | FAIRFIELD, TOWNSHIP OF | 42081C0363E | 16-MAR-2004
03 | PENNSYLVANIA | FAIRFIELD, TOWNSHIP OF | 42081C0364E | 16-MAR-2004
03 | PENNSYLVANIA | FAIRFIELD, TOWNSHIP OF | 42081C0368E | 16-MAR-2004
03 | PENNSYLVANIA | FAIRFIELD, TOWNSHIP OF | 42081C0370E | 16-MAR-2004
03 | PENNSYLVANIA | FAIRFIELD, TOWNSHIP OF | 42081C0442E | 16-MAR-2004
03 | PENNSYLVANIA | FAIRFIELD, TOWNSHIP OF | 42081C0446E | 16-MAR-2004
03 | PENNSYLVANIA | FAIRFIELD, TOWNSHIP OF | 42081CIND1A | 16-MAR-2004
03 | PENNSYLVANIA | FAIRFIELD, TOWNSHIP OF | 42081CIND2A | 16-MAR-2004
03 | PENNSYLVANIA | FRANKLIN, TOWNSHIP OF | 42081C0384E | 16-MAR-2004
03 | PENNSYLVANIA | FRANKLIN, TOWNSHIP OF | 42081C0390E | 16-MAR-2004
03 | PENNSYLVANIA | FRANKLIN, TOWNSHIP OF | 42081C0395E | 16-MAR-2004
03 | PENNSYLVANIA | FRANKLIN, TOWNSHIP OF | 42081C0462E | 16-MAR-2004
03 | PENNSYLVANIA | FRANKLIN, TOWNSHIP OF | 42081C0464E | 16-MAR-2004
03 | PENNSYLVANIA | FRANKLIN, TOWNSHIP OF | 42081C0466E | 16-MAR-2004
03 | PENNSYLVANIA | FRANKLIN, TOWNSHIP OF | 42081C0468E | 16-MAR-2004
03 | PENNSYLVANIA | FRANKLIN, TOWNSHIP OF | 42081C0470E | 16-MAR-2004
03 | PENNSYLVANIA | FRANKLIN, TOWNSHIP OF | 42081C0475E | 16-MAR-2004
03 | PENNSYLVANIA | FRANKLIN, TOWNSHIP OF | 42081C0536E | 16-MAR-2004
03 | PENNSYLVANIA | FRANKLIN, TOWNSHIP OF | 42081C0537E | 16-MAR-2004
03 | PENNSYLVANIA | FRANKLIN, TOWNSHIP OF | 42081C0541E | 16-MAR-2004
03 | PENNSYLVANIA | FRANKLIN, TOWNSHIP OF | 42081CIND1A | 16-MAR-2004
03 | PENNSYLVANIA | FRANKLIN, TOWNSHIP OF | 42081CIND2A | 16-MAR-2004
03 | PENNSYLVANIA | GAMBLE, TOWNSHIP OF | 42081C0207E | 16-MAR-2004
03 | PENNSYLVANIA | GAMBLE, TOWNSHIP OF | 42081C0208E | 16-MAR-2004
03 | PENNSYLVANIA | GAMBLE, TOWNSHIP OF | 42081C0211E | 16-MAR-2004
03 | PENNSYLVANIA | GAMBLE, TOWNSHIP OF | 42081C0215E | 16-MAR-2004
03 | PENNSYLVANIA | GAMBLE, TOWNSHIP OF | 42081C0220E | 16-MAR-2004
03 | PENNSYLVANIA | GAMBLE, TOWNSHIP OF | 42081C0225E | 16-MAR-2004
03 | PENNSYLVANIA | GAMBLE, TOWNSHIP OF | 42081C0272E | 16-MAR-2004
03 | PENNSYLVANIA | GAMBLE, TOWNSHIP OF | 42081C0280E | 16-MAR-2004
03 | PENNSYLVANIA | GAMBLE, TOWNSHIP OF | 42081C0285E | 16-MAR-2004
03 | PENNSYLVANIA | GAMBLE, TOWNSHIP OF | 42081C0290E | 16-MAR-2004
03 | PENNSYLVANIA | GAMBLE, TOWNSHIP OF | 42081C0295E | 16-MAR-2004
03 | PENNSYLVANIA | GAMBLE, TOWNSHIP OF | 42081CIND1A | 16-MAR-2004
03 | PENNSYLVANIA | GAMBLE, TOWNSHIP OF | 42081CIND2A | 16-MAR-2004
03 | PENNSYLVANIA | HEPBURN, TOWNSHIP OF | 42081C0271E | 16-MAR-2004
03 | PENNSYLVANIA | HEPBURN, TOWNSHIP OF | 42081C0272E | 16-MAR-2004
03 | PENNSYLVANIA | HEPBURN, TOWNSHIP OF | 42081C0274E | 16-MAR-2004
03 | PENNSYLVANIA | HEPBURN, TOWNSHIP OF | 42081C0280E | 16-MAR-2004
03 | PENNSYLVANIA | HEPBURN, TOWNSHIP OF | 42081C0285E | 16-MAR-2004
03 | PENNSYLVANIA | HEPBURN, TOWNSHIP OF | 42081C0347E | 16-MAR-2004
03 | PENNSYLVANIA | HEPBURN, TOWNSHIP OF | 42081C0351E | 16-MAR-2004
03 | PENNSYLVANIA | HEPBURN, TOWNSHIP OF | 42081C0352E | 16-MAR-2004
03 | PENNSYLVANIA | HEPBURN, TOWNSHIP OF | 42081C0360E | 16-MAR-2004
03 | PENNSYLVANIA | HEPBURN, TOWNSHIP OF | 42081CIND1A | 16-MAR-2004
03 | PENNSYLVANIA | HEPBURN, TOWNSHIP OF | 42081CIND2A | 16-MAR-2004
03 | PENNSYLVANIA | HILLTOWN, TOWNSHIP OF | 42017C0254H | 02-APR-2004
03 | PENNSYLVANIA | HILLTOWN, TOWNSHIP OF | 42017C0256H | 02-APR-2004
03 | PENNSYLVANIA | HILLTOWN, TOWNSHIP OF | 42017C0257H | 02-APR-2004
03 | PENNSYLVANIA | HILLTOWN, TOWNSHIP OF | 42017CIND1B | 02-APR-2004
03 | PENNSYLVANIA | HILLTOWN, TOWNSHIP OF | 42017CIND2B | 02-APR-2004
03 | PENNSYLVANIA | HUGHESVILLE, BOROUGH OF | 42081C0456E | 16-MAR-2004
03 | PENNSYLVANIA | HUGHESVILLE, BOROUGH OF | 42081C0457E | 16-MAR-2004
03 | PENNSYLVANIA | HUGHESVILLE, BOROUGH OF | 42081CIND1A | 16-MAR-2004
03 | PENNSYLVANIA | HUGHESVILLE, BOROUGH OF | 42081CIND2A | 16-MAR-2004
03 | PENNSYLVANIA | JACKSON, TOWNSHIP OF | 42081C0055E | 16-MAR-2004
03 | PENNSYLVANIA | JACKSON, TOWNSHIP OF | 42081C0060E | 16-MAR-2004
03 | PENNSYLVANIA | JACKSON, TOWNSHIP OF | 42081C0065E | 16-MAR-2004
03 | PENNSYLVANIA | JACKSON, TOWNSHIP OF | 42081C0070E | 16-MAR-2004
03 | PENNSYLVANIA | JACKSON, TOWNSHIP OF | 42081C0125E | 16-MAR-2004
03 | PENNSYLVANIA | JACKSON, TOWNSHIP OF | 42081C0130E | 16-MAR-2004
03 | PENNSYLVANIA | JACKSON, TOWNSHIP OF | 42081C0135E | 16-MAR-2004
03 | PENNSYLVANIA | JACKSON, TOWNSHIP OF | 42081C0140E | 16-MAR-2004
03 | PENNSYLVANIA | JACKSON, TOWNSHIP OF | 42081CIND1A | 16-MAR-2004
03 | PENNSYLVANIA | JACKSON, TOWNSHIP OF | 42081CIND2A | 16-MAR-2004
03 | PENNSYLVANIA | JERSEY SHORE, BOROUGH OF | 42081C0413E | 16-MAR-2004
03 | PENNSYLVANIA | JERSEY SHORE, BOROUGH OF | 42081C0414E | 16-MAR-2004
03 | PENNSYLVANIA | JERSEY SHORE, BOROUGH OF | 42081CIND1A | 16-MAR-2004
03 | PENNSYLVANIA | JERSEY SHORE, BOROUGH OF | 42081CIND2A | 16-MAR-2004
03 | PENNSYLVANIA | JORDAN, TOWNSHIP OF | 42081C0395E | 16-MAR-2004
03 | PENNSYLVANIA | JORDAN, TOWNSHIP OF | 42081C0400E | 16-MAR-2004
03 | PENNSYLVANIA | JORDAN, TOWNSHIP OF | 42081C0470E | 16-MAR-2004
03 | PENNSYLVANIA | JORDAN, TOWNSHIP OF | 42081C0475E | 16-MAR-2004
03 | PENNSYLVANIA | JORDAN, TOWNSHIP OF | 42081C0541E | 16-MAR-2004
03 | PENNSYLVANIA | JORDAN, TOWNSHIP OF | 42081CIND1A | 16-MAR-2004
03 | PENNSYLVANIA | JORDAN, TOWNSHIP OF | 42081CIND2A | 16-MAR-2004
03 | PENNSYLVANIA | LEWIS, TOWNSHIP OF | 42081C0135E | 16-MAR-2004
03 | PENNSYLVANIA | LEWIS, TOWNSHIP OF | 42081C0140E | 16-MAR-2004
03 | PENNSYLVANIA | LEWIS, TOWNSHIP OF | 42081C0141E | 16-MAR-2004
03 | PENNSYLVANIA | LEWIS, TOWNSHIP OF | 42081C0143E | 16-MAR-2004
03 | PENNSYLVANIA | LEWIS, TOWNSHIP OF | 42081C0144E | 16-MAR-2004
03 | PENNSYLVANIA | LEWIS, TOWNSHIP OF | 42081C0204E | 16-MAR-2004
03 | PENNSYLVANIA | LEWIS, TOWNSHIP OF | 42081C0205E | 16-MAR-2004
03 | PENNSYLVANIA | LEWIS, TOWNSHIP OF | 42081C0206E | 16-MAR-2004
03 | PENNSYLVANIA | LEWIS, TOWNSHIP OF | 42081C0207E | 16-MAR-2004
03 | PENNSYLVANIA | LEWIS, TOWNSHIP OF | 42081C0208E | 16-MAR-2004
03 | PENNSYLVANIA | LEWIS, TOWNSHIP OF | 42081C0211E | 16-MAR-2004
03 | PENNSYLVANIA | LEWIS, TOWNSHIP OF | 42081C0215E | 16-MAR-2004
03 | PENNSYLVANIA | LEWIS, TOWNSHIP OF | 42081C0270E | 16-MAR-2004
03 | PENNSYLVANIA | LEWIS, TOWNSHIP OF | 42081C0271E | 16-MAR-2004
03 | PENNSYLVANIA | LEWIS, TOWNSHIP OF | 42081C0272E | 16-MAR-2004
03 | PENNSYLVANIA | LEWIS, TOWNSHIP OF | 42081C0273E | 16-MAR-2004
03 | PENNSYLVANIA | LEWIS, TOWNSHIP OF | 42081C0274E | 16-MAR-2004
03 | PENNSYLVANIA | LEWIS, TOWNSHIP OF | 42081C0280E | 16-MAR-2004
03 | PENNSYLVANIA | LEWIS, TOWNSHIP OF | 42081CIND1A | 16-MAR-2004
03 | PENNSYLVANIA | LEWIS, TOWNSHIP OF | 42081CIND2A | 16-MAR-2004
03 | PENNSYLVANIA | LIMESTONE, TOWNSHIP OF | 42081C0486E | 16-MAR-2004
03 | PENNSYLVANIA | LIMESTONE, TOWNSHIP OF | 42081C0490E | 16-MAR-2004
03 | PENNSYLVANIA | LIMESTONE, TOWNSHIP OF | 42081C0495E | 16-MAR-2004
03 | PENNSYLVANIA | LIMESTONE, TOWNSHIP OF | 42081C0500E | 16-MAR-2004
03 | PENNSYLVANIA | LIMESTONE, TOWNSHIP OF | 42081C0550E | 16-MAR-2004
03 | PENNSYLVANIA | LIMESTONE, TOWNSHIP OF | 42081C0555E | 16-MAR-2004
03 | PENNSYLVANIA | LIMESTONE, TOWNSHIP OF | 42081C0560E | 16-MAR-2004
03 | PENNSYLVANIA | LIMESTONE, TOWNSHIP OF | 42081CIND1A | 16-MAR-2004
03 | PENNSYLVANIA | LIMESTONE, TOWNSHIP OF | 42081CIND2A | 16-MAR-2004
03 | PENNSYLVANIA | LOYALSOCK, TOWNSHIP OF | 42081C0349E | 16-MAR-2004
03 | PENNSYLVANIA | LOYALSOCK, TOWNSHIP OF | 42081C0351E | 16-MAR-2004
03 | PENNSYLVANIA | LOYALSOCK, TOWNSHIP OF | 42081C0352E | 16-MAR-2004
03 | PENNSYLVANIA | LOYALSOCK, TOWNSHIP OF | 42081C0353E | 16-MAR-2004
03 | PENNSYLVANIA | LOYALSOCK, TOWNSHIP OF | 42081C0354E | 16-MAR-2004
03 | PENNSYLVANIA | LOYALSOCK, TOWNSHIP OF | 42081C0358E | 16-MAR-2004
03 | PENNSYLVANIA | LOYALSOCK, TOWNSHIP OF | 42081C0359E | 16-MAR-2004
03 | PENNSYLVANIA | LOYALSOCK, TOWNSHIP OF | 42081C0360E | 16-MAR-2004
03 | PENNSYLVANIA | LOYALSOCK, TOWNSHIP OF | 42081C0361E | 16-MAR-2004
03 | PENNSYLVANIA | LOYALSOCK, TOWNSHIP OF | 42081C0363E | 16-MAR-2004
03 | PENNSYLVANIA | LOYALSOCK, TOWNSHIP OF | 42081C0431E | 16-MAR-2004
03 | PENNSYLVANIA | LOYALSOCK, TOWNSHIP OF | 42081C0432E | 16-MAR-2004
03 | PENNSYLVANIA | LOYALSOCK, TOWNSHIP OF | 42081C0436E | 16-MAR-2004
03 | PENNSYLVANIA | LOYALSOCK, TOWNSHIP OF | 42081C0437E | 16-MAR-2004
03 | PENNSYLVANIA | LOYALSOCK, TOWNSHIP OF | 42081C0441E | 16-MAR-2004
03 | PENNSYLVANIA | LOYALSOCK, TOWNSHIP OF | 42081CIND1A | 16-MAR-2004
03 | PENNSYLVANIA | LOYALSOCK, TOWNSHIP OF | 42081CIND2A | 16-MAR-2004
03 | PENNSYLVANIA | LYCOMING, TOWNSHIP OF | 42081C0270E | 16-MAR-2004
03 | PENNSYLVANIA | LYCOMING, TOWNSHIP OF | 42081C0273E | 16-MAR-2004
03 | PENNSYLVANIA | LYCOMING, TOWNSHIP OF | 42081C0274E | 16-MAR-2004
03 | PENNSYLVANIA | LYCOMING, TOWNSHIP OF | 42081C0344E | 16-MAR-2004
03 | PENNSYLVANIA | LYCOMING, TOWNSHIP OF | 42081C0345E | 16-MAR-2004
03 | PENNSYLVANIA | LYCOMING, TOWNSHIP OF | 42081C0346E | 16-MAR-2004
03 | PENNSYLVANIA | LYCOMING, TOWNSHIP OF | 42081C0347E | 16-MAR-2004
03 | PENNSYLVANIA | LYCOMING, TOWNSHIP OF | 42081C0351E | 16-MAR-2004
03 | PENNSYLVANIA | LYCOMING, TOWNSHIP OF | 42081CIND1A | 16-MAR-2004
03 | PENNSYLVANIA | LYCOMING, TOWNSHIP OF | 42081CIND2A | 16-MAR-2004
03 | PENNSYLVANIA | MCHENRY, TOWNSHIP OF | 42081C0100E | 16-MAR-2004
03 | PENNSYLVANIA | MCHENRY, TOWNSHIP OF | 42081C0105E | 16-MAR-2004
03 | PENNSYLVANIA | MCHENRY, TOWNSHIP OF | 42081C0115E | 16-MAR-2004
03 | PENNSYLVANIA | MCHENRY, TOWNSHIP OF | 42081C0170E | 16-MAR-2004
03 | PENNSYLVANIA | MCHENRY, TOWNSHIP OF | 42081C0175E | 16-MAR-2004
03 | PENNSYLVANIA | MCHENRY, TOWNSHIP OF | 42081C0180E | 16-MAR-2004
03 | PENNSYLVANIA | MCHENRY, TOWNSHIP OF | 42081C0185E | 16-MAR-2004
03 | PENNSYLVANIA | MCHENRY, TOWNSHIP OF | 42081C0245E | 16-MAR-2004
03 | PENNSYLVANIA | MCHENRY, TOWNSHIP OF | 42081C0250E | 16-MAR-2004
03 | PENNSYLVANIA | MCHENRY, TOWNSHIP OF | 42081CIND1A | 16-MAR-2004
03 | PENNSYLVANIA | MCHENRY, TOWNSHIP OF | 42081CIND2A | 16-MAR-2004
03 | PENNSYLVANIA | MCINTYRE, TOWNSHIP OF | 42081C0070E | 16-MAR-2004
03 | PENNSYLVANIA | MCINTYRE, TOWNSHIP OF | 42081C0072E | 16-MAR-2004
03 | PENNSYLVANIA | MCINTYRE, TOWNSHIP OF | 42081C0074E | 16-MAR-2004
03 | PENNSYLVANIA | MCINTYRE, TOWNSHIP OF | 42081C0075E | 16-MAR-2004
03 | PENNSYLVANIA | MCINTYRE, TOWNSHIP OF | 42081C0080E | 16-MAR-2004
03 | PENNSYLVANIA | MCINTYRE, TOWNSHIP OF | 42081C0085E | 16-MAR-2004
03 | PENNSYLVANIA | MCINTYRE, TOWNSHIP OF | 42081C0135E | 16-MAR-2004
03 | PENNSYLVANIA | MCINTYRE, TOWNSHIP OF | 42081C0140E | 16-MAR-2004
03 | PENNSYLVANIA | MCINTYRE, TOWNSHIP OF | 42081C0141E | 16-MAR-2004
03 | PENNSYLVANIA | MCINTYRE, TOWNSHIP OF | 42081C0142E | 16-MAR-2004
03 | PENNSYLVANIA | MCINTYRE, TOWNSHIP OF | 42081C0143E | 16-MAR-2004
03 | PENNSYLVANIA | MCINTYRE, TOWNSHIP OF | 42081C0150E | 16-MAR-2004
03 | PENNSYLVANIA | MCINTYRE, TOWNSHIP OF | 42081C0155E | 16-MAR-2004
03 | PENNSYLVANIA | MCINTYRE, TOWNSHIP OF | 42081CIND1A | 16-MAR-2004
03 | PENNSYLVANIA | MCINTYRE, TOWNSHIP OF | 42081CIND2A | 16-MAR-2004
03 | PENNSYLVANIA | MCNETT, TOWNSHIP OF | 42081C0005E | 16-MAR-2004
03 | PENNSYLVANIA | MCNETT, TOWNSHIP OF | 42081C0010E | 16-MAR-2004
03 | PENNSYLVANIA | MCNETT, TOWNSHIP OF | 42081C0015E | 16-MAR-2004
03 | PENNSYLVANIA | MCNETT, TOWNSHIP OF | 42081C0020E | 16-MAR-2004
03 | PENNSYLVANIA | MCNETT, TOWNSHIP OF | 42081C0072E | 16-MAR-2004
03 | PENNSYLVANIA | MCNETT, TOWNSHIP OF | 42081C0080E | 16-MAR-2004
03 | PENNSYLVANIA | MCNETT, TOWNSHIP OF | 42081C0085E | 16-MAR-2004
03 | PENNSYLVANIA | MCNETT, TOWNSHIP OF | 42081C0090E | 16-MAR-2004
03 | PENNSYLVANIA | MCNETT, TOWNSHIP OF | 42081C0155E | 16-MAR-2004
03 | PENNSYLVANIA | MCNETT, TOWNSHIP OF | 42081C0160E | 16-MAR-2004
03 | PENNSYLVANIA | MCNETT, TOWNSHIP OF | 42081CIND1A | 16-MAR-2004
03 | PENNSYLVANIA | MCNETT, TOWNSHIP OF | 42081CIND2A | 16-MAR-2004
03 | PENNSYLVANIA | MIFFLIN, TOWNSHIP OF | 42081C0260E | 16-MAR-2004
03 | PENNSYLVANIA | MIFFLIN, TOWNSHIP OF | 42081C0265E | 16-MAR-2004
03 | PENNSYLVANIA | MIFFLIN, TOWNSHIP OF | 42081C0335E | 16-MAR-2004
03 | PENNSYLVANIA | MIFFLIN, TOWNSHIP OF | 42081C0340E | 16-MAR-2004
03 | PENNSYLVANIA | MIFFLIN, TOWNSHIP OF | 42081C0412E | 16-MAR-2004
03 | PENNSYLVANIA | MIFFLIN, TOWNSHIP OF | 42081C0416E | 16-MAR-2004
03 | PENNSYLVANIA | MIFFLIN, TOWNSHIP OF | 42081C0417E | 16-MAR-2004
03 | PENNSYLVANIA | MIFFLIN, TOWNSHIP OF | 42081CIND1A | 16-MAR-2004
03 | PENNSYLVANIA | MIFFLIN, TOWNSHIP OF | 42081CIND2A | 16-MAR-2004
03 | PENNSYLVANIA | MILL CREEK, TOWNSHIP OF | 42081C0295E | 16-MAR-2004
03 | PENNSYLVANIA | MILL CREEK, TOWNSHIP OF | 42081C0300E | 16-MAR-2004
03 | PENNSYLVANIA | MILL CREEK, TOWNSHIP OF | 42081C0370E | 16-MAR-2004
03 | PENNSYLVANIA | MILL CREEK, TOWNSHIP OF | 42081C0375E | 16-MAR-2004
03 | PENNSYLVANIA | MILL CREEK, TOWNSHIP OF | 42081CIND1A | 16-MAR-2004
03 | PENNSYLVANIA | MILL CREEK, TOWNSHIP OF | 42081CIND2A | 16-MAR-2004
03 | PENNSYLVANIA | MONTGOMERY, BOROUGH OF | 42081C0512E | 16-MAR-2004
03 | PENNSYLVANIA | MONTGOMERY, BOROUGH OF | 42081C0516E | 16-MAR-2004
03 | PENNSYLVANIA | MONTGOMERY, BOROUGH OF | 42081CIND1A | 16-MAR-2004
03 | PENNSYLVANIA | MONTGOMERY, BOROUGH OF | 42081CIND2A | 16-MAR-2004
03 | PENNSYLVANIA | MONTOURSVILLE, BOROUGH OF | 42081C0363E | 16-MAR-2004
03 | PENNSYLVANIA | MONTOURSVILLE, BOROUGH OF | 42081C0364E | 16-MAR-2004
03 | PENNSYLVANIA | MONTOURSVILLE, BOROUGH OF | 42081C0437E | 16-MAR-2004
03 | PENNSYLVANIA | MONTOURSVILLE, BOROUGH OF | 42081C0441E | 16-MAR-2004
03 | PENNSYLVANIA | MONTOURSVILLE, BOROUGH OF | 42081C0442E | 16-MAR-2004
03 | PENNSYLVANIA | MONTOURSVILLE, BOROUGH OF | 42081CIND1A | 16-MAR-2004
03 | PENNSYLVANIA | MONTOURSVILLE, BOROUGH OF | 42081CIND2A | 16-MAR-2004
03 | PENNSYLVANIA | MORELAND, TOWNSHIP OF | 42081C0457E | 16-MAR-2004
03 | PENNSYLVANIA | MORELAND, TOWNSHIP OF | 42081C0459E | 16-MAR-2004
03 | PENNSYLVANIA | MORELAND, TOWNSHIP OF | 42081C0461E | 16-MAR-2004
03 | PENNSYLVANIA | MORELAND, TOWNSHIP OF | 42081C0462E | 16-MAR-2004
03 | PENNSYLVANIA | MORELAND, TOWNSHIP OF | 42081C0463E | 16-MAR-2004
03 | PENNSYLVANIA | MORELAND, TOWNSHIP OF | 42081C0464E | 16-MAR-2004
03 | PENNSYLVANIA | MORELAND, TOWNSHIP OF | 42081C0466E | 16-MAR-2004
03 | PENNSYLVANIA | MORELAND, TOWNSHIP OF | 42081C0468E | 16-MAR-2004
03 | PENNSYLVANIA | MORELAND, TOWNSHIP OF | 42081C0527E | 16-MAR-2004
03 | PENNSYLVANIA | MORELAND, TOWNSHIP OF | 42081C0531E | 16-MAR-2004
03 | PENNSYLVANIA | MORELAND, TOWNSHIP OF | 42081C0532E | 16-MAR-2004
03 | PENNSYLVANIA | MORELAND, TOWNSHIP OF | 42081C0536E | 16-MAR-2004
03 | PENNSYLVANIA | MORELAND, TOWNSHIP OF | 42081CIND1A | 16-MAR-2004
03 | PENNSYLVANIA | MORELAND, TOWNSHIP OF | 42081CIND2A | 16-MAR-2004
03 | PENNSYLVANIA | MUNCY CREEK, TOWNSHIP OF | 42081C0451E | 16-MAR-2004
03 | PENNSYLVANIA | MUNCY CREEK, TOWNSHIP OF | 42081C0452E | 16-MAR-2004
03 | PENNSYLVANIA | MUNCY CREEK, TOWNSHIP OF | 42081C0453E | 16-MAR-2004
03 | PENNSYLVANIA | MUNCY CREEK, TOWNSHIP OF | 42081C0454E | 16-MAR-2004
03 | PENNSYLVANIA | MUNCY CREEK, TOWNSHIP OF | 42081C0456E | 16-MAR-2004
03 | PENNSYLVANIA | MUNCY CREEK, TOWNSHIP OF | 42081C0458E | 16-MAR-2004
03 | PENNSYLVANIA | MUNCY CREEK, TOWNSHIP OF | 42081C0459E | 16-MAR-2004
03 | PENNSYLVANIA | MUNCY CREEK, TOWNSHIP OF | 42081C0512E | 16-MAR-2004
03 | PENNSYLVANIA | MUNCY CREEK, TOWNSHIP OF | 42081C0516E | 16-MAR-2004
03 | PENNSYLVANIA | MUNCY CREEK, TOWNSHIP OF | 42081C0517E | 16-MAR-2004
03 | PENNSYLVANIA | MUNCY CREEK, TOWNSHIP OF | 42081C0521E | 16-MAR-2004
03 | PENNSYLVANIA | MUNCY CREEK, TOWNSHIP OF | 42081C0522E | 16-MAR-2004
03 | PENNSYLVANIA | MUNCY CREEK, TOWNSHIP OF | 42081C0527E | 16-MAR-2004
03 | PENNSYLVANIA | MUNCY CREEK, TOWNSHIP OF | 42081CIND1A | 16-MAR-2004
03 | PENNSYLVANIA | MUNCY CREEK, TOWNSHIP OF | 42081CIND2A | 16-MAR-2004
03 | PENNSYLVANIA | MUNCY, BOROUGH OF | 42081C0453E | 16-MAR-2004
03 | PENNSYLVANIA | MUNCY, BOROUGH OF | 42081C0454E | 16-MAR-2004
03 | PENNSYLVANIA | MUNCY, BOROUGH OF | 42081CIND1A | 16-MAR-2004
03 | PENNSYLVANIA | MUNCY, BOROUGH OF | 42081CIND2A | 16-MAR-2004
03 | PENNSYLVANIA | MUNCY, TOWNSHIP OF | 42081C0368E | 16-MAR-2004
03 | PENNSYLVANIA | MUNCY, TOWNSHIP OF | 42081C0370E | 16-MAR-2004
03 | PENNSYLVANIA | MUNCY, TOWNSHIP OF | 42081C0375E | 16-MAR-2004
03 | PENNSYLVANIA | MUNCY, TOWNSHIP OF | 42081C0446E | 16-MAR-2004
03 | PENNSYLVANIA | MUNCY, TOWNSHIP OF | 42081C0447E | 16-MAR-2004
03 | PENNSYLVANIA | MUNCY, TOWNSHIP OF | 42081C0451E | 16-MAR-2004
03 | PENNSYLVANIA | MUNCY, TOWNSHIP OF | 42081C0452E | 16-MAR-2004
03 | PENNSYLVANIA | MUNCY, TOWNSHIP OF | 42081C0456E | 16-MAR-2004
03 | PENNSYLVANIA | MUNCY, TOWNSHIP OF | 42081CIND1A | 16-MAR-2004
03 | PENNSYLVANIA | MUNCY, TOWNSHIP OF | 42081CIND2A | 16-MAR-2004
03 | PENNSYLVANIA | NIPPENOSE, TOWNSHIP OF | 42081C0414E | 16-MAR-2004
03 | PENNSYLVANIA | NIPPENOSE, TOWNSHIP OF | 42081C0418E | 16-MAR-2004
03 | PENNSYLVANIA | NIPPENOSE, TOWNSHIP OF | 42081C0419E | 16-MAR-2004
03 | PENNSYLVANIA | NIPPENOSE, TOWNSHIP OF | 42081C0423E | 16-MAR-2004
03 | PENNSYLVANIA | NIPPENOSE, TOWNSHIP OF | 42081C0482E | 16-MAR-2004
03 | PENNSYLVANIA | NIPPENOSE, TOWNSHIP OF | 42081C0486E | 16-MAR-2004
03 | PENNSYLVANIA | NIPPENOSE, TOWNSHIP OF | 42081C0490E | 16-MAR-2004
03 | PENNSYLVANIA | NIPPENOSE, TOWNSHIP OF | 42081C0495E | 16-MAR-2004
03 | PENNSYLVANIA | NIPPENOSE, TOWNSHIP OF | 42081CIND1A | 16-MAR-2004
03 | PENNSYLVANIA | NIPPENOSE, TOWNSHIP OF | 42081CIND2A | 16-MAR-2004
03 | PENNSYLVANIA | OLD LYCOMING, TOWNSHIP OF | 42081C0344E | 16-MAR-2004
03 | PENNSYLVANIA | OLD LYCOMING, TOWNSHIP OF | 42081C0346E | 16-MAR-2004
03 | PENNSYLVANIA | OLD LYCOMING, TOWNSHIP OF | 42081C0347E | 16-MAR-2004
03 | PENNSYLVANIA | OLD LYCOMING, TOWNSHIP OF | 42081C0349E | 16-MAR-2004
03 | PENNSYLVANIA | OLD LYCOMING, TOWNSHIP OF | 42081C0351E | 16-MAR-2004
03 | PENNSYLVANIA | OLD LYCOMING, TOWNSHIP OF | 42081C0353E | 16-MAR-2004
03 | PENNSYLVANIA | OLD LYCOMING, TOWNSHIP OF | 42081C0426E | 16-MAR-2004
03 | PENNSYLVANIA | OLD LYCOMING, TOWNSHIP OF | 42081C0427E | 16-MAR-2004
03 | PENNSYLVANIA | OLD LYCOMING, TOWNSHIP OF | 42081C0431E | 16-MAR-2004
03 | PENNSYLVANIA | OLD LYCOMING, TOWNSHIP OF | 42081CIND1A | 16-MAR-2004
03 | PENNSYLVANIA | OLD LYCOMING, TOWNSHIP OF | 42081CIND2A | 16-MAR-2004
03 | PENNSYLVANIA | PENN, TOWNSHIP OF | 42081C0309E | 16-MAR-2004
03 | PENNSYLVANIA | PENN, TOWNSHIP OF | 42081C0313E | 16-MAR-2004
03 | PENNSYLVANIA | PENN, TOWNSHIP OF | 42081C0377E | 16-MAR-2004
03 | PENNSYLVANIA | PENN, TOWNSHIP OF | 42081C0379E | 16-MAR-2004
03 | PENNSYLVANIA | PENN, TOWNSHIP OF | 42081C0381E | 16-MAR-2004
03 | PENNSYLVANIA | PENN, TOWNSHIP OF | 42081C0382E | 16-MAR-2004
03 | PENNSYLVANIA | PENN, TOWNSHIP OF | 42081C0383E | 16-MAR-2004
03 | PENNSYLVANIA | PENN, TOWNSHIP OF | 42081C0384E | 16-MAR-2004
03 | PENNSYLVANIA | PENN, TOWNSHIP OF | 42081C0386E | 16-MAR-2004
03 | PENNSYLVANIA | PENN, TOWNSHIP OF | 42081C0390E | 16-MAR-2004
03 | PENNSYLVANIA | PENN, TOWNSHIP OF | 42081C0457E | 16-MAR-2004
03 | PENNSYLVANIA | PENN, TOWNSHIP OF | 42081C0461E | 16-MAR-2004
03 | PENNSYLVANIA | PENN, TOWNSHIP OF | 42081C0462E | 16-MAR-2004
03 | PENNSYLVANIA | PENN, TOWNSHIP OF | 42081CIND1A | 16-MAR-2004
03 | PENNSYLVANIA | PENN, TOWNSHIP OF | 42081CIND2A | 16-MAR-2004
03 | PENNSYLVANIA | PERKASIE, BOROUGH OF | 42017C0256H | 02-APR-2004
03 | PENNSYLVANIA | PERKASIE, BOROUGH OF | 42017C0257H | 02-APR-2004
03 | PENNSYLVANIA | PERKASIE, BOROUGH OF | 42017CIND1B | 02-APR-2004
03 | PENNSYLVANIA | PERKASIE, BOROUGH OF | 42017CIND2B | 02-APR-2004
03 | PENNSYLVANIA | PIATT, TOWNSHIP OF | 42081C0340E | 16-MAR-2004
03 | PENNSYLVANIA | PIATT, TOWNSHIP OF | 42081C0412E | 16-MAR-2004
03 | PENNSYLVANIA | PIATT, TOWNSHIP OF | 42081C0414E | 16-MAR-2004
03 | PENNSYLVANIA | PIATT, TOWNSHIP OF | 42081C0416E | 16-MAR-2004
03 | PENNSYLVANIA | PIATT, TOWNSHIP OF | 42081C0417E | 16-MAR-2004
03 | PENNSYLVANIA | PIATT, TOWNSHIP OF | 42081C0418E | 16-MAR-2004
03 | PENNSYLVANIA | PIATT, TOWNSHIP OF | 42081C0419E | 16-MAR-2004
03 | PENNSYLVANIA | PIATT, TOWNSHIP OF | 42081C0421E | 16-MAR-2004
03 | PENNSYLVANIA | PIATT, TOWNSHIP OF | 42081C0423E | 16-MAR-2004
03 | PENNSYLVANIA | PIATT, TOWNSHIP OF | 42081CIND1A | 16-MAR-2004
03 | PENNSYLVANIA | PIATT, TOWNSHIP OF | 42081CIND2A | 16-MAR-2004
03 | PENNSYLVANIA | PICTURE ROCKS, BOROUGH OF | 42081C0376E | 16-MAR-2004
03 | PENNSYLVANIA | PICTURE ROCKS, BOROUGH OF | 42081C0377E | 16-MAR-2004
03 | PENNSYLVANIA | PICTURE ROCKS, BOROUGH OF | 42081C0378E | 16-MAR-2004
03 | PENNSYLVANIA | PICTURE ROCKS, BOROUGH OF | 42081C0379E | 16-MAR-2004
03 | PENNSYLVANIA | PICTURE ROCKS, BOROUGH OF | 42081CIND1A | 16-MAR-2004
03 | PENNSYLVANIA | PICTURE ROCKS, BOROUGH OF | 42081CIND2A | 16-MAR-2004
03 | PENNSYLVANIA | PINE, TOWNSHIP OF | 42081C0045E | 16-MAR-2004
03 | PENNSYLVANIA | PINE, TOWNSHIP OF | 42081C0050E | 16-MAR-2004
03 | PENNSYLVANIA | PINE, TOWNSHIP OF | 42081C0055E | 16-MAR-2004
03 | PENNSYLVANIA | PINE, TOWNSHIP OF | 42081C0115E | 16-MAR-2004
03 | PENNSYLVANIA | PINE, TOWNSHIP OF | 42081C0120E | 16-MAR-2004
03 | PENNSYLVANIA | PINE, TOWNSHIP OF | 42081C0125E | 16-MAR-2004
03 | PENNSYLVANIA | PINE, TOWNSHIP OF | 42081C0185E | 16-MAR-2004
03 | PENNSYLVANIA | PINE, TOWNSHIP OF | 42081C0190E | 16-MAR-2004
03 | PENNSYLVANIA | PINE, TOWNSHIP OF | 42081C0195E | 16-MAR-2004
03 | PENNSYLVANIA | PINE, TOWNSHIP OF | 42081CIND1A | 16-MAR-2004
03 | PENNSYLVANIA | PINE, TOWNSHIP OF | 42081CIND2A | 16-MAR-2004
03 | PENNSYLVANIA | PLUNKETTS CREEK, TOWNSHIP OF | 42081C0155E | 16-MAR-2004
03 | PENNSYLVANIA | PLUNKETTS CREEK, TOWNSHIP OF | 42081C0160E | 16-MAR-2004
03 | PENNSYLVANIA | PLUNKETTS CREEK, TOWNSHIP OF | 42081C0225E | 16-MAR-2004
03 | PENNSYLVANIA | PLUNKETTS CREEK, TOWNSHIP OF | 42081C0230E | 16-MAR-2004
03 | PENNSYLVANIA | PLUNKETTS CREEK, TOWNSHIP OF | 42081C0235E | 16-MAR-2004
03 | PENNSYLVANIA | PLUNKETTS CREEK, TOWNSHIP OF | 42081C0290E | 16-MAR-2004
03 | PENNSYLVANIA | PLUNKETTS CREEK, TOWNSHIP OF | 42081C0295E | 16-MAR-2004
03 | PENNSYLVANIA | PLUNKETTS CREEK, TOWNSHIP OF | 42081C0300E | 16-MAR-2004
03 | PENNSYLVANIA | PLUNKETTS CREEK, TOWNSHIP OF | 42081C0305E | 16-MAR-2004
03 | PENNSYLVANIA | PLUNKETTS CREEK, TOWNSHIP OF | 42081C0306E | 16-MAR-2004
03 | PENNSYLVANIA | PLUNKETTS CREEK, TOWNSHIP OF | 42081CIND1A | 16-MAR-2004
03 | PENNSYLVANIA | PLUNKETTS CREEK, TOWNSHIP OF | 42081CIND2A | 16-MAR-2004
03 | PENNSYLVANIA | PORTER, TOWNSHIP OF | 42081C0410E | 16-MAR-2004
03 | PENNSYLVANIA | PORTER, TOWNSHIP OF | 42081C0412E | 16-MAR-2004
03 | PENNSYLVANIA | PORTER, TOWNSHIP OF | 42081C0413E | 16-MAR-2004
03 | PENNSYLVANIA | PORTER, TOWNSHIP OF | 42081C0414E | 16-MAR-2004
03 | PENNSYLVANIA | PORTER, TOWNSHIP OF | 42081C0418E | 16-MAR-2004
03 | PENNSYLVANIA | PORTER, TOWNSHIP OF | 42081C0481E | 16-MAR-2004
03 | PENNSYLVANIA | PORTER, TOWNSHIP OF | 42081C0482E | 16-MAR-2004
03 | PENNSYLVANIA | PORTER, TOWNSHIP OF | 42081C0486E | 16-MAR-2004
03 | PENNSYLVANIA | PORTER, TOWNSHIP OF | 42081CIND1A | 16-MAR-2004
03 | PENNSYLVANIA | PORTER, TOWNSHIP OF | 42081CIND2A | 16-MAR-2004
03 | PENNSYLVANIA | SALLADASBURG, BOROUGH OF | 42081C0340E | 16-MAR-2004
03 | PENNSYLVANIA | SALLADASBURG, BOROUGH OF | 42081CIND1A | 16-MAR-2004
03 | PENNSYLVANIA | SALLADASBURG, BOROUGH OF | 42081CIND2A | 16-MAR-2004
03 | PENNSYLVANIA | SELLERSVILLE, BOROUGH OF | 42017C0252H | 02-APR-2004
03 | PENNSYLVANIA | SELLERSVILLE, BOROUGH OF | 42017C0256H | 02-APR-2004
03 | PENNSYLVANIA | SELLERSVILLE, BOROUGH OF | 42017CIND1B | 02-APR-2004
03 | PENNSYLVANIA | SELLERSVILLE, BOROUGH OF | 42017CIND2B | 02-APR-2004
03 | PENNSYLVANIA | SHREWSBURY, TOWNSHIP OF | 42081C0305E | 16-MAR-2004
03 | PENNSYLVANIA | SHREWSBURY, TOWNSHIP OF | 42081C0306E | 16-MAR-2004
03 | PENNSYLVANIA | SHREWSBURY, TOWNSHIP OF | 42081C0308E | 16-MAR-2004
03 | PENNSYLVANIA | SHREWSBURY, TOWNSHIP OF | 42081C0309E | 16-MAR-2004
03 | PENNSYLVANIA | SHREWSBURY, TOWNSHIP OF | 42081C0313E | 16-MAR-2004
03 | PENNSYLVANIA | SHREWSBURY, TOWNSHIP OF | 42081C0376E | 16-MAR-2004
03 | PENNSYLVANIA | SHREWSBURY, TOWNSHIP OF | 42081C0377E | 16-MAR-2004
03 | PENNSYLVANIA | SHREWSBURY, TOWNSHIP OF | 42081C0381E | 16-MAR-2004
03 | PENNSYLVANIA | SHREWSBURY, TOWNSHIP OF | 42081C0382E | 16-MAR-2004
03 | PENNSYLVANIA | SHREWSBURY, TOWNSHIP OF | 42081C0386E | 16-MAR-2004
03 | PENNSYLVANIA | SHREWSBURY, TOWNSHIP OF | 42081CIND1A | 16-MAR-2004
03 | PENNSYLVANIA | SHREWSBURY, TOWNSHIP OF | 42081CIND2A | 16-MAR-2004
03 | PENNSYLVANIA | SILVERDALE, BOROUGH OF | 42017C0257H | 02-APR-2004
03 | PENNSYLVANIA | SILVERDALE, BOROUGH OF | 42017CIND1B | 02-APR-2004
03 | PENNSYLVANIA | SILVERDALE, BOROUGH OF | 42017CIND2B | 02-APR-2004
03 | PENNSYLVANIA | SOUTH WILLIAMSPORT, BOROUGH OF | 42081C0432E | 16-MAR-2004
03 | PENNSYLVANIA | SOUTH WILLIAMSPORT, BOROUGH OF | 42081C0436E | 16-MAR-2004
03 | PENNSYLVANIA | SOUTH WILLIAMSPORT, BOROUGH OF | 42081CIND1A | 16-MAR-2004
03 | PENNSYLVANIA | SOUTH WILLIAMSPORT, BOROUGH OF | 42081CIND2A | 16-MAR-2004
03 | PENNSYLVANIA | SUSQUEHANNA, TOWNSHIP OF | 42081C0422E | 16-MAR-2004
03 | PENNSYLVANIA | SUSQUEHANNA, TOWNSHIP OF | 42081C0423E | 16-MAR-2004
03 | PENNSYLVANIA | SUSQUEHANNA, TOWNSHIP OF | 42081C0424E | 16-MAR-2004
03 | PENNSYLVANIA | SUSQUEHANNA, TOWNSHIP OF | 42081C0426E | 16-MAR-2004
03 | PENNSYLVANIA | SUSQUEHANNA, TOWNSHIP OF | 42081C0427E | 16-MAR-2004
03 | PENNSYLVANIA | SUSQUEHANNA, TOWNSHIP OF | 42081C0428E | 16-MAR-2004
03 | PENNSYLVANIA | SUSQUEHANNA, TOWNSHIP OF | 42081C0429E | 16-MAR-2004
03 | PENNSYLVANIA | SUSQUEHANNA, TOWNSHIP OF | 42081C0495E | 16-MAR-2004
03 | PENNSYLVANIA | SUSQUEHANNA, TOWNSHIP OF | 42081CIND1A | 16-MAR-2004
03 | PENNSYLVANIA | SUSQUEHANNA, TOWNSHIP OF | 42081CIND2A | 16-MAR-2004
03 | PENNSYLVANIA | TELFORD, BOROUGH OF | 42017C0254H | 02-APR-2004
03 | PENNSYLVANIA | TELFORD, BOROUGH OF | 42017CIND1B | 02-APR-2004
03 | PENNSYLVANIA | TELFORD, BOROUGH OF | 42017CIND2B | 02-APR-2004
03 | PENNSYLVANIA | UPPER FAIRFIELD, TOWNSHIP OF | 42081C0290E | 16-MAR-2004
03 | PENNSYLVANIA | UPPER FAIRFIELD, TOWNSHIP OF | 42081C0295E | 16-MAR-2004
03 | PENNSYLVANIA | UPPER FAIRFIELD, TOWNSHIP OF | 42081C0361E | 16-MAR-2004
03 | PENNSYLVANIA | UPPER FAIRFIELD, TOWNSHIP OF | 42081C0362E | 16-MAR-2004
03 | PENNSYLVANIA | UPPER FAIRFIELD, TOWNSHIP OF | 42081C0368E | 16-MAR-2004
03 | PENNSYLVANIA | UPPER FAIRFIELD, TOWNSHIP OF | 42081C0370E | 16-MAR-2004
03 | PENNSYLVANIA | UPPER FAIRFIELD, TOWNSHIP OF | 42081CIND1A | 16-MAR-2004
03 | PENNSYLVANIA | UPPER FAIRFIELD, TOWNSHIP OF | 42081CIND2A | 16-MAR-2004
03 | PENNSYLVANIA | WASHINGTON, TOWNSHIP OF | 42081C0500E | 16-MAR-2004
03 | PENNSYLVANIA | WASHINGTON, TOWNSHIP OF | 42081C0505E | 16-MAR-2004
03 | PENNSYLVANIA | WASHINGTON, TOWNSHIP OF | 42081C0510E | 16-MAR-2004
03 | PENNSYLVANIA | WASHINGTON, TOWNSHIP OF | 42081C0555E | 16-MAR-2004
03 | PENNSYLVANIA | WASHINGTON, TOWNSHIP OF | 42081C0560E | 16-MAR-2004
03 | PENNSYLVANIA | WASHINGTON, TOWNSHIP OF | 42081C0565E | 16-MAR-2004
03 | PENNSYLVANIA | WASHINGTON, TOWNSHIP OF | 42081C0570E | 16-MAR-2004
03 | PENNSYLVANIA | WASHINGTON, TOWNSHIP OF | 42081CIND1A | 16-MAR-2004
03 | PENNSYLVANIA | WASHINGTON, TOWNSHIP OF | 42081CIND2A | 16-MAR-2004
03 | PENNSYLVANIA | WATSON, TOWNSHIP OF | 42081C0325E | 16-MAR-2004
03 | PENNSYLVANIA | WATSON, TOWNSHIP OF | 42081C0330E | 16-MAR-2004
03 | PENNSYLVANIA | WATSON, TOWNSHIP OF | 42081C0335E | 16-MAR-2004
03 | PENNSYLVANIA | WATSON, TOWNSHIP OF | 42081C0410E | 16-MAR-2004
03 | PENNSYLVANIA | WATSON, TOWNSHIP OF | 42081C0412E | 16-MAR-2004
03 | PENNSYLVANIA | WATSON, TOWNSHIP OF | 42081C0413E | 16-MAR-2004
03 | PENNSYLVANIA | WATSON, TOWNSHIP OF | 42081CIND1A | 16-MAR-2004
03 | PENNSYLVANIA | WATSON, TOWNSHIP OF | 42081CIND2A | 16-MAR-2004
03 | PENNSYLVANIA | WEST ROCKHILL, TOWNSHIP OF | 42017C0252H | 02-APR-2004
03 | PENNSYLVANIA | WEST ROCKHILL, TOWNSHIP OF | 42017C0253H | 02-APR-2004
03 | PENNSYLVANIA | WEST ROCKHILL, TOWNSHIP OF | 42017C0254H | 02-APR-2004
03 | PENNSYLVANIA | WEST ROCKHILL, TOWNSHIP OF | 42017C0256H | 02-APR-2004
03 | PENNSYLVANIA | WEST ROCKHILL, TOWNSHIP OF | 42017CIND1B | 02-APR-2004
03 | PENNSYLVANIA | WEST ROCKHILL, TOWNSHIP OF | 42017CIND2B | 02-APR-2004
03 | PENNSYLVANIA | WILLIAMSPORT, CITY OF | 42081C0354E | 16-MAR-2004
03 | PENNSYLVANIA | WILLIAMSPORT, CITY OF | 42081C0358E | 16-MAR-2004
03 | PENNSYLVANIA | WILLIAMSPORT, CITY OF | 42081C0426E | 16-MAR-2004
03 | PENNSYLVANIA | WILLIAMSPORT, CITY OF | 42081C0427E | 16-MAR-2004
03 | PENNSYLVANIA | WILLIAMSPORT, CITY OF | 42081C0429E | 16-MAR-2004
03 | PENNSYLVANIA | WILLIAMSPORT, CITY OF | 42081C0431E | 16-MAR-2004
03 | PENNSYLVANIA | WILLIAMSPORT, CITY OF | 42081C0432E | 16-MAR-2004
03 | PENNSYLVANIA | WILLIAMSPORT, CITY OF | 42081C0436E | 16-MAR-2004
03 | PENNSYLVANIA | WILLIAMSPORT, CITY OF | 42081CIND1A | 16-MAR-2004
03 | PENNSYLVANIA | WILLIAMSPORT, CITY OF | 42081CIND2A | 16-MAR-2004
03 | PENNSYLVANIA | WOLF, TOWNSHIP OF | 42081C0300E | 16-MAR-2004
03 | PENNSYLVANIA | WOLF, TOWNSHIP OF | 42081C0305E | 16-MAR-2004
03 | PENNSYLVANIA | WOLF, TOWNSHIP OF | 42081C0375E | 16-MAR-2004
03 | PENNSYLVANIA | WOLF, TOWNSHIP OF | 42081C0376E | 16-MAR-2004
03 | PENNSYLVANIA | WOLF, TOWNSHIP OF | 42081C0377E | 16-MAR-2004
03 | PENNSYLVANIA | WOLF, TOWNSHIP OF | 42081C0378E | 16-MAR-2004
03 | PENNSYLVANIA | WOLF, TOWNSHIP OF | 42081C0379E | 16-MAR-2004
03 | PENNSYLVANIA | WOLF, TOWNSHIP OF | 42081C0452E | 16-MAR-2004
03 | PENNSYLVANIA | WOLF, TOWNSHIP OF | 42081C0456E | 16-MAR-2004
03 | PENNSYLVANIA | WOLF, TOWNSHIP OF | 42081C0457E | 16-MAR-2004
03 | PENNSYLVANIA | WOLF, TOWNSHIP OF | 42081C0458E | 16-MAR-2004
03 | PENNSYLVANIA | WOLF, TOWNSHIP OF | 42081C0459E | 16-MAR-2004
03 | PENNSYLVANIA | WOLF, TOWNSHIP OF | 42081CIND1A | 16-MAR-2004
03 | PENNSYLVANIA | WOLF, TOWNSHIP OF | 42081CIND2A | 16-MAR-2004
03 | PENNSYLVANIA | WOODWARD, TOWNSHIP OF | 42081C0340E | 16-MAR-2004
03 | PENNSYLVANIA | WOODWARD, TOWNSHIP OF | 42081C0344E | 16-MAR-2004
03 | PENNSYLVANIA | WOODWARD, TOWNSHIP OF | 42081C0345E | 16-MAR-2004
03 | PENNSYLVANIA | WOODWARD, TOWNSHIP OF | 42081C0417E | 16-MAR-2004
03 | PENNSYLVANIA | WOODWARD, TOWNSHIP OF | 42081C0421E | 16-MAR-2004
03 | PENNSYLVANIA | WOODWARD, TOWNSHIP OF | 42081C0422E | 16-MAR-2004
03 | PENNSYLVANIA | WOODWARD, TOWNSHIP OF | 42081C0423E | 16-MAR-2004
03 | PENNSYLVANIA | WOODWARD, TOWNSHIP OF | 42081C0424E | 16-MAR-2004
03 | PENNSYLVANIA | WOODWARD, TOWNSHIP OF | 42081C0426E | 16-MAR-2004
03 | PENNSYLVANIA | WOODWARD, TOWNSHIP OF | 42081C0427E | 16-MAR-2004
03 | PENNSYLVANIA | WOODWARD, TOWNSHIP OF | 42081CIND1A | 16-MAR-2004
03 | PENNSYLVANIA | WOODWARD, TOWNSHIP OF | 42081CIND2A | 16-MAR-2004
03 | VIRGINIA | BRISTOL, CITY OF | 5100220004D | 04-FEB-2004
03 | VIRGINIA | BRISTOL, CITY OF | 5100220005D | 04-FEB-2004
03 | VIRGINIA | BRISTOL, CITY OF | 5100220006D | 04-FEB-2004
03 | VIRGINIA | BRISTOL, CITY OF | 5100220007D | 04-FEB-2004
03 | VIRGINIA | BRISTOL, CITY OF | 5100220008D | 04-FEB-2004
03 | VIRGINIA | BRISTOL, CITY OF | 5100220009D | 04-FEB-2004
03 | VIRGINIA | BRISTOL, CITY OF | 510022IND0A | 04-FEB-2004
03 | WEST VIRGINIA | JACKSON COUNTY * | 54035C0010F | 18-FEB-2004
03 | WEST VIRGINIA | JACKSON COUNTY * | 54035C0020F | 18-FEB-2004
03 | WEST VIRGINIA | JACKSON COUNTY * | 54035C0030F | 18-FEB-2004
03 | WEST VIRGINIA | JACKSON COUNTY * | 54035C0035F | 18-FEB-2004
03 | WEST VIRGINIA | JACKSON COUNTY * | 54035C0040F | 18-FEB-2004
03 | WEST VIRGINIA | JACKSON COUNTY * | 54035C0045F | 18-FEB-2004
03 | WEST VIRGINIA | JACKSON COUNTY * | 54035C0065F | 18-FEB-2004
03 | WEST VIRGINIA | JACKSON COUNTY * | 54035C0070F | 18-FEB-2004
03 | WEST VIRGINIA | JACKSON COUNTY * | 54035C0095F | 18-FEB-2004
03 | WEST VIRGINIA | JACKSON COUNTY * | 54035C0105F | 18-FEB-2004
03 | WEST VIRGINIA | JACKSON COUNTY * | 54035C0110F | 18-FEB-2004
03 | WEST VIRGINIA | JACKSON COUNTY * | 54035C0113F | 18-FEB-2004
03 | WEST VIRGINIA | JACKSON COUNTY * | 54035C0114F | 18-FEB-2004
03 | WEST VIRGINIA | JACKSON COUNTY * | 54035C0115F | 18-FEB-2004
03 | WEST VIRGINIA | JACKSON COUNTY * | 54035C0120F | 18-FEB-2004
03 | WEST VIRGINIA | JACKSON COUNTY * | 54035C0128F | 18-FEB-2004
03 | WEST VIRGINIA | JACKSON COUNTY * | 54035C0130F | 18-FEB-2004
03 | WEST VIRGINIA | JACKSON COUNTY * | 54035C0135F | 18-FEB-2004
03 | WEST VIRGINIA | JACKSON COUNTY * | 54035C0136F | 18-FEB-2004
03 | WEST VIRGINIA | JACKSON COUNTY * | 54035C0137F | 18-FEB-2004
03 | WEST VIRGINIA | JACKSON COUNTY * | 54035C0138F | 18-FEB-2004
03 | WEST VIRGINIA | JACKSON COUNTY * | 54035C0139F | 18-FEB-2004
03 | WEST VIRGINIA | JACKSON COUNTY * | 54035C0143F | 18-FEB-2004
03 | WEST VIRGINIA | JACKSON COUNTY * | 54035C0145F | 18-FEB-2004
03 | WEST VIRGINIA | JACKSON COUNTY * | 54035C0155F | 18-FEB-2004
03 | WEST VIRGINIA | JACKSON COUNTY * | 54035C0160F | 18-FEB-2004
03 | WEST VIRGINIA | JACKSON COUNTY * | 54035C0165F | 18-FEB-2004
03 | WEST VIRGINIA | JACKSON COUNTY * | 54035C0170F | 18-FEB-2004
03 | WEST VIRGINIA | JACKSON COUNTY * | 54035C0185F | 18-FEB-2004
03 | WEST VIRGINIA | JACKSON COUNTY * | 54035C0202F | 18-FEB-2004
03 | WEST VIRGINIA | JACKSON COUNTY * | 54035C0205F | 18-FEB-2004
03 | WEST VIRGINIA | JACKSON COUNTY * | 54035C0206F | 18-FEB-2004
03 | WEST VIRGINIA | JACKSON COUNTY * | 54035C0207F | 18-FEB-2004
03 | WEST VIRGINIA | JACKSON COUNTY * | 54035C0208F | 18-FEB-2004
03 | WEST VIRGINIA | JACKSON COUNTY * | 54035C0209F | 18-FEB-2004
03 | WEST VIRGINIA | JACKSON COUNTY * | 54035C0215F | 18-FEB-2004
03 | WEST VIRGINIA | JACKSON COUNTY * | 54035C0220F | 18-FEB-2004
03 | WEST VIRGINIA | JACKSON COUNTY * | 54035C0228F | 18-FEB-2004
03 | WEST VIRGINIA | JACKSON COUNTY * | 54035C0229F | 18-FEB-2004
03 | WEST VIRGINIA | JACKSON COUNTY * | 54035C0230F | 18-FEB-2004
03 | WEST VIRGINIA | JACKSON COUNTY * | 54035C0235F | 18-FEB-2004
03 | WEST VIRGINIA | JACKSON COUNTY * | 54035C0237F | 18-FEB-2004
03 | WEST VIRGINIA | JACKSON COUNTY * | 54035C0240F | 18-FEB-2004
03 | WEST VIRGINIA | JACKSON COUNTY * | 54035C0241F | 18-FEB-2004
03 | WEST VIRGINIA | JACKSON COUNTY * | 54035C0245F | 18-FEB-2004
03 | WEST VIRGINIA | JACKSON COUNTY * | 54035C0255F | 18-FEB-2004
03 | WEST VIRGINIA | JACKSON COUNTY * | 54035C0260F | 18-FEB-2004
03 | WEST VIRGINIA | JACKSON COUNTY * | 54035C0265F | 18-FEB-2004
03 | WEST VIRGINIA | JACKSON COUNTY * | 54035C0270F | 18-FEB-2004
03 | WEST VIRGINIA | JACKSON COUNTY * | 54035C0285F | 18-FEB-2004
03 | WEST VIRGINIA | JACKSON COUNTY * | 54035C0305F | 18-FEB-2004
03 | WEST VIRGINIA | JACKSON COUNTY * | 54035C0306F | 18-FEB-2004
03 | WEST VIRGINIA | JACKSON COUNTY * | 54035C0308F | 18-FEB-2004
03 | WEST VIRGINIA | JACKSON COUNTY * | 54035C0310F | 18-FEB-2004
03 | WEST VIRGINIA | JACKSON COUNTY * | 54035C0316F | 18-FEB-2004
03 | WEST VIRGINIA | JACKSON COUNTY * | 54035C0318F | 18-FEB-2004
03 | WEST VIRGINIA | JACKSON COUNTY * | 54035C0320F | 18-FEB-2004
03 | WEST VIRGINIA | JACKSON COUNTY * | 54035C0330F | 18-FEB-2004
03 | WEST VIRGINIA | JACKSON COUNTY * | 54035C0335F | 18-FEB-2004
03 | WEST VIRGINIA | JACKSON COUNTY * | 54035C0340F | 18-FEB-2004
03 | WEST VIRGINIA | JACKSON COUNTY * | 54035C0345F | 18-FEB-2004
03 | WEST VIRGINIA | JACKSON COUNTY * | 54035C0355F | 18-FEB-2004
03 | WEST VIRGINIA | JACKSON COUNTY * | 54035C0356F | 18-FEB-2004
03 | WEST VIRGINIA | JACKSON COUNTY * | 54035C0357F | 18-FEB-2004
03 | WEST VIRGINIA | JACKSON COUNTY * | 54035C0359F | 18-FEB-2004
03 | WEST VIRGINIA | JACKSON COUNTY * | 54035C0370F | 18-FEB-2004
03 | WEST VIRGINIA | JACKSON COUNTY * | 54035C0380F | 18-FEB-2004
03 | WEST VIRGINIA | JACKSON COUNTY * | 54035C0385F | 18-FEB-2004
03 | WEST VIRGINIA | JACKSON COUNTY * | 54035C0390F | 18-FEB-2004
03 | WEST VIRGINIA | JACKSON COUNTY * | 54035CIND0A | 18-FEB-2004
03 | WEST VIRGINIA | RAVENSWOOD, CITY OF | 54035C0110F | 18-FEB-2004
03 | WEST VIRGINIA | RAVENSWOOD, CITY OF | 54035C0120F | 18-FEB-2004
03 | WEST VIRGINIA | RAVENSWOOD, CITY OF | 54035C0128F | 18-FEB-2004
03 | WEST VIRGINIA | RAVENSWOOD, CITY OF | 54035CIND0A | 18-FEB-2004
03 | WEST VIRGINIA | REEDY, TOWN OF | 5401840001C | 02-MAR-2004
03 | WEST VIRGINIA | RIPLEY, CITY OF | 54035C0228F | 18-FEB-2004
03 | WEST VIRGINIA | RIPLEY, CITY OF | 54035C0229F | 18-FEB-2004
03 | WEST VIRGINIA | RIPLEY, CITY OF | 54035C0237F | 18-FEB-2004
03 | WEST VIRGINIA | RIPLEY, CITY OF | 54035CIND0A | 18-FEB-2004
03 | WEST VIRGINIA | WHITE SULPHUR SPRINGS, CITY OF | 5400450008D | 02-JAN-2004
03 | WEST VIRGINIA | WHITE SULPHUR SPRINGS, CITY OF | 5400450015D | 02-JAN-2004
03 | WEST VIRGINIA | WHITE SULPHUR SPRINGS, CITY OF | 5400450016D | 02-JAN-2004
03 | WEST VIRGINIA | WHITE SULPHUR SPRINGS, CITY OF | 540045IND0A | 02-JAN-2004
04 | FLORIDA | COLLIER COUNTY * | 12021C0100G | 16-APR-2004
04 | FLORIDA | COLLIER COUNTY * | 12021C0125G | 16-APR-2004
04 | FLORIDA | COLLIER COUNTY * | 12021C0150G | 16-APR-2004
04 | FLORIDA | COLLIER COUNTY * | 12021C0178G | 16-APR-2004
04 | FLORIDA | COLLIER COUNTY * | 12021C0179G | 16-APR-2004
04 | FLORIDA | COLLIER COUNTY * | 12021C0185G | 16-APR-2004
04 | FLORIDA | COLLIER COUNTY * | 12021C0187G | 16-APR-2004
04 | FLORIDA | COLLIER COUNTY * | 12021C0189G | 16-APR-2004
04 | FLORIDA | COLLIER COUNTY * | 12021C0191G | 16-APR-2004
04 | FLORIDA | COLLIER COUNTY * | 12021C0193G | 16-APR-2004
04 | FLORIDA | COLLIER COUNTY * | 12021C0195G | 16-APR-2004
04 | FLORIDA | COLLIER COUNTY * | 12021C0215G | 16-APR-2004
04 | FLORIDA | COLLIER COUNTY * | 12021C0225G | 16-APR-2004
04 | FLORIDA | COLLIER COUNTY * | 12021C0250G | 16-APR-2004
04 | FLORIDA | COLLIER COUNTY * | 12021C0275G | 16-APR-2004
04 | FLORIDA | COLLIER COUNTY * | 12021C0377G | 16-APR-2004
04 | FLORIDA | COLLIER COUNTY * | 12021C0379G | 16-APR-2004
04 | FLORIDA | COLLIER COUNTY * | 12021C0381G | 16-APR-2004
04 | FLORIDA | COLLIER COUNTY * | 12021C0383G | 16-APR-2004
04 | FLORIDA | COLLIER COUNTY * | 12021C0385G | 16-APR-2004
04 | FLORIDA | COLLIER COUNTY * | 12021C0387G | 16-APR-2004
04 | FLORIDA | COLLIER COUNTY * | 12021C0391G | 16-APR-2004
04 | FLORIDA | COLLIER COUNTY * | 12021C0392G | 16-APR-2004
04 | FLORIDA | COLLIER COUNTY * | 12021C0393G | 16-APR-2004
04 | FLORIDA | COLLIER COUNTY * | 12021C0394G | 16-APR-2004
04 | FLORIDA | COLLIER COUNTY * | 12021C0415G | 16-APR-2004
04 | FLORIDA | COLLIER COUNTY * | 12021C0425G | 16-APR-2004
04 | FLORIDA | COLLIER COUNTY * | 12021C0450G | 16-APR-2004
04 | FLORIDA | COLLIER COUNTY * | 12021C0581G | 16-APR-2004
04 | FLORIDA | COLLIER COUNTY * | 12021C0582G | 16-APR-2004
04 | FLORIDA | COLLIER COUNTY * | 12021C0583G | 16-APR-2004
04 | FLORIDA | COLLIER COUNTY * | 12021C0584G | 16-APR-2004
04 | FLORIDA | COLLIER COUNTY * | 12021C0595G | 16-APR-2004
04 | FLORIDA | COLLIER COUNTY * | 12021C0601G | 16-APR-2004
04 | FLORIDA | COLLIER COUNTY * | 12021C0603G | 16-APR-2004
04 | FLORIDA | COLLIER COUNTY * | 12021C0605G | 16-APR-2004
04 | FLORIDA | COLLIER COUNTY * | 12021C0610G | 16-APR-2004
04 | FLORIDA | COLLIER COUNTY * | 12021C0615G | 16-APR-2004
04 | FLORIDA | COLLIER COUNTY * | 12021C0620G | 16-APR-2004
04 | FLORIDA | COLLIER COUNTY * | 12021C0650G | 16-APR-2004
04 | FLORIDA | COLLIER COUNTY * | 12021C0675G | 16-APR-2004
04 | FLORIDA | COLLIER COUNTY * | 12021C0785G | 16-APR-2004
04 | FLORIDA | COLLIER COUNTY * | 12021C0801G | 16-APR-2004
04 | FLORIDA | COLLIER COUNTY * | 12021C0802G | 16-APR-2004
04 | FLORIDA | COLLIER COUNTY * | 12021C0803G | 16-APR-2004
04 | FLORIDA | COLLIER COUNTY * | 12021C0804G | 16-APR-2004
04 | FLORIDA | COLLIER COUNTY * | 12021C0811G | 16-APR-2004
04 | FLORIDA | COLLIER COUNTY * | 12021C0812G | 16-APR-2004
04 | FLORIDA | COLLIER COUNTY * | 12021C0817G | 16-APR-2004
04 | FLORIDA | COLLIER COUNTY * | 12021C0825G | 16-APR-2004
04 | FLORIDA | COLLIER COUNTY * | 12021C0850G | 16-APR-2004
04 | FLORIDA | COLLIER COUNTY * | 12021C0875G | 16-APR-2004
04 | FLORIDA | COLLIER COUNTY * | 12021C0900G | 16-APR-2004
04 | FLORIDA | COLLIER COUNTY * | 12021C0925G | 16-APR-2004
04 | FLORIDA | COLLIER COUNTY * | 12021C1000G | 16-APR-2004
04 | FLORIDA | COLLIER COUNTY * | 12021C1025G | 16-APR-2004
04 | FLORIDA | COLLIER COUNTY * | 12021C1035G | 16-APR-2004
04 | FLORIDA | COLLIER COUNTY * | 12021C1050G | 16-APR-2004
04 | FLORIDA | COLLIER COUNTY * | 12021C1055G | 16-APR-2004
04 | FLORIDA | COLLIER COUNTY * | 12021C1075G | 16-APR-2004
04 | FLORIDA | COLLIER COUNTY * | 12021C1100G | 16-APR-2004
04 | FLORIDA | COLLIER COUNTY * | 12021C1125G | 16-APR-2004
04 | FLORIDA | COLLIER COUNTY * | 12021CIND0A | 16-APR-2004
04 | FLORIDA | EVERGLADES CITY, CITY OF | 12021C1035G | 16-APR-2004
04 | FLORIDA | EVERGLADES CITY, CITY OF | 12021CIND0A | 16-APR-2004
04 | FLORIDA | MARCO ISLAND, CITY OF | 12021C0785G | 16-APR-2004
04 | FLORIDA | MARCO ISLAND, CITY OF | 12021C0801G | 16-APR-2004
04 | FLORIDA | MARCO ISLAND, CITY OF | 12021C0802G | 16-APR-2004
04 | FLORIDA | MARCO ISLAND, CITY OF | 12021C0803G | 16-APR-2004
04 | FLORIDA | MARCO ISLAND, CITY OF | 12021C0804G | 16-APR-2004
04 | FLORIDA | MARCO ISLAND, CITY OF | 12021C0811G | 16-APR-2004
04 | FLORIDA | MARCO ISLAND, CITY OF | 12021C0812G | 16-APR-2004
04 | FLORIDA | MARCO ISLAND, CITY OF | 12021C0817G | 16-APR-2004
04 | FLORIDA | MARCO ISLAND, CITY OF | 12021C0825G | 16-APR-2004
04 | FLORIDA | MARCO ISLAND, CITY OF | 12021CIND0A | 16-APR-2004
04 | FLORIDA | NAPLES, CITY OF | 12021C0379G | 16-APR-2004
04 | FLORIDA | NAPLES, CITY OF | 12021C0383G | 16-APR-2004
04 | FLORIDA | NAPLES, CITY OF | 12021C0387G | 16-APR-2004
04 | FLORIDA | NAPLES, CITY OF | 12021C0391G | 16-APR-2004
04 | FLORIDA | NAPLES, CITY OF | 12021C0392G | 16-APR-2004
04 | FLORIDA | NAPLES, CITY OF | 12021C0393G | 16-APR-2004
04 | FLORIDA | NAPLES, CITY OF | 12021C0394G | 16-APR-2004
04 | FLORIDA | NAPLES, CITY OF | 12021C0581G | 16-APR-2004
04 | FLORIDA | NAPLES, CITY OF | 12021C0583G | 16-APR-2004
04 | FLORIDA | NAPLES, CITY OF | 12021CIND0A | 16-APR-2004
04 | GEORGIA | MCDONOUGH, CITY OF | 130342IND0A | 01-JUN-2004
04 | GEORGIA | MCDONOUGH, CITY OF | 1303429999A | 01-JUN-2004
04 | GEORGIA | MCDONOUGH, CITY OF | 1303420001B | 01-JUN-2004
04 | NORTH CAROLINA | ALLEGHANY COUNTY | 3700040001B | 01-FEB-2004
04 | NORTH CAROLINA | ALLEGHANY COUNTY | 3700040002B | 01-FEB-2004
04 | NORTH CAROLINA | ALLEGHANY COUNTY | 3700040003B | 01-FEB-2004
04 | NORTH CAROLINA | ALLEGHANY COUNTY | 3700049999A | 01-FEB-2004
04 | NORTH CAROLINA | ALLEGHANY COUNTY | 370004IND0A | 01-FEB-2004
04 | NORTH CAROLINA | AYDEN, TOWN OF | 37147CIND0A | 02-JAN-2004
04 | NORTH CAROLINA | AYDEN, TOWN OF | 3720465200J | 02-JAN-2004
04 | NORTH CAROLINA | AYDEN, TOWN OF | 3720465300J | 02-JAN-2004
04 | NORTH CAROLINA | AYDEN, TOWN OF | 3720466100J | 02-JAN-2004
04 | NORTH CAROLINA | AYDEN, TOWN OF | 3720466300J | 02-JAN-2004
04 | NORTH CAROLINA | AYDEN, TOWN OF | 3720466400J | 02-JAN-2004
04 | NORTH CAROLINA | AYDEN, TOWN OF | 3720467100J | 02-JAN-2004
04 | NORTH CAROLINA | AYDEN, TOWN OF | 3720467200J | 02-JAN-2004
04 | NORTH CAROLINA | AYDEN, TOWN OF | 3720467300J | 02-JAN-2004
04 | NORTH CAROLINA | AYDEN, TOWN OF | 3720468200J | 02-JAN-2004
04 | NORTH CAROLINA | AYDEN, TOWN OF | 3720468300J | 02-JAN-2004
04 | NORTH CAROLINA | BEAUFORT COUNTY* | 37013CIND0B | 02-JAN-2004
04 | NORTH CAROLINA | BEAUFORT COUNTY* | 37147CIND0A | 02-JAN-2004
04 | NORTH CAROLINA | BEAUFORT COUNTY* | 3720562000K | 02-JAN-2004
04 | NORTH CAROLINA | BEAUFORT COUNTY* | 3720564000K | 02-JAN-2004
04 | NORTH CAROLINA | BEAUFORT COUNTY* | 3720564200K | 02-JAN-2004
04 | NORTH CAROLINA | BEAUFORT COUNTY* | 3720564400K | 02-JAN-2004
04 | NORTH CAROLINA | BEAUFORT COUNTY* | 3720564500K | 02-JAN-2004
04 | NORTH CAROLINA | BEAUFORT COUNTY* | 3720564600K | 02-JAN-2004
04 | NORTH CAROLINA | BEAUFORT COUNTY* | 3720564800K | 02-JAN-2004
04 | NORTH CAROLINA | BEAUFORT COUNTY* | 3720564900K | 02-JAN-2004
04 | NORTH CAROLINA | BEAUFORT COUNTY* | 3720565800K | 02-JAN-2004
04 | NORTH CAROLINA | BEAUFORT COUNTY* | 3720566600K | 02-JAN-2004
04 | NORTH CAROLINA | BEAUFORT COUNTY* | 3720566700K | 02-JAN-2004
04 | NORTH CAROLINA | BEAUFORT COUNTY* | 3720572000K | 02-JAN-2004
04 | NORTH CAROLINA | BEAUFORT COUNTY* | 3720572200K | 02-JAN-2004
04 | NORTH CAROLINA | BEAUFORT COUNTY* | 3720574000K | 02-JAN-2004
04 | NORTH CAROLINA | BEAUFORT COUNTY* | 3720574200K | 02-JAN-2004
04 | NORTH CAROLINA | BETHEL, TOWN OF | 37147CIND0A | 02-JAN-2004
04 | NORTH CAROLINA | BETHEL, TOWN OF | 3720476400J | 02-JAN-2004
04 | NORTH CAROLINA | BETHEL, TOWN OF | 3720476600J | 02-JAN-2004
04 | NORTH CAROLINA | BETHEL, TOWN OF | 3720478400J | 02-JAN-2004
04 | NORTH CAROLINA | BUNN, TOWN OF | 37069CIND0A | 16-JAN-2004
04 | NORTH CAROLINA | BUNN, TOWN OF | 3720271900J | 16-JAN-2004
04 | NORTH CAROLINA | BUNN, TOWN OF | 3720272900J | 16-JAN-2004
04 | NORTH CAROLINA | BUNN, TOWN OF | 3720280000J | 16-JAN-2004
04 | NORTH CAROLINA | BUNN, TOWN OF | 3720282000J | 16-JAN-2004
04 | NORTH CAROLINA | BUNN, TOWN OF | 3720282100J | 16-JAN-2004
04 | NORTH CAROLINA | CENTERVILLE, TOWN OF | 37069CIND0A | 16-JAN-2004
04 | NORTH CAROLINA | CENTERVILLE, TOWN OF | 3720286800J | 16-JAN-2004
04 | NORTH CAROLINA | CHARLOTTE, CITY OF | 37119C0088E | 04-FEB-2004
04 | NORTH CAROLINA | CHARLOTTE, CITY OF | 37119C0089E | 04-FEB-2004
04 | NORTH CAROLINA | CHARLOTTE, CITY OF | 37119C0106E | 04-FEB-2004
04 | NORTH CAROLINA | CHARLOTTE, CITY OF | 37119C0107E | 04-FEB-2004
04 | NORTH CAROLINA | CHARLOTTE, CITY OF | 37119C0108E | 04-FEB-2004
04 | NORTH CAROLINA | CHARLOTTE, CITY OF | 37119C0109E | 04-FEB-2004
04 | NORTH CAROLINA | CHARLOTTE, CITY OF | 37119C0123E | 04-FEB-2004
04 | NORTH CAROLINA | CHARLOTTE, CITY OF | 37119C0124E | 04-FEB-2004
04 | NORTH CAROLINA | CHARLOTTE, CITY OF | 37119C0125E | 04-FEB-2004
04 | NORTH CAROLINA | CHARLOTTE, CITY OF | 37119C0126E | 04-FEB-2004
04 | NORTH CAROLINA | CHARLOTTE, CITY OF | 37119C0127E | 04-FEB-2004
04 | NORTH CAROLINA | CHARLOTTE, CITY OF | 37119C0128E | 04-FEB-2004
04 | NORTH CAROLINA | CHARLOTTE, CITY OF | 37119C0129E | 04-FEB-2004
04 | NORTH CAROLINA | CHARLOTTE, CITY OF | 37119C0130E | 04-FEB-2004
04 | NORTH CAROLINA | CHARLOTTE, CITY OF | 37119C0143E | 04-FEB-2004
04 | NORTH CAROLINA | CHARLOTTE, CITY OF | 37119C0144E | 04-FEB-2004
04 | NORTH CAROLINA | CHARLOTTE, CITY OF | 37119C0145E | 04-FEB-2004
04 | NORTH CAROLINA | CHARLOTTE, CITY OF | 37119C0146E | 04-FEB-2004
04 | NORTH CAROLINA | CHARLOTTE, CITY OF | 37119C0147E | 04-FEB-2004
04 | NORTH CAROLINA | CHARLOTTE, CITY OF | 37119C0148E | 04-FEB-2004
04 | NORTH CAROLINA | CHARLOTTE, CITY OF | 37119C0149E | 04-FEB-2004
04 | NORTH CAROLINA | CHARLOTTE, CITY OF | 37119C0150E | 04-FEB-2004
04 | NORTH CAROLINA | CHARLOTTE, CITY OF | 37119C0163E | 04-FEB-2004
04 | NORTH CAROLINA | CHARLOTTE, CITY OF | 37119C0164E | 04-FEB-2004
04 | NORTH CAROLINA | CHARLOTTE, CITY OF | 37119C0165E | 04-FEB-2004
04 | NORTH CAROLINA | CHARLOTTE, CITY OF | 37119C0166E | 04-FEB-2004
04 | NORTH CAROLINA | CHARLOTTE, CITY OF | 37119C0167E | 04-FEB-2004
04 | NORTH CAROLINA | CHARLOTTE, CITY OF | 37119C0168E | 04-FEB-2004
04 | NORTH CAROLINA | CHARLOTTE, CITY OF | 37119C0169E | 04-FEB-2004
04 | NORTH CAROLINA | CHARLOTTE, CITY OF | 37119C0170E | 04-FEB-2004
04 | NORTH CAROLINA | CHARLOTTE, CITY OF | 37119C0183E | 04-FEB-2004
04 | NORTH CAROLINA | CHARLOTTE, CITY OF | 37119C0184E | 04-FEB-2004
04 | NORTH CAROLINA | CHARLOTTE, CITY OF | 37119C0185E | 04-FEB-2004
04 | NORTH CAROLINA | CHARLOTTE, CITY OF | 37119C0186E | 04-FEB-2004
04 | NORTH CAROLINA | CHARLOTTE, CITY OF | 37119C0187E | 04-FEB-2004
04 | NORTH CAROLINA | CHARLOTTE, CITY OF | 37119C0188E | 04-FEB-2004
04 | NORTH CAROLINA | CHARLOTTE, CITY OF | 37119C0189E | 04-FEB-2004
04 | NORTH CAROLINA | CHARLOTTE, CITY OF | 37119C0190E | 04-FEB-2004
04 | NORTH CAROLINA | CHARLOTTE, CITY OF | 37119C0191E | 04-FEB-2004
04 | NORTH CAROLINA | CHARLOTTE, CITY OF | 37119C0203E | 04-FEB-2004
04 | NORTH CAROLINA | CHARLOTTE, CITY OF | 37119C0204E | 04-FEB-2004
04 | NORTH CAROLINA | CHARLOTTE, CITY OF | 37119C0205E | 04-FEB-2004
04 | NORTH CAROLINA | CHARLOTTE, CITY OF | 37119C0206E | 04-FEB-2004
04 | NORTH CAROLINA | CHARLOTTE, CITY OF | 37119C0207E | 04-FEB-2004
04 | NORTH CAROLINA | CHARLOTTE, CITY OF | 37119C0208E | 04-FEB-2004
04 | NORTH CAROLINA | CHARLOTTE, CITY OF | 37119C0209E | 04-FEB-2004
04 | NORTH CAROLINA | CHARLOTTE, CITY OF | 37119C0210E | 04-FEB-2004
04 | NORTH CAROLINA | CHARLOTTE, CITY OF | 37119C0222E | 04-FEB-2004
04 | NORTH CAROLINA | CHARLOTTE, CITY OF | 37119C0223E | 04-FEB-2004
04 | NORTH CAROLINA | CHARLOTTE, CITY OF | 37119C0224E | 04-FEB-2004
04 | NORTH CAROLINA | CHARLOTTE, CITY OF | 37119C0225E | 04-FEB-2004
04 | NORTH CAROLINA | CHARLOTTE, CITY OF | 37119C0226E | 04-FEB-2004
04 | NORTH CAROLINA | CHARLOTTE, CITY OF | 37119C0227E | 04-FEB-2004
04 | NORTH CAROLINA | CHARLOTTE, CITY OF | 37119C0228E | 04-FEB-2004
04 | NORTH CAROLINA | CHARLOTTE, CITY OF | 37119C0229E | 04-FEB-2004
04 | NORTH CAROLINA | CHARLOTTE, CITY OF | 37119C0230E | 04-FEB-2004
04 | NORTH CAROLINA | CHARLOTTE, CITY OF | 37119C0243E | 04-FEB-2004
04 | NORTH CAROLINA | CHARLOTTE, CITY OF | 37119C0244E | 04-FEB-2004
04 | NORTH CAROLINA | CHARLOTTE, CITY OF | 37119C0245E | 04-FEB-2004
04 | NORTH CAROLINA | CHARLOTTE, CITY OF | 37119C0246E | 04-FEB-2004
04 | NORTH CAROLINA | CHARLOTTE, CITY OF | 37119C0247E | 04-FEB-2004
04 | NORTH CAROLINA | CHARLOTTE, CITY OF | 37119C0248E | 04-FEB-2004
04 | NORTH CAROLINA | CHARLOTTE, CITY OF | 37119C0249E | 04-FEB-2004
04 | NORTH CAROLINA | CHARLOTTE, CITY OF | 37119C0266E | 04-FEB-2004
04 | NORTH CAROLINA | CHARLOTTE, CITY OF | 37119C0267E | 04-FEB-2004
04 | NORTH CAROLINA | CHARLOTTE, CITY OF | 37119C0268E | 04-FEB-2004
04 | NORTH CAROLINA | CHARLOTTE, CITY OF | 37119C0269E | 04-FEB-2004
04 | NORTH CAROLINA | CHARLOTTE, CITY OF | 37119C0287E | 04-FEB-2004
04 | NORTH CAROLINA | CHARLOTTE, CITY OF | 37119C0288E | 04-FEB-2004
04 | NORTH CAROLINA | CHARLOTTE, CITY OF | 37119C0289E | 04-FEB-2004
04 | NORTH CAROLINA | CHARLOTTE, CITY OF | 37119C0307E | 04-FEB-2004
04 | NORTH CAROLINA | CHARLOTTE, CITY OF | 37119C0308E | 04-FEB-2004
04 | NORTH CAROLINA | CHARLOTTE, CITY OF | 37119CIND0A | 04-FEB-2004
04 | NORTH CAROLINA | COLUMBIA, TOWN OF | 37177CIND0A | 16-JAN-2004
04 | NORTH CAROLINA | COLUMBIA, TOWN OF | 3720870800J | 16-JAN-2004
04 | NORTH CAROLINA | COLUMBIA, TOWN OF | 3720880000J | 16-JAN-2004
04 | NORTH CAROLINA | CORNELIUS, TOWN OF | 37119C0005E | 04-FEB-2004
04 | NORTH CAROLINA | CORNELIUS, TOWN OF | 37119C0006E | 04-FEB-2004
04 | NORTH CAROLINA | CORNELIUS, TOWN OF | 37119C0024E | 04-FEB-2004
04 | NORTH CAROLINA | CORNELIUS, TOWN OF | 37119C0025E | 04-FEB-2004
04 | NORTH CAROLINA | CORNELIUS, TOWN OF | 37119C0026E | 04-FEB-2004
04 | NORTH CAROLINA | CORNELIUS, TOWN OF | 37119C0027E | 04-FEB-2004
04 | NORTH CAROLINA | CORNELIUS, TOWN OF | 37119C0044E | 04-FEB-2004
04 | NORTH CAROLINA | CORNELIUS, TOWN OF | 37119C0045E | 04-FEB-2004
04 | NORTH CAROLINA | CORNELIUS, TOWN OF | 37119C0046E | 04-FEB-2004
04 | NORTH CAROLINA | CORNELIUS, TOWN OF | 37119CIND0A | 04-FEB-2004
04 | NORTH CAROLINA | DAVIDSON, TOWN OF | 37119C0006E | 04-FEB-2004
04 | NORTH CAROLINA | DAVIDSON, TOWN OF | 37119C0007E | 04-FEB-2004
04 | NORTH CAROLINA | DAVIDSON, TOWN OF | 37119C0026E | 04-FEB-2004
04 | NORTH CAROLINA | DAVIDSON, TOWN OF | 37119C0027E | 04-FEB-2004
04 | NORTH CAROLINA | DAVIDSON, TOWN OF | 37119C0028E | 04-FEB-2004
04 | NORTH CAROLINA | DAVIDSON, TOWN OF | 37119C0047E | 04-FEB-2004
04 | NORTH CAROLINA | DAVIDSON, TOWN OF | 37119C0048E | 04-FEB-2004
04 | NORTH CAROLINA | DAVIDSON, TOWN OF | 37119CIND0A | 04-FEB-2004
04 | NORTH CAROLINA | FALKLAND, TOWN OF | 37147CIND0A | 02-JAN-2004
04 | NORTH CAROLINA | FALKLAND, TOWN OF | 3720472000J | 02-JAN-2004
04 | NORTH CAROLINA | FALKLAND, TOWN OF | 3720474000J | 02-JAN-2004
04 | NORTH CAROLINA | FARMVILLE, TOWN OF | 37079CIND0A | 02-JAN-2004
04 | NORTH CAROLINA | FARMVILLE, TOWN OF | 37147CIND0A | 02-JAN-2004
04 | NORTH CAROLINA | FARMVILLE, TOWN OF | 3720460600J | 02-JAN-2004
04 | NORTH CAROLINA | FARMVILLE, TOWN OF | 3720460700J | 02-JAN-2004
04 | NORTH CAROLINA | FARMVILLE, TOWN OF | 3720461600J | 02-JAN-2004
04 | NORTH CAROLINA | FARMVILLE, TOWN OF | 3720461700J | 02-JAN-2004
04 | NORTH CAROLINA | FARMVILLE, TOWN OF | 3720461800J | 02-JAN-2004
04 | NORTH CAROLINA | FARMVILLE, TOWN OF | 3720462600J | 02-JAN-2004
04 | NORTH CAROLINA | FARMVILLE, TOWN OF | 3720462700J | 02-JAN-2004
04 | NORTH CAROLINA | FARMVILLE, TOWN OF | 3720462800J | 02-JAN-2004
04 | NORTH CAROLINA | FARMVILLE, TOWN OF | 3720463700J | 02-JAN-2004
04 | NORTH CAROLINA | FOUNTAIN, TOWN OF | 37147CIND0A | 02-JAN-2004
04 | NORTH CAROLINA | FOUNTAIN, TOWN OF | 3720369900J | 02-JAN-2004
04 | NORTH CAROLINA | FOUNTAIN, TOWN OF | 3720378000J | 02-JAN-2004
04 | NORTH CAROLINA | FOUNTAIN, TOWN OF | 3720460900J | 02-JAN-2004
04 | NORTH CAROLINA | FOUNTAIN, TOWN OF | 3720470000J | 02-JAN-2004
04 | NORTH CAROLINA | FRANKLIN COUNTY* | 37069CIND0A | 16-JAN-2004
04 | NORTH CAROLINA | FRANKLIN COUNTY* | 3720177900J | 16-JAN-2004
04 | NORTH CAROLINA | FRANKLIN COUNTY* | 3720178900J | 16-JAN-2004
04 | NORTH CAROLINA | FRANKLIN COUNTY* | 3720179800J | 16-JAN-2004
04 | NORTH CAROLINA | FRANKLIN COUNTY* | 3720179900J | 16-JAN-2004
04 | NORTH CAROLINA | FRANKLIN COUNTY* | 3720184200J | 16-JAN-2004
04 | NORTH CAROLINA | FRANKLIN COUNTY* | 3720184300J | 16-JAN-2004
04 | NORTH CAROLINA | FRANKLIN COUNTY* | 3720184400J | 16-JAN-2004
04 | NORTH CAROLINA | FRANKLIN COUNTY* | 3720184700J | 16-JAN-2004
04 | NORTH CAROLINA | FRANKLIN COUNTY* | 3720184800J | 16-JAN-2004
04 | NORTH CAROLINA | FRANKLIN COUNTY* | 3720185200J | 16-JAN-2004
04 | NORTH CAROLINA | FRANKLIN COUNTY* | 3720185300J | 16-JAN-2004
04 | NORTH CAROLINA | FRANKLIN COUNTY* | 3720185700J | 16-JAN-2004
04 | NORTH CAROLINA | FRANKLIN COUNTY* | 3720185800J | 16-JAN-2004
04 | NORTH CAROLINA | FRANKLIN COUNTY* | 3720186100J | 16-JAN-2004
04 | NORTH CAROLINA | FRANKLIN COUNTY* | 3720186200J | 16-JAN-2004
04 | NORTH CAROLINA | FRANKLIN COUNTY* | 3720186400J | 16-JAN-2004
04 | NORTH CAROLINA | FRANKLIN COUNTY* | 3720186700J | 16-JAN-2004
04 | NORTH CAROLINA | FRANKLIN COUNTY* | 3720186800J | 16-JAN-2004
04 | NORTH CAROLINA | FRANKLIN COUNTY* | 3720187000J | 16-JAN-2004
04 | NORTH CAROLINA | FRANKLIN COUNTY* | 3720187100J | 16-JAN-2004
04 | NORTH CAROLINA | FRANKLIN COUNTY* | 3720187700J | 16-JAN-2004
04 | NORTH CAROLINA | FRANKLIN COUNTY* | 3720187800J | 16-JAN-2004
04 | NORTH CAROLINA | FRANKLIN COUNTY* | 3720188000J | 16-JAN-2004
04 | NORTH CAROLINA | FRANKLIN COUNTY* | 3720188200J | 16-JAN-2004
04 | NORTH CAROLINA | FRANKLIN COUNTY* | 3720188400J | 16-JAN-2004
04 | NORTH CAROLINA | FRANKLIN COUNTY* | 3720188600J | 16-JAN-2004
04 | NORTH CAROLINA | FRANKLIN COUNTY* | 3720188700J | 16-JAN-2004
04 | NORTH CAROLINA | FRANKLIN COUNTY* | 3720188800J | 16-JAN-2004
04 | NORTH CAROLINA | FRANKLIN COUNTY* | 3720189600J | 16-JAN-2004
04 | NORTH CAROLINA | FRANKLIN COUNTY* | 3720189700J | 16-JAN-2004
04 | NORTH CAROLINA | FRANKLIN COUNTY* | 3720198000J | 16-JAN-2004
04 | NORTH CAROLINA | FRANKLIN COUNTY* | 3720270700J | 16-JAN-2004
04 | NORTH CAROLINA | FRANKLIN COUNTY* | 3720270800J | 16-JAN-2004
04 | NORTH CAROLINA | FRANKLIN COUNTY* | 3720270900J | 16-JAN-2004
04 | NORTH CAROLINA | FRANKLIN COUNTY* | 3720271500J | 16-JAN-2004
04 | NORTH CAROLINA | FRANKLIN COUNTY* | 3720271600J | 16-JAN-2004
04 | NORTH CAROLINA | FRANKLIN COUNTY* | 3720271700J | 16-JAN-2004
04 | NORTH CAROLINA | FRANKLIN COUNTY* | 3720271800J | 16-JAN-2004
04 | NORTH CAROLINA | FRANKLIN COUNTY* | 3720271900J | 16-JAN-2004
04 | NORTH CAROLINA | FRANKLIN COUNTY* | 3720272500J | 16-JAN-2004
04 | NORTH CAROLINA | FRANKLIN COUNTY* | 3720272600J | 16-JAN-2004
04 | NORTH CAROLINA | FRANKLIN COUNTY* | 3720272800J | 16-JAN-2004
04 | NORTH CAROLINA | FRANKLIN COUNTY* | 3720272900J | 16-JAN-2004
04 | NORTH CAROLINA | FRANKLIN COUNTY* | 3720273800J | 16-JAN-2004
04 | NORTH CAROLINA | FRANKLIN COUNTY* | 3720273900J | 16-JAN-2004
04 | NORTH CAROLINA | FRANKLIN COUNTY* | 3720274800J | 16-JAN-2004
04 | NORTH CAROLINA | FRANKLIN COUNTY* | 3720280000J | 16-JAN-2004
04 | NORTH CAROLINA | FRANKLIN COUNTY* | 3720280200J | 16-JAN-2004
04 | NORTH CAROLINA | FRANKLIN COUNTY* | 3720280300J | 16-JAN-2004
04 | NORTH CAROLINA | FRANKLIN COUNTY* | 3720280400J | 16-JAN-2004
04 | NORTH CAROLINA | FRANKLIN COUNTY* | 3720280500J | 16-JAN-2004
04 | NORTH CAROLINA | FRANKLIN COUNTY* | 3720280600J | 16-JAN-2004
04 | NORTH CAROLINA | FRANKLIN COUNTY* | 3720280700J | 16-JAN-2004
04 | NORTH CAROLINA | FRANKLIN COUNTY* | 3720280800J | 16-JAN-2004
04 | NORTH CAROLINA | FRANKLIN COUNTY* | 3720281200J | 16-JAN-2004
04 | NORTH CAROLINA | FRANKLIN COUNTY* | 3720281300J | 16-JAN-2004
04 | NORTH CAROLINA | FRANKLIN COUNTY* | 3720281400J | 16-JAN-2004
04 | NORTH CAROLINA | FRANKLIN COUNTY* | 3720281500J | 16-JAN-2004
04 | NORTH CAROLINA | FRANKLIN COUNTY* | 3720281600J | 16-JAN-2004
04 | NORTH CAROLINA | FRANKLIN COUNTY* | 3720282000J | 16-JAN-2004
04 | NORTH CAROLINA | FRANKLIN COUNTY* | 3720282100J | 16-JAN-2004
04 | NORTH CAROLINA | FRANKLIN COUNTY* | 3720282200J | 16-JAN-2004
04 | NORTH CAROLINA | FRANKLIN COUNTY* | 3720282300J | 16-JAN-2004
04 | NORTH CAROLINA | FRANKLIN COUNTY* | 3720282400J | 16-JAN-2004
04 | NORTH CAROLINA | FRANKLIN COUNTY* | 3720282600J | 16-JAN-2004
04 | NORTH CAROLINA | FRANKLIN COUNTY* | 3720282800J | 16-JAN-2004
04 | NORTH CAROLINA | FRANKLIN COUNTY* | 3720283000J | 16-JAN-2004
04 | NORTH CAROLINA | FRANKLIN COUNTY* | 3720283100J | 16-JAN-2004
04 | NORTH CAROLINA | FRANKLIN COUNTY* | 3720283200J | 16-JAN-2004
04 | NORTH CAROLINA | FRANKLIN COUNTY* | 3720283300J | 16-JAN-2004
04 | NORTH CAROLINA | FRANKLIN COUNTY* | 3720284000J | 16-JAN-2004
04 | NORTH CAROLINA | FRANKLIN COUNTY* | 3720284200J | 16-JAN-2004
04 | NORTH CAROLINA | FRANKLIN COUNTY* | 3720284400J | 16-JAN-2004
04 | NORTH CAROLINA | FRANKLIN COUNTY* | 3720284600J | 16-JAN-2004
04 | NORTH CAROLINA | FRANKLIN COUNTY* | 3720284800J | 16-JAN-2004
04 | NORTH CAROLINA | FRANKLIN COUNTY* | 3720286200J | 16-JAN-2004
04 | NORTH CAROLINA | FRANKLIN COUNTY* | 3720286400J | 16-JAN-2004
04 | NORTH CAROLINA | FRANKLIN COUNTY* | 3720286600J | 16-JAN-2004
04 | NORTH CAROLINA | FRANKLIN COUNTY* | 3720286800J | 16-JAN-2004
04 | NORTH CAROLINA | FRANKLIN COUNTY* | 3720288600J | 16-JAN-2004
04 | NORTH CAROLINA | FRANKLIN COUNTY* | 3720288800J | 16-JAN-2004
04 | NORTH CAROLINA | FRANKLIN COUNTY* | 3720290000J | 16-JAN-2004
04 | NORTH CAROLINA | FRANKLIN COUNTY* | 3720292000J | 16-JAN-2004
04 | NORTH CAROLINA | FRANKLIN COUNTY* | 3720294000J | 16-JAN-2004
04 | NORTH CAROLINA | FRANKLIN COUNTY* | 3720296000J | 16-JAN-2004
04 | NORTH CAROLINA | FRANKLINTON, TOWN OF | 37069CIND0A | 16-JAN-2004
04 | NORTH CAROLINA | FRANKLINTON, TOWN OF | 3720184400J | 16-JAN-2004
04 | NORTH CAROLINA | FRANKLINTON, TOWN OF | 3720186400J | 16-JAN-2004
04 | NORTH CAROLINA | GREENE COUNTY * | 37079CIND0A | 02-JAN-2004
04 | NORTH CAROLINA | GREENE COUNTY * | 3720355900J | 02-JAN-2004
04 | NORTH CAROLINA | GREENE COUNTY * | 3720364200J | 02-JAN-2004
04 | NORTH CAROLINA | GREENE COUNTY * | 3720364300J | 02-JAN-2004
04 | NORTH CAROLINA | GREENE COUNTY * | 3720364400J | 02-JAN-2004
04 | NORTH CAROLINA | GREENE COUNTY * | 3720364500J | 02-JAN-2004
04 | NORTH CAROLINA | GREENE COUNTY * | 3720364600J | 02-JAN-2004
04 | NORTH CAROLINA | GREENE COUNTY * | 3720365000J | 02-JAN-2004
04 | NORTH CAROLINA | GREENE COUNTY * | 3720365100J | 02-JAN-2004
04 | NORTH CAROLINA | GREENE COUNTY * | 3720365200J | 02-JAN-2004
04 | NORTH CAROLINA | GREENE COUNTY * | 3720365300J | 02-JAN-2004
04 | NORTH CAROLINA | GREENE COUNTY * | 3720365400J | 02-JAN-2004
04 | NORTH CAROLINA | GREENE COUNTY * | 3720365500J | 02-JAN-2004
04 | NORTH CAROLINA | GREENE COUNTY * | 3720366000J | 02-JAN-2004
04 | NORTH CAROLINA | GREENE COUNTY * | 3720366300J | 02-JAN-2004
04 | NORTH CAROLINA | GREENE COUNTY * | 3720366400J | 02-JAN-2004
04 | NORTH CAROLINA | GREENE COUNTY * | 3720366500J | 02-JAN-2004
04 | NORTH CAROLINA | GREENE COUNTY * | 3720366600J | 02-JAN-2004
04 | NORTH CAROLINA | GREENE COUNTY * | 3720367200J | 02-JAN-2004
04 | NORTH CAROLINA | GREENE COUNTY * | 3720367300J | 02-JAN-2004
04 | NORTH CAROLINA | GREENE COUNTY * | 3720367400J | 02-JAN-2004
04 | NORTH CAROLINA | GREENE COUNTY * | 3720367500J | 02-JAN-2004
04 | NORTH CAROLINA | GREENE COUNTY * | 3720368000J | 02-JAN-2004
04 | NORTH CAROLINA | GREENE COUNTY * | 3720368200J | 02-JAN-2004
04 | NORTH CAROLINA | GREENE COUNTY * | 3720368400J | 02-JAN-2004
04 | NORTH CAROLINA | GREENE COUNTY * | 3720368600J | 02-JAN-2004
04 | NORTH CAROLINA | GREENE COUNTY * | 3720368900J | 02-JAN-2004
04 | NORTH CAROLINA | GREENE COUNTY * | 3720369800J | 02-JAN-2004
04 | NORTH CAROLINA | GREENE COUNTY * | 3720369900J | 02-JAN-2004
04 | NORTH CAROLINA | GREENE COUNTY * | 3720450800J | 02-JAN-2004
04 | NORTH CAROLINA | GREENE COUNTY * | 3720450900J | 02-JAN-2004
04 | NORTH CAROLINA | GREENE COUNTY * | 3720451900J | 02-JAN-2004
04 | NORTH CAROLINA | GREENE COUNTY * | 3720452900J | 02-JAN-2004
04 | NORTH CAROLINA | GREENE COUNTY * | 3720460000J | 02-JAN-2004
04 | NORTH CAROLINA | GREENE COUNTY * | 3720460200J | 02-JAN-2004
04 | NORTH CAROLINA | GREENE COUNTY * | 3720460400J | 02-JAN-2004
04 | NORTH CAROLINA | GREENE COUNTY * | 3720460600J | 02-JAN-2004
04 | NORTH CAROLINA | GREENE COUNTY * | 3720460700J | 02-JAN-2004
04 | NORTH CAROLINA | GREENE COUNTY * | 3720461600J | 02-JAN-2004
04 | NORTH CAROLINA | GREENE COUNTY * | 3720462000J | 02-JAN-2004
04 | NORTH CAROLINA | GREENE COUNTY * | 3720462200J | 02-JAN-2004
04 | NORTH CAROLINA | GREENE COUNTY * | 3720462400J | 02-JAN-2004
04 | NORTH CAROLINA | GREENE COUNTY * | 3720462500J | 02-JAN-2004
04 | NORTH CAROLINA | GREENE COUNTY * | 3720462600J | 02-JAN-2004
04 | NORTH CAROLINA | GREENE COUNTY * | 3720463400J | 02-JAN-2004
04 | NORTH CAROLINA | GREENE COUNTY * | 3720463500J | 02-JAN-2004
04 | NORTH CAROLINA | GREENE COUNTY * | 3720464000J | 02-JAN-2004
04 | NORTH CAROLINA | GREENE COUNTY * | 3720464100J | 02-JAN-2004
04 | NORTH CAROLINA | GREENE COUNTY * | 3720464200J | 02-JAN-2004
04 | NORTH CAROLINA | GREENE COUNTY * | 3720464300J | 02-JAN-2004
04 | NORTH CAROLINA | GREENE COUNTY * | 3720464400J | 02-JAN-2004
04 | NORTH CAROLINA | GREENE COUNTY * | 3720465000J | 02-JAN-2004
04 | NORTH CAROLINA | GREENE COUNTY * | 3720465100J | 02-JAN-2004
04 | NORTH CAROLINA | GREENE COUNTY * | 3720465200J | 02-JAN-2004
04 | NORTH CAROLINA | GREENVILLE, CITY OF | 37147CIND0A | 02-JAN-2004
04 | NORTH CAROLINA | GREENVILLE, CITY OF | 3720464800J | 02-JAN-2004
04 | NORTH CAROLINA | GREENVILLE, CITY OF | 3720466500J | 02-JAN-2004
04 | NORTH CAROLINA | GREENVILLE, CITY OF | 3720466700J | 02-JAN-2004
04 | NORTH CAROLINA | GREENVILLE, CITY OF | 3720466800J | 02-JAN-2004
04 | NORTH CAROLINA | GREENVILLE, CITY OF | 3720466900J | 02-JAN-2004
04 | NORTH CAROLINA | GREENVILLE, CITY OF | 3720467500J | 02-JAN-2004
04 | NORTH CAROLINA | GREENVILLE, CITY OF | 3720467600J | 02-JAN-2004
04 | NORTH CAROLINA | GREENVILLE, CITY OF | 3720467700J | 02-JAN-2004
04 | NORTH CAROLINA | GREENVILLE, CITY OF | 3720467800J | 02-JAN-2004
04 | NORTH CAROLINA | GREENVILLE, CITY OF | 3720467900J | 02-JAN-2004
04 | NORTH CAROLINA | GREENVILLE, CITY OF | 3720468500J | 02-JAN-2004
04 | NORTH CAROLINA | GREENVILLE, CITY OF | 3720468600J | 02-JAN-2004
04 | NORTH CAROLINA | GREENVILLE, CITY OF | 3720468700J | 02-JAN-2004
04 | NORTH CAROLINA | GREENVILLE, CITY OF | 3720468800J | 02-JAN-2004
04 | NORTH CAROLINA | GREENVILLE, CITY OF | 3720469500J | 02-JAN-2004
04 | NORTH CAROLINA | GREENVILLE, CITY OF | 3720469600J | 02-JAN-2004
04 | NORTH CAROLINA | GREENVILLE, CITY OF | 3720469700J | 02-JAN-2004
04 | NORTH CAROLINA | GREENVILLE, CITY OF | 3720476000J | 02-JAN-2004
04 | NORTH CAROLINA | GREENVILLE, CITY OF | 3720478000J | 02-JAN-2004
04 | NORTH CAROLINA | GREENVILLE, CITY OF | 3720560600J | 02-JAN-2004
04 | NORTH CAROLINA | GREENVILLE, CITY OF | 3720560700J | 02-JAN-2004
04 | NORTH CAROLINA | GREENVILLE, CITY OF | 3720560800J | 02-JAN-2004
04 | NORTH CAROLINA | GRIFTON, TOWN OF | 37147CIND0A | 02-JAN-2004
04 | NORTH CAROLINA | GRIFTON, TOWN OF | 3720456800J | 02-JAN-2004
04 | NORTH CAROLINA | GRIFTON, TOWN OF | 3720456900J | 02-JAN-2004
04 | NORTH CAROLINA | GRIFTON, TOWN OF | 3720457800J | 02-JAN-2004
04 | NORTH CAROLINA | GRIFTON, TOWN OF | 3720457900J | 02-JAN-2004
04 | NORTH CAROLINA | GRIFTON, TOWN OF | 3720465000J | 02-JAN-2004
04 | NORTH CAROLINA | GRIFTON, TOWN OF | 3720466000J | 02-JAN-2004
04 | NORTH CAROLINA | GRIMESLAND, TOWN OF | 37147CIND0A | 02-JAN-2004
04 | NORTH CAROLINA | GRIMESLAND, TOWN OF | 3720563600J | 02-JAN-2004
04 | NORTH CAROLINA | GRIMESLAND, TOWN OF | 3720564600K | 02-JAN-2004
04 | NORTH CAROLINA | HOOKERTON, TOWN OF | 37079CIND0A | 02-JAN-2004
04 | NORTH CAROLINA | HOOKERTON, TOWN OF | 3720460000J | 02-JAN-2004
04 | NORTH CAROLINA | HOOKERTON, TOWN OF | 3720462000J | 02-JAN-2004
04 | NORTH CAROLINA | HUNTERSVILLE, TOWN OF | 37119C0046E | 04-FEB-2004
04 | NORTH CAROLINA | HUNTERSVILLE, TOWN OF | 37119C0047E | 04-FEB-2004
04 | NORTH CAROLINA | HUNTERSVILLE, TOWN OF | 37119C0065E | 04-FEB-2004
04 | NORTH CAROLINA | HUNTERSVILLE, TOWN OF | 37119C0066E | 04-FEB-2004
04 | NORTH CAROLINA | HUNTERSVILLE, TOWN OF | 37119C0067E | 04-FEB-2004
04 | NORTH CAROLINA | HUNTERSVILLE, TOWN OF | 37119C0085E | 04-FEB-2004
04 | NORTH CAROLINA | HUNTERSVILLE, TOWN OF | 37119C0086E | 04-FEB-2004
04 | NORTH CAROLINA | HUNTERSVILLE, TOWN OF | 37119C0087E | 04-FEB-2004
04 | NORTH CAROLINA | HUNTERSVILLE, TOWN OF | 37119CIND0A | 04-FEB-2004
04 | NORTH CAROLINA | HYDE COUNTY* | 37095CIND0C | 16-JAN-2004
04 | NORTH CAROLINA | HYDE COUNTY* | 3720860800K | 16-JAN-2004
04 | NORTH CAROLINA | HYDE COUNTY* | 3720862800K | 16-JAN-2004
04 | NORTH CAROLINA | HYDE COUNTY* | 3720870000K | 16-JAN-2004
04 | NORTH CAROLINA | HYDE COUNTY* | 3720872000K | 16-JAN-2004
04 | NORTH CAROLINA | HYDE COUNTY* | 3720872200K | 16-JAN-2004
04 | NORTH CAROLINA | HYDE COUNTY* | 3720874000K | 16-JAN-2004
04 | NORTH CAROLINA | HYDE COUNTY* | 3720874200K | 16-JAN-2004
04 | NORTH CAROLINA | HYDE COUNTY* | 3720876000K | 16-JAN-2004
04 | NORTH CAROLINA | LOUISBURG, TOWN OF | 37069CIND0A | 16-JAN-2004
04 | NORTH CAROLINA | LOUISBURG, TOWN OF | 3720188400J | 16-JAN-2004
04 | NORTH CAROLINA | LOUISBURG, TOWN OF | 3720280400J | 16-JAN-2004
04 | NORTH CAROLINA | LOUISBURG, TOWN OF | 3720280500J | 16-JAN-2004
04 | NORTH CAROLINA | LOUISBURG, TOWN OF | 3720280600J | 16-JAN-2004
04 | NORTH CAROLINA | LOUISBURG, TOWN OF | 3720281400J | 16-JAN-2004
04 | NORTH CAROLINA | LOUISBURG, TOWN OF | 3720281500J | 16-JAN-2004
04 | NORTH CAROLINA | LOUISBURG, TOWN OF | 3720281600J | 16-JAN-2004
04 | NORTH CAROLINA | MATTHEWS, TOWN OF | 37119C0210E | 04-FEB-2004
04 | NORTH CAROLINA | MATTHEWS, TOWN OF | 37119C0229E | 04-FEB-2004
04 | NORTH CAROLINA | MATTHEWS, TOWN OF | 37119C0230E | 04-FEB-2004
04 | NORTH CAROLINA | MATTHEWS, TOWN OF | 37119C0231E | 04-FEB-2004
04 | NORTH CAROLINA | MATTHEWS, TOWN OF | 37119C0248E | 04-FEB-2004
04 | NORTH CAROLINA | MATTHEWS, TOWN OF | 37119C0249E | 04-FEB-2004
04 | NORTH CAROLINA | MATTHEWS, TOWN OF | 37119C0250E | 04-FEB-2004
04 | NORTH CAROLINA | MATTHEWS, TOWN OF | 37119C0251E | 04-FEB-2004
04 | NORTH CAROLINA | MATTHEWS, TOWN OF | 37119C0268E | 04-FEB-2004
04 | NORTH CAROLINA | MATTHEWS, TOWN OF | 37119C0269E | 04-FEB-2004
04 | NORTH CAROLINA | MATTHEWS, TOWN OF | 37119CIND0A | 04-FEB-2004
04 | NORTH CAROLINA | MECKLENBURG COUNTY * | 37119C0004E | 04-FEB-2004
04 | NORTH CAROLINA | MECKLENBURG COUNTY * | 37119C0005E | 04-FEB-2004
04 | NORTH CAROLINA | MECKLENBURG COUNTY * | 37119C0006E | 04-FEB-2004
04 | NORTH CAROLINA | MECKLENBURG COUNTY * | 37119C0007E | 04-FEB-2004
04 | NORTH CAROLINA | MECKLENBURG COUNTY * | 37119C0008E | 04-FEB-2004
04 | NORTH CAROLINA | MECKLENBURG COUNTY * | 37119C0024E | 04-FEB-2004
04 | NORTH CAROLINA | MECKLENBURG COUNTY * | 37119C0025E | 04-FEB-2004
04 | NORTH CAROLINA | MECKLENBURG COUNTY * | 37119C0026E | 04-FEB-2004
04 | NORTH CAROLINA | MECKLENBURG COUNTY * | 37119C0027E | 04-FEB-2004
04 | NORTH CAROLINA | MECKLENBURG COUNTY * | 37119C0028E | 04-FEB-2004
04 | NORTH CAROLINA | MECKLENBURG COUNTY * | 37119C0044E | 04-FEB-2004
04 | NORTH CAROLINA | MECKLENBURG COUNTY * | 37119C0045E | 04-FEB-2004
04 | NORTH CAROLINA | MECKLENBURG COUNTY * | 37119C0046E | 04-FEB-2004
04 | NORTH CAROLINA | MECKLENBURG COUNTY * | 37119C0047E | 04-FEB-2004
04 | NORTH CAROLINA | MECKLENBURG COUNTY * | 37119C0048E | 04-FEB-2004
04 | NORTH CAROLINA | MECKLENBURG COUNTY * | 37119C0064E | 04-FEB-2004
04 | NORTH CAROLINA | MECKLENBURG COUNTY * | 37119C0065E | 04-FEB-2004
04 | NORTH CAROLINA | MECKLENBURG COUNTY * | 37119C0066E | 04-FEB-2004
04 | NORTH CAROLINA | MECKLENBURG COUNTY * | 37119C0067E | 04-FEB-2004
04 | NORTH CAROLINA | MECKLENBURG COUNTY * | 37119C0068E | 04-FEB-2004
04 | NORTH CAROLINA | MECKLENBURG COUNTY * | 37119C0069E | 04-FEB-2004
04 | NORTH CAROLINA | MECKLENBURG COUNTY * | 37119C0083E | 04-FEB-2004
04 | NORTH CAROLINA | MECKLENBURG COUNTY * | 37119C0084E | 04-FEB-2004
04 | NORTH CAROLINA | MECKLENBURG COUNTY * | 37119C0085E | 04-FEB-2004
04 | NORTH CAROLINA | MECKLENBURG COUNTY * | 37119C0086E | 04-FEB-2004
04 | NORTH CAROLINA | MECKLENBURG COUNTY * | 37119C0087E | 04-FEB-2004
04 | NORTH CAROLINA | MECKLENBURG COUNTY * | 37119C0088E | 04-FEB-2004
04 | NORTH CAROLINA | MECKLENBURG COUNTY * | 37119C0089E | 04-FEB-2004
04 | NORTH CAROLINA | MECKLENBURG COUNTY * | 37119C0103E | 04-FEB-2004
04 | NORTH CAROLINA | MECKLENBURG COUNTY * | 37119C0104E | 04-FEB-2004
04 | NORTH CAROLINA | MECKLENBURG COUNTY * | 37119C0105E | 04-FEB-2004
04 | NORTH CAROLINA | MECKLENBURG COUNTY * | 37119C0106E | 04-FEB-2004
04 | NORTH CAROLINA | MECKLENBURG COUNTY * | 37119C0107E | 04-FEB-2004
04 | NORTH CAROLINA | MECKLENBURG COUNTY * | 37119C0108E | 04-FEB-2004
04 | NORTH CAROLINA | MECKLENBURG COUNTY * | 37119C0109E | 04-FEB-2004
04 | NORTH CAROLINA | MECKLENBURG COUNTY * | 37119C0110E | 04-FEB-2004
04 | NORTH CAROLINA | MECKLENBURG COUNTY * | 37119C0122E | 04-FEB-2004
04 | NORTH CAROLINA | MECKLENBURG COUNTY * | 37119C0123E | 04-FEB-2004
04 | NORTH CAROLINA | MECKLENBURG COUNTY * | 37119C0124E | 04-FEB-2004
04 | NORTH CAROLINA | MECKLENBURG COUNTY * | 37119C0125E | 04-FEB-2004
04 | NORTH CAROLINA | MECKLENBURG COUNTY * | 37119C0126E | 04-FEB-2004
04 | NORTH CAROLINA | MECKLENBURG COUNTY * | 37119C0127E | 04-FEB-2004
04 | NORTH CAROLINA | MECKLENBURG COUNTY * | 37119C0128E | 04-FEB-2004
04 | NORTH CAROLINA | MECKLENBURG COUNTY * | 37119C0129E | 04-FEB-2004
04 | NORTH CAROLINA | MECKLENBURG COUNTY * | 37119C0130E | 04-FEB-2004
04 | NORTH CAROLINA | MECKLENBURG COUNTY * | 37119C0131E | 04-FEB-2004
04 | NORTH CAROLINA | MECKLENBURG COUNTY * | 37119C0142E | 04-FEB-2004
04 | NORTH CAROLINA | MECKLENBURG COUNTY * | 37119C0143E | 04-FEB-2004
04 | NORTH CAROLINA | MECKLENBURG COUNTY * | 37119C0144E | 04-FEB-2004
04 | NORTH CAROLINA | MECKLENBURG COUNTY * | 37119C0145E | 04-FEB-2004
04 | NORTH CAROLINA | MECKLENBURG COUNTY * | 37119C0146E | 04-FEB-2004
04 | NORTH CAROLINA | MECKLENBURG COUNTY * | 37119C0147E | 04-FEB-2004
04 | NORTH CAROLINA | MECKLENBURG COUNTY * | 37119C0148E | 04-FEB-2004
04 | NORTH CAROLINA | MECKLENBURG COUNTY * | 37119C0149E | 04-FEB-2004
04 | NORTH CAROLINA | MECKLENBURG COUNTY * | 37119C0150E | 04-FEB-2004
04 | NORTH CAROLINA | MECKLENBURG COUNTY * | 37119C0151E | 04-FEB-2004
04 | NORTH CAROLINA | MECKLENBURG COUNTY * | 37119C0162E | 04-FEB-2004
04 | NORTH CAROLINA | MECKLENBURG COUNTY * | 37119C0163E | 04-FEB-2004
04 | NORTH CAROLINA | MECKLENBURG COUNTY * | 37119C0164E | 04-FEB-2004
04 | NORTH CAROLINA | MECKLENBURG COUNTY * | 37119C0165E | 04-FEB-2004
04 | NORTH CAROLINA | MECKLENBURG COUNTY * | 37119C0166E | 04-FEB-2004
04 | NORTH CAROLINA | MECKLENBURG COUNTY * | 37119C0167E | 04-FEB-2004
04 | NORTH CAROLINA | MECKLENBURG COUNTY * | 37119C0168E | 04-FEB-2004
04 | NORTH CAROLINA | MECKLENBURG COUNTY * | 37119C0169E | 04-FEB-2004
04 | NORTH CAROLINA | MECKLENBURG COUNTY * | 37119C0170E | 04-FEB-2004
04 | NORTH CAROLINA | MECKLENBURG COUNTY * | 37119C0171E | 04-FEB-2004
04 | NORTH CAROLINA | MECKLENBURG COUNTY * | 37119C0172E | 04-FEB-2004
04 | NORTH CAROLINA | MECKLENBURG COUNTY * | 37119C0182E | 04-FEB-2004
04 | NORTH CAROLINA | MECKLENBURG COUNTY * | 37119C0183E | 04-FEB-2004
04 | NORTH CAROLINA | MECKLENBURG COUNTY * | 37119C0184E | 04-FEB-2004
04 | NORTH CAROLINA | MECKLENBURG COUNTY * | 37119C0185E | 04-FEB-2004
04 | NORTH CAROLINA | MECKLENBURG COUNTY * | 37119C0186E | 04-FEB-2004
04 | NORTH CAROLINA | MECKLENBURG COUNTY * | 37119C0187E | 04-FEB-2004
04 | NORTH CAROLINA | MECKLENBURG COUNTY * | 37119C0188E | 04-FEB-2004
04 | NORTH CAROLINA | MECKLENBURG COUNTY * | 37119C0189E | 04-FEB-2004
04 | NORTH CAROLINA | MECKLENBURG COUNTY * | 37119C0190E | 04-FEB-2004
04 | NORTH CAROLINA | MECKLENBURG COUNTY * | 37119C0191E | 04-FEB-2004
04 | NORTH CAROLINA | MECKLENBURG COUNTY * | 37119C0192E | 04-FEB-2004
04 | NORTH CAROLINA | MECKLENBURG COUNTY * | 37119C0193E | 04-FEB-2004
04 | NORTH CAROLINA | MECKLENBURG COUNTY * | 37119C0202E | 04-FEB-2004
04 | NORTH CAROLINA | MECKLENBURG COUNTY * | 37119C0203E | 04-FEB-2004
04 | NORTH CAROLINA | MECKLENBURG COUNTY * | 37119C0204E | 04-FEB-2004
04 | NORTH CAROLINA | MECKLENBURG COUNTY * | 37119C0205E | 04-FEB-2004
04 | NORTH CAROLINA | MECKLENBURG COUNTY * | 37119C0206E | 04-FEB-2004
04 | NORTH CAROLINA | MECKLENBURG COUNTY * | 37119C0207E | 04-FEB-2004
04 | NORTH CAROLINA | MECKLENBURG COUNTY * | 37119C0208E | 04-FEB-2004
04 | NORTH CAROLINA | MECKLENBURG COUNTY * | 37119C0209E | 04-FEB-2004
04 | NORTH CAROLINA | MECKLENBURG COUNTY * | 37119C0210E | 04-FEB-2004
04 | NORTH CAROLINA | MECKLENBURG COUNTY * | 37119C0211E | 04-FEB-2004
04 | NORTH CAROLINA | MECKLENBURG COUNTY * | 37119C0212E | 04-FEB-2004
04 | NORTH CAROLINA | MECKLENBURG COUNTY * | 37119C0213E | 04-FEB-2004
04 | NORTH CAROLINA | MECKLENBURG COUNTY * | 37119C0221E | 04-FEB-2004
04 | NORTH CAROLINA | MECKLENBURG COUNTY * | 37119C0222E | 04-FEB-2004
04 | NORTH CAROLINA | MECKLENBURG COUNTY * | 37119C0223E | 04-FEB-2004
04 | NORTH CAROLINA | MECKLENBURG COUNTY * | 37119C0224E | 04-FEB-2004
04 | NORTH CAROLINA | MECKLENBURG COUNTY * | 37119C0225E | 04-FEB-2004
04 | NORTH CAROLINA | MECKLENBURG COUNTY * | 37119C0226E | 04-FEB-2004
04 | NORTH CAROLINA | MECKLENBURG COUNTY * | 37119C0227E | 04-FEB-2004
04 | NORTH CAROLINA | MECKLENBURG COUNTY * | 37119C0228E | 04-FEB-2004
04 | NORTH CAROLINA | MECKLENBURG COUNTY * | 37119C0229E | 04-FEB-2004
04 | NORTH CAROLINA | MECKLENBURG COUNTY * | 37119C0230E | 04-FEB-2004
04 | NORTH CAROLINA | MECKLENBURG COUNTY * | 37119C0231E | 04-FEB-2004
04 | NORTH CAROLINA | MECKLENBURG COUNTY * | 37119C0232E | 04-FEB-2004
04 | NORTH CAROLINA | MECKLENBURG COUNTY * | 37119C0241E | 04-FEB-2004
04 | NORTH CAROLINA | MECKLENBURG COUNTY * | 37119C0242E | 04-FEB-2004
04 | NORTH CAROLINA | MECKLENBURG COUNTY * | 37119C0243E | 04-FEB-2004
04 | NORTH CAROLINA | MECKLENBURG COUNTY * | 37119C0244E | 04-FEB-2004
04 | NORTH CAROLINA | MECKLENBURG COUNTY * | 37119C0245E | 04-FEB-2004
04 | NORTH CAROLINA | MECKLENBURG COUNTY * | 37119C0246E | 04-FEB-2004
04 | NORTH CAROLINA | MECKLENBURG COUNTY * | 37119C0247E | 04-FEB-2004
04 | NORTH CAROLINA | MECKLENBURG COUNTY * | 37119C0248E | 04-FEB-2004
04 | NORTH CAROLINA | MECKLENBURG COUNTY * | 37119C0249E | 04-FEB-2004
04 | NORTH CAROLINA | MECKLENBURG COUNTY * | 37119C0250E | 04-FEB-2004
04 | NORTH CAROLINA | MECKLENBURG COUNTY * | 37119C0261E | 04-FEB-2004
04 | NORTH CAROLINA | MECKLENBURG COUNTY * | 37119C0262E | 04-FEB-2004
04 | NORTH CAROLINA | MECKLENBURG COUNTY * | 37119C0263E | 04-FEB-2004
04 | NORTH CAROLINA | MECKLENBURG COUNTY * | 37119C0264E | 04-FEB-2004
04 | NORTH CAROLINA | MECKLENBURG COUNTY * | 37119C0265E | 04-FEB-2004
04 | NORTH CAROLINA | MECKLENBURG COUNTY * | 37119C0266E | 04-FEB-2004
04 | NORTH CAROLINA | MECKLENBURG COUNTY * | 37119C0267E | 04-FEB-2004
04 | NORTH CAROLINA | MECKLENBURG COUNTY * | 37119C0268E | 04-FEB-2004
04 | NORTH CAROLINA | MECKLENBURG COUNTY * | 37119C0269E | 04-FEB-2004
04 | NORTH CAROLINA | MECKLENBURG COUNTY * | 37119C0270E | 04-FEB-2004
04 | NORTH CAROLINA | MECKLENBURG COUNTY * | 37119C0281E | 04-FEB-2004
04 | NORTH CAROLINA | MECKLENBURG COUNTY * | 37119C0282E | 04-FEB-2004
04 | NORTH CAROLINA | MECKLENBURG COUNTY * | 37119C0285E | 04-FEB-2004
04 | NORTH CAROLINA | MECKLENBURG COUNTY * | 37119C0286E | 04-FEB-2004
04 | NORTH CAROLINA | MECKLENBURG COUNTY * | 37119C0287E | 04-FEB-2004
04 | NORTH CAROLINA | MECKLENBURG COUNTY * | 37119C0288E | 04-FEB-2004
04 | NORTH CAROLINA | MECKLENBURG COUNTY * | 37119C0289E | 04-FEB-2004
04 | NORTH CAROLINA | MECKLENBURG COUNTY * | 37119C0306E | 04-FEB-2004
04 | NORTH CAROLINA | MECKLENBURG COUNTY * | 37119C0307E | 04-FEB-2004
04 | NORTH CAROLINA | MECKLENBURG COUNTY * | 37119C0308E | 04-FEB-2004
04 | NORTH CAROLINA | MECKLENBURG COUNTY * | 37119C0326E | 04-FEB-2004
04 | NORTH CAROLINA | MECKLENBURG COUNTY * | 37119CIND0A | 04-FEB-2004
04 | NORTH CAROLINA | MINT HILL, TOWN OF | 37119C0190E | 04-FEB-2004
04 | NORTH CAROLINA | MINT HILL, TOWN OF | 37119C0191E | 04-FEB-2004
04 | NORTH CAROLINA | MINT HILL, TOWN OF | 37119C0192E | 04-FEB-2004
04 | NORTH CAROLINA | MINT HILL, TOWN OF | 37119C0210E | 04-FEB-2004
04 | NORTH CAROLINA | MINT HILL, TOWN OF | 37119C0211E | 04-FEB-2004
04 | NORTH CAROLINA | MINT HILL, TOWN OF | 37119C0212E | 04-FEB-2004
04 | NORTH CAROLINA | MINT HILL, TOWN OF | 37119C0230E | 04-FEB-2004
04 | NORTH CAROLINA | MINT HILL, TOWN OF | 37119C0231E | 04-FEB-2004
04 | NORTH CAROLINA | MINT HILL, TOWN OF | 37119C0232E | 04-FEB-2004
04 | NORTH CAROLINA | MINT HILL, TOWN OF | 37119CIND0A | 04-FEB-2004
04 | NORTH CAROLINA | PINEVILLE, TOWN OF | 37119C0245E | 04-FEB-2004
04 | NORTH CAROLINA | PINEVILLE, TOWN OF | 37119C0265E | 04-FEB-2004
04 | NORTH CAROLINA | PINEVILLE, TOWN OF | 37119C0266E | 04-FEB-2004
04 | NORTH CAROLINA | PINEVILLE, TOWN OF | 37119CIND0A | 04-FEB-2004
04 | NORTH CAROLINA | PITT COUNTY * | 37147CIND0A | 02-JAN-2004
04 | NORTH CAROLINA | PITT COUNTY * | 3720368900J | 02-JAN-2004
04 | NORTH CAROLINA | PITT COUNTY * | 3720369800J | 02-JAN-2004
04 | NORTH CAROLINA | PITT COUNTY * | 3720369900J | 02-JAN-2004
04 | NORTH CAROLINA | PITT COUNTY * | 3720378000J | 02-JAN-2004
04 | NORTH CAROLINA | PITT COUNTY * | 3720456800J | 02-JAN-2004
04 | NORTH CAROLINA | PITT COUNTY * | 3720456900J | 02-JAN-2004
04 | NORTH CAROLINA | PITT COUNTY * | 3720457800J | 02-JAN-2004
04 | NORTH CAROLINA | PITT COUNTY * | 3720457900J | 02-JAN-2004
04 | NORTH CAROLINA | PITT COUNTY * | 3720458700J | 02-JAN-2004
04 | NORTH CAROLINA | PITT COUNTY * | 3720458800J | 02-JAN-2004
04 | NORTH CAROLINA | PITT COUNTY * | 3720459700J | 02-JAN-2004
04 | NORTH CAROLINA | PITT COUNTY * | 3720460600J | 02-JAN-2004
04 | NORTH CAROLINA | PITT COUNTY * | 3720460700J | 02-JAN-2004
04 | NORTH CAROLINA | PITT COUNTY * | 3720460800J | 02-JAN-2004
04 | NORTH CAROLINA | PITT COUNTY * | 3720460900J | 02-JAN-2004
04 | NORTH CAROLINA | PITT COUNTY * | 3720461600J | 02-JAN-2004
04 | NORTH CAROLINA | PITT COUNTY * | 3720461700J | 02-JAN-2004
04 | NORTH CAROLINA | PITT COUNTY * | 3720461800J | 02-JAN-2004
04 | NORTH CAROLINA | PITT COUNTY * | 3720461900J | 02-JAN-2004
04 | NORTH CAROLINA | PITT COUNTY * | 3720462500J | 02-JAN-2004
04 | NORTH CAROLINA | PITT COUNTY * | 3720462600J | 02-JAN-2004
04 | NORTH CAROLINA | PITT COUNTY * | 3720462700J | 02-JAN-2004
04 | NORTH CAROLINA | PITT COUNTY * | 3720462800J | 02-JAN-2004
04 | NORTH CAROLINA | PITT COUNTY * | 3720463400J | 02-JAN-2004
04 | NORTH CAROLINA | PITT COUNTY * | 3720463500J | 02-JAN-2004
04 | NORTH CAROLINA | PITT COUNTY * | 3720463600J | 02-JAN-2004
04 | NORTH CAROLINA | PITT COUNTY * | 3720463700J | 02-JAN-2004
04 | NORTH CAROLINA | PITT COUNTY * | 3720464200J | 02-JAN-2004
04 | NORTH CAROLINA | PITT COUNTY * | 3720464300J | 02-JAN-2004
04 | NORTH CAROLINA | PITT COUNTY * | 3720464400J | 02-JAN-2004
04 | NORTH CAROLINA | PITT COUNTY * | 3720464600J | 02-JAN-2004
04 | NORTH CAROLINA | PITT COUNTY * | 3720464700J | 02-JAN-2004
04 | NORTH CAROLINA | PITT COUNTY * | 3720464800J | 02-JAN-2004
04 | NORTH CAROLINA | PITT COUNTY * | 3720465000J | 02-JAN-2004
04 | NORTH CAROLINA | PITT COUNTY * | 3720465100J | 02-JAN-2004
04 | NORTH CAROLINA | PITT COUNTY * | 3720465200J | 02-JAN-2004
04 | NORTH CAROLINA | PITT COUNTY * | 3720465300J | 02-JAN-2004
04 | NORTH CAROLINA | PITT COUNTY * | 3720465600J | 02-JAN-2004
04 | NORTH CAROLINA | PITT COUNTY * | 3720465700J | 02-JAN-2004
04 | NORTH CAROLINA | PITT COUNTY * | 3720466000J | 02-JAN-2004
04 | NORTH CAROLINA | PITT COUNTY * | 3720466100J | 02-JAN-2004
04 | NORTH CAROLINA | PITT COUNTY * | 3720466300J | 02-JAN-2004
04 | NORTH CAROLINA | PITT COUNTY * | 3720466400J | 02-JAN-2004
04 | NORTH CAROLINA | PITT COUNTY * | 3720466500J | 02-JAN-2004
04 | NORTH CAROLINA | PITT COUNTY * | 3720466700J | 02-JAN-2004
04 | NORTH CAROLINA | PITT COUNTY * | 3720466800J | 02-JAN-2004
04 | NORTH CAROLINA | PITT COUNTY * | 3720466900J | 02-JAN-2004
04 | NORTH CAROLINA | PITT COUNTY * | 3720467100J | 02-JAN-2004
04 | NORTH CAROLINA | PITT COUNTY * | 3720467200J | 02-JAN-2004
04 | NORTH CAROLINA | PITT COUNTY * | 3720467300J | 02-JAN-2004
04 | NORTH CAROLINA | PITT COUNTY * | 3720467400J | 02-JAN-2004
04 | NORTH CAROLINA | PITT COUNTY * | 3720467500J | 02-JAN-2004
04 | NORTH CAROLINA | PITT COUNTY * | 3720467600J | 02-JAN-2004
04 | NORTH CAROLINA | PITT COUNTY * | 3720467700J | 02-JAN-2004
04 | NORTH CAROLINA | PITT COUNTY * | 3720467800J | 02-JAN-2004
04 | NORTH CAROLINA | PITT COUNTY * | 3720467900J | 02-JAN-2004
04 | NORTH CAROLINA | PITT COUNTY * | 3720468000J | 02-JAN-2004
04 | NORTH CAROLINA | PITT COUNTY * | 3720468100J | 02-JAN-2004
04 | NORTH CAROLINA | PITT COUNTY * | 3720468200J | 02-JAN-2004
04 | NORTH CAROLINA | PITT COUNTY * | 3720468300J | 02-JAN-2004
04 | NORTH CAROLINA | PITT COUNTY * | 3720468400J | 02-JAN-2004
04 | NORTH CAROLINA | PITT COUNTY * | 3720468500J | 02-JAN-2004
04 | NORTH CAROLINA | PITT COUNTY * | 3720468600J | 02-JAN-2004
04 | NORTH CAROLINA | PITT COUNTY * | 3720468700J | 02-JAN-2004
04 | NORTH CAROLINA | PITT COUNTY * | 3720468800J | 02-JAN-2004
04 | NORTH CAROLINA | PITT COUNTY * | 3720469000J | 02-JAN-2004
04 | NORTH CAROLINA | PITT COUNTY * | 3720469100J | 02-JAN-2004
04 | NORTH CAROLINA | PITT COUNTY * | 3720469200J | 02-JAN-2004
04 | NORTH CAROLINA | PITT COUNTY * | 3720469300J | 02-JAN-2004
04 | NORTH CAROLINA | PITT COUNTY * | 3720469400J | 02-JAN-2004
04 | NORTH CAROLINA | PITT COUNTY * | 3720469500J | 02-JAN-2004
04 | NORTH CAROLINA | PITT COUNTY * | 3720469600J | 02-JAN-2004
04 | NORTH CAROLINA | PITT COUNTY * | 3720469700J | 02-JAN-2004
04 | NORTH CAROLINA | PITT COUNTY * | 3720470000J | 02-JAN-2004
04 | NORTH CAROLINA | PITT COUNTY * | 3720471200J | 02-JAN-2004
04 | NORTH CAROLINA | PITT COUNTY * | 3720472000J | 02-JAN-2004
04 | NORTH CAROLINA | PITT COUNTY * | 3720472200J | 02-JAN-2004
04 | NORTH CAROLINA | PITT COUNTY * | 3720474000J | 02-JAN-2004
04 | NORTH CAROLINA | PITT COUNTY * | 3720474200J | 02-JAN-2004
04 | NORTH CAROLINA | PITT COUNTY * | 3720475400J | 02-JAN-2004
04 | NORTH CAROLINA | PITT COUNTY * | 3720475500J | 02-JAN-2004
04 | NORTH CAROLINA | PITT COUNTY * | 3720476000J | 02-JAN-2004
04 | NORTH CAROLINA | PITT COUNTY * | 3720476200J | 02-JAN-2004
04 | NORTH CAROLINA | PITT COUNTY * | 3720476400J | 02-JAN-2004
04 | NORTH CAROLINA | PITT COUNTY * | 3720476600J | 02-JAN-2004
04 | NORTH CAROLINA | PITT COUNTY * | 3720478000J | 02-JAN-2004
04 | NORTH CAROLINA | PITT COUNTY * | 3720478200J | 02-JAN-2004
04 | NORTH CAROLINA | PITT COUNTY * | 3720478400J | 02-JAN-2004
04 | NORTH CAROLINA | PITT COUNTY * | 3720550900J | 02-JAN-2004
04 | NORTH CAROLINA | PITT COUNTY * | 3720551800J | 02-JAN-2004
04 | NORTH CAROLINA | PITT COUNTY * | 3720551900J | 02-JAN-2004
04 | NORTH CAROLINA | PITT COUNTY * | 3720552800J | 02-JAN-2004
04 | NORTH CAROLINA | PITT COUNTY * | 3720560000J | 02-JAN-2004
04 | NORTH CAROLINA | PITT COUNTY * | 3720560200J | 02-JAN-2004
04 | NORTH CAROLINA | PITT COUNTY * | 3720560300J | 02-JAN-2004
04 | NORTH CAROLINA | PITT COUNTY * | 3720560400J | 02-JAN-2004
04 | NORTH CAROLINA | PITT COUNTY * | 3720560600J | 02-JAN-2004
04 | NORTH CAROLINA | PITT COUNTY * | 3720560700J | 02-JAN-2004
04 | NORTH CAROLINA | PITT COUNTY * | 3720560800J | 02-JAN-2004
04 | NORTH CAROLINA | PITT COUNTY * | 3720561200J | 02-JAN-2004
04 | NORTH CAROLINA | PITT COUNTY * | 3720561300J | 02-JAN-2004
04 | NORTH CAROLINA | PITT COUNTY * | 3720561600J | 02-JAN-2004
04 | NORTH CAROLINA | PITT COUNTY * | 3720561700J | 02-JAN-2004
04 | NORTH CAROLINA | PITT COUNTY * | 3720562000K | 02-JAN-2004
04 | NORTH CAROLINA | PITT COUNTY * | 3720562200J | 02-JAN-2004
04 | NORTH CAROLINA | PITT COUNTY * | 3720562400J | 02-JAN-2004
04 | NORTH CAROLINA | PITT COUNTY * | 3720562600J | 02-JAN-2004
04 | NORTH CAROLINA | PITT COUNTY * | 3720562700J | 02-JAN-2004
04 | NORTH CAROLINA | PITT COUNTY * | 3720562800J | 02-JAN-2004
04 | NORTH CAROLINA | PITT COUNTY * | 3720563600J | 02-JAN-2004
04 | NORTH CAROLINA | PITT COUNTY * | 3720563700J | 02-JAN-2004
04 | NORTH CAROLINA | PITT COUNTY * | 3720564000K | 02-JAN-2004
04 | NORTH CAROLINA | PITT COUNTY * | 3720564200K | 02-JAN-2004
04 | NORTH CAROLINA | PITT COUNTY * | 3720564400K | 02-JAN-2004
04 | NORTH CAROLINA | PITT COUNTY * | 3720564500K | 02-JAN-2004
04 | NORTH CAROLINA | PITT COUNTY * | 3720564600K | 02-JAN-2004
04 | NORTH CAROLINA | PITT COUNTY * | 3720564800K | 02-JAN-2004
04 | NORTH CAROLINA | PITT COUNTY * | 3720564900K | 02-JAN-2004
04 | NORTH CAROLINA | PITT COUNTY * | 3720565800K | 02-JAN-2004
04 | NORTH CAROLINA | PITT COUNTY * | 3720566600K | 02-JAN-2004
04 | NORTH CAROLINA | PITT COUNTY * | 3720566700K | 02-JAN-2004
04 | NORTH CAROLINA | PITT COUNTY * | 3720570000J | 02-JAN-2004
04 | NORTH CAROLINA | PITT COUNTY * | 3720570200J | 02-JAN-2004
04 | NORTH CAROLINA | PITT COUNTY * | 3720570400J | 02-JAN-2004
04 | NORTH CAROLINA | PITT COUNTY * | 3720572000K | 02-JAN-2004
04 | NORTH CAROLINA | PITT COUNTY * | 3720572200K | 02-JAN-2004
04 | NORTH CAROLINA | PITT COUNTY * | 3720574000K | 02-JAN-2004
04 | NORTH CAROLINA | PITT COUNTY * | 3720574200K | 02-JAN-2004
04 | NORTH CAROLINA | SIMPSON, VILLAGE OF | 37147CIND0A | 02-JAN-2004
04 | NORTH CAROLINA | SIMPSON, VILLAGE OF | 3720560600J | 02-JAN-2004
04 | NORTH CAROLINA | SIMPSON, VILLAGE OF | 3720561600J | 02-JAN-2004
04 | NORTH CAROLINA | SIMPSON, VILLAGE OF | 3720561700J | 02-JAN-2004
04 | NORTH CAROLINA | SNOW HILL, TOWN OF | 37079CIND0A | 02-JAN-2004
04 | NORTH CAROLINA | SNOW HILL, TOWN OF | 3720368000J | 02-JAN-2004
04 | NORTH CAROLINA | SNOW HILL, TOWN OF | 3720368200J | 02-JAN-2004
04 | NORTH CAROLINA | SNOW HILL, TOWN OF | 3720460000J | 02-JAN-2004
04 | NORTH CAROLINA | SNOW HILL, TOWN OF | 3720460200J | 02-JAN-2004
04 | NORTH CAROLINA | TYRRELL COUNTY * | 37177CIND0A | 16-JAN-2004
04 | NORTH CAROLINA | TYRRELL COUNTY * | 3720776400J | 16-JAN-2004
04 | NORTH CAROLINA | TYRRELL COUNTY * | 3720776800J | 16-JAN-2004
04 | NORTH CAROLINA | TYRRELL COUNTY * | 3720777600J | 16-JAN-2004
04 | NORTH CAROLINA | TYRRELL COUNTY * | 3720777700J | 16-JAN-2004
04 | NORTH CAROLINA | TYRRELL COUNTY * | 3720778200J | 16-JAN-2004
04 | NORTH CAROLINA | TYRRELL COUNTY * | 3720778400J | 16-JAN-2004
04 | NORTH CAROLINA | TYRRELL COUNTY * | 3720778600J | 16-JAN-2004
04 | NORTH CAROLINA | TYRRELL COUNTY * | 3720778800J | 16-JAN-2004
04 | NORTH CAROLINA | TYRRELL COUNTY * | 3720786000J | 16-JAN-2004
04 | NORTH CAROLINA | TYRRELL COUNTY * | 3720788000J | 16-JAN-2004
04 | NORTH CAROLINA | TYRRELL COUNTY * | 3720860800K | 16-JAN-2004
04 | NORTH CAROLINA | TYRRELL COUNTY * | 3720862800K | 16-JAN-2004
04 | NORTH CAROLINA | TYRRELL COUNTY * | 3720870000K | 16-JAN-2004
04 | NORTH CAROLINA | TYRRELL COUNTY * | 3720870200J | 16-JAN-2004
04 | NORTH CAROLINA | TYRRELL COUNTY * | 3720870400J | 16-JAN-2004
04 | NORTH CAROLINA | TYRRELL COUNTY * | 3720870600J | 16-JAN-2004
04 | NORTH CAROLINA | TYRRELL COUNTY * | 3720870800J | 16-JAN-2004
04 | NORTH CAROLINA | TYRRELL COUNTY * | 3720872000K | 16-JAN-2004
04 | NORTH CAROLINA | TYRRELL COUNTY * | 3720872200K | 16-JAN-2004
04 | NORTH CAROLINA | TYRRELL COUNTY * | 3720872400J | 16-JAN-2004
04 | NORTH CAROLINA | TYRRELL COUNTY * | 3720872600J | 16-JAN-2004
04 | NORTH CAROLINA | TYRRELL COUNTY * | 3720872800J | 16-JAN-2004
04 | NORTH CAROLINA | TYRRELL COUNTY * | 3720874000K | 16-JAN-2004
04 | NORTH CAROLINA | TYRRELL COUNTY * | 3720874200K | 16-JAN-2004
04 | NORTH CAROLINA | TYRRELL COUNTY * | 3720874400J | 16-JAN-2004
04 | NORTH CAROLINA | TYRRELL COUNTY * | 3720874600J | 16-JAN-2004
04 | NORTH CAROLINA | TYRRELL COUNTY * | 3720874800J | 16-JAN-2004
04 | NORTH CAROLINA | TYRRELL COUNTY * | 3720876000K | 16-JAN-2004
04 | NORTH CAROLINA | TYRRELL COUNTY * | 3720876200J | 16-JAN-2004
04 | NORTH CAROLINA | TYRRELL COUNTY * | 3720876400J | 16-JAN-2004
04 | NORTH CAROLINA | TYRRELL COUNTY * | 3720876600J | 16-JAN-2004
04 | NORTH CAROLINA | TYRRELL COUNTY * | 3720876800J | 16-JAN-2004
04 | NORTH CAROLINA | TYRRELL COUNTY * | 3720878800J | 16-JAN-2004
04 | NORTH CAROLINA | TYRRELL COUNTY * | 3720880000J | 16-JAN-2004
04 | NORTH CAROLINA | TYRRELL COUNTY * | 3720880200J | 16-JAN-2004
04 | NORTH CAROLINA | TYRRELL COUNTY * | 3720882000J | 16-JAN-2004
04 | NORTH CAROLINA | TYRRELL COUNTY * | 3720882200J | 16-JAN-2004
04 | NORTH CAROLINA | TYRRELL COUNTY * | 3720884000J | 16-JAN-2004
04 | NORTH CAROLINA | TYRRELL COUNTY * | 3720884200J | 16-JAN-2004
04 | NORTH CAROLINA | TYRRELL COUNTY * | 3720886000J | 16-JAN-2004
04 | NORTH CAROLINA | TYRRELL COUNTY * | 3720886200J | 16-JAN-2004
04 | NORTH CAROLINA | TYRRELL COUNTY * | 3720888000J | 16-JAN-2004
04 | NORTH CAROLINA | TYRRELL COUNTY * | 3720888200J | 16-JAN-2004
04 | NORTH CAROLINA | WASHINGTON, CITY OF | 37013CIND0B | 02-JAN-2004
04 | NORTH CAROLINA | WASHINGTON, CITY OF | 3720564600K | 02-JAN-2004
04 | NORTH CAROLINA | WASHINGTON, CITY OF | 3720566600K | 02-JAN-2004
04 | NORTH CAROLINA | WASHINGTON, CITY OF | 3720566700K | 02-JAN-2004
04 | NORTH CAROLINA | WINTERVILLE, TOWN OF | 37147CIND0A | 02-JAN-2004
04 | NORTH CAROLINA | WINTERVILLE, TOWN OF | 3720466400J | 02-JAN-2004
04 | NORTH CAROLINA | WINTERVILLE, TOWN OF | 3720466500J | 02-JAN-2004
04 | NORTH CAROLINA | WINTERVILLE, TOWN OF | 3720467300J | 02-JAN-2004
04 | NORTH CAROLINA | WINTERVILLE, TOWN OF | 3720467400J | 02-JAN-2004
04 | NORTH CAROLINA | WINTERVILLE, TOWN OF | 3720467500J | 02-JAN-2004
04 | NORTH CAROLINA | WINTERVILLE, TOWN OF | 3720467600J | 02-JAN-2004
04 | NORTH CAROLINA | WINTERVILLE, TOWN OF | 3720468400J | 02-JAN-2004
04 | NORTH CAROLINA | WINTERVILLE, TOWN OF | 3720468500J | 02-JAN-2004
04 | NORTH CAROLINA | YOUNGSVILLE, TOWN OF | 37069CIND0A | 16-JAN-2004
04 | NORTH CAROLINA | YOUNGSVILLE, TOWN OF | 3720184200J | 16-JAN-2004
04 | NORTH CAROLINA | YOUNGSVILLE, TOWN OF | 3720184300J | 16-JAN-2004
04 | NORTH CAROLINA | YOUNGSVILLE, TOWN OF | 3720184400J | 16-JAN-2004
04 | NORTH CAROLINA | YOUNGSVILLE, TOWN OF | 3720185200J | 16-JAN-2004
04 | NORTH CAROLINA | YOUNGSVILLE, TOWN OF | 3720185300J | 16-JAN-2004
04 | NORTH CAROLINA | YOUNGSVILLE, TOWN OF | 3720186200J | 16-JAN-2004
04 | TENNESSEE | BRISTOL, CITY OF | 4701820002C | 04-FEB-2004
04 | TENNESSEE | BRISTOL, CITY OF | 4701820003C | 04-FEB-2004
04 | TENNESSEE | BRISTOL, CITY OF | 4701820004C | 04-FEB-2004
04 | TENNESSEE | BRISTOL, CITY OF | 4701820005C | 04-FEB-2004
04 | TENNESSEE | BRISTOL, CITY OF | 4701820008C | 04-FEB-2004
04 | TENNESSEE | BRISTOL, CITY OF | 4701820009C | 04-FEB-2004
04 | TENNESSEE | BRISTOL, CITY OF | 4701820012C | 04-FEB-2004
04 | TENNESSEE | BRISTOL, CITY OF | 4701820013C | 04-FEB-2004
04 | TENNESSEE | BRISTOL, CITY OF | 4701820014C | 04-FEB-2004
04 | TENNESSEE | BRISTOL, CITY OF | 4701820016C | 04-FEB-2004
04 | TENNESSEE | BRISTOL, CITY OF | 4701820017C | 04-FEB-2004
04 | TENNESSEE | BRISTOL, CITY OF | 470182IND0A | 04-FEB-2004
04 | TENNESSEE | TELLICO PLAINS, CITY OF | 470280IND0A | 01-JAN-2004
04 | TENNESSEE | TELLICO PLAINS, CITY OF | 4702809999A | 01-JAN-2004
04 | TENNESSEE | TELLICO PLAINS, CITY OF | 470280 01B | 01-JAN-2004
04 | TENNESSEE | TELLICO PLAINS, CITY OF | 470280 02B | 01-JAN-2004
05 | IL | ALBERS, VILLAGE OF | 17027C0150C | 02-JUN-2004
05 | IL | ALBERS, VILLAGE OF | 17027C0165C | 02-JUN-2004
05 | IL | ALBERS, VILLAGE OF | 17027CIND0A** | 02-JUN-2004
05 | IL | ALSIP, VILLAGE OF | 17031CIND1B** | 04-FEB-2004
05 | IL | ALSIP, VILLAGE OF | 17031CIND3B** | 04-FEB-2004
05 | IL | ARLINGTON HEIGHTS, VILLAGE OF | 17031CIND1B** | 04-FEB-2004
05 | IL | ARLINGTON HEIGHTS, VILLAGE OF | 17031CIND3B** | 04-FEB-2004
05 | IL | AUBURN, CITY OF | 17167C0520E | 03-MAY-2004
05 | IL | AUBURN, CITY OF | 17167C0525E | 03-MAY-2004
05 | IL | AUBURN, CITY OF | 17167C0550E | 03-MAY-2004
05 | IL | AUBURN, CITY OF | 17167CIND0A** | 03-MAY-2004
05 | IL | AVISTON, VILLAGE OF | 17027C0155C | 02-JUN-2004
05 | IL | AVISTON, VILLAGE OF | 17027CIND0A** | 02-JUN-2004
05 | IL | BARRINGTON, VILLAGE OF | 17031CIND1B** | 04-FEB-2004
05 | IL | BARRINGTON, VILLAGE OF | 17031CIND3B** | 04-FEB-2004
05 | IL | BARTELSO, VILLAGE OF | 17027C0200C | 02-JUN-2004
05 | IL | BARTELSO, VILLAGE OF | 17027CIND0A** | 02-JUN-2004
05 | IL | BECKMEYER, VILLAGE OF | 17027C0200C | 02-JUN-2004
05 | IL | BECKMEYER, VILLAGE OF | 17027CIND0A** | 02-JUN-2004
05 | IL | BEDFORD PARK, VILLAGE OF | 17031CIND1B** | 04-FEB-2004
05 | IL | BEDFORD PARK, VILLAGE OF | 17031CIND3B** | 04-FEB-2004
05 | IL | BELLWOOD, VILLAGE OF | 17031CIND1B** | 04-FEB-2004
05 | IL | BELLWOOD, VILLAGE OF | 17031CIND3B** | 04-FEB-2004
05 | IL | BERKELEY, VILLAGE OF | 17031CIND1B** | 04-FEB-2004
05 | IL | BERKELEY, VILLAGE OF | 17031CIND3B** | 04-FEB-2004
05 | IL | BERLIN, VILLAGE OF | 17167C0200E | 03-MAY-2004
05 | IL | BERLIN, VILLAGE OF | 17167C0375E | 03-MAY-2004
05 | IL | BERLIN, VILLAGE OF | 17167CIND0A** | 03-MAY-2004
05 | IL | BERWYN, VILLAGE OF | 17031CIND1B** | 04-FEB-2004
05 | IL | BERWYN, VILLAGE OF | 17031CIND3B** | 04-FEB-2004
05 | IL | BLUE ISLAND, CITY OF | 17031CIND1B** | 04-FEB-2004
05 | IL | BLUE ISLAND, CITY OF | 17031CIND3B** | 04-FEB-2004
05 | IL | BREESE, CITY OF | 17027C0050C | 02-JUN-2004
05 | IL | BREESE, CITY OF | 17027C0160C | 02-JUN-2004
05 | IL | BREESE, CITY OF | 17027C0200C | 02-JUN-2004
05 | IL | BREESE, CITY OF | 17027CIND0A** | 02-JUN-2004
05 | IL | BRIDGEVIEW, VILLAGE OF | 17031CIND1B** | 04-FEB-2004
05 | IL | BRIDGEVIEW, VILLAGE OF | 17031CIND3B** | 04-FEB-2004
05 | IL | BROADVIEW, VILLAGE OF | 17031CIND1B** | 04-FEB-2004
05 | IL | BROADVIEW, VILLAGE OF | 17031CIND3B** | 04-FEB-2004
05 | IL | BROOKFIELD, VILLAGE OF | 17031CIND1B** | 04-FEB-2004
05 | IL | BROOKFIELD, VILLAGE OF | 17031CIND3B** | 04-FEB-2004
05 | IL | BUFFALO GROVE, VILLAGE OF | 17031CIND1B** | 04-FEB-2004
05 | IL | BUFFALO GROVE, VILLAGE OF | 17031CIND3B** | 04-FEB-2004
05 | IL | BUFFALO, VILLAGE OF | 17167C0300E | 03-MAY-2004
05 | IL | BUFFALO, VILLAGE OF | 17167CIND0A** | 03-MAY-2004
05 | IL | BURBANK, CITY OF | 17031CIND1B** | 04-FEB-2004
05 | IL | BURBANK, CITY OF | 17031CIND3B** | 04-FEB-2004
05 | IL | BURNHAM, VILLAGE OF | 17031CIND1B** | 04-FEB-2004
05 | IL | BURNHAM, VILLAGE OF | 17031CIND3B** | 04-FEB-2004
05 | IL | BURR RIDGE, VILLAGE OF | 17031CIND1B** | 04-FEB-2004
05 | IL | BURR RIDGE, VILLAGE OF | 17031CIND3B** | 04-FEB-2004
05 | IL | CALUMET CITY, CITY OF | 17031CIND1B** | 04-FEB-2004
05 | IL | CALUMET CITY, CITY OF | 17031CIND3B** | 04-FEB-2004
05 | IL | CALUMET PARK, VILLAGE OF | 17031CIND1B** | 04-FEB-2004
05 | IL | CALUMET PARK, VILLAGE OF | 17031CIND3B** | 04-FEB-2004
05 | IL | CANTRALL, VILLAGE OF | 17167C0075E | 03-MAY-2004
05 | IL | CANTRALL, VILLAGE OF | 17167CIND0A** | 03-MAY-2004
05 | IL | CARLYLE, CITY OF | 17027C0075C | 02-JUN-2004
05 | IL | CARLYLE, CITY OF | 17027C0100C | 02-JUN-2004
05 | IL | CARLYLE, CITY OF | 17027C0200C | 02-JUN-2004
05 | IL | CARLYLE, CITY OF | 17027C0225C | 02-JUN-2004
05 | IL | CARLYLE, CITY OF | 17027CIND0A** | 02-JUN-2004
05 | IL | CENTRALIA, CITY OF | 17027CIND0A** | 02-JUN-2004
05 | IL | CHATHAM, VILLAGE OF | 17167C0404E | 03-MAY-2004
05 | IL | CHATHAM, VILLAGE OF | 17167C0405E | 03-MAY-2004
05 | IL | CHATHAM, VILLAGE OF | 17167C0410E | 03-MAY-2004
05 | IL | CHATHAM, VILLAGE OF | 17167C0415E | 03-MAY-2004
05 | IL | CHATHAM, VILLAGE OF | 17167C0420E | 03-MAY-2004
05 | IL | CHATHAM, VILLAGE OF | 17167CIND0A** | 03-MAY-2004
05 | IL | CHICAGO HEIGHTS, CITY OF | 17031CIND1B** | 04-FEB-2004
05 | IL | CHICAGO HEIGHTS, CITY OF | 17031CIND3B** | 04-FEB-2004
05 | IL | CHICAGO RIDGE, VILLAGE OF | 17031CIND1B** | 04-FEB-2004
05 | IL | CHICAGO RIDGE, VILLAGE OF | 17031CIND3B** | 04-FEB-2004
05 | IL | CHICAGO, CITY OF | 17031CIND1B** | 04-FEB-2004
05 | IL | CHICAGO, CITY OF | 17031CIND3B** | 04-FEB-2004
05 | IL | CICERO, TOWN OF | 17031CIND1B** | 04-FEB-2004
05 | IL | CICERO, TOWN OF | 17031CIND3B** | 04-FEB-2004
05 | IL | CLEAR LAKE, VILLAGE OF | 17167C0255E | 03-MAY-2004
05 | IL | CLEAR LAKE, VILLAGE OF | 17167C0265E | 03-MAY-2004
05 | IL | CLEAR LAKE, VILLAGE OF | 17167CIND0A** | 03-MAY-2004
05 | IL | CLINTON COUNTY* | 17027C0025C | 02-JUN-2004
05 | IL | CLINTON COUNTY* | 17027C0050C | 02-JUN-2004
05 | IL | CLINTON COUNTY* | 17027C0075C | 02-JUN-2004
05 | IL | CLINTON COUNTY* | 17027C0100C | 02-JUN-2004
05 | IL | CLINTON COUNTY* | 17027C0125C | 02-JUN-2004
05 | IL | CLINTON COUNTY* | 17027C0150C | 02-JUN-2004
05 | IL | CLINTON COUNTY* | 17027C0155C | 02-JUN-2004
05 | IL | CLINTON COUNTY* | 17027C0160C | 02-JUN-2004
05 | IL | CLINTON COUNTY* | 17027C0165C | 02-JUN-2004
05 | IL | CLINTON COUNTY* | 17027C0170C | 02-JUN-2004
05 | IL | CLINTON COUNTY* | 17027C0200C | 02-JUN-2004
05 | IL | CLINTON COUNTY* | 17027C0225C | 02-JUN-2004
05 | IL | CLINTON COUNTY* | 17027C0250C | 02-JUN-2004
05 | IL | CLINTON COUNTY* | 17027C0275C | 02-JUN-2004
05 | IL | CLINTON COUNTY* | 17027C0300C | 02-JUN-2004
05 | IL | CLINTON COUNTY* | 17027C0325C | 02-JUN-2004
05 | IL | CLINTON COUNTY* | 17027CIND0A** | 02-JUN-2004
05 | IL | COOK COUNTY * | 17031C0167G | 04-FEB-2004
05 | IL | COOK COUNTY * | 17031C0169G | 04-FEB-2004
05 | IL | COOK COUNTY * | 17031C0188G | 04-FEB-2004
05 | IL | COOK COUNTY * | 17031C0307G | 04-FEB-2004
05 | IL | COOK COUNTY * | 17031C0308G | 04-FEB-2004
05 | IL | COOK COUNTY * | 17031C0309G | 04-FEB-2004
05 | IL | COOK COUNTY * | 17031C0330G | 04-FEB-2004
05 | IL | COOK COUNTY * | 17031CIND1B** | 04-FEB-2004
05 | IL | COOK COUNTY * | 17031CIND3B** | 04-FEB-2004
05 | IL | COUNTRY CLUB HILLS, CITY OF | 17031CIND1B** | 04-FEB-2004
05 | IL | COUNTRY CLUB HILLS, CITY OF | 17031CIND3B** | 04-FEB-2004
05 | IL | COUNTRYSIDE, CITY OF | 17031CIND1B** | 04-FEB-2004
05 | IL | COUNTRYSIDE, CITY OF | 17031CIND3B** | 04-FEB-2004
05 | IL | CRESTWOOD, VILLAGE OF | 17031CIND1B** | 04-FEB-2004
05 | IL | CRESTWOOD, VILLAGE OF | 17031CIND3B** | 04-FEB-2004
05 | IL | DAMIANSVILLE, VILLAGE OF | 17027C0150C | 02-JUN-2004
05 | IL | DAMIANSVILLE, VILLAGE OF | 17027C0165C | 02-JUN-2004
05 | IL | DAMIANSVILLE, VILLAGE OF | 17027CIND0A** | 02-JUN-2004
05 | IL | DAWSON, VILLAGE OF | 17167C0300E | 03-MAY-2004
05 | IL | DAWSON, VILLAGE OF | 17167CIND0A** | 03-MAY-2004
05 | IL | DEERFIELD, VILLAGE OF | 17031CIND1B** | 04-FEB-2004
05 | IL | DEERFIELD, VILLAGE OF | 17031CIND3B** | 04-FEB-2004
05 | IL | DES PLAINES, CITY OF | 17031CIND1B** | 04-FEB-2004
05 | IL | DES PLAINES, CITY OF | 17031CIND3B** | 04-FEB-2004
05 | IL | DIVERNON, VILLAGE OF | 17167C0535E | 03-MAY-2004
05 | IL | DIVERNON, VILLAGE OF | 17167C0545E | 03-MAY-2004
05 | IL | DIVERNON, VILLAGE OF | 17167CIND0A** | 03-MAY-2004
05 | IL | DIXMOOR, VILLAGE OF | 17031CIND1B** | 04-FEB-2004
05 | IL | DIXMOOR, VILLAGE OF | 17031CIND3B** | 04-FEB-2004
05 | IL | DOLTON, VILLAGE OF | 17031CIND1B** | 04-FEB-2004
05 | IL | DOLTON, VILLAGE OF | 17031CIND3B** | 04-FEB-2004
05 | IL | EAST HAZEL CREST, VILLAGE OF | 17031CIND1B** | 04-FEB-2004
05 | IL | EAST HAZEL CREST, VILLAGE OF | 17031CIND3B** | 04-FEB-2004
05 | IL | ELGIN, CITY OF | 17031CIND1B** | 04-FEB-2004
05 | IL | ELGIN, CITY OF | 17031CIND3B** | 04-FEB-2004
05 | IL | ELK GROVE VILLAGE, VILLAGE OF | 17031C0330G | 04-FEB-2004
05 | IL | ELK GROVE VILLAGE, VILLAGE OF | 17031CIND1B** | 04-FEB-2004
05 | IL | ELK GROVE VILLAGE, VILLAGE OF | 17031CIND3B** | 04-FEB-2004
05 | IL | ELMWOOD PARK, VILLAGE OF | 17031CIND1B** | 04-FEB-2004
05 | IL | ELMWOOD PARK, VILLAGE OF | 17031CIND3B** | 04-FEB-2004
05 | IL | EVANSTON, CITY OF | 17031CIND1B** | 04-FEB-2004
05 | IL | EVANSTON, CITY OF | 17031CIND3B** | 04-FEB-2004
05 | IL | EVERGREEN PARK, VILLAGE OF | 17031CIND1B** | 04-FEB-2004
05 | IL | EVERGREEN PARK, VILLAGE OF | 17031CIND3B** | 04-FEB-2004
05 | IL | FLOSSMOOR, VILLAGE OF | 17031CIND1B** | 04-FEB-2004
05 | IL | FLOSSMOOR, VILLAGE OF | 17031CIND3B** | 04-FEB-2004
05 | IL | FORD HEIGHTS, VILLAGE OF | 17031CIND1B** | 04-FEB-2004
05 | IL | FORD HEIGHTS, VILLAGE OF | 17031CIND3B** | 04-FEB-2004
05 | IL | FOREST PARK, VILLAGE OF | 17031CIND1B** | 04-FEB-2004
05 | IL | FOREST PARK, VILLAGE OF | 17031CIND3B** | 04-FEB-2004
05 | IL | FOREST VIEW, VILLAGE OF | 17031CIND1B** | 04-FEB-2004
05 | IL | FOREST VIEW, VILLAGE OF | 17031CIND3B** | 04-FEB-2004
05 | IL | FRANKLIN PARK, VILLAGE OF | 17031CIND1B** | 04-FEB-2004
05 | IL | FRANKLIN PARK, VILLAGE OF | 17031CIND3B** | 04-FEB-2004
05 | IL | GERMANTOWN, VILLAGE OF | 17027C0160C | 02-JUN-2004
05 | IL | GERMANTOWN, VILLAGE OF | 17027C0170C | 02-JUN-2004
05 | IL | GERMANTOWN, VILLAGE OF | 17027CIND0A** | 02-JUN-2004
05 | IL | GLENCOE, VILLAGE OF | 17031CIND1B** | 04-FEB-2004
05 | IL | GLENCOE, VILLAGE OF | 17031CIND3B** | 04-FEB-2004
05 | IL | GLENVIEW, VILLAGE OF | 17031CIND1B** | 04-FEB-2004
05 | IL | GLENVIEW, VILLAGE OF | 17031CIND3B** | 04-FEB-2004
05 | IL | GLENWOOD, VILLAGE OF | 17031CIND1B** | 04-FEB-2004
05 | IL | GLENWOOD, VILLAGE OF | 17031CIND3B** | 04-FEB-2004
05 | IL | GOLF, VILLAGE OF | 17031CIND1B** | 04-FEB-2004
05 | IL | GOLF, VILLAGE OF | 17031CIND3B** | 04-FEB-2004
05 | IL | GRANDVIEW, VILLAGE OF | 17167C0255E | 03-MAY-2004
05 | IL | GRANDVIEW, VILLAGE OF | 17167CIND0A** | 03-MAY-2004
05 | IL | HANOVER PARK, VILLAGE OF | 17031C0169G | 04-FEB-2004
05 | IL | HANOVER PARK, VILLAGE OF | 17031C0307G | 04-FEB-2004
05 | IL | HANOVER PARK, VILLAGE OF | 17031C0308G | 04-FEB-2004
05 | IL | HANOVER PARK, VILLAGE OF | 17031C0309G | 04-FEB-2004
05 | IL | HANOVER PARK, VILLAGE OF | 17031C0330G | 04-FEB-2004
05 | IL | HANOVER PARK, VILLAGE OF | 17031CIND1B** | 04-FEB-2004
05 | IL | HANOVER PARK, VILLAGE OF | 17031CIND3B** | 04-FEB-2004
05 | IL | HARVEY, CITY OF | 17031CIND1B** | 04-FEB-2004
05 | IL | HARVEY, CITY OF | 17031CIND3B** | 04-FEB-2004
05 | IL | HARWOOD HEIGHTS, VILLAGE OF | 17031CIND1B** | 04-FEB-2004
05 | IL | HARWOOD HEIGHTS, VILLAGE OF | 17031CIND3B** | 04-FEB-2004
05 | IL | HAZEL CREST, VILLAGE OF | 17031CIND1B** | 04-FEB-2004
05 | IL | HAZEL CREST, VILLAGE OF | 17031CIND3B** | 04-FEB-2004
05 | IL | HICKORY HILLS, CITY OF | 17031CIND1B** | 04-FEB-2004
05 | IL | HICKORY HILLS, CITY OF | 17031CIND3B** | 04-FEB-2004
05 | IL | HILLSIDE, VILLAGE OF | 17031CIND1B** | 04-FEB-2004
05 | IL | HILLSIDE, VILLAGE OF | 17031CIND3B** | 04-FEB-2004
05 | IL | HODGKINS, VILLAGE OF | 17031CIND1B** | 04-FEB-2004
05 | IL | HODGKINS, VILLAGE OF | 17031CIND3B** | 04-FEB-2004
05 | IL | HOFFMAN ESTATES, VILLAGE OF | 17031C0167G | 04-FEB-2004
05 | IL | HOFFMAN ESTATES, VILLAGE OF | 17031C0188G | 04-FEB-2004
05 | IL | HOFFMAN ESTATES, VILLAGE OF | 17031CIND1B** | 04-FEB-2004
05 | IL | HOFFMAN ESTATES, VILLAGE OF | 17031CIND3B** | 04-FEB-2004
05 | IL | HOFFMAN, VILLAGE OF | 17027C0225C | 02-JUN-2004
05 | IL | HOFFMAN, VILLAGE OF | 17027CIND0A** | 02-JUN-2004
05 | IL | HOMEWOOD, VILLAGE OF | 17031CIND1B** | 04-FEB-2004
05 | IL | HOMEWOOD, VILLAGE OF | 17031CIND3B** | 04-FEB-2004
05 | IL | HUEY, VILLAGE OF | 17027C0225C | 02-JUN-2004
05 | IL | HUEY, VILLAGE OF | 17027CIND0A** | 02-JUN-2004
05 | IL | ILLIOPOLIS, VILLAGE OF | 17167C0325E | 03-MAY-2004
05 | IL | ILLIOPOLIS, VILLAGE OF | 17167C0350E | 03-MAY-2004
05 | IL | ILLIOPOLIS, VILLAGE OF | 17167CIND0A** | 03-MAY-2004
05 | IL | INDIAN HEAD PARK, VILLAGE OF | 17031CIND1B** | 04-FEB-2004
05 | IL | INDIAN HEAD PARK, VILLAGE OF | 17031CIND3B** | 04-FEB-2004
05 | IL | INVERNESS, VILLAGE OF | 17031CIND1B** | 04-FEB-2004
05 | IL | INVERNESS, VILLAGE OF | 17031CIND3B** | 04-FEB-2004
05 | IL | JEROME, VILLAGE OF | 17167C0243E | 03-MAY-2004
05 | IL | JEROME, VILLAGE OF | 17167CIND0A** | 03-MAY-2004
05 | IL | JUSTICE, VILLAGE OF | 17031CIND1B** | 04-FEB-2004
05 | IL | JUSTICE, VILLAGE OF | 17031CIND3B** | 04-FEB-2004
05 | IL | KENILWORTH, VILLAGE OF | 17031CIND1B** | 04-FEB-2004
05 | IL | KENILWORTH, VILLAGE OF | 17031CIND3B** | 04-FEB-2004
05 | IL | KEYESPORT, VILLAGE OF | 17027C0100C | 02-JUN-2004
05 | IL | KEYESPORT, VILLAGE OF | 17027CIND0A** | 02-JUN-2004
05 | IL | LA GRANGE PARK, VILLAGE OF | 17031CIND1B** | 04-FEB-2004
05 | IL | LA GRANGE PARK, VILLAGE OF | 17031CIND3B** | 04-FEB-2004
05 | IL | LA GRANGE, VILLAGE OF | 17031CIND1B** | 04-FEB-2004
05 | IL | LA GRANGE, VILLAGE OF | 17031CIND3B** | 04-FEB-2004
05 | IL | LANSING, VILLAGE OF | 17031CIND1B** | 04-FEB-2004
05 | IL | LANSING, VILLAGE OF | 17031CIND3B** | 04-FEB-2004
05 | IL | LELAND GROVE,CITY OF | 17167C0237E | 03-MAY-2004
05 | IL | LELAND GROVE,CITY OF | 17167C0239E | 03-MAY-2004
05 | IL | LELAND GROVE,CITY OF | 17167C0241E | 03-MAY-2004
05 | IL | LELAND GROVE,CITY OF | 17167C0243E | 03-MAY-2004
05 | IL | LELAND GROVE,CITY OF | 17167CIND0A** | 03-MAY-2004
05 | IL | LEMONT, VILLAGE OF | 17031CIND1B** | 04-FEB-2004
05 | IL | LEMONT, VILLAGE OF | 17031CIND3B** | 04-FEB-2004
05 | IL | LINCOLNWOOD, VILLAGE OF | 17031CIND1B** | 04-FEB-2004
05 | IL | LINCOLNWOOD, VILLAGE OF | 17031CIND3B** | 04-FEB-2004
05 | IL | LOAMI, VILLAGE OF | 17167C0400E | 03-MAY-2004
05 | IL | LOAMI, VILLAGE OF | 17167CIND0A** | 03-MAY-2004
05 | IL | LYNWOOD, VILLAGE OF | 17031CIND1B** | 04-FEB-2004
05 | IL | LYNWOOD, VILLAGE OF | 17031CIND3B** | 04-FEB-2004
05 | IL | LYONS, VILLAGE OF | 17031CIND1B** | 04-FEB-2004
05 | IL | LYONS, VILLAGE OF | 17031CIND3B** | 04-FEB-2004
05 | IL | MARKHAM, CITY OF | 17031CIND1B** | 04-FEB-2004
05 | IL | MARKHAM, CITY OF | 17031CIND3B** | 04-FEB-2004
05 | IL | MATTESON, VILLAGE OF | 17031CIND1B** | 04-FEB-2004
05 | IL | MATTESON, VILLAGE OF | 17031CIND3B** | 04-FEB-2004
05 | IL | MAYWOOD, VILLAGE OF | 17031CIND1B** | 04-FEB-2004
05 | IL | MAYWOOD, VILLAGE OF | 17031CIND3B** | 04-FEB-2004
05 | IL | MCCOOK, VILLAGE OF | 17031CIND1B** | 04-FEB-2004
05 | IL | MCCOOK, VILLAGE OF | 17031CIND3B** | 04-FEB-2004
05 | IL | MECHANICSBURG, VILLAGE OF | 17167C0300E | 03-MAY-2004
05 | IL | MECHANICSBURG, VILLAGE OF | 17167CIND0A** | 03-MAY-2004
05 | IL | MELROSE PARK, VILLAGE OF | 17031CIND1B** | 04-FEB-2004
05 | IL | MELROSE PARK, VILLAGE OF | 17031CIND3B** | 04-FEB-2004
05 | IL | MERRIONETTE PARK, VILLAGE OF | 17031CIND1B** | 04-FEB-2004
05 | IL | MERRIONETTE PARK, VILLAGE OF | 17031CIND3B** | 04-FEB-2004
05 | IL | MIDLOTHIAN, VILLAGE OF | 17031CIND1B** | 04-FEB-2004
05 | IL | MIDLOTHIAN, VILLAGE OF | 17031CIND3B** | 04-FEB-2004
05 | IL | MORTON GROVE, VILLAGE OF | 17031CIND1B** | 04-FEB-2004
05 | IL | MORTON GROVE, VILLAGE OF | 17031CIND3B** | 04-FEB-2004
05 | IL | MOUNT PROSPECT, VILLAGE OF | 17031CIND1B** | 04-FEB-2004
05 | IL | MOUNT PROSPECT, VILLAGE OF | 17031CIND3B** | 04-FEB-2004
05 | IL | NEW BADEN, VILLAGE OF | 17027C0150C | 02-JUN-2004
05 | IL | NEW BADEN, VILLAGE OF | 17027CIND0A** | 02-JUN-2004
05 | IL | NEW BERLIN, VILLAGE OF | 17167C0375E | 03-MAY-2004
05 | IL | NEW BERLIN, VILLAGE OF | 17167CIND0A** | 03-MAY-2004
05 | IL | NILES, VILLAGE OF | 17031CIND1B** | 04-FEB-2004
05 | IL | NILES, VILLAGE OF | 17031CIND3B** | 04-FEB-2004
05 | IL | NORRIDGE, VILLAGE OF | 17031CIND1B** | 04-FEB-2004
05 | IL | NORRIDGE, VILLAGE OF | 17031CIND3B** | 04-FEB-2004
05 | IL | NORTH RIVERSIDE, VILLAGE OF | 17031CIND1B** | 04-FEB-2004
05 | IL | NORTH RIVERSIDE, VILLAGE OF | 17031CIND3B** | 04-FEB-2004
05 | IL | NORTHBROOK, VILLAGE OF | 17031CIND1B** | 04-FEB-2004
05 | IL | NORTHBROOK, VILLAGE OF | 17031CIND3B** | 04-FEB-2004
05 | IL | NORTHFIELD, VILLAGE OF | 17031CIND1B** | 04-FEB-2004
05 | IL | NORTHFIELD, VILLAGE OF | 17031CIND3B** | 04-FEB-2004
05 | IL | NORTHLAKE, CITY OF | 17031CIND1B** | 04-FEB-2004
05 | IL | NORTHLAKE, CITY OF | 17031CIND3B** | 04-FEB-2004
05 | IL | OAK FOREST, CITY OF | 17031CIND1B** | 04-FEB-2004
05 | IL | OAK FOREST, CITY OF | 17031CIND3B** | 04-FEB-2004
05 | IL | OAK LAWN, VILLAGE OF | 17031CIND1B** | 04-FEB-2004
05 | IL | OAK LAWN, VILLAGE OF | 17031CIND3B** | 04-FEB-2004
05 | IL | OAK PARK, VILLAGE OF | 17031CIND1B** | 04-FEB-2004
05 | IL | OAK PARK, VILLAGE OF | 17031CIND3B** | 04-FEB-2004
05 | IL | OLYMPIA FIELDS, VILLAGE OF | 17031CIND1B** | 04-FEB-2004
05 | IL | OLYMPIA FIELDS, VILLAGE OF | 17031CIND3B** | 04-FEB-2004
05 | IL | ORLAND HILLS, VILLAGE OF | 17031CIND1B** | 04-FEB-2004
05 | IL | ORLAND HILLS, VILLAGE OF | 17031CIND3B** | 04-FEB-2004
05 | IL | ORLAND PARK, VILLAGE OF | 17031CIND1B** | 04-FEB-2004
05 | IL | ORLAND PARK, VILLAGE OF | 17031CIND3B** | 04-FEB-2004
05 | IL | PALATINE, VILLAGE OF | 17031CIND1B** | 04-FEB-2004
05 | IL | PALATINE, VILLAGE OF | 17031CIND3B** | 04-FEB-2004
05 | IL | PALOS HEIGHTS, CITY OF | 17031CIND1B** | 04-FEB-2004
05 | IL | PALOS HEIGHTS, CITY OF | 17031CIND3B** | 04-FEB-2004
05 | IL | PALOS HILLS, CITY OF | 17031CIND1B** | 04-FEB-2004
05 | IL | PALOS HILLS, CITY OF | 17031CIND3B** | 04-FEB-2004
05 | IL | PALOS PARK, VILLAGE OF | 17031CIND1B** | 04-FEB-2004
05 | IL | PALOS PARK, VILLAGE OF | 17031CIND3B** | 04-FEB-2004
05 | IL | PARK FOREST, VILLAGE OF | 17031CIND1B** | 04-FEB-2004
05 | IL | PARK FOREST, VILLAGE OF | 17031CIND3B** | 04-FEB-2004
05 | IL | PARK RIDGE, CITY OF | 17031CIND1B** | 04-FEB-2004
05 | IL | PARK RIDGE, CITY OF | 17031CIND3B** | 04-FEB-2004
05 | IL | PAWNEE, VILLAGE OF | 17167C0555E | 03-MAY-2004
05 | IL | PAWNEE, VILLAGE OF | 17167CIND0A** | 03-MAY-2004
05 | IL | PHOENIX, VILLAGE OF | 17031CIND1B** | 04-FEB-2004
05 | IL | PHOENIX, VILLAGE OF | 17031CIND3B** | 04-FEB-2004
05 | IL | PLEASANT PLAINS, VILLAGE OF | 17167C0025E | 03-MAY-2004
05 | IL | PLEASANT PLAINS, VILLAGE OF | 17167C0185E | 03-MAY-2004
05 | IL | PLEASANT PLAINS, VILLAGE OF | 17167CIND0A** | 03-MAY-2004
05 | IL | POSEN, VILLAGE OF | 17031CIND1B** | 04-FEB-2004
05 | IL | POSEN, VILLAGE OF | 17031CIND3B** | 04-FEB-2004
05 | IL | PROSPECT HEIGHTS, CITY OF | 17031CIND1B** | 04-FEB-2004
05 | IL | PROSPECT HEIGHTS, CITY OF | 17031CIND3B** | 04-FEB-2004
05 | IL | RICHTON PARK, VILLAGE OF | 17031CIND1B** | 04-FEB-2004
05 | IL | RICHTON PARK, VILLAGE OF | 17031CIND3B** | 04-FEB-2004
05 | IL | RIVER FOREST, CITY OF | 17031CIND1B** | 04-FEB-2004
05 | IL | RIVER FOREST, CITY OF | 17031CIND3B** | 04-FEB-2004
05 | IL | RIVER GROVE, VILLAGE OF | 17031CIND1B** | 04-FEB-2004
05 | IL | RIVER GROVE, VILLAGE OF | 17031CIND3B** | 04-FEB-2004
05 | IL | RIVERDALE, VILLAGE OF | 17031CIND1B** | 04-FEB-2004
05 | IL | RIVERDALE, VILLAGE OF | 17031CIND3B** | 04-FEB-2004
05 | IL | RIVERSIDE, VILLAGE OF | 17031CIND1B** | 04-FEB-2004
05 | IL | RIVERSIDE, VILLAGE OF | 17031CIND3B** | 04-FEB-2004
05 | IL | RIVERTON, VILLAGE OF | 17167C0260E | 03-MAY-2004
05 | IL | RIVERTON, VILLAGE OF | 17167CIND0A** | 03-MAY-2004
05 | IL | ROBBINS, VILLAGE OF | 17031CIND1B** | 04-FEB-2004
05 | IL | ROBBINS, VILLAGE OF | 17031CIND3B** | 04-FEB-2004
05 | IL | ROCHESTER, VILLAGE OF | 17167C0265E | 03-MAY-2004
05 | IL | ROCHESTER, VILLAGE OF | 17167C0270E | 03-MAY-2004
05 | IL | ROCHESTER, VILLAGE OF | 17167C0435E | 03-MAY-2004
05 | IL | ROCHESTER, VILLAGE OF | 17167C0450E | 03-MAY-2004
05 | IL | ROCHESTER, VILLAGE OF | 17167CIND0A** | 03-MAY-2004
05 | IL | ROLLING MEADOWS, CITY OF | 17031CIND1B** | 04-FEB-2004
05 | IL | ROLLING MEADOWS, CITY OF | 17031CIND3B** | 04-FEB-2004
05 | IL | ROSEMONT, VILLAGE OF | 17031CIND1B** | 04-FEB-2004
05 | IL | ROSEMONT, VILLAGE OF | 17031CIND3B** | 04-FEB-2004
05 | IL | SANGAMON COUNTY * | 17167C0025E | 03-MAY-2004
05 | IL | SANGAMON COUNTY * | 17167C0050E | 03-MAY-2004
05 | IL | SANGAMON COUNTY * | 17167C0075E | 03-MAY-2004
05 | IL | SANGAMON COUNTY * | 17167C0100E | 03-MAY-2004
05 | IL | SANGAMON COUNTY * | 17167C0125E | 03-MAY-2004
05 | IL | SANGAMON COUNTY * | 17167C0185E | 03-MAY-2004
05 | IL | SANGAMON COUNTY * | 17167C0200E | 03-MAY-2004
05 | IL | SANGAMON COUNTY * | 17167C0220E | 03-MAY-2004
05 | IL | SANGAMON COUNTY * | 17167C0225E | 03-MAY-2004
05 | IL | SANGAMON COUNTY * | 17167C0230E | 03-MAY-2004
05 | IL | SANGAMON COUNTY * | 17167C0235E | 03-MAY-2004
05 | IL | SANGAMON COUNTY * | 17167C0237E | 03-MAY-2004
05 | IL | SANGAMON COUNTY * | 17167C0239E | 03-MAY-2004
05 | IL | SANGAMON COUNTY * | 17167C0240E | 03-MAY-2004
05 | IL | SANGAMON COUNTY * | 17167C0241E | 03-MAY-2004
05 | IL | SANGAMON COUNTY * | 17167C0243E | 03-MAY-2004
05 | IL | SANGAMON COUNTY * | 17167C0255E | 03-MAY-2004
05 | IL | SANGAMON COUNTY * | 17167C0260E | 03-MAY-2004
05 | IL | SANGAMON COUNTY * | 17167C0265E | 03-MAY-2004
05 | IL | SANGAMON COUNTY * | 17167C0270E | 03-MAY-2004
05 | IL | SANGAMON COUNTY * | 17167C0300E | 03-MAY-2004
05 | IL | SANGAMON COUNTY * | 17167C0325E | 03-MAY-2004
05 | IL | SANGAMON COUNTY * | 17167C0350E | 03-MAY-2004
05 | IL | SANGAMON COUNTY * | 17167C0375E | 03-MAY-2004
05 | IL | SANGAMON COUNTY * | 17167C0400E | 03-MAY-2004
05 | IL | SANGAMON COUNTY * | 17167C0404E | 03-MAY-2004
05 | IL | SANGAMON COUNTY * | 17167C0405E | 03-MAY-2004
05 | IL | SANGAMON COUNTY * | 17167C0410E | 03-MAY-2004
05 | IL | SANGAMON COUNTY * | 17167C0415E | 03-MAY-2004
05 | IL | SANGAMON COUNTY * | 17167C0420E | 03-MAY-2004
05 | IL | SANGAMON COUNTY * | 17167C0435E | 03-MAY-2004
05 | IL | SANGAMON COUNTY * | 17167C0450E | 03-MAY-2004
05 | IL | SANGAMON COUNTY * | 17167C0475E | 03-MAY-2004
05 | IL | SANGAMON COUNTY * | 17167C0500E | 03-MAY-2004
05 | IL | SANGAMON COUNTY * | 17167C0520E | 03-MAY-2004
05 | IL | SANGAMON COUNTY * | 17167C0525E | 03-MAY-2004
05 | IL | SANGAMON COUNTY * | 17167C0535E | 03-MAY-2004
05 | IL | SANGAMON COUNTY * | 17167C0545E | 03-MAY-2004
05 | IL | SANGAMON COUNTY * | 17167C0550E | 03-MAY-2004
05 | IL | SANGAMON COUNTY * | 17167C0555E | 03-MAY-2004
05 | IL | SANGAMON COUNTY * | 17167C0575E | 03-MAY-2004
05 | IL | SANGAMON COUNTY * | 17167CIND0A** | 03-MAY-2004
05 | IL | SAUK VILLAGE, VILLAGE OF | 17031CIND1B** | 04-FEB-2004
05 | IL | SAUK VILLAGE, VILLAGE OF | 17031CIND3B** | 04-FEB-2004
05 | IL | SCHAUMBURG, VILLAGE OF | 17031C0167G | 04-FEB-2004
05 | IL | SCHAUMBURG, VILLAGE OF | 17031C0169G | 04-FEB-2004
05 | IL | SCHAUMBURG, VILLAGE OF | 17031C0188G | 04-FEB-2004
05 | IL | SCHAUMBURG, VILLAGE OF | 17031C0307G | 04-FEB-2004
05 | IL | SCHAUMBURG, VILLAGE OF | 17031C0330G | 04-FEB-2004
05 | IL | SCHAUMBURG, VILLAGE OF | 17031CIND1B** | 04-FEB-2004
05 | IL | SCHAUMBURG, VILLAGE OF | 17031CIND3B** | 04-FEB-2004
05 | IL | SCHILLER PARK, VILLAGE OF | 17031CIND1B** | 04-FEB-2004
05 | IL | SCHILLER PARK, VILLAGE OF | 17031CIND3B** | 04-FEB-2004
05 | IL | SHERMAN, VILLAGE OF | 17167C0075E | 03-MAY-2004
05 | IL | SHERMAN, VILLAGE OF | 17167C0100E | 03-MAY-2004
05 | IL | SHERMAN, VILLAGE OF | 17167C0235E | 03-MAY-2004
05 | IL | SHERMAN, VILLAGE OF | 17167C0255E | 03-MAY-2004
05 | IL | SHERMAN, VILLAGE OF | 17167CIND0A** | 03-MAY-2004
05 | IL | SKOKIE, VILLAGE OF | 17031CIND1B** | 04-FEB-2004
05 | IL | SKOKIE, VILLAGE OF | 17031CIND3B** | 04-FEB-2004
05 | IL | SOUTH BARRINGTON, VILLAGE OF | 17031CIND1B** | 04-FEB-2004
05 | IL | SOUTH BARRINGTON, VILLAGE OF | 17031CIND3B** | 04-FEB-2004
05 | IL | SOUTH CHICAGO HEIGHTS, VILLAGE OF | 17031CIND1B** | 04-FEB-2004
05 | IL | SOUTH CHICAGO HEIGHTS, VILLAGE OF | 17031CIND3B** | 04-FEB-2004
05 | IL | SOUTH HOLLAND, VILLAGE OF | 17031CIND1B** | 04-FEB-2004
05 | IL | SOUTH HOLLAND, VILLAGE OF | 17031CIND3B** | 04-FEB-2004
05 | IL | SOUTHERN VIEW, VILLAGE OF | 17167C0243E | 03-MAY-2004
05 | IL | SOUTHERN VIEW, VILLAGE OF | 17167CIND0A** | 03-MAY-2004
05 | IL | SPAULDING, VILLAGE OF | 17167C0255E | 03-MAY-2004
05 | IL | SPAULDING, VILLAGE OF | 17167C0260E | 03-MAY-2004
05 | IL | SPAULDING, VILLAGE OF | 17167CIND0A** | 03-MAY-2004
05 | IL | SPRINGFIELD, CITY OF | 17167C0220E | 03-MAY-2004
05 | IL | SPRINGFIELD, CITY OF | 17167C0230E | 03-MAY-2004
05 | IL | SPRINGFIELD, CITY OF | 17167C0235E | 03-MAY-2004
05 | IL | SPRINGFIELD, CITY OF | 17167C0237E | 03-MAY-2004
05 | IL | SPRINGFIELD, CITY OF | 17167C0239E | 03-MAY-2004
05 | IL | SPRINGFIELD, CITY OF | 17167C0240E | 03-MAY-2004
05 | IL | SPRINGFIELD, CITY OF | 17167C0241E | 03-MAY-2004
05 | IL | SPRINGFIELD, CITY OF | 17167C0243E | 03-MAY-2004
05 | IL | SPRINGFIELD, CITY OF | 17167C0255E | 03-MAY-2004
05 | IL | SPRINGFIELD, CITY OF | 17167C0265E | 03-MAY-2004
05 | IL | SPRINGFIELD, CITY OF | 17167C0400E | 03-MAY-2004
05 | IL | SPRINGFIELD, CITY OF | 17167C0404E | 03-MAY-2004
05 | IL | SPRINGFIELD, CITY OF | 17167C0405E | 03-MAY-2004
05 | IL | SPRINGFIELD, CITY OF | 17167C0410E | 03-MAY-2004
05 | IL | SPRINGFIELD, CITY OF | 17167C0420E | 03-MAY-2004
05 | IL | SPRINGFIELD, CITY OF | 17167C0450E | 03-MAY-2004
05 | IL | SPRINGFIELD, CITY OF | 17167CIND0A** | 03-MAY-2004
05 | IL | STEGER, VILLAGE OF | 17031CIND1B** | 04-FEB-2004
05 | IL | STEGER, VILLAGE OF | 17031CIND3B** | 04-FEB-2004
05 | IL | STICKNEY, VILLAGE OF | 17031CIND1B** | 04-FEB-2004
05 | IL | STICKNEY, VILLAGE OF | 17031CIND3B** | 04-FEB-2004
05 | IL | STONE PARK, VILLAGE OF | 17031CIND1B** | 04-FEB-2004
05 | IL | STONE PARK, VILLAGE OF | 17031CIND3B** | 04-FEB-2004
05 | IL | STREAMWOOD, VILLAGE OF | 17031C0167G | 04-FEB-2004
05 | IL | STREAMWOOD, VILLAGE OF | 17031C0169G | 04-FEB-2004
05 | IL | STREAMWOOD, VILLAGE OF | 17031CIND1B** | 04-FEB-2004
05 | IL | STREAMWOOD, VILLAGE OF | 17031CIND3B** | 04-FEB-2004
05 | IL | SUMMIT, VILLAGE OF | 17031CIND1B** | 04-FEB-2004
05 | IL | SUMMIT, VILLAGE OF | 17031CIND3B** | 04-FEB-2004
05 | IL | THAYER, VILLAGE OF | 17167C0520E | 03-MAY-2004
05 | IL | THAYER, VILLAGE OF | 17167C0550E | 03-MAY-2004
05 | IL | THAYER, VILLAGE OF | 17167CIND0A** | 03-MAY-2004
05 | IL | THORNTON, VILLAGE OF | 17031CIND1B** | 04-FEB-2004
05 | IL | THORNTON, VILLAGE OF | 17031CIND3B** | 04-FEB-2004
05 | IL | TINLEY PARK, CITY OF | 17031CIND1B** | 04-FEB-2004
05 | IL | TINLEY PARK, CITY OF | 17031CIND3B** | 04-FEB-2004
05 | IL | TRENTON, CITY OF | 17027C0150C | 02-JUN-2004
05 | IL | TRENTON, CITY OF | 17027CIND0A** | 02-JUN-2004
05 | IL | UNIVERSITY PARK, VILLAGE OF | 17031CIND1B** | 04-FEB-2004
05 | IL | UNIVERSITY PARK, VILLAGE OF | 17031CIND3B** | 04-FEB-2004
05 | IL | VIRDEN, CITY OF | 17167C0520E | 03-MAY-2004
05 | IL | VIRDEN, CITY OF | 17167CIND0A** | 03-MAY-2004
05 | IL | WAMAC, CITY OF | 17027CIND0A** | 02-JUN-2004
05 | IL | WESTCHESTER, VILLAGE OF | 17031CIND1B** | 04-FEB-2004
05 | IL | WESTCHESTER, VILLAGE OF | 17031CIND3B** | 04-FEB-2004
05 | IL | WESTERN SPRINGS, VILLAGE OF | 17031CIND1B** | 04-FEB-2004
05 | IL | WESTERN SPRINGS, VILLAGE OF | 17031CIND3B** | 04-FEB-2004
05 | IL | WHEELING, VILLAGE OF | 17031CIND1B** | 04-FEB-2004
05 | IL | WHEELING, VILLAGE OF | 17031CIND3B** | 04-FEB-2004
05 | IL | WILLIAMSVILLE, VILLAGE OF | 17167C0100E | 03-MAY-2004
05 | IL | WILLIAMSVILLE, VILLAGE OF | 17167CIND0A** | 03-MAY-2004
05 | IL | WILLOW SPRINGS, VILLAGE OF | 17031CIND1B** | 04-FEB-2004
05 | IL | WILLOW SPRINGS, VILLAGE OF | 17031CIND3B** | 04-FEB-2004
05 | IL | WILMETTE, VILLAGE OF | 17031CIND1B** | 04-FEB-2004
05 | IL | WILMETTE, VILLAGE OF | 17031CIND3B** | 04-FEB-2004
05 | IL | WINNETKA, VILLAGE OF | 17031CIND1B** | 04-FEB-2004
05 | IL | WINNETKA, VILLAGE OF | 17031CIND3B** | 04-FEB-2004
05 | IL | WORTH, VILLAGE OF | 17031CIND1B** | 04-FEB-2004
05 | IL | WORTH, VILLAGE OF | 17031CIND3B** | 04-FEB-2004
05 | MI | VASSAR, CITY OF | 2602080001D | 02-JUL-2004
05 | MN | JACKSON,CITY OF | 2702130001E | 02-APR-2004
05 | MN | JACKSON,CITY OF | 2702130002E | 02-APR-2004
05 | MN | JACKSON,CITY OF | 2702130004E | 02-APR-2004
05 | MN | JACKSON,CITY OF | 2702130005E | 02-APR-2004
05 | MN | JACKSON,CITY OF | 270213IND0A** | 02-APR-2004
05 | OH | ADDYSTON, VILLAGE OF | 39061C0164D | 17-MAY-2004
05 | OH | ADDYSTON, VILLAGE OF | 39061C0165D | 17-MAY-2004
05 | OH | ADDYSTON, VILLAGE OF | 39061C0277D | 17-MAY-2004
05 | OH | ADDYSTON, VILLAGE OF | 39061CIND0A** | 17-MAY-2004
05 | OH | AMBERLEY, VILLAGE OF | 39061C0204D | 17-MAY-2004
05 | OH | AMBERLEY, VILLAGE OF | 39061C0206D | 17-MAY-2004
05 | OH | AMBERLEY, VILLAGE OF | 39061C0208D | 17-MAY-2004
05 | OH | AMBERLEY, VILLAGE OF | 39061CIND0A** | 17-MAY-2004
05 | OH | ARLINGTON HEIGHTS, VILLAGE OF | 39061C0202D | 17-MAY-2004
05 | OH | ARLINGTON HEIGHTS, VILLAGE OF | 39061C0204D | 17-MAY-2004
05 | OH | ARLINGTON HEIGHTS, VILLAGE OF | 39061CIND0A** | 17-MAY-2004
05 | OH | BEXLEY, CITY OF | 39049C0255H | 16-MAR-2004
05 | OH | BEXLEY, CITY OF | 39049CIND0A** | 16-MAR-2004
05 | OH | BLOOMINGBURG, VILLAGE OF | 39047C0160C | 02-MAR-2004
05 | OH | BLOOMINGBURG, VILLAGE OF | 39047CIND0A** | 02-MAR-2004
05 | OH | BLUE ASH, CITY OF | 39061C0094D | 17-MAY-2004
05 | OH | BLUE ASH, CITY OF | 39061C0113D | 17-MAY-2004
05 | OH | BLUE ASH, CITY OF | 39061C0206D | 17-MAY-2004
05 | OH | BLUE ASH, CITY OF | 39061C0207D | 17-MAY-2004
05 | OH | BLUE ASH, CITY OF | 39061C0226D | 17-MAY-2004
05 | OH | BLUE ASH, CITY OF | 39061C0228D | 17-MAY-2004
05 | OH | BLUE ASH, CITY OF | 39061CIND0A** | 17-MAY-2004
05 | OH | BRICE, VILLAGE OF | 39049CIND0A** | 16-MAR-2004
05 | OH | CANAL WINCHESTER, VILLAGE OF | 39049CIND0A** | 16-MAR-2004
05 | OH | CHEVIOT, CITY OF | 39061C0170D | 17-MAY-2004
05 | OH | CHEVIOT, CITY OF | 39061CIND0A** | 17-MAY-2004
05 | OH | CINCINNATI, CITY OF | 39061C0164D | 17-MAY-2004
05 | OH | CINCINNATI, CITY OF | 39061C0170D | 17-MAY-2004
05 | OH | CINCINNATI, CITY OF | 39061C0180D | 17-MAY-2004
05 | OH | CINCINNATI, CITY OF | 39061C0183D | 17-MAY-2004
05 | OH | CINCINNATI, CITY OF | 39061C0185D | 17-MAY-2004
05 | OH | CINCINNATI, CITY OF | 39061C0187D | 17-MAY-2004
05 | OH | CINCINNATI, CITY OF | 39061C0191D | 17-MAY-2004
05 | OH | CINCINNATI, CITY OF | 39061C0192D | 17-MAY-2004
05 | OH | CINCINNATI, CITY OF | 39061C0193D | 17-MAY-2004
05 | OH | CINCINNATI, CITY OF | 39061C0201D | 17-MAY-2004
05 | OH | CINCINNATI, CITY OF | 39061C0203D | 17-MAY-2004
05 | OH | CINCINNATI, CITY OF | 39061C0204D | 17-MAY-2004
05 | OH | CINCINNATI, CITY OF | 39061C0208D | 17-MAY-2004
05 | OH | CINCINNATI, CITY OF | 39061C0211D | 17-MAY-2004
05 | OH | CINCINNATI, CITY OF | 39061C0216D | 17-MAY-2004
05 | OH | CINCINNATI, CITY OF | 39061C0217D | 17-MAY-2004
05 | OH | CINCINNATI, CITY OF | 39061C0218D | 17-MAY-2004
05 | OH | CINCINNATI, CITY OF | 39061C0219D | 17-MAY-2004
05 | OH | CINCINNATI, CITY OF | 39061C0240D | 17-MAY-2004
05 | OH | CINCINNATI, CITY OF | 39061C0277D | 17-MAY-2004
05 | OH | CINCINNATI, CITY OF | 39061C0281D | 17-MAY-2004
05 | OH | CINCINNATI, CITY OF | 39061C0282D | 17-MAY-2004
05 | OH | CINCINNATI, CITY OF | 39061C0284D | 17-MAY-2004
05 | OH | CINCINNATI, CITY OF | 39061C0303D | 17-MAY-2004
05 | OH | CINCINNATI, CITY OF | 39061C0304D | 17-MAY-2004
05 | OH | CINCINNATI, CITY OF | 39061C0305D | 17-MAY-2004
05 | OH | CINCINNATI, CITY OF | 39061C0306D | 17-MAY-2004
05 | OH | CINCINNATI, CITY OF | 39061C0307D | 17-MAY-2004
05 | OH | CINCINNATI, CITY OF | 39061C0308D | 17-MAY-2004
05 | OH | CINCINNATI, CITY OF | 39061C0309D | 17-MAY-2004
05 | OH | CINCINNATI, CITY OF | 39061C0326D | 17-MAY-2004
05 | OH | CINCINNATI, CITY OF | 39061C0327D | 17-MAY-2004
05 | OH | CINCINNATI, CITY OF | 39061C0331D | 17-MAY-2004
05 | OH | CINCINNATI, CITY OF | 39061C0332D | 17-MAY-2004
05 | OH | CINCINNATI, CITY OF | 39061C0333D | 17-MAY-2004
05 | OH | CINCINNATI, CITY OF | 39061C0345D | 17-MAY-2004
05 | OH | CINCINNATI, CITY OF | 39061C0355D | 17-MAY-2004
05 | OH | CINCINNATI, CITY OF | 39061CIND0A** | 17-MAY-2004
05 | OH | CLEVES, VILLAGE OF | 39061C0145D | 17-MAY-2004
05 | OH | CLEVES, VILLAGE OF | 39061C0165D | 17-MAY-2004
05 | OH | CLEVES, VILLAGE OF | 39061CIND0A** | 17-MAY-2004
05 | OH | COLUMBUS, CITY OF | 39049C0126H | 16-MAR-2004
05 | OH | COLUMBUS, CITY OF | 39049C0139H | 16-MAR-2004
05 | OH | COLUMBUS, CITY OF | 39049C0227H | 16-MAR-2004
05 | OH | COLUMBUS, CITY OF | 39049C0231H | 16-MAR-2004
05 | OH | COLUMBUS, CITY OF | 39049C0232H | 16-MAR-2004
05 | OH | COLUMBUS, CITY OF | 39049C0233H | 16-MAR-2004
05 | OH | COLUMBUS, CITY OF | 39049C0234H | 16-MAR-2004
05 | OH | COLUMBUS, CITY OF | 39049C0241H | 16-MAR-2004
05 | OH | COLUMBUS, CITY OF | 39049C0242H | 16-MAR-2004
05 | OH | COLUMBUS, CITY OF | 39049C0244H | 16-MAR-2004
05 | OH | COLUMBUS, CITY OF | 39049C0255H | 16-MAR-2004
05 | OH | COLUMBUS, CITY OF | 39049C0265H | 16-MAR-2004
05 | OH | COLUMBUS, CITY OF | 39049CIND0A** | 16-MAR-2004
05 | OH | DARBYDALE, VILLAGE OF | 39049CIND0A** | 16-MAR-2004
05 | OH | DEER PARK, CITY OF | 39061C0208D | 17-MAY-2004
05 | OH | DEER PARK, CITY OF | 39061CIND0A** | 17-MAY-2004
05 | OH | DUBLIN, CITY OF | 39049C0018J | 16-MAR-2004
05 | OH | DUBLIN, CITY OF | 39049C0019J | 16-MAR-2004
05 | OH | DUBLIN, CITY OF | 39049C0102H | 16-MAR-2004
05 | OH | DUBLIN, CITY OF | 39049C0104H | 16-MAR-2004
05 | OH | DUBLIN, CITY OF | 39049C0106H | 16-MAR-2004
05 | OH | DUBLIN, CITY OF | 39049C0107H | 16-MAR-2004
05 | OH | DUBLIN, CITY OF | 39049C0126H | 16-MAR-2004
05 | OH | DUBLIN, CITY OF | 39049CIND0A** | 16-MAR-2004
05 | OH | ELMWOOD PLACE, VILLAGE OF | 39061C0203D | 17-MAY-2004
05 | OH | ELMWOOD PLACE, VILLAGE OF | 39061C0211D | 17-MAY-2004
05 | OH | ELMWOOD PLACE, VILLAGE OF | 39061CIND0A** | 17-MAY-2004
05 | OH | EVENDALE, CITY OF | 39061C0089D | 17-MAY-2004
05 | OH | EVENDALE, CITY OF | 39061C0093D | 17-MAY-2004
05 | OH | EVENDALE, CITY OF | 39061C0094D | 17-MAY-2004
05 | OH | EVENDALE, CITY OF | 39061C0202D | 17-MAY-2004
05 | OH | EVENDALE, CITY OF | 39061C0206D | 17-MAY-2004
05 | OH | EVENDALE, CITY OF | 39061C0207D | 17-MAY-2004
05 | OH | EVENDALE, CITY OF | 39061CIND0A** | 17-MAY-2004
05 | OH | FAIRFAX, VILLAGE OF | 39061C0219D | 17-MAY-2004
05 | OH | FAIRFAX, VILLAGE OF | 39061CIND0A** | 17-MAY-2004
05 | OH | FAYETTE COUNTY * | 39047C0025C | 02-MAR-2004
05 | OH | FAYETTE COUNTY * | 39047C0037C | 02-MAR-2004
05 | OH | FAYETTE COUNTY * | 39047C0039C | 02-MAR-2004
05 | OH | FAYETTE COUNTY * | 39047C0040C | 02-MAR-2004
05 | OH | FAYETTE COUNTY * | 39047C0043C | 02-MAR-2004
05 | OH | FAYETTE COUNTY * | 39047C0045C | 02-MAR-2004
05 | OH | FAYETTE COUNTY * | 39047C0050C | 02-MAR-2004
05 | OH | FAYETTE COUNTY * | 39047C0055C | 02-MAR-2004
05 | OH | FAYETTE COUNTY * | 39047C0060C | 02-MAR-2004
05 | OH | FAYETTE COUNTY * | 39047C0065C | 02-MAR-2004
05 | OH | FAYETTE COUNTY * | 39047C0070C | 02-MAR-2004
05 | OH | FAYETTE COUNTY * | 39047C0100C | 02-MAR-2004
05 | OH | FAYETTE COUNTY * | 39047C0125C | 02-MAR-2004
05 | OH | FAYETTE COUNTY * | 39047C0130C | 02-MAR-2004
05 | OH | FAYETTE COUNTY * | 39047C0131C | 02-MAR-2004
05 | OH | FAYETTE COUNTY * | 39047C0150C | 02-MAR-2004
05 | OH | FAYETTE COUNTY * | 39047C0155C | 02-MAR-2004
05 | OH | FAYETTE COUNTY * | 39047C0160C | 02-MAR-2004
05 | OH | FAYETTE COUNTY * | 39047C0162C | 02-MAR-2004
05 | OH | FAYETTE COUNTY * | 39047C0165C | 02-MAR-2004
05 | OH | FAYETTE COUNTY * | 39047C0166C | 02-MAR-2004
05 | OH | FAYETTE COUNTY * | 39047C0170C | 02-MAR-2004
05 | OH | FAYETTE COUNTY * | 39047C0200C | 02-MAR-2004
05 | OH | FAYETTE COUNTY * | 39047C0225C | 02-MAR-2004
05 | OH | FAYETTE COUNTY * | 39047C0250C | 02-MAR-2004
05 | OH | FAYETTE COUNTY * | 39047C0275C | 02-MAR-2004
05 | OH | FAYETTE COUNTY * | 39047CIND0A** | 02-MAR-2004
05 | OH | FOREST PARK, CITY OF | 39061C0065D | 17-MAY-2004
05 | OH | FOREST PARK, CITY OF | 39061C0070D | 17-MAY-2004
05 | OH | FOREST PARK, CITY OF | 39061C0086D | 17-MAY-2004
05 | OH | FOREST PARK, CITY OF | 39061C0088D | 17-MAY-2004
05 | OH | FOREST PARK, CITY OF | 39061CIND0A** | 17-MAY-2004
05 | OH | FRANKLIN COUNTY* | 39049C0018J | 16-MAR-2004
05 | OH | FRANKLIN COUNTY* | 39049C0019J | 16-MAR-2004
05 | OH | FRANKLIN COUNTY* | 39049C0102H | 16-MAR-2004
05 | OH | FRANKLIN COUNTY* | 39049C0104H | 16-MAR-2004
05 | OH | FRANKLIN COUNTY* | 39049C0106H | 16-MAR-2004
05 | OH | FRANKLIN COUNTY* | 39049C0107H | 16-MAR-2004
05 | OH | FRANKLIN COUNTY* | 39049C0126H | 16-MAR-2004
05 | OH | FRANKLIN COUNTY* | 39049C0139H | 16-MAR-2004
05 | OH | FRANKLIN COUNTY* | 39049C0227H | 16-MAR-2004
05 | OH | FRANKLIN COUNTY* | 39049C0231H | 16-MAR-2004
05 | OH | FRANKLIN COUNTY* | 39049C0232H | 16-MAR-2004
05 | OH | FRANKLIN COUNTY* | 39049C0233H | 16-MAR-2004
05 | OH | FRANKLIN COUNTY* | 39049C0234H | 16-MAR-2004
05 | OH | FRANKLIN COUNTY* | 39049C0241H | 16-MAR-2004
05 | OH | FRANKLIN COUNTY* | 39049C0242H | 16-MAR-2004
05 | OH | FRANKLIN COUNTY* | 39049C0244H | 16-MAR-2004
05 | OH | FRANKLIN COUNTY* | 39049C0255H | 16-MAR-2004
05 | OH | FRANKLIN COUNTY* | 39049C0265H | 16-MAR-2004
05 | OH | FRANKLIN COUNTY* | 39049CIND0A** | 16-MAR-2004
05 | OH | GAHANNA, CITY OF | 39049CIND0A** | 16-MAR-2004
05 | OH | GLENDALE, VILLAGE OF | 39061C0088D | 17-MAY-2004
05 | OH | GLENDALE, VILLAGE OF | 39061C0089D | 17-MAY-2004
05 | OH | GLENDALE, VILLAGE OF | 39061CIND0A** | 17-MAY-2004
05 | OH | GOLF MANOR, CITY OF | 39061C0204D | 17-MAY-2004
05 | OH | GOLF MANOR, CITY OF | 39061CIND0A** | 17-MAY-2004
05 | OH | GRANDVIEW HEIGHTS, CITY OF | 39049C0231H | 16-MAR-2004
05 | OH | GRANDVIEW HEIGHTS, CITY OF | 39049C0232H | 16-MAR-2004
05 | OH | GRANDVIEW HEIGHTS, CITY OF | 39049CIND0A** | 16-MAR-2004
05 | OH | GREENHILLS, VILLAGE OF | 39061C0070D | 17-MAY-2004
05 | OH | GREENHILLS, VILLAGE OF | 39061CIND0A** | 17-MAY-2004
05 | OH | GROVE CITY, CITY OF | 39049C0244H | 16-MAR-2004
05 | OH | GROVE CITY, CITY OF | 39049CIND0A** | 16-MAR-2004
05 | OH | GROVEPORT, VILLAGE OF | 39049CIND0A** | 16-MAR-2004
05 | OH | HAMILTON COUNTY * | 39061C0015D | 17-MAY-2004
05 | OH | HAMILTON COUNTY * | 39061C0020D | 17-MAY-2004
05 | OH | HAMILTON COUNTY * | 39061C0040D | 17-MAY-2004
05 | OH | HAMILTON COUNTY * | 39061C0045D | 17-MAY-2004
05 | OH | HAMILTON COUNTY * | 39061C0065D | 17-MAY-2004
05 | OH | HAMILTON COUNTY * | 39061C0070D | 17-MAY-2004
05 | OH | HAMILTON COUNTY * | 39061C0086D | 17-MAY-2004
05 | OH | HAMILTON COUNTY * | 39061C0087D | 17-MAY-2004
05 | OH | HAMILTON COUNTY * | 39061C0088D | 17-MAY-2004
05 | OH | HAMILTON COUNTY * | 39061C0089D | 17-MAY-2004
05 | OH | HAMILTON COUNTY * | 39061C0091D | 17-MAY-2004
05 | OH | HAMILTON COUNTY * | 39061C0092D | 17-MAY-2004
05 | OH | HAMILTON COUNTY * | 39061C0093D | 17-MAY-2004
05 | OH | HAMILTON COUNTY * | 39061C0094D | 17-MAY-2004
05 | OH | HAMILTON COUNTY * | 39061C0113D | 17-MAY-2004
05 | OH | HAMILTON COUNTY * | 39061C0114D | 17-MAY-2004
05 | OH | HAMILTON COUNTY * | 39061C0115D | 17-MAY-2004
05 | OH | HAMILTON COUNTY * | 39061C0118D | 17-MAY-2004
05 | OH | HAMILTON COUNTY * | 39061C0120D | 17-MAY-2004
05 | OH | HAMILTON COUNTY * | 39061C0130D | 17-MAY-2004
05 | OH | HAMILTON COUNTY * | 39061C0135D | 17-MAY-2004
05 | OH | HAMILTON COUNTY * | 39061C0140D | 17-MAY-2004
05 | OH | HAMILTON COUNTY * | 39061C0145D | 17-MAY-2004
05 | OH | HAMILTON COUNTY * | 39061C0155D | 17-MAY-2004
05 | OH | HAMILTON COUNTY * | 39061C0160D | 17-MAY-2004
05 | OH | HAMILTON COUNTY * | 39061C0164D | 17-MAY-2004
05 | OH | HAMILTON COUNTY * | 39061C0165D | 17-MAY-2004
05 | OH | HAMILTON COUNTY * | 39061C0170D | 17-MAY-2004
05 | OH | HAMILTON COUNTY * | 39061C0180D | 17-MAY-2004
05 | OH | HAMILTON COUNTY * | 39061C0181D | 17-MAY-2004
05 | OH | HAMILTON COUNTY * | 39061C0183D | 17-MAY-2004
05 | OH | HAMILTON COUNTY * | 39061C0185D | 17-MAY-2004
05 | OH | HAMILTON COUNTY * | 39061C0187D | 17-MAY-2004
05 | OH | HAMILTON COUNTY * | 39061C0191D | 17-MAY-2004
05 | OH | HAMILTON COUNTY * | 39061C0192D | 17-MAY-2004
05 | OH | HAMILTON COUNTY * | 39061C0193D | 17-MAY-2004
05 | OH | HAMILTON COUNTY * | 39061C0201D | 17-MAY-2004
05 | OH | HAMILTON COUNTY * | 39061C0202D | 17-MAY-2004
05 | OH | HAMILTON COUNTY * | 39061C0203D | 17-MAY-2004
05 | OH | HAMILTON COUNTY * | 39061C0204D | 17-MAY-2004
05 | OH | HAMILTON COUNTY * | 39061C0206D | 17-MAY-2004
05 | OH | HAMILTON COUNTY * | 39061C0207D | 17-MAY-2004
05 | OH | HAMILTON COUNTY * | 39061C0208D | 17-MAY-2004
05 | OH | HAMILTON COUNTY * | 39061C0211D | 17-MAY-2004
05 | OH | HAMILTON COUNTY * | 39061C0216D | 17-MAY-2004
05 | OH | HAMILTON COUNTY * | 39061C0217D | 17-MAY-2004
05 | OH | HAMILTON COUNTY * | 39061C0218D | 17-MAY-2004
05 | OH | HAMILTON COUNTY * | 39061C0219D | 17-MAY-2004
05 | OH | HAMILTON COUNTY * | 39061C0226D | 17-MAY-2004
05 | OH | HAMILTON COUNTY * | 39061C0227D | 17-MAY-2004
05 | OH | HAMILTON COUNTY * | 39061C0228D | 17-MAY-2004
05 | OH | HAMILTON COUNTY * | 39061C0229D | 17-MAY-2004
05 | OH | HAMILTON COUNTY * | 39061C0235D | 17-MAY-2004
05 | OH | HAMILTON COUNTY * | 39061C0236D | 17-MAY-2004
05 | OH | HAMILTON COUNTY * | 39061C0240D | 17-MAY-2004
05 | OH | HAMILTON COUNTY * | 39061C0241D | 17-MAY-2004
05 | OH | HAMILTON COUNTY * | 39061C0243D | 17-MAY-2004
05 | OH | HAMILTON COUNTY * | 39061C0255D | 17-MAY-2004
05 | OH | HAMILTON COUNTY * | 39061C0260D | 17-MAY-2004
05 | OH | HAMILTON COUNTY * | 39061C0277D | 17-MAY-2004
05 | OH | HAMILTON COUNTY * | 39061C0281D | 17-MAY-2004
05 | OH | HAMILTON COUNTY * | 39061C0282D | 17-MAY-2004
05 | OH | HAMILTON COUNTY * | 39061C0284D | 17-MAY-2004
05 | OH | HAMILTON COUNTY * | 39061C0303D | 17-MAY-2004
05 | OH | HAMILTON COUNTY * | 39061C0304D | 17-MAY-2004
05 | OH | HAMILTON COUNTY * | 39061C0305D | 17-MAY-2004
05 | OH | HAMILTON COUNTY * | 39061C0306D | 17-MAY-2004
05 | OH | HAMILTON COUNTY * | 39061C0307D | 17-MAY-2004
05 | OH | HAMILTON COUNTY * | 39061C0308D | 17-MAY-2004
05 | OH | HAMILTON COUNTY * | 39061C0309D | 17-MAY-2004
05 | OH | HAMILTON COUNTY * | 39061C0326D | 17-MAY-2004
05 | OH | HAMILTON COUNTY * | 39061C0327D | 17-MAY-2004
05 | OH | HAMILTON COUNTY * | 39061C0331D | 17-MAY-2004
05 | OH | HAMILTON COUNTY * | 39061C0332D | 17-MAY-2004
05 | OH | HAMILTON COUNTY * | 39061C0333D | 17-MAY-2004
05 | OH | HAMILTON COUNTY * | 39061C0345D | 17-MAY-2004
05 | OH | HAMILTON COUNTY * | 39061C0355D | 17-MAY-2004
05 | OH | HAMILTON COUNTY * | 39061C0365D | 17-MAY-2004
05 | OH | HAMILTON COUNTY * | 39061CIND0A** | 17-MAY-2004
05 | OH | HARRISBURG, VILLAGE OF | 39049CIND0A** | 16-MAR-2004
05 | OH | HARRISON, CITY OF | 39061C0015D | 17-MAY-2004
05 | OH | HARRISON, CITY OF | 39061C0020D | 17-MAY-2004
05 | OH | HARRISON, CITY OF | 39061C0130D | 17-MAY-2004
05 | OH | HARRISON, CITY OF | 39061C0135D | 17-MAY-2004
05 | OH | HARRISON, CITY OF | 39061CIND0A** | 17-MAY-2004
05 | OH | HILLIARD, CITY OF | 39049CIND0A** | 16-MAR-2004
05 | OH | INDIAN HILL, CITY OF | 39061C0114D | 17-MAY-2004
05 | OH | INDIAN HILL, CITY OF | 39061C0217D | 17-MAY-2004
05 | OH | INDIAN HILL, CITY OF | 39061C0219D | 17-MAY-2004
05 | OH | INDIAN HILL, CITY OF | 39061C0226D | 17-MAY-2004
05 | OH | INDIAN HILL, CITY OF | 39061C0227D | 17-MAY-2004
05 | OH | INDIAN HILL, CITY OF | 39061C0228D | 17-MAY-2004
05 | OH | INDIAN HILL, CITY OF | 39061C0229D | 17-MAY-2004
05 | OH | INDIAN HILL, CITY OF | 39061C0235D | 17-MAY-2004
05 | OH | INDIAN HILL, CITY OF | 39061C0236D | 17-MAY-2004
05 | OH | INDIAN HILL, CITY OF | 39061C0240D | 17-MAY-2004
05 | OH | INDIAN HILL, CITY OF | 39061C0241D | 17-MAY-2004
05 | OH | INDIAN HILL, CITY OF | 39061CIND0A** | 17-MAY-2004
05 | OH | JEFFERSONVILLE, VILLAGE OF | 39047C0037C | 02-MAR-2004
05 | OH | JEFFERSONVILLE, VILLAGE OF | 39047C0039C | 02-MAR-2004
05 | OH | JEFFERSONVILLE, VILLAGE OF | 39047C0043C | 02-MAR-2004
05 | OH | JEFFERSONVILLE, VILLAGE OF | 39047C0045C | 02-MAR-2004
05 | OH | JEFFERSONVILLE, VILLAGE OF | 39047CIND0A** | 02-MAR-2004
05 | OH | LINCOLN HEIGHTS, CITY OF | 39061C0089D | 17-MAY-2004
05 | OH | LINCOLN HEIGHTS, CITY OF | 39061C0202D | 17-MAY-2004
05 | OH | LINCOLN HEIGHTS, CITY OF | 39061CIND0A** | 17-MAY-2004
05 | OH | LOCKBOURNE, VILLAGE OF | 39049CIND0A** | 16-MAR-2004
05 | OH | LOCKLAND, VILLAGE OF | 39061C0202D | 17-MAY-2004
05 | OH | LOCKLAND, VILLAGE OF | 39061CIND0A** | 17-MAY-2004
05 | OH | LOVELAND, CITY OF | 39061C0118D | 17-MAY-2004
05 | OH | LOVELAND, CITY OF | 39061C0120D | 17-MAY-2004
05 | OH | LOVELAND, CITY OF | 39061CIND0A** | 17-MAY-2004
05 | OH | MADEIRA, CITY OF | 39061C0217D | 17-MAY-2004
05 | OH | MADEIRA, CITY OF | 39061C0228D | 17-MAY-2004
05 | OH | MADEIRA, CITY OF | 39061C0236D | 17-MAY-2004
05 | OH | MADEIRA, CITY OF | 39061CIND0A** | 17-MAY-2004
05 | OH | MARBLE CLIFF, VILLAGE OF | 39049C0227H | 16-MAR-2004
05 | OH | MARBLE CLIFF, VILLAGE OF | 39049C0231H | 16-MAR-2004
05 | OH | MARBLE CLIFF, VILLAGE OF | 39049CIND0A** | 16-MAR-2004
05 | OH | MARIEMONT, VILLAGE OF | 39061C0219D | 17-MAY-2004
05 | OH | MARIEMONT, VILLAGE OF | 39061C0240D | 17-MAY-2004
05 | OH | MARIEMONT, VILLAGE OF | 39061CIND0A** | 17-MAY-2004
05 | OH | MILFORD, CITY OF | 39061CIND0A** | 17-MAY-2004
05 | OH | MILLEDGEV ILLE, VILLAGE OF | 39047C0130C | 02-MAR-2004
05 | OH | MILLEDGEV ILLE, VILLAGE OF | 39047CIND0A** | 02-MAR-2004
05 | OH | MINERVA PARK, VILLAGE OF | 39049CIND0A** | 16-MAR-2004
05 | OH | MONTGOMERY, CITY OF | 39061C0113D | 17-MAY-2004
05 | OH | MONTGOMERY, CITY OF | 39061C0114D | 17-MAY-2004
05 | OH | MONTGOMERY, CITY OF | 39061C0118D | 17-MAY-2004
05 | OH | MONTGOMERY, CITY OF | 39061C0226D | 17-MAY-2004
05 | OH | MONTGOMERY, CITY OF | 39061C0227D | 17-MAY-2004
05 | OH | MONTGOMERY, CITY OF | 39061CIND0A** | 17-MAY-2004
05 | OH | MOUNT HEALTHY, CITY OF | 39061C0181D | 17-MAY-2004
05 | OH | MOUNT HEALTHY, CITY OF | 39061CIND0A** | 17-MAY-2004
05 | OH | NEW ALBANY, VILLAGE OF | 39049CIND0A** | 16-MAR-2004
05 | OH | NEW ROME, VILLAGE OF | 39049CIND0A** | 16-MAR-2004
05 | OH | NEWTOWN, VILLAGE OF | 39061C0240D | 17-MAY-2004
05 | OH | NEWTOWN, VILLAGE OF | 39061C0355D | 17-MAY-2004
05 | OH | NEWTOWN, VILLAGE OF | 39061CIND0A** | 17-MAY-2004
05 | OH | NORTH BEND, VILLAGE OF | 39061C0145D | 17-MAY-2004
05 | OH | NORTH BEND, VILLAGE OF | 39061C0165D | 17-MAY-2004
05 | OH | NORTH BEND, VILLAGE OF | 39061CIND0A** | 17-MAY-2004
05 | OH | NORTH COLLEGE HILL, CITY OF | 39061C0180D | 17-MAY-2004
05 | OH | NORTH COLLEGE HILL, CITY OF | 39061C0181D | 17-MAY-2004
05 | OH | NORTH COLLEGE HILL, CITY OF | 39061C0183D | 17-MAY-2004
05 | OH | NORTH COLLEGE HILL, CITY OF | 39061CIND0A** | 17-MAY-2004
05 | OH | NORWOOD, CITY OF | 39061C0211D | 17-MAY-2004
05 | OH | NORWOOD, CITY OF | 39061C0216D | 17-MAY-2004
05 | OH | NORWOOD, CITY OF | 39061CIND0A** | 17-MAY-2004
05 | OH | OBETZ, VILLAGE OF | 39049C0265H | 16-MAR-2004
05 | OH | OBETZ, VILLAGE OF | 39049CIND0A** | 16-MAR-2004
05 | OH | OCTA, VILLAGE OF | 39047C0130C | 02-MAR-2004
05 | OH | OCTA, VILLAGE OF | 39047CIND0A** | 02-MAR-2004
05 | OH | PICKERINGTON, VILLAGE OF | 39049CIND0A** | 16-MAR-2004
05 | OH | READING, CITY OF | 39061C0202D | 17-MAY-2004
05 | OH | READING, CITY OF | 39061C0204D | 17-MAY-2004
05 | OH | READING, CITY OF | 39061C0206D | 17-MAY-2004
05 | OH | READING, CITY OF | 39061C0208D | 17-MAY-2004
05 | OH | READING, CITY OF | 39061CIND0A** | 17-MAY-2004
05 | OH | REYNOLDSBURG, CITY OF | 39049CIND0A** | 16-MAR-2004
05 | OH | RIVERLEA, VILLAGE OF | 39049CIND0A** | 16-MAR-2004
05 | OH | SHARONVILLE,CITY OF | 39061C0087D | 17-MAY-2004
05 | OH | SHARONVILLE,CITY OF | 39061C0089D | 17-MAY-2004
05 | OH | SHARONVILLE,CITY OF | 39061C0091D | 17-MAY-2004
05 | OH | SHARONVILLE,CITY OF | 39061C0092D | 17-MAY-2004
05 | OH | SHARONVILLE,CITY OF | 39061C0093D | 17-MAY-2004
05 | OH | SHARONVILLE,CITY OF | 39061C0094D | 17-MAY-2004
05 | OH | SHARONVILLE,CITY OF | 39061C0113D | 17-MAY-2004
05 | OH | SHARONVILLE,CITY OF | 39061C0115D | 17-MAY-2004
05 | OH | SHARONVILLE,CITY OF | 39061CIND0A** | 17-MAY-2004
05 | OH | SILVERTON, CITY OF | 39061C0208D | 17-MAY-2004
05 | OH | SILVERTON, CITY OF | 39061C0216D | 17-MAY-2004
05 | OH | SILVERTON, CITY OF | 39061C0217D | 17-MAY-2004
05 | OH | SILVERTON, CITY OF | 39061CIND0A** | 17-MAY-2004
05 | OH | SPRINGDALE, CITY OF | 39061C0070D | 17-MAY-2004
05 | OH | SPRINGDALE, CITY OF | 39061C0086D | 17-MAY-2004
05 | OH | SPRINGDALE, CITY OF | 39061C0087D | 17-MAY-2004
05 | OH | SPRINGDALE, CITY OF | 39061C0088D | 17-MAY-2004
05 | OH | SPRINGDALE, CITY OF | 39061C0089D | 17-MAY-2004
05 | OH | SPRINGDALE, CITY OF | 39061CIND0A** | 17-MAY-2004
05 | OH | ST. BERNARD, CITY OF | 39061C0192D | 17-MAY-2004
05 | OH | ST. BERNARD, CITY OF | 39061C0211D | 17-MAY-2004
05 | OH | ST. BERNARD, CITY OF | 39061CIND0A** | 17-MAY-2004
05 | OH | TERRACE PARK, VILLAGE OF | 39061C0240D | 17-MAY-2004
05 | OH | TERRACE PARK, VILLAGE OF | 39061C0241D | 17-MAY-2004
05 | OH | TERRACE PARK, VILLAGE OF | 39061C0243D | 17-MAY-2004
05 | OH | TERRACE PARK, VILLAGE OF | 39061CIND0A** | 17-MAY-2004
05 | OH | UPPER ARLINGTON, CITY OF | 39049C0139H | 16-MAR-2004
05 | OH | UPPER ARLINGTON, CITY OF | 39049C0227H | 16-MAR-2004
05 | OH | UPPER ARLINGTON, CITY OF | 39049C0231H | 16-MAR-2004
05 | OH | UPPER ARLINGTON, CITY OF | 39049CIND0A** | 16-MAR-2004
05 | OH | URBANCREST, VILLAGE OF | 39049CIND0A** | 16-MAR-2004
05 | OH | VALLEYVIEW, VILLAGE OF | 39049CIND0A** | 16-MAR-2004
05 | OH | WASHINGTON COURTHOUSE, CITY OF | 39047C0162C | 02-MAR-2004
05 | OH | WASHINGTON COURTHOUSE, CITY OF | 39047C0165C | 02-MAR-2004
05 | OH | WASHINGTON COURTHOUSE, CITY OF | 39047C0166C | 02-MAR-2004
05 | OH | WASHINGTON COURTHOUSE, CITY OF | 39047C0170C | 02-MAR-2004
05 | OH | WASHINGTON COURTHOUSE, CITY OF | 39047CIND0A** | 02-MAR-2004
05 | OH | WESTERVILLE, CITY OF | 39049CIND0A** | 16-MAR-2004
05 | OH | WHITEHALL, CITY OF | 39049CIND0A** | 16-MAR-2004
05 | OH | WOODLAWN, VILLAGE OF | 39061C0088D | 17-MAY-2004
05 | OH | WOODLAWN, VILLAGE OF | 39061C0089D | 17-MAY-2004
05 | OH | WOODLAWN, VILLAGE OF | 39061C0201D | 17-MAY-2004
05 | OH | WOODLAWN, VILLAGE OF | 39061C0202D | 17-MAY-2004
05 | OH | WOODLAWN, VILLAGE OF | 39061CIND0A** | 17-MAY-2004
05 | OH | WORTHINGTON, CITY OF | 39049CIND0A** | 16-MAR-2004
05 | OH | WYOMING, CITY OF | 39061C0185D | 17-MAY-2004
05 | OH | WYOMING, CITY OF | 39061C0201D | 17-MAY-2004
05 | OH | WYOMING, CITY OF | 39061C0202D | 17-MAY-2004
05 | OH | WYOMING, CITY OF | 39061C0203D | 17-MAY-2004
05 | OH | WYOMING, CITY OF | 39061C0204D | 17-MAY-2004
05 | OH | WYOMING, CITY OF | 39061CIND0A** | 17-MAY-2004
05 | OH | XENIA, CITY OF | 3901970005C | 02-APR-2004
05 | OH | XENIA, CITY OF | 3901970006C | 02-APR-2004
05 | OH | XENIA, CITY OF | 3901970007C | 02-APR-2004
05 | OH | XENIA, CITY OF | 3901970008C | 02-APR-2004
05 | OH | XENIA, CITY OF | 3901970009C | 02-APR-2004
05 | OH | XENIA, CITY OF | 3901970010C | 02-APR-2004
05 | OH | XENIA, CITY OF | 3901970012C | 02-APR-2004
05 | OH | XENIA, CITY OF | 3901970013C | 02-APR-2004
05 | OH | XENIA, CITY OF | 390197IND0A** | 02-APR-2004
05 | WI | NEW RICHMOND, CITY OF | 5503840002C | 16-JUL-2004
05 | WI | NEW RICHMOND, CITY OF | 5503840003C | 16-JUL-2004
05 | WI | NEW RICHMOND, CITY OF | 5503840004C | 16-JUL-2004
05 | WI | NEW RICHMOND, CITY OF | 5503840005C | 16-JUL-2004
05 | WI | NEW RICHMOND, CITY OF | 5503840006C | 16-JUL-2004
05 | WI | NEW RICHMOND, CITY OF | 550384IND0A** | 16-JUL-2004
06 | AR | CHEROKEE VILLAGE, CITY OF | 0506030004A | 16-APR-2004
06 | AR | CHEROKEE VILLAGE, CITY OF | 0506030005A | 16-APR-2004
06 | AR | CHEROKEE VILLAGE, CITY OF | 0506030008A | 16-APR-2004
06 | AR | CHEROKEE VILLAGE, CITY OF | 0506030009A | 16-APR-2004
06 | AR | CHEROKEE VILLAGE, CITY OF | 0506030010A | 16-APR-2004
06 | AR | CHEROKEE VILLAGE, CITY OF | 0506030014A | 16-APR-2004
06 | AR | CHEROKEE VILLAGE, CITY OF | 050603IND0A** | 16-APR-2004
06 | LA | BELCHER, VILLAGE OF | 22017CIND0A** | 17-MAY-2004
06 | LA | BLANCHARD, VILLAGE OF | 22017CIND0A** | 17-MAY-2004
06 | LA | CADDO PARISH* | 22017C0175G | 17-MAY-2004
06 | LA | CADDO PARISH* | 22017C0190G | 17-MAY-2004
06 | LA | CADDO PARISH* | 22017C0250G | 17-MAY-2004
06 | LA | CADDO PARISH* | 22017C0255G | 17-MAY-2004
06 | LA | CADDO PARISH* | 22017C0260G | 17-MAY-2004
06 | LA | CADDO PARISH* | 22017C0265G | 17-MAY-2004
06 | LA | CADDO PARISH* | 22017C0580G | 17-MAY-2004
06 | LA | CADDO PARISH* | 22017C0585G | 17-MAY-2004
06 | LA | CADDO PARISH* | 22017C0590G | 17-MAY-2004
06 | LA | CADDO PARISH* | 22017C0595G | 17-MAY-2004
06 | LA | CADDO PARISH* | 22017C0605G | 17-MAY-2004
06 | LA | CADDO PARISH* | 22017C0610G | 17-MAY-2004
06 | LA | CADDO PARISH* | 22017CIND0A** | 17-MAY-2004
06 | LA | GILLIAM, VILLAGE OF | 22017CIND0A** | 17-MAY-2004
06 | LA | GREENWOOD, TOWN OF | 22017CIND0A** | 17-MAY-2004
06 | LA | HOSSTON, TOWN OF | 22017CIND0A** | 17-MAY-2004
06 | LA | IDA, VILLAGE OF | 22017CIND0A** | 17-MAY-2004
06 | LA | MOORINGSPORT, TOWN OF | 22017C0255G | 17-MAY-2004
06 | LA | MOORINGSPORT, TOWN OF | 22017C0265G | 17-MAY-2004
06 | LA | MOORINGSPORT, TOWN OF | 22017CIND0A** | 17-MAY-2004
06 | LA | OIL CITY, TOWN OF | 22017C0190G | 17-MAY-2004
06 | LA | OIL CITY, TOWN OF | 22017C0255G | 17-MAY-2004
06 | LA | OIL CITY, TOWN OF | 22017CIND0A** | 17-MAY-2004
06 | LA | RODESSA, VILLAGE OF | 22017CIND0A** | 17-MAY-2004
06 | LA | SHREVEPORT, CITY OF | 22017C0585G | 17-MAY-2004
06 | LA | SHREVEPORT, CITY OF | 22017C0605G | 17-MAY-2004
06 | LA | SHREVEPORT, CITY OF | 22017CIND0A** | 17-MAY-2004
06 | LA | VIVIAN, TOWN OF | 22017C0175G | 17-MAY-2004
06 | LA | VIVIAN, TOWN OF | 22017CIND0A** | 17-MAY-2004
06 | TX | CROCKETT COUNTY* | 4801580001B*** | 01-APR-2004
06 | TX | CROCKETT COUNTY* | 4801580002B*** | 01-APR-2004
06 | TX | CROCKETT COUNTY* | 4801580003B*** | 01-APR-2004
06 | TX | CROCKETT COUNTY* | 4801580004B*** | 01-APR-2004
06 | TX | CROCKETT COUNTY* | 4801580005B*** | 01-APR-2004
06 | TX | CROCKETT COUNTY* | 4801580006B*** | 01-APR-2004
06 | TX | CROCKETT COUNTY* | 4801580007B*** | 01-APR-2004
06 | TX | CROCKETT COUNTY* | 4801580008B*** | 01-APR-2004
06 | TX | CROCKETT COUNTY* | 4801580009B*** | 01-APR-2004
06 | TX | CROCKETT COUNTY* | 4801580010B*** | 01-APR-2004
06 | TX | CROCKETT COUNTY* | 4801580011B*** | 01-APR-2004
06 | TX | CROCKETT COUNTY* | 4801580012B*** | 01-APR-2004
06 | TX | CROCKETT COUNTY* | 4801580013B*** | 01-APR-2004
06 | TX | CROCKETT COUNTY* | 4801580014B*** | 01-APR-2004
06 | TX | CROCKETT COUNTY* | 4801580015B*** | 01-APR-2004
06 | TX | CROCKETT COUNTY* | 4801580016B*** | 01-APR-2004
06 | TX | CROCKETT COUNTY* | 4801580017B*** | 01-APR-2004
06 | TX | CROCKETT COUNTY* | 4801580018B*** | 01-APR-2004
06 | TX | CROCKETT COUNTY* | 4801580019B*** | 01-APR-2004
06 | TX | CROCKETT COUNTY* | 4801580020B*** | 01-APR-2004
06 | TX | CROCKETT COUNTY* | 4801580021B*** | 01-APR-2004
06 | TX | CROCKETT COUNTY* | 4801580022B*** | 01-APR-2004
06 | TX | CROCKETT COUNTY* | 4801580023B*** | 01-APR-2004
06 | TX | CROCKETT COUNTY* | 4801580024B*** | 01-APR-2004
06 | TX | CROCKETT COUNTY* | 4801580025B*** | 01-APR-2004
06 | TX | CROCKETT COUNTY* | 4801580026B*** | 01-APR-2004
06 | TX | CROCKETT COUNTY* | 4801580027B*** | 01-APR-2004
06 | TX | CROCKETT COUNTY* | 4801580028B*** | 01-APR-2004
06 | TX | CROCKETT COUNTY* | 4801580029B*** | 01-APR-2004
06 | TX | CROCKETT COUNTY* | 4801589999A*** | 01-APR-2004
06 | TX | CROCKETT COUNTY* | 480158IND0A*** | 01-APR-2004
06 | TX | ERATH COUNTY* | 4802180001B*** | 01-APR-2004
06 | TX | ERATH COUNTY* | 4802180002B*** | 01-APR-2004
06 | TX | ERATH COUNTY* | 4802180003B*** | 01-APR-2004
06 | TX | ERATH COUNTY* | 4802180004B*** | 01-APR-2004
06 | TX | ERATH COUNTY* | 4802180005B*** | 01-APR-2004
06 | TX | ERATH COUNTY* | 4802180006B*** | 01-APR-2004
06 | TX | ERATH COUNTY* | 4802180007B*** | 01-APR-2004
06 | TX | ERATH COUNTY* | 4802180008B*** | 01-APR-2004
06 | TX | ERATH COUNTY* | 4802180009B*** | 01-APR-2004
06 | TX | ERATH COUNTY* | 4802180010B*** | 01-APR-2004
06 | TX | ERATH COUNTY* | 4802180011B*** | 01-APR-2004
06 | TX | ERATH COUNTY* | 4802180012B*** | 01-APR-2004
06 | TX | ERATH COUNTY* | 4802180013B*** | 01-APR-2004
06 | TX | ERATH COUNTY* | 4802180014B*** | 01-APR-2004
06 | TX | ERATH COUNTY* | 4802180015B*** | 01-APR-2004
06 | TX | ERATH COUNTY* | 4802180016B*** | 01-APR-2004
06 | TX | ERATH COUNTY* | 4802189999A*** | 01-APR-2004
06 | TX | ERATH COUNTY* | 480218IND0A*** | 01-APR-2004
06 | TX | KARNES COUNTY* | 4811750001B*** | 01-APR-2004
06 | TX | KARNES COUNTY* | 4811750002B*** | 01-APR-2004
06 | TX | KARNES COUNTY* | 4811750003B*** | 01-APR-2004
06 | TX | KARNES COUNTY* | 4811750004B*** | 01-APR-2004
06 | TX | KARNES COUNTY* | 4811750005B*** | 01-APR-2004
06 | TX | KARNES COUNTY* | 4811750006B*** | 01-APR-2004
06 | TX | KARNES COUNTY* | 4811750007B*** | 01-APR-2004
06 | TX | KARNES COUNTY* | 4811750008B*** | 01-APR-2004
06 | TX | KARNES COUNTY* | 4811750009B*** | 01-APR-2004
06 | TX | KARNES COUNTY* | 4811750010B*** | 01-APR-2004
06 | TX | KARNES COUNTY* | 4811759999A*** | 01-APR-2004
06 | TX | KARNES COUNTY* | 481175IND0A*** | 01-APR-2004
06 | TX | NAVARRO COUNTY* | 4809500001B*** | 01-APR-2004
06 | TX | NAVARRO COUNTY* | 4809500002B*** | 01-APR-2004
06 | TX | NAVARRO COUNTY* | 4809500003B*** | 01-APR-2004
06 | TX | NAVARRO COUNTY* | 4809500004B*** | 01-APR-2004
06 | TX | NAVARRO COUNTY* | 4809500005B*** | 01-APR-2004
06 | TX | NAVARRO COUNTY* | 4809500006B*** | 01-APR-2004
06 | TX | NAVARRO COUNTY* | 4809500007B*** | 01-APR-2004
06 | TX | NAVARRO COUNTY* | 4809500008B*** | 01-APR-2004
06 | TX | NAVARRO COUNTY* | 4809500009B*** | 01-APR-2004
06 | TX | NAVARRO COUNTY* | 4809500010B*** | 01-APR-2004
06 | TX | NAVARRO COUNTY* | 4809500011B*** | 01-APR-2004
06 | TX | NAVARRO COUNTY* | 4809500012B*** | 01-APR-2004
06 | TX | NAVARRO COUNTY* | 4809500013B*** | 01-APR-2004
06 | TX | NAVARRO COUNTY* | 4809500014B*** | 01-APR-2004
06 | TX | NAVARRO COUNTY* | 4809509999A*** | 01-APR-2004
06 | TX | NAVARRO COUNTY* | 480950IND0A*** | 01-APR-2004
06 | TX | VAN ZANDT COUNTY | 4810400001B*** | 01-APR-2004
06 | TX | VAN ZANDT COUNTY | 4810400002B*** | 01-APR-2004
06 | TX | VAN ZANDT COUNTY | 4810400003B*** | 01-APR-2004
06 | TX | VAN ZANDT COUNTY | 4810400004B*** | 01-APR-2004
06 | TX | VAN ZANDT COUNTY | 4810400005B*** | 01-APR-2004
06 | TX | VAN ZANDT COUNTY | 4810400006B*** | 01-APR-2004
06 | TX | VAN ZANDT COUNTY | 4810400007B*** | 01-APR-2004
06 | TX | VAN ZANDT COUNTY | 4810400008B*** | 01-APR-2004
06 | TX | VAN ZANDT COUNTY | 4810400009B*** | 01-APR-2004
06 | TX | VAN ZANDT COUNTY | 4810400010B*** | 01-APR-2004
06 | TX | VAN ZANDT COUNTY | 4810400011B*** | 01-APR-2004
06 | TX | VAN ZANDT COUNTY | 4810409999A*** | 01-APR-2004
06 | TX | VAN ZANDT COUNTY | 481040IND0A*** | 01-APR-2004
07 | IA | AMES, CITY OF | 1902540005D | 16-JUL-2004
07 | IA | AMES, CITY OF | 1902540006D | 16-JUL-2004
07 | IA | AMES, CITY OF | 1902540007D | 16-JUL-2004
07 | IA | AMES, CITY OF | 1902540008D | 16-JUL-2004
07 | IA | AMES, CITY OF | 1902540009D | 16-JUL-2004
07 | IA | AMES, CITY OF | 1902540010D | 16-JUL-2004
07 | IA | AMES, CITY OF | 1902540011D | 16-JUL-2004
07 | IA | AMES, CITY OF | 1902540012D | 16-JUL-2004
07 | IA | AMES, CITY OF | 1902540013D | 16-JUL-2004
07 | IA | AMES, CITY OF | 1902540014D | 16-JUL-2004
07 | IA | AMES, CITY OF | 1902540015D | 16-JUL-2004
07 | IA | AMES, CITY OF | 1902540016D | 16-JUL-2004
07 | IA | AMES, CITY OF | 190254IND0A** | 16-JUL-2004
07 | IA | LA PORTE CITY, CITY OF | 1903090001B | 16-MAR-2004
07 | KS | ABILENE, CITY OF | 20041CIND0A** | 02-JUN-2004
07 | KS | CHAPMAN, CITY OF | 20041CIND0A** | 02-JUN-2004
07 | KS | DICKINSON COUNTY * | 20041C0061D | 02-JUN-2004
07 | KS | DICKINSON COUNTY * | 20041CIND0A** | 02-JUN-2004
07 | KS | ENTERPRISE, CITY OF | 20041CIND0A** | 02-JUN-2004
07 | KS | HOPE, CITY OF | 20041CIND0A** | 02-JUN-2004
07 | KS | SOLOMON, CITY OF | 20041C0061D | 02-JUN-2004
07 | KS | SOLOMON, CITY OF | 20041CIND0A** | 02-JUN-2004
07 | MO | ALBANY, CITY OF | 2901450001C | 02-JUN-2004
07 | MO | ALBANY, CITY OF | 2901450002C | 02-JUN-2004
07 | MO | ALBANY, CITY OF | 2901450003C | 02-JUN-2004
07 | MO | ALBANY, CITY OF | 2901450004C | 02-JUN-2004
07 | MO | ALBANY, CITY OF | 290145IND0A** | 02-JUN-2004
07 | MO | CHRISTIAN COUNTY * | 2908470001B*** | 01-APR-2004
07 | MO | CHRISTIAN COUNTY * | 2908470002B*** | 01-APR-2004
07 | MO | CHRISTIAN COUNTY * | 2908470003B*** | 01-APR-2004
07 | MO | CHRISTIAN COUNTY * | 2908470004B*** | 01-APR-2004
07 | MO | CHRISTIAN COUNTY * | 2908470005B*** | 01-APR-2004
07 | MO | CHRISTIAN COUNTY * | 2908470006B*** | 01-APR-2004
07 | MO | CHRISTIAN COUNTY * | 2908470007B*** | 01-APR-2004
07 | MO | CHRISTIAN COUNTY * | 2908470008B*** | 01-APR-2004
07 | MO | CHRISTIAN COUNTY * | 2908479999A*** | 01-APR-2004
07 | MO | CHRISTIAN COUNTY * | 290847IND0A*** | 01-APR-2004
07 | MO | HILLSBORO, CITY OF | 2905739999A*** | 01-APR-2004
07 | MO | HILLSBORO, CITY OF | 290573A *** | 01-APR-2004
07 | MO | NORTHMOOR, CITY OF | 2902930001C | 16-JAN-2004
07 | MO | SENECA, CITY OF | 2902690001D | 16-JAN-2004
07 | MO | TANEY COUNTY* | 2904359999A*** | 01-APR-2004
07 | MO | TANEY COUNTY* | 290435B *** | 01-APR-2004
07 | NE | AXTELL, VILLAGE OF | 31099C-LETT | 07-APR-2004
07 | NE | AXTELL, VILLAGE OF | 31099C0260A | 16-JAN-2004
07 | NE | AXTELL, VILLAGE OF | 31099C0300A | 16-JAN-2004
07 | NE | AXTELL, VILLAGE OF | 31099CIND0A** | 16-JAN-2004
07 | NE | HEARTWELL, VILLAGE OF | 31099C-LETT | 07-APR-2004
07 | NE | HEARTWELL, VILLAGE OF | 31099C0225A | 16-JAN-2004
07 | NE | HEARTWELL, VILLAGE OF | 31099CIND0A** | 16-JAN-2004
07 | NE | KEARNEY COUNTY * | 31099C-LETT | 07-APR-2004
07 | NE | KEARNEY COUNTY * | 31099C0025A | 16-JAN-2004
07 | NE | KEARNEY COUNTY * | 31099C0040A | 16-JAN-2004
07 | NE | KEARNEY COUNTY * | 31099C0045A | 16-JAN-2004
07 | NE | KEARNEY COUNTY * | 31099C0075A | 16-JAN-2004
07 | NE | KEARNEY COUNTY * | 31099C0100A | 16-JAN-2004
07 | NE | KEARNEY COUNTY * | 31099C0125A | 16-JAN-2004
07 | NE | KEARNEY COUNTY * | 31099C0150A | 16-JAN-2004
07 | NE | KEARNEY COUNTY * | 31099C0175A | 16-JAN-2004
07 | NE | KEARNEY COUNTY * | 31099C0190A | 16-JAN-2004
07 | NE | KEARNEY COUNTY * | 31099C0200A | 16-JAN-2004
07 | NE | KEARNEY COUNTY * | 31099C0225A | 16-JAN-2004
07 | NE | KEARNEY COUNTY * | 31099C0250A | 16-JAN-2004
07 | NE | KEARNEY COUNTY * | 31099C0260A | 16-JAN-2004
07 | NE | KEARNEY COUNTY * | 31099C0275A | 16-JAN-2004
07 | NE | KEARNEY COUNTY * | 31099C0300A | 16-JAN-2004
07 | NE | KEARNEY COUNTY * | 31099C0305A | 16-JAN-2004
07 | NE | KEARNEY COUNTY * | 31099C0325A | 16-JAN-2004
07 | NE | KEARNEY COUNTY * | 31099C0350A | 16-JAN-2004
07 | NE | KEARNEY COUNTY * | 31099C0375A | 16-JAN-2004
07 | NE | KEARNEY COUNTY * | 31099C0380A | 16-JAN-2004
07 | NE | KEARNEY COUNTY * | 31099C0385A | 16-JAN-2004
07 | NE | KEARNEY COUNTY * | 31099C0425A | 16-JAN-2004
07 | NE | KEARNEY COUNTY * | 31099C0450A | 16-JAN-2004
07 | NE | KEARNEY COUNTY * | 31099C0475A | 16-JAN-2004
07 | NE | KEARNEY COUNTY * | 31099C0500A | 16-JAN-2004
07 | NE | KEARNEY COUNTY * | 31099CIND0A** | 16-JAN-2004
07 | NE | MINDEN, CITY OF | 31099C0190A | 16-JAN-2004
07 | NE | MINDEN, CITY OF | 31099C0200A | 16-JAN-2004
07 | NE | MINDEN, CITY OF | 31099C0305A | 16-JAN-2004
07 | NE | MINDEN, CITY OF | 31099C0325A | 16-JAN-2004
07 | NE | MINDEN, CITY OF | 31099CIND0A** | 16-JAN-2004
07 | NE | NORMAN, VILLAGE OF | 31099C-LETT | 07-APR-2004
07 | NE | NORMAN, VILLAGE OF | 31099C0350A | 16-JAN-2004
07 | NE | NORMAN, VILLAGE OF | 31099CIND0A** | 16-JAN-2004
07 | NE | WILCOX, VILLAGE OF | 31099C-LETT | 07-APR-2004
07 | NE | WILCOX, VILLAGE OF | 31099C0275A | 16-JAN-2004
07 | NE | WILCOX, VILLAGE OF | 31099C0380A | 16-JAN-2004
07 | NE | WILCOX, VILLAGE OF | 31099C0385A | 16-JAN-2004
07 | NE | WILCOX, VILLAGE OF | 31099CIND0A** | 16-JAN-2004
08 | ND | CANNONBALL, CITY OF | 38085CIND0A** | 17-MAY-2004
08 | ND | FORT YATES, CITY OF | 38085C0700B | 17-MAY-2004
08 | ND | FORT YATES, CITY OF | 38085CIND0A** | 17-MAY-2004
08 | ND | PORCUPINE, CITY OF | 38085CIND0A** | 17-MAY-2004
08 | ND | SELFRIDGE, CITY OF | 38085CIND0A** | 17-MAY-2004
08 | ND | SIOUX COUNTY * | 38085C0025B | 17-MAY-2004
08 | ND | SIOUX COUNTY * | 38085C0039B | 17-MAY-2004
08 | ND | SIOUX COUNTY * | 38085C0043B | 17-MAY-2004
08 | ND | SIOUX COUNTY * | 38085C0050B | 17-MAY-2004
08 | ND | SIOUX COUNTY * | 38085C0075B | 17-MAY-2004
08 | ND | SIOUX COUNTY * | 38085C0125B | 17-MAY-2004
08 | ND | SIOUX COUNTY * | 38085C0150B | 17-MAY-2004
08 | ND | SIOUX COUNTY * | 38085C0700B | 17-MAY-2004
08 | ND | SIOUX COUNTY * | 38085C0725B | 17-MAY-2004
08 | ND | SIOUX COUNTY * | 38085CIND0A** | 17-MAY-2004
08 | ND | SOLEN, CITY OF | 38085C0043B | 17-MAY-2004
08 | ND | SOLEN, CITY OF | 38085CIND0A** | 17-MAY-2004
08 | ND | STANDING ROCK INDIAN RESERVATION | 38085C0025B | 17-MAY-2004
08 | ND | STANDING ROCK INDIAN RESERVATION | 38085C0039B | 17-MAY-2004
08 | ND | STANDING ROCK INDIAN RESERVATION | 38085C0043B | 17-MAY-2004
08 | ND | STANDING ROCK INDIAN RESERVATION | 38085C0050B | 17-MAY-2004
08 | ND | STANDING ROCK INDIAN RESERVATION | 38085C0075B | 17-MAY-2004
08 | ND | STANDING ROCK INDIAN RESERVATION | 38085C0125B | 17-MAY-2004
08 | ND | STANDING ROCK INDIAN RESERVATION | 38085C0150B | 17-MAY-2004
08 | ND | STANDING ROCK INDIAN RESERVATION | 38085C0700B | 17-MAY-2004
08 | ND | STANDING ROCK INDIAN RESERVATION | 38085C0725B | 17-MAY-2004
08 | ND | STANDING ROCK INDIAN RESERVATION | 38085CIND0A** | 17-MAY-2004
08 | SD | BLUNT, CITY OF | 46065C0138C | 17-MAY-2004
08 | SD | BLUNT, CITY OF | 46065CIND0A** | 17-MAY-2004
08 | SD | CHARLES MIX COUNTY * | 46023C0025C | 02-JUN-2004
08 | SD | CHARLES MIX COUNTY * | 46023C0050C | 02-JUN-2004
08 | SD | CHARLES MIX COUNTY * | 46023C0075C | 02-JUN-2004
08 | SD | CHARLES MIX COUNTY * | 46023C0175C | 02-JUN-2004
08 | SD | CHARLES MIX COUNTY * | 46023C0200C | 02-JUN-2004
08 | SD | CHARLES MIX COUNTY * | 46023C0325C | 02-JUN-2004
08 | SD | CHARLES MIX COUNTY * | 46023C0350C | 02-JUN-2004
08 | SD | CHARLES MIX COUNTY * | 46023C0375C | 02-JUN-2004
08 | SD | CHARLES MIX COUNTY * | 46023C0400C | 02-JUN-2004
08 | SD | CHARLES MIX COUNTY * | 46023C0475C | 02-JUN-2004
08 | SD | CHARLES MIX COUNTY * | 46023C0550C | 02-JUN-2004
08 | SD | CHARLES MIX COUNTY * | 46023C0575C | 02-JUN-2004
08 | SD | CHARLES MIX COUNTY * | 46023C0600C | 02-JUN-2004
08 | SD | CHARLES MIX COUNTY * | 46023C0605C | 02-JUN-2004
08 | SD | CHARLES MIX COUNTY * | 46023C0610C | 02-JUN-2004
08 | SD | CHARLES MIX COUNTY * | 46023C0650C | 02-JUN-2004
08 | SD | CHARLES MIX COUNTY * | 46023C0681C | 02-JUN-2004
08 | SD | CHARLES MIX COUNTY * | 46023C0700C | 02-JUN-2004
08 | SD | CHARLES MIX COUNTY * | 46023C0725C | 02-JUN-2004
08 | SD | CHARLES MIX COUNTY * | 46023C0750C | 02-JUN-2004
08 | SD | CHARLES MIX COUNTY * | 46023C0775C | 02-JUN-2004
08 | SD | CHARLES MIX COUNTY * | 46023C0825C | 02-JUN-2004
08 | SD | CHARLES MIX COUNTY * | 46023C0850C | 02-JUN-2004
08 | SD | CHARLES MIX COUNTY * | 46023CIND0A** | 02-JUN-2004
08 | SD | CHEYENNE RIVER INDIAN RESERVATION DEWEY | 4612030620A | 03-MAY-2004
08 | SD | CHEYENNE RIVER INDIAN RESERVATION DEWEY | 4612030640A | 03-MAY-2004
08 | SD | CHEYENNE RIVER INDIAN RESERVATION DEWEY | 4612030650A | 03-MAY-2004
08 | SD | CHEYENNE RIVER INDIAN RESERVATION DEWEY | 4612030675A | 03-MAY-2004
08 | SD | CHEYENNE RIVER INDIAN RESERVATION DEWEY | 4612030800A | 03-MAY-2004
08 | SD | CHEYENNE RIVER INDIAN RESERVATION DEWEY | 4612030825A | 03-MAY-2004
08 | SD | CHEYENNE RIVER INDIAN RESERVATION DEWEY | 4612030850A | 03-MAY-2004
08 | SD | CHEYENNE RIVER INDIAN RESERVATION DEWEY | 4612030875A | 03-MAY-2004
08 | SD | CHEYENNE RIVER INDIAN RESERVATION DEWEY | 4612030900A | 03-MAY-2004
08 | SD | CHEYENNE RIVER INDIAN RESERVATION DEWEY | 4612030920A | 03-MAY-2004
08 | SD | CHEYENNE RIVER INDIAN RESERVATION DEWEY | 4612030925A | 03-MAY-2004
08 | SD | CHEYENNE RIVER INDIAN RESERVATION DEWEY | 4612030950A | 03-MAY-2004
08 | SD | CHEYENNE RIVER INDIAN RESERVATION DEWEY | 4612030975A | 03-MAY-2004
08 | SD | CHEYENNE RIVER INDIAN RESERVATION DEWEY | 4612030985A | 03-MAY-2004
08 | SD | CHEYENNE RIVER INDIAN RESERVATION DEWEY | 4612031000A | 03-MAY-2004
08 | SD | CHEYENNE RIVER INDIAN RESERVATION DEWEY | 4612031005A | 03-MAY-2004
08 | SD | CHEYENNE RIVER INDIAN RESERVATION DEWEY | 4612031045A | 03-MAY-2004
08 | SD | CHEYENNE RIVER INDIAN RESERVATION DEWEY | 4612031095A | 03-MAY-2004
08 | SD | CHEYENNE RIVER INDIAN RESERVATION DEWEY | 4612031115A | 03-MAY-2004
08 | SD | CHEYENNE RIVER INDIAN RESERVATION DEWEY | 4612031195A | 03-MAY-2004
08 | SD | CHEYENNE RIVER INDIAN RESERVATION DEWEY | 4612031215A | 03-MAY-2004
08 | SD | CHEYENNE RIVER INDIAN RESERVATION DEWEY | 4612031220A | 03-MAY-2004
08 | SD | CHEYENNE RIVER INDIAN RESERVATION DEWEY | 4612031230A | 03-MAY-2004
08 | SD | CHEYENNE RIVER INDIAN RESERVATION DEWEY | 4612031240A | 03-MAY-2004
08 | SD | CHEYENNE RIVER INDIAN RESERVATION DEWEY | 4612031460A | 03-MAY-2004
08 | SD | CHEYENNE RIVER INDIAN RESERVATION DEWEY | 4612031480A | 03-MAY-2004
08 | SD | CHEYENNE RIVER INDIAN RESERVATION DEWEY | 4612032150A | 03-MAY-2004
08 | SD | CHEYENNE RIVER INDIAN RESERVATION DEWEY | 4612032365A | 03-MAY-2004
08 | SD | CHEYENNE RIVER INDIAN RESERVATION DEWEY | 4612032370A | 03-MAY-2004
08 | SD | CHEYENNE RIVER INDIAN RESERVATION DEWEY | 4612032380A | 03-MAY-2004
08 | SD | CHEYENNE RIVER INDIAN RESERVATION DEWEY | 4612032385A | 03-MAY-2004
08 | SD | CHEYENNE RIVER INDIAN RESERVATION DEWEY | 4612032390A | 03-MAY-2004
08 | SD | CHEYENNE RIVER INDIAN RESERVATION DEWEY | 4612032405A | 03-MAY-2004
08 | SD | CHEYENNE RIVER INDIAN RESERVATION DEWEY | 4612032425A | 03-MAY-2004
08 | SD | CHEYENNE RIVER INDIAN RESERVATION DEWEY | 4612032525A | 03-MAY-2004
08 | SD | CHEYENNE RIVER INDIAN RESERVATION DEWEY | 4612032550A | 03-MAY-2004
08 | SD | CHEYENNE RIVER INDIAN RESERVATION DEWEY | 4612032575A | 03-MAY-2004
08 | SD | CHEYENNE RIVER INDIAN RESERVATION DEWEY | 4612032585A | 03-MAY-2004
08 | SD | CHEYENNE RIVER INDIAN RESERVATION DEWEY | 4612032600A | 03-MAY-2004
08 | SD | CHEYENNE RIVER INDIAN RESERVATION DEWEY | 4612032605A | 03-MAY-2004
08 | SD | CHEYENNE RIVER INDIAN RESERVATION DEWEY | 461203IND0A** | 03-MAY-2004
08 | SD | CORSON COUNTY* | 46031C0590A | 17-MAY-2004
08 | SD | CORSON COUNTY* | 46031C1000A | 17-MAY-2004
08 | SD | CORSON COUNTY* | 46031C1015A | 17-MAY-2004
08 | SD | CORSON COUNTY* | 46031C1020A | 17-MAY-2004
08 | SD | CORSON COUNTY* | 46031C1050A | 17-MAY-2004
08 | SD | CORSON COUNTY* | 46031C1070A | 17-MAY-2004
08 | SD | CORSON COUNTY* | 46031CIND0A** | 17-MAY-2004
08 | SD | DANTE, TOWN OF | 46023C0650C | 02-JUN-2004
08 | SD | DANTE, TOWN OF | 46023CIND0A** | 02-JUN-2004
08 | SD | FORT PIERRE, CITY OF | 46117C0594E | 17-MAY-2004
08 | SD | FORT PIERRE, CITY OF | 46117C0782E | 17-MAY-2004
08 | SD | FORT PIERRE, CITY OF | 46117C0801E | 17-MAY-2004
08 | SD | FORT PIERRE, CITY OF | 46117CIND0A** | 17-MAY-2004
08 | SD | GEDDES, CITY OF | 46023C0400C | 02-JUN-2004
08 | SD | GEDDES, CITY OF | 46023CIND0A** | 02-JUN-2004
08 | SD | HARROLD, TOWN OF | 46065C0200C | 17-MAY-2004
08 | SD | HARROLD, TOWN OF | 46065CIND0A** | 17-MAY-2004
08 | SD | HUGHES COUNTY * | 46065C0125C | 17-MAY-2004
08 | SD | HUGHES COUNTY * | 46065C0138C | 17-MAY-2004
08 | SD | HUGHES COUNTY * | 46065C0150C | 17-MAY-2004
08 | SD | HUGHES COUNTY * | 46065C0175C | 17-MAY-2004
08 | SD | HUGHES COUNTY * | 46065C0200C | 17-MAY-2004
08 | SD | HUGHES COUNTY * | 46065C0225C | 17-MAY-2004
08 | SD | HUGHES COUNTY * | 46065C0235C | 17-MAY-2004
08 | SD | HUGHES COUNTY * | 46065C0245C | 17-MAY-2004
08 | SD | HUGHES COUNTY * | 46065C0250C | 17-MAY-2004
08 | SD | HUGHES COUNTY * | 46065C0263C | 17-MAY-2004
08 | SD | HUGHES COUNTY * | 46065C0264C | 17-MAY-2004
08 | SD | HUGHES COUNTY * | 46065C0275C | 17-MAY-2004
08 | SD | HUGHES COUNTY * | 46065C0300C | 17-MAY-2004
08 | SD | HUGHES COUNTY * | 46065C0325C | 17-MAY-2004
08 | SD | HUGHES COUNTY * | 46065C0350C | 17-MAY-2004
08 | SD | HUGHES COUNTY * | 46065C0375C | 17-MAY-2004
08 | SD | HUGHES COUNTY * | 46065C0400C | 17-MAY-2004
08 | SD | HUGHES COUNTY * | 46065C0401C | 17-MAY-2004
08 | SD | HUGHES COUNTY * | 46065C0402C | 17-MAY-2004
08 | SD | HUGHES COUNTY * | 46065C0404C | 17-MAY-2004
08 | SD | HUGHES COUNTY * | 46065C0406C | 17-MAY-2004
08 | SD | HUGHES COUNTY * | 46065C0408C | 17-MAY-2004
08 | SD | HUGHES COUNTY * | 46065C0410C | 17-MAY-2004
08 | SD | HUGHES COUNTY * | 46065C0430C | 17-MAY-2004
08 | SD | HUGHES COUNTY * | 46065C0435C | 17-MAY-2004
08 | SD | HUGHES COUNTY * | 46065C0475C | 17-MAY-2004
08 | SD | HUGHES COUNTY * | 46065C0500C | 17-MAY-2004
08 | SD | HUGHES COUNTY * | 46065C0525C | 17-MAY-2004
08 | SD | HUGHES COUNTY * | 46065C0550C | 17-MAY-2004
08 | SD | HUGHES COUNTY * | 46065C0575C | 17-MAY-2004
08 | SD | HUGHES COUNTY * | 46065C0600C | 17-MAY-2004
08 | SD | HUGHES COUNTY * | 46065CIND0A** | 17-MAY-2004
08 | SD | LAKE ANDES, CITY OF | 46023CIND0A** | 02-JUN-2004
08 | SD | MCINTOSH, CITY OF | 46031CIND0A** | 17-MAY-2004
08 | SD | MCLAUGHLIN, CITY OF | 46031CIND0A** | 17-MAY-2004
08 | SD | PICKSTOWN, TOWN OF | 46023C0575C | 02-JUN-2004
08 | SD | PICKSTOWN, TOWN OF | 46023CIND0A** | 02-JUN-2004
08 | SD | PIERRE, CITY OF | 46065C0263C | 17-MAY-2004
08 | SD | PIERRE, CITY OF | 46065C0264C | 17-MAY-2004
08 | SD | PIERRE, CITY OF | 46065C0275C | 17-MAY-2004
08 | SD | PIERRE, CITY OF | 46065C0401C | 17-MAY-2004
08 | SD | PIERRE, CITY OF | 46065C0402C | 17-MAY-2004
08 | SD | PIERRE, CITY OF | 46065C0404C | 17-MAY-2004
08 | SD | PIERRE, CITY OF | 46065C0406C | 17-MAY-2004
08 | SD | PIERRE, CITY OF | 46065C0408C | 17-MAY-2004
08 | SD | PIERRE, CITY OF | 46065C0410C | 17-MAY-2004
08 | SD | PIERRE, CITY OF | 46065CIND0A** | 17-MAY-2004
08 | SD | PLATTE, CITY OF | 46023CIND0A** | 02-JUN-2004
08 | SD | RAVINA, TOWN OF | 46023CIND0A** | 02-JUN-2004
08 | SD | STANDING ROCK INDIAN RESERVATION | 46031C0590A | 17-MAY-2004
08 | SD | STANDING ROCK INDIAN RESERVATION | 46031C1000A | 17-MAY-2004
08 | SD | STANDING ROCK INDIAN RESERVATION | 46031C1015A | 17-MAY-2004
08 | SD | STANDING ROCK INDIAN RESERVATION | 46031C1020A | 17-MAY-2004
08 | SD | STANDING ROCK INDIAN RESERVATION | 46031C1050A | 17-MAY-2004
08 | SD | STANDING ROCK INDIAN RESERVATION | 46031C1070A | 17-MAY-2004
08 | SD | STANDING ROCK INDIAN RESERVATION | 46031CIND0A** | 17-MAY-2004
08 | SD | STANLEY COUNTY * | 46117C0425E | 17-MAY-2004
08 | SD | STANLEY COUNTY * | 46117C0575E | 17-MAY-2004
08 | SD | STANLEY COUNTY * | 46117C0584E | 17-MAY-2004
08 | SD | STANLEY COUNTY * | 46117C0592E | 17-MAY-2004
08 | SD | STANLEY COUNTY * | 46117C0594E | 17-MAY-2004
08 | SD | STANLEY COUNTY * | 46117C0600E | 17-MAY-2004
08 | SD | STANLEY COUNTY * | 46117C0750E | 17-MAY-2004
08 | SD | STANLEY COUNTY * | 46117C0775E | 17-MAY-2004
08 | SD | STANLEY COUNTY * | 46117C0782E | 17-MAY-2004
08 | SD | STANLEY COUNTY * | 46117C0784E | 17-MAY-2004
08 | SD | STANLEY COUNTY * | 46117C0800E | 17-MAY-2004
08 | SD | STANLEY COUNTY * | 46117C0801E | 17-MAY-2004
08 | SD | STANLEY COUNTY * | 46117C0803E | 17-MAY-2004
08 | SD | STANLEY COUNTY * | 46117C0805E | 17-MAY-2004
08 | SD | STANLEY COUNTY * | 46117C0810E | 17-MAY-2004
08 | SD | STANLEY COUNTY * | 46117C0830E | 17-MAY-2004
08 | SD | STANLEY COUNTY * | 46117C0835E | 17-MAY-2004
08 | SD | STANLEY COUNTY * | 46117C0845E | 17-MAY-2004
08 | SD | STANLEY COUNTY * | 46117C0875E | 17-MAY-2004
08 | SD | STANLEY COUNTY * | 46117C1000E | 17-MAY-2004
08 | SD | STANLEY COUNTY * | 46117C1025E | 17-MAY-2004
08 | SD | STANLEY COUNTY * | 46117C1050E | 17-MAY-2004
08 | SD | STANLEY COUNTY * | 46117CIND0A** | 17-MAY-2004
08 | SD | WAGNER, CITY OF | 46023C0610C | 02-JUN-2004
08 | SD | WAGNER, CITY OF | 46023CIND0A** | 02-JUN-2004
08 | SD | YANKTON SIOUX TRIBE | 46023C0325C | 02-JUN-2004
08 | SD | YANKTON SIOUX TRIBE | 46023C0400C | 02-JUN-2004
08 | SD | YANKTON SIOUX TRIBE | 46023C0475C | 02-JUN-2004
08 | SD | YANKTON SIOUX TRIBE | 46023C0550C | 02-JUN-2004
08 | SD | YANKTON SIOUX TRIBE | 46023C0575C | 02-JUN-2004
08 | SD | YANKTON SIOUX TRIBE | 46023C0600C | 02-JUN-2004
08 | SD | YANKTON SIOUX TRIBE | 46023C0605C | 02-JUN-2004
08 | SD | YANKTON SIOUX TRIBE | 46023C0610C | 02-JUN-2004
08 | SD | YANKTON SIOUX TRIBE | 46023C0650C | 02-JUN-2004
08 | SD | YANKTON SIOUX TRIBE | 46023C0681C | 02-JUN-2004
08 | SD | YANKTON SIOUX TRIBE | 46023C0700C | 02-JUN-2004
08 | SD | YANKTON SIOUX TRIBE | 46023C0725C | 02-JUN-2004
08 | SD | YANKTON SIOUX TRIBE | 46023C0750C | 02-JUN-2004
08 | SD | YANKTON SIOUX TRIBE | 46023C0775C | 02-JUN-2004
08 | SD | YANKTON SIOUX TRIBE | 46023C0825C | 02-JUN-2004
08 | SD | YANKTON SIOUX TRIBE | 46023C0850C | 02-JUN-2004
08 | SD | YANKTON SIOUX TRIBE | 46023CIND0A** | 02-JUN-2004
09 | CA | ALISO VIEJO, CITY OF | 06059C0409H | 18-FEB-2004
09 | CA | ALISO VIEJO, CITY OF | 06059C0426H | 18-FEB-2004
09 | CA | ALISO VIEJO, CITY OF | 06059C0427H | 18-FEB-2004
09 | CA | ALISO VIEJO, CITY OF | 06059C0428H | 18-FEB-2004
09 | CA | ALISO VIEJO, CITY OF | 06059C0429H | 18-FEB-2004
09 | CA | ALISO VIEJO, CITY OF | 06059C0436H | 18-FEB-2004
09 | CA | ALISO VIEJO, CITY OF | 06059C0437H | 18-FEB-2004
09 | CA | ALISO VIEJO, CITY OF | 06059CIND0A** | 18-FEB-2004
09 | CA | ANAHEIM, CITY OF | 06059C0069H | 18-FEB-2004
09 | CA | ANAHEIM, CITY OF | 06059C0090H | 18-FEB-2004
09 | CA | ANAHEIM, CITY OF | 06059C0109H | 18-FEB-2004
09 | CA | ANAHEIM, CITY OF | 06059C0117H | 18-FEB-2004
09 | CA | ANAHEIM, CITY OF | 06059C0126H | 18-FEB-2004
09 | CA | ANAHEIM, CITY OF | 06059C0127H | 18-FEB-2004
09 | CA | ANAHEIM, CITY OF | 06059C0128H | 18-FEB-2004
09 | CA | ANAHEIM, CITY OF | 06059C0129H | 18-FEB-2004
09 | CA | ANAHEIM, CITY OF | 06059C0131H | 18-FEB-2004
09 | CA | ANAHEIM, CITY OF | 06059C0132H | 18-FEB-2004
09 | CA | ANAHEIM, CITY OF | 06059C0133H | 18-FEB-2004
09 | CA | ANAHEIM, CITY OF | 06059C0136H | 18-FEB-2004
09 | CA | ANAHEIM, CITY OF | 06059C0137H | 18-FEB-2004
09 | CA | ANAHEIM, CITY OF | 06059C0141H | 18-FEB-2004
09 | CA | ANAHEIM, CITY OF | 06059C0142H | 18-FEB-2004
09 | CA | ANAHEIM, CITY OF | 06059C0151H | 18-FEB-2004
09 | CA | ANAHEIM, CITY OF | 06059C0152H | 18-FEB-2004
09 | CA | ANAHEIM, CITY OF | 06059C0153H | 18-FEB-2004
09 | CA | ANAHEIM, CITY OF | 06059C0154H | 18-FEB-2004
09 | CA | ANAHEIM, CITY OF | 06059C0156H | 18-FEB-2004
09 | CA | ANAHEIM, CITY OF | 06059C0157H | 18-FEB-2004
09 | CA | ANAHEIM, CITY OF | 06059C0158H | 18-FEB-2004
09 | CA | ANAHEIM, CITY OF | 06059C0159H | 18-FEB-2004
09 | CA | ANAHEIM, CITY OF | 06059C0161H | 18-FEB-2004
09 | CA | ANAHEIM, CITY OF | 06059C0180H | 18-FEB-2004
09 | CA | ANAHEIM, CITY OF | 06059C0185H | 18-FEB-2004
09 | CA | ANAHEIM, CITY OF | 06059CIND0A** | 18-FEB-2004
09 | CA | BREA, CITY OF | 06059C0033H | 18-FEB-2004
09 | CA | BREA, CITY OF | 06059C0041H | 18-FEB-2004
09 | CA | BREA, CITY OF | 06059C0042H | 18-FEB-2004
09 | CA | BREA, CITY OF | 06059C0058H | 18-FEB-2004
09 | CA | BREA, CITY OF | 06059C0061H | 18-FEB-2004
09 | CA | BREA, CITY OF | 06059C0062H | 18-FEB-2004
09 | CA | BREA, CITY OF | 06059C0063H | 18-FEB-2004
09 | CA | BREA, CITY OF | 06059C0066H | 18-FEB-2004
09 | CA | BREA, CITY OF | 06059CIND0A** | 18-FEB-2004
09 | CA | BUENA PARK, CITY OF | 06059C0019H | 18-FEB-2004
09 | CA | BUENA PARK, CITY OF | 06059C0038H | 18-FEB-2004
09 | CA | BUENA PARK, CITY OF | 06059C0108H | 18-FEB-2004
09 | CA | BUENA PARK, CITY OF | 06059C0109H | 18-FEB-2004
09 | CA | BUENA PARK, CITY OF | 06059C0117H | 18-FEB-2004
09 | CA | BUENA PARK, CITY OF | 06059C0126H | 18-FEB-2004
09 | CA | BUENA PARK, CITY OF | 06059C0128H | 18-FEB-2004
09 | CA | BUENA PARK, CITY OF | 06059CIND0A** | 18-FEB-2004
09 | CA | COSTA MESA, CITY OF | 06059C0254H | 18-FEB-2004
09 | CA | COSTA MESA, CITY OF | 06059C0258H | 18-FEB-2004
09 | CA | COSTA MESA, CITY OF | 06059C0259H | 18-FEB-2004
09 | CA | COSTA MESA, CITY OF | 06059C0262H | 18-FEB-2004
09 | CA | COSTA MESA, CITY OF | 06059C0266H | 18-FEB-2004
09 | CA | COSTA MESA, CITY OF | 06059C0267H | 18-FEB-2004
09 | CA | COSTA MESA, CITY OF | 06059C0269H | 18-FEB-2004
09 | CA | COSTA MESA, CITY OF | 06059C0278H | 18-FEB-2004
09 | CA | COSTA MESA, CITY OF | 06059C0286H | 18-FEB-2004
09 | CA | COSTA MESA, CITY OF | 06059CIND0A** | 18-FEB-2004
09 | CA | CYPRESS, CITY OF | 06059C0105H | 18-FEB-2004
09 | CA | CYPRESS, CITY OF | 06059C0108H | 18-FEB-2004
09 | CA | CYPRESS, CITY OF | 06059C0109H | 18-FEB-2004
09 | CA | CYPRESS, CITY OF | 06059C0112H | 18-FEB-2004
09 | CA | CYPRESS, CITY OF | 06059C0116H | 18-FEB-2004
09 | CA | CYPRESS, CITY OF | 06059C0117H | 18-FEB-2004
09 | CA | CYPRESS, CITY OF | 06059CIND0A** | 18-FEB-2004
09 | CA | DANA POINT, CITY OF | 06059C0501H | 18-FEB-2004
09 | CA | DANA POINT, CITY OF | 06059C0502H | 18-FEB-2004
09 | CA | DANA POINT, CITY OF | 06059C0504H | 18-FEB-2004
09 | CA | DANA POINT, CITY OF | 06059C0506H | 18-FEB-2004
09 | CA | DANA POINT, CITY OF | 06059C0508H | 18-FEB-2004
09 | CA | DANA POINT, CITY OF | 06059C0509H | 18-FEB-2004
09 | CA | DANA POINT, CITY OF | 06059CIND0A** | 18-FEB-2004
09 | CA | FOUNTAIN VALLEY, CITY OF | 06059C0251H | 18-FEB-2004
09 | CA | FOUNTAIN VALLEY, CITY OF | 06059C0252H | 18-FEB-2004
09 | CA | FOUNTAIN VALLEY, CITY OF | 06059C0253H | 18-FEB-2004
09 | CA | FOUNTAIN VALLEY, CITY OF | 06059C0254H | 18-FEB-2004
09 | CA | FOUNTAIN VALLEY, CITY OF | 06059C0256H | 18-FEB-2004
09 | CA | FOUNTAIN VALLEY, CITY OF | 06059C0258H | 18-FEB-2004
09 | CA | FOUNTAIN VALLEY, CITY OF | 06059C0261H | 18-FEB-2004
09 | CA | FOUNTAIN VALLEY, CITY OF | 06059C0262H | 18-FEB-2004
09 | CA | FOUNTAIN VALLEY, CITY OF | 06059CIND0A** | 18-FEB-2004
09 | CA | FULLERTON, CITY OF | 06059C0036H | 18-FEB-2004
09 | CA | FULLERTON, CITY OF | 06059C0037H | 18-FEB-2004
09 | CA | FULLERTON, CITY OF | 06059C0038H | 18-FEB-2004
09 | CA | FULLERTON, CITY OF | 06059C0039H | 18-FEB-2004
09 | CA | FULLERTON, CITY OF | 06059C0041H | 18-FEB-2004
09 | CA | FULLERTON, CITY OF | 06059C0042H | 18-FEB-2004
09 | CA | FULLERTON, CITY OF | 06059C0043H | 18-FEB-2004
09 | CA | FULLERTON, CITY OF | 06059C0044H | 18-FEB-2004
09 | CA | FULLERTON, CITY OF | 06059C0061H | 18-FEB-2004
09 | CA | FULLERTON, CITY OF | 06059C0063H | 18-FEB-2004
09 | CA | FULLERTON, CITY OF | 06059C0126H | 18-FEB-2004
09 | CA | FULLERTON, CITY OF | 06059C0127H | 18-FEB-2004
09 | CA | FULLERTON, CITY OF | 06059C0131H | 18-FEB-2004
09 | CA | FULLERTON, CITY OF | 06059C0132H | 18-FEB-2004
09 | CA | FULLERTON, CITY OF | 06059CIND0A** | 18-FEB-2004
09 | CA | GARDEN GROVE, CITY OF | 06059C0116H | 18-FEB-2004
09 | CA | GARDEN GROVE, CITY OF | 06059C0117H | 18-FEB-2004
09 | CA | GARDEN GROVE, CITY OF | 06059C0118H | 18-FEB-2004
09 | CA | GARDEN GROVE, CITY OF | 06059C0119H | 18-FEB-2004
09 | CA | GARDEN GROVE, CITY OF | 06059C0136H | 18-FEB-2004
09 | CA | GARDEN GROVE, CITY OF | 06059C0137H | 18-FEB-2004
09 | CA | GARDEN GROVE, CITY OF | 06059C0138H | 18-FEB-2004
09 | CA | GARDEN GROVE, CITY OF | 06059C0139H | 18-FEB-2004
09 | CA | GARDEN GROVE, CITY OF | 06059C0141H | 18-FEB-2004
09 | CA | GARDEN GROVE, CITY OF | 06059C0142H | 18-FEB-2004
09 | CA | GARDEN GROVE, CITY OF | 06059C0143H | 18-FEB-2004
09 | CA | GARDEN GROVE, CITY OF | 06059C0144H | 18-FEB-2004
09 | CA | GARDEN GROVE, CITY OF | 06059C0252H | 18-FEB-2004
09 | CA | GARDEN GROVE, CITY OF | 06059CIND0A** | 18-FEB-2004
09 | CA | GOLETA, CITY OF | 060771IND0A** | 02-JUN-2004
09 | CA | HUNTINGTON BEACH, CITY OF | 06059C0118H | 18-FEB-2004
09 | CA | HUNTINGTON BEACH, CITY OF | 06059C0119H | 18-FEB-2004
09 | CA | HUNTINGTON BEACH, CITY OF | 06059C0227H | 18-FEB-2004
09 | CA | HUNTINGTON BEACH, CITY OF | 06059C0229H | 18-FEB-2004
09 | CA | HUNTINGTON BEACH, CITY OF | 06059C0231H | 18-FEB-2004
09 | CA | HUNTINGTON BEACH, CITY OF | 06059C0232H | 18-FEB-2004
09 | CA | HUNTINGTON BEACH, CITY OF | 06059C0233H | 18-FEB-2004
09 | CA | HUNTINGTON BEACH, CITY OF | 06059C0234H | 18-FEB-2004
09 | CA | HUNTINGTON BEACH, CITY OF | 06059C0241H | 18-FEB-2004
09 | CA | HUNTINGTON BEACH, CITY OF | 06059C0242H | 18-FEB-2004
09 | CA | HUNTINGTON BEACH, CITY OF | 06059C0244H | 18-FEB-2004
09 | CA | HUNTINGTON BEACH, CITY OF | 06059C0251H | 18-FEB-2004
09 | CA | HUNTINGTON BEACH, CITY OF | 06059C0253H | 18-FEB-2004
09 | CA | HUNTINGTON BEACH, CITY OF | 06059C0261H | 18-FEB-2004
09 | CA | HUNTINGTON BEACH, CITY OF | 06059C0262H | 18-FEB-2004
09 | CA | HUNTINGTON BEACH, CITY OF | 06059C0263H | 18-FEB-2004
09 | CA | HUNTINGTON BEACH, CITY OF | 06059CIND0A** | 18-FEB-2004
09 | CA | IRVINE, CITY OF | 06059C0169H | 18-FEB-2004
09 | CA | IRVINE, CITY OF | 06059C0278H | 18-FEB-2004
09 | CA | IRVINE, CITY OF | 06059C0279H | 18-FEB-2004
09 | CA | IRVINE, CITY OF | 06059C0281H | 18-FEB-2004
09 | CA | IRVINE, CITY OF | 06059C0282H | 18-FEB-2004
09 | CA | IRVINE, CITY OF | 06059C0283H | 18-FEB-2004
09 | CA | IRVINE, CITY OF | 06059C0284H | 18-FEB-2004
09 | CA | IRVINE, CITY OF | 06059C0286H | 18-FEB-2004
09 | CA | IRVINE, CITY OF | 06059C0287H | 18-FEB-2004
09 | CA | IRVINE, CITY OF | 06059C0288H | 18-FEB-2004
09 | CA | IRVINE, CITY OF | 06059C0289H | 18-FEB-2004
09 | CA | IRVINE, CITY OF | 06059C0291H | 18-FEB-2004
09 | CA | IRVINE, CITY OF | 06059C0295H | 18-FEB-2004
09 | CA | IRVINE, CITY OF | 06059C0305H | 18-FEB-2004
09 | CA | IRVINE, CITY OF | 06059C0313H | 18-FEB-2004
09 | CA | IRVINE, CITY OF | 06059C0314H | 18-FEB-2004
09 | CA | IRVINE, CITY OF | 06059C0315H | 18-FEB-2004
09 | CA | IRVINE, CITY OF | 06059C0402H | 18-FEB-2004
09 | CA | IRVINE, CITY OF | 06059C0407H | 18-FEB-2004
09 | CA | IRVINE, CITY OF | 06059C0426H | 18-FEB-2004
09 | CA | IRVINE, CITY OF | 06059CIND0A** | 18-FEB-2004
09 | CA | LA HABRA, CITY OF | 06059C0028H | 18-FEB-2004
09 | CA | LA HABRA, CITY OF | 06059C0029H | 18-FEB-2004
09 | CA | LA HABRA, CITY OF | 06059C0033H | 18-FEB-2004
09 | CA | LA HABRA, CITY OF | 06059C0036H | 18-FEB-2004
09 | CA | LA HABRA, CITY OF | 06059C0037H | 18-FEB-2004
09 | CA | LA HABRA, CITY OF | 06059C0041H | 18-FEB-2004
09 | CA | LA HABRA, CITY OF | 06059CIND0A** | 18-FEB-2004
09 | CA | LA PALMA, CITY OF | 06059C0108H | 18-FEB-2004
09 | CA | LA PALMA, CITY OF | 06059CIND0A** | 18-FEB-2004
09 | CA | LAGUNA BEACH, CITY OF | 06059C0407H | 18-FEB-2004
09 | CA | LAGUNA BEACH, CITY OF | 06059C0409H | 18-FEB-2004
09 | CA | LAGUNA BEACH, CITY OF | 06059C0412H | 18-FEB-2004
09 | CA | LAGUNA BEACH, CITY OF | 06059C0416H | 18-FEB-2004
09 | CA | LAGUNA BEACH, CITY OF | 06059C0417H | 18-FEB-2004
09 | CA | LAGUNA BEACH, CITY OF | 06059C0419H | 18-FEB-2004
09 | CA | LAGUNA BEACH, CITY OF | 06059C0426H | 18-FEB-2004
09 | CA | LAGUNA BEACH, CITY OF | 06059C0428H | 18-FEB-2004
09 | CA | LAGUNA BEACH, CITY OF | 06059C0436H | 18-FEB-2004
09 | CA | LAGUNA BEACH, CITY OF | 06059C0438H | 18-FEB-2004
09 | CA | LAGUNA BEACH, CITY OF | 06059C0501H | 18-FEB-2004
09 | CA | LAGUNA BEACH, CITY OF | 06059CIND0A** | 18-FEB-2004
09 | CA | LAGUNA HILLS, CITY OF | 06059C0313H | 18-FEB-2004
09 | CA | LAGUNA HILLS, CITY OF | 06059C0314H | 18-FEB-2004
09 | CA | LAGUNA HILLS, CITY OF | 06059C0426H | 18-FEB-2004
09 | CA | LAGUNA HILLS, CITY OF | 06059C0427H | 18-FEB-2004
09 | CA | LAGUNA HILLS, CITY OF | 06059C0429H | 18-FEB-2004
09 | CA | LAGUNA HILLS, CITY OF | 06059C0431H | 18-FEB-2004
09 | CA | LAGUNA HILLS, CITY OF | 06059C0433H | 18-FEB-2004
09 | CA | LAGUNA HILLS, CITY OF | 06059C0437H | 18-FEB-2004
09 | CA | LAGUNA HILLS, CITY OF | 06059C0441H | 18-FEB-2004
09 | CA | LAGUNA HILLS, CITY OF | 06059CIND0A** | 18-FEB-2004
09 | CA | LAGUNA NIGUEL, CITY OF | 06059C0429H | 18-FEB-2004
09 | CA | LAGUNA NIGUEL, CITY OF | 06059C0433H | 18-FEB-2004
09 | CA | LAGUNA NIGUEL, CITY OF | 06059C0436H | 18-FEB-2004
09 | CA | LAGUNA NIGUEL, CITY OF | 06059C0437H | 18-FEB-2004
09 | CA | LAGUNA NIGUEL, CITY OF | 06059C0438H | 18-FEB-2004
09 | CA | LAGUNA NIGUEL, CITY OF | 06059C0439H | 18-FEB-2004
09 | CA | LAGUNA NIGUEL, CITY OF | 06059C0441H | 18-FEB-2004
09 | CA | LAGUNA NIGUEL, CITY OF | 06059C0443H | 18-FEB-2004
09 | CA | LAGUNA NIGUEL, CITY OF | 06059C0501H | 18-FEB-2004
09 | CA | LAGUNA NIGUEL, CITY OF | 06059C0502H | 18-FEB-2004
09 | CA | LAGUNA NIGUEL, CITY OF | 06059C0506H | 18-FEB-2004
09 | CA | LAGUNA NIGUEL, CITY OF | 06059CIND0A** | 18-FEB-2004
09 | CA | LAGUNA WOODS, CITY OF | 06059C0407H | 18-FEB-2004
09 | CA | LAGUNA WOODS, CITY OF | 06059C0426H | 18-FEB-2004
09 | CA | LAGUNA WOODS, CITY OF | 06059C0427H | 18-FEB-2004
09 | CA | LAGUNA WOODS, CITY OF | 06059C0429H | 18-FEB-2004
09 | CA | LAGUNA WOODS, CITY OF | 06059CIND0A** | 18-FEB-2004
09 | CA | LAKE FOREST, CITY OF | 06059C0310H | 18-FEB-2004
09 | CA | LAKE FOREST, CITY OF | 06059C0313H | 18-FEB-2004
09 | CA | LAKE FOREST, CITY OF | 06059C0314H | 18-FEB-2004
09 | CA | LAKE FOREST, CITY OF | 06059C0315H | 18-FEB-2004
09 | CA | LAKE FOREST, CITY OF | 06059C0316H | 18-FEB-2004
09 | CA | LAKE FOREST, CITY OF | 06059C0317H | 18-FEB-2004
09 | CA | LAKE FOREST, CITY OF | 06059C0318H | 18-FEB-2004
09 | CA | LAKE FOREST, CITY OF | 06059C0319H | 18-FEB-2004
09 | CA | LAKE FOREST, CITY OF | 06059C0328H | 18-FEB-2004
09 | CA | LAKE FOREST, CITY OF | 06059C0336H | 18-FEB-2004
09 | CA | LAKE FOREST, CITY OF | 06059C0427H | 18-FEB-2004
09 | CA | LAKE FOREST, CITY OF | 06059C0431H | 18-FEB-2004
09 | CA | LAKE FOREST, CITY OF | 06059CIND0A** | 18-FEB-2004
09 | CA | LOS ALAMITOS, CITY OF | 06059C0105H | 18-FEB-2004
09 | CA | LOS ALAMITOS, CITY OF | 06059C0112H | 18-FEB-2004
09 | CA | LOS ALAMITOS, CITY OF | 06059C0116H | 18-FEB-2004
09 | CA | LOS ALAMITOS, CITY OF | 06059CIND0A** | 18-FEB-2004
09 | CA | MISSION VIEJO, CIY OF | 06059C0317H | 18-FEB-2004
09 | CA | MISSION VIEJO, CIY OF | 06059C0318H | 18-FEB-2004
09 | CA | MISSION VIEJO, CIY OF | 06059C0319H | 18-FEB-2004
09 | CA | MISSION VIEJO, CIY OF | 06059C0336H | 18-FEB-2004
09 | CA | MISSION VIEJO, CIY OF | 06059C0338H | 18-FEB-2004
09 | CA | MISSION VIEJO, CIY OF | 06059C0427H | 18-FEB-2004
09 | CA | MISSION VIEJO, CIY OF | 06059C0431H | 18-FEB-2004
09 | CA | MISSION VIEJO, CIY OF | 06059C0432H | 18-FEB-2004
09 | CA | MISSION VIEJO, CIY OF | 06059C0433H | 18-FEB-2004
09 | CA | MISSION VIEJO, CIY OF | 06059C0434H | 18-FEB-2004
09 | CA | MISSION VIEJO, CIY OF | 06059C0441H | 18-FEB-2004
09 | CA | MISSION VIEJO, CIY OF | 06059C0442H | 18-FEB-2004
09 | CA | MISSION VIEJO, CIY OF | 06059CIND0A** | 18-FEB-2004
09 | CA | NEWPORT BEACH, CITY OF | 06059C0267H | 18-FEB-2004
09 | CA | NEWPORT BEACH, CITY OF | 06059C0269H | 18-FEB-2004
09 | CA | NEWPORT BEACH, CITY OF | 06059C0286H | 18-FEB-2004
09 | CA | NEWPORT BEACH, CITY OF | 06059C0288H | 18-FEB-2004
09 | CA | NEWPORT BEACH, CITY OF | 06059C0289H | 18-FEB-2004
09 | CA | NEWPORT BEACH, CITY OF | 06059C0377H | 18-FEB-2004
09 | CA | NEWPORT BEACH, CITY OF | 06059C0381H | 18-FEB-2004
09 | CA | NEWPORT BEACH, CITY OF | 06059C0382H | 18-FEB-2004
09 | CA | NEWPORT BEACH, CITY OF | 06059C0384H | 18-FEB-2004
09 | CA | NEWPORT BEACH, CITY OF | 06059C0401H | 18-FEB-2004
09 | CA | NEWPORT BEACH, CITY OF | 06059C0402H | 18-FEB-2004
09 | CA | NEWPORT BEACH, CITY OF | 06059C0403H | 18-FEB-2004
09 | CA | NEWPORT BEACH, CITY OF | 06059C0404H | 18-FEB-2004
09 | CA | NEWPORT BEACH, CITY OF | 06059C0408H | 18-FEB-2004
09 | CA | NEWPORT BEACH, CITY OF | 06059CIND0A** | 18-FEB-2004
09 | CA | ORANGE COUNTY * | 06059C0019H | 18-FEB-2004
09 | CA | ORANGE COUNTY * | 06059C0028H | 18-FEB-2004
09 | CA | ORANGE COUNTY * | 06059C0029H | 18-FEB-2004
09 | CA | ORANGE COUNTY * | 06059C0033H | 18-FEB-2004
09 | CA | ORANGE COUNTY * | 06059C0036H | 18-FEB-2004
09 | CA | ORANGE COUNTY * | 06059C0037H | 18-FEB-2004
09 | CA | ORANGE COUNTY * | 06059C0038H | 18-FEB-2004
09 | CA | ORANGE COUNTY * | 06059C0039H | 18-FEB-2004
09 | CA | ORANGE COUNTY * | 06059C0041H | 18-FEB-2004
09 | CA | ORANGE COUNTY * | 06059C0042H | 18-FEB-2004
09 | CA | ORANGE COUNTY * | 06059C0043H | 18-FEB-2004
09 | CA | ORANGE COUNTY * | 06059C0044H | 18-FEB-2004
09 | CA | ORANGE COUNTY * | 06059C0058H | 18-FEB-2004
09 | CA | ORANGE COUNTY * | 06059C0061H | 18-FEB-2004
09 | CA | ORANGE COUNTY * | 06059C0062H | 18-FEB-2004
09 | CA | ORANGE COUNTY * | 06059C0063H | 18-FEB-2004
09 | CA | ORANGE COUNTY * | 06059C0064H | 18-FEB-2004
09 | CA | ORANGE COUNTY * | 06059C0066H | 18-FEB-2004
09 | CA | ORANGE COUNTY * | 06059C0068H | 18-FEB-2004
09 | CA | ORANGE COUNTY * | 06059C0069H | 18-FEB-2004
09 | CA | ORANGE COUNTY * | 06059C0090H | 18-FEB-2004
09 | CA | ORANGE COUNTY * | 06059C0095H | 18-FEB-2004
09 | CA | ORANGE COUNTY * | 06059C0105H | 18-FEB-2004
09 | CA | ORANGE COUNTY * | 06059C0108H | 18-FEB-2004
09 | CA | ORANGE COUNTY * | 06059C0109H | 18-FEB-2004
09 | CA | ORANGE COUNTY * | 06059C0112H | 18-FEB-2004
09 | CA | ORANGE COUNTY * | 06059C0115H | 18-FEB-2004
09 | CA | ORANGE COUNTY * | 06059C0116H | 18-FEB-2004
09 | CA | ORANGE COUNTY * | 06059C0117H | 18-FEB-2004
09 | CA | ORANGE COUNTY * | 06059C0118H | 18-FEB-2004
09 | CA | ORANGE COUNTY * | 06059C0119H | 18-FEB-2004
09 | CA | ORANGE COUNTY * | 06059C0126H | 18-FEB-2004
09 | CA | ORANGE COUNTY * | 06059C0127H | 18-FEB-2004
09 | CA | ORANGE COUNTY * | 06059C0128H | 18-FEB-2004
09 | CA | ORANGE COUNTY * | 06059C0129H | 18-FEB-2004
09 | CA | ORANGE COUNTY * | 06059C0131H | 18-FEB-2004
09 | CA | ORANGE COUNTY * | 06059C0132H | 18-FEB-2004
09 | CA | ORANGE COUNTY * | 06059C0133H | 18-FEB-2004
09 | CA | ORANGE COUNTY * | 06059C0136H | 18-FEB-2004
09 | CA | ORANGE COUNTY * | 06059C0137H | 18-FEB-2004
09 | CA | ORANGE COUNTY * | 06059C0138H | 18-FEB-2004
09 | CA | ORANGE COUNTY * | 06059C0139H | 18-FEB-2004
09 | CA | ORANGE COUNTY * | 06059C0141H | 18-FEB-2004
09 | CA | ORANGE COUNTY * | 06059C0142H | 18-FEB-2004
09 | CA | ORANGE COUNTY * | 06059C0143H | 18-FEB-2004
09 | CA | ORANGE COUNTY * | 06059C0144H | 18-FEB-2004
09 | CA | ORANGE COUNTY * | 06059C0151H | 18-FEB-2004
09 | CA | ORANGE COUNTY * | 06059C0152H | 18-FEB-2004
09 | CA | ORANGE COUNTY * | 06059C0153H | 18-FEB-2004
09 | CA | ORANGE COUNTY * | 06059C0154H | 18-FEB-2004
09 | CA | ORANGE COUNTY * | 06059C0156H | 18-FEB-2004
09 | CA | ORANGE COUNTY * | 06059C0157H | 18-FEB-2004
09 | CA | ORANGE COUNTY * | 06059C0158H | 18-FEB-2004
09 | CA | ORANGE COUNTY * | 06059C0159H | 18-FEB-2004
09 | CA | ORANGE COUNTY * | 06059C0161H | 18-FEB-2004
09 | CA | ORANGE COUNTY * | 06059C0162H | 18-FEB-2004
09 | CA | ORANGE COUNTY * | 06059C0163H | 18-FEB-2004
09 | CA | ORANGE COUNTY * | 06059C0164H | 18-FEB-2004
09 | CA | ORANGE COUNTY * | 06059C0166H | 18-FEB-2004
09 | CA | ORANGE COUNTY * | 06059C0167H | 18-FEB-2004
09 | CA | ORANGE COUNTY * | 06059C0168H | 18-FEB-2004
09 | CA | ORANGE COUNTY * | 06059C0169H | 18-FEB-2004
09 | CA | ORANGE COUNTY * | 06059C0180H | 18-FEB-2004
09 | CA | ORANGE COUNTY * | 06059C0185H | 18-FEB-2004
09 | CA | ORANGE COUNTY * | 06059C0195H | 18-FEB-2004
09 | CA | ORANGE COUNTY * | 06059C0226H | 18-FEB-2004
09 | CA | ORANGE COUNTY * | 06059C0227H | 18-FEB-2004
09 | CA | ORANGE COUNTY * | 06059C0229H | 18-FEB-2004
09 | CA | ORANGE COUNTY * | 06059C0231H | 18-FEB-2004
09 | CA | ORANGE COUNTY * | 06059C0232H | 18-FEB-2004
09 | CA | ORANGE COUNTY * | 06059C0233H | 18-FEB-2004
09 | CA | ORANGE COUNTY * | 06059C0234H | 18-FEB-2004
09 | CA | ORANGE COUNTY * | 06059C0241H | 18-FEB-2004
09 | CA | ORANGE COUNTY * | 06059C0242H | 18-FEB-2004
09 | CA | ORANGE COUNTY * | 06059C0244H | 18-FEB-2004
09 | CA | ORANGE COUNTY * | 06059C0251H | 18-FEB-2004
09 | CA | ORANGE COUNTY * | 06059C0252H | 18-FEB-2004
09 | CA | ORANGE COUNTY * | 06059C0253H | 18-FEB-2004
09 | CA | ORANGE COUNTY * | 06059C0254H | 18-FEB-2004
09 | CA | ORANGE COUNTY * | 06059C0256H | 18-FEB-2004
09 | CA | ORANGE COUNTY * | 06059C0257H | 18-FEB-2004
09 | CA | ORANGE COUNTY * | 06059C0258H | 18-FEB-2004
09 | CA | ORANGE COUNTY * | 06059C0259H | 18-FEB-2004
09 | CA | ORANGE COUNTY * | 06059C0261H | 18-FEB-2004
09 | CA | ORANGE COUNTY * | 06059C0262H | 18-FEB-2004
09 | CA | ORANGE COUNTY * | 06059C0263H | 18-FEB-2004
09 | CA | ORANGE COUNTY * | 06059C0266H | 18-FEB-2004
09 | CA | ORANGE COUNTY * | 06059C0267H | 18-FEB-2004
09 | CA | ORANGE COUNTY * | 06059C0269H | 18-FEB-2004
09 | CA | ORANGE COUNTY * | 06059C0276H | 18-FEB-2004
09 | CA | ORANGE COUNTY * | 06059C0277H | 18-FEB-2004
09 | CA | ORANGE COUNTY * | 06059C0278H | 18-FEB-2004
09 | CA | ORANGE COUNTY * | 06059C0279H | 18-FEB-2004
09 | CA | ORANGE COUNTY * | 06059C0281H | 18-FEB-2004
09 | CA | ORANGE COUNTY * | 06059C0282H | 18-FEB-2004
09 | CA | ORANGE COUNTY * | 06059C0283H | 18-FEB-2004
09 | CA | ORANGE COUNTY * | 06059C0284H | 18-FEB-2004
09 | CA | ORANGE COUNTY * | 06059C0286H | 18-FEB-2004
09 | CA | ORANGE COUNTY * | 06059C0287H | 18-FEB-2004
09 | CA | ORANGE COUNTY * | 06059C0288H | 18-FEB-2004
09 | CA | ORANGE COUNTY * | 06059C0289H | 18-FEB-2004
09 | CA | ORANGE COUNTY * | 06059C0291H | 18-FEB-2004
09 | CA | ORANGE COUNTY * | 06059C0295H | 18-FEB-2004
09 | CA | ORANGE COUNTY * | 06059C0305H | 18-FEB-2004
09 | CA | ORANGE COUNTY * | 06059C0307H | 18-FEB-2004
09 | CA | ORANGE COUNTY * | 06059C0310H | 18-FEB-2004
09 | CA | ORANGE COUNTY * | 06059C0313H | 18-FEB-2004
09 | CA | ORANGE COUNTY * | 06059C0314H | 18-FEB-2004
09 | CA | ORANGE COUNTY * | 06059C0315H | 18-FEB-2004
09 | CA | ORANGE COUNTY * | 06059C0316H | 18-FEB-2004
09 | CA | ORANGE COUNTY * | 06059C0317H | 18-FEB-2004
09 | CA | ORANGE COUNTY * | 06059C0318H | 18-FEB-2004
09 | CA | ORANGE COUNTY * | 06059C0319H | 18-FEB-2004
09 | CA | ORANGE COUNTY * | 06059C0326H | 18-FEB-2004
09 | CA | ORANGE COUNTY * | 06059C0327H | 18-FEB-2004
09 | CA | ORANGE COUNTY * | 06059C0328H | 18-FEB-2004
09 | CA | ORANGE COUNTY * | 06059C0336H | 18-FEB-2004
09 | CA | ORANGE COUNTY * | 06059C0337H | 18-FEB-2004
09 | CA | ORANGE COUNTY * | 06059C0338H | 18-FEB-2004
09 | CA | ORANGE COUNTY * | 06059C0339H | 18-FEB-2004
09 | CA | ORANGE COUNTY * | 06059C0345H | 18-FEB-2004
09 | CA | ORANGE COUNTY * | 06059C0377H | 18-FEB-2004
09 | CA | ORANGE COUNTY * | 06059C0381H | 18-FEB-2004
09 | CA | ORANGE COUNTY * | 06059C0382H | 18-FEB-2004
09 | CA | ORANGE COUNTY * | 06059C0384H | 18-FEB-2004
09 | CA | ORANGE COUNTY * | 06059C0401H | 18-FEB-2004
09 | CA | ORANGE COUNTY * | 06059C0402H | 18-FEB-2004
09 | CA | ORANGE COUNTY * | 06059C0403H | 18-FEB-2004
09 | CA | ORANGE COUNTY * | 06059C0404H | 18-FEB-2004
09 | CA | ORANGE COUNTY * | 06059C0407H | 18-FEB-2004
09 | CA | ORANGE COUNTY * | 06059C0408H | 18-FEB-2004
09 | CA | ORANGE COUNTY * | 06059C0409H | 18-FEB-2004
09 | CA | ORANGE COUNTY * | 06059C0412H | 18-FEB-2004
09 | CA | ORANGE COUNTY * | 06059C0416H | 18-FEB-2004
09 | CA | ORANGE COUNTY * | 06059C0417H | 18-FEB-2004
09 | CA | ORANGE COUNTY * | 06059C0419H | 18-FEB-2004
09 | CA | ORANGE COUNTY * | 06059C0426H | 18-FEB-2004
09 | CA | ORANGE COUNTY * | 06059C0427H | 18-FEB-2004
09 | CA | ORANGE COUNTY * | 06059C0428H | 18-FEB-2004
09 | CA | ORANGE COUNTY * | 06059C0429H | 18-FEB-2004
09 | CA | ORANGE COUNTY * | 06059C0431H | 18-FEB-2004
09 | CA | ORANGE COUNTY * | 06059C0432H | 18-FEB-2004
09 | CA | ORANGE COUNTY * | 06059C0433H | 18-FEB-2004
09 | CA | ORANGE COUNTY * | 06059C0434H | 18-FEB-2004
09 | CA | ORANGE COUNTY * | 06059C0436H | 18-FEB-2004
09 | CA | ORANGE COUNTY * | 06059C0437H | 18-FEB-2004
09 | CA | ORANGE COUNTY * | 06059C0438H | 18-FEB-2004
09 | CA | ORANGE COUNTY * | 06059C0439H | 18-FEB-2004
09 | CA | ORANGE COUNTY * | 06059C0441H | 18-FEB-2004
09 | CA | ORANGE COUNTY * | 06059C0442H | 18-FEB-2004
09 | CA | ORANGE COUNTY * | 06059C0443H | 18-FEB-2004
09 | CA | ORANGE COUNTY * | 06059C0444H | 18-FEB-2004
09 | CA | ORANGE COUNTY * | 06059C0451H | 18-FEB-2004
09 | CA | ORANGE COUNTY * | 06059C0452H | 18-FEB-2004
09 | CA | ORANGE COUNTY * | 06059C0455H | 18-FEB-2004
09 | CA | ORANGE COUNTY * | 06059C0460H | 18-FEB-2004
09 | CA | ORANGE COUNTY * | 06059C0465H | 18-FEB-2004
09 | CA | ORANGE COUNTY * | 06059C0470H | 18-FEB-2004
09 | CA | ORANGE COUNTY * | 06059C0501H | 18-FEB-2004
09 | CA | ORANGE COUNTY * | 06059C0502H | 18-FEB-2004
09 | CA | ORANGE COUNTY * | 06059C0504H | 18-FEB-2004
09 | CA | ORANGE COUNTY * | 06059C0506H | 18-FEB-2004
09 | CA | ORANGE COUNTY * | 06059C0507H | 18-FEB-2004
09 | CA | ORANGE COUNTY * | 06059C0508H | 18-FEB-2004
09 | CA | ORANGE COUNTY * | 06059C0509H | 18-FEB-2004
09 | CA | ORANGE COUNTY * | 06059C0517H | 18-FEB-2004
09 | CA | ORANGE COUNTY * | 06059C0526H | 18-FEB-2004
09 | CA | ORANGE COUNTY * | 06059C0528H | 18-FEB-2004
09 | CA | ORANGE COUNTY * | 06059C0536H | 18-FEB-2004
09 | CA | ORANGE COUNTY * | 06059C0538H | 18-FEB-2004
09 | CA | ORANGE COUNTY * | 06059CIND0A** | 18-FEB-2004
09 | CA | ORANGE, CITY OF | 06059C0142H | 18-FEB-2004
09 | CA | ORANGE, CITY OF | 06059C0144H | 18-FEB-2004
09 | CA | ORANGE, CITY OF | 06059C0151H | 18-FEB-2004
09 | CA | ORANGE, CITY OF | 06059C0152H | 18-FEB-2004
09 | CA | ORANGE, CITY OF | 06059C0153H | 18-FEB-2004
09 | CA | ORANGE, CITY OF | 06059C0154H | 18-FEB-2004
09 | CA | ORANGE, CITY OF | 06059C0158H | 18-FEB-2004
09 | CA | ORANGE, CITY OF | 06059C0159H | 18-FEB-2004
09 | CA | ORANGE, CITY OF | 06059C0161H | 18-FEB-2004
09 | CA | ORANGE, CITY OF | 06059C0162H | 18-FEB-2004
09 | CA | ORANGE, CITY OF | 06059C0163H | 18-FEB-2004
09 | CA | ORANGE, CITY OF | 06059C0164H | 18-FEB-2004
09 | CA | ORANGE, CITY OF | 06059C0166H | 18-FEB-2004
09 | CA | ORANGE, CITY OF | 06059C0167H | 18-FEB-2004
09 | CA | ORANGE, CITY OF | 06059C0168H | 18-FEB-2004
09 | CA | ORANGE, CITY OF | 06059C0169H | 18-FEB-2004
09 | CA | ORANGE, CITY OF | 06059C0180H | 18-FEB-2004
09 | CA | ORANGE, CITY OF | 06059CIND0A** | 18-FEB-2004
09 | CA | PLACENTIA, CITY OF | 06059C0044H | 18-FEB-2004
09 | CA | PLACENTIA, CITY OF | 06059C0061H | 18-FEB-2004
09 | CA | PLACENTIA, CITY OF | 06059C0062H | 18-FEB-2004
09 | CA | PLACENTIA, CITY OF | 06059C0063H | 18-FEB-2004
09 | CA | PLACENTIA, CITY OF | 06059C0064H | 18-FEB-2004
09 | CA | PLACENTIA, CITY OF | 06059C0132H | 18-FEB-2004
09 | CA | PLACENTIA, CITY OF | 06059C0151H | 18-FEB-2004
09 | CA | PLACENTIA, CITY OF | 06059C0152H | 18-FEB-2004
09 | CA | PLACENTIA, CITY OF | 06059CIND0A** | 18-FEB-2004
09 | CA | RANCHO SANTA MARGARITA, CITY OF | 06059C0319H | 18-FEB-2004
09 | CA | RANCHO SANTA MARGARITA, CITY OF | 06059C0336H | 18-FEB-2004
09 | CA | RANCHO SANTA MARGARITA, CITY OF | 06059C0337H | 18-FEB-2004
09 | CA | RANCHO SANTA MARGARITA, CITY OF | 06059C0338H | 18-FEB-2004
09 | CA | RANCHO SANTA MARGARITA, CITY OF | 06059C0339H | 18-FEB-2004
09 | CA | RANCHO SANTA MARGARITA, CITY OF | 06059C0345H | 18-FEB-2004
09 | CA | RANCHO SANTA MARGARITA, CITY OF | 06059C0432H | 18-FEB-2004
09 | CA | RANCHO SANTA MARGARITA, CITY OF | 06059C0451H | 18-FEB-2004
09 | CA | RANCHO SANTA MARGARITA, CITY OF | 06059C0452H | 18-FEB-2004
09 | CA | RANCHO SANTA MARGARITA, CITY OF | 06059C0455H | 18-FEB-2004
09 | CA | RANCHO SANTA MARGARITA, CITY OF | 06059C0460H | 18-FEB-2004
09 | CA | RANCHO SANTA MARGARITA, CITY OF | 06059CIND0A** | 18-FEB-2004
09 | CA | SAN CLEMENTE, CITY OF | 06059C0507H | 18-FEB-2004
09 | CA | SAN CLEMENTE, CITY OF | 06059C0508H | 18-FEB-2004
09 | CA | SAN CLEMENTE, CITY OF | 06059C0509H | 18-FEB-2004
09 | CA | SAN CLEMENTE, CITY OF | 06059C0517H | 18-FEB-2004
09 | CA | SAN CLEMENTE, CITY OF | 06059C0526H | 18-FEB-2004
09 | CA | SAN CLEMENTE, CITY OF | 06059C0528H | 18-FEB-2004
09 | CA | SAN CLEMENTE, CITY OF | 06059C0536H | 18-FEB-2004
09 | CA | SAN CLEMENTE, CITY OF | 06059C0538H | 18-FEB-2004
09 | CA | SAN CLEMENTE, CITY OF | 06059CIND0A** | 18-FEB-2004
09 | CA | SAN JUAN CAPISTRANO, CITY OF | 06059C0441H | 18-FEB-2004
09 | CA | SAN JUAN CAPISTRANO, CITY OF | 06059C0442H | 18-FEB-2004
09 | CA | SAN JUAN CAPISTRANO, CITY OF | 06059C0443H | 18-FEB-2004
09 | CA | SAN JUAN CAPISTRANO, CITY OF | 06059C0444H | 18-FEB-2004
09 | CA | SAN JUAN CAPISTRANO, CITY OF | 06059C0465H | 18-FEB-2004
09 | CA | SAN JUAN CAPISTRANO, CITY OF | 06059C0506H | 18-FEB-2004
09 | CA | SAN JUAN CAPISTRANO, CITY OF | 06059C0507H | 18-FEB-2004
09 | CA | SAN JUAN CAPISTRANO, CITY OF | 06059C0508H | 18-FEB-2004
09 | CA | SAN JUAN CAPISTRANO, CITY OF | 06059C0509H | 18-FEB-2004
09 | CA | SAN JUAN CAPISTRANO, CITY OF | 06059C0526H | 18-FEB-2004
09 | CA | SAN JUAN CAPISTRANO, CITY OF | 06059CIND0A** | 18-FEB-2004
09 | CA | SAN LUIS OBISPO COUNTY * | 0603040733E** | 04-FEB-2004
09 | CA | SAN LUIS OBISPO COUNTY * | 0603042577E | 04-FEB-2004
09 | CA | SAN LUIS OBISPO COUNTY * | 0603042579E | 04-FEB-2004
09 | CA | SAN LUIS OBISPO COUNTY * | 0603042581E | 04-FEB-2004
09 | CA | SAN LUIS OBISPO COUNTY * | 0603042583E | 04-FEB-2004
09 | CA | SAN LUIS OBISPO COUNTY * | 0603042584E | 04-FEB-2004
09 | CA | SAN PABLO, CITY OF | 0600360001E | 16-APR-2004
09 | CA | SANTA ANA, CITY OF | 06059C0139H | 18-FEB-2004
09 | CA | SANTA ANA, CITY OF | 06059C0142H | 18-FEB-2004
09 | CA | SANTA ANA, CITY OF | 06059C0143H | 18-FEB-2004
09 | CA | SANTA ANA, CITY OF | 06059C0144H | 18-FEB-2004
09 | CA | SANTA ANA, CITY OF | 06059C0163H | 18-FEB-2004
09 | CA | SANTA ANA, CITY OF | 06059C0164H | 18-FEB-2004
09 | CA | SANTA ANA, CITY OF | 06059C0252H | 18-FEB-2004
09 | CA | SANTA ANA, CITY OF | 06059C0256H | 18-FEB-2004
09 | CA | SANTA ANA, CITY OF | 06059C0257H | 18-FEB-2004
09 | CA | SANTA ANA, CITY OF | 06059C0258H | 18-FEB-2004
09 | CA | SANTA ANA, CITY OF | 06059C0259H | 18-FEB-2004
09 | CA | SANTA ANA, CITY OF | 06059C0276H | 18-FEB-2004
09 | CA | SANTA ANA, CITY OF | 06059C0277H | 18-FEB-2004
09 | CA | SANTA ANA, CITY OF | 06059C0278H | 18-FEB-2004
09 | CA | SANTA ANA, CITY OF | 06059C0279H | 18-FEB-2004
09 | CA | SANTA ANA, CITY OF | 06059CIND0A** | 18-FEB-2004
09 | CA | SANTA BARBARA COUNTY * | 0603310725E** | 02-JUN-2004
09 | CA | SANTA BARBARA COUNTY * | 0603310730E** | 02-JUN-2004
09 | CA | SANTA BARBARA COUNTY * | 0603310740E** | 02-JUN-2004
09 | CA | SANTA BARBARA COUNTY * | 0603310745E** | 02-JUN-2004
09 | CA | SANTA BARBARA COUNTY * | 0603312308E | 02-JUN-2004
09 | CA | SANTA BARBARA COUNTY * | 0603312309E | 02-JUN-2004
09 | CA | SANTA BARBARA COUNTY * | 0603312316E | 02-JUN-2004
09 | CA | SANTA BARBARA COUNTY * | 0603312317E | 02-JUN-2004
09 | CA | SANTA BARBARA COUNTY * | 0603312328E | 02-JUN-2004
09 | CA | SANTA BARBARA COUNTY * | 0603312329E | 02-JUN-2004
09 | CA | SANTA BARBARA COUNTY * | 0603312333E | 02-JUN-2004
09 | CA | SANTA BARBARA COUNTY * | 0603312336E | 02-JUN-2004
09 | CA | SANTA BARBARA COUNTY * | 0603312337E | 02-JUN-2004
09 | CA | SANTA BARBARA COUNTY * | 0603312341E | 02-JUN-2004
09 | CA | SANTA BARBARA COUNTY * | 0603312342E | 02-JUN-2004
09 | CA | SANTA BARBARA COUNTY * | 060331IND0A** | 02-JUN-2004
09 | CA | SEAL BEACH, CITY OF | 06059C0112H | 18-FEB-2004
09 | CA | SEAL BEACH, CITY OF | 06059C0115H | 18-FEB-2004
09 | CA | SEAL BEACH, CITY OF | 06059C0116H | 18-FEB-2004
09 | CA | SEAL BEACH, CITY OF | 06059C0118H | 18-FEB-2004
09 | CA | SEAL BEACH, CITY OF | 06059C0226H | 18-FEB-2004
09 | CA | SEAL BEACH, CITY OF | 06059C0227H | 18-FEB-2004
09 | CA | SEAL BEACH, CITY OF | 06059CIND0A** | 18-FEB-2004
09 | CA | STANTON, CITY OF | 06059C0109H | 18-FEB-2004
09 | CA | STANTON, CITY OF | 06059C0117H | 18-FEB-2004
09 | CA | STANTON, CITY OF | 06059C0128H | 18-FEB-2004
09 | CA | STANTON, CITY OF | 06059C0136H | 18-FEB-2004
09 | CA | STANTON, CITY OF | 06059C0137H | 18-FEB-2004
09 | CA | STANTON, CITY OF | 06059C0138H | 18-FEB-2004
09 | CA | STANTON, CITY OF | 06059CIND0A** | 18-FEB-2004
09 | CA | TUSTIN, CITY OF | 06059C0164H | 18-FEB-2004
09 | CA | TUSTIN, CITY OF | 06059C0168H | 18-FEB-2004
09 | CA | TUSTIN, CITY OF | 06059C0169H | 18-FEB-2004
09 | CA | TUSTIN, CITY OF | 06059C0277H | 18-FEB-2004
09 | CA | TUSTIN, CITY OF | 06059C0278H | 18-FEB-2004
09 | CA | TUSTIN, CITY OF | 06059C0279H | 18-FEB-2004
09 | CA | TUSTIN, CITY OF | 06059C0281H | 18-FEB-2004
09 | CA | TUSTIN, CITY OF | 06059C0282H | 18-FEB-2004
09 | CA | TUSTIN, CITY OF | 06059C0283H | 18-FEB-2004
09 | CA | TUSTIN, CITY OF | 06059CIND0A** | 18-FEB-2004
09 | CA | VILLA PARK, CITY OF | 06059C0154H | 18-FEB-2004
09 | CA | VILLA PARK, CITY OF | 06059C0158H | 18-FEB-2004
09 | CA | VILLA PARK, CITY OF | 06059C0162H | 18-FEB-2004
09 | CA | VILLA PARK, CITY OF | 06059C0166H | 18-FEB-2004
09 | CA | VILLA PARK, CITY OF | 06059CIND0A** | 18-FEB-2004
09 | CA | WESTMINSTER, CITY OF | 06059C0118H | 18-FEB-2004
09 | CA | WESTMINSTER, CITY OF | 06059C0119H | 18-FEB-2004
09 | CA | WESTMINSTER, CITY OF | 06059C0138H | 18-FEB-2004
09 | CA | WESTMINSTER, CITY OF | 06059C0139H | 18-FEB-2004
09 | CA | WESTMINSTER, CITY OF | 06059C0231H | 18-FEB-2004
09 | CA | WESTMINSTER, CITY OF | 06059C0232H | 18-FEB-2004
09 | CA | WESTMINSTER, CITY OF | 06059C0251H | 18-FEB-2004
09 | CA | WESTMINSTER, CITY OF | 06059C0252H | 18-FEB-2004
09 | CA | WESTMINSTER, CITY OF | 06059CIND0A** | 18-FEB-2004
09 | CA | YORBA LINDA, CITY OF | 06059C0062H | 18-FEB-2004
09 | CA | YORBA LINDA, CITY OF | 06059C0063H | 18-FEB-2004
09 | CA | YORBA LINDA, CITY OF | 06059C0064H | 18-FEB-2004
09 | CA | YORBA LINDA, CITY OF | 06059C0066H | 18-FEB-2004
09 | CA | YORBA LINDA, CITY OF | 06059C0068H | 18-FEB-2004
09 | CA | YORBA LINDA, CITY OF | 06059C0069H | 18-FEB-2004
09 | CA | YORBA LINDA, CITY OF | 06059C0090H | 18-FEB-2004
09 | CA | YORBA LINDA, CITY OF | 06059C0095H | 18-FEB-2004
09 | CA | YORBA LINDA, CITY OF | 06059C0152H | 18-FEB-2004
09 | CA | YORBA LINDA, CITY OF | 06059C0156H | 18-FEB-2004
09 | CA | YORBA LINDA, CITY OF | 06059C0157H | 18-FEB-2004
09 | CA | YORBA LINDA, CITY OF | 06059C0180H | 18-FEB-2004
09 | CA | YORBA LINDA, CITY OF | 06059C0185H | 18-FEB-2004
09 | CA | YORBA LINDA, CITY OF | 06059CIND0A** | 18-FEB-2004
09 | HI | HAWAII COUNTY * | 1551660859D | 02-APR-2004
09 | HI | HAWAII COUNTY * | 1551660860D | 02-APR-2004
09 | HI | HAWAII COUNTY * | 155166IND0A** | 02-APR-2004
10 | OR | TALENT, CITY OF | 4101000001E | 16-APR-2004
10 | OR | TALENT, CITY OF | 4101000002E | 16-APR-2004
10 | OR | TALENT, CITY OF | 4101000003E | 16-APR-2004
10 | OR | TALENT, CITY OF | 4101000004E | 16-APR-2004
10 | OR | TALENT, CITY OF | 410100IND0A** | 16-APR-2004
10 | OR | TILLAMOOK, CITY OF | 4102020001E | 16-APR-2004
10 | OR | TILLAMOOK, CITY OF | 4102020002E | 16-APR-2004
10 | OR | TILLAMOOK, CITY OF | 4102020003E | 16-APR-2004
10 | OR | TILLAMOOK, CITY OF | 4102020004E | 16-APR-2004
10 | OR | TILLAMOOK, CITY OF | 410202IND0A** | 16-APR-2004
10 | WA | BELLINGHAM, CITY OF | 53073C1185D | 16-JAN-2004
10 | WA | BELLINGHAM, CITY OF | 53073C1194D | 16-JAN-2004
10 | WA | BELLINGHAM, CITY OF | 53073C1205D | 16-JAN-2004
10 | WA | BELLINGHAM, CITY OF | 53073C1211D | 16-JAN-2004
10 | WA | BELLINGHAM, CITY OF | 53073C1212D | 16-JAN-2004
10 | WA | BELLINGHAM, CITY OF | 53073C1213D | 16-JAN-2004
10 | WA | BELLINGHAM, CITY OF | 53073C1214D | 16-JAN-2004
10 | WA | BELLINGHAM, CITY OF | 53073C1216D | 16-JAN-2004
10 | WA | BELLINGHAM, CITY OF | 53073C1218D | 16-JAN-2004
10 | WA | BELLINGHAM, CITY OF | 53073C1219D | 16-JAN-2004
10 | WA | BELLINGHAM, CITY OF | 53073C1632D | 16-JAN-2004
10 | WA | BELLINGHAM, CITY OF | 53073C1634D | 16-JAN-2004
10 | WA | BELLINGHAM, CITY OF | 53073C1651D | 16-JAN-2004
10 | WA | BELLINGHAM, CITY OF | 53073C1653D | 16-JAN-2004
10 | WA | BELLINGHAM, CITY OF | 53073C1675D | 16-JAN-2004
10 | WA | BELLINGHAM, CITY OF | 53073CIND0A** | 16-JAN-2004
10 | WA | BLAINE, CITY OF | 53073C0120D | 16-JAN-2004
10 | WA | BLAINE, CITY OF | 53073C0633D | 16-JAN-2004
10 | WA | BLAINE, CITY OF | 53073C0634D | 16-JAN-2004
10 | WA | BLAINE, CITY OF | 53073C0635D | 16-JAN-2004
10 | WA | BLAINE, CITY OF | 53073C0655D | 16-JAN-2004
10 | WA | BLAINE, CITY OF | 53073C0660D | 16-JAN-2004
10 | WA | BLAINE, CITY OF | 53073CIND0A** | 16-JAN-2004
10 | WA | EVERSON, CITY OF | 53073C0736D | 16-JAN-2004
10 | WA | EVERSON, CITY OF | 53073C0737D | 16-JAN-2004
10 | WA | EVERSON, CITY OF | 53073C0738D | 16-JAN-2004
10 | WA | EVERSON, CITY OF | 53073CIND0A** | 16-JAN-2004
10 | WA | FERNDALE, TOWN OF | 53073C0690D | 16-JAN-2004
10 | WA | FERNDALE, TOWN OF | 53073C1160D | 16-JAN-2004
10 | WA | FERNDALE, TOWN OF | 53073C1180D | 16-JAN-2004
10 | WA | FERNDALE, TOWN OF | 53073C1185D | 16-JAN-2004
10 | WA | FERNDALE, TOWN OF | 53073CIND0A** | 16-JAN-2004
10 | WA | LUMMI INDIAN RESERVATION, TRIBE OF | 53073C1155D | 16-JAN-2004
10 | WA | LUMMI INDIAN RESERVATION, TRIBE OF | 53073C1160D | 16-JAN-2004
10 | WA | LUMMI INDIAN RESERVATION, TRIBE OF | 53073C1165D | 16-JAN-2004
10 | WA | LUMMI INDIAN RESERVATION, TRIBE OF | 53073C1170D | 16-JAN-2004
10 | WA | LUMMI INDIAN RESERVATION, TRIBE OF | 53073C1180D | 16-JAN-2004
10 | WA | LUMMI INDIAN RESERVATION, TRIBE OF | 53073C1190D | 16-JAN-2004
10 | WA | LUMMI INDIAN RESERVATION, TRIBE OF | 53073C1610D | 16-JAN-2004
10 | WA | LUMMI INDIAN RESERVATION, TRIBE OF | 53073C1650D | 16-JAN-2004
10 | WA | LUMMI INDIAN RESERVATION, TRIBE OF | 53073CIND0A** | 16-JAN-2004
10 | WA | LYNDEN, CITY OF | 53073C0703D | 16-JAN-2004
10 | WA | LYNDEN, CITY OF | 53073C0704D | 16-JAN-2004
10 | WA | LYNDEN, CITY OF | 53073C0708D | 16-JAN-2004
10 | WA | LYNDEN, CITY OF | 53073C0715D | 16-JAN-2004
10 | WA | LYNDEN, CITY OF | 53073CIND0A** | 16-JAN-2004
10 | WA | NOOKSACK, CITY OF | 53073C0730D | 16-JAN-2004
10 | WA | NOOKSACK, CITY OF | 53073C0737D | 16-JAN-2004
10 | WA | NOOKSACK, CITY OF | 53073CIND0A** | 16-JAN-2004
10 | WA | SUMAS, CITY OF | 53073C0218D | 16-JAN-2004
10 | WA | SUMAS, CITY OF | 53073C0219D | 16-JAN-2004
10 | WA | SUMAS, CITY OF | 53073C0731D | 16-JAN-2004
10 | WA | SUMAS, CITY OF | 53073C0732D | 16-JAN-2004
10 | WA | SUMAS, CITY OF | 53073CIND0A** | 16-JAN-2004
10 | WA | WHATCOM COUNTY * | 53073C0065D | 16-JAN-2004
10 | WA | WHATCOM COUNTY * | 53073C0070D | 16-JAN-2004
10 | WA | WHATCOM COUNTY * | 53073C0120D | 16-JAN-2004
10 | WA | WHATCOM COUNTY * | 53073C0215D | 16-JAN-2004
10 | WA | WHATCOM COUNTY * | 53073C0218D | 16-JAN-2004
10 | WA | WHATCOM COUNTY * | 53073C0219D | 16-JAN-2004
10 | WA | WHATCOM COUNTY * | 53073C0245D | 16-JAN-2004
10 | WA | WHATCOM COUNTY * | 53073C0580D | 16-JAN-2004
10 | WA | WHATCOM COUNTY * | 53073C0585D | 16-JAN-2004
10 | WA | WHATCOM COUNTY * | 53073C0630D | 16-JAN-2004
10 | WA | WHATCOM COUNTY * | 53073C0633D | 16-JAN-2004
10 | WA | WHATCOM COUNTY * | 53073C0634D | 16-JAN-2004
10 | WA | WHATCOM COUNTY * | 53073C0635D | 16-JAN-2004
10 | WA | WHATCOM COUNTY * | 53073C0641D | 16-JAN-2004
10 | WA | WHATCOM COUNTY * | 53073C0642D | 16-JAN-2004
10 | WA | WHATCOM COUNTY * | 53073C0643D | 16-JAN-2004
10 | WA | WHATCOM COUNTY * | 53073C0644D | 16-JAN-2004
10 | WA | WHATCOM COUNTY * | 53073C0655D | 16-JAN-2004
10 | WA | WHATCOM COUNTY * | 53073C0660D | 16-JAN-2004
10 | WA | WHATCOM COUNTY * | 53073C0661D | 16-JAN-2004
10 | WA | WHATCOM COUNTY * | 53073C0675D | 16-JAN-2004
10 | WA | WHATCOM COUNTY * | 53073C0690D | 16-JAN-2004
10 | WA | WHATCOM COUNTY * | 53073C0695D | 16-JAN-2004
10 | WA | WHATCOM COUNTY * | 53073C0703D | 16-JAN-2004
10 | WA | WHATCOM COUNTY * | 53073C0704D | 16-JAN-2004
10 | WA | WHATCOM COUNTY * | 53073C0708D | 16-JAN-2004
10 | WA | WHATCOM COUNTY * | 53073C0710D | 16-JAN-2004
10 | WA | WHATCOM COUNTY * | 53073C0715D | 16-JAN-2004
10 | WA | WHATCOM COUNTY * | 53073C0720D | 16-JAN-2004
10 | WA | WHATCOM COUNTY * | 53073C0730D | 16-JAN-2004
10 | WA | WHATCOM COUNTY * | 53073C0731D | 16-JAN-2004
10 | WA | WHATCOM COUNTY * | 53073C0732D | 16-JAN-2004
10 | WA | WHATCOM COUNTY * | 53073C0735D | 16-JAN-2004
10 | WA | WHATCOM COUNTY * | 53073C0736D | 16-JAN-2004
10 | WA | WHATCOM COUNTY * | 53073C0737D | 16-JAN-2004
10 | WA | WHATCOM COUNTY * | 53073C0738D | 16-JAN-2004
10 | WA | WHATCOM COUNTY * | 53073C0739D | 16-JAN-2004
10 | WA | WHATCOM COUNTY * | 53073C0745D | 16-JAN-2004
10 | WA | WHATCOM COUNTY * | 53073C0755D | 16-JAN-2004
10 | WA | WHATCOM COUNTY * | 53073C0760D | 16-JAN-2004
10 | WA | WHATCOM COUNTY * | 53073C0770D | 16-JAN-2004
10 | WA | WHATCOM COUNTY * | 53073C0780D | 16-JAN-2004
10 | WA | WHATCOM COUNTY * | 53073C0790D | 16-JAN-2004
10 | WA | WHATCOM COUNTY * | 53073C0795D | 16-JAN-2004
10 | WA | WHATCOM COUNTY * | 53073C0825D | 16-JAN-2004
10 | WA | WHATCOM COUNTY * | 53073C1135D | 16-JAN-2004
10 | WA | WHATCOM COUNTY * | 53073C1155D | 16-JAN-2004
10 | WA | WHATCOM COUNTY * | 53073C1160D | 16-JAN-2004
10 | WA | WHATCOM COUNTY * | 53073C1165D | 16-JAN-2004
10 | WA | WHATCOM COUNTY * | 53073C1170D | 16-JAN-2004
10 | WA | WHATCOM COUNTY * | 53073C1180D | 16-JAN-2004
10 | WA | WHATCOM COUNTY * | 53073C1185D | 16-JAN-2004
10 | WA | WHATCOM COUNTY * | 53073C1190D | 16-JAN-2004
10 | WA | WHATCOM COUNTY * | 53073C1193D | 16-JAN-2004
10 | WA | WHATCOM COUNTY * | 53073C1194D | 16-JAN-2004
10 | WA | WHATCOM COUNTY * | 53073C1205D | 16-JAN-2004
10 | WA | WHATCOM COUNTY * | 53073C1211D | 16-JAN-2004
10 | WA | WHATCOM COUNTY * | 53073C1212D | 16-JAN-2004
10 | WA | WHATCOM COUNTY * | 53073C1213D | 16-JAN-2004
10 | WA | WHATCOM COUNTY * | 53073C1214D | 16-JAN-2004
10 | WA | WHATCOM COUNTY * | 53073C1216D | 16-JAN-2004
10 | WA | WHATCOM COUNTY * | 53073C1217D | 16-JAN-2004
10 | WA | WHATCOM COUNTY * | 53073C1218D | 16-JAN-2004
10 | WA | WHATCOM COUNTY * | 53073C1219D | 16-JAN-2004
10 | WA | WHATCOM COUNTY * | 53073C1230D | 16-JAN-2004
10 | WA | WHATCOM COUNTY * | 53073C1235D | 16-JAN-2004
10 | WA | WHATCOM COUNTY * | 53073C1240D | 16-JAN-2004
10 | WA | WHATCOM COUNTY * | 53073C1255D | 16-JAN-2004
10 | WA | WHATCOM COUNTY * | 53073C1260D | 16-JAN-2004
10 | WA | WHATCOM COUNTY * | 53073C1265D | 16-JAN-2004
10 | WA | WHATCOM COUNTY * | 53073C1270D | 16-JAN-2004
10 | WA | WHATCOM COUNTY * | 53073C1300D | 16-JAN-2004
10 | WA | WHATCOM COUNTY * | 53073C1605D | 16-JAN-2004
10 | WA | WHATCOM COUNTY * | 53073C1610D | 16-JAN-2004
10 | WA | WHATCOM COUNTY * | 53073C1625D | 16-JAN-2004
10 | WA | WHATCOM COUNTY * | 53073C1632D | 16-JAN-2004
10 | WA | WHATCOM COUNTY * | 53073C1634D | 16-JAN-2004
10 | WA | WHATCOM COUNTY * | 53073C1640D | 16-JAN-2004
10 | WA | WHATCOM COUNTY * | 53073C1645D | 16-JAN-2004
10 | WA | WHATCOM COUNTY * | 53073C1650D | 16-JAN-2004
10 | WA | WHATCOM COUNTY * | 53073C1651D | 16-JAN-2004
10 | WA | WHATCOM COUNTY * | 53073C1653D | 16-JAN-2004
10 | WA | WHATCOM COUNTY * | 53073C1675D | 16-JAN-2004
10 | WA | WHATCOM COUNTY * | 53073C1700D | 16-JAN-2004
10 | WA | WHATCOM COUNTY * | 53073C1705D | 16-JAN-2004
10 | WA | WHATCOM COUNTY * | 53073C1710D | 16-JAN-2004
10 | WA | WHATCOM COUNTY * | 53073C1715D | 16-JAN-2004
10 | WA | WHATCOM COUNTY * | 53073C1720D | 16-JAN-2004
10 | WA | WHATCOM COUNTY * | 53073C1750D | 16-JAN-2004
10 | WA | WHATCOM COUNTY * | 53073CIND0A** | 16-JAN-2004

[FR Doc. 04-21155 Filed 9-23-04; 8:45 am]

BILLING CODE 9110-12-S